DEPARTMENT OF THE TREASURY

Office of Foreign Assets Control

31 CFR Chapter V

Alphabetical Listing of Blocked Persons, Blocked Vessels, Specially Designated Nationals, Specially Designated Terrorists, Specially Designated Global Terrorists, Foreign Terrorist Organizations, and Specially Designated Narcotics Traffickers

AGENCY: Office of Foreign Assets Control, Treasury.

ACTION: Final rule.

SUMMARY: The Office of Foreign Assets Control (“OFAC”) of the Department of the Treasury is amending Appendix A to 31 CFR chapter V to: Reflect the addition to, or removal from, Appendix A, since it was last published, of the names of individuals and entities subject to the various economic sanctions programs administered by OFAC; provide updated identifying and clarifying information for certain individuals and entities included on the appendix; reflect the addition of Iran as an entity's associated sanctions program in certain circumstances and the removal of certain entities listed in Appendix A to 31 CFR part 560; and reflect the removal of North Korea as a sanctions program under which entities may be blocked. OFAC also is amending the “Appendixes to Chapter V-Note,” which contains notes applicable to both Appendix A and Appendix B to 31 CFR chapter V, to reflect changes in the status of several programs and to clarify the obligations of financial institutions with respect to blocked vessels.

DATES: Effective Date: June 23, 2009.

FOR FURTHER INFORMATION CONTACT: Assistant Director, Compliance Programs, tel.: 202/622-2490, Office of Foreign Assets Control, or Chief Counsel (Foreign Assets Control), tel.: 202/622-2410, Office of the General Counsel, Department of the Treasury, Washington, DC 20220 (not toll free numbers).

SUPPLEMENTARY INFORMATION:

Electronic and Facsimile Availability

This document and additional information concerning OFAC are available from OFAC's Web site (http://www.treas.gov/ofac) or via facsimile through a 24-hour fax-on demand service, tel.: (202) 622-0077.

Background

Appendix A to 31 CFR chapter V is a list that contains the names of blocked persons, blocked vessels, specially designated nationals, specially designated terrorists, specially designated global terrorists, foreign terrorist organizations, and specially designated narcotics traffickers blocked pursuant to the various economic sanctions programs administered by the Office of Foreign Assets Control (“OFAC”). OFAC is hereby amending and republishing Appendix A in its entirety to include or delete, as appropriate, the names of individuals and entities added to, or removed from, the list since it was last published, as well as to provide updated identifying and clarifying information for certain individuals and entities included on the list. OFAC also is amending the “Appendixes to Chapter V-Note,” which contains notes applicable to both Appendix A and Appendix B to 31 CFR chapter V, to reflect changes in the status of several programs and to clarify the obligations of financial institutions with respect to blocked vessels.

In addition, OFAC is amending Appendix A by adding Iran as an associated sanctions program to entities determined by OFAC to be entities owned or controlled by the Government of Iran for purposes of the Iranian Transactions Regulations, 31 CFR part 560 (the “ITR”), that are also blocked or designated under other sanctions programs. OFAC is also amending Appendix A by removing entities determined to be owned or controlled by the Government of Iran that are not blocked or designated under another sanctions program. All such entities determined to be owned or controlled by the Government of Iran will continue to be listed in Appendix A to the ITR.

Finally, OFAC is amending Appendix A to reflect recent changes to the North Korea sanctions program by removing several specially designated nationals of North Korea. On June 26, 2008, the President signed Proclamation 8271, which terminated the exercise of authorities under the Trading with the Enemy Act with respect to North Korea. The President concurrently issued Executive Order 13466 of June 26, 2008 (73 FR 36787, June 27, 2008), which continued to block all property and interests in property of North Korea or a North Korea national that were blocked as of June 16, 2000, and remained blocked immediately prior to June 26, 2008, pursuant to the President's authority under the International Emergency Economic Powers Act (50 U.S.C. 1701-1706). Thus, while OFAC is removing the names of entities from Appendix A previously listed under the North Korea program to reflect the termination of the underlying authority for such listings, property and interests in property of those North Korean nationals that was blocked immediately prior to June 26, 2008, nevertheless remains blocked pursuant to Executive Order 13466.

Frequently updated information on OFAC designations is provided for examination on or downloading from OFAC's Web site (http://www.treas.gov/ofac). Among other data, the Web site posts changes in designations and identifying information, including alternative spellings and additional aliases, and provides lists sorted by sanctions program. Updated information on OFAC designations should be consulted before engaging in transactions that may be subject to the economic sanctions programs administered by OFAC. Please note that some OFAC sanctions programs prohibit transactions involving individuals or entities not identified on this appendix.

This amendment reflects the complete list of persons identified on OFAC's Specially Designated Nationals and Blocked Persons list as of May 20, 2009, though alternative spellings and aliases are presented in a different format on the OFAC Web site. Changes after that date are not reflected in this document.

Public Participation

Because the amendment of Appendix A to 31 CFR chapter V involves a foreign affairs function, Executive Order 12866 and the provisions of the Administrative Procedure Act (5 U.S.C. 553), requiring notice of proposed rulemaking, opportunity for public participation, and delay in effective date, are inapplicable. Because no notice of proposed rulemaking is required for this rule, the Regulatory Flexibility Act (5 U.S.C. 601-612) does not apply.

For the reasons set forth in the preamble, and under the authority of 3 U.S.C. 301; 50 U.S.C. App. 1-44; 21 U.S.C. 1901-1908; 8 U.S.C. 1182; 18 U.S.C. 2339B; 22 U.S.C. 287c; 31 U.S.C. 321(b); 50 U.S.C. 1601-1651; 50 U.S.C. 1701-1706; Pub. L. 110-286, 122 Stat. 2632; E.O. 12947, 60 FR 5079, 3 CFR, 1995 Comp., p. 319; E.O. 12957, 60 FR 14615, 3 CFR, 1995 Comp., p. 332; E.O. 12959, 60 FR 24757, 3 CFR, 1995 Comp., p. 356; E.O. 12978, 60 FR 54579, 3 CFR, 1995 Comp., p. 415; E.O. 13059, 62 FR 44531, 3 CFR, 1997 Comp., p. 217; E.O. 13067, 62 FR 59989, 3 CFR, 1997 Comp., p. 230; E.O. 13099, 63 FR 45167, 3 CFR, 1998 Comp., p. 208; E.O. 13219, 66 FR 34777, 3 CFR, 2001 Comp., p. 778; E.O. 13224, 66 FR 49079, 3 CFR, 2001 Comp., p. 786; E.O. 13268, 67 FR 44751, 3 CFR, 2002 Comp., p. 240; E.O. 13288, 68 FR 11457, 3 CFR, 2003 Comp., p. 186; E.O. 13304, 68 FR 32315, 3 CFR, 2003 Comp., p. 229; E.O. 13310, 68 FR 44853, 3 CFR, 2003 Comp., p. 241; E.O. 13315, 68 FR 52315, 3 CFR, 2003 Comp., p. 252; E.O. 13338, 69 FR 26751, 3 CFR, 2004 Comp., p. 168; E.O. 13348, 69 FR 44885, 3 CFR, 2004 Comp., p. 189; E.O. 13350, 69 FR 46055, 3 CFR, 2004 Comp., p. 196; E.O. 13382, 70 FR 38567, 3 CFR, 2005 Comp., p. 170; E.O. 13391, 70 FR 71201, 3 CFR, 2005 Comp., p. 206; E.O. 13396, 71 FR 7389, 3 CFR, 2006 Comp., p. 209; E.O. 13399, 71 FR 25059, 3 CFR, 2006 Comp., p. 218; E.O. 13400, 71 FR 25483, 3 CFR, 2006 Comp., p. 220; E.O. 13405, 71 FR 35485, 3 CFR, 2006 Comp., p. 231; E.O. 13412, 71 FR 61369, 3 CFR, 2006 Comp., p. 244; E.O. 13413, 71 FR 64105, 3 CFR, 2006 Comp., p. 247; E.O. 13438, 72 FR 39719, 3 CFR, 2007 Comp., p. 224; E.O. 13441, 72 FR 43499, 3 CFR, 2007 Comp., p. 232; E.O. 13448, 72 FR 60223, 3 CFR, 2007 Comp., p. 304; E.O. 13460, 73 FR 8991; E.O. 13464, 73 FR 24491; E.O. 13466, 73 FR 36787; and E.O. 13469, 73 FR 43841; the “Appendixes to Chapter V—Note” and Appendix A to Chapter V of 31 CFR are amended as set forth below:

1. The “Appendixes to Chapter V—Note” is amended by:

a. Redesignating notes 6 and 7 as notes 7 and 8, respectively;

b. Adding a new note 6; and

c. Revising newly redesignated note 7.

The addition and revision read as follows:

Appendixes to Chapter V—NOTE

* * * * *

6. Except in limited circumstances, financial institutions are instructed to reject any funds transfer referencing a blocked vessel and must notify OFAC, preferably via facsimile with a copy of the payment instructions, that funds have been returned to remitter due to the possible involvement of a blocked vessel in the underlying transaction. See § 501.604(b)(1) of this chapter. Financial institutions should contact OFAC's Compliance Programs Division for further instructions should the name of a blocked vessel appear in shipping documents presented under a letter of credit or if noticed in a documentary collection. Blocked vessels must themselves be physically blocked should they enter U.S. jurisdiction. Freight forwarders and shippers may not charter, book cargo on, or otherwise deal with blocked vessels.

7. References to regulatory parts in chapter V or other authorities:

[BALKANS]: Western Balkans Stabilization Regulations, part 588; Executive Order 13304, 68 FR 32315;

[BELARUS]: Executive Order 13405, 71 FR 35485;

[BURMA]: Burmese Sanctions Regulations, part 537; Executive Order 13448, 72 FR 60223; Executive Order 13464, 73 FR 24491;

[COTED]: Persons Contributing to the Conflict in Cote d'Ivoire Sanctions Regulations, part 543;

[CUBA]: Cuban Assets Control Regulations, part 515;

[DARFUR]: Executive Order 13400, 71 FR 25483;

[DRC]: Executive Order 13413, 71 FR 64105;

[FTO]: Foreign Terrorist Organizations Sanctions Regulations, part 597;

[IRAN]: Iranian Transactions Regulations, part 560;

[IRAQ2]: Executive Order 13315, 68 FR 52315; Executive Order 13350, 69 FR 46055;

[IRAQ3]: Executive Order 13438, 72 FR 39719;

[JADE]: Pub. L. 110-286, 122 Stat. 2632;

[LEBANON]: Executive Order 13441, 72 FR 43499;

[LIBERIA]: Former Liberian Regime of Charles Taylor Sanctions Regulations, part 593;

[NPWMD]: Weapons of Mass Destruction Proliferators Sanctions Regulations, part 544;

[SDGT]: Global Terrorism Sanctions Regulations, part 594;

[SDNT]: Narcotics Trafficking Sanctions Regulations, part 536;

[SDNTK]: Foreign Narcotics Kingpin Sanctions Regulations, part 598;

[SDT]: Terrorism Sanctions Regulations, part 595;

[SUDAN]: Sudanese Sanctions Regulations, part 538;

[SYRIA]: Syrian Sanctions Regulations, part 542; Executive Order 13399, 71 FR 25059; Executive Order 13460, 73 FR 8991; and

[ZIMB]: Zimbabwe Sanctions Regulations, part 541; Executive Order 13391, 70 FR 71201; Executive Order 13469, 73 FR 43841.

* * * * *

Appendix A—[Amended]

2. Appendix A to Chapter V of 31 CFR is revised to read as follows:

APPENDIX A TO CHAPTER V—ALPHABETICAL LISTING OF BLOCKED PERSONS, BLOCKED VESSELS, SPECIALLY DESIGNATED NATIONALS, SPECIALLY DESIGNATED TERRORISTS, SPECIALLY DESIGNATED GLOBAL TERRORISTS, FOREIGN TERRORIST ORGANIZATIONS, AND SPECIALLY DESIGNATED NARCOTICS TRAFFICKERS (as of May 20, 2009):

7TH OF TIR (a.k.a. 7TH OF TIR COMPLEX; a.k.a. 7TH OF TIR INDUSTRIAL COMPLEX; a.k.a. 7TH OF TIR INDUSTRIES; a.k.a. 7TH OF TIR INDUSTRIES OF ISFAHAN/ESFAHAN; a.k.a. MOJTAMAE SANATE HAFTOME TIR; a.k.a. SANAYE HAFTOME TIR; a.k.a. SEVENTH OF TIR), P.O. Box 81465-478, Isfahan, Iran; Mobarakeh Road Km 45, Isfahan, Iran [NPWMD]

2000 DOSE E.U. (a.k.a. DOMA E M), Calle 31 No. 1-34, Cali, Colombia; NIT # 805015749-3 (Colombia) [SDNT]

2000-DODGE S.L., Calle Gran Via 80, Madrid, Madrid, Spain; C.I.F. B83149955 (Spain) [SDNT]

2904977 CANADA, INC. (a.k.a. CARIBE SOL; a.k.a. HAVANTUR CANADA INC.), 818 rue Sherbrooke East, Montreal, Quebec H2L 1K3, Canada [CUBA]

A A TRADING FZCO, P.O. Box 37089, Dubai, United Arab Emirates [SDNTK]

A G REPRESENTACIONES LTDA., Calle 20N No. 5N-26 Of. 102, Cali, Colombia; Calle 22 Norte No. 9-43, Cali, Colombia; NIT # 800132578-3 (Colombia) [SDNT]

A K DIFUSION S.A. PUBLICIDAD Y MERCADEO, Calle 28N No. 6BN-54, Cali, Colombia; NIT # 900015699-8 (Colombia) [SDNT]

A K EDUCAL S.A. EDUCACION CON CALIDAD, Calle 28N No. 6BN-54, Cali, Colombia; NIT # 900015704-7 (Colombia) [SDNT]

A.T.E. INTERNATIONAL LTD. (a.k.a. RWR INTERNATIONAL COMMODITIES), 3 Mandeville Place, London, United Kingdom [IRAQ2]

A.W.A. ENGINEERING LIMITED, 3 Mandeville Place, London, United Kingdom [IRAQ2]

ABADIA BASTIDAS, Carmen Alicia (a.k.a. ABADIA DE RAMIREZ, Carmen Alicia), Calle 9 No. 39-65, Cali, Colombia; c/o DISDROGAS LTDA., Yumbo, Valle, Colombia; c/o RAMIREZ ABADIA Y CIA. S.C.S., Cali, Colombia; DOB 15 Jul 1934; POB Palmira, Valle, Colombia; Cedula No. 29021074 (Colombia) (individual) [SDNT]

ABASTECEDORA NAVAL Y INDUSTRIAL, S.A. (a.k.a. ANAINSA), Panama [CUBA]

ABAUNZA MARTINEZ, Javier; DOB 1 Jan 1965; POB Guernica, Vizcaya Province, Spain; D.N.I. 78.865.882 (Spain); Member ETA (individual) [SDGT]

ABBAKAR MUHAMAD, Abdul Aziz; DOB 1961; POB Sudan; Passport 562605 (Sudan) issued 28 Oct 1998; IARA Peshwar, Pakistan Director (individual) [SDGT]

ABBAS, Abdul Hussein, Italy (individual) [IRAQ2]

ABBAS, Abu (a.k.a. ZAYDAN, Muhammad); DOB 10 Dec 1948; Director of PALESTINE LIBERATION FRONT—ABU ABBAS FACTION (individual) [SDT]

ABBAS, Kassim, Lerchesbergring 23A, D-60598, Frankfurt, Germany; DOB 7 Aug 1956; POB Baghdad, Iraq (individual) [IRAQ2]

ABBES, Moustafa, Via Padova, 82, Milan, Italy; DOB 5 Feb 1962; POB Osniers, Algeria (individual) [SDGT]

ABBES, Youcef (a.k.a. “GIUSEPPE”), Via Padova 82, Milan, Italy; Via Manzoni, 33, Cinisello Balsamo, Milan, Italy; DOB 5 Jan 1965; POB Bab El Aoued, Algeria (individual) [SDGT]

ABD AL HAFIZ, Abd Al Wahab (a.k.a. FERDJANI, Mouloud; a.k.a. “MOURAD”; a.k.a. “RABAH DI ROMA”), Via Lungotevere Dante, Rome, Italy; DOB 7 Sep 1967; POB Algiers, Algeria (individual) [SDGT]

ABD AL-GHAFAR, Sundus, Iraq; DOB circa 1967; POB Kirkuk, Iraq; nationality Iraq; wife of Izzat Ibrahim Al-Duri (individual) [IRAQ2]

ABD AL-KHALIQ, Adil Muhammad Mahmud (a.k.a. ABDUL KHALED, Adel Mohamed Mahmood; a.k.a. ABDUL KHALIQ, Adel Mohamed Mahmoud); DOB 2 Mar 1984; POB Bahrain; Passport 1632207 (Bahrain) (individual) [SDGT]

ABD AL-RAHMAN, Abdullah Muhammad Rajab (a.k.a. ABU AL-KHAYR, Ahmad Hasan); DOB 3 Nov 1957; POB Kafr al-Shaykh; nationality Egypt (individual) [SDGT]

'ABD AL-RAZZIQ, Abu Sufian al-Salamabi Muhammed Ahmed (a.k.a. ABD AL RAZEQ, Abu Sufian; a.k.a. ABDELRAZEK, Abousofian; a.k.a. ABDELRAZIK, Abousfian Salman; a.k.a. ABDELRAZIK, Abousofian; a.k.a. ABDELRAZIK, Abousofiane; a.k.a. ABDELRAZIK, Sofian; a.k.a. “ABOU EL LAYTH”; a.k.a. “ABOULAIL”; a.k.a. “ABU JUIRIAH”; a.k.a. “ABU SUFIAN”; a.k.a. “ABULAIL”; a.k.a. “DJOLAIBA THE SUDANESE”; a.k.a. “JOLAIBA”; a.k.a. “OULD EL SAYEIGH”); DOB 6 Aug 1962; POB Al-Bawgah, Sudan;; alt. POB Albaouga, Sudan; nationality Canada; alt. nationality Sudan; Passport BC166787 (Canada) (individual) [SDGT]

ABD-AL-GHAFUR, Humam abd-al-Khaliq (a.k.a. ABD AL-GHAFUR, Humam Abd al-Khaliq; a.k.a. 'ABD AL-RAHMAN, Humam 'abd al-Khaliq; a.k.a. GHAFUR, Humam Abdel Khaleq Abdel; a.k.a. RASHID, Humam 'abd al-Khaliq); DOB 1945; POB ar-Ramadi, Iraq; nationality Iraq; Former Minister of Higher Education and Research; M0018061/104,issued 12 September 1993 (individual) [IRAQ2]

ABDALLAH, Mushammad Yusif, Avenue Presidente Juscelino Kubistcheck 133, Apartment 102, Center, Foz do Iguacu, Brazil; Avenue Presidente Juscelino Kubistcheck 338, Apartment 1802, Center, Foz do Iguacu, Brazil; DOB 15 Jun 1952; POB Khalia, Lebanon; citizen Lebanon; alt. citizen Paraguay; Cedula No. 1110775 (Paraguay); Passport 670317 (Lebanon); alt. Passport 137532 (Paraguay) (individual) [SDGT]

ABDALLAH, Ramadan (a.k.a. ABDULLAH, Dr. Ramadan; a.k.a. SHALLAH, Dr. Ramadan Abdullah; a.k.a. SHALLAH, Ramadan Abdalla Mohamed), Damascus, Syria; DOB 01 Jan 1958; POB Gaza City, Gaza Strip; Passport 265 216 (Egypt); SSN 589-17-6824 (United States); Secretary General of the PALESTINIAN ISLAMIC JIHAD (individual) [SDT]

ABDAOUI, Youssef (a.k.a. ABDAOUI, Youssef Ben Abdul Baki Ben Youcef; a.k.a. “ABDELLAH”; a.k.a. “ABDULLAH”; a.k.a. “ABU ABDULLAH”), Piazza Giovane Italia n.2, Varese, Italy; DOB 4 Jun 1966; POB Kairouan, Tunisia; nationality Tunisia; Passport G025057 issued 23 Jun 1999 expires 5 Feb 2004 (individual) [SDGT]

ABDELHEDI, Mohamed Ben Mohamed (a.k.a. ABDELHEDI, Mohamed Ben Mohamed Ben Khalifa), via Catalani, n. 1, Varese, Italy; DOB 10 Aug 1965; POB Sfax, Tunisia; nationality Tunisia; Italian Fiscal Code BDLMMD65M10Z352S; Passport L965734 issued 6 Feb 1999 expires 5 Feb 2004 (individual) [SDGT]

ABDELNUR, Nury de Jesus, Panama (individual) [CUBA]

ABD'RABBAH, Ghuma (a.k.a. ABDRABBA, Ghoma; a.k.a. ABDRABBA, Ghunia; a.k.a. ABDURABBA, Ghunia; a.k.a. “ABD'RABBAH”; a.k.a. “ABU JAMIL”), Birmingham, United Kingdom; DOB 2 Sep 1957; POB Benghazi, Libya; nationality United Kingdom (individual) [SDGT]

ABDULLAH, Abdullah Ahmed (a.k.a. ABU MARIAM; a.k.a. AL-MASRI, Abu Mohamed; a.k.a. SALEH), Afghanistan; DOB 1963; POB Egypt; citizen Egypt (individual) [SDGT]

ABDULLKADIR, Hussein Mahamud, Florence, Italy (individual) [SDGT]

ABDULRAHIM, Abdulbasit (a.k.a. ABDELRAHIM, Abdelbasit; a.k.a. ABDUL RAHIM, Abdul Basit Fadil; a.k.a. ABOU BASSIR; a.k.a. ABU BASIR; a.k.a. ADBULRAHIM MAHOUD, Abdulbasit Fadil; a.k.a. AL ZAWY, Abdel Bassit Fadil; a.k.a. AL-ZAWI, 'Abd Al-Basit Fadhil; a.k.a. AL-ZWAY, 'Abd Al-Basit Fadil; a.k.a. MANSOUR, Abdallah; a.k.a. MANSOUR, Abdullah; a.k.a. MANSUR, 'Abdallah), undetermined; DOB 2 Jul 1968; POB GDABIA, LIBYA; alt. POB Ajdabiyah, Libya; nationality United Kingdom (individual) [SDGT]

ABDURRAHMAN, Mohamad Iqbal (a.k.a. A RAHMAN, Mohamad Iqbal; a.k.a. ABDURRAHMAN, Abu Jibril; a.k.a. ABU JIBRIL; a.k.a. MUQTI, Fihiruddin; a.k.a. MUQTI, Fikiruddin; a.k.a. RAHMAN, Mohamad Iqbal); DOB 17 Aug 1958; POB Tirpas-Selong Village, East Lombok, Indonesia; nationality Indonesia (individual) [SDGT]

ABIDJAN FREIGHT, Abidjan, Cote d Ivoire [LIBERIA]

ABO GHAITH, Sulaiman Jassem; DOB 14 Dec 1965; POB Kuwait (individual) [SDGT]

ABRIL CORTEZ, Oliverio (a.k.a. ABRIL CORTES, Oliverio; f.k.a. CORTEZ, Oliverio Abril), c/o AGROPECUARIA BETANIA LTDA., Cali, Colombia; c/o INVERSIONES EL GRAN CRISOL LTDA., Cali, Colombia; c/o VALLADARES LTDA., Cali, Colombia; c/o INVERSIONES GEMINIS S.A., Cali, Colombia; c/o INVERSIONES EL PENON S.A., Cali, Colombia; c/o W. HERRERA Y CIA. S. EN C., Cali, Colombia; Calle 18A No. 8A-20, Jamundi, Colombia; c/o CONSTRUCTORA DIMISA LTDA., Cali, Colombia; DOB 20 Aug 1956; Cedula No. 3002003 (Colombia); Passport AF368431 (Colombia) (individual) [SDNT]

ABRIL RAMIREZ, Wilson Arcadio, c/o COOPERATIVA MULTIACTIVA DE COLOMBIA FOMENTAMOS, Bogota, Colombia; c/o COOPERATIVA DE TRABAJO ASOCIADO ACTIVAR, Bogota, Colombia; c/o COOPCREAR, Bogota, Colombia; DOB 25 Jul 1972; Cedula No. 79643115 (Colombia); Passport 79643115 (Colombia) (individual) [SDNT]

ABS HEALTH CLUB S.A., Carrera 10 No. 93A-27, Bogota, Colombia; NIT # 830121474-8 (Colombia) [SDNT]

ABU DHESS, Mohamed (a.k.a. HASSAN, Yaser; a.k.a. “ABU ALI”),; Holdenweg 76, Essen 45143, Germany; DOB 1 Feb 1966; POB Hashmija, Iraq; nationality possibly Palestinian;arrested 23 Apr 2002 (individual) [SDGT]

ABU HAFS THE MAURITANIAN (a.k.a. AL-SHANQITI, Khalid; a.k.a. AL-WALID, Mafouz Walad; a.k.a. AL-WALID, Mahfouz Ould); DOB 1 Jan 1975 (individual) [SDGT]

ABU MARZOOK, Mousa Mohammed (a.k.a. ABU-MARZUQ, Dr. Musa; a.k.a. ABU-MARZUQ, Sa'id; a.k.a. ABU-'UMAR; a.k.a. MARZOOK, Mousa Mohamed Abou; a.k.a. MARZOUK, Musa Abu; a.k.a. MARZUK, Musa Abu); DOB 09 Feb 1951; POB Gaza, Egypt; Passport 92/664 (Egypt); SSN 523-33-8386 (United States); Political Leader in Amman, Jordan and Damascus, Syria for HAMAS (individual) [SDT] [SDGT]

ABU NIDAL ORGANIZATION (a.k.a. ANO; a.k.a. ARAB REVOLUTIONARY BRIGADES; a.k.a. ARAB REVOLUTIONARY COUNCIL; a.k.a. BLACK SEPTEMBER; a.k.a. FATAH REVOLUTIONARY COUNCIL; a.k.a. REVOLUTIONARY ORGANIZATION OF SOCIALIST MUSLIMS) [SDT] [FTO] [SDGT]

ABU SAYYAF GROUP (a.k.a. AL HARAKAT AL ISLAMIYYA) [FTO] [SDGT]

ABU ZUBAYDAH (a.k.a. ABU ZUBAIDA; a.k.a. ABU ZUBEIDAH, Zeinulabideen Muhammed Husein; a.k.a. AL-WAHAB, Abd Al-Hadi; a.k.a. HUSAIN, Zain Al-Abidin Muhammad; a.k.a. HUSAYN, Zayn al-Abidin Muhammad; a.k.a. HUSSEIN, Zayn al-Abidin Muhammad; a.k.a. TARIQ); DOB 12 Mar 1971; POB Riyadh, Saudi Arabia; nationality Palestinian; Passport 484824 (Egypt) issued 18 Jan 1984 (individual) [SDGT]

ACCESOS ELECTRONICOS S.A.DE C.V., Avenida Cuauhtemoc 1209, CP 22290, Colonia Zona Rio, Tijuana, Baja California, Mexico; Blvd. Cuauhtemoc 1711, Oficina 305, Colonia Zona Rio, Tijuana, Baja California, Mexico; David Alfaro 25, CP 22320, Tijuana, Baja California, Mexico [SDNTK]

ACCIRENT S.A., Transversal 9C No. 130C-26 Ofc. 401, Bogota, Colombia; NIT # 830088969-0 (Colombia) [SDNT]

ACCOUNTS & ELECTRONICS EQUIPMENTS, C/O ENGINEERING EQUIPMENT CORPORATION, P.O. Box 97, Khartoum, Sudan [SUDAN]

ACE INDIC NAVIGATION CO. LTD., c/o ANGLO-CARIBBEAN SHIPPING CO. LTD., 4th Floor, South Phase 2, South Quay Plaza II, 183, March Wall, London, United Kingdom [CUBA]

ACECHILLY (vessel) [CUBA]

ACECHILLY NAVIGATION CO. LTD., c/o ANGLO-CARIBBEAN SHIPPING CO. LTD., 4th Floor, South Phase 2, South Quay Plaza II, 183, March Wall, London, United Kingdom [CUBA]

ACEFROSTY (vessel) [CUBA]

ACEFROSTY SHIPPING CO., LTD., 171 Old Bakery Street, Valletta, Malta [CUBA]

ACERO PIEDRAHITA, Cesar Augusto, c/o AGROPECUARIA LA ROBLEDA S.A., Cali, Colombia; Avenida 7N No. 17A-48, Cali, Colombia; DOB 20 May 1965; Cedula No. 70564947 (Colombia) (individual) [SDNT]

ACEVEDO PAMPLONA, Francisco Luis, Carrera 1 No. 18-52, Cali, Colombia; c/o INVERSIONES INVERVALLE S.A., Cali, Colombia; DOB 29 Apr 1965; Cedula No. 71660070 (Colombia) (individual) [SDNT]

ACEVEDO SAENZ, Delcy Patricia, c/o CAJA SOLIDARIA, Bogota, Colombia; c/o COPSERVIR LTDA., Bogota, Colombia; c/o SEGECOL LTDA., Bucaramanga, Colombia; Cedula No. 63355575 (Colombia) (individual) [SDNT]

ACHURY VARILLA, Hernan Augusto (a.k.a. ACHURY VARILA, Hernan Augusto), c/o COOPCREAR, Bogota, Colombia; c/o COOPERATIVA MULTIACTIVA DE COLOMBIA FOMENTAMOS, Bogota, Colombia; c/o COOPERATIVA DE TRABAJO ASOCIADO ACTIVAR, Bogota, Colombia; c/o ARCA DISTRIBUCIONES LTDA., Bogota, Colombia; DOB 14 Feb 1980; Cedula No. 80226706 (Colombia); Passport 80226706 (Colombia) (individual) [SDNT]

ACTIVAR (a.k.a. COOPERATIVA DE TRABAJO ASOCIADO ACTIVAR), Carrera 6 No. 11-43 of. 505, Cali, Colombia; Calle 44 No. 17-44, Bogota, Colombia; Carrera 23 No. 37-39 of. 202, Bogota, Colombia; Calle 22B No. 56-63, Bogota, Colombia; NIT # 830099918-2 (Colombia) [SDNT]

ACUICOLA SANTA CATALINA S.A., Avenida 13 No. 100-12 Ofc. 302, Bogota, Colombia; NIT # 830010809-5 (Colombia) [SDNT]

ADEMI, Rahim; DOB 30 Jan 1954; POB Karac, Serbia and Montenegro; ICTY indictee (individual) [BALKANS]

ADEMI, Xhevat; DOB 8 Dec 1962; POB Tetovo, Macedonia (individual) [BALKANS]

ADILI, Gafur; DOB 5 Jan 1959; POB Kicevo, Macedonia (individual) [BALKANS]

ADMACOOP (a.k.a. COOPERATIVA MULTIACTIVA DE ADMINISTRACION Y MANEJO ADMACOOP), Carrera 28A No. 14-29, Bogota, Colombia; Calle 12B No. 28-58, Bogota, Colombia; NIT # 830030933-6 (Colombia) [SDNT]

ADMINCHECK LIMITED, 1 Old Burlington Street, London, United Kingdom [IRAQ2]

ADMINISTRACION DE RECURSOS FINANCIEROS E.U. (a.k.a. AFIN E.U.), Calle 20N No. 6AN-19 ofc. 67-68, Cali, Colombia; NIT # 805013294-5 (Colombia) [SDNT]

ADMINISTRACION INMOBILIARIA BOLIVAR S.A., Avenida 2CN No. 24N-92, Cali, Colombia; Calle 17N No. 6N-28, Cali, Colombia; NIT # 800149060-5 (Colombia) [SDNT]

ADMINISTRADORA DE INMUEBLES VIDA, S.A. DE C.V., Blvd. Agua Caliente 1381, Colonia Revolucion, Tijuana, Baja California, Mexico [SDNTK]

ADMINISTRADORA DE SERVICIOS VARIOS CALIMA S.A., Carrera 29A No. 9B-47, Cali, Colombia; Calle 10 No. 4-47, piso 18, Cali, Colombia; NIT # 805007874-2 (Colombia) [SDNT]

ADMINISTRADORA GANADERA EL 45 LTDA., Carrera 49A No. 48S-60 Bod. 102, Medellin, Colombia; Carrera 49 No. 61Sur-540 Bod. 137, Medellin, Colombia; NIT # 811038291-3 (Colombia) [SDNT]

ADP, S.C., Tijuana, Baja California, Mexico [SDNTK]

ADVANCED ELECTRONICS DEVELOPMENT, LTD, 3 Mandeville Place, London, United Kingdom [IRAQ2]

ADVANCED ENGINEERING WORKS, Street No. 53, P.O. Box 44690, Khartoum, Sudan [SUDAN]

ADVANCED MINING WORKS COMPANY LIMITED, Elmek Nimir Street, Khartoum Bahri/Industrial Area, P.O. Box 1034, Khartoum 11, Sudan; E-mail Address admico@sudanmail.net (Sudan) [SUDAN]

ADVANCED PETROLEUM COMPANY (a.k.a. APCO), House No. 10, Block 9, Street 33, Amarat, P.O. Box 12811, Khartoum, Sudan [SUDAN]

ADVANCED TRADING AND CHEMICAL WORKS COMPANY LIMITED (a.k.a. ADVANCED CHEMICAL WORKS; a.k.a. ADVANCED COMMERCIAL AND CHEMICAL WORKS COMPANY LIMITED), 19 Al Amarat Street, P.O. Box 44690, Khartoum, Sudan; E-mail Address accw@htg-sdn.com (Sudan); alt. E-mail Address advance@sudanmail.net (Sudan) [SUDAN]

AERO CONTINENTE (USA) INC. (a.k.a. AERO CONTINENTE, INC.), 2858 NW 79 Avenue, Miami, FL 33122; Business Registration Document # P94000013372 (United States); US FEIN 65-0467983 [BPI-SDNTK]

AERO CONTINENTE E.I.R.L., Avenida Jose Pardo 601, Int. 16, Lima, Peru; RUC # 20510752695 (Peru) [SDNTK]

AERO CONTINENTE S.A (a.k.a. AERO CONTINENT S.A.; a.k.a. AEROCONTINENTE S.A.; n.k.a. NUEVO CONTINENTE S.A.; n.k.a. NUEVOCONTINENTE S.A.; a.k.a. WWW.AEROCONTINENTE.COM; a.k.a. WWW.AEROCONTINENTE.COM.PE; n.k.a. WWW.NUEVOCONTINENTE.COM.PE), Avenida Portugal No. 20, Of. 27—Comuna Santiago Centro, Santiago, Chile; Av. Colon 119 Piso 3 Of. 6 (CP-X5000EPB), Cordoba, Argentina; Plaza Camacho TDA 3-C, La Molina, Lima, Peru; Av. Rufino Torrico 981, Lima, Peru; Av. Peru 3421, San Martin de Porres, Lima, Peru; Av. Grau 624, Barranco, Lima, Peru; Jr. 9 de Diciembre 160, Ayacucho, Peru; Portal de Carnes 254, Cusco, Peru; Alonso de Alvarado 726, Rioja, Peru; Av. Tumbes 217, Tumbes, Peru; Av. 27 De Febrero No. 102, Edif Miguel Mejia Urr. El Vergel, Santo Domingo, Dominican Republic; Rivadavia 209 (CP-5500), Mendoza, Argentina; Av. Larco 123-2 Do Piso, Miraflores II-Larco, Lima, Peru; Av. Peru 3421, San Martin, Lima, Peru; Leon Velarde 584, Puerto Maldonado, Peru; Jr. Moyobamba 101, Tarapoto, Peru; Jr. Pizarro 470, Trujillo, Peru; Bogota, Colombia; Jr. Francisco Bolognesi 125, Piso 16, Miraflores, Lima 18, Peru; Av. Camino Real 441, San Isidro, Lima, Peru; Av. Benavides 4581, Surco I, Lima, Peru; Sta Catalina 105 A-B, Arequipa, Peru; Boyaca 1012 Y P. Icaza, Guayaquil, Ecuador; Av. Saenz Pena 184, Callao, Lima, Peru; Calle San Roman 175, Juliaca, Peru; Jr. 7 de Junio 861, Pucallpa, Peru; Av. Thames 2406 (CP 1425) C.F., Buenos Aires, Argentina; Av. Amazonas No. 22-11B Y Veintimilla-Quito, Quito, Ecuador; Calle Rio Rhin No. 64, P.B. Col. Cuauhtemoc C.P., Mexico City D.F. 065000, Mexico; Sarmiento 854 Piso 8 Of. 3 y 4 (CP-S2000CMN), Rosario (Santa Fe), Argentina; Av. Grau 602 D, Barranco, Lima, Peru; Av. Enrique Llosa 395-A, Magdalena, Lima, Peru; C.C. San Miguel Shopping Center, TDA. 50—Av. La Mar 2291, San Miguel, Lima, Peru; Av. La Marina 2095, San Miguel, Lima, Peru; Jr. Libertad 945-951, Piura, Peru; 1ra Avenida de Los Palos Grandes, Centro Comercial Quinora P.B., Locales L-1A y L-2A, Caracas, Venezuela; 8940 NW 24 Terrace, Miami, FL 33172; Av. Arequipa 326, Santa Beatriz, Lima, Peru; Av. Jose Pardo 601, Miraflores, Lima, Peru; Jr. Prospero 232, Iquitos, Peru; Av. Antunez de Mayolo 889, Los Olivos, Lima, Peru; Av. Pardo 605, Miraflores I-Pardo, Lima, Peru; Av. La Encalada 1587, (C.C. El Polo Block A Oficina 213), Surco II-C.C. El Polo, Lima, Peru; Jr. 2 de Mayo 381, Cajamarca, Peru; Calle San Jose 867-879, Chiclayo, Peru; Calle Apurimac 265, Tacna, Peru; Jr. Libertad 139, Yurimaguas, Peru; Business Registration Document # F01000003035 (United States); NIT # 8300720300 (Colombia); RUC # 20108363101 (Peru); US FEIN 55-2197267 [SDNTK]

AERO COURIER CARGO S.A., Avenida Jose Pardo 601, Edificio La Alameda, Lima, Peru; RUC # 20507531823 (Peru) [SDNTK]

AEROCARIBBEAN AIRLINES (a.k.a. AERO-CARIBBEAN), Havana, Cuba [CUBA]

AEROCOMERCIAL ALAS DE COLOMBIA LTDA., Avenida El Dorado Entrada 2 Int. 6, Bogota, Colombia; NIT # 800049071-7 (Colombia) [SDNT]

AEROSPACE INDUSTRIES ORGANIZATION (a.k.a. SAZMANE SANAYE HAVA FAZA; a.k.a. “AIO”), Langare Street, Nobonyad Square, Tehran, Iran [NPWMD]

AEROTAXI EJECUTIVO, S.A., Managua, Nicaragua [CUBA]

AEROVIAS ATLANTICO LTDA. (a.k.a. AEROATLANTICO LTDA.), Aeropuerto Int. Ernesto Cortisoz Hangar 1, Barranquilla Atlantico, Colombia; NIT # 890109958-1 (Colombia) [SDNT]

AFGHAN SUPPORT COMMITTEE (ASC) (a.k.a. AHYA UL TURAS; a.k.a. JAMIAT AYAT-UR-RHAS AL ISLAMIA; a.k.a. JAMIAT IHYA UL TURATH AL ISLAMIA; a.k.a. LAJNAT UL MASA EIDATUL AFGHANIA), Grand Trunk Road, near Pushtoon Garhi Pabbi, Peshawar, Pakistan; Cheprahar Hadda, Mia Omar Sabaqah School, Jalalabad, Afghanistan [SDGT]

AFGHAN, Sher (a.k.a. AFGHAN, Shear; a.k.a. AFGHAN, Shir; a.k.a. AZIZ, Mohammad; a.k.a. KHAN, Abdullah); DOB 1962; alt. DOB 1959; POB Pakistan (individual) [SDNTK]

AFRICAN DRILLING COMPANY, Khartoum, Sudan [SUDAN]

AFRICAN OIL CORPORATION, P.O. Box 1, Khartoum North, Sudan [SUDAN]

AGBAS CONSULTORES, S.A. DE C.V. (a.k.a. AGBA CONSULTORES CASA DE CAMBIO), Blv Agua Caliente 148, Col. Revolucion Rio Panuco Rio Yaqui, Tijuana, Baja California, Mexico; Boulevard Agua Caliente, Tijuana, Baja California, Mexico; Boulevard Agua Caliente No. 148, Col. Revolucion, Tijuana, Baja California, Mexico; R.F.C. ACO040630893 (Mexico) [SDNTK]

AGENCIA DE VIAJES GUAMA (a.k.a. GUAMA TOUR; a.k.a. GUAMATUR, S.A.; a.k.a. VIAJES GUAMA TOURS), Bal Harbour Shopping Center, Via Italia, Panama City, Panama [CUBA]

AGHA, Haji Abdul Manan (a.k.a. SAIYID, Abd Al-Man'am), Pakistan (individual) [SDGT]

AGHA-JANI, Dawood (a.k.a. AGHAJANI, Davood; a.k.a. AGHAJANI, Davoud; a.k.a. AGHAJANI, Davud; a.k.a. AGHAJANI, Kalkhoran Davood; a.k.a. AQAJANI KHAMENA, Da'ud); DOB 23 Apr 1957; POB Ardebil, Iran; nationality Iran; Passport I5824769 (Iran) (individual) [NPWMD]

AGRICOLA DOIMA DEL NORTE DEL VALLE LTDA., Carrera 4 No. 12-20 of. 206, Cartago, Valle, Colombia; Km 12 Via Santa Ana Molina, Hacienda Doima, Cartago, Colombia; NIT # 800144713-3 (Colombia) [SDNT]

AGRICOLA GANADERA HENAO GONZALEZ Y CIA. S.C.S., Carrera 4A No. 16-04 apt. 303, Cartago, Colombia; Carrera 1 No. 13-08, Cartago, Colombia; Km. 5 Via Aeropuerto, Cartago, Colombia; NIT # 800021615-1 (Colombia) [SDNT]

AGRICOLA GAXIOLA S.A. DE C.V., Calle Colonizadores No. exterior 83 y No.interior D, Esq. Quintas de las Aves, Col. Las Quintas, Hermosillo, Sonora 83240, Mexico; R.F.C. AGA9607119X3 (Mexico) [SDNTK]

AGRICOLA HUMYAMI LTDA., Apartado Aereo 30352, Cali, Colombia [SDNT]

AGRICOLA SONGO LTDA., Calle 74 No. 53-30, Barranquilla, Colombia; NIT # 890115794-3 (Colombia) [SDNT]

AGRICULTURAL BANK OF SUDAN, P.O. Box 1363, Khartoum, Sudan [SUDAN]

AGRICULTURAL DEVELOPMENT BANK OF ZIMBABWE (a.k.a. AGRIBANK; a.k.a. AGRICULTURAL BANK OF ZIMBABWE), 15th Floor, Hurudza House, 14-16 Nelson Mandela Avenue, Harare, Zimbabwe; Box 369, Harare, Zimbabwe; Phone No. 263-4-774426; Fax No. 263-4-774556 [ZIMBABWE]

AGRO MASCOTAS S.A. (a.k.a. AGROPECUARIA 100%; a.k.a. AGROPECUARIA EL ARBOLITO; a.k.a. AGROPECUARIA EL GALLO; a.k.a. AGROPECUARIA LA COLMENA; a.k.a. AGROPECUARIA LA HORMIGA; a.k.a. AGROTODO; a.k.a. AGROTORO), Calle 1N No. 4-36, Popayan, Colombia; Carrera 2 No. 13-17, Puerto Boyaca, Colombia; Carrera 23 No. 29-03, Tulua, Colombia; Carrera 2A No. 15-10, Dorada, Colombia; Carrera 7 No. 12-58, Cartago, Colombia; Calle 19 No. 12-36, Tunja, Colombia; Calle 3 No. 11-104, Santander de Quilichao, Colombia; Calle 35 No. 27-83, Villavicencio, Colombia; Carrera 10 No. 12-02 Esq., Girardot, Colombia; Carrera 4 No. 16-87, Soacha, Colombia; Carrera 10 No. 18-02, Pereira, Colombia; Carrera 18 No. 22-17, Manizales, Colombia; Carrera 16 No. 43-15, Dos Quebradas, Colombia; Calle 35 No. 27-69, Villavicencio, Colombia; Carrera 14 No. 18-51, Armenia, Colombia; Carrera 19 No. 11-52, Dutaima, Colombia; Carrera 33 No. 19-35, Villavicencio, Colombia; Avenida 3 Bis No. 23CN-13, Cali, Colombia; Calle 28 No. 27-06, Palmira, Colombia; Carrera 1 No. 14-41, Ibague, Colombia; Carrera 10 No. 11-14 Esq., Jamundi, Colombia; Carrera 13 No. 13-41, Bogota, Colombia; Carrera 13 No. 15-42, Santa Rosa, Colombia; Transversal 29 No. 39-92, Bogota, Colombia; NIT # 815002808-1 (Colombia) [SDNT]

AGROGANADERA LA ISABELA S.A., Avenida 4 No. 6N-61, Ofc. 510, Cali, Colombia; NIT # 900100335-6 (Colombia) [SDNT]

AGROINVERSORA URDINOLA HENAO Y CIA. S.C.S., Calle 5 No. 22-39 of. 205, Cali, Colombia; Calle 52 No. 28E-30, Cali, Colombia; NIT # 800042180-1 (Colombia) [SDNT]

AGROPECUARIA BETANIA LTDA., Calle 70N No. 14-31, Cali, Colombia; Carrera 61 No. 11-58, Cali, Colombia [SDNT]

AGROPECUARIA EL NILO S.A. (a.k.a. AGRONILO S.A.), Corregimiento El Bohio Finca El Nilo, Toro, Valle, Colombia; Establecimientos Corabastos Bodega Reina Puesto 35A, Bogota, Colombia; Calle 14 No. 4-123, La Union, Valle, Colombia; Establecimientos Corabastos Bodega Reina Puesto 64A, Bogota, Colombia; NIT # 800099699-5 (Colombia) [SDNT]

AGROPECUARIA LA ROBLEDA S.A., Carrera 61 No. 11-58, Cali, Colombia; Avenida 2DN No. 24N-76, Cali, Colombia; NIT # 800160353-2 (Colombia) [SDNT]

AGROPECUARIA LINDARAJA S.A., Calle 4N No. 1N-10, Ofc. 901, Cali, Colombia; NIT # 890327360-0 (Colombia) [SDNT]

AGROPECUARIA MIRALINDO S.A., Carrera 8N No. 17A-12, Cartago, Colombia; NIT # 836000446-4 (Colombia) [SDNT]

AGROPECUARIA PALMA DEL RIO S.A., Carrera 17 No. 91-42, Apt. 502, Bogota, Colombia; Carrera 5 No. 29-32, C.C. La Quinta, Ibague, Tolima, Colombia; NIT # 830061299-7 (Colombia) [SDNT]

AGROPECUARIA Y REFORESTADORA HERREBE LTDA., Avenida 2N No. 7N-55 of. 501, Cali, Colombia [SDNT]

AGUDELO VELASQUEZ, Norberto Antonio (a.k.a. “AMADO”), Guasca, Cundinamarca, Colombia; DOB 20 Aug 1955; POB Colombia; citizen Colombia; nationality Colombia; Cedula No. 4590874 (Colombia) (individual) [SDNTK]

AGUDELO, Ivan de Jesus, Avenida 6N No. 47-197 17, Cali, Colombia; c/o INDUSTRIA MADERERA ARCA LTDA., Cali, Colombia (individual) [SDNT]

AGUIAR, Raul, Avenida de Concha, Espina 8, E-28036, Madrid, Spain; Director, Banco Nacional de Cuba (individual) [CUBA]

AGUILAR AMAO, Miguel, c/o ADP, S.C., Tijuana, Baja California, Mexico; Avenida Del Sol 4551, Fraccionamiento La Escondida, Tijuana, Baja California, Mexico; Avenida Del Sol 4551-2, Fraccionamiento La Escondida 22440, Tijuana, Baja California, Mexico; c/o Distribuidora Imperial De Baja California S.A. de C.V., Tijuana, Baja California, Mexico; DOB 29 Sep 1953; POB Santa Agueda,Baja California Sur,Mexico; Credencial electoral 101924629544 (Mexico); R.F.C. AUAM-530929 (Mexico) (individual) [SDNTK]

AGUILAR BERNAL, Sonia, c/o COMPANIA DE FOMENTO MERCANTIL S.A., Cali, Colombia; c/o CONSTRUCCIONES PROGRESO DEL PUERTO S.A., Puerto Tejada, Colombia; Calle 14C No. 29B-24, Cali, Colombia; c/o CRIADERO LA LUISA E.U., Cali, Colombia; c/o GESTORA MERCANTIL S.A., Cali, Colombia; Cedula No. 31988264 (Colombia); Passport 31988264 (Colombia) (individual) [SDNT]

AGUILAR RAMIREZ, Gerardo Antonio (a.k.a. “CESAR”); DOB 20 Sep 1962; POB Colombia; Cedula No. 16447616 (Colombia); alt. Cedula No. 16148998 (Colombia) (individual) [SDNTK]

AGUILAR ROJAS, Luz Elena, c/o PARQUE INDUSTRIAL PROGRESO S.A., Yumbo, Colombia; c/o GEOPLASTICOS S.A., Cali, Colombia; DOB 14 Mar 1966; POB Cali, Valle, Colombia; Cedula No. 31940893 (Colombia); Passport 31940893 (Colombia) (individual) [SDNT]

AGUILAR TORRES, Evangelina, c/o CASA DE EMPENO RIO TIJUANA, S.A. DE C.V., Tijuana, Baja California, Mexico; DOB 2 May 1956; POB Tijuana, Baja California, Mexico (individual) [SDNTK]

AGUILERA QUIJANO, Harold, c/o ASESORIAS COSMOS LTDA., Cali, Colombia; DOB 28 Feb 1958; Cedula No. 16594227 (Colombia) (individual) [SDNT]

AGUIRRE CARDONA, Armando, Mexico; DOB 28 Oct 1955; POB Nuevo Leon, Monterrey, Mexico; citizen Mexico; nationality Mexico; C.U.R.P. AUCA551028HNLGRR03 (Mexico); R.F.C. AUCA551028 (Mexico) (individual) [SDNTK]

AGUIRRE GALINDO, Manuel, c/o COMPLEJO TURISTICO OASIS, S.A. DE C.V., Rosarito, Baja California, Mexico; c/o INMOBILIARIA ESPARTA S.A. DE C.V., Tijuana, Baja California, Mexico; DOB 2 Nov 1950; POB Tijuana, Baja California, Mexico; R.F.C. AUGM-501102-PM3 (Mexico) (individual) [SDNTK]

AGUIRRE SANCHEZ, Blanca Armida, c/o MEXGLOBO, S.A. DE C.V., Tijuana, Baja California, Mexico; C. Cerro Alto No. 7855, Fracc. Lomas de Agua Caliente, Tijuana, Baja California, Mexico; Calle Ixtapan de la Sal No. 12137, Fraccionamiento Colinas de Agua Caliente, Tijuana, Baja California, Mexico; c/o MULTISERVICIOS AGSA, S.A. DE C.V., Tijuana, Baja California, Mexico; c/o COCINA DE TIJUANA, S. DE R.L. DE C.V., Tijuana, Baja California, Mexico; Avenida Central No. 10200, Departamento 401 Guion “E,” Colonia Hipodromo Dos, Tijuana, Baja California, Mexico; c/o HACIENDA CIEN ANOS DE TIJUANA, S. DE R.L. DE C.V., Tijuana, Baja California, Mexico; c/o AGBAS CONSULTORES, S.A. DE C.V., Tijuana, Baja California, Mexico; Blvd. Agua Caliente No. 148, Tijuana, Baja California, Mexico; Diaz Miron, Calle 1903 3 Zona Central, Tijuana, Baja California, Mexico; DOB 7 Mar 1958; POB Tijuana, Baja California, Mexico; citizen Mexico; nationality Mexico; Electoral Registry No. AGSNBL58030702M801 (Mexico); Passport 04020067193 (Mexico); R.F.C. AUSB580307CR4 (Mexico); alt. R.F.C. AUSB580307CRA (Mexico) (individual) [SDNTK]

AGUIRRE SANCHEZ, Claudia, Priv del Cesar No. 7013, Fracc. Racial Agua Caliente, Tijuana, Baja California, Mexico; c/o MULTISERVICIOS AGSA, S.A. DE C.V., Tijuana, Baja California, Mexico; Cll Gladiolas 11449, Lomas de Agua Caliente c de Las Torres c de S Fco, Tijuana, Baja California 22024, Mexico; Calle Garita de Otay No. 1408, Colonia Mesa de Otay, Tijuana, Baja California, Mexico; c/o MEXGLOBO, S.A. DE C.V., Tijuana, Baja California, Mexico; Calle Gladiolas No. 28, Fraccionamiento Del Prado, Tijuana, Baja California, Mexico; c/o HACIENDA CIEN ANOS DE TIJUANA, S. DE R.L. DE C.V., Tijuana, Baja California, Mexico; c/o COCINA DE TIJUANA, S. DE R.L. DE C.V., Tijuana, Baja California, Mexico; DOB 4 Jan 1969; POB Tijuana, Baja California, Mexico; citizen Mexico; nationality Mexico; Cedula No. 1993358 (Mexico); Electoral Registry No. AGSNCL69010402M000 (Mexico) (individual) [SDNTK]

AGUSTIN GRAJALES Y CIA. LTDA., Factoria La Rivera, La Union, Valle, Colombia; NIT # 800166941-0 (Colombia) [SDNT]

AHMAD, Farhad Kanabi (a.k.a. HAMAWANDI, Kawa; a.k.a. OMAR ACHMED, Kaua), Lochhamer Str. 115, Munich 81477, Germany; Kempten Prison, Germany; DOB 1 Jul 1971; POB Arbil, Iraq; nationality Iraq; Travel Document Number A0139243 (Germany) (individual) [SDGT]

AHMAD, Muhammad Yunis (a.k.a. AHMED, Muhammad Yunis; a.k.a. AL-AHMED, Muhammad Yunis; a.k.a. AL-BADRANI, Muhammad Yunis Ahmad; a.k.a. AL-MOALI, Mohammed Yunis Ahmed), Wadi al-Hawi, Iraq; Damascus, Syria; Dubai, United Arab Emirates; Mosul, Iraq; Al-Hasaka, Syria; Al-Dawar Street, Bludan, Syria; DOB 1949; POB Al-Mowall, Mosul, Iraq; nationality Iraq (individual) [IRAQ2]

AHMAD, Najmuddin Faraj (a.k.a. FARRAJ, Fateh Najm Eddine; a.k.a. KREKAR, Mullah; a.k.a. NAJMUDDIN, Faraj Ahmad), Heimdalsgate 36-V, 0578 Oslo, Norway; DOB 7 Jul 1956; alt. DOB 17 Jun 1963; POB Olaqloo Sharbajer Village, al-Sulaymaniyah Governorate, Iraq; citizen Iraq (individual) [SDGT]

AHMAD, Rasem, P.O. Box 1318, Amman, Jordan (individual) [IRAQ2]

AHMAD, Tariq Anwar al-Sayyid (a.k.a. FARAG, Hamdi Ahmad; a.k.a. FATHI, Amr Al-Fatih); DOB 15 MAR 63; POB Alexandria, Egypt (individual) [SDGT]

AHMAD, Wallid Issa, Iraq (individual) [IRAQ2]

AHMAD, Zaki Izzat Zaki; DOB 21 Apr 1960; POB Sharqiyah, Egypt; nationality Egypt (individual) [SDGT]

AHMADIAN, Ali Akbar (a.k.a. AHMADIYAN, Ali Akbar); DOB circa 1961; POB Kerman, Iran; citizen Iran; nationality Iran (individual) [NPWMD]

AHMED NACER, Yacine (a.k.a. YACINE DI ANNABA), Vicolo Duchessa, 16, Naples, Italy; Via Genova, 121, Naples, Italy; Rue Mohamed Khemisti, 6, Annaba, Algeria; DOB 2 Dec 1967; POB Annaba, Algeria (individual) [SDGT]

AHMED, Adnan S. Hasan (a.k.a. ADNAN, Ahmed S. Hasan; a.k.a. SULTAN, Ahmed), Amman, Jordan (individual) [IRAQ2]

AIDER, Farid (a.k.a. ACHOUR, Ali), Via Milanese, 5, 20099 Sesto San Giovanni, Milan, Italy; DOB 12 Oct 1964; POB Algiers, Algeria; Italian Fiscal Code DRAFRD64R12Z301C (individual) [SDGT]

AIR BAGAN HOLDINGS PTE. LTD. (a.k.a. AIR BAGAN; a.k.a. AIRBAGAN), Room No. T1-112 & T-112A, Level 1, Main Terminal Building, Suvarnabhumi Airport, Bangpli, Ssamutprakarn 10540, Thailand; Pathein Hotel, Kanthonesint, Petheing-Monywa Road, Burma; Sandoway Inn, Thandwe, Burma; 179 (Nya) Bogyoke Road, San Sai (Kha) Quarter, Tachileik, Burma; Room (2), YMCA Building, Bogyoke Aung San Road, Forestry Quarter, Taunggyi, Burma; 414 Bogyoke Road, Kaw Thaung, Burma; 572 Ye Yeik That Street, Pear Ayekari Hotel, Myauk Ywa Quarter, Burma; 134 Bogyoke Street, Myoma Quarter, Taunggyi, Burma; 545 Orchard Road, #01-04 Far East Shopping Centre, Singapore 238882, Singapore; No. 13 (B), Zay Tan Gyi Street, Quarter (3), Zay Than Gyi Quarter, Kyaing Tong, Burma; No. 407, Zei Phyu Kone Quarter, Near Ngapali Junction, Thandwe, Burma; Unit #310, 3rd Floor, Silom Complex, 191 Silom Road, Silom Bangrak, Bangkok 10500, Thailand; Room-17, Stadium Building, Theinni Main Road, 12 Quarter, Lashio, Burma; No. 4, Naypyidaw Airport Compound, Naypyidaw, Burma; 9, 78th Street, Bet, 33rd and 34th Street, Mandalay, Burma; 156 Bogyoke Aung San Road, Aung Chan Thar Building, San Sai Quarter, Tachileik, Burma; No. E (4), Construction Housing, Sumbrabun Road, Ayar Quarter, Myitkyina, Burma; No. Mitharsu (Family Video), No. 131/B Zay Taung Bak Lane, Zayit Quarter, Dawei, Burma; 3, Aung Thate Di Quarter, Nyaung U, Burma; No. 445, Anawa Quarter, Myinttzu Thaka Road, Kawthaung, Burma; Kalaymyo, Red Cross Building, Bogyoke Street, Kalay Myo, Burma; 244 Bet, Duwa Za Junn & Bayin Naung St., Third Quarter, Myitkyina, Burma; 56 Shwe Taung Gyar Street, Bahan Township, Yangon, Burma; Myeik Golf Club, Pearl Mon Hotel, Airport Junction, Myeik, Burma; 48 Quarter 2, Zay Tan Lay Yat, Kyaing Tong, Burma; Doing business as AIR BAGAN [BURMA]

AIR BAGAN LIMITED (a.k.a. AIR BAGAN), No. Mitharsu (Family Video), No. 131/B Zay Taung Bak Lane, Zayit Quarter, Dawei, Burma; No.6/88, 6 Quarter, Lalway, Naypyitaw, Burma; No. E (4), Construction Housing, Sumbrabun Road, Ayar Quarter, Myitkyina, Burma; Kalaymyo, Red Cross Building, Bogyoke Street, Kalay Myo, Burma; 414 Bogyoke Road, Kaw Thaung, Burma; Unit #310, 3rd Floor, Silom Complex, 191 Silom Road, Silom Bangrak, Bangkok 10500, Thailand; 179 (Nya) Bogyoke Road, San Sai (Kha) Quarter, Tachileik, Burma; No. 407, Zei Phyu Kone Quarter, Near Ngapali Junction, Thandwe, Burma; Room (2), YMCA Building, Bogyoke Aung San Road, Forestry Quarter, Taunggyi, Burma; 156 Bogyoke Aung San Road, Aung Chan Thar Building, San Sai Quarter, Tachileik, Burma; 56 Shwe Taung Gyar Street, Bahan Township, Yangon, Burma; No. 445, Anawa Quarter, Myinttzu Thaka Road, Kawthaung, Burma; 48 Quarter 2, Zay Tan Lay Yat, Kyaing Tong, Burma; 134 Bogyoke Street, Myoma Quarter, Taunggyi, Burma; No. 13 (B) Zay Tan Gyi Street, Quarter (3), Zay Than Gyi Quarter, Kyaing Tong, Burma; 244 Bet, Duwa Zaw Junn & Bayin Naung St., Thida Quarter, Myitkyina, Burma; Sandoway Inn, Thandwe, Burma; 9, 78th Street, Bet, Mandalay, Burma; Room No. T1-112 & T1-112A, Level 1, Main Terminal Building, Suvarnabhumi Airport, Bangpli, Ssamutprakarn 10540, Thailand; Myeik Golf Club, Pearl Mon Hotel, Airport Junction, Myeik, Burma; 3, Aung Thate Di Quarter, Nyaung U, Burma; Room-17, Stadium Building, Theinni Main Road, 12 Quarter, Lashio, Burma; No. 4, Naypyidaw, Airport Compound, Naypyidaw, Burma; 572 Ye Yeik Tha Street, Pear Ayekari Hotel, Myauk Ywa Quarter, Burma; Pathein Hotel, Kanthonesint, Petheing-Monywa Road, Burma; Doing business as AIR BAGAN. [BURMA]

AIR CESS (a.k.a. AIR CESS EQUATORIAL GUINEA; a.k.a. AIR CESS HOLDINGS LTD.; a.k.a. AIR CESS INC. 360-C; a.k.a. AIR CESS LIBERIA; a.k.a. AIR CESS RWANDA; a.k.a. AIR CESS SWAZILAND (PTY.) LTD.; a.k.a. AIR PAS; a.k.a. AIR PASS; a.k.a. CESSAVIA; a.k.a. CHESS AIR GROUP; a.k.a. PIETERSBURG AVIATION SERVICES & SYSTEMS), P.O. Box 7837, Sharjah, United Arab Emirates; Islamabad, Pakistan; P.O. Box 3962, Sharjah, United Arab Emirates; Entebbe, Uganda; Malabo, Equatorial Guinea [LIBERIA]

AIR ZORY LTD. (a.k.a. AIR ZORI; a.k.a. AIR ZORI LTD.), 6 Zenas Kanther Str, Nicosia 1065, Cyprus; 54 G.M. Dimitrov Blvd, Sofia BG-1125, Bulgaria [LIBERIA]

AIRBAS TRANSPORTATION FZE (a.k.a. AIR BAS; a.k.a. AIR BASS; a.k.a. AIRBAS TRANSPORTATION INC.; a.k.a. AVIABAS), P.O. Box 8299, Sharjah, United Arab Emirates; 811 S. Central Expwy, Ste 210, Richardson, TX 75080 [LIBERIA]

AIRMORES SHIPPING CO. LTD. (a.k.a. AIMOROS SHIPPING CO. LTD.), c/o MELFI MARINE CORPORATION S.A., Oficina 7, Edificio Senorial, Calle 50, Apartado 31, Panama City 5, Panama [CUBA]

AKIRAPHOKIN, Thit (a.k.a. SUTHIT, Samsaeng; a.k.a. THIT, Akiraphokin; a.k.a. WEI, Ta Han; a.k.a. “AH HAN”), 88/2 Soi Klong Nam Kaew, Tambon Sam Sen Nok, Huay Khwang, Bangkok, Thailand; Burma; c/o DEHONG THAILONG HOTEL CO., LTD., Yunnan Province, China; DOB 3 Mar 1972; National ID No. 310095657121 (Thailand); Passport K491821 (Thailand) (individual) [SDNTK]

AKLI, Mohamed Amine (a.k.a. “ELIAS”; a.k.a. “KALI SAMI”; a.k.a. “KILLECH SHAMIR”); DOB 30 Mar 1972; POB Abordj El Kiffani, Algeria (individual) [SDGT]

AL AMLOOD TRADING LLC, Ali Rashid Lootah Building, Al Khaleej Street, Al Baraha Area, Dubai, United Arab Emirates; P.O. Box 3517, Dubai, United Arab Emirates; C.R. No. 79190 (United Arab Emirates) [SDNTK]

AL BARAKA EXCHANGE LLC, P.O. Box 20066, Dubai, United Arab Emirates; P.O. Box 3313, Deira, Dubai, United Arab Emirates [SDGT]

AL FURQAN (a.k.a. ASSOCIATION FOR CITIZENS RIGHTS AND RESISTANCE TO LIES; a.k.a. ASSOCIATION FOR EDUCATION, CULTURAL, AND TO CREATE SOCIETY—SIRAT; a.k.a. ASSOCIATION FOR EDUCATION, CULTURE AND BUILDING SOCIETY—SIRAT; a.k.a. ASSOCIATION OF CITIZENS FOR THE SUPPORT OF TRUTH AND SUPPRESSION OF LIES; a.k.a. DZEMIJETUL FURKAN; a.k.a. DZEM'IJJETUL FURQAN; a.k.a. DZEMILIJATI FURKAN; a.k.a. IN SIRATEL; a.k.a. ISTIKAMET; a.k.a. SIRAT), Put Mladih Muslimana 30a, 71 000 Sarajevo, Bosnia and Herzegovina; ul. Strossmajerova 72, Zenica, Bosnia and Herzegovina; Muhameda Hadzijahica #42, Sarajevo, Bosnia and Herzegovina [SDGT]

AL GHABRA, Mohammed, East London, United Kingdom; DOB 1 Jun 1980; POB Damascus, Syria; nationality United Kingdom; Passport 094629366 (United Kingdom) (individual) [SDGT]

AL LAMI, Isma'il Hafiz (a.k.a. AL-LAMI, Ismail; a.k.a. AL-LAMI, Isma'il Hafith Abid 'Ali; a.k.a. AL-ZARGAWI, Ismai'il Hafuz; a.k.a. IZAJAWI, Ismail Hafeth; a.k.a. “DAR'A, Abu”; a.k.a. “DIRI, Abu”; a.k.a. “DURA, Abu”; a.k.a. “HAYDAR, Abu”), Sadr City, Baghdad, Iraq; Iran; DOB circa 1957; POB Baghdad, Iraq; citizen Iraq (individual) [IRAQ3]

AL MANAR TV, PO Box 354/25, Beirut, Lebanon; Al Manar TV, Abed al Nour Street, Haret Hriek, Beirut, Lebanon; info@manartv.com; www.manartv.com; www.almanar.com.lb [SDGT]

AL MAZIDIH, Akram Turki Hishan (a.k.a. AL-HISHAN, Akram Turki; a.k.a. AL-MAZIDIH, Akram Turki Hishan; a.k.a. “ABU AKRAM”; a.k.a. “ABU JARRAH”), Zabadani, Syria; DOB 1974; alt. DOB 1975; alt. DOB 1979 (individual) [SDGT]

AL MAZIDIH, Badran Turki Hishan (a.k.a. ABU GHADIYAH; a.k.a. AL MEZIDI, Badran Turki Hishan; a.k.a. AL-MAZIDIH, Badran Turki al-Hishan; a.k.a. AL-SHA'BANI, Badran Turki Hisham al-Mazidih; a.k.a. AL-TURKI, Badran; a.k.a. HISHAM, Badran al-Turki; a.k.a. HISHAN, Badran Turki; a.k.a. SHALASH, Badran Turki Hayshan; a.k.a. “ABU 'ABDALLAH”; a.k.a. “ABU ABDULLAH”; a.k.a. “ABU 'AZZAM”), Zabadani, Syria; DOB 1977; alt. DOB 1979; alt. DOB 1978; POB Mosul, Iraq (individual) [SDGT]

AL MAZIDIH, Ghazy Fezza Hishan (a.k.a. HISHAN, Ghazy Fezzaa; a.k.a. “ABU FAYSAL”; a.k.a. “ABU GHAZZY”; a.k.a. “SHLASH, Mushari Abd Aziz Saleh”), Zabadani, Syria; DOB 1974; alt. DOB 1975 (individual) [SDGT]

AL NOUR RADIO (a.k.a. AL NOUR BROADCASTING STATION; a.k.a. AL NUR RADIO; a.k.a. RADIO ANNOUR), Abed Al Nour Street, PO Box 197/25, Alghobeiri, Haret Hriek, Beirut, Lebanon; info@al-nour.net; www.al-nour.net [SDGT]

AL OBAIDI, Tarik Nasser S. (a.k.a. AL-'UBAYDI, Tarik; a.k.a. AL-'UBAYDI, Tariq), Baghdad, Iraq; DOB 1945; POB Baghdad, Iraq; nationality Iraq; Passport 212331 (Iraq) (individual) [IRAQ2]

AL RAHMAN, Shaykh Umar Abd; DOB 03 May 1938; POB Egypt; Chief Ideological Figure of ISLAMIC GAMA'AT (individual) [SDT]

AL RASHID TRUST (a.k.a. AL AMEEN TRUST; a.k.a. AL AMIN TRUST; a.k.a. AL AMIN WELFARE TRUST; a.k.a. AL MADINA TRUST; a.k.a. AL RASHEED TRUST; a.k.a. AL-AMEEN TRUST; a.k.a. AL-MADINA TRUST; a.k.a. AL-RASHEED TRUST; a.k.a. AL-RASHID TRUST), Office Dha'rb-i-M'unin, Top Floor, Dr. Dawa Khan Dental Clinic Surgeon, Main Baxar, Mingora, Swat, Pakistan; Office Dha'rb-i-M'unin, Room no. 3, Third Floor, Moti Plaza, near Liaquat Bagh, Murree Road, Rawalpindi, Pakistan; Kitab Ghar, 4 Dar-el-Iftah, Nazimabad, Karachi, Pakistan; Office Dha'rb-i-M'unin, Z.R. Brothers, Katchehry Road, Chowk Yadgaar, Peshawar, Pakistan; Jamia Masjid, Sulaiman Park, Begum Pura, Lahore, Pakistan; Office Dha'rb-i-M'unin, opposite Khyber Bank, Abbottabad Road, Mansehra, Pakistan; Operations in Afghanistan: Herat, Jalalabad, Kabul, Kandahar, Mazar Sharif. Also operations in: Kosovo, Chechnya [SDGT]

AL SAADI, Faraj Farj Hassan (a.k.a. AL SA'IDI, Faraj Faraj Hussein; a.k.a. IMAD MOUHAMED ABDELLAH; a.k.a. MOHAMDED ABDULLA IMAD; a.k.a. MUHAMAD ABDULLAH IMAD; a.k.a. “HAMZA AL LIBI”), Viale Bligny 42, Milan, Italy; DOB 28 Nov 1980; POB Libya; alt. POB Jordan; alt. POB Palestine; alt. POB Gaza; nationality Libya; alt. nationality Palestinian; alt. nationality Jordan; arrested United Kingdom (individual) [SDGT]

AL SUNUT DEVELOPMENT COMPANY (a.k.a. ALSUNUT DEVELOPMENT COMPANY), No. 1 Block 5 East, Khartoum 2, P.O. Box 1840, Khartoum, Sudan; Website www.alsunut.com (Sudan); E-mail Address info.AlsunutKhartoum@alsunut.com; E-mail Address info.AlsunutDubai@alsunut.com [SUDAN]

AL WASEL AND BABEL GENERAL TRADING LLC, Baghdad, Iraq; Ibrahim Saeed Lootah Building, Al Ramool Street, P.O. Box 10631 & 638, Rashidya, Dubai, United Arab Emirates [IRAQ2]

AL ZAWAHIRI, Dr. Ayman (a.k.a. AL-ZAWAHIRI, Aiman Muhammad Rabi; a.k.a. AL-ZAWAHIRI, Ayman; a.k.a. SALIM, Ahmad Fuad); DOB 19 Jun 1951; POB Giza, Egypt; Passport 1084010 (Egypt); alt. Passport 19820215; Operational and Military Leader of JIHAD GROUP (individual) [SDT] [SDGT]

AL-ADL, Sayf (a.k.a. AL-'ADIL, Saif); DOB 1963; POB Egypt (individual) [SDGT]

AL-AHMAD, Ahmad Muhammad Yunis (a.k.a. AL-BADANI, Ahmad Muhammad Mahmud 'Abdallah; a.k.a. AL-BARRANI, Ahmad Muhammad Al-Abdullah), Al-Mazzah Al-Jabal District, 6 Subdistrict, 3 area, Al-Iskan complex, 40/2, Fifth Floor, Damascus, Syria; DOB 19 Sep 1978; POB Al-Anbar, Iraq; nationality Iraq; Passport H0347417 (Iraq) issued 20 Feb 2003 expires 19 Feb 2011; passport place of issue: Al-Anbar, Iraq (individual) [IRAQ2]

AL-AHMAD, Mahmud Dhiyab (a.k.a. AL-AHMAD, Mahmoud Dhiyab; a.k.a. AL-AHMAD, Mahmoud Diab); DOB 1953; POB Mosul or Baghdad, Iraq; nationality Iraq; Former Minister of Interior (individual) [IRAQ2]

AL-AHMAD, Sa'ad Muhammad Yunis, Damascus, Syria; DOB 1 Jan 1981; POB Baghdad, Iraq; nationality Iraq; Identification Number 159014 (Iraq) (individual) [IRAQ2]

AL-AKHTAR TRUST INTERNATIONAL (a.k.a. AKHTARABAD MEDICAL CAMP; a.k.a. AL-AKHTAR MEDICAL CENTRE; a.k.a. AZMAT PAKISTAN TRUST; a.k.a. AZMAT-E-PAKISTAN TRUST; a.k.a. PAKISTAN RELIEF FOUNDATION; a.k.a. PAKISTANI RELIEF FOUNDATION), Spin Boldak, Afghanistan; Islamabad, Pakistan; Mirpur Khas, Pakistan; Bahawalpur, Pakistan; Tando-Jan-Muhammad, Pakistan; Gilgit, Pakistan; ST-1/A, Gulshan-e-Iqbal, Block 2, Karachi 75300, Pakistan; Bawalnagar, Pakistan; Gulistan-e-Jauhar, Block 12, Karachi, Pakistan; and all other offices worldwide [SDGT]

ALAKTAN COTTON TRADING COMPANY (a.k.a. ALAKTAN TRADING COMPANY), P.O. Box 2067, Khartoum, Sudan [SUDAN]

AL-ALAMI, Imad Khalil; DOB 1956; POB Gaza (individual) [SDGT]

AL-ALI, Hamid (a.k.a. AL-ALI, Dr. Hamed Abdullah; a.k.a. AL-'ALI, Hamed; a.k.a. AL-'ALI, Hamed bin 'Abdallah; a.k.a. AL-'ALI, Hamid 'Abdallah; a.k.a. AL-'ALI, Hamid 'Abdallah Ahmad; a.k.a. AL-ALI, Hamid bin Abdallah Ahmed; a.k.a. “ABU SALIM”); DOB 20 Jan 1960; citizen Kuwait (individual) [SDGT]

ALAMINOS (f.k.a. RUBY ISLANDS) (vessel) [CUBA]

AL-AMIRI, Adnan Talib Hassim, 43 Palace Mansions, Hammersmith, London, United Kingdom (individual) [IRAQ2]

AL-AQIL, Aqeel Abdulaziz Aqeeil (a.k.a. ALAQEEL, Aqeel Abdulaziz A.; a.k.a. AL-AQIL, Aqeel Abdulaziz); DOB 29 Apr 1949; POB Unaizah, Saudi Arabia; nationality Saudi Arabia; Passport E 839024 issued 3 Jan 2004 expires 8 Nov 2008; alt. Passport C 1415363—16/2/1421H issued 21 May 2000 (individual) [SDGT]

AL-AQSA (ASBL) (a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

AL-AQSA E.V. (a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, Aachen D-52066, Germany; (Head Office) [SDGT]

AL-AQSA FOUNDATION (a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

AL-AQSA FOUNDATION (a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Noblev 79 NB, 21433 Malmo, Sweden; Nobelvagen 79 NB, 21433 Malmo, Sweden [SDGT]

AL-AQSA FOUNDATION (a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

AL-AQSA FOUNDATION (a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 421083, 2nd Floor, Amoco Gardens, 40 Mint Road, Fordsburg 2033, Johannesburg, South Africa; P.O. Box 421082, 2nd Floor, Amoco Gardens, 40 Mint Road, Fordsburg 2033, Johannesburg, South Africa [SDGT]

AL-AQSA ISLAMIC BANK (a.k.a. AL-AQSA AL-ISLAMI BANK), P.O. Box 3753, al-Beireh, West Bank; Ramallah II 970, West Bank [SDT] [SDGT]

AL-AQSA MARTYRS BRIGADE (a.k.a. AL-AQSA MARTYRS BATTALION) [SDT] [FTO] [SDGT]

AL-ARABI TRADING COMPANY LIMITED, Lane 11, Hai Babil, Baghdad District 929, Iraq [IRAQ2]

AL-ATRUSH, Abd al-Wahhab Umar Mirza (a.k.a. AL-ATRUSHI, Abdel Wahab); DOB 1936; a former minister of state, Iraq (individual) [IRAQ2]

AL-AWADI, Hussein Qaid; nationality Iraq; Former Ba'th party regional command chairman, Ninawa, (individual) [IRAQ2]

ALAWI, Abdel-Salam Abdel-Rahman (a.k.a. ALLAWI, Salam), Iraq; General Manager of INDUSTRIAL BANK OF IRAQ (individual) [IRAQ2]

AL-AZAWI, Dafir, Iraq (individual) [IRAQ2]

AL-AZAWI, Hatem Hamdan, Deli Abbas, Iraq; Diyali, Al-Khalis Sector, Iraq; DOB circa 1937 (individual) [IRAQ2]

AL-AZZAWI, Hikmat Mizban Ibrahim; DOB 1934; POB Diyala, Iraq; nationality Iraq; Former Deputy Prime Minister and Finance Minister (individual) [IRAQ2]

ALBA CERDA, Salvador, c/o ADP, S.C., Tijuana, Baja California, Mexico; c/o Farmacia Vida Suprema, S.A. DE C.V, Tijuana, Baja California, Mexico; Avenida Pacifico No. 2834, Seccion Costa de Oro Fraccionamiento Playas de Tijuana 22250, Tijuana, Baja California, Mexico; c/o Distribuidora Imperial De Baja California, S.A. DE C.V., Tijuana, Baja California, Mexico; Avenida Pacifico No. 2408, Seccion Costa de Oro Fraccionamiento Playas de Tijuana 22250, Tijuana, Baja California, Mexico; DOB 25 Dec 1947; POB Patzcuaro, Michoacan; Credencial electoral 125324910951 (Mexico) (individual) [SDNTK]

AL-BAHTIYTI, Muhammad Rab'a al-Sayid (a.k.a. AL-BAHTITI, Muhammad Mahmud; a.k.a. AL-BAHTITI, Muhammad Mahmud Rabi' al-Zayd; a.k.a. AL-BAHTITI, Muhammad Rabi'; a.k.a. AL-HATITI, Muhammad Rabi' al-Sa'id; a.k.a. AL-MASRI, Abu Dujana); DOB 1971; POB al-Sharqiyyah, Egypt; nationality Egypt (individual) [SDGT]

AL-BAKOUN ALA AL-AHD ORGANIZATION (a.k.a. FAITHFUL TO THE OATH), Algeria [SDGT]

ALBAN BURBANO, Luis Alberto (a.k.a. ALBAN URBANO, Luis Alberto; a.k.a. CALARCA, Marco Leon; a.k.a. CALARCA, Marcos Leon); DOB 16 Aug 1957; POB Cali, Valle, Colombia; Cedula No. 16588328 (Colombia) (individual) [SDNTK]

ALBANIAN NATIONAL ARMY (a.k.a. AKSH; a.k.a. ANA) [BALKANS]

AL-BARAKAAT, Mogadishu, Somalia; Dubai, United Arab Emirates [SDGT]

AL-BARAKAAT BANK, Mogadishu, Somalia [SDGT]

AL-BARAKAAT BANK OF SOMALIA (a.k.a. BARAKAAT BANK OF SOMALIA; a.k.a. BBS), Mogadishu, Somalia; Bossaso, Somalia [SDGT]

AL-BARAKAAT GROUP OF COMPANIES SOMALIA LIMITED (a.k.a. AL-BARAKAT FINANCIAL COMPANY), Mogadishu, Somalia; P.O. Box 3313, Dubai, United Arab Emirates [SDGT]

AL-BARAKAAT WIRING SERVICE, 2940 Pillsbury Avenue, Suite 4, Minneapolis, MN 55408 [SDGT]

AL-BARAKAT FINANCE GROUP, Mogadishu, Somalia; Dubai, United Arab Emirates [SDGT]

AL-BARAKAT FINANCIAL HOLDING COMPANY, Mogadishu, Somalia; Dubai, United Arab Emirates [SDGT]

AL-BARAKAT GLOBAL TELECOMMUNICATIONS (a.k.a. BARAKAAT GLOBETELCOMPANY), Mogadishu, Somalia; Hargeysa, Somalia; P.O. Box 3313, Dubai, United Arab Emirates [SDGT]

AL-BARAKAT INTERNATIONAL (a.k.a. BARACO CO.), Box 2923, Dubai, United Arab Emirates [SDGT]

AL-BARAKAT INVESTMENTS, P.O. Box 3313, Deira, Dubai, United Arab Emirates [SDGT]

AL-BASHAIR TRADING COMPANY, LTD (a.k.a. AL-BASHAAIR TRADING COMPANY, LTD; a.k.a. AL-BASHAER TRADING COMPANY, LTD; a.k.a. AL-BASHA'IR TRADING COMPANY, LTD; a.k.a. AL-BASHIR TRADING COMPANY, LTD), Sadoon St, Al-Ani Building, First Floor, Baghdad, Iraq [IRAQ2]

AL-BATHALI, Mubarak Mushakhas Sanad (a.k.a. AL BATHALI, Mubarak Mishkhis Sanad; a.k.a. AL-BADHALI, Mubarak Mishkhis Sanad; a.k.a. AL-BATHALI, Mubarak; a.k.a. AL-BATHALI, Mubarak Mishkhas Sanad; a.k.a. AL-BAZALI, Mubarak Mishkhas Sanad; a.k.a. AL-BTHALY, Mobarak Meshkhas Sanad); DOB 1 Oct 1961; citizen Kuwait; Passport 101856740 (Kuwait) (individual) [SDGT]

AL-BAZZAZ, Hikmet Abdallah (a.k.a. AL-BAZAZ, Hikmet Abdullah), Iraq; Former Minister of Education (individual) [IRAQ2]

ALBERDI URANGA, Itziar; DOB 7 Oct 1963; POB Durango, Vizcaya Province, Spain; D.N.I. 78.865.693 (Spain); Member ETA (individual) [SDGT]

ALBISU IRIARTE, Miguel; DOB 7 Jun 1961; POB San Sebastian, Guizpucoa Province, Spain; D.N.I. 15.954.596 (Spain); Member ETA (individual) [SDGT]

AL-BUTHE, Soliman (a.k.a. AL BUTHI, Soliman H.S.; a.k.a. AL-BATAHAI, Soliman; a.k.a. AL-BATHI, Soliman; a.k.a. AL-BUTHE, Suliman Hamd Suleiman); DOB 8 Dec 1961; POB Cairo, Egypt; nationality Saudi Arabia; Passport B049614 (Saudi Arabia); alt. Passport C536660 (Saudi Arabia) issued 5 May 2001 expires 11 Mar 2006 (individual) [SDGT]

ALCALDE LINARES, Angel; DOB 2 May 1943; POB Portugalete, Vizcaya Province, Spain; D.N.I. 15.390.353 (Spain); Member ETA (individual) [SDGT]

ALCANTAR PRECIADO, Simon, c/o GRUPO INMOBILIARIO PROFESIONAL BAJA, S.A DE C.V., Tijuana, Baja California, Mexico; c/o PROMOTORA FIN, S.A., Tijuana, Baja California, Mexico; DOB 12 Feb 1964; POB Jalisco, Mexico; citizen Mexico; nationality Mexico; C.U.R.P. AAPS640212HJCLRM09 (Mexico) (individual) [SDNTK]

AL-DAGMA, Aschraf (a.k.a. “NOOR”), Clemens-August Strasse 10, Kolpinghaus, Beckum 59269, Germany; Leipziger Strasse 64, Altenburg 04600, Germany; DOB 28 Apr 1969; POB Abasan, Gaza Strip; nationality possibly Palestinian;arrested 23 Apr 2002 (individual) [SDGT]

AL-DAJANI, Leila N.S., P.O. Box 1318, Amman, Jordan (individual) [IRAQ2]

AL-DAJANI, Nadim S., P.O. Box 1318, Amman, Jordan (individual) [IRAQ2]

AL-DAJANI, Sa'ad, P.O. Box 1318, Amman, Jordan (individual) [IRAQ2]

ALDANA JUNCA, Jose Tiberio, c/o RIONAP S.A., Quito, Ecuador; c/o LATINFARMACOS S.A., Quito, Ecuador; DOB 13 Jul 1973; Cedula No. 79609622 (Colombia); Passport 79609622 (Colombia) (individual) [SDNT]

AL-DARI, Harith Sulayman (a.k.a. AL DARI, Hareth; a.k.a. AL-DARI AL-ZAWBAI, Harith; a.k.a. AL-DARI, Harith; a.k.a. AL-DAURI, Hareth; a.k.a. AL-DHARI, Harith; a.k.a. AL-DHARI, Harith S.; a.k.a. AL-DURI, Harith; a.k.a. DARI AL-ZAWBA'I, Harith), Akashat, Iraq; Abu Ghuraib, Iraq; Egypt; Qatar; Jordan; DOB 1941; POB Baghdad, Iraq; citizen Iraq; nationality Iraq; Passport N348171/IRAQ (Iraq) (individual) [IRAQ3]

AL-DIBISKI, Nur Al-Din (a.k.a. AL-DABASKI, Salim Nur al-Din; a.k.a. AL-DABSKI, Salem Nor Eldin Amohamed; a.k.a. AL-DABSKI, Salim Nur al-Din; a.k.a. RAGAB, Abdullah; a.k.a. RAJAB, Abdallah; a.k.a. “AL-WARD, 'Abd”; a.k.a. “AL-WARD, Abu”; a.k.a. “AL-WARUD, Abu”; a.k.a. “NAIM, Abu”); DOB circa 1963; POB Tripoli, Libya; Passport 1990/345751 (Libya) (individual) [SDGT]

AL-DULAIMI, Khalaf (a.k.a. AL-DULAYMI, Khalaf M.M.); DOB 25 Jan 1932; Passport #H0044232 (Iraq) (individual) [IRAQ2]

AL-DULAYMI, Hasan Hashim Khalaf (a.k.a. “ABU WISSAM”), 30th Street, Al-Yarmuk Area, Jadat Al-Jaysh District, Damascus, Syria; House #43, Lane #17, Subdivision #808, Al-Dawrah, Baghdad, Iraq; DOB 1942; POB Baghdad, Iraq; nationality Iraq (individual) [IRAQ2]

AL-DULAYMI, Latif Nusayyif Jasim; DOB circa 1941; POB Ar-Rashidiya suburb of Baghdad, Iraq; nationality Iraq; Former Ba'th party military bureau deputy chairman (individual) [IRAQ2]

AL-DURI, Izzat Ibrahim (a.k.a. ABU AHMAD; a.k.a. ABU BRAYS); DOB circa 1942; POB al-Dur, Iraq; nationality Iraq; Former deputy commander-in-chief of Iraqi military; deputy secretary, Former Ba'th party regional command; Former vice chairman, Revolutionary Command Council (individual) [IRAQ2]

AL-DURI, Jawhar Majid, Iraq; DOB circa 1942; POB Al-Dur, Iraq; nationality Iraq; wife of Izzat Ibrahim Al-Duri (individual) [IRAQ2]

AL-DURI, Thabet, Rukan al-Din, Syria; Karkh District, Baghdad, Iraq; DOB 1943; alt. DOB 1944; POB Dur, Iraq (individual) [IRAQ2]

ALEGRIA DE PIO (vessel) [CUBA]

ALERO S.A., Carrera 7 No. 34-341 Bodega 3, Cali, Colombia; NIT # 800239872-5 (Colombia) [SDNT]

ALFA COMPANY LIMITED FOR INTERNATIONAL TRADING AND MARKETING (a.k.a. ALFA INVESTMENT AND INTERNATIONAL TRADING COMPANY; a.k.a. ALFA TRADING COMPANY), P.O. Box 910606, Amman 11191, Jordan [IRAQ2]

ALFA PHARMA S.A., Diagonal 17 No. 28A-80, Bogota, Colombia [SDNT]

AL-FADHLI, Muhsin (a.k.a. ABU MAJID SAMIYAH; a.k.a. ABU SAMIA; a.k.a. AL-FADHLI, Muhsin Fadhil 'Ayyid; a.k.a. AL-FADHLI, Muhsin Fadil Ayid Ashur), Block Four, Street 13, House # 179, Kuwait City, Al-Riqqa area, Kuwait; DOB 24 Apr 1981; Passport 106261543 (Kuwait) (individual) [SDGT]

AL-FAQIH, Abd al-Rahman (a.k.a. ALBASHIR, Mohammed; a.k.a. AL-BASHIR, Muhammad; a.k.a. AL-FAQI, Bashir Mohammed Ibrahim; a.k.a. AL-KHATAB, Abd Al Rahman; a.k.a. ISMAIL, Mohammed; a.k.a. MOHAMMED, Al-Basher; a.k.a. “ABU ABD AL-RAHMAN”; a.k.a. “ABU KHALID”; a.k.a. “ABU MOHAMMED”; a.k.a. “MAHMUD”; a.k.a. “MUSTAFA”), Birmingham, United Kingdom; DOB 15 Dec 1959; POB Libya (individual) [SDGT]

AL-FAQIH, Saad Rashed Mohammad (a.k.a. ABU UTHMAN; a.k.a. AL FAQIH, Saad; a.k.a. AL-FAGEAH, Sa'd Rashid Muhammed; a.k.a. ALFAGIH, Saad; a.k.a. AL-FAGIH, Saad; a.k.a. AL-FAKIH, Saad; a.k.a. AL-FAQI, Sa'd; a.k.a. AL-FAQIH, Saad; a.k.a. AL-FAQIH, Sa'ad; a.k.a. AL-FAQIH, Sa'd), London, United Kingdom; DOB 1 Feb 1957; alt. DOB 31 Jan 1957; POB Zubair, Iraq; citizen Saudi Arabia; Passport 760620 issued 15 Sep 1991 expires 22 Jul 1996; Doctor (individual) [SDGT]

ALFARACHEM COMPANY LIMITED (a.k.a. AL PHARAKIM; a.k.a. ALFARACHEM PHARMACEUTICALS INDUSTRIES LIMITED; a.k.a. ALFARAKIM), 27 Al Amarat Street, Khartoum, Sudan [SUDAN]

AL-FAWAZ, Khalid Abd al-Rahman Hamd (a.k.a. AL FAWAZ, Khalid Abdulrahman H.; a.k.a. AL FAWWAZ, Khaled; a.k.a. AL FAWWAZ, Khalid; a.k.a. AL-FAUWAZ, Khaled; a.k.a. AL-FAUWAZ, Khaled A.; a.k.a. AL-FAWWAZ, Khaled; a.k.a. AL-FAWWAZ, Khalid), 55 Hawarden Hill, Brooke Road, London NW2 7BR, United Kingdom; DOB 25 Aug 1962; alt. DOB 24 Aug 1962; POB Kuwait; nationality Saudi Arabia; Passport 456682 issued 6 Nov 1990 expires 13 Sep 1995 (individual) [SDGT]

ALFONSO BARRERA RIOS Y CIA. S. EN C.S., Calle 14 Oeste No. 2B1-45 apto. 302E, Cali, Colombia; NIT # 900101150-5 (Colombia) [SDNT]

AL-GHOZI, Fathur Rohman (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT]

ALGUADIS, Selim; DOB 27 May 1944; POB Turkey; nationality Turkey; Passport 585843 (Turkey) issued 11 Nov 1999 (individual) [NPWMD]

AL-HABOBI, Dr. Safa Haji J (a.k.a. AL-HABOBI, Dr. Safa; a.k.a. AL-HABUBI, Dr. Safa Hadi Jawad; a.k.a. HABUBI, Dr. Safa Hadi Jawad; a.k.a. HABUBI, Dr. Safa Jawad; a.k.a. JAWAD, Dr. Safa Hadi), Iraq; Flat 4D Thorney Court, Palace Gate, Kensington, United Kingdom; DOB 01 Jul 1946; Former Minister of Oil (individual) [IRAQ2]

AL-HAMATI SWEETS BAKERIES, Al-Mukallah, Hadhramawt Governorate, Yemen [SDGT]

AL-HAMATI, Muhammad (a.k.a. AL-AHDAL, Mohammad Hamdi Sadiq; a.k.a. AL-MAKKI, Abu Asim), Yemen (individual) [SDGT]

AL-HAMMADI, Hamid Yusif (a.k.a. HAMADI, Hamed Yussef), Iraq; Former Minister of Culture and Information (individual) [IRAQ2]

AL-HAQ, Amin (a.k.a. AH HAQ, Dr. Amin; a.k.a. AMIN, Muhammad; a.k.a. UL-HAQ, Dr. Amin); DOB 1960; POB Nangahar Province, Afghanistan (individual) [SDGT]

AL-HARAMAIN & AL MASJED AL-AQSA CHARITY FOUNDATION: BOSNIA BRANCH (a.k.a. AL HARAMAIN AL MASJED AL AQSA; a.k.a. AL HARAMAYN AL MASJID AL AQSA; a.k.a. AL-HARAMAYN AND AL MASJID AL AQSA CHARITABLE FOUNDATION), Hasiba Brankovica No. 2A, Sarajevo, Bosnia and Herzegovina [SDGT]

AL-HARAMAIN: AFGHANISTAN BRANCH, Afghanistan [SDGT]

AL-HARAMAIN: ALBANIA BRANCH, Ifran Tomini street, #58, Tirana, Albania [SDGT]

AL-HARAMAIN: BANGLADESH BRANCH, House 1, Road 1, S-6, Uttara, Dhaka, Bangladesh [SDGT]

AL-HARAMAIN: ETHIOPIA BRANCH, Woreda District 24 Kebele Section 13, Addis Ababa, Ethiopia [SDGT]

AL-HARAMAIN: INDONESIA BRANCH (a.k.a. AL HARAMAIN; a.k.a. AL-HARAMAIN FOUNDATION; a.k.a. YAYASAN AL HARAMAIN; a.k.a. YAYASAN AL HARAMAINI; a.k.a. YAYASAN AL-MANAHIL-INDONESIA), Jalan Laut Sulawesi Blok DII/4, Kavling Angkatan Laut Duren Sawit, Jakarta Timur 13440, Indonesia [SDGT]

AL-HARAMAIN: KENYA BRANCH (a.k.a. ALHARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMAIN: PAKISTAN BRANCH (a.k.a. ALHARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin road, F-10/1, Islamabad, Pakistan [SDGT]

AL-HARAMAIN: TANZANIA BRANCH (a.k.a. ALHARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Singida, Tanzania; PO Box 3616, Dar es Salaam, Tanzania; Tanga, Tanzania [SDGT]

AL-HARAMAIN: THE NETHERLANDS BRANCH (a.k.a. STICHTING AL HARAMAIN HUMANITARIAN AID), Jan Hanzenstraat 114, 1053SV, Amsterdam, Netherlands [SDGT]

AL-HARAMAIN: UNITED STATES BRANCH (a.k.a. AL HARAMAIN FOUNDATION, INC.; a.k.a. ALHARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. AL-HARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 3800 Highway 99 S., Ashland, OR 97520-8718; 2151 E. Division St., Springfield, MO 65803; 1257 Siskiyou BLVD, Ashland, OR 97520 [SDGT]

AL-HARAMAIN FOUNDATION: COMOROS ISLANDS, B/P: 1652, Moroni, Comoros [SDGT]

AL-HARAMAIN ISLAMIC FOUNDATION (a.k.a. ALHARAMAIN; a.k.a. AL-HARAMAIN; a.k.a. ALHARAMAIN FOUNDATION; a.k.a. AL-HARAMAIN FOUNDATION; a.k.a. ALHARAMAIN HUMANITARIAN FOUNDATION; a.k.a. AL-HARAMAIN HUMANITARIAN FOUNDATION; a.k.a. ALHARAMAIN ISLAMIC FOUNDATION; a.k.a. ALHARAMAYN; a.k.a. AL-HARAMAYN; a.k.a. ALHARAMAYN FOUNDATION; a.k.a. AL-HARAMAYN FOUNDATION; a.k.a. ALHARAMAYN HUMANITARIAN FOUNDATION; a.k.a. AL-HARAMAYN HUMANITARIAN FOUNDATION; a.k.a. ALHARAMAYN ISLAMIC FOUNDATION; a.k.a. AL-HARAMAYN ISLAMIC FOUNDATION; a.k.a. ALHARAMEIN; a.k.a. AL-HARAMEIN; a.k.a. ALHARAMEIN FOUNDATION; a.k.a. AL-HARAMEIN FOUNDATION; a.k.a. ALHARAMEIN HUMANITARIAN FOUNDATION; a.k.a. AL-HARAMEIN HUMANITARIAN FOUNDATION; a.k.a. ALHARAMEIN ISLAMIC FOUNDATION; a.k.a. AL-HARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia and Herzegovina; Somalia [SDGT]

AL-HARAMAIN ISLAMIC FOUNDATION, West Al-M'ather Street, Riyadh, Saudi Arabia; P.O. Box 69606, Riyadh 11557, Saudi Arabia; all offices worldwide [SDGT]

AL-HASSAN, Anas Malik Dohan (a.k.a. AL-HASSAN, Anas; a.k.a. DOHAN, Anas; a.k.a. DOHAN, Anas Malik; a.k.a. MALIK, Anas), Baghdad, Iraq (individual) [IRAQ2]

AL-HASSAN, Anas Malik Dohan (a.k.a. AL-HASSAN, Anas; a.k.a. DOHAN, Anas; a.k.a. DOHAN, Anas Malik; a.k.a. MALIK, Anas), Jordan (individual) [IRAQ2]

AL-HIYARI, Bilal Mansur (a.k.a. AL-KHAYARI, Bilal Mansur Mahmud), Suwaylah, Jordan; DOB circa 1969; POB al-Salt, Jordan; nationality Jordan (individual) [SDGT]

AL-HUDA STATE COMPANY FOR RELIGIOUS TOURISM (a.k.a. AL-HODA FOR RELIGIOUS TOURISM COMPANY; a.k.a. AL-HODA STATE COMPANY FOR RELIGIOUS TOURISM; a.k.a. AL-HUDA FOR RELIGIOUS TOURISM COMPANY), Iraq [IRAQ2]

AL-HUWAYSH, Isam Rashid, Iraq; Former Governor of the Central Bank (individual) [IRAQ2]

ALI, Abbas Abdi, Mogadishu, Somalia (individual) [SDGT]

ALI, Ahmed Mohammed Hamed (a.k.a. ABDUREHMAN, Ahmed Mohammed; a.k.a. ABU FATIMA; a.k.a. ABU ISLAM; a.k.a. ABU KHADIIJAH; a.k.a. AHMED HAMED; a.k.a. AHMED THE EGYPTIAN; a.k.a. AHMED, Ahmed; a.k.a. ALI, Ahmed Mohammed; a.k.a. ALI, Hamed; a.k.a. AL-MASRI, Ahmad; a.k.a. AL-SURIR, Abu Islam; a.k.a. HEMED, Ahmed; a.k.a. SHIEB, Ahmed; a.k.a. SHUAIB), Afghanistan; DOB 1965; POB Egypt; citizen Egypt (individual) [SDGT]

ALI, Ali Abdul Mutalib, Germany (individual) [IRAQ2]

ALIQ, Qasim (a.k.a. ALEIK, Kassem; a.k.a. 'ALIQ, Hajj Qasim; a.k.a. 'ALIQ, Qasem; a.k.a. 'ULAYQ, Qasim); DOB 1956; POB Lebanon (individual) [SDGT]

AL-IRAQI, Abd al-Hadi (a.k.a. ABU ABDALLAH; a.k.a. AL-IRAQI, Abdal al-Hadi) (individual) [SDGT]

AL-ISLAMBULI, Muhammad Ahmad Shawqi; DOB 21 Jan 1952; POB Minya, Egypt; nationality Egypt (individual) [SDGT]

ALISPAHIC, Bakir; DOB 1 Oct 1956; POB Ahatovici, Bosnia-Herzegovina (individual) [BALKANS]

AL-ITIHAAD AL-ISLAMIYA (a.k.a. AIAI) [SDGT]

ALIZAI, Haji Azizullah (a.k.a. AZIZULLAH, Haji), Yatim Chah, Afghanistan; Kabul, Afghanistan; Musa Qala District, Helmund Province, Afghanistan; Musa Qaleh District, Helmand Province, Afghanistan; Lashkar Gah, Helmand Province, Afghanistan; DOB 1950; alt. DOB 1952; POB Gereshk District, Helmund Province, Afghanistan; alt. POB Kabul City, Afghanistan; citizen Afghanistan; Electoral Registry No. 07385114 (Afghanistan) (individual) [SDNTK]

AL-JABBURI, Sadi Tuma Abbas, Iraq; DOB 1939; Former Adviser to the President for Military Affairs (individual) [IRAQ2]

AL-JABURI, Mish'an Rakin Thamin (a.k.a. AL JABBURY, Mashaan Rakadh Dhamin; a.k.a. AL JABOURI, Meshan Thamin; a.k.a. AL JABOURI, Mishan Riqardh Damin; a.k.a. AL JABURI, Misham; a.k.a. AL-JABBURI, Mishan; a.k.a. AL-JABBURI, Mish'an Rakkad Damin; a.k.a. ALJABOURI, Mashaan; a.k.a. AL-JABOURI, Mishan; a.k.a. AL-JABURI, Mushan; a.k.a. AL-JIBURI, Mush'an; a.k.a. AL-JUBOURI, Mishaan; a.k.a. AL-JUBURI, Meshaan; a.k.a. AL-JUBURI, Mish'an; a.k.a. EL-JBURI, Mash'an; a.k.a. JABOURI, Mashaan; a.k.a. JIBOURI, Mishan; a.k.a. JUBURI, Mashan), Latakia, Syria; Damascus, Syria; DOB 1 Aug 1957; POB Ninwa, Iraq; citizen Syria; nationality Iraq; Passport 01374026 (individual) [IRAQ3]

AL-JALAMAH, Jaber (a.k.a. AL-JALAHMA, Jaber; a.k.a. AL-JALAHMAH, Abu Muhammad; a.k.a. AL-JALAHMAH, Jabir Abdallah Jabir Ahmad; a.k.a. AL-JALAMAH, Jabir 'Abdallah Jabir Ahmad; a.k.a. AL-JALHAMI, Jabir; a.k.a. “'ABDUL-GHANI”; a.k.a. “ABU MUHAMMAD”); DOB 24 Sep 1959; nationality Kuwait; Passport 101423404 (individual) [SDGT]

AL-JANABI, Nabil Abdullah, Beirut, Lebanon; DOB 14 Aug 1942; POB Baghdad, Iraq; Passport H101901/1 (Iraq) (individual) [IRAQ2]

AL-JAZIRI, Abu Bakr, Peshawar, Pakistan; nationality Algeria (individual) [SDGT]

AL-JIHAD (a.k.a. EGYPTIAN AL-JIHAD; a.k.a. EGYPTIAN ISLAMIC JIHAD; a.k.a. JIHAD GROUP; a.k.a. NEW JIHAD) [SDT] [FTO] [SDGT]

AL-JIZRAWI, Taha Yassin Ramadan (a.k.a. RAMADAN, Taha Yasin; a.k.a. RAMADAN, Taha Yassin); DOB circa 1938; nationality Iraq; Former Vice President (individual) [IRAQ2]

AL-KABI, Arkam 'Abbas (a.k.a. AL-KA'ABI, Shaykh Abu-Akram; a.k.a. AL-KA'ABI, Sheik Akram; a.k.a. AL-KA'BI, Akram Abas; a.k.a. “ABU-MUHAMMAD”; a.k.a. “'ALI, Abu”; a.k.a. “KARUMI”); DOB circa 1976; alt. DOB circa 1973; POB al 'Amarah, Iraq; alt. POB al Kalamiy, Iraq; nationality Iraq (individual) [IRAQ3]

AL-KADR, Ahmad Sa'id (a.k.a. AL-KANADI, Abu Abd Al-Rahman); DOB 01 Mar 1948; POB Cairo, Egypt (individual) [SDGT]

ALKALA ASOCIADOS S.A. (f.k.a. INVHERESA S.A.), Calle 1A No. 62A-120, Cali, Colombia; Calle 70N No. 14-31, Cali, Colombia; Calle 1A No. 62A-130, Cali, Colombia; Avenida 2N No. 7N-55 of. 501, Cali, Colombia; NIT # 800108121-0 (Colombia) [SDNT]

AL-KHAFAJI, Muhsin Khadr; nationality Iraq; Former Ba'th party regional command chairman, al-Qadisiyah (individual) [IRAQ2]

AL-KHAFAJI, Sabah, 254 Rue Adolphe Pajeaud, 92160 Antony, France (individual) [IRAQ2]

AL-KHASHIBAN, Fahd Muhammad 'Abd Al-'Aziz (a.k.a. AL-KHASHAYBAN, Fahd Muhammad 'Abd Al-'Aziz; a.k.a. AL-KHASHIBAN, Fahad; a.k.a. AL-KHASHIBAN, Fahad H.A.; a.k.a. AL-KHOSHIBAN, Fahad Mohammad A.; a.k.a. AL-KHOSHIBAN, Fahad Muhammad A.; a.k.a. AL-KHOSIBAN, Fahad H.A.; a.k.a. AL-KHUSHAYBAN, Fahd Muhammad 'Abd al-'Aziz; a.k.a. KHASHAYBAN, Fahad H.A.; a.k.a. KHASIBAN, Fahad H.A.; a.k.a. KHESHAIBAN, Fahad H.A.; a.k.a. KHESHAYBAN, Fahad H.A.; a.k.a. KHUSHAIBAN, Fahd; a.k.a. “RAHMAN, Abdur Abu”; a.k.a. “RAHMAN, Abu Abdur”; a.k.a. “THABET, Shaykh”; a.k.a. “THABIT, Abu”; a.k.a. “THABIT, Shaykh Abu”); DOB 16 Oct 1966; POB 'Aniza, Saudi Arabia; nationality Saudi Arabia (individual) [SDGT]

AL-KHODAIR, Ahmad Hussein (a.k.a. SAMARRAI, Ahmad Husayn Khudayir); DOB 1941; Former Minister of Finance, Iraq (individual) [IRAQ2]

AL-KUBAYSI, Ugla Abid Saqar (a.k.a. SAQR AL-KABISI ABD AQALA); DOB 1944; POB Kubaisi, al-Anbar Governorate, Iraq; nationality Iraq; Former Ba'th party regional command chairman, Maysan (individual) [IRAQ2]

AL-KURD, Ahmad Harb (a.k.a. AL KURD, Ahmed; a.k.a. AL-KARD, Ahmad; a.k.a. AL-KIRD, Ahmad; a.k.a. ALKURD, Ahmad; a.k.a. AL-KURD, Ahmed Hard; a.k.a. EL-KURD, Ahmed), Deir Al-Balah, Gaza, Palestinian; DOB circa 1949; alt. DOB circa 1951; POB Deir Al-Balah, Gaza (individual) [SDGT]

ALLAN GRANGE FARM, Chegutu, Zimbabwe [ZIMBABWE]

ALLANE, Hacene (a.k.a. ABDELHAY, al-Sheikh; a.k.a. AHCENE, Cheib; a.k.a. “ABU AL-FOUTOUH”; a.k.a. “BOULAHIA”; a.k.a. “HASSAN THE OLD”); DOB 17 Jan 1941; POB El Menea, Algeria (individual) [SDGT]

ALLEN, Cyril; DOB 26 Jul 1952; Former Chairman, National Patriotic Party of Liberia; nationality Liberia; alt. nationality Nigerian (individual) [LIBERIA]

AL-LIBI, Abd al-Muhsin (a.k.a. ABU BAKR, Ibrahim Ali Muhammad; a.k.a. SABRI, Abdel Ilah; a.k.a. TANTOUCHE, Ibrahim Abubaker; a.k.a. TANTOUSH, Ibrahim Abubaker; a.k.a. TANTOUSH, Ibrahim Ali Abu Bakr; a.k.a. “'ABD AL-MUHSI”; a.k.a. “'ABD AL-RAHMAN”; a.k.a. “ABU ANAS”); DOB 1966; alt. DOB 27 Oct 1969; nationality Libya; Passport 203037 (Libya) (individual) [SDGT]

AL-LIBI, Ibn Al-Shaykh (individual) [SDGT]

AL-LIBY, Anas (a.k.a. AL-LIBI, Anas; a.k.a. AL-RAGHIE, Nazih; a.k.a. AL-RAGHIE, Nazih Abdul Hamed; a.k.a. AL-SABAI, Anas), Afghanistan; DOB 30 Mar 1964; alt. DOB 14 May 1964; POB Tripoli, Libya; citizen Libya (individual) [SDGT]

ALM INVESTMENT FLORIDA, INC., 780 NW 42nd Avenue, Suite 516, Miami, FL 33126; 9100 South Dadeland Boulevard, Suite 912, Miami, FL 33156; 780 NW Le Jeune Rd, Suite 516, Miami, FL 33126; US FEIN 65-0336852 (United States) [SDNT]

ALMACAES S.A., Avenida 15 No. 123-30, Local 1-13, Bogota, Colombia; Carrera 65 No. 71-74, Barranquilla, Colombia; Diagonal 127 No. 17-34 Piso 2, Bogota, Colombia; NIT # 830086515-1 (Colombia) [SDNT]

ALMACEN Y COMPRAVENTA LOS 3 OROS, Carrera 7 No. 11-60, Cartago, Valle, Colombia; NIT # 16219873-3 (Colombia) [SDNT]

AL-MAJID, Hussein Kamel Hassan (a.k.a. AL-MAJID, Husayn Kamil Hasan), Baghdad, Iraq; DOB 1955; Former Minister of Industry and Minerals and Advisor to the President (individual) [IRAQ2]

AL-MALIKI, Shabib Lazem (a.k.a. AL-MALEKI, Shebib Lazim), Iraq; DOB 1936; Former Minister of Justice (individual) [IRAQ2]

ALMANZA BARRAZA, Alfonso Rafael, c/o LITOPHARMA, Barranquilla, Colombia; Carrera 35 No. 43-62, Barranquilla, Colombia; c/o CAJA SOLIDARIA, Bogota, Colombia; c/o COPSERVIR LTDA., Bogota, Colombia; Cedula No. 72206138 (Colombia) (individual) [SDNT]

AL-MARSUMI, Saddah Jaylut (a.k.a. AL-MARSUMI, Sa'da Jalut Hassam; a.k.a. JALOUD, Sa'daa; a.k.a. JALOUT, Saddaa), Al Shajlah Village, Syria; Baghuz, Syria; As Susah Village, Syria; DOB 1955; alt. DOB 1956; citizen Syria (individual) [SDGT]

AL-MASHHADANI, Saif-al-Din; DOB 1956; POB Baghdad, Iraq; nationality Iraq; Ba'th party regional command chairman, al-Muthanna (individual) [IRAQ2]

AL-MASRI, Abu Hafs (a.k.a. ABDULLAH, Sheikh Taysir; a.k.a. ABU HAFS; a.k.a. ABU SITTA, Subhi; a.k.a. ATEF, Muhammad; a.k.a. ATIF, Mohamed; a.k.a. ATIF, Muhammad; a.k.a. EL KHABIR, Abu Hafs el Masry; a.k.a. TAYSIR); DOB 1951; alt. DOB 1944; alt. DOB 1956; POB Alexandria, Egypt (individual) [SDT] [SDGT]

AL-MASRI, Abu Hamza (a.k.a. AL-MISRI, Abu Hamza; a.k.a. EMAN, Adam Ramsey; a.k.a. KAMEL, Mustafa; a.k.a. MUSTAFA, Mustafa Kamel), 8 Adie Road, Hammersmith, London W6 OPW, United Kingdom; 9 Albourne Road, Shepherds Bush, London W12 OLW, United Kingdom; DOB 15 Apr 1958 (individual) [SDGT]

AL-MUGHASSIL, Ahmad Ibrahim (a.k.a. ABU OMRAN; a.k.a. AL-MUGHASSIL, Ahmed Ibrahim); DOB 26 Jun 1967; POB Qatif-Bab al Shamal, Saudi Arabia; citizen Saudi Arabia (individual) [SDGT]

AL-MUHAMMAD, Khamis Sirhan (a.k.a. DR. KHAMIS); nationality Iraq; Ba'th party regional command chairman, Karbala (individual) [IRAQ2]

AL-MUJIL, Abd Al Hamid Sulaiman Muhammed (a.k.a. AL MOJIL, Abdulhamid Sulaiman M.; a.k.a. AL MUJAL, Dr. Abd al-Hamid; a.k.a. AL MU'JIL, Abd al-Hamid Sulaiman; a.k.a. AL-MU'AJJAL, Dr. Abd Al-Hamid; a.k.a. AL-MU'JIL, Dr. Abd Abdul-Hamid bin Sulaiman; a.k.a. MUJEL, A.S.; a.k.a. MU'JIL, Abd al-Hamid; a.k.a. “ABDALLAH, Abu”); DOB 28 Apr 1949; alt. DOB 29 Apr 1949; POB Kuwait; citizen Saudi Arabia; nationality Saudi Arabia; Passport F 137998 issued 18 Apr 2004 expires 24 Feb 2009; Doctor (individual) [SDGT]

AL-NAJIM, Samir abd al-Aziz; DOB 1937; alt. DOB 1938; POB Baghdad, Iraq; nationality Iraq; Ba'th party regional command chairman, East Baghdad (individual) [IRAQ2]

AL-NAQIB, Zuhair Talib abd-al-Sattar; DOB circa 1948; nationality Iraq; Director, Military Intelligence (individual) [IRAQ2]

AL-NASSER, Abdelkarim Hussein Mohamed; POB Al Ihsa, Saudi Arabia; citizen Saudi Arabia (individual) [SDGT]

AL-NUMAN, Aziz Salih; DOB 1941; alt. DOB 1945; POB An Nasiriyah, Iraq; nationality Iraq; Ba'th party regional command chairman (individual) [IRAQ2]

AL-NUR HONEY PRESS SHOPS (a.k.a. AL-NUR HONEY CENTER), Sanaa, Yemen [SDGT]

ALOARDI, Carlo Giovanni, Milan, Italy (individual) [CUBA]

ALPHA INTERNATIONAL (PRIVATE) LTD (a.k.a. ALPHA INTERNATIONAL (PRIVATE) LIMITED), Flat 1, Aileen Gardens, 51A Park Road, Camberley, Surrey GU15 2SP, United Kingdom [ZIMBABWE]

AL-QADI, Yasin Abdullah Ezzedine (a.k.a. KADI, Shaykh Yassin Abdullah; a.k.a. KAHDI, Yasin), Jeddah, Saudi Arabia; DOB 23 Feb 1955; POB Cairo, Egypt; nationality Saudi Arabia; Passport B 751550; alt. Passport A 848526 (Saudi Arabia) expires 29 Mar 2001; alt. Passport E 976177 issued 6 Mar 2004 expires 11 Jan 2009 (individual) [SDGT]

AL-QARD AL-HASSAN ASSOCIATION (a.k.a. AL-QUARD AL-HASSAN ASSOCIATION; a.k.a. AL-QUARDH AL-HASSAN ASSOCIATION; a.k.a. KARADH AL-HASSAN), Beirut, Lebanon [SDGT]

AL-QASIR, Nazar Jumah Ali (a.k.a. AL-QASSIR, Nizar Jomaa Ali), Iraq; Former Minister of Irrigation (individual) [IRAQ2]

AL-QUBAYSI, Munir (a.k.a. AL-KUBAISI, Muneer; a.k.a. AL-KUBAYSI, Munir; a.k.a. AWAD, Munir A.; a.k.a. AWAD, Munir Mamduh), Syria; DOB 1966; POB Heet, Iraq; nationality Iraq (individual) [IRAQ2]

AL-RABI'I, Nidal, Iraq; DOB circa 1965; POB Al-Dur, Iraq; nationality Iraq; wife of Izzat Ibrahim Al-Duri (individual) [IRAQ2]

AL-RAWI, Ayad Futayyih Khalifa; DOB 1942; POB Rawah, Iraq; nationality Iraq; Quds Force Chief of Staff (individual) [IRAQ2]

AL-RAWI, Fawzi Mutlaq (a.k.a. AL-RAWI, Fawzi Isma'il Al-Husayni; a.k.a. “ABU AKRAM”; a.k.a. “ABU FIRAS”), SYRIAN BA'TH PARTY COMMAND BUILDING, AL-HALBUNI DISTRICT, DAMASCUS, Syria; SYRIAN GOVERNMENT-OWNED APARTMENT, AL-MAZZAH DISTRICT, DAMASCUS, Syria; DOB 1940; POB RAWAH CITY, IRAQ; citizen Syria; nationality Iraq; CHAIRMAN, IRAQI WING OF THE SYRIAN BA'TH PARTY (individual) [SDGT]

AL-RAWI, Saif-al-Din Fulayyih Hassan Taha (a.k.a. AL-RAWI, Ayad Futayyih); DOB 1953; POB Ar Ramadi, al-Anbar Governorate, Iraq; nationality Iraq; Republican Guard chief of staff (individual) [IRAQ2]

AL-RA'Y SATELLITE TELEVISION CHANNEL (a.k.a. AL RAIE TV CHANNEL; a.k.a. AL RA'Y SATELLITE TELEVISION STATION; a.k.a. AL RA'Y TV; a.k.a. AL-RA'I SATELLITE CHANNEL; a.k.a. AL-RA'Y SATELLITE CHANNEL; a.k.a. ARRAI TV; a.k.a. SATELLITE TELEVISION CHANNEL AL RA'Y; a.k.a. THE OPINION SATELLITE TELEVISION CHANNEL), Near Damascus in the Yaafur area, Syria; E-mail Address info@arrai.tv; Website www.arrai.tv [IRAQ3]

AL-RIDA, Karim Hasan (a.k.a. RIDA, Karim Hassan), Iraq; DOB 1944; Former Minister of Agriculture (individual) [IRAQ2]

AL-RUBA, Dr. Khadim, Iraq; Managing Director of REAL ESTATE BANK (individual) [IRAQ2]

AL-SA'DI, Amir Hamudi Hassan; DOB 5 Apr 1938; POB Baghdad, Iraq; nationality Iraq; Passport NO33301/862 issued 17 October 1997 expires 1 October 2005; alt. Passport M0003264580; alt. Passport H0100009 issued 1 May 2002; presidential scientific advisor (individual) [IRAQ2]

AL-SAD'UN, Abd-al-Baqi abd-al-Karim Abdallah; DOB 1947; nationality Iraq; Ba'th party regional command chairman, Diyala (individual) [IRAQ2]

AL-SA'DUN, Muhammad Zimam abd-al-Razzaq; DOB 1942; POB Suq ash-Shuyukh District, Dhi-Qar, Iraq; nationality Iraq; Ba'th party regional chairman, at-Tamim (individual) [IRAQ2]

AL-SAHHAF, Muhammad Said Kazim (a.k.a. AL-SAHAF, Mohammed Said), Iraq; DOB 1940; Former Minister of Foreign Affairs (individual) [IRAQ2]

AL-SALAH SOCIETY (a.k.a. AL-SALAH; a.k.a. AL-SALAH ASSOCIATION; a.k.a. AL-SALAH ISLAMIC ASSOCIATION; a.k.a. AL-SALAH ISLAMIC COMMITTEE; a.k.a. AL-SALAH ISLAMIC FOUNDATION; a.k.a. AL-SALAH ISLAMIC SOCIETY; a.k.a. AL-SALAH ORGANIZATION; a.k.a. ISLAMIC AL SALAH SOCIETY; a.k.a. ISLAMIC RIGHTEOUSNESS SOCIETY; a.k.a. ISLAMIC SALAH FOUNDATION; a.k.a. ISLAMIC SALAH SOCIETY; a.k.a. ISLAMIC SALVATION SOCIETY; a.k.a. JAMI'A AL-SALAH; a.k.a. JAMI'AT AL-SALAH AL-ISLAMI; a.k.a. JAMMEAT EL-SALAH; a.k.a. SALAH CHARITABLE ASSOCIATION; a.k.a. SALAH ISLAMIC ASSOCIATION; a.k.a. SALAH WELFARE ORGANIZATION), Bureij, Gaza, Palestinian; P.O. Box 6035, Beshara Street, Deir Al-Balah, Gaza, Palestinian; Athalatheeniy Street, Gaza, Palestinian; Deir Al-Balah Camp, Gaza, Palestinian; Rafah, Gaza, Palestinian; Al-Maghazi, Gaza, Palestinian; Gaza City, Gaza, Palestinian [SDGT]

AL-SALIH, Muhammad Mahdi (a.k.a. SALEH, Mohammed Mahdi); DOB 1947; alt. DOB 1949; POB al-Anbar Governorate, Iraq; nationality Iraq; Minister of Trade (individual) [IRAQ2]

AL-SAYYID, 'Ali Sulayman Mas'ud 'Abd (a.k.a. AL-JAWZIYYAH, Ibn al-Qayyim; a.k.a. OSMAN, Mohamed; a.k.a. SAYED, Aly Soliman Massoud Abdul; a.k.a. “AL-QAYYIM, 'Ibn”; a.k.a. “AL-ZAWL”; a.k.a. “EL-QAIM, Ibn”); DOB 1969; POB Tripoli, Libya; Passport 96/184442 (Libya) (individual) [SDGT]

AL-SHABAAB (a.k.a. AL-SHABAAB AL-ISLAAM; a.k.a. AL-SHABAAB AL-ISLAMIYA; a.k.a. AL-SHABAAB AL-JIHAAD; a.k.a. AL-SHABAB; a.k.a. HARAKAT SHABAB AL-MUJAHIDIN; a.k.a. HISB'UL SHABAAB; a.k.a. HIZBUL SHABAAB; a.k.a. MUJAHIDEEN YOUTH MOVEMENT; a.k.a. MUJAHIDIN AL-SHABAAB MOVEMENT; a.k.a. MUJAHIDIN YOUTH MOVEMENT; a.k.a. “MYM”; a.k.a. “THE UNITY OF ISLAMIC YOUTH”; a.k.a. “THE YOUTH”; a.k.a. “YOUTH WING”), Somalia [FTO] [SDGT]

AL-SHAMI, Ahmad; DOB 1965; POB Beirut, Lebanon (individual) [SDGT]

AL-SHAMI, Husayn (a.k.a. AL-SHAMI, Haj Husayn; a.k.a. AL-SHAMY, Husayn; a.k.a. ASHAMI, Husayn; a.k.a. SHAIMI, Husayn; a.k.a. SHAMAI, Husayn; a.k.a. SHAMY, Husayn), Lebanon; DOB 1948; alt. DOB 1954; alt. DOB 1960 (individual) [SDGT]

AL-SHAMMARI, Sa'ad Uwayyid 'Ubayd Mu'jil (a.k.a. ABU HAMMUDI AL-SHAMMARI; a.k.a. ABU KHALAF; a.k.a. SA'AD AL-SHAMMARI; a.k.a. “SAAD OWAIED OBAID”), 'Awinat Village, Rabi'ah District, Iraq; Tal Wardan, Iraq; Tal Hamis, Syria; DOB 3 Jul 1972; POB Tal Wardan, Ninevah, Iraq; alt. POB Tal Afar, Ninevah, Iraq (individual) [SDGT]

AL-SHANFARI, Thamer Bin Said Ahmed (a.k.a. AL SHANFARI, SHEIKH THAMER; a.k.a. AL SHANFARI, Thamer; a.k.a. AL SHANFARI, Thamer Said Ahmed; a.k.a. AL-SHANFARI, Thamer Bin Saeed; a.k.a. AL-SHANFARI, Thamer Said Ahmed; a.k.a. SHANFARI, Thamer), P.O. Box 18, Ruwi 112, Oman; DOB 3 Jan 1968; citizen Oman; nationality Oman; Passport 3253 (Oman); alt. Passport 00000999 (Oman); Chairman & Managing Director, Oryx Group and Oryx Natural Resources (individual) [ZIMBABWE]

AL-SHARIF, Sa'd Abdullah Hussein; DOB 1969; alt. DOB 1963; alt. DOB 11 Feb 1964; POB Al-Medinah, Saudi Arabia; nationality Saudi Arabia; Passport B 960789; alt. Passport G 649385 issued 8 Sep 2006 expires 17 Jul 2011 (individual) [SDGT]

AL-SHEIBANI, Abu Mustafa (a.k.a. AL-ATTABI, Hameid Thajeil Wareij; a.k.a. AL-SHAYBANI, Abu Mustafa; a.k.a. AL-SHAYBANI, Hamid; a.k.a. AL-SHEBANI, Abu Mustafa; a.k.a. AL-SHEIBANI, Hamid Thajeel; a.k.a. AL-SHEIBANI, Mustafa; a.k.a. THAJIL, Hamid), Tehran, Iran; DOB circa 1959; alt. DOB circa 1960; POB Nasiriyah, Iraq; citizen Iran; alt. citizen Iraq (individual) [IRAQ3]

AL-SHIFA' HONEY PRESS FOR INDUSTRY AND COMMERCE, By the Shrine Next to the Gas Station, Jamal Street, Ta'iz, Yemen; P.O. Box 8089, Al-Hasabah, Sanaa, Yemen; Al-Nasr Street, Doha, Qatar; Al-'Arudh Square, Khur Maksar, Aden, Yemen [SDGT]

AL-SIBA'I, Hani Muhammad Yusuf (a.k.a. YUSUF, Hani al-Sayid Al-Sibai), United Kingdom; DOB 1 Mar 1961; POB Qaylubiyah, Egypt; nationality Egypt (individual) [SDGT]

AL-SUBAIY, Khalifa Muhammad Turki (a.k.a. ALSUBAIE, Khalifa Mohd Turki; a.k.a. AL-SUBAIE, Khalifa Mohd Turki; a.k.a. AL-SUBAYI, Khalifa; a.k.a. BIN AL-SUAIY, Khalifa Turki bin Muhammad); DOB 1 Jan 1965; citizen Qatar; National ID No. 26563400140 (Qatar); Passport 00685868 (Qatar) (individual) [SDGT]

AL-SUDANI, Khalid Ahmad Jumah, Amman, Jordan; Passport H649956 (Sudan) issued 8 Apr 2002; IARA Middle East Regional Director (individual) [SDGT]

AL-TAI, Sultan Hashim Ahmad; DOB circa 1944; POB Mosul, Iraq; nationality Iraq; Minister of Defense (individual) [IRAQ2]

AL-TALHI, Abdul Rahim (a.k.a. AL NAJI, Abu Al Bara'a; a.k.a. AL TAHI, Abdulrahim; a.k.a. AL TAHLI, Abd Al-Rahim; a.k.a. AL-TALAHI, Abe Al-Rahim; a.k.a. AL-TALHI, 'Abd al-Rahim; a.k.a. AL-TALHI, Abd' Al-Rahim Hamad; a.k.a. AL-TALHI, 'Abdul-Rahim Hammad; a.k.a. ALTALHI, Abdulrheem Hammad A; a.k.a. AL-TALJI, 'Abd-Al-Rahim; a.k.a. AL-TALJI, Abdulrahim; a.k.a. JUNAYD, Shuwayb; a.k.a. RAHIM, Abdul), Buraydah, Saudi Arabia; DOB 8 Dec 1961; POB Al-Taif, Saudi Arabia; nationality Saudi Arabia; Passport F275043 (Saudi Arabia) issued 29 May 2004 expires 5 Apr 2009 (individual) [SDGT]

AL-TAMIMI, Muhannad Juma Y (a.k.a. AL-TAMIMI, Muhamad Juma Y); DOB 1956; POB Baghdad, Iraq; Passport M0817630 (Iraq); alt. Passport H0284744 (Iraq) (individual) [IRAQ2]

ALTAMIRANO LOPEZ, Hector, Ave. De los Angeles #5183-4, Fracc. Las Palmas, Tijuana, Baja California, Mexico; c/o KONTROLES ELECTRONICOS DE BAJA CALIFORNIA, S.A. DE C.V., Ave. Azueta 11750, Col. Libertad, Tijuana, Baja California CP 22400, Mexico; DOB 18 Feb 1975; POB Baja California, Mexico; C.U.R.P. AALH750218HBCLPC02 (Mexico) (individual) [SDNTK]

AL-TIKRITI, Abid Hamid Mahmud (a.k.a. HAMMUD, Abed Mahmoud; a.k.a. MAHMOUD, Col. Abdel Hamid; a.k.a. MAHMUD, Abid Hamid bid Hamid); DOB circa 1957; POB al-Awja, near Tikrit, Iraq; nationality Iraq; Saddam Hussein al-Tikriti's presidential secretary and key advisor (individual) [IRAQ2]

AL-TIKRITI, Ahmed Watban Ibrahim Hasan (a.k.a. AL-TIKRITI, Ahmad Watban Ibrahim Hasan; a.k.a. MUHAWDAR, 'Imad 'Udi), Jirmanah Neighborhood, Damascus, Syria; Al-Ra'is Building, Mina Street, Tartus, Tartus, Syria; Al-Hadda Hotel, Sana'a, Yemen; DOB 1975; alt. DOB 1979; POB Baghdad, Iraq; nationality Iraq (individual) [IRAQ2]

AL-TIKRITI, Ali Barzan Ibrahim Hasan, Geneva, Switzerland; DOB 18 Apr 1981; nationality Iraq; son of Barzan Ibrahim Hasan al-Tikriti (individual) [IRAQ2]

AL-TIKRITI, Ali Hassan al-Majid (a.k.a. AL-KIMAWI; a.k.a. AL-MAJID, General Ali Hasan; a.k.a. AL-MAJID, General Ali Hassan); DOB 1943; alt. DOB 1941; POB al-Awja, near Tikrit, Iraq; nationality Iraq; presidential advisor and senior member of Revolutionary Command Council (individual) [IRAQ2]

AL-TIKRITI, Ali Saddam Hussein (a.k.a. HASSAN); DOB 1980; alt. DOB 1983; POB Iraq; nationality Iraq; son of Saddam Hussein al-Tikriti (individual) [IRAQ2]

AL-TIKRITI, Ayman Sabawi Ibrahim Hasan (a.k.a. AL-TIKRITI, Aiman Sabawi Ibrahim Hasan; a.k.a. AL-TIKRITI, Ayman Sab'awi Ibrahim Hasan; a.k.a. AL-TIKRITI, Ayman Sabawi Ibrahim Hassan; a.k.a. SALMAN, Qais Muhammad), Bludan, Syria; Mutanabi Area, Al Monsur, Baghdad, Iraq; DOB 21 Oct 1971; POB Baghdad, Iraq; alt. POB Al-Owja, Iraq; nationality Iraq (individual) [IRAQ2]

AL-TIKRITI, Barzan abd al-Ghafur Sulaiman Majid (a.k.a. AL-GHAFUR, Barzan Razuki abd); DOB 1960; POB Salah al-Din, Iraq; nationality Iraq; commander, Special Republican Guard (individual) [IRAQ2]

AL-TIKRITI, Barzan Ibrahim Hassan (a.k.a. AL-TAKRITI, Barzan Ibrahim Hassan; a.k.a. AL-TIKRITI, Barzan Ibrahim Hasan), Geneva, Switzerland; DOB 17 Feb 1951; POB Tikrit, Iraq; nationality Iraq; Passport M0009851/1; alt. Passport M0001666/970; alt. Passport NM0000860/114; presidential advisor; half-brother of Saddam Hussein al-Tikriti (individual) [IRAQ2]

AL-TIKRITI, Bashar Sabawi Ibrahim Hasan (a.k.a. 'ABDULLAH, 'Ali Zafir; a.k.a. AL-BAYJAT, Bashar Sabawi Ibrahim Hasan; a.k.a. AL-TIKRITI, Bashar Sab'awi Ibrahim Hasan; a.k.a. AL-TIKRITI, Bashir Sab'awi Ibrahim Al-Hasan; a.k.a. AL-TIKRITI, Bashir Sabawi Ibrahim Al-Hassan), Beirut, Lebanon; Fuad Dawod Farm, Az Zabadani, Damascus, Syria; DOB 17 Jul 1970; POB Baghdad, Iraq; nationality Iraq (individual) [IRAQ2]

AL-TIKRITI, Hala Saddam Hussein; DOB 1972; POB Iraq; nationality Iraq; daughter of Saddam Hussein al-Tikriti (individual) [IRAQ2]

AL-TIKRITI, Hamid Raja Shalah (a.k.a. AL-TIKRITI, Hamid Raja Shalah Hassan; a.k.a. AL-TIKRITI, Hamid Raja-Shalah Hassum); DOB 1950; POB Bayji, Salah al-Din Governorate, Iraq; nationality Iraq; air force commander (individual) [IRAQ2]

AL-TIKRITI, Hani abd-al-Latif Tilfah; DOB circa 1962; POB al-Awja, near Tikrit, Iraq; nationality Iraq; #2 in Special Security Organization (individual) [IRAQ2]

AL-TIKRITI, Ibrahim Ahmad abd al-Sattar Muhammed; DOB 1943; alt. DOB 1952; alt. DOB 1950; POB Ba'qubah or al-Sumayda/Shirqat, Iraq; nationality Iraq; armed forces chief of staff (individual) [IRAQ2]

AL-TIKRITI, Ibrahim Sabawi Ibrahim Hasan (a.k.a. AL-TIKRITI, Ibrahim Sabawi Ibrahim Al-Hassan; a.k.a. AL-TIKRITI, Ibrahim Sab'awi Ibrahim Hasan; a.k.a. AL-TIKRITI, Ibrahim Sabawi Ibrahim Hassan; a.k.a. SALMAN, Muhammad Da'ud), Al-Shahid Street, Al-Mahata Neighborhood, Az Zabadani, Syria; Iraq; Fuad Dawod Farm, Az Zabadani, Damascus, Syria; DOB 25 Oct 1983; alt. DOB 1977; POB Baghdad, Iraq; nationality Iraq; Passport 284173 (Iraq) expires 21 Aug 2005 (individual) [IRAQ2]

AL-TIKRITI, Jamal Mustafa Abdallah Sultan; DOB 4 May 1955; POB al-Samnah, near Tikrit, Iraq; nationality Iraq; deputy head of tribal affairs in presidential office (individual) [IRAQ2]

AL-TIKRITI, Kamal Mustafa Sultan Abdallah (a.k.a. ABDALLAH, Kamal Mustafa; a.k.a. AL-TIKRITI, Kamal Mustafa Abdallah Sultan); DOB 1952; alt. DOB 4 May 1955; POB Tikrit, Iraq; nationality Iraq; Republican Guard Secretary; led Special Republican Guard and commanded both Republican Guard corps (individual) [IRAQ2]

AL-TIKRITI, Khawla Barzan Ibrahim Hasan, Geneva, Switzerland; DOB 3 Dec 1986; nationality Iraq; daughter of Barzan Ibrahim Hasan al-Tikriti (individual) [IRAQ2]

AL-TIKRITI, Mohammad Barzan Ibrahim Hasan, Geneva, Switzerland; DOB 2 Nov 1972; nationality Iraq; son of Barzan Ibrahim Hasan al-Tikriti (individual) [IRAQ2]

AL-TIKRITI, Muzahim Sa'b Hassan; DOB circa 1946; alt. DOB 1949; POB al-Awja, near Tikrit, Iraq; nationality Iraq; led Iraq's Air Defense Forces; Deputy Director, Organization of Military Industrialization (individual) [IRAQ2]

AL-TIKRITI, Noor Barzan Ibrahim Hasan, Geneva, Switzerland; DOB 2 Nov 1983; nationality Iraq; daughter of Barzan Ibrahim Hasan al-Tikriti (individual) [IRAQ2]

AL-TIKRITI, Omar Sabawi Ibrahim Hasan (a.k.a. AL-ALUSI, Umar Ahmad Ali; a.k.a. AL-TIKRITI, Omar Sab'awi Ibrahim Hasan; a.k.a. AL-TIKRITI, Omar Sabawi Ibrahim Hassan; a.k.a. AL-TIKRITI, Umar Sabawi Ibrahim Hasan), Damascus, Syria; Yemen; Al-Shahid Street, Al-Mahata Neighborhood, Az Zabadani, Syria; DOB circa 1970; POB Baghdad, Iraq; nationality Iraq; Passport 2863795S (Iraq) expires 23 Aug 2005 (individual) [IRAQ2]

AL-TIKRITI, Qusay Saddam Hussein; DOB 1965; alt. DOB 1966; POB Baghdad, Iraq; nationality Iraq; Saddam Hussein al-Tikriti's second son; oversaw Special Republican Guard, Special Security Organization, and Republican Guard (individual) [IRAQ2]

AL-TIKRITI, Rafi abd-al-Latif Tilfah; DOB circa 1954; POB Tikrit, Iraq; nationality Iraq; Director, Directorate of General Security (individual) [IRAQ2]

AL-TIKRITI, Raghad Saddam Hussein, Amman, Jordan; DOB 1967; POB Iraq; nationality Iraq; daughter of Saddam Hussein al-Tikriti (individual) [IRAQ2]

AL-TIKRITI, Rana Saddam Hussein, Amman, Jordan; DOB 1969; POB Iraq; nationality Iraq; daughter of Saddam Hussein al-Tikriti (individual) [IRAQ2]

AL-TIKRITI, Rukan Razuki abd-al-Ghafur Sulaiman (a.k.a. ABU WALID; a.k.a. AL-MAJID, Rukan abd al-Gafur; a.k.a. AL-MAJID, Rukan abdal-Ghaffur Sulayman; a.k.a. AL-MAJID, Rukan Razuqi abd al-Gahfur; a.k.a. AL-TIKRITI, Rukan 'abd al-Ghaffur al-Majid; a.k.a. AL-TIKRITI, Rukan abd al-Ghaffur al-Majid); DOB 1956; POB Tikrit, Iraq; nationality Iraq; head of Tribal Affairs Office in presidential office (individual) [IRAQ2]

AL-TIKRITI, Sab'awi Ibrahim Hassan (a.k.a. AL-TAKRITI, Sabawi Ibrahim Hassan); DOB 1947; POB Tikrit, Iraq; nationality Iraq; presidential advisor; half-brother of Saddam Hussein al-Tikriti (individual) [IRAQ2]

AL-TIKRITI, Sa'd abd-al-Majid al-Faysal; DOB 1944; POB Tikrit, Iraq; nationality Iraq; Ba'th party regional command chairman, Salah al-Din (individual) [IRAQ2]

AL-TIKRITI, Sa'd Sabawi Ibrahim Hasan (a.k.a. AL-TIKRITI, Sa'ad Sabawi Ibrahim Hasan; a.k.a. AL-TIKRITI, Sa'd Sab'awi Hasan), Al-Shahid Street, Al-Mahata Neighborhood, Az Zabadani, Syria; Yemen; DOB 19 Sep 1988; nationality Iraq (individual) [IRAQ2]

AL-TIKRITI, Saddam Hussein (a.k.a. ABU ALI; a.k.a. HUSAYN, Saddam; a.k.a. HUSSAIN, Saddam; a.k.a. HUSSEIN, Saddam); DOB 28 Apr 1937; POB al-Awja, near Tikrit, Iraq; nationality Iraq; named in UNSCR 1483; President since 1979 (individual) [IRAQ2]

AL-TIKRITI, Saja Barzan Ibrahim Hasan, Geneva, Switzerland; DOB 1 Jan 1978; nationality Iraq; daughter of Barzan Ibrahim Hasan al-Tikriti (individual) [IRAQ2]

AL-TIKRITI, Tahir Jalil Habbush; DOB 1950; POB Tikrit, Iraq; nationality Iraq; director of Iraqi Intelligence Service (individual) [IRAQ2]

AL-TIKRITI, Thoraya Barzan Ibrahim Hasan, Iraq; DOB 19 Dec 1980; alt. DOB 19 Jan 1980; nationality Iraq; daughter of Barzan Ibrahim Hasan al-Tikriti (individual) [IRAQ2]

AL-TIKRITI, Uday Saddam Hussein (a.k.a. HUSSEIN, Udai Saddam); DOB 1964; alt. DOB 1967; POB Baghdad, Iraq; nationality Iraq; Saddam Hussein al-Tikriti's eldest son; leader of paramilitary organization Fedayeen Saddam (individual) [IRAQ2]

AL-TIKRITI, Walid Hamid Tawfiq (a.k.a. AL-NASIRI, Walid Hamid Tawfiq); DOB circa 1950; POB Tikrit, Iraq; nationality Iraq; Governor of Basrah (individual) [IRAQ2]

AL-TIKRITI, Watban Ibrahim Hassan (a.k.a. AL-HASSAN, Watab Ibrahim; a.k.a. AL-TAKRITI, Watban; a.k.a. AL-TIKRITI, Watban Ibrahim al-Hasan); DOB 1952; POB Tikrit, Iraq; nationality Iraq; presidential advisor; half-brother of Saddam Hussein al-Tikriti (individual) [IRAQ2]

AL-TIKRITI, Yasir Sabawi Ibrahim Hasan (a.k.a. ABDALLAH, Ali Thafir; a.k.a. AL-TIKRITI, Yasir Sab'awi Ibrahim Hasan; a.k.a. AL-TIKRITI, Yasir Sabawi Ibrahim Hassan; a.k.a. AL-TIKRITI, Yasser Sabawi Ibrahim Hasan; a.k.a. AL-TIKRITI, Yassir Sabawi Ibrahim Hasan), Az Zabadani, Syria; Mosul, Iraq; DOB 15 May 1968; alt. DOB 1970; POB Al-Owja, Iraq; alt. POB Baghdad, Iraq; nationality Iraq; Passport 284158 (Iraq) expires 21 Aug 2005 (individual) [IRAQ2]

AL-TURKI, Hassan Abdullah Hersi (a.k.a. AL-TURKI, Hassan); DOB circa 1944; POB Ogaden Region, Ethiopia (individual) [SDGT]

AL-UBAIDI, Amir Rashid Muhammad; DOB 1939; POB Baghdad, Iraq; nationality Iraq; Minister of Oil (individual) [IRAQ2]

AL-UBAIDI, Ghazi Hammud; DOB 1944; POB Baghdad, Iraq; nationality Iraq; Ba'th party regional command chairman, Wasit (individual) [IRAQ2]

AL-UBAIDI, Yahia Abdallah; nationality Iraq; Ba'th party regional command chairman, al-Basrah (individual) [IRAQ2]

AL-UBAYDI, Ahmad Hassan Kaka (a.k.a. AL NOBANI, Ali; a.k.a. AL-OBEIDI, Ahmed Hassan Kaka; a.k.a. HAZIM KAKA), Kurdi Al Nasir village, Iraq; Al Humayra Village, Taza sub district, Iraq; DOB 1949; POB Baghdad, Iraq; nationality Iraq; Passport F032516 (Iraq) issued 4 May 1976 (individual) [IRAQ3]

AL-UBAYDI, Intissar, Iraq; DOB 1974; nationality Iraq; wife of Izzat Ibrahim Al-Duri (individual) [IRAQ2]

AL-USTA, Raw'a (a.k.a. AL-ASTAH, Raw'ah; a.k.a. AL-OUSTA, Raw'a; a.k.a. ALOUSTA, Rawaa; a.k.a. AL-'USTA, Rawa; a.k.a. AL-USTA, Raw'ah; a.k.a. AL-USTAH, Raw'ah), Damascus, Syria; DOB 1982; nationality Syria (individual) [IRAQ3]

ALVARADO BONILLA, Alejandro, c/o DROGAS LA REBAJA BOGOTA S.A., Bogota, Colombia; DOB 29 May 1974; Cedula No. 79641039 (Colombia) (individual) [SDNT]

ALVAREZ AGUIRRE, Manuel, Panama (individual) [CUBA]

ALVAREZ DE LA TORRE, Mario Andres, c/o COSMEPOP, Bogota, Colombia; c/o AMERICANA DE COSMETICOS S.A., Bogota, Colombia; DOB 6 Mar 1972; Cedula No. 232594 (Colombia) (individual) [SDNT]

ALVAREZ DEL RIO, Fredy de Jesus; POB Colombia; Cedula No. 98557177 (Colombia) (individual) [SDNT]

ALVAREZ GAVIRIA, Jaime Antonio, c/o EXPORT CAFE LTDA., Cali, Colombia; DOB 17 Aug 1947; Cedula No. 10060853 (Colombia) (individual) [SDNT]

ALVAREZ HERNANDEZ, Maria Teresa, c/o CONSULTORIA DE OCCIDENTE, S.A. DE C.V., Guadalajara, Jalisco, Mexico; c/o GS PLUS CONSULTORES, S.A. DE C.V., Tijuana, Baja California, Mexico; DOB 25 Jul 1960; POB Guadalajara, Jalisco, Mexico; R.F.C. AAHT-600725-4L7 (Mexico) (individual) [SDNTK]

ALVAREZ TOSTADO, Jose (a.k.a. CASTELLANOS ALVAREZ TOSTADO, Juan Jose; a.k.a. GONZALEZ, Jose); DOB 27 Aug 1955; POB Mexico (individual) [SDNTK]

ALVAREZ VAZQUEZ, Jose Gerardo (a.k.a. ALVAREZ ALVAREZ, Gerardo; a.k.a. ALVAREZ VASQUEZ, Joel; a.k.a. ALVAREZ VASQUEZ, Jose Gerardo; a.k.a. ALVAREZ VELASQUEZ, Jose Gerardo; a.k.a. SANCHEZ SALAMANCA, Salvador; a.k.a. ZALDIVAR VEGA, Javier; a.k.a. “EL GERA”; a.k.a. “EL INDIO”), c/o AMERICAN TUNE UP, S.A. DE C.V., Guadalajara, Jalisco, Mexico; Avenida Gonzalez Gallo #2537, Sector Reforma, Guadalajara, Jalisco, Mexico; DOB 03 Nov 1963; alt. DOB 24 Sep 1965; alt. DOB 10 May 1966; POB Las Avilas, Guerrero, Mexico; citizen Mexico; nationality Mexico (individual) [SDNTK]

ALVARO ENRIQUE BARRERA RIOS Y CIA. S. EN C.S., Calle 14 Oeste No. 2B1-45 apto. 302E, Cali, Colombia; NIT # 900105952-3 (Colombia) [SDNT]

ALVIS PATINO, Gentil (a.k.a. LOPEZ, Angel Leopoldo; a.k.a. MARTINEZ VEGA, Juan Jose; a.k.a. PATINO ORTIZ, Alvis; a.k.a. “CHIGUIRO”; a.k.a. “GONZALEZ, Ruben”); DOB 4 Jun 1961; POB El Doncello, Caqueta, Colombia; Cedula No. 12059198 (Venezuela); alt. Cedula No. 17669391 (Colombia) (individual) [SDNTK]

ALWAN, Allaidin Hussain (a.k.a. ALWAN, Alla Idin Hussain), Baghdad, Iraq (individual) [IRAQ2]

AL-YACOUB, Ibrahim Salih Mohammed; DOB 16 Oct 1966; POB Tarut, Saudi Arabia; citizen Saudi Arabia (individual) [SDGT]

AL-YASSIN, Husam Muhammad Amin; DOB 1953; alt. DOB 1958; POB Tikrit, Iraq; nationality Iraq; head, National Monitoring Directorate (individual) [IRAQ2]

AL-ZARQAWI, Abu Mus'Ab (a.k.a. 'ABD AL-KARIM; a.k.a. ABU AL-MU'TAZ; a.k.a. AL-HABIB; a.k.a. AL-KHALAYLAH, Ahmad Fadil Nazzal; a.k.a. AL-MUHAJIR; a.k.a. GHARIB; a.k.a. KHALAILAH, Ahmed Fadeel; a.k.a. KHALAYLEH, Fedel Nazzel; a.k.a. “MOUHANAD”; a.k.a. “MOUHANNAD”; a.k.a. “MUHANNAD”; a.k.a. “RASHID”); DOB 20 Oct 1966; POB Zarqa, Jordan; citizen Jordan; National ID No. 9661031030 (Jordan); Passport Z264968 (Jordan) (individual) [SDGT]

ALZATE JIMENEZ, Diego Uriel, c/o FINANCIACION Y EMPRESA S.A., Cali, Colombia; c/o OUTSOURCING DE OPERACIONES S.A., Bogota, Colombia; c/o ANDINAENVIOS AN EN S.A., Quito, Ecuador; c/o INVERSIONES CORPORATIVAS LTDA., Cali, Colombia; c/o CAMBIOS Y CAPITALES S.A., Bogota, Colombia; c/o TURISMO HANSA S.A., San Andres, Colombia; c/o INVERSIONES SARDI ALZATE S.C.S., Cali, Colombia; c/o FUNDACION PARA LA EDUCACION Y EL DESARROLLO SOCIAL, Cali, Colombia; DOB 13 Aug 1959; POB Colombia; Cedula No. 16658014 (Colombia); Passport 16658014 (Colombia) (individual) [SDNT]

ALZATE JIMENEZ, Luis Holmes, c/o FUNDACION PARA LA EDUCACION Y EL DESARROLLO SOCIAL, Cali, Colombia; Calle 5E No. 47-57 apto. 302, Cali, Colombia; c/o TURISMO HANSA S.A., San Andres, Colombia; c/o CAMBIOS Y CAPITALES S.A., Bogota, Colombia; c/o ANDINAENVIOS AN EN S.A., Quito, Ecuador; DOB 04 Jun 1958; POB Colombia; Cedula No. 16597861 (Colombia); Passport AF719920 (Colombia) (individual) [SDNT]

ALZATE JIMENEZ, Tulio Hernando, c/o TURISMO HANSA S.A., San Andres, Colombia; c/o FUNDACION PARA LA EDUCACION Y EL DESARROLLO SOCIAL, Cali, Colombia; c/o FINANCIACION Y EMPRESA S.A., Cali, Colombia; c/o CONSTRUCTORA E INMOBILIARIA ANDINA S.A., Cali, Colombia; c/o T.H. ALZATE Y CIA. S.C.S., Cali, Colombia; c/o CAMBIOS Y CAPITALES S.A., Bogota, Colombia; c/o ANDINAENVIOS AN EN S.A., Quito, Ecuador; c/o INVERSIONES CORPORATIVAS LTDA., Cali, Colombia; DOB 28 Mar 1961; POB Colombia; Cedula No. 16659731 (Colombia); Passport AF770530 (Colombia) (individual) [SDNT]

ALZATE SALAZAR, Luis Alfredo, c/o DROGAS LA REBAJA BOGOTA S.A., Bogota, Colombia; c/o LABORATORIOS KRESSFOR DE COLOMBIA S.A., Bogota, Colombia; c/o COINTERCOS S.A., Bogota, Colombia; c/o DEPOSITO POPULAR DE DROGAS S.A., Bogota, Colombia; DOB 27 Nov 1957; Cedula No. 16595689 (Colombia) (individual) [SDNT]

AL-ZAWRA TELEVISION STATION (a.k.a. AL ZAOURA NETWORK; a.k.a. AL ZAWRAH TELEVISION; a.k.a. AL ZOURA TV STATION; a.k.a. AL-ZAWARA SATELLITE TELEVISION STATION; a.k.a. ALZAWRAA TV; a.k.a. AL-ZAWRAA TV; a.k.a. EL-ZAWRA SATELLITE STATION; a.k.a. ZAWRAH TV STATION; a.k.a. ZORAH CHANNEL), Syria [IRAQ3]

AL-ZIBARI, Arshad Muhammad Ahmad Muhammad, Iraq; DOB 1942; a former minister of state (individual) [IRAQ2]

AL-ZINDANI, Shaykh Abd-al-Majid (a.k.a. AL-ZINDANI, Abdelmajid; a.k.a. AL-ZINDANI, Shaykh 'Abd Al-Majid); DOB circa 1950; POB Yemen; nationality Yemen; Passport A005487 (Yemen) issued 13 Aug 1995 (individual) [SDGT]

AL-ZUMAR, Abbud (a.k.a. ZUMAR, Colonel Abbud), Egypt; POB Egypt; Factional Leader of JIHAD GROUP (individual) [SDT]

AMADOR CEDIEL, Fernando, c/o WORLD LINE SYSTEM S.A., Palmira, Valle, Colombia; c/o RFA CONSULTORES Y AUDITORES LTDA., Cali, Colombia; c/o CECEP EDITORES S.A., Cali, Colombia; Avenida 9A No. 25N-30, Cali, Colombia; c/o APVA S.A., Cali, Colombia; c/o NEGOCIOS Y CAPITALES S.A., Pereira, Colombia; c/o CECEP S.A., Cali, Colombia; DOB 12 Oct 1962; POB Sogamoso, Boyaca, Colombia; Cedula No. 16683047 (Colombia); Passport AG830763 (Colombia) (individual) [SDNT]

AMAYA OROZCO, Luis Alberto, Calle 18N No. 9-46, Cali, Colombia; c/o COMERCIALIZADORA DE CARNES DEL PACIFICO LTDA., Cali, Colombia; DOB 15 Sep 1945; Cedula No. 4882167 (Colombia) (individual) [SDNT]

AMD CO. LTD AGENCY, Al-Tahrir Car Parking Building, Tahrir Sq., Floor 3, Office 33, P.O. Box 8044, Baghdad, Iraq [IRAQ2]

AMDOUNI, Mehrez (a.k.a. AL-AMDOUNI, Mehrez Ben Mahmoud Ben Sassi; a.k.a. FUSCO, Fabio; a.k.a. HASSAN, Mohamed; a.k.a. “ABU THALE”); DOB 18 Dec 1969; POB Tunis, Tunisia; nationality Tunisia; Passport 0801888 (Bosnia and Herzegovina); alt. Passport G737411 (Tunisia) issued 24 Oct 1990 expires 20 Sep 1997 (individual) [SDGT]

AMERICAN AIR WAYS CHARTERS, INC., 1840 West 49th Street, Hialeah, FL [CUBA]

AMERICAN TUNE UP, S.A. DE C.V., Guadalajara, Jalisco, Mexico; Registration ID MAT 46-47 TOMO 460 L. (Mexico) [SDNTK]

AMERICANA DE COSMETICOS S.A., Carrera 70 No. 54-30, Bogota, Colombia; Calle 12B No. 27-40, Int. 4 of., Bogota, Colombia; Carrera 28 No. 11-65 of. 707, Bogota, Colombia; Carrera 12 No. 71-53 of. 502, Bogota, Colombia; Calle 12B No. 27-39, Bogota, Colombia; NIT # 830028750-9 (Colombia) [SDNT]

AMEZCUA CONTRERAS ORGANIZATION, Mexico [SDNTK]

AMEZCUA CONTRERAS, Adan (a.k.a. MANZANO, Jose Luis), Francisco I. Madero 749, Colonia Moralete, Colima, Colima, Mexico; Calle General Juan Alvarez 1010, Colonia Lomas Vista Hermosa, Colima, Colima, Mexico; Belizario Dominguez, No. 511, Colima, Colima, Mexico; Carlos Chavez 5, Colima, Colima, Mexico; Toreros No. 672, Colonia Jardines de Guadalupe, Guadalajara, Jalisco, Mexico; DOB 27 Jun 1969; citizen Mexico; nationality Mexico; R.F.C. AECA-690627 (Mexico) (individual) [SDNTK]

AMEZCUA CONTRERAS, Jose de Jesus (a.k.a. AMESCUA, Chuey; a.k.a. AMEZCUA CONTRERAS, Jesus; a.k.a. AMEZCUA, Chuy; a.k.a. AMEZCUA, Jose de Jesus; a.k.a. HERNANDEZ, Adan); DOB 31 Jul 1964; alt. DOB 31 Jul 1964; alt. DOB 31 Jul 1965; POB Mexico (individual) [SDNTK]

AMEZCUA CONTRERAS, Luis Ignacio (a.k.a. AMEZCUA, Luis; a.k.a. CONTRERAS, Luis C.; a.k.a. LOPEZ, Luis; a.k.a. LOZANO, Eduardo; a.k.a. OCHOA, Salvador; a.k.a. RODRIGUEZ LOPEZ, Sergio); DOB 22 Feb 1964; alt. DOB 21 Feb 1974; alt. DOB 21 Feb 1964; POB Mexico (individual) [SDNTK]

AMEZCUA CONTRERAS, Patricia (a.k.a. AMEZCUA CONTRERAS, Patty; a.k.a. AMEZCUA DE LADINO, Patricia), c/o FARMACIA JERLYNE, S.A. DE C.V., Tijuana, Baja California, Mexico; Calle Jesus Ponce 1083, Colonia Jardin Vista Hermosa, Colima, Colima, Mexico; DOB 18 Mar 1967; citizen Mexico; nationality Mexico; C.U.R.P. AECP670318MJCMNT07 (Mexico); R.F.C. AECP-670318 (Mexico) (individual) [SDNTK]

AMEZQUITA MENESES, Salustio, c/o INVERSIONES GEMINIS S.A., Cali, Colombia; c/o INMOBILIARIA U.M.V. S.A., Cali, Colombia; DOB 1 Jul 1946; Cedula No. 14943885 (Colombia) (individual) [SDNT]

AMIN EL GEZAI COMPANY (a.k.a. EL AMIN EL GEZAI COMPANY), Khartoum, Sudan [SUDAN]

AMIN INDUSTRIAL COMPLEX (a.k.a. AMIN INDUSTRIAL COMPANY; a.k.a. AMIN INDUSTRIAL COMPOUND), Amin Industrial Estate, Khalage Rd., Seyedi District, Mashad, Iran; P.O. Box 91735-549, Mashad, Iran; Kaveh Complex, Khalaj Rd., Seyedi St., Mashad, Iran [NPWMD]

AMMARI, Saifi (a.k.a. “ABDALARAK”; a.k.a. “ABDERREZAK LE PARA”; a.k.a. “ABDERREZAK ZAIMECHE”; a.k.a. “ABDUL RASAK AMMANE ABU HAIDRA”; a.k.a. “ABOU HAIDARA”; a.k.a. “EL OURASSI”; a.k.a. “EL PARA”); DOB 1 Jan 1968; POB Kef Rih, Algeria; nationality Algeria (individual) [SDGT]

AMMASH, Huda Salih Mahdi; DOB 1953; POB Baghdad, Iraq; nationality Iraq; member, Ba'th party regional command (individual) [IRAQ2]

AMMUNITION AND METALLURGY INDUSTRIES GROUP (a.k.a. AMIG; a.k.a. AMMUNITION AND METALLURGY INDUSTRY GROUP; a.k.a. AMMUNITION INDUSTRIES GROUP; a.k.a. SANAYE MOHEMATSAZI), P.O. Box 16765-1835, Pasdaran Street, Tehran, Iran; Department 145-42, P.O. Box 16765-128, Moghan Avenue, Pasdaran Street, Tehran, Iran [NPWMD]

AMPARO RODRIGUEZ DE GIL Y CIA. S. EN C., Avenida 4N No. 5N-20, Cali, Colombia [SDNT]

ANDINA DE CONSTRUCCIONES S.A., Cali, Colombia [SDNT]

ANDINAENVIOS AN EN S.A., Avenida 10 de Agosto N37-288 y Villalengua, Quito, Ecuador; RUC # 1791769155001 (Ecuador) [SDNT]

ANDRADE MENDEZ, Gerardo, c/o CHAMARTIN S.A., Cali, Colombia; c/o ADMINISTRADORA DE SERVICIOS VARIOS CALIMA S.A., Cali, Colombia; DOB 17 Jul 1962; Cedula No. 12189130 (Colombia); Passport 12189130 (Colombia) (individual) [SDNT]

ANDRADE QUINTERO, Ancizar, c/o INMOBILIARIA U.M.V. S.A., Cali, Colombia; c/o SERVICIOS INMOBILIARIAS LTDA., Cali, Colombia; c/o INMOBILIARIA BOLIVAR LTDA., Cali, Colombia; DOB 23 Jan 1962; Cedula No. 16672464 (Colombia) (individual) [SDNT]

ANGELINI, Alejandro Abood, Panama (individual) [CUBA]

ANGLO-CARIBBEAN CO., LTD. (a.k.a. AVIA IMPORT), Ibex House, The Minories, London EC3N 1DY, United Kingdom [CUBA]

ANGULO OROBIO (SEGUNDO), Jose Francisco, Avenida 4N No. 17-43 apt. 801, Cali, Colombia; c/o INVERSIONES Y CONSTRUCCIONES VALLE S.A., Cali, Colombia; DOB 8 Sep 1964; Cedula No. 16706561 (Colombia) (individual) [SDNT]

ANSAR AL-ISLAM (a.k.a. ANSAR AL-SUNNA; a.k.a. ANSAR AL-SUNNA ARMY; a.k.a. JAISH ANSAR AL-SUNNA; a.k.a. JUND AL-ISLAM; a.k.a. “DEVOTEES OF ISLAM”; a.k.a. “FOLLOWERS OF ISLAM IN KURDISTAN”; a.k.a. “HELPERS OF ISLAM”; a.k.a. “KURDISH TALIBAN”; a.k.a. “KURDISTAN SUPPORTERS OF ISLAM”; a.k.a. “PARTISANS OF ISLAM”; a.k.a. “SOLDIERS OF GOD”; a.k.a. “SOLDIERS OF ISLAM”; a.k.a. “SUPPORTERS OF ISLAM IN KURDISTAN”), Iraq [FTO] [SDGT]

ANSHORI, Abdullah (a.k.a. THOYIB, Ibnu; a.k.a. TOYIB, Ibnu; a.k.a. “ABU FATHI”; a.k.a. “ABU FATIH”); DOB 1958; POB Pacitan, East Java, Indonesia; nationality Indonesia (individual) [SDGT]

ANTIA SIERRA, Diurny Lorena, c/o COOPERATIVA MERCANTIL COLOMBIANA COOMERCOL, Cali, Colombia; DOB 28 Sep 1975; Cedula No. 66877933 (Colombia); Passport 66877933 (Colombia) (individual) [SDNT]

ANTILLANA SALVAGE CO. LTD., c/o EMPRESA ANTILLANA DE SALVAMENTO, 4th Floor, Lonja del Comercio, Havana Vieja, Havana, Cuba [CUBA]

AOUADI, Mohamed Ben Belgacem (a.k.a. AOUADI, Mohamed Ben Belkacem), Via A. Masina n.7, Milano, Italy; DOB 11 Dec 1974; POB Tunisia; nationality Tunisia; Italian Fiscal Code DAOMMD74T11Z352Z; Passport L 191609 issued 28 Feb 1996 expires 27 Feb 2001 (individual) [SDGT]

APAOLAZA SANCHO, Ivan; DOB 10 Nov 1971; POB Beasain, Guipuzcoa Province, Spain; D.N.I. 44.129.178; Member ETA (individual) [SDGT]

APOYOS DIAGNOSTICOS S.A. (a.k.a. APOYOS DIAGNOSTICOS DE OCCIDENTE S.A.; f.k.a. UNIDAD DE DIAGNOSTICO MEDICO ESPECIALIZADO LTDA.; f.k.a. “UNIDES LTDA.”), Calle 26 No. 34-60, Tulua, Valle, Colombia; NIT # 800118755-2 (Colombia) [SDNT]

APVA S.A., Calle 5A No. 22-13, Cali, Colombia; NIT # 805010421-0 (Colombia) [SDNT]

AQSSA SOCIETY YEMEN (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San 'a, Yemen [SDGT]

AQUAMARINA ISLAND INTERNATIONAL CORPORATION, Avenida del Pastelillo 24-46, Edificio Fadia—Manga, Cartagena, Colombia; Avenida Cuba Calle 38, Edificio Los Cristales Piso 3, Panama City, Panama; Calle 93 No. 14-20 Ofc. 611, Bogota, Colombia; RUC # 2120851397079 (Panama) [SDNT]

AQUILEA S.A., Carrera 21 No. 13B-21, Cali, Colombia; Carrera 23 No. 12-41, Cali, Colombia; Carrera 21 No. 13B-33, Cali, Colombia; NIT # 900061351-6 (Colombia) [SDNT]

ARAB CEMENT COMPANY, Durdeib, Sudan; P.O. Box 6180, Khartoum, Sudan [SUDAN]

ARAB PETROLEUM ENGINEERING COMPANY LTD, Amman, Jordan [IRAQ2]

ARAB PROJECTS COMPANY S.A. LTD., P.O. Box 1318, Amman, Jordan; P.O. Box 7939, Beirut, Lebanon; P.O. Box 1972, Riyadh, Saudi Arabia [IRAQ2]

ARAB SUDANESE BLUE NILE AGRICULTURAL COMPANY, Khartoum, Sudan [SUDAN]

ARAB SUDANESE SEED COMPANY, Khartoum, Sudan [SUDAN]

ARAB SUDANESE VEGETABLE OIL COMPANY, Khartoum, Sudan [SUDAN]

ARANA MARIA, Jairo Abraham, c/o EDIFICACIONES DEL CARIBE LTDA., Barranquilla, Colombia; c/o INMOBILIARIA HOTELERA DEL CARIBE LTDA., Barranquilla, Colombia; c/o SURAMERICANA DE HOTELES LTDA., Barranquilla, Colombia; c/o NEGOCIOS Y PROPIEDADES DEL CARIBE LTDA., Barranquilla, Colombia; Calle 74 No. 53-30, Barranquilla, Colombia; c/o INVERSIONES PRADO TRADE CENTER LTDA., Barranquilla, Colombia; c/o DESARROLLOS URBANOS “DESARROLLAR” LTDA., Barranquilla, Colombia; c/o GRAN COMPANIA DE HOTELES LTDA., Barranquilla, Colombia; c/o INMOBILIARIA DEL CARIBE LTDA., Barranquilla, Colombia; c/o HOTELES E INMUEBLES DE COLOMBIA LTDA., Barranquilla, Colombia; c/o INVERSIONES HOTELERAS DEL LITORAL LTDA., Barranquilla, Colombia; DOB 8 Feb 1953; alt. DOB 21 May 1946; alt. DOB 2 May 1946; Cedula No. 7450538 (Colombia); Passport Z4966601 (Colombia); alt. Passport K1030420 (Colombia) (individual) [SDNT]

ARANIBAR CASTELLANOS, Percy Dangello, Jr. Augusto Gonzales Olaechea 1311, URB Elio, Lima, Peru; c/o EMPRESA DE TRANSPORTES CHULUCANAS 2000 S.A., Lima, Peru; c/o LASA PERU S.A.C., Lima, Peru; DOB 27 May 1971; LE Number 06778742 (Peru) (individual) [SDNTK]

ARAUJO LAVEAGA, Carmen Amelia, c/o ESTANCIA INFANTIL NINO FELIZ S.C., Culiacan, Sinaloa, Mexico; DOB 29 Jan 1967; POB Sinaloa, Mexico; C.U.R.P. AALC670129MSLRVR00 (Mexico) (individual) [SDNTK]

ARBELAEZ GALLON, Gladys, c/o SERVICIOS INMOBILIARIOS LTDA., Cali, Colombia; DOB 12 Nov 1960; Cedula No. 31858038 (Colombia) (individual) [SDNT]

ARBELAEZ PARDO, Amparo, c/o VALORES MOBILIARIOS DE OCCIDENTE, Bogota, Colombia; c/o DECAFARMA S.A., Bogota, Colombia; c/o LABORATORIOS KRESSFOR DE COLOMBIA S.A., Bogota, Colombia; c/o INVERSIONES ARA LTDA., Cali, Colombia; c/o INTERAMERICA DE CONSTRUCCIONES S.A., Cali, Colombia; c/o CREDIREBAJA S.A., Cali, Colombia; Casa No. 19, Avenida Lago, Ciudad Jardin, Cali, Colombia; DOB 9 Nov 1950; alt. DOB 9 Aug 1950; Cedula No. 31218903 (Colombia); Passport AC 568973 (Colombia); alt. Passport PEDO1850 (Colombia) (individual) [SDNT]

ARBOLEDA ARROYAVE, Pedro Nicholas (a.k.a. ARBOLEDA ARROYAVE, Pedro Nicolas), c/o FUNDASER, Cali, Colombia; c/o DISTRIBUIDORA DE DROGAS CONDOR LTDA., Bogota, Colombia; c/o D'CACHE S.A., Cali, Colombia; c/o CREDIREBAJA S.A., Cali, Colombia; c/o DEPOSITO POPULAR DE DROGAS S.A., Cali, Colombia; DOB 23 Jun 1957; Cedula No. 16602372 (Colombia) (individual) [SDNT]

ARBOLEDA ROMERO, Julio Cesar, c/o INVERSIONES BETANIA LTDA., Cali, Colombia; c/o INVERSIONES EL PENON S.A., Cali, Colombia; DOB 1 Dec 1953; Cedula No. 16205508 (Colombia) (individual) [SDNT]

ARCA DISTRIBUCIONES LTDA., Carrera 23 No. 37-39 of. 202, Bogota, Colombia; NIT # 830131785-6 (Colombia) [SDNT]

ARCE BORBOA, Ana Cristina, Calle Artesanos No. 255, Colonia Burocrata, Culiacan, Sinaloa, Mexico; c/o COMPANIA MINERA DEL RIO CIANURY S.A. DE C.V., Culiacan, Sinaloa, Mexico; c/o MINERA RIO PRESIDIO S.A. DE C.V., Culiacan, Sinaloa, Mexico; c/o COPA DE PLATA S.A. DE C.V., Culiacan, Sinaloa, Mexico; Prof. Raul Franco Barreda 97, Fracc. Arboles, Culiacan, Sinaloa, Mexico; c/o MINERA LA CASTELLANA Y ANEXAS S.A. DE C.V., Culiacan, Sinaloa, Mexico; DOB 22 May 1961; POB Navolato, Sinaloa, Mexico; alt. POB Culiacan, Sinaloa, Mexico; citizen Mexico; nationality Mexico; C.U.R.P. AEBA610522MSLRRN18 (Mexico); alt. C.U.R.P. AEBA610522MSLRRN00 (Mexico); R.F.C. AEBA610522 (Mexico) (individual) [SDNTK]

ARCE FLORES, Lorenzo, c/o QUINTA REAL JARDIN SOCIAL Y DE EVENTOS, S.A. DE C.V., Tijuana, Baja California, Mexico; c/o MULTICAJA DE TIJUANA, S.A. DE C.V.,, Tijuana,, Baja California, Mexico; c/o MODULO DE CAMBIOS, Tijuana, Baja California, Mexico; c/o PROMOTORA FIN, S.A., Tijuana, Baja California, Mexico; Avenida Madero No. 1010, Tijuana,, Baja California, Mexico; 750 Brookstone Road #201, Chula Vista, CA 91913; c/o CAJA AMIGO EXPRESS S.A. DE C.V., Chula Vista, CA 91910; c/o OPERADORA DE CAJA Y SERVICIOS, S.A. DE C.V., Tijuana, Baja California, Mexico; c/o A.L.S. FINANCIAL, INC., Coronado, CA 92178; Carillo Puerto, Calle 2025, 21B, Zona Central, Tijuana, Baja California, Mexico; c/o CAJA AMIGO EXPRESS, S.A. DE C.V., Tijuana, Baja California, Mexico; c/o PATRICIA CASA DE CAMBIO, Tijuana, Baja California, Mexico; DOB 6 May 1931; alt. DOB 1 May 1941; alt. DOB 5 May 1941; alt. DOB 6 May 1941; POB Mexicali, Baja California, Mexico; citizen Mexico; nationality Mexico; R.F.C. AEFL-410506-MS7 (Mexico) (individual) [SDNTK]

ARCE GARCIA, Rodrigo Alberto, c/o AGRO MASCOTAS S.A., Bogota, Colombia; DOB 9 Jun 1963; Cedula No. 16699556 (Colombia); Passport 16699556 (Colombia) (individual) [SDNT]

ARCE JARAMILLO, Melba Rosa, Calle Culiacan 101 Int. 702 Col. La Condesa, Mexico City, Mexico; Calle Auehuetes No. 1320 Col. Lomas de Tecamachalco, Mexico City, Mexico; c/o AEROCOMERCIAL ALAS DE COLOMBIA, Bogota, Colombia; DOB 17 Nov 1964; POB Cali, Colombia; Cedula No. 31945032 (Colombia); Passport AD369724 (Colombia); alt. Passport AI666987 (Colombia); alt. Passport AE869914 (Colombia); alt. Passport PP31235 (Colombia) (individual) [SDNT]

ARCE PINA, Araceli, c/o QUINTA REAL JARDIN SOCIAL Y DE EVENTOS S.A. DE C.V., Tijuana, Baja California, Mexico; DOB 28 Oct 1974; POB Baja California, Mexico; citizen Mexico; nationality Mexico; C.U.R.P. AEPA741028MBCRXR07 (Mexico) (individual) [SDNTK]

ARCE PINA, Roberto, 2830 Paradise Ridge Court, Chula Vista, CA 91915; c/o CAJA AMIGO EXPRESS S.A. DE C.V., Chula Vista, CA 91910; c/o GRUPO ARIAS-ARCE AGENCIA DE LOCALIZACION DE VEHICULOS, S. DE R.L., Tijuana, Baja California, Mexico; 750 Brookstone Road #201, Chula Vista, CA 91913; 660 Bay Boulevard, Suite 205, Chula Vista, CA 91910; c/o STRONG LINK DE MEXICO, S.A. DE C.V., Tijuana, Baja California, Mexico; c/o GRUPO INMOBILIARIO PROFESIONAL BAJA, S.A. DE C.V., Tijuana, Baja California, Mexico; c/o GLOBAL FUNDING SERVICES, CORP., Chula Vista, CA 91910; DOB 7 Jun 1971; POB Sonora, Mexico; citizen Mexico; nationality Mexico; C.U.R.P. AEPR710607HSRRXB00 (Mexico); Doing business as GLOBAL FUNDING SERVICES, CORP. at 660 Bay Blvd. Suite 205, Chula Vista, CA 91910. Incorporated in California on 4/24/2002 (No. C2288795) (individual) [SDNTK]

ARCHI CENTRE I.C.E. LIMITED, 3 Mandeville Place, London, United Kingdom [IRAQ2]

ARCHICONSULT LIMITED, 128 Buckingham Place, London 5, United Kingdom [IRAQ2]

ARDILA A., Gabriel, c/o CAJA SOLIDARIA, Bogota, Colombia; c/o COOPIFARMA, Bucaramanga, Colombia; c/o COPSERVIR LTDA., Bogota, Colombia; Carrera 100 No. 44B-10 ap. 102, Bogota, Colombia; Cedula No. 91177297 (Colombia) (individual) [SDNT]

ARDILA HUYO, Jorge Armando, c/o OBURSATILES S.A., Cali, Colombia; c/o GALAVIZ CORPORATION, LTD., Cali, Colombia; c/o A G REPRESENTACIONES LTDA., Cali, Colombia; c/o GALAVIZ CORPORATION, LTD., Miami, FL; c/o GALAVIZ CORPORATION, LTD., Nassau, Bahamas, The; c/o INTERNACIONAL DE DIVISAS S.A., LLC, Miami, FL; c/o VALORCORP S.A., Bogota, Colombia; c/o INTERNACIONAL DE DIVISAS S.A., Cali, Colombia; DOB 7 Feb 1960; Cedula No. 16448389 (Colombia); Passport 16448389 (Colombia) (individual) [SDNT]

ARDILA HUYO, Luis Alejandro, c/o OBURSATILES S.A., Cali, Colombia; c/o GALAVIZ CORPORATION, LTD., Miami, FL; c/o INTERNACIONAL DE DIVISAS S.A., Cali, Colombia; c/o A G REPRESENTACIONES LTDA., Cali, Colombia; c/o GALAVIZ CORPORATION, LTD., Nassau, Bahamas, The; c/o VALORCORP S.A., Bogota, Colombia; c/o ARDILA-MARMOLEJO, LTD., Nassau, Bahamas, The; c/o GALAVIZ CORPORATION, LTD., Cali, Colombia; c/o INTERNACIONAL DE DIVISAS S.A., LLC, Miami, FL; DOB 4 Jan 1962; Cedula No. 16670574 (Colombia); Passport AF924686 (Colombia) (individual) [SDNT]

ARDILA PICO, Rosalba, c/o COMUDROGAS LTDA., Bucaramanga, Colombia; Cedula No. 63332705 (Colombia) (individual) [SDNT]

ARDILA-MARMOLEJO, LTD. (f.k.a. HUYO-GIRALDO, LTD.), Nassau, Bahamas, The; Business Registration Document # 88,046 B (Bahamas, The) [SDNT]

ARELLANO FELIX ORGANIZATION (a.k.a. AFO; a.k.a. TIJUANA CARTEL), Mexico [SDNTK]

ARELLANO FELIX, Benjamin Alberto; DOB 12 Mar 1952; alt. DOB 11 Aug 1955; alt. DOB 8 Nov 1954; POB Mexico (individual) [SDNTK]

ARELLANO FELIX, Eduardo Ramon (a.k.a. ARELLANO FELIX, Javier Eduardo); DOB 10 Nov 1956; POB Mexico (individual) [SDNTK]

ARELLANO FELIX, Enedina (a.k.a. ARELLANO FELIX DE TOLEDO, Enedina), c/o Farmacia Vida Suprema, S.A. DE C.V., Tijuana, Baja California, Mexico; DOB 12 Apr 1961 (individual) [SDNTK]

ARELLANO FELIX, Francisco Javier (a.k.a. ARELLANO FELIX, Javier; a.k.a. BELTRAN MEZA, Ramon; a.k.a. DIAZ MEDINA, Javier; a.k.a. LARA ALVAREZ, Jose Luis); DOB 21 Nov 1969; alt. DOB 12 Dec 1969; POB Culiacan, Sinaloa, Mexico (individual) [SDNTK]

ARELLANO FELIX, Ramon Eduardo (a.k.a. COMACHO RODRIGUES, Gilberto; a.k.a. TORRES MENDEZ, Ramon); DOB 31 Aug 1964; POB Mexico (individual) [SDNTK]

ARIAN BANK (a.k.a. ARYAN BANK), House 2, Street Number 13, Wazir Akbar Khan, Kabul, Afghanistan [NPWMD]

ARIAS BANALES, Jose de Jesus, Porfirio Diaz 8190 Juarez, Tijuana, Baja California C.P. 22150, Mexico; c/o GRUPO ARIAS-ARCE AGENCIA DE LOCALIZACION DE VEHICULOS S. DE R.L., Tijuana, Baja California, Mexico; c/o DISTRIBUIDOR AUTORIZADO TEQUILA 4 REYES, S. DE R.L., Tijuana, Baja California, Mexico; c/o CAJA AMIGO EXPRESS, S.A. DE C.V., Tijuana, Baja California, Mexico; DOB 25 Feb 1971; POB Baja California, Mexico; citizen Mexico; nationality Mexico; C.U.R.P. AIBJ70225HBCRXS07 (Mexico); R.F.C. IBJ-710225-MC9 (Mexico) (individual) [SDNTK]

ARIAS DE RESTREPO, Mariella, c/o MATERIAS PRIMAS Y SUMINISTROS S.A., Bogota, Colombia; c/o AGRO MASCOTAS S.A., Bogota, Colombia; c/o DISTRIBUIDORA AGROPECUARIA COLOMBIANA S.A., Cali, Colombia; DOB 19 Nov 1958; Cedula No. 38437571 (Colombia) (individual) [SDNT]

ARIAS GAMEZ, Johana Milena, c/o COOPERATIVA DE TRABAJO ASOCIADO ACTIVAR, Bogota, Colombia; c/o SOLUCIONES COOPERATIVAS, Bogota, Colombia; Calle 69 No. 10A-53, Bogota, Colombia; Carrera 32 No. 25-71, Bogota, Colombia; c/o CAJA SOLIDARIA, Bogota, Colombia; c/o COOPCREAR, Bogota, Colombia; c/o JYG ASESORES LTDA., Bogota, Colombia; DOB 6 Nov 1982; Cedula No. 52906667 (Colombia) (individual) [SDNT]

ARIAS RAMIREZ, Jhon Helmer, c/o IMPORTADORA Y COMERCIALIZADORA LTDA., Cali, Colombia; DOB 20 Jan 1972; Cedula No. 16796537 (Colombia) (individual) [SDNT]

ARION SHIPPING CO., LTD., 60 South Street, Valletta, Malta [CUBA]

ARISTIZABAL ATEHORTUA, Jaime Alberto, c/o INVERSIONES MIGUEL RODRIGUEZ E HIJO, Cali, Colombia; c/o COLOR 89.5 FM STEREO, Cali, Colombia; c/o RADIO UNIDAS FM S.A., Cali, Colombia; c/o DERECHO INTEGRAL Y CIA. LTDA., Cali, Colombia; c/o REVISTA DEL AMERICA LTDA., Cali, Colombia; DOB 11 Oct 1968; Cedula No. 16756325 (Colombia) (individual) [SDNT]

ARIZA CHAVEZ, Elder, c/o SUPERGEN LTDA., Bucaramanga, Colombia; DOB 22 Jul 1972; Cedula No. 79183205 (Colombia); Passport 79183205 (Colombia) (individual) [SDNT]

ARIZA OLIVERA, Joaquin, c/o LITOPHARMA, Barranquilla, Colombia; Cedula No. 8721438 (Colombia) (individual) [SDNT]

ARIZABALETA ARZAYUS, Phanor (a.k.a. ARIZABALETA ARZAYUS, Fanor), Carrera 9 No. 9S-35, Buga, Colombia; Carrera 4 No. 12-41 of. 710, Cali, Colombia; Avenida 39 No. 15-22, Bogota, Colombia; c/o INVERSIONES ARIO LTDA., Cali, Colombia; Calle 110 No. 30-45, Bogota, Colombia; c/o CONSTRUCTORA ALTOS DEL RETIRO LTDA., Bogota, Colombia; DOB 12 May 1938; Cedula No. 2879530 (Colombia) (individual) [SDNT]

ARIZONA S.A., Carrera 8N No. 17A-12, Cartago, Colombia; NIT # 836000489-0 (Colombia) [SDNT]

ARJONA ALVARADO, Rafael Guillermo, c/o ALPHA PHARMA S.A., Bogota, Colombia; c/o FARMATODO S.A., Bogota, Colombia; c/o LABORATORIOS BLAIMAR, Bogota, Colombia; c/o LABORATORIOS KRESSFOR DE COLOMBIA S.A., Bogota, Colombia; DOB 28 Jun 1961; Cedula No. 19442698 (Colombia) (individual) [SDNT]

ARLONE FACELLI, Roberto, c/o DISTRIBUIDORA DE DROGAS CONDOR S.A., Bogota, Colombia; DOB 24 Oct 1959; Cedula No. 16632415 (Colombia) (individual) [SDNT]

ARMAGEDON S.A., Factoria La Rivera, La Union, Valle, Colombia; NIT # 800112221-4 (Colombia) [SDNT]

ARMAMENT INDUSTRIES GROUP (a.k.a. “AIG—ARMAMENT INDUSTRIES GROUP”), Pasdaran Ave., P.O. Box 19585/777, Tehran, Iran; Sepah Islam Road, Karaj Special Road Km 10, Iran [NPWMD]

ARMANDO JAAR Y CIA. S.C.S., Carrera 74 No. 76-150, Barranquilla, Colombia; NIT # 890114337-6 (Colombia) [SDNT]

ARMED ISLAMIC GROUP (a.k.a. AL-JAMA'AH AL-ISLAMIYAH AL-MUSALLAH; a.k.a. GIA; a.k.a. GROUPEMENT ISLAMIQUE ARME) [FTO] [SDGT]

ARMENTA ZAVALA, Arnoldo Humberto, Av. Pte. A. de Sta. Na. 21741, Colonia Infonavit Presidentes, Tijuana, Baja California CP 22576, Mexico; c/o CASA DE EMPENO RIO TIJUANA, S.A. DE C.V., Tijuana, Baja California, Mexico; DOB 12 Nov 1971; R.F.C. AEZA-711112-AA5 (Mexico) (individual) [SDNTK]

ARMY OF THE REPUBLIC OF ILIRIDA (a.k.a. ARI) [BALKANS]

ARQUITECTOS UNIDOS LTDA., Calle 22N No. 5A-75, Cali, Colombia; NIT # 805022512-4 (Colombia) [SDNT]

ARREOLA GOMEZ, Guadalupe Armando, c/o CORRALES SAN IGNACIO S.P.R. DE R.L. DE C.V., Saucillo, Chihuahua, Mexico; Mexico; DOB 25 Sept 1956; POB Saucillo, Chihuahua, Mexico; citizen Mexico; nationality Mexico; C.U.R.P. AEGG560925HCHRMD05 (Mexico); R.F.C. AEGG560925 (Mexico) (individual) [SDNTK]

ARRIOLA LUNA, Oscar Ignacio (a.k.a. ARREOLA LUNA, Oscar Ignacio), Mexico; c/o CORRALES SAN IGNACIO S.P.R. DE R.L. DE C.V., Saucillo, Chihuahua, Mexico; DOB 06 Apr 1994; POB Chihuahua, Chihuahua, Mexico; citizen Mexico; nationality Mexico; C.U.R.P. AELO940406HCHRNS04 (Mexico); alt. C.U.R.P. AILO940406HCHRNS06 (Mexico) (individual) [SDNTK]

ARRIOLA LUNA, Paola (a.k.a. ARREOLA LUNA, Paola), Mexico; c/o CORRALES SAN IGNACIO S.P.R. DE R.L. DE C.V., Saucillo, Chihuahua, Mexico; DOB 26 Jan 1986; POB Chihuahua, Chihuahua, Mexico; citizen Mexico; nationality Mexico; C.U.R.P. AILP860126MCHRNL06 (Mexico) (individual) [SDNTK]

ARRIOLA MARQUEZ ORGANIZATION, Mexico [SDNTK]

ARRIOLA MARQUEZ, Edgar Fernando (a.k.a. ARREOLA MARQUEZ, Edgar), c/o AUTO EXPRESS DORADOS S.A. DE C.V., Saucillo, Mexico; c/o GASOLINERAS SAN FERNANDO S.A. DE C.V., Saucillo, Mexico; 5th & Mina No. 10, Saucillo, Chihuahua, Mexico; DOB 23 Nov 1973; POB Delicias, Chihuahua, Mexico; citizen Mexico; nationality Mexico; R.F.C. AIME-731123-115 (Mexico) (individual) [SDNTK]

ARRIOLA MARQUEZ, Luis Raul (a.k.a. ARREOLA MARQUEZ, Luis Raul), Calle Sierra San Diego No. 2502, Fraccionamiento Santa Fe Chihuahua, Chihuahua, Mexico; c/o AUTO EXPRESS DORADOS S.A. DE C.V., Saucillo, Mexico; c/o INMOBILIARIA EL PRESON S.A. DE C.V., Chihuahua, Mexico; c/o INDIO VITORIO S. DE P.R. DE R.L. DE C.V., Saucillo, Mexico; Avenida Octava No. 72, Saucillo, Chihuahua, Mexico; c/o CHIHUAHUA FOODS S.A. DE C.V., Cuauhtemoc, Mexico; DOB 09 May 1971; POB Saucillo, Chihuahua, Mexico; citizen Mexico; nationality Mexico; C.U.R.P. AIML710509HCHRRS09 (Mexico); alt. C.U.R.P. AEML710509HCHRRS07 (Mexico); R.F.C. AIML-710509-V89 (Mexico); alt. R.F.C. AEML-710509-Q27 (Mexico) (individual) [SDNTK]

ARRIOLA MARQUEZ, Miguel Angel (a.k.a. ARREOLA MARQUEZ, Miguel Angel), c/o INMOBILIARIA EL ESCORPION DEL NORTE S.A. DE C.V., Mexico; Calle Mina No. 15, Saucillo, Chihuahua, Mexico; c/o CORRALES SAN IGNACIO L.L.C., Presidio, TX; c/o RIO GRANDE STOCKYARDS, INC., Presidio, TX; c/o AUTO EXPRESS DORADOS S.A. DE C.V., Saucillo, Chihuahua, Mexico; c/o DEL NORTES CARNES FINAS SAN IGNACIO S.A. DE C.V., Mexico; Carretera Camargo-Ojinaga Km. 2, La Aurora, Camargo, Chihuahua, Mexico; c/o CORRALES SAN IGNACIO S.P.R. DE R.L. DE C.V., Mexico; DOB 15 Dec 1967; POB Chihuahua, Mexico; citizen Mexico; nationality Mexico; C.U.R.P. AIMM67125HCHRRG06 (Mexico) issued 1968; R.F.C. AIMM-671215-387 (Mexico) (individual) [SDNTK]

ARRIOLA MARQUEZ, Oscar Arturo (a.k.a. ARREOLA MARQUEZ, Oscar Arturo), c/o DEL NORTES CARNES FINAS SAN IGNACIO S.A. DE C.V., Mexico; c/o CORRALES SAN IGNACIO L.L.C., Presidio, TX; c/o RIO GRANDE STOCKYARDS, INC., Presidio, TX; Avenida Sexta No. 68, Saucillo, Chihuahua, Mexico; c/o CORRALES SAN IGNACIO S.P.R. DE R.L. DE C.V., Mexico; c/o AUTO EXPRESS DORADOS S.A. DE C.V., Saucillo, Chihuahua, Mexico; c/o INMOBILIARIA EL ESCORPION DEL NORTE S.A. DE C.V., Mexico; DOB 06 Nov 1968; alt. DOB 11 Jun 1968; POB Chihuahua, Mexico; citizen Mexico; nationality Mexico; C.U.R.P. AIMO681106HCHRRS01 (Mexico) issued 1969; R.F.C. AIMO-681106-9F7 (Mexico) (individual) [SDNTK]

ARROYAVE RUIZ, Elkin Alberto (a.k.a. LOPEZ, Cesar), Carrera 9 No. 71D-10, Cali, Colombia; DOB 3 Sep 1968; POB Caucasia, Antioquia, Colombia; Cedula No. 4652820 (Colombia) (individual) [SDNTK]

ARSENOVIC, Djojo; DOB 6 Jan 1952; POB Donje Crnjelovo, Bosnia-Herzegovina (individual) [BALKANS]

ARTURO QUINONEZ LTDA. (a.k.a. RESTAURANTE SANTA COLOMBIA), Calle 10 No. 46-120, Cali, Colombia; NIT # 900093492-3 (Colombia) [SDNT]

ARZALLUS TAPIA, Eusebio; DOB 8 Nov 1957; POB Regil, Guipuzcoa Province, Spain; D.N.I. 15.927.207 (Spain); Member ETA (individual) [SDGT]

ASAT TRUST REG., Altenbach 8, Vaduz 9490, Liechtenstein [SDGT]

ASBAT AL-ANSAR [FTO] [SDGT]

ASESORES CONSULTORES ASOCIADOS LTDA. (a.k.a. ACA LTDA.), Carrera 100 No. 11-90 Ofc. 403, Cali, Colombia; NIT # 805007818-1 (Colombia) [SDNT]

ASESORIA Y SOLUCIONES GRUPO CONSULTOR S.A., Calle 15 Norte No. 6N-34 ofc. 404, Cali, Colombia; NIT # 805018000-1 (Colombia) [SDNT]

ASESORIAS COSMOS LTDA., Carrera 40 No. 6-50 apt. 13-01, Cali, Colombia [SDNT]

ASESORIAS DE INGENIERIA EMPRESA UNIPERSONAL (a.k.a. ASING E.U.), Calle 29 Norte No. 6N-43, Cali, Colombia; NIT # 805005185-7 (Colombia) [SDNT]

ASESORIAS ECONOMICAS MUNOZ SANTACOLOMA E.U. (a.k.a. ASEMS E.U.), Calle 18 No. 106-98 of. 207, Cali, Colombia; NIT # 805012381-3 (Colombia) [SDNT]

ASESORIAS OCUPACIONALES LTDA., Carrera 66 No. 11-129, Cali, Colombia; NIT # 800040728-6 (Colombia) [SDNT]

ASESORIAS PROFESIONALES ESPECIALIZADAS EN NEGOCIOS E.U. (a.k.a. ASPEN E.U.), Calle 9 No. 46-69, Cali, Colombia; NIT # 805020437-0 (Colombia) [SDNT]

ASESORIAS PROFESIONALES LTDA., Calle 21 No. 15-26, Ofc. 304, Armenia, Quindio, Colombia; NIT # 801000611-6 (Colombia) [SDNT]

ASH TRADING, INC., 14420 NW 16TH St., Pembroke Pines, FL 33028; Business Registration Document # P01000078571 (United States); US FEIN 65-1128351 [SDNT]

ASHRAF, Haji Muhammad (a.k.a. ASHRAF, Haji M.); DOB 1 Mar 1965; Passport A-374184 (Pakistan) (individual) [SDGT]

ASIA LIGHT CO. LTD., 15/19 Kunjan Rd., S Aung San Std, Rangoon, Burma; Mingalar Taung Nyunt Tower, 6 Upper Pansoden Street, Aung San Stadium Eastern Wing, Rangoon, Burma [BURMA]

ASIA MARINE NETWORK PTE. LTD. (a.k.a. ASIAN PERFECT MARINE PTE. LTD.; a.k.a. IRISL ASIA PTE. LTD.), 200 Middle Road, #14-01 Prime Centre 188980, Singapore [NPWMD]

ASIA WORLD CO. LTD. (a.k.a. ASIA WORLD), 61-62 Bahosi Development Housing, Wadan St., Lanmadaw Township, Rangoon, Burma [BURMA]

ASIA WORLD INDUSTRIES LTD., No. 21/22 Upper Pansodan St., Aung San Stadium (East Wing), Mingalar Taung Nyunt, Rangoon, Burma [BURMA]

ASIA WORLD PORT MANAGEMENT CO. LTD (a.k.a. ASIA WORLD PORT MANAGEMENT; a.k.a. “PORT MANAGEMENT CO. LTD.”), 61-62 Wartan St, Bahosi Yeiktha, Rangoon, Burma [BURMA]

ASISTENCIA PROFESIONAL ESPECIALIZADA EN COLOMBIA LIMITADA (a.k.a. ASPRECOL LIMITADA), Avenida 11 Norte No. 7N-201 of. 202, Edificio Aleph, Cali, Colombia; NIT # 805021375-7 (Colombia) [SDNT]

ASKATASUNA (f.k.a. GESTORAS PRO-AMNISTIA), Spain [SDGT]

ASOCIACION CIVIL LOS PROMOTORES AERONAUTICOS, Jr. Los Robles 152, Oficina 7, San Martin de Porres, URB Valdiviezo, Lima, Peru; RUC # 20336637733 (Peru) [SDNTK]

ASOCIACION TURISTICA INTERNACIONAL S.C.S. (f.k.a. LUIS A. HERNANDEZ Z Y CIA. S.C.S.), Carrera 35 No. 53-53, Bogota, Colombia; NIT # 890325040-4 (Colombia) [SDNT]

ASPOIR DEL PACIFICO Y CIA. LTDA., Cali, Colombia [SDNT]

ASSA CO. LTD., 6 Britania Place, Bath Street, St. Helier JE2 4SU, Jersey [NPWMD]

ASSA CORP. (a.k.a. ASSA), New York, NY; Tax ID No. 1368932 (United States) [NPWMD]

ASSALAYA SUGAR COMPANY LIMITED, Eastern Bank of White Nile River, near Rabak town (about 300 km from Khartoum, P.O. Box 511, Khartoum, Sudan [SUDAN]

ASSOCIATED ENGINEERS, United Kingdom [IRAQ2]

ASSOCIATION DE SECOURS PALESTINIENS (a.k.a. ASP; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), Postfach 406, CH-4109 Basel, Switzerland; Gartnerstrasse 55, CH-4109 Basel, Switzerland; c/o Faical Yaakoubi, 7 rue de l'Ancien Port, CH-1201 Geneva, Switzerland [SDGT]

ASTAIZA TACUMA, Luz Marina, c/o COMPANIA DE FOMENTO MERCANTIL S.A., Cali, Colombia; c/o GESTORA MERCANTIL S.A., Cali, Colombia; c/o GEOPLASTICOS S.A., Cali, Colombia; DOB 10 Nov 1957; POB Cali, Valle, Colombia; Cedula No. 31271034 (Colombia); Passport 31271034 (Colombia) (individual) [SDNT]

ATAMALLO SHIPPING CO. LTD. (a.k.a. ANTAMALLO SHIPPING CO. LTD.), c/o EMPRESA DE NAVEGACION MAMBISA, Apartado 543, San Ignacio 104, Havana, Cuba [CUBA]

ATBARA CEMENT COMPANY LIMITED, P.O. Box 36, Atbara, Sudan [SUDAN]

ATC LTD., Gibraltar, United Kingdom [LIBERIA]

A-TEAM CHEMICALS COMPANY LTD., 95/53 Soi Lasal, Sukhumwit 105 Road, Bang Na, Phra Khanong district, Bangkok, Thailand [SDNTK]

ATENCIA PITALUA, Rafael Dario, c/o FUNDACION PARA LA PAZ DE CORDOBA, Monteria, Cordoba, Colombia; DOB 4 Feb 1963; Cedula No. 6889653 (Colombia) (individual) [SDNTK]

ATIA, Hachim K., 2 Stratford Place, London W1N 9AE, United Kingdom (individual) [IRAQ2]

ATIA, Hachim K., Hay Al-Adil Mahala-645, Zukak-8, No.-39, Baghdad, Iraq (individual) [IRAQ2]

ATIA, Hachim K., Lane 15, Area 902, Hai Al-Wahda, Baghdad, Iraq (individual) [IRAQ2]

ATLAS AIR CONDITIONING COMPANY LIMITED, 55 Roebuck House, Palace Street, London, United Kingdom [IRAQ2]

ATLAS EQUIPMENT COMPANY LIMITED, 55 Roebuck House, Palace Street, London, United Kingdom [IRAQ2]

ATOMIC ENERGY ORGANIZATION OF IRAN (a.k.a. SAZEMAN-E ENERGY ATOMI), P.O. Box 14144-1339, End of North Karegar Avenue, Tehran, Iran [NPWMD]

ATTAR; Vessel Registration Identification IMO 9074092 (vessel) [NPWMD]

ATWA, Ali (a.k.a. BOUSLIM, Ammar Mansour; a.k.a. SALIM, Hassan Rostom), Lebanon; DOB 1960; POB Lebanon; citizen Lebanon (individual) [SDGT]

ATWAH, Muhsin Musa Matwalli (a.k.a. ABDEL RAHMAN; a.k.a. ABDUL RAHMAN; a.k.a. AL-MUHAJIR, Abdul Rahman; a.k.a. AL-NAMER, Mohammed K.A.), Afghanistan; DOB 19 Jun 1964; POB Egypt; citizen Egypt (individual) [SDGT]

AUCHENBURG FARM, Nyamandlovu, Zimbabwe [ZIMBABWE]

AUDITORES ESPECIALIZADOS LTDA., Calle 93 No. 14-20 Ofc. 611, Bogota, Colombia; NIT # 830041980-1 (Colombia) [SDNT]

AUF, Awad Ibn (a.k.a. AUF, Awad Muhammad Ibn; a.k.a. AUF, Mohammed Ahmed Awad Ibn; a.k.a. AWF, Awad Ahmad Ibn; a.k.a. AWF, Awad Ibn; a.k.a. NAUF, Awad Mohammed Ahmed Ebni; a.k.a. OAF, Awad Mohamed Ahmed Ibn; a.k.a. OUF, Awad Mohamed Ahmed Ibn); DOB circa 1954; nationality Sudan; Head of Military Intelligence and Security (individual) [DARFUR]

AUM SHINRIKYO (a.k.a. A.I.C. COMPREHENSIVE RESEARCH INSTITUTE; a.k.a. A.I.C. SOGO KENKYUSHO; a.k.a. ALEPH; a.k.a. AUM SUPREME TRUTH) [FTO] [SDGT]

AUNG, Win (a.k.a. AUNG, Dagon Win; a.k.a. AUNG, U Win), c/o Dagon International Limited, Burma; c/o Dagon Timber Limited, Burma; DOB circa 1953; nationality Burma (individual) [BURMA] [JADE]

AUREAL INMOBILIARIA LTDA., Avenida 7 No. 112-38 of. 104, Bogota, Colombia [SDNT]

AURELIANO FELIX, Jorge (a.k.a. “MACUMBA”); DOB 15 Apr 1952; nationality Mexico (individual) [SDNTK]

AUREUM PALACE HOTELS AND RESORTS (a.k.a. AUREUEM PALACE HOTEL AND RESORT (BAGAN); a.k.a. AUREUEM PALACE HOTEL AND RESORT (NGAPALI); a.k.a. AUREUM PALACE HOTEL AND RESORT (NGWE SAUNG); a.k.a. AUREUM PALACE HOTEL AND RESORT GROUP CO. LTD.; a.k.a. AUREUM PALACE HOTEL RESORT; a.k.a. AUREUM PALACE RESORTS; a.k.a. AUREUM PALACE RESORTS AND SPA), Thandwe, Rakhine, Burma; No. 41 Shwe Taung Gyar Street, Bahan Township, Yangon, Burma [BURMA]

AUTO EXPRESS DORADOS S.A. DE C.V., Avenida Cristobal Colon, Saucillo, Chihuahua, Mexico; Panamericana 110 Colonia Altavista, Saucillo, Chihuahua C.P. 33620, Mexico [SDNTK]

AUTOMOBILE CORPORATION, Khartoum, Sudan [SUDAN]

AVALON, S.A., Colon Free Zone, Panama [CUBA]

AVIANDINA S.A.C., Avenida Jose Pardo 601, Lima, Peru; RUC # 20423916541 (Peru) [SDNTK]

AVIATRANS ANSTALT (a.k.a. AVIATRANS ESTABLISHMENT), Ruggell, Liechtenstein [IRAQ2]

AVILA DE MONDRAGON, Ana Dolores, c/o INVERSIONES Y CONSTRUCCIONES ABC S.A., Cali, Colombia; c/o COMPAX LTDA., Cali, Colombia; c/o INVERSIONES Y CONSTRUCCIONES COSMOVALLE LTDA., Cali, Colombia; DOB 22 Dec 1911; Cedula No. 29183223 (Colombia) (individual) [SDNT]

AVILA GONZALEZ, Humberto, c/o ADMINISTRADORA DE SERVICIOS VARIOS CALIMA S.A., Cali, Colombia; c/o CHAMARTIN S.A., Cali, Colombia; DOB 2 Apr 1960; Cedula No. 14882052 (Colombia); Passport 14882052 (Colombia) (individual) [SDNT]

AVILA LOPEZ, Gabriel, c/o ADMINISTRADORA DE SERVICIOS VARIOS CALIMA S.A., Cali, Colombia; c/o CHAMARTIN S.A., Cali, Colombia; DOB 3 Aug 1963; Cedula No. 16689631 (Colombia); Passport 16689631 (Colombia) (individual) [SDNT]

AVILA MIRANDA, Jorge Adalberto, Calle 52N No. 2D-29, Cali, Colombia; c/o CAUCALITO LTDA., Cali, Colombia; DOB 23 Apr 1950; Cedula No. 12534286 (Colombia) (individual) [SDNT]

AWDA, Abd Al Aziz; DOB 1946; Chief Ideological Figure of PALESTINIAN ISLAMIC JIHAD—SHIQAQI (individual) [SDT]

AWEYS, Dahir Ubeidullahi, Via Cipriano Facchinetti 84, Rome, Italy (individual) [SDGT]

AWEYS, Hassan Dahir (a.k.a. ALI, Sheikh Hassan Dahir Aweys; a.k.a. AWES, Shaykh Hassan Dahir); DOB 1935; citizen Somalia (individual) [SDGT]

AW-MOHAMED, Ahmed Abdi (a.k.a. ABUZUBAIR, Muktar Abdulrahim; a.k.a. AW MOHAMMED, Ahmed Abdi; a.k.a. “ABU ZUBEYR”; a.k.a. “GODANE”; a.k.a. “GODANI”; a.k.a. “SHAYKH MUKHTAR”); DOB 10 Jul 1977; POB Hargeysa, Somalia; nationality Somalia (individual) [SDGT]

AYARI, Chiheb Ben Mohamed (a.k.a. AL-AYARI, Chiheb Ben Mohamed Ben Mokhtar; a.k.a. “HICHEM ABU HCHEM”), Via di Saliceto n.51/9, Bologna, Italy; DOB 19 Dec 1965; POB Tunis, Tunisia; nationality Tunisia; Passport L246084 issued 10 Jun 1996 expires 9 Jun 2001 (individual) [SDGT]

AYE, Maung; DOB 25 Dec 1937; citizen Burma; nationality Burma; Vice Senior General; Vice-Chairman of the State Peace and Development Council; Deputy Commander-in-Chief, Myanmar Defense Services (Tatmadaw); Commander-in-Chief, Myanmar Army (individual) [BURMA]

AYER SHWE WAH COMPANY LIMITED (a.k.a. AYE YAR SHWE WAH; a.k.a. AYER SHWE WA; a.k.a. AYEYA SHWE WAR COMPANY), 5 Pyay Road, Hlaing Township, Yangon, Burma [BURMA]

AYERAS, Ricardo Perez (a.k.a. AYERAS, Abdul Kareem; a.k.a. AYERAS, Abdul Karem; a.k.a. AYERAS, Abdul Karim; a.k.a. AYERAS, Khalil; a.k.a. AYERAS, Ricardo Abdulkareem; a.k.a. AYERAS, Ricardo Abdulkarim; a.k.a. AYERAS, Ricky; a.k.a. AYERS, Abdul Karim; a.k.a. MUJIB, Abdul; a.k.a. PEREZ, Isaac Jay Galang; a.k.a. PEREZ, Jay), 24 Paraiso Street, Barangay Poblacion, Mandaluyong City, Manila, Philippines; DOB 15 Sep 1973; POB 24 Paraiso Street, Barangay Poblacion, Mandaluyong City, Manila, Philippines; nationality Philippines (individual) [SDGT]

AZAM, Amir (a.k.a. SHEIKH MOHAMMED, Amir Azam), Dubai, United Arab Emirates; c/o A A TRADING FZCO, Dubai, United Arab Emirates; DOB 02 Nov 1971; POB Chiswick, England; citizen United Arab Emirates; Passport 039856039 (United Kingdom) (individual) [SDNTK]

AZIZ, Tariq (a.k.a. AZIZ, Tariq Mikhail); DOB 1 Jul 1936; POB Mosul or Baghdad, Iraq; nationality Iraq; Passport NO34409/129 issued July 1997; Deputy Prime Minister (individual) [IRAQ2]

AZIZAH, Sa'id Yusif Ali Abu (a.k.a. AZIZ, Sa'id Yusif Abu; a.k.a. 'AZIZ, Sa'ud Abu; a.k.a. AZIZA, Said Youssef Ali Abu; a.k.a. AZIZAT, Sa'id Yusif Ali Abu; a.k.a. HAMID, Abdul; a.k.a. “AL-HAMID, Abd”; a.k.a. “THERAB, Abu”; a.k.a. “THURAB, Abu”; a.k.a. “TURAB, Abu”); DOB 1958; POB Tripoli, Libya; Passport 87/437555 (Libya) (individual) [SDGT]

AZZA AIR TRANSPORT COMPANY LTD. (a.k.a. AZZA AVIATION COMPANY; a.k.a. AZZA TRANSPORT), German Culture Center, McNimer Street, P. O. Box 11586, Khartoum, Sudan [DARFUR]

B R C S.A. (a.k.a. BARRERA RIOS CAMACHO ADMINISTRACION Y FINANZAS S.A.), Calle 28N No. 6BN-54, Cali, Colombia; NIT # 900021843-7 (Colombia) [SDNT]

BA TAQWA FOR COMMERCE AND REAL ESTATE COMPANY LIMITED (n.k.a. HOCHBURG, AG), formerly c/o Asat Trust reg., Vaduz, Liechtenstein; Vaduz, Liechtenstein [SDGT]

BA'ASYIR, Abu Bakar (a.k.a. BAASYIR, Abu Bakar; a.k.a. BASHIR, Abu Bakar; a.k.a. “ABDUS SAMAD”; a.k.a. “ABDUS SOMAD”); DOB 17 Aug 1938; POB Jombang, East Java, Indonesia; nationality Indonesia (individual) [SDGT]

BAAZAOUI, Mondher (a.k.a. AL-BAAZAOUI, Mondher Ben Mohsen Ben Ali; a.k.a. “HAMZA”), Via di Saliceto n.51/9, Bologna, Italy; DOB 18 Mar 1967; POB Kairouan, Tunisia; nationality Tunisia; Passport K602878 issued 5 Nov 1993 expires 9 Jun 2001 (individual) [SDGT]

BABANOUSA MILK PRODUCTS FACTORY, P.O. Box 16, Babanousa, Sudan [SUDAN]

BABBAR KHALSA INTERNATIONAL [SDGT]

BABIL INTERNATIONAL, Aeroport D'Orly, 94390 Orly Aerogare, France [IRAQ2]

BADAT, Sajid Mohammed (a.k.a. BADAT, Muhammed; a.k.a. BADAT, Saajid; a.k.a. BADAT, Sajid; a.k.a. BADAT, Sajid Muhammad; a.k.a. BADET, Muhammed; a.k.a. BADET, Saajid Mohammad; a.k.a. BADET, Sajid Muhammad; a.k.a. “AL BRITAINI, Issa”; a.k.a. “AL PAKISTANI, Abu Issa”; a.k.a. “AL PAKISTANI, Issa”); DOB 28 Mar 1979; alt. DOB 8 Mar 1976; POB Pakistan; alt. POB Gloucester, United Kingdom; citizen United Kingdom; Passport 026725401 (United Kingdom); alt. Passport 703114075 (United Kingdom); Currently imprisoned in the United Kingdom (individual) [SDGT]

BADRI, Gabril Abdul Kareem (a.k.a. BAREY, Djibril Abdul Kareem; a.k.a. BARI, Gabril Abdul Karim; a.k.a. KAREEM, Djibril Abdul), Darfur, Sudan; DOB circa 1961; Colonel for the National Movement for Reform and Development (NMRD) (individual) [DARFUR]

BAEZA MOLINA, Carlos Alberto, c/o DERECHO INTEGRAL Y CIA. LTDA., Cali, Colombia; c/o INVERSIONES MIGUEL RODRIGUEZ E HIJO, Cali, Colombia; DOB 6 Mar 1958; Cedula No. 16621765 (Colombia) (individual) [SDNT]

BAHAJI, Said, Bunatwiete #23, Hamburg 21073, Germany; 12 Rue Descartes, Meknes, Morocco; Wiesendamm #135, Hamburg 22303, Germany; Marienstr #54, Hamburg 21073, Germany; DOB 15 Jul 1975; POB Haselunne, Lower Saxony, Germany; nationality Morocco; alt. nationality Germany (individual) [SDGT]

BAHAZIQ, Mahmoud Mohammad Ahmed (a.k.a. ABU 'ABD AL-'AZIZ; a.k.a. ABU ABDUL AZIZ; a.k.a. BAHAZIQ, Mahmoud; a.k.a. SHAYKH SAHIB); DOB 17 Aug 1943; alt. DOB 1944; alt. DOB 1943; POB India; nationality Saudi Arabia; Registration ID 4-6032-0048-1 (Saudi Arabia) (individual) [SDGT]

BAHMANYAR, Bahmanyar Morteza; DOB 31 Dec 1952; POB Tehran, Iran; Passport I0005159 (Iran); alt. Passport 10005159 (Iran) (individual) [NPWMD]

BAHNAM, Hikmat Jarjes (a.k.a. GARGEES, Hikmat), Baghdad, Iraq; nationality Iraq; Passport 035667 (Iraq) (individual) [IRAQ2]

BAJAGIC, Zvonko 'Duga Puska'; DOB 6 Sep 1953; POB Vlasenica, Bosnia-Herzegovina (individual) [BALKANS]

BALA, Haradin; DOB 10 Jun 1957; POB Gornja Koretica, Serbia and Montenegro; ICTY indictee (individual) [BALKANS]

BALDENEGRO BASTIDAS, Manuel Dario, c/o AGRICOLA GAXIOLA S.A. DE C.V., Hermosillo, Sonora, Mexico; DOB 11 Jan 1963; POB Hermosillo, Sonora, Mexico; alt. POB Distrito Federal, Mexico, Mexico; citizen Mexico; nationality Mexico; C.U.R.P. BABM630111HSLLSN16 (Mexico); alt. C.U.R.P. BABM630111HSLLSN08 (Mexico); Passport 260000406 (Mexico) (individual) [SDNTK]

BALLESTAS ARRIETA, Arturo Carlos, c/o CAJA SOLIDARIA, Bogota, Colombia; c/o COOMULCOSTA, Barranquilla, Colombia; c/o COPSERVIR LTDA., Bogota, Colombia; Cedula No. 8706711 (Colombia) (individual) [SDNT]

BAMBOO CREEK FARM, Shamva, Zimbabwe [ZIMBABWE]

BANANERA AGRICOLA S.A. (a.k.a. BANAGRICOLA S.A.), Carrera 2B No. 26-12, Santa Marta, Colombia; NIT # 800142651-6 (Colombia) [SDNT]

BANCO INTERNACIONAL DE DESARROLLO, C.A., Urb. El Rosal, Avenida Francisco de Miranda, Edificio Dozsa, Piso 8, Caracas C.P. 1060, Venezuela; RIF # J294640109 (Venezuela); SWIFT/BIC IDUNVECA; Banco Internacional de Desarrollo, C.A. is a separate and distinct entity from Banco Interamericano de Desarrollo, known in English as the Inter-American Development Bank (IADB), and from Banco Desarrollo Economico y Social De Venezuela (BANDES), an entity owned by the Government of Venezuela [NPWMD]

BANCO NACIONAL DE CUBA (a.k.a. BNC; a.k.a. NATIONAL BANK OF CUBA), Dai-Ichi Bldg. 6th Floor, 10-2 Nihombashi, 2-chome, Chuo-ku, Tokyo 103, Japan [CUBA]

BANCO NACIONAL DE CUBA (a.k.a. BNC; a.k.a. NATIONAL BANK OF CUBA), Federico Boyd Avenue & 51 Street, Panama City, Panama [CUBA]

BANCO NACIONAL DE CUBA (a.k.a. BNC; a.k.a. NATIONAL BANK OF CUBA), Avenida de Concha Espina 8, E-28036 Madrid, Spain [CUBA]

BANCO NACIONAL DE CUBA (a.k.a. BNC; a.k.a. NATIONAL BANK OF CUBA), Zweierstrasse 35, CH-8022 Zurich, Switzerland [CUBA]

BANDERAS, Aracelly, c/o AGROPECUARIA LA ROBLEDA S.A., Cali, Colombia; DOB 30 Nov 1955 (individual) [SDNT]

BANGKOK ARTI-FLORA DESIGN LIMITED PARTNERSHIP (a.k.a. HANG HUN SUAN CHAMKAT BANG KOK ATHI-FLORA DISAIN), 812/89 Ratchada Phisek Road, Din Daeng precinct, Huai Khwang district, Bangkok, Thailand [SDNTK]

BANGKOK SILK FLOWER COMPANY LTD., 277-279 Soi Thiam Ruammit, Ratchada Phisek Road, Huai Khwang district, Bangkok, Thailand [SDNTK]

BANK AL TAQWA LIMITED (a.k.a. AL TAQWA BANK; a.k.a. BANK AL TAQWA), P.O. Box N-4877, Nassau, Bahamas, The; c/o Arthur D. Hanna & Company, 10 Deveaux Street, Nassau, Bahamas, The [SDGT]

BANK KARGOSHAEE (a.k.a. KARGOSA'I BANK), 587 Mohammadiye Square, Mowlavi St., Tehran 11986, Iran [NPWMD]

BANK MELLAT, Cumhuriyet Bulvari No 88/A, PK 7103521, Konak, Izmir, Turkey; PO Box 375010, Amiryan Str #6, P/N-24, Yerevan, Armenia; PO Box 79106425, Ziya Gokalp Bulvari No 12, Kizilay, Ankara, Ankara, Turkey; 327 Forsat and Taleghani Avenue, Tehran 15817, Iran; Buyukdere Cad, Cicek Sokak No 1—1 Levent, Levent, Istanbul, Turkey; Keumkang Tower—13th & 14th Floor, 889-13 Daechi-Dong, Gangnam-Ku, Seoul 135-280, Korea, South; Head Office Bldg, 327 Taleghani Ave, Tehran 15817, Iran; all offices worldwide [IRAN] [NPWMD]

BANK MELLI IRAN (a.k.a. BANK MELLI; a.k.a. NATIONAL BANK OF IRAN), PO Box 2656, Liva Street, Abu Dhabi, United Arab Emirates; PO Box 459, Al Borj St, Sharjah, United Arab Emirates; Room 704-6, Wheelock Hse, 20 Pedder St, Central, Hong Kong; PO Box 1894, Baniyas St, Deira, Dubai City, United Arab Emirates; PO Box 1894, Al Wasl Rd, Jumeirah, Dubai, United Arab Emirates; 43 Avenue Montaigne, Paris 75008, France; PO Box 1888, Clock Tower, Industrial Rd, Al Ain Club Bldg, Al Ain, Abu Dhabi, United Arab Emirates; Postfach 112 129, Holzbruecke 2, D-20459, Hamburg, Germany; Unit 1703-4, 17th Floor, Hong Kong Club Building, 3 A Chater Road Central, Hong Kong; PO Box 2643, Ruwi, Muscat 112, Oman; Nobel Ave. 14, Baku, Azerbaijan; PO Box 11365-171, Ferdowsi Avenue, Tehran, Iran; Bank Melli Iran Bldg, 111 St 24, 929 Arasat, Baghdad, Iraq; PO Box 248, Hamad Bin Abdulla St, Fujairah, United Arab Emirates; PO Box 5270, Oman Street Al Nakheel, Ras Al-Khaimah, United Arab Emirates; PO Box 3093, Ahmed Seddiqui Bldg, Khalid Bin El-Walid St, Bur-Dubai, Dubai City 3093, United Arab Emirates; all offices worldwide [IRAN] [NPWMD]

BANK MELLI IRAN INVESTMENT COMPANY (a.k.a. BMIIC), Bldg 2, Nader Alley after Beheshi Forked Road, P.O. Box 15875-3898, Tehran 15116, Iran; Rafiee Alley, Nader Alley, 2 After Serahi Shahid Beheshti, Vali E Asr Avenue, Tehran, Iran; No. 2, Nader Alley, Vali-Asr Str., P.O. Box 3898-15875, Tehran, Iran; Business Registration Document # 89584 (Iran) [NPWMD]

BANK MELLI IRAN ZAO, Number 9/1, Ulitsa Mashkova, Moscow 103064, Russia [NPWMD]

BANK MELLI PRINTING AND PUBLISHING CO. (a.k.a. BANK MELLI PRINTING CO.), Km 16 Karaj Special Road, Tehran, Iran; 18th Km Karaj Special Road, P.O. Box 37515-183, Tehran, Iran; Business Registration Document # 382231 (Iran) [NPWMD]

BANK OF KHARTOUM (a.k.a. BANK OF KHARTOUM GROUP), P.O. Box 2732, Khartoum, Sudan; P.O. Box 408, Barlaman Avenue, Khartoum, Sudan; El Dinder, Sudan; El Mazmoum, Sudan; P.O. Box 12, Kosti, Sudan; Sawakin, Sudan; Wadi Halfa, Sudan; P.O. Box 880, Khartoum, Sudan; P.O. Box 131, Wad Medani, Sudan; P.O. Box 89, Atbara, Sudan; Tokar, Sudan; Assalaya, Sudan; Karkoug, Sudan; University of Khartoum, Khartoum, Sudan; P.O. Box 241, Port Sudan, Sudan; Abugaouta, Sudan; El Dain, Sudan; El Damazeen, Sudan; El Roseirs, Sudan; El Suk el Shabi, Sudan; Kassala, Sudan; Shendi, Sudan; Singa, Sudan; Tandalti, Sudan; P.O. Box 312, Khartoum, Sudan; P.O. Box 67, Omdurman, Sudan; Berber, Sudan; Dongola, Sudan; El Fow, Sudan; El Garia, Sudan; Halfa el Gadida, Sudan; Karima, Sudan; Omdurman P.O. Square, P.O. Box 341, Khartoum, Sudan; Sharia el Murada, Khartoum, Sudan; P.O. Box 1008, Khartoum, Sudan; Abu Hammad, Sudan; El Damer, Sudan; El Fashir, Sudan; El Ghadder, Sudan; P.O. Box 220, El Obeid, Sudan; Sharia el Barlaman, P.O. Box 922, Khartoum, Sudan; Rufaa, Sudan; Tamboul, Sudan; El Gadarit, Sudan; El Managil, Sudan; Sharia el Gama'a, P.O. Box 880, Khartoum, Sudan; Suk el Arabi, P.O. Box 4160, Khartoum, Sudan; Rabak, Sudan; El Daba, Sudan; El Dilling, Sudan; El Rahad, Sudan; Sharia el Gamhoria, P.O. Box 312, Khartoum, Sudan; Tayar Murad, P.O. Box 922, Khartoum, Sudan; P.O. Box 135, Nyala, Sudan [SUDAN]

BANK OF SUDAN, Atbara, Sudan; Wau, Sudan; Sharia El Gamaa, P.O. Box 313, Khartoum, Sudan; P.O. Box 34, Port Sudan, Sudan; P.O. Box 27, El Obeid, Sudan; Nyala, Sudan; P.O. Box 73, Kosti, Sudan; Wad Medani, Sudan; P.O. Box 136, Juba, Sudan [SUDAN]

BANK SADERAT IRAN (a.k.a. BANK SADERAT PLC; a.k.a. IRAN EXPORT BANK), PO Box 4308, 25-29 Venizelou St, Athens, Attica GR 105 64, Greece; 1st Floor, Alrose Bldg, Verdun—Rashid Karame St, Beirut, Lebanon; PO Box 700, Abu Dhabi, United Arab Emirates; Bur Dubai, Khaled Bin Al Walid St, Dubai City, United Arab Emirates; Sheikh Zayed Rd, Dubai City, United Arab Emirates; PO Box 316, Bank Saderat Bldg, Alaroda St, Borj Ave, Sharjah, United Arab Emirates; 16 rue de la Paix, Paris 75002, France; Alghobeiri Branch—Aljawhara Bldg, Ghobeiry Blvd, Beirut, Lebanon; PO Box 4425, Salwa Rd, Doha, Qatar; PO Box 1140, Al-Am Road, Al-Ein, Al Ain, Abu Dhabi, United Arab Emirates; Postfach 112227, Deichstrasse 11, 20459, Hamburg, Germany; PO Box 5126, Beirut, Lebanon; PO Box 1269, Muscat 112, Oman; PO Box 4182, Murshid Bazar Branch, Dubai City, United Arab Emirates; 5 Lothbury, London EC2R 7HD, United Kingdom; Postfach 160151, Friedenstr 4, D-60311, Frankfurt am Main, Germany; 3rd Floor, Aliktisad Bldg, Ras El Ein Street Baalbak, Baalbak, Lebanon; Saida Branch, Sida Riad Elsoleh St, Martyrs Sq, Saida, Lebanon; Borj Albarajneh Branch—20 Alholom Bldg, Sahat Mreijeh, Kafaat St, Beirut, Lebanon; PO Box 16, Liwara Street, Ajman, United Arab Emirates; Ground Floor Business Room, Building Banke Khoon Road, Harat, Afghanistan; No. 56, Opposite of Security Department, Toraboz Khan Str., Kabul, Afghanistan; 3rd Floor, Mteco Centre, Mar Elias, Facing Al Hellow Barrak, POB 5126, Beirut, Lebanon; 2nd Floor, No 181 Makhtoomgholi Ave, Ashgabat, Turkmenistan; PO Box 4182, Almaktoum Rd, Dubai City, United Arab Emirates; PO Box 15745-631, Bank Saderat Tower, 43 Somayeh Avenue, Tehran, Iran; PO Box 2256, Doha, Qatar; all offices worldwide [IRAN] [SDGT]

BANK SEPAH, Imam Khomeini Square, Tehran 1136953412, Iran; Hafenstrasse 54, D-60327, Frankfurt am Main, Germany; 64 Rue de Miromesnil, Paris 75008, France; Via Barberini 50, Rome, RM 00187, Italy; 17 Place Vendome, Paris 75008, France; all offices worldwide [IRAN] [NPWMD]

BANK SEPAH INTERNATIONAL PLC, 5-7 Eastcheap, London EC3M 1JT, United Kingdom [NPWMD]

BANOVIC, Predrag; DOB 28 Oct 1969; POB Prijedor, Bosnia-Herzegovina; ICTY indictee in custody (individual) [BALKANS]

BARAHONA CORDOBEZ, Jaime (a.k.a. BARONA CORDOBES, Jaime; a.k.a. BARONA CORDOBEZ, Jaime), Avenida Reforma 8-33 Zona 10, Guatemala City, Guatemala; c/o OVERSEAS TRADING COMPANY S.A., Guatemala City, Guatemala; 10 Calle 5-60 Zona 9, Guatemala City, Guatemala; Km. 16.5 El Salvador 169, Andalucia, Guatemala; DOB 1 Oct 1960; POB Guatemala; NIT # 953243-9 (Guatemala); Passport 16660729 (Guatemala) (individual) [SDNT]

BARAKA TRADING COMPANY, P.O. Box 3313, Dubai, United Arab Emirates [SDGT]

BARAKAAT BOSTON, 266 Neponset Ave., Apt 43, Dorchester, MA 02122-3224 [SDGT]

BARAKAAT CONSTRUCTION COMPANY, P.O. Box 3313, Dubai, United Arab Emirates [SDGT]

BARAKAAT GROUP OF COMPANIES, P.O. Box 3313, Dubai, United Arab Emirates; Mogadishu, Somalia [SDGT]

BARAKAAT INTERNATIONAL, Hallbybacken 15, Spanga 70, Sweden [SDGT]

BARAKAAT INTERNATIONAL COMPANIES (BICO), Dubai, United Arab Emirates; Mogadishu, Somalia [SDGT]

BARAKAAT INTERNATIONAL FOUNDATION, P.O. Box 4036, Spanga, Sweden; Rinkebytorget 1, Spanga 04, Sweden [SDGT]

BARAKAAT INTERNATIONAL, INC., 1929 South 5th Street, Suite 205, Minneapolis, MN [SDGT]

BARAKAAT NORTH AMERICA, INC., 925 Washington St., Dorchester, MA; 2019 Bank St., Ottawa, Ontario, Canada [SDGT]

BARAKAAT RED SEA TELECOMMUNICATIONS, Guureeye, Somalia; Kowthar, Somalia; Bubaarag, Somalia; Xuuxuule, Somalia; Najax, Somalia; Carafaat, Somalia; Ala Aamin, Somalia; Nakhiil, Somalia; Huruuse, Somalia; Ticis, Somalia; Gufure, Somalia; Bossaso, Somalia; Raxmo, Somalia; Noobir, Somalia [SDGT]

BARAKAAT TELECOMMUNICATIONS COMPANY LIMITED (a.k.a. BTELCO), Bakara Market, Dar Salaam Buildings, Mogadishu, Somalia; Netherlands [SDGT]

BARAKAAT TELECOMMUNICATIONS COMPANY SOMALIA, LIMITED, P.O. Box 3313, Dubai, United Arab Emirates [SDGT]

BARAKAT BANK AND REMITTANCES, Mogadishu, Somalia; Dubai, United Arab Emirates [SDGT]

BARAKAT COMPUTER CONSULTING (BCC), Mogadishu, Somalia [SDGT]

BARAKAT CONSULTING GROUP (BCG), Mogadishu, Somalia [SDGT]

BARAKAT GLOBAL TELEPHONE COMPANY, Mogadishu, Somalia; Dubai, United Arab Emirates [SDGT]

BARAKAT IMPORT EXPORT LTDA, Iquique, Chile; Tax ID No. AABA 670850 Y [SDGT]

BARAKAT POST EXPRESS (BPE), Mogadishu, Somalia [SDGT]

BARAKAT REFRESHMENT COMPANY, Mogadishu, Somalia; Dubai, United Arab Emirates [SDGT]

BARAKAT WIRE TRANSFER COMPANY, 4419 S. Brandon St., Seattle, WA [SDGT]

BARAKAT, Assad Ahmad (a.k.a. BARAKAT, Assaad Ahmad; a.k.a. BARAKAT, Assad; a.k.a. BARAKAT, Assad Ahmed Muhammad; a.k.a. BARAKAT, Assad Hassan; a.k.a. BARAKAT, Jach Assad Ahmad; a.k.a. HAJJ AS'AD AHMAD), Rua Rio Branco Lote 682, Quadra 13, Foz do Iguacu, Brazil; Rua Silva Jardim 290, Foz do Iguacu, Brazil; Rua Xavier Da Silva 535, Edificio Martin Terro, Apartment 301, Foz do Iguacu, Brazil; Piribebuy Y A. Jara, Ciudad del Este, Paraguay; Rue Taroba 1005, Beatriz Menez Building, Foz do Iguacu, Brazil; Apartment 111, Panorama Building, Iquique, Chile; Arrecife Apartment Building, Iquique, Chile; DOB 25 Mar 1967; POB Lebanon (individual) [SDGT]

BARAKAT, Hamzi Ahmad (a.k.a. BARAKAT, Hamza Ahmad; a.k.a. BARAKAT, Hamze Ahmad; a.k.a. BARAKAT, Hamzi Muhammad); DOB 10 Jan 1963; POB Rubtlatine, Lebanon; alt. POB Beirut, Lebanon; citizen Lebanon (individual) [SDGT]

BARAKAT, Hatim Ahmad (a.k.a. BARAKAT, Hatam Ahmad; a.k.a. BARAKAT, Hatem Ahmad; a.k.a. BARAKAT, Hattem Ahmad; a.k.a. BARAKAT, Hotem Ahmad); DOB 25 Sep 1961; POB Mousaitbe, Lebanon; citizen Lebanon; alt. citizen Paraguay; Identification Number 2.194.975 (Paraguay); alt. Identification Number 2.194.575 (Paraguay); Passport 183319 (Paraguay); alt. Passport 148842 (Paraguay); alt. Passport 106318 (Paraguay) (individual) [SDGT]

BARAKAT, Mohammad Fayez; DOB 11 Mar 1969; POB Rubtlatine, Lebanon; citizen Lebanon; alt. citizen Paraguay; Identification Number 2.121.948 (Paraguay) (individual) [SDGT]

BARAKO TRADING COMPANY LLC (a.k.a. BARAKA TRADING COMPANY), P.O. Box 3313, Dubai, United Arab Emirates [SDGT]

BARCO RUIZ, Eduardo, c/o FOGENSA S.A., Bogota, Colombia; DOB 26 May 1945; Cedula No. 5562182 (Colombia); Passport 5562182 (Colombia) (individual) [SDNT]

BARNEY CELAYA, Juan Diego, c/o MULTICAJA DE TIJUANA, S.A. DE C.V., Tijuana, Baja California, Mexico; c/o OPERADORA DE CAJA Y SERVICIOS, S.A. DE C.V., Tijuana, Baja California, Mexico; DOB 16 Mar 1959; POB Sonora, Mexico; citizen Mexico; nationality Mexico; C.U.R.P. BACJ590316HSRRLN01 (Mexico) (individual) [SDNTK]

BARON DIAZ, Carlos Arturo, c/o DISTRIBUIDORA MIGIL LTDA., Cali, Colombia; c/o GRACADAL S.A., Cali, Colombia; DOB 22 Jul 1931; Cedula No. 49994 (Colombia) (individual) [SDNT]

BARONA DORADO, Fernando, c/o DISMERCOOP, Cali, Colombia; DOB 6 Jun 1963; Cedula No. 16688872 (Colombia) (individual) [SDNT]

BAROON SHIPPING COMPANY LIMITED, Haven Court, 5 Library Ramp, Gibraltar, United Kingdom [IRAQ2]

BARRAZA REYES, Raquel Emilia, c/o COPSERVIR LTDA., Bogota, Colombia; c/o CAJA SOLIDARIA, Bogota, Colombia; c/o COOMULCOSTA, Barranquilla, Colombia; Cedula No. 22636674 (Colombia) (individual) [SDNT]

BARRERA MARIN, Alvaro, Calle 56D No. 28B-73, Barrio Las Mercedes, Palmira, Valle, Colombia; c/o WORLD LINE SYSTEM S.A., Palmira, Valle, Colombia; c/o NEGOCIOS Y CAPITALES S.A., Pereira, Colombia; c/o COMERCIALIZADORA DE BIENES Y SERVICIOS ADMINISTRATIVOS Y FINANCIEROS S.A., Cali, Colombia; c/o CECEP EDITORES S.A., Cali, Colombia; c/o BARRERA RIOS NEGOCIOS INMOBILIARIOS E.U., Cali, Colombia; c/o APVA S.A., Cali, Colombia; c/o CIDCA, Bogota, Colombia; c/o CECEP S.A., Cali, Colombia; c/o ENSAMBLADORA COLOMBIANA AUTOMOTRIZ S.A., Barranquilla, Colombia; DOB 21 Nov 1940; POB Sevilla, Valle, Colombia; Cedula No. 6451857 (Colombia); Passport AG003135 (Colombia) (individual) [SDNT]

BARRERA RIOS NEGOCIOS INMOBILIARIOS E.U., Carrera 22 No. 5A-21, Cali, Colombia; NIT # 805030626-9 (Colombia) [SDNT]

BARRERA RIOS, Alfonso, c/o A K EDUCAL S.A. EDUCACION CON CALIDAD, Cali, Colombia; c/o A K DIFUSION S.A. PUBLICIDAD Y MERCADEO, Cali, Colombia; c/o NEGOCIOS Y CAPITALES S.A., Pereira, Colombia; c/o B R C S.A., Cali, Colombia; c/o CECEP EDITORES S.A., Cali, Colombia; Calle 14 Oeste No. 2B1-45 apto. 302E, Cali, Colombia; c/o ENSAMBLADORA COLOMBIANA AUTOMOTRIZ S.A., Barranquilla, Colombia; c/o ALFONSO BARRERA RIOS Y CIA S. EN C.S., Cali, Colombia; c/o CECEP S.A., Cali, Colombia; c/o APVA S.A., Cali, Colombia; c/o WORLD LINE SYSTEM S.A., Palmira, Valle, Colombia; c/o SERPROVIS S.A. SERVICIOS Y PROVISIONES, Cali, Colombia; c/o BARRERA RIOS NEGOCIOS INMOBILIARIOS E.U., Cali, Colombia; DOB 08 Dec 1975; POB Cali, Colombia; Cedula No. 79648943 (Colombia); Passport AJ963037 (Colombia) (individual) [SDNT]

BARRERA RIOS, Alvaro Enrique, c/o WORLD LINE SYSTEM S.A., Palmira, Valle, Colombia; c/o BARRERA RIOS NEGOCIOS INMOBILIARIOS E.U., Cali, Colombia; c/o APVA S.A., Cali, Colombia; c/o B R C S.A., Cali, Colombia; c/o ALFONSO BARRERA RIOS Y CIA. S. EN C.S., Cali, Colombia; Carrera 54A No. 5A-21, Cali, Colombia; c/o CECEP EDITORES S.A., Cali, Colombia; c/o A K DIFUSION S.A. PUBLICIDAD Y MERCADEO, Cali, Colombia; c/o A K EDUCAL S.A. EDUCACION CON CALIDAD, Cali, Colombia; c/o ENSAMBLADORA COLOMBIANA AUTOMOTRIZ S.A., Barranquilla, Colombia; c/o COMERCIALIZADORA DE BIENES Y SERVICIOS ADMINISTRATIVOS Y FINANCIEROS S.A., Cali, Colombia; c/o ALVARO ENRIQUE BARRERA RIOS Y CIA S. EN C.S., Cali, Colombia; c/o CECEP S.A., Cali, Colombia; c/o SERPROVIS S.A. SERVICIOS Y PROVISIONES, Cali, Colombia; c/o NEGOCIOS Y CAPITALES S.A., Pereira, Colombia; DOB 05 Dec 1968; POB Cali, Colombia; Cedula No. 16758185 (Colombia); Passport AJ149349 (Colombia) (individual) [SDNT]

BARRERA RIOS, Victoria Eugenia, c/o SERPROVIS S.A. SERVICIOS Y PROVISIONES, Cali, Colombia; c/o RIOS JIMENEZ S. EN C.S., Bogota, Colombia; c/o B R C S.A., Cali, Colombia; Transversal 18 No. 127-43 Torre 4 apto. 1201, Bogota, Colombia; c/o CECEP S.A., Cali, Colombia; c/o ALFONSO BARRERA RIOS Y CIA. S. EN C.S., Cali, Colombia; c/o CECEP EDITORES S.A., Cali, Colombia; c/o ENSAMBLADORA COLOMBIANA AUTOMOTRIZ S.A., Barranquilla, Colombia; c/o A K EDUCAL S.A. EDUCACION CON CALIDAD, Cali, Colombia; c/o APVA S.A., Cali, Colombia; c/o A K DIFUSION S.A. PUBLICIDAD Y MERCADEO, Cali, Colombia; c/o NEGOCIOS Y CAPITALES S.A., Pereira, Colombia; c/o WORLD LINE SYSTEM S.A., Palmira, Valle, Colombia; DOB 11 Dec 1970; POB Cali, Colombia; Cedula No. 66818996 (Colombia); Passport AI939751 (Colombia) (individual) [SDNT]

BARRIOS SENIOR, Jario Ascanio, c/o PENTACOOP LTDA., Bogota, Colombia; DOB 18 Jun 1962; Cedula No. 8723099 (Colombia) (individual) [SDNT]

BARRIOS, Alba Lucia, c/o SONAR F.M. S.A., Cali, Colombia; Los Alcazares Bloq. 93 Ap. 402, Cali, Colombia; c/o CREDIREBAJA S.A., Cali, Colombia; c/o SONAR F.M. E.U. DIETER MURRLE, Cali, Colombia; c/o POLIEMPAQUES S.A., Cali, Colombia; Cedula No. 38853130 (Colombia) (individual) [SDNT]

BARTH, Frederik Heinz, Kientzheimer Strasse 1, Schwendi 88477, Germany; DOB 30 Aug 1965; POB Laupheim, Germany; citizen Germany; Occupation: Chemist (individual) [SDNTK]

BASAYEV, Shamil Salmanovich; DOB 14 Jan 1965; POB Dyshni-Vedeno, Chechnya; Passport 623334 (Russia) (individual) [SDGT]

BASEVIC, Dragan; DOB 2 Mar 1976; POB Belgrade, Serbia (individual) [BALKANS]

BASHAIER, Khartoum, Sudan [SUDAN]

BATARJEE, Adel Abdul Jalil Ibrahim (a.k.a. AL-BATTARJEE, 'Adil; a.k.a. BATARJI, 'Adil 'Abd al Jalil; a.k.a. BATTERJEE, Adel; a.k.a. BATTERJEE, Adel Abdul Jaleel I.), 2 Helmi Kutbi Street, Jeddah, Saudi Arabia; DOB 1 Jul 1946; alt. DOB 1 Jun 1946; POB Jeddah, Saudi Arabia; citizen Saudi Arabia; Passport F 572010 issued 22 Dec 2004 expires 28 Oct 2009; E-mail:adelb@shabakah.net.sa (individual) [SDGT]

BATISTA, Miguel, Panama (individual) [CUBA]

BAY INDUSTRIES, INC., 10100 Santa Monica Boulevard, Santa Monica, CA [IRAQ2]

BAYT AL-MAL (a.k.a. BAYT AL-MAL LIL MUSLIMEEN), Al-Nabatiyah, Lebanon; Sidon, Lebanon; Harat Hurayk, Beirut, Lebanon; Burj al-Barajinah, Lebanon; Tyre, Lebanon; Ba'albak, Lebanon; Hirmil, Lebanon [SDGT]

BEARA, Ljubisa; DOB 14 Jul 1939; POB Sarajevo, Bosnia and Herzegovina (individual) [BALKANS]

BECERRA BECERRA, Alvaro, c/o AGROPECUARIA LA ROBLEDA S.A., Cali, Colombia; Cedula No. 2730788 (Colombia) (individual) [SDNT]

BECERRA RODRIGUEZ, Mario Alberto, c/o MULTISERVICIOS DEL NOROESTE DE MEXICO, S.A. DE C.V., Tijuana, Baja California, Mexico; c/o CASA DE EMPENO RIO TIJUANA, S.A. DE C.V., Tijuana, Baja California, Mexico; Calle del Creston 334, Colonia Playas de Tijuana, Tijuana, Baja California CP 22300, Mexico; DOB 17 Sep 1954; POB Tijuana, Baja California, Mexico; R.F.C. BERM-540917-181 (Mexico) (individual) [SDNTK]

BECERRA ZEPEDA, Gabriel, c/o OPERADORA DE CAJA Y SERVICIOS, S.A. DE C.V., Tijuana, Baja California, Mexico; Benito Juarez, Calle 8290, Zona Central, Tijuana, Baja California 22000, Mexico; DOB 16 Oct 1959; POB Michoacan, Mexico; citizen Mexico; nationality Mexico; C.U.R.P. BEZG591016HMNCPB00 (Mexico); R.F.C. BEZG-591016-FL4 (Mexico) (individual) [SDNTK]

BECHARA SIMANCA, Salim, c/o SOCOVALLE, Cali, Colombia; DOB 26 Jul 1950; alt. DOB 28 Jul 1950; Cedula No. 19163957 (Colombia) (individual) [SDNT]

BEDOYA DE SANCLEMENTE, Maria Ninive, c/o DISTRIBUCIONES GLOMIL LTDA., Cali, Colombia; DOB 13 Jul 1938; Cedula No. 29645304 (Colombia); NIT # 29645304-8 (Colombia); Passport 29645304 (Colombia) (individual) [SDNT]

BEDOYA VELEZ, Jose Ignacio (a.k.a. “NACHO BEDOYA”), Calle 16 No. 71A-07/09, Cali, Colombia; Carrera 1G No. 71-07, Cali, Colombia; DOB 06 Jan 1959; POB Tulua, Valle, Colombia; alt. POB Armenia, Quindio, Colombia; citizen Colombia; Cedula No. 16351225 (Colombia) issued 20 Jun 1977; Passport 16351225 (Colombia) issued 26 Mar 2004 expires 26 Mar 2014; alt. Passport AJ126708 (Colombia) issued 26 Mar 2004 (individual) [SDNT]

BEHZAD, Ahmad Abdulla Mohammad Abdulla (a.k.a. BAHZAD, Ahmad Abdullah Mohamed Abdullah; a.k.a. BEHZAD BSTAKI, Ahmad Abdullah Mohammed Abdullah; a.k.a. BEHZAD, Abdulla Mohd Abdulla; a.k.a. BEHZAD, Ahmad Abdulla Mohammad A; a.k.a. BEHZAD, Ahmad Abdulla Mohammad Abdulla; a.k.a. BEHZAD, Ahmad Abdulla Mohd Abdulla; a.k.a. BEHZAD, Ahmed Abdullah; a.k.a. “ABDULLA MOHAMAD ABDULLA MOHAMAD BEHZAD”; a.k.a. “ABDULLAH AHMAD ABDULLAH MOHAMAD BAHZAD”; a.k.a. “ABDULLAH MOHAMMED ABDULLAH BAHZAD”; a.k.a. “AHMED BEHZA”; a.k.a. “AHMED MOHAMMED ABDULLAH”; a.k.a. “MOHAMMED ABDULLAH MOHAMMED BAHZAD”), Dubai, United Arab Emirates; c/o FMF GENERAL TRADING LLC, Dubai, United Arab Emirates; c/o SHAHBAZ KHAN GENERAL TRADING LLC, Dubai, United Arab Emirates; Sharjah, United Arab Emirates; DOB 02 Nov 1971; POB Dubai, United Arab Emirates; citizen United Arab Emirates; Passport A1042768 (United Arab Emirates); alt. Passport A0269124 (United Arab Emirates) (individual) [SDNTK]

BEIJING ALITE TECHNOLOGIES CO., LTD. (a.k.a. ALCO; a.k.a. BEIJING HAILI LIANHE KEJI YOUXIAN GONGSI), 12A Beisanhuan Zhong Road, P.O. Box 3042, Beijing, China; and all other locations worldwide [NPWMD]

BEIT EL-MAL HOLDINGS (a.k.a. ARAB PALESTINIAN BEIT EL-MAL COMPANY; a.k.a. BEIT AL MAL HOLDINGS; a.k.a. BEIT EL MAL AL-PHALASTINI AL-ARABI AL-MUSHIMA AL-AAMA AL-MAHADUDA LTD.; a.k.a. PALESTINIAN ARAB BEIT EL MAL CORPORATION, LTD.), P.O. Box 662, Ramallah, West Bank [SDT] [SDGT]

BELARUSIAN OIL TRADE HOUSE (a.k.a. B.O.T.H.; a.k.a. BELARUSIAN OIL TRADING HOUSE; a.k.a. BELARUSIAN OIL TRADING HOUSE REPUBLICAN SUBSIDIARY UNITARY ENTERPRISE; a.k.a. BELARUSIAN OIL TRADING HOUSE REPUBLICAN UNITARY SUBSIDIARY; a.k.a. UE BELARUSIAN OIL TRADE HOUSE; a.k.a. UNITED TRADING SITE; a.k.a. WWW.BNTD.BY; a.k.a. WWW.BNTDTORG.BY), Dzerzhinsky Avenue, 73, Minsk 220116, Belarus; 73 Derzhinskiy Ave., Minsk 220116, Belarus; Prospect Dzerzhinskogo, 73, Minsk 220116, Belarus; Business Registration Document # UNP 101119568 (Belarus) [BELARUS]

BELLOSOM ENTERPRISE, INC., Avenida Central y Calle 4ta, Edificio Plaza Central, Oficina 32, Panama City, Panama; RUC # 2991141409851 (Panama) [SDNTK]

BELMEX IMPORT EXPORT CO., LTD., 24 Corner Regent and Kings Streets, Belize City, Belize [CUBA]

BELMOKHTAR, Mokhtar; DOB 1 Jun 1972; POB Ghardaia, Algeria (individual) [SDGT]

BELNEFTEKHIM (a.k.a. BELARUSIAN STATE CONCERN FOR OIL AND CHEMISTRY; a.k.a. BELARUSIAN STATE PETROLEUM AND CHEMICALS CONCERN; a.k.a. BELNEFTEKHIM CONCERN; a.k.a. CONCERN BELNEFTEKHIM), GP 1 Apes Street, Riga LV-1039, Latvia; Oederweg 43, Frankfurt-am-Main D-60318, Germany; Tower B 19-B Oriental Kenzo, 48 Dongzhimenwai Street, Dongcheng District, Beijing 100027, China; ul Trevskaya, 20/1, Room 536, Moscow 103789, Russia; ul Pavlovskaya, 29, Kiev 01135, Ukraine; 73 Dzerzhinskogo Avenue, Minsk 220116, Belarus [BELARUS]

BELNEFTEKHIM USA, INC., 13 Branch St., # 213, Methuen, MA 01844; US FEIN 000920912 (United States) [BELARUS]

BELS FLOWERS IMPORT EXPORT BVBA, Lange Lobroekstraat 8, Antwerpen 2060, Belgium; C.R. No. 478351540 (Belgium) [SDNTK]

BELTRAN LEYVA ORGANIZATION, Mexico [SDNTK]

BELTRAN LEYVA, Marcos Arturo (a.k.a. BELTRAN LEYVA, Arturo; a.k.a. BELTRAN LEYVA, Arturo Guzman; a.k.a. “EL BARBAS”; a.k.a. “EL FANTASMA”), Monterrey, Nuevo Leon, Mexico; Nuevo Leon, Nuevo Leon, Mexico; Nogales, Sonora, Mexico; Calle Cerro, Colinas de San Miguel, Culiacan, Sinaloa, Mexico; Avenida Juan de la Barrera No. 1970, Colonia Burocrata, Culiacan, Sinaloa, Mexico; Calle Francisco Marquez, Colonia Chapultepec, Culiacan, Sinaloa, Mexico; Acapulco, Guerrero, Mexico; Tijuana, Baja California, Mexico; Guamuchil, Sinaloa, Mexico; DOB 27 Sep 1961; alt. DOB 05 Feb 1958; alt. DOB 05 Jun 1962; alt. DOB 21 Sep 1961; POB Culiacan, Sinaloa, Mexico; alt. POB Badiraguato, Sinaloa, Mexico; citizen Mexico; nationality Mexico (individual) [SDNTK]

BELTRAN ROMERO, Mireya Denisse, c/o OPERADORA INTEGRAL DE COMERCIO, S.A. DE C.V., Tijuana, Baja California, Mexico; c/o TECNOLOGIA DIGITAL Y SERVICIOS, S.A. DE C.V., Tijuana, Baja California, Mexico; Paseo Estrella de Mar No. 1210, Seccion Coronado, Colonia Playas, Tijuana, Baja California, Mexico; DOB 11 Mar 1981; POB Tijuana, Baja California, Mexico; citizen Mexico; nationality Mexico; Passport 03900215458 (Mexico); R.F.C. BERM810311CF0 (Mexico) (individual) [SDNTK]

BELTRAN SANCHEZ, Hector Manuel, Manuel M. Flores 20 Montebello, Tijuana, Baja California, Mexico; c/o TECNOLOGIA DIGITAL Y SERVICIOS, S.A. DE C.V., Tijuana, Baja California, Mexico; c/o OPERADORA INTEGRAL DE COMERCIO, S.A. DE C.V., Tijuana, Baja California, Mexico; Paseo Estrella Del Mar No. 1210, Playas de Tijuana, Tijuana, Baja California, Mexico; DOB 2 Mar 1952; POB Culiacan, Sinaloa, Mexico; citizen Mexico; nationality Mexico; R.F.C. BESH520302AS4 (Mexico) (individual) [SDNTK]

BEN ABDELHAKIM, Cherif Said (a.k.a. ABOU SALMAN; a.k.a. AL-CHERIF, Said Ben Abdelhakim Ben Omar; a.k.a. “DJALLAL”; a.k.a. “YOUCEF”), Corso Lodi 59, Milan, Italy; DOB 25 Jan 1970; POB Menzel Temine, Tunisia; nationality Tunisia; Passport M307968 issued 8 Sep 2001 expires 7 Sep 2006; arrested 30 Sep 2002 (individual) [SDGT]

BEN ATTIA, Nabil Ben Mohamed Ben Ali, Tunis, Tunisia; DOB 11 May 1966; POB Tunis, Tunisia; nationality Tunisia; Passport L289032 issued 22 Aug 2001 expires 21 Aug 2006 (individual) [SDGT]

BEN HENI, Lased (a.k.a. BEN HANI, Al As'ad); DOB 5 Feb 1969; POB Libya; alt. POB Tripoli (individual) [SDGT]

BEN SOLTANE, Adel (a.k.a. BEN SOLTANE, Adel Ben Al-Azhar Ben Youssef), Via Latisana n. 6, Milan, Italy; DOB 14 Jul 1970; POB Tunis, Tunisia; nationality Tunisia; Italian Fiscal Code BNSDLA70L14Z352B; Passport M408665 issued 4 Oct 2000 expires 3 Oct 2005 (individual) [SDGT]

BENAVIDES MONTENEGRO, Sandra Patricia, c/o ESPIBENA S.A., Quito, Ecuador; RUC # 0400778890 (Ecuador) (individual) [SDNT]

BENAVIDES VASQUEZ, Jorge, c/o CAJA SOLIDARIA, Bogota, Colombia; c/o FARMAVISION LTDA., Bogota, Colombia; c/o COPSERVIR LTDA., Bogota, Colombia; Cedula No. 9397198 (Colombia) (individual) [SDNT]

BENAVIDEZ CHAVEZ, Alvaro Higinio, c/o AGROPECUARIA MIRALINDO S.A., Cartago, Colombia; c/o ARIZONA S.A., Cartago, Colombia; Carrera 8N No. 17A-12, Cartago, Colombia; DOB 1 Feb 1971; Cedula No. 94295393 (Colombia); Passport 94295393 (Colombia) (individual) [SDNT]

BENDEBKA, L'Hadi (a.k.a. ABD AL HADI; a.k.a. HADI), Via Manzoni, 33, Cinisello Balsamo, Milan, Italy; Via Garibaldi, 70, San Zenone al Po, Pavia, Italy; DOB 17 Nov 1963; POB Algiers Algeria (individual) [SDGT]

BENEVOLENCE INTERNATIONAL FOUNDATION (a.k.a. AL BIR AL DAWALIA; a.k.a. BIF; a.k.a. BIF-USA; a.k.a. MEZHDUNARODNYJ BLAGOTVORITEL'NYJ FOND), 69 Boshir Safaroglu St., Baku, Azerbaijan; 2465 Cawthra Rd., #203, Mississauga, Ontario, L5A 3P2, Canada; P.O. Box 10845, Riyadh 11442, Saudi Arabia; Bangladesh; Bosnia and Herzegovina; Bashir Safar Ugli 69, Baku, Azerbaijan; Grozny, Chechnya, Russia; 8820 Mobile Avenue, 1A, Oak Lawn, IL 60453; (Formerly located at) 20-24 Branford Place, Suite 705, Newark, NJ 07102; Zenica, Bosnia and Herzegovina; Duisi, Georgia; Burgemeester Kessensingel 40, Maastricht, Netherlands; Ulitsa Oktyabr'skaya, dom. 89, Moscow, Russia; Dushanbe, Tajikistan; P.O. Box 1508 Station B, Mississauga, Ontario, L4Y 4G2, Canada; 91 Paihonggou, Lanzhou, Gansu, China; Makhachkala, Daghestan, Russia; P.O. Box 548, Worth, IL 60482; Hrvatov 30, 41000, Zagreb, Croatia; (Formerly located at) 9838 S. Roberts Road, Suite 1-W, Palos Hills, IL 60465; Nazran, Ingushetia, Russia; P.O. Box 1937, Khartoum, Sudan; House 111, First Floor, Street 64, F-10/3, Islamabad, Pakistan; P.O. Box 1055, Peshawar, Pakistan; Azovskaya 6, km. 3, off. 401, Moscow, Russia; P.O. Box 7600, Jeddah 21472, Saudi Arabia; United Kingdom; Sarajevo, Bosnia and Herzegovina; 3 King Street, South Waterloo, Ontario, N2J 3Z6, Canada; Ottawa, Canada; Tbilisi, Georgia; Afghanistan; Gaza Strip, undetermined; Yemen; US FEIN 36-3823186 [SDGT]

BENEVOLENCE INTERNATIONAL FUND (a.k.a. BENEVOLENT INTERNATIONAL FUND; a.k.a. BIF-CANADA), P.O. Box 1508, Station B, Mississauga, Ontario, L4Y 4G2, Canada; P.O. Box 40015, 75 King Street South, Waterloo, Ontario, N2J 4V1, Canada; 92 King Street, 201, Waterloo, Ontario, N2J 1P5, Canada; 2465 Cawthra Rd., Unit 203, Mississauga, Ontario, L5A 3P2, Canada [SDGT]

BENHAMMEDI, Mohammed (a.k.a. BEN HAMMEDI, Mohammed; a.k.a. BIN HAMMIDI, Muhammad Muhammad; a.k.a. HANNADI, Mohamed; a.k.a. “ABU AL QASSAM”; a.k.a. “ABU HAJIR”; a.k.a. “ABU HAJIR AL LIBI”; a.k.a. “HAMMEDI, Ben”; a.k.a. “PANHAMMEDI”), Midlands, United Kingdom; DOB 22 Sep 1966; POB Libya; citizen Libya (individual) [SDGT]

BENITEZ SANCHEZ, Jose Arturo, c/o MAPRI DE COLOMBIA LTDA., Bogota, Colombia; c/o COSMEPOP, Bogota, Colombia; c/o AMERICANA DE COSMETICOS S.A., Bogota, Colombia; c/o DISTRIEXPORT S.A., Bogota, Colombia; Cedula No. 10276819 (Colombia); Passport 10276819 (Colombia) (individual) [SDNT]

BENOIT SANTAMARIA, Alvaro Jose, c/o BENOIT VELEZ AGROPECUARIA LA VEREDA Y CIA. S.C.S., Pereira, Colombia; Calle 24 No. 7-29 apto. 413, Pereira, Colombia; DOB 23 Oct 1964; POB Cali, Colombia; Cedula No. 16704710 (Colombia); Passport AH283771 (Colombia) (individual) [SDNT]

BENOIT VELEZ AGROPECUARIA LA VEREDA Y CIA. S.C.S., Carrera 4 No. 26-14, Pereira, Colombia; NIT # 816005088-0 (Colombia) [SDNT]

BEQIRI, Idajet (a.k.a. BEQIRI, Hidajet); DOB 20 Feb 1951; POB Mallakaster Fier, Albania (individual) [BALKANS]

BERASATEGUI ESCUDERO, Ismael; DOB 15 Mar 1963; POB Eibar Guipuzcoa Province, Spain; D.N.I. 15.379.555; Member ETA (individual) [SDGT]

BERNAL, Beatriz, c/o VILLARO LTDA., Bogota, Colombia; Cedula No. 65497873 (Colombia) (individual) [SDNT]

BETTINA SHIPPING CO. LTD., c/o EMPRESA DE NAVEGACION MAMBISA, Apartado 543, San Ignacio 104, Havana, Cuba [CUBA]

BEWELL CORPORATION, INC., Panama [CUBA]

BEXHETI, Nuri; DOB 1962; POB Tetovo, Macedonia (individual) [BALKANS]

BIBLOS TRAVEL AGENCY (a.k.a. BIBLIOS TRAVEL; a.k.a. BIBLOS TRAVEL CA; a.k.a. BIBLOS TRAVEL, C.A.), Avenida Baralt, Esquina Maderero, Edificio Santa Isabel II, PB, Loc. 1, Caracas, Venezuela [SDGT]

BIN HUSIN, Azahari (a.k.a. BIN HUSAN, Azahari; a.k.a. HUSIN, Azahari); DOB 14 Sep 1957; POB Malaysia; nationality Malaysia (individual) [SDGT]

BIN LADEN, Sa'ad (a.k.a. ABBUD, Bin Muhammad Awad; a.k.a. ABUD, Sa'ad Muhammad Awad; a.k.a. ADBUD, Muhammad 'Awad; a.k.a. AWAD, Muhammad; a.k.a. BAABOOD, Sa'ad Muhammad; a.k.a. BIN LADEN, Sad; a.k.a. “AL-KAHTANE, Abdul Rahman”); DOB 1982; POB Saudi Arabia; nationality Saudi Arabia; Passport 520951 (Sudan); alt. Passport 530951 (Sudan) (individual) [SDGT]

BIN LADIN, Usama bin Muhammad bin Awad (a.k.a. BIN LADEN, Osama; a.k.a. BIN LADEN, Usama; a.k.a. BIN LADIN, Osama; a.k.a. BIN LADIN, Osama bin Muhammad bin Awad; a.k.a. BIN LADIN, Usama); DOB 30 Jul 1957; alt. DOB 1958; POB Jeddah, Saudi Arabia; alt. POB Yemen (individual) [SDT] [SDGT]

BIN MANSOUR, Amran (a.k.a. BIN MANSOR, Amran; a.k.a. BIN MANSOR, Henry; a.k.a. MANSOR, Amran); DOB 25 May 1965; POB Malaysia (individual) [SDGT]

BIN MARWAN, Bilal; DOB 1947 (individual) [SDGT]

BIN MUHAMMAD, Ayadi Chafiq (a.k.a. AIADI, Ben Muhammad; a.k.a. AIADY, Ben Muhammad; a.k.a. AYADI CHAFIK, Ben Muhammad; a.k.a. AYADI SHAFIQ, Ben Muhammad), Darvingasse 1/2/58-60, Vienna, Austria; 28 Chaussee de Lille, Mouscron, Belgium; Helene Meyer Ring 10-1415-80809, Munich, Germany; Tunisia; 129 Park Road, NW8, London, United Kingdom; DOB 21 Jan 1963; POB Safais (Sfax), Tunisia (individual) [SDGT]

BINALSHIBH, Ramzi Mohammed Abdullah (a.k.a. BIN AL SHIBH, Ramzi; a.k.a. BINALSHEIDAH, Ramzi Mohamed Abdullah; a.k.a. OMAR, Ramzi Mohammed Abdellah), Emil Anderson Strasse 5, Hamburg 22073, Germany; Billstedter Hauptstr Apt. 14, Hamburg 22111, Germany; Marienstr #54, Hamburg 21073, Germany; Letzte Heller #109, Hamburg University, Hamburg 22111, Germany; Schleemer Ring 2, Hamburg 22117, Germany; DOB 1 May 1972; alt. DOB 16 Sep 1973; POB Hadramawt, Yemen; alt. POB Khartoum Sudan; nationality Yemen; Passport A755350 (Saudi Arabia); alt. Passport R85243 (Yemen); alt. Passport 00085243 (Yemen) (individual) [SDGT]

BIO CORPORATION (a.k.a. BOSNIAN INVESTMENT ORGANIZATION), Sarajevo, Bosnia and Herzegovina [BALKANS]

BIOESPORT S.A. DE C.V., Avenida Ave. 13 y Morelos S/N, Colonia Bachoco, Hermosillo, Sonora 83148, Mexico; R.F.C. BIO901025VE2 (Mexico) [SDNTK]

BJELICA, Milovan 'Cicko', Starine Novaka Street BB, Sokolac, Republika Srpska, Bosnia and Herzegovina; DOB 19 Oct 1958; POB Rogatica, Bosnia-Herzegovina; National ID No. 1910958130007 (individual) [BALKANS]

BLACKMORE INVESTMENTS A.V.V., L.G. Smith Blvd. 48, Oranjestad, Aruba; P.O. Box 1060, Oranjestad, Aruba; C.R. No. 12128.0 (Aruba) [SDNT]

BLAGOJEVIC, Vidoje; DOB 22 Jun 1950; POB Bratunac, Bosnia-Herzegovina; ICTY indictee (individual) [BALKANS]

BLANCO BAHOQUE, Gabino Leon, c/o SU SERVICIO SOCIEDAD LTDA., Barranquilla, Colombia; Cedula No. 72136630 (Colombia) (individual) [SDNT]

BLANCO ORTEGA, Marylin, c/o DROGAS LA REBAJA BUCARAMANGA S.A., Bucaramanga, Colombia; c/o COOPDISAN, Bucaramanga, Colombia; c/o COMUDROGAS LTDA., Bucaramanga, Colombia; Cedula No. 63332075 (Colombia); Passport 63332075 (Colombia) (individual) [SDNT]

BLANCO PUERTA, Edgar Fernando; DOB 19 Jun 1946; POB Medellin, Antioquia, Colombia; Cedula No. 13224238 (Colombia) (individual) [SDNTK]

BLASKIC, Tihomir; DOB 2 Nov 1960; POB Brestovsko, Bosnia-Herzegovina; ICTY indictee (individual) [BALKANS]

BLE GOUDE, Charles, 23 BP 3383, Abidjan 23, Cote d Ivoire; DOB 1 Jan 1972; POB Guiberoua, Cote d'Ivoire; Passport PDAE088DH12 (Cote d Ivoire); Head of “Young Patriots” (Congres Panafricain des Jeunes Patriotes, COJEP) (individual) [COTED]

BLISSEY PANAMA INC., Avenida Central y Calle 4ta, Edificio Plaza Central, Oficina 32, Panama City, Panama; RUC # 2989391409828 (Panama) [SDNTK]

BLOTO INTERNATIONAL COMPANY (a.k.a. BLOTO INTERNATIONAL, LTD.; a.k.a. BLUTO INTERNATIONAL; a.k.a. PLUTO-DUBAI TRADING COMPANY, LLC), Dubai, United Arab Emirates; Iraq; 131/13 Soi 7/1 Sukhumvit Road, Wattana, Bangkok, Thailand; 131/13 Sukhumvit Road, Klongtoey Neua sub-district, Wattana District [IRAQ2]

BLUE NILE BREWERY, P.O. Box 1408, Khartoum, Sudan [SUDAN]

BLUE NILE PACKING CORPORATION, P.O. Box 385, Khartoum, Sudan [SUDAN]

BMIIC INTERNATIONAL GENERAL TRADING LTD (a.k.a. BMIIC TRADING UAE; a.k.a. BMIIGT; a.k.a. “BMIICGT”), Deira, P.O. Box 181878, Dubai, United Arab Emirates; P.O. Box 11567, Dubai, United Arab Emirates [NPWMD]

BO, Maung; DOB 16 Feb 1945; citizen Burma; nationality Burma; Lieutenant-General; Chief of Bureau of Special Operation 4; Member, State Peace and Development Council (individual) [BURMA]

BOCOTA AGUABLANCA, Gustavo (a.k.a. BOGOTA, Gustavo; a.k.a. “ESTEVAN”; a.k.a. “TRIBISU”); DOB 28 Aug 1966; Cedula No. 9466199 (Colombia); alt. Cedula No. 9466833 (Colombia) (individual) [SDNTK]

BODDEN GALE, Elvert Dowie (a.k.a. “TIO BODDEN”), Roatan, Honduras; DOB 24 Apr 1956; POB Honduras; Passport A046090 (Honduras) (individual) [SDNT]

BOHADA AVILA, Lubin, c/o ASESORES CONSULTORES ASOCIADOS LTDA., Cali, Colombia; c/o GAD S.A., La Union, Valle, Colombia; Carrera 100 No. 11-90 of. 403, Cali, Colombia; c/o INDUSTRIAS DEL ESPIRITU SANTO S.A., Malambo, Atlantico, Colombia; c/o CONSTRUCCIONES E INVERSIONES LTDA., La Union, Valle, Colombia; c/o TARRITOS S.A., Cali, Colombia; Calle 142A No. 106A-21 apt. 302, Bogota, Colombia; c/o AGRONILO S.A., Toro, Valle, Colombia; c/o ARMAGEDON S.A., La Union, Valle, Colombia; c/o FRUTAS DE LA COSTA S.A., Malambo, Atlantico, Colombia; c/o WORLD WORKING COMERCIALIZADORA INTERNACIONAL S.A., Cali, Colombia; c/o FUNDACION CENTRO FRUTICOLA ANDINO, La Union, Valle, Colombia; Cedula No. 19093178 (Colombia) (individual) [SDNT]

BOILEAU, Pierre, 1078 Rue Champigny, Duvernay, Quebec, Canada (individual) [CUBA]

BOLSAK E.U. (a.k.a. BOLSAK S.A.), Calle 15 No. 25-400 Urbanizacion Industrial Acopi, Yumbo, Colombia; NIT # Provisional (Colombia) [SDNT]

BONOMERCAD S.A. (f.k.a. DECACOOP S.A.), Transversal 29 No. 39-92, Bogota, Colombia; NIT # 830018919-3 (Colombia) [SDNT]

BONYONGWE, Happyton Mabhuya; DOB 6 Nov 1960; POB Chikomba District, Zimbabwe; nationality Zimbabwe; Director General, Central Intelligence Organization (individual) [ZIMBABWE]

BOONCHUA, Chanchira (a.k.a. BOONCHUA, Chanjira; a.k.a. CHANCHIRA, Boochuea; a.k.a. LIANG, Ching-fang; a.k.a. “CHE FONG”; a.k.a. “CHEFONG”; a.k.a. “JEH FONG”), 261, Wichayanon Road, Tambon Chang Moi, Amphur Muang, Chiang Mai, Thailand; c/o SANGSIRI KANKASET COMPANY LIMITED, Chiang Mai, Thailand; c/o KHUM THAW COMPANY LIMITED, Chiang Mai, Thailand; DOB 15 May 1951; National Foreign ID Number 350991386390 (Thailand) issued 28 Oct 1952 expires 14 May 2009 (individual) [SDNTK]

BORAVCANIN, Ljubomir; DOB 27 Feb 1960; POB Han Pijesak, Bosnia-Herzegovina; ICTY indictee (individual) [BALKANS]

BORBOA ZAZUETA, Zynthia (a.k.a. BORBOA DE ZAMBADA, Zynthya; a.k.a. BORBOA ZAZUETA, Cinthia), Calle Miguel Hidalgo PTE 348, Centro Culiacan, Sinaloa, Mexico; Lago Maracaibo 3121, Lago Azul y Ave Lago Azul, Lomas de Boulevard, Culiacan, Sinaloa, Mexico; Manuel Bonilla 1166, Guadalupe, Culiacan, Sinaloa, Mexico; c/o MULTISERVICIOS JEVIZ S.A. DE C.V., Culiacan, Sinaloa, Mexico; DOB 30 Jan 1975; POB Sinaloa, Mexico; citizen Mexico; nationality Mexico; C.U.R.P. BOZC750130MSLRZN09 (Mexico); Passport 04040046465 (Mexico); R.F.C. BOZZ-750130-LK4 (Mexico) (individual) [SDNTK]

BOROVCANIN, Veljko; DOB 25 Sep 1957; POB Sarajevo, Bosnia-Herzegovina (individual) [BALKANS]

BOROVNICA, Goran; DOB 15 Aug 1965; ICTY indictee at large (individual) [BALKANS]

BORRERO QUINTERO, Hector Fabio, c/o INVERSIONES SANTA LTDA., Cali, Colombia; c/o SOCIEDAD CONSTRUCTORA LA CASCADA S.A., Cali, Colombia; Carrera 21 No. 9E-48, Cali, Colombia; c/o INMOBILIARIA SAMARIA LTDA., Cali, Colombia; DOB 10 Feb 1948; Cedula No. 14945412 (Colombia) (individual) [SDNT]

BOSANSKA IDEALNA FUTURA (a.k.a. BECF CHARITABLE EDUCATIONAL CENTER; a.k.a. BENEVOLENCE EDUCATIONAL CENTER; a.k.a. BIF-BOSNIA; a.k.a. BOSNIAN IDEAL FUTURE), Hadzije, Mazica Put 16F, 72000 Zenica, Bosnia and Herzegovina; Sehidska, Street, Breza, Bosnia and Herzegovina; Hamze, Celenke 35, Ilidza, Sarajevo, Bosnia and Herzegovina; Kanal, 1, 72000 Zenica, Bosnia and Herzegovina; Salke Lagumdzije 12, 71000 Sarajevo, Bosnia and Herzegovina [SDGT]

BOSKOVSKI, Ljube; DOB 24 Oct 1960 (individual) [BALKANS]

BOUCHOUCHA, Mokhtar (a.k.a. BOUCHOUCHA, Al-Mokhtar Ben Mohamed Ben Al-Mokhtar; a.k.a. BUSHUSHA, Mokhtar), Via Milano n.38, Spinadesco (CR), Italy; DOB 13 Oct 1969; POB Tunisia; nationality Tunisia; Italian Fiscal Code BCHMHT69R13Z352T; Passport K754050 issued 26 May 1999 expires 25 May 2004 (individual) [SDGT]

BOUGHANEMI, Faycal (a.k.a. BOUGHANMI, Faical), viale Cambonino, 5/B, Cremona, Italy; DOB 28 Oct 1966; POB Tunis, Tunisia; nationality Tunisia; Italian Fiscal Code BGHFCL66R28Z352G (individual) [SDGT]

BOURNE FARM, Chegutu, Zimbabwe [ZIMBABWE]

BOUT, Sergei Anatolyievich (a.k.a. NIKOLAYEVICH BUT, Sergey; a.k.a. “BUT”; a.k.a. “BUTT”; a.k.a. “SERGEY”; a.k.a. “SERGI”; a.k.a. “SERGO”; a.k.a. “SERGUEI”), c/o AIR ZORY, 54 G. M. Dimitrov Blvd, Sofia BG-1125, Bulgaria; Moscow, Russia; c/o AIR CESS, Islamabad, Pakistan; c/o AIR CESS, P.O. Box 7837, Sharjah, United Arab Emirates; DOB 27 Aug 1961; POB Tajikistan; citizen Russia; alt. citizen Ukraine; National ID No. CB039314 (Ukraine); alt. National ID No. 76704 (Russia) (individual) [LIBERIA]

BOUT, Viktor Anatolijevitch (a.k.a. BONT; a.k.a. BOUTOV; a.k.a. BUTT; a.k.a. BUTTE; a.k.a. SERGITOV, Vitali); DOB 13 Jan 1967; alt. DOB 13 Jan 1970; POB Dushanbe, Tajikistan; Dealer and transporter of weapons and minerals; Owner, Great Lakes Business Company, Compagnie Aerienne des Grands Lacs, Bukavu Aviation Transport, and Business Air Services (individual) [DRCONGO] [LIBERIA]

BOUTIQUE LA MAISON, 42 Via Brasil, Panama City, Panama [CUBA]

BOUYAHIA, Hamadi Ben Abdul Aziz Ben Ali (a.k.a. GAMEL MOHAMED), Corso XXII Marzo 39, Milan, Italy; DOB 22 May 1966; alt. DOB 29 May 1966; POB Tunisia; nationality Tunisia; Passport L723315 issued 5 May 1998 expires 4 May 2003; arrested 30 Sep 2002 (individual) [SDGT]

BRADFIELD MARITIME CORPORATION INC., c/o EMPRESA DE NAVEGACION MAMBISA, Apartado 543, San Ignacio 104, Havana, Cuba [CUBA]

BRALO, Miroslav (a.k.a. CICKO); DOB 13 Oct 1967; POB Kratine, Vitez (individual) [BALKANS]

BRDJANIN, Radoslav; DOB 9 Feb 1948; POB Popovac, Bosnia-Herzegovina; ICTY indictee (individual) [BALKANS]

BRECO (ASIA PACIFIC) LTD, First Floor, Falcon Cliff, Palace Road, Douglas IM2 4LB, Man, Isle of; Business Registration Document # M78647 (United Kingdom) [ZIMBABWE]

BRECO (EASTERN EUROPE) LTD (a.k.a. BRECO (EASTERN EUROPE) LIMITED), Falcon Cliff, Palace Road, Douglas IM99 1ZW, Man, Isle of; Hurst Grove, Standord Lane, Hurst, Reading, Berkshire RG10 0SQ, United Kingdom; Business Registration Document # FC0021189 (United Kingdom) [ZIMBABWE]

BRECO (SOUTH AFRICA) LTD, 9 Columbus Centre, Pelican Drive, Road Town, Tortola, Virgin Islands, British; Cumbrae House, Market Street, Douglas IM1 2PQ, Man, Isle of; Business Registration Document # Q1962 (United Kingdom) [ZIMBABWE]

BRECO (U.K.) LTD (a.k.a. BRECO (U.K.) LIMITED), New Boundary House, London Road, Sunningdale, Ascot, Berkshire SL5 0DJ, United Kingdom; Business Registration Document # 2969104 (United Kingdom) [ZIMBABWE]

BRECO GROUP, Middleton House, Titlarks Hill Road, Sunningdale, Ascot, Berkshire SL5 0JB, United Kingdom; Thetford Farm, P.O. Box HP86, Mount Pleasant, Harare, Zimbabwe; Mapstone House, Mapstone Hill, Lustleigh, Newton Abbot, Devon TQ13 9SE, United Kingdom; New Boundary House, London road, Sunningdale, Ascot, Berkshire SL5 0DJ, United Kingdom; 10 Montpelier Square, London SW7 1JU, United Kingdom; Hurst Grove, Sandford Lane, Hurst, Reading, Berkshire RG10 0SQ, United Kingdom; Dennerlei 30, Schoten, Belgium [ZIMBABWE]

BRECO INTERNATIONAL, 25 Broad Street, St. Helier JE2 3RR, Jersey [ZIMBABWE]

BRECO NOMINEES LTD, New Boudary House, London Road, Sunningdale, Ascot, Berkshire SL5 0DJ, United Kingdom; Business Registration Document # 2799499 (United Kingdom) [ZIMBABWE]

BRECO SERVICES LTD (a.k.a. BRECO SERVICES LIMITED), New Boundary House, London Road, Sunningdale, Ascot, Berkshire SL5 0DJ, United Kingdom; Business Registration Document # 2824946 (United Kingdom) [ZIMBABWE]

BREDENKAMP, John (a.k.a. BREDENKAMP, John A.; a.k.a. BREDENKAMP, John Arnold), Thetford Farm, P.O. Box HP86, Mount Pleasant, Harare, Zimbabwe; New Boundary House, London Road, Sunningdale, Ascot, Berkshire SL5 0DJ, United Kingdom; 62 Chester Square, London, United Kingdom; 10 Montpelier Square, London SW7 1JU, United Kingdom; Dennerlei 30, Schoten, Belgium; Hurst Grove, Sanford Lane, Hurst, Reading, Berkshire RG10 0SQ, United Kingdom; Middleton House, Titlarks Hill Road, Sunningdale, Ascot, Berkshire SL5 0JB, United Kingdom; Mapstone House, Mapstone Hill, Lustleigh, Newton Abbot, Devon TQ13 9SE, United Kingdom; DOB 11 Aug 1940; citizen Netherlands; alt. citizen Suriname; alt. citizen Zimbabwe; Passport Z153612 (Netherlands); alt. Passport ND1285143 (Netherlands); alt. Passport 367537C (Suriname); alt. Passport Z01024064 (Netherlands) (individual) [ZIMBABWE]

BRELYAN; Vessel Registration Identification IMO 9138056 (vessel) [NPWMD]

BRICENO SUAREZ, German (a.k.a. SUAREZ ROJAS, Noe; a.k.a. “GRANOBLES”); DOB 15 Dec 1953; Cedula No. 347943 (Colombia) (individual) [SDNTK]

BRICENO SUAREZ, Jorge (a.k.a. BRICENO SUAREZ, Jorge Enrique; a.k.a. MONO JOJOY; a.k.a. OSCAR RIANO; a.k.a. SUAREZ ROJAS, Victor Julio; a.k.a. SUAREZ, Luis); DOB Jan 1953; alt. DOB 2 Jan 1951; alt. DOB 5 Feb 1953; alt. DOB 1 Feb 1949; POB Santa Marta, Magdalena, Colombia; alt. POB Cabrera, Cundinamarca, Colombia; Cedula No. 19208210 (Colombia); alt. Cedula No. 70753211 (Colombia); alt. Cedula No. 12536519 (Colombia); alt. Cedula No. 17708695 (Colombia) (individual) [SDNTK]

BRIGHT, Charles R.; DOB 29 Aug 1948; Former Minister of Finance of Liberia (individual) [LIBERIA]

BRIGHTNESS (a.k.a. IRAN BRIGHTNESS); Vessel Registration Identification IMO 9051648 (vessel) [NPWMD]

BRILLIANCE (a.k.a. IRAN BRILLIANCE); Vessel Registration Identification IMO 9051636 (vessel) [NPWMD]

BRISENO MAR, Gloria Elisa (a.k.a. BRISENO, Lizzy; a.k.a. OCHOA, Gloria Elisa), c/o LIZZY MUNDO INTERIOR, Guadalajara, Jalisco, Mexico; c/o MC OVERSEAS TRADING COMPANY S.A. DE C.V., Guadalajara, Jalisco, Mexico; c/o INVERSIONES Y REPRESENTACIONES S.A., Medellin, Colombia; DOB 16 Aug 1965; POB Durango, Mexico; C.U.R.P. BIMG650816MDGRRL05 (Mexico); Passport 99140015920 (Mexico) (individual) [SDNT]

BROTHERS (f.k.a. TULIP ISLANDS) (vessel) [CUBA]

BRUNELLO LTD., Nine Island Avenue, Unit 1411, Miami Beach, FL; Grand Cayman, Cayman Islands; C.R. No. 68557 (Cayman Islands) [SDNT]

BUENDIA CUELLAR, Luis Alfonso, c/o GALAPAGOS S.A., Cali, Colombia; Cedula No. 6044411 (Colombia) (individual) [SDNT]

BUENO GARCIA, Santos, c/o NUEVA INDUSTRIA DE GANADEROS DE CULIACAN S.A. DE C.V., Culiacan, Sinaloa, Mexico; Calle Granate 816, Culiacan, Sinaloa 80015, Mexico; Calle Rio Fuerte 581, Culiacan, Sinaloa 80220, Mexico; c/o ESTABLO PUERTO RICO S.A. DE C.V., Culiacan, Sinaloa, Mexico; DOB 27 Mar 1964; POB Sinaloa, Mexico; citizen Mexico; nationality Mexico; C.U.R.P. BUGS640327MSLNRN01 (Mexico); Passport 040035868 (Mexico) (individual) [SDNTK]

BUENO GUERRERO, Alfonso, c/o CLINICA SAN FRANCISCO S.A., Tulua, Valle, Colombia; Carrera 45 No. 4A-10, Cali, Colombia; c/o APOYOS DIAGNOSTICOS S.A., Tulua, Valle, Colombia; Carrera 52 No. 33-84, Tulua, Valle, Colombia; DOB 17 Sep 1941; POB Tulua, Valle, Colombia; citizen Colombia; nationality Colombia; Cedula No. 17056503 (Colombia) (individual) [SDNT]

BUENO RAMIREZ, Pompeyo, c/o CREDISOL, Bogota, Colombia; c/o DROCARD S.A., Bogota, Colombia; c/o FARMACOOP, Bogota, Colombia; c/o COMERCIALIZADORA DIGLO LTDA., Bogota, Colombia; c/o ADMACOOP, Bogota, Colombia; Cedula No. 13354747 (Colombia); Passport 13354747 (Colombia) (individual) [SDNT]

BUHLER, Bruno, 57 Rue du Rhone, CH-1204 Geneva, Switzerland (individual) [IRAQ2]

BUILDING MATERIALS AND REFRACTORIES CORPORATION, P.O. Box 2241, Khartoum, Sudan [SUDAN]

BUISIR, Ibrahim, Ireland; DOB circa 1962; POB Libya; IARA Representative in Ireland (individual) [SDGT]

BUITRAGO DE HERRERA, Luz Mery, c/o INVERSIONES HERREBE LTDA., Cali, Colombia; c/o AGROPECUARIA Y REFORESTADORA HERREBE LTDA., Cali, Colombia; c/o CONSTRUEXITO S.A., Cali, Colombia; c/o VALLADARES LTDA., Cali, Colombia; c/o AGROPECUARIA BETANIA LTDA., Cali, Colombia; c/o W. HERRERA Y CIA., Cali, Colombia; c/o INVERSIONES BETANIA LTDA., Cali, Colombia; c/o INVERSIONES INVERVALLE S.A., Cali, Colombia; c/o INVERSIONES GEMINIS S.A., Cali, Colombia; c/o INVERSIONES EL GRAN CRISOL LTDA., Cali, Colombia; c/o SOCOVALLE, Cali, Colombia; DOB 24 Aug 1924; Cedula No. 29641219 (Colombia) (individual) [SDNT]

BUITRAGO MARIN, Adiela, c/o INDUSTRIA AVICOLA PALMASECA S.A., Cali, Colombia; c/o CONSTRUEXITO S.A., Cali, Colombia; DOB 28 Feb 1951; Cedula No. 31137617 (Colombia) (individual) [SDNT]

BUITRAGO MARIN, Nubia, c/o INMOBILIARIA U.M.V. S.A., Cali, Colombia; DOB 5 Apr 1948; Cedula No. 31132922 (Colombia) (individual) [SDNT]

BUITRAGO PARADA, Hector German (a.k.a. “MARTIN LLANOS”); DOB 21 Jan 1968; POB Monterrey, Casanare, Colombia; Cedula No. 79436816 (Colombia) (individual) [SDNTK]

BUKA, Flora; DOB 25 Feb 1968; Minister of State for Special Affairs, Land and Resettlement Program (individual) [ZIMBABWE]

BUKAVU AVIATION TRANSPORT, Congo, Democratic Republic of the [LIBERIA]

BURANOV, Suhayl Fatilloevich (a.k.a. BURANOV, Mansur; a.k.a. BURANOV, Suhail; a.k.a. BURANOV, Suhail Fatilloyevich; a.k.a. BURANOV, Sukhail Fatilloevich; a.k.a. MANSUR, Suhail; a.k.a. MANSUR, Sohail; a.k.a. “ABU HUZAIFA”), Massiv Kara-su-6, Building 12, Apartment 59, Tashkent, Uzbekistan; DOB 11 Oct 1983; alt. DOB 1983; POB Tashkent, Uzbekistan; nationality Uzbekistan (individual) [SDGT]

BURGAN INTERNATIONAL, Kuwait [CUBA]

BURHAN, Dr. Sahir (a.k.a. AL-DEEN, Saher Burhan; a.k.a. BARHAN, Dr. Sahir; a.k.a. BERHAN, Dr. Sahir; a.k.a. BURHAN, Sahir), United Arab Emirates; Baghdad, Iraq; DOB 1967; nationality Iraq (individual) [IRAQ2]

BUSINESS AIR SERVICES, Congo, Democratic Republic of the [LIBERIA]

BUTEMBO AIRLINES (a.k.a. AIR BUTEMBO), Bunia, Congo, Democratic Republic of the; Butembo, Congo, Democratic Republic of the [DRCONGO]

BUTKA, Spiro; DOB 29 May 1949 (individual) [BALKANS]

C A V J CORPORATION LTDA., Calle 166 No. 38-50, Bogota, Colombia; NIT # 830101426-9 (Colombia) [SDNT]

C Y S MEDIOS E.U., Calle 18 No. 106-98 of. 305, Cali, Colombia; NIT # 805015105-0 (Colombia) [SDNT]

C.A. V.J. CORPORATION, Calle 18, Zona Industrial 1, Intercomunal de Cabudare Barquisimeto, Lara, Venezuela; Avenida 20 (detras del Country Club), Edificio Drcenca Barquisimeto, Lara, Venezuela; Calle 14, Zona Industrial 1, Intercomunal de Cabudare Barquisimeto, Lara, Venezuela; RIF # J-30460672-9 (Venezuela) [SDNT]

C.I. OTILIA FLOWERS S.A., Vereda Las Manas, Finca La Estancia, Cajica, Cundinamarca, Colombia; Carrera 11 No. 94-02 Ofc. 405, Bogota, Colombia; NIT # 800207350-5 (Colombia) [SDNT]

C.N.A. PUBLICIDAD LTDA., Calle 74 No. 53-30, Barranquilla, Colombia; NIT # 802002664-9 (Colombia) [SDNT]

C.W. SALMAN PARTNERS, 1401 Brickell Avenue, Miami, FL 33131; US FEIN 65-0111089 (United States) [SDNT]

CABALLERO, Oliverio, c/o COOPIFARMA, Bucaramanga, Colombia; c/o COPSERVIR LTDA., Bogota, Colombia; c/o CAJA SOLIDARIA, Bogota, Colombia; Calle 47B Sur Bloque 7-8 Manz. E ap. 101, Bogota, Colombia; Cedula No. 79473097 (Colombia) (individual) [SDNT]

CABANA GUILLEN, Sixto Antonio (a.k.a. “BIOHO, Domingo”; a.k.a. “BIOJA, Domingo”); DOB 15 Jun 1955; POB Orihueca Cienaga, Magdalena, Colombia; citizen Colombia; nationality Colombia; Cedula No. 19500634 (Colombia) (individual) [SDNTK]

CABDULLAAH, Ciise Maxamed, Mosque in Via Quaranta, Milan, Italy; DOB 8 Oct 1974; POB Somalia; nationality Somalia; arrested 31 Mar 2003 (individual) [SDGT]

CABLES NACIONALES S.A. (a.k.a. CANAL S.A.), Calle 111 No. 34-139, Barranquilla, Colombia; NIT # 802005017-7 (Colombia) [SDNT]

CABRERA DIAZ, Hermilo (a.k.a. CABRERA DIAZ, Ermilo; a.k.a. “BERTULFO”); DOB 25 Nov 1941; POB Huila, Colombia; citizen Colombia; nationality Colombia; Cedula No. 9680080 (Colombia) (individual) [SDNTK]

CABRERA, Jose Benito (a.k.a. CABRERA CUEVAS, Jose Benito; a.k.a. “EL MONO FABIAN”; a.k.a. “FABIAN RAMIREZ”); DOB 6 Jul 1963; alt. DOB 5 Jul 1965; POB El Paujil, Caqueta, Colombia; Cedula No. 96329309 (Colombia) (individual) [SDNTK]

CADAVID MAYA, Uriel, c/o COPSERVIR LTDA., Bogota, Colombia; c/o COOPERATIVA DE TRABAJO ASOCIADO ACTIVAR, Bogota, Colombia; Carrera 9 No. 9-65, Florida, Valle, Colombia; Carrera 6 No. 11-43 of. 505, Cali, Colombia; DOB 16 Nov 1967; Cedula No. 16885028 (Colombia) (individual) [SDNT]

CADENA COLLAZOS, Francisco Antonio (a.k.a. MEDINA, Oliverio; a.k.a. “CURA CAMILO”; a.k.a. “EL CURA”; a.k.a. “HUESITO”; a.k.a. “OLIVO”; a.k.a. “PACHO”), Brazil; Colombia; DOB 01 Jan 1947; citizen Colombia; Cedula No. 4904771 (Colombia); International FARC Commission Member for Brazil (individual) [SDNTK]

CADENAS VIRAMONTES, Porfirio Miguel, c/o OVERSEAS TRADING COMPANY S.A., Guatemala City, Guatemala; Calle Justo Sierra 1963, Colonia Ladron de Guevara, Guadalajara, Jalisco, Mexico; c/o MC OVERSEAS TRADING COMPANY S.A. DE C.V., Guadalajara, Mexico; Calle Mar del Sur No 2075 Int. 1, Colonia Fraccionamiento Country Club, Guadalajara, Jalisco, Mexico; Calle Nelson 421-B, Guadalajara, Jalisco, Mexico; c/o INMOBILIUM INVESTMENT CORP., Panama City, Panama; DOB 12 Jun 1959; POB Guadalajara, Jalisco, Mexico; C.U.R.P. CAUP590612HJCDRR09 (Mexico); NIT # 2665307-9 (Guatemala); Passport 97140096573 (Mexico); RFC CAVP-590612-AD1 (Mexico) (individual) [SDNT]

CAFE ANDINO S.L., Calla Cochabamba 2, Madrid, Madrid, Spain; C.I.F. B81891244 (Spain) [SDNT]

CAICEDO COLORADO, Abelardo (a.k.a. “SOLIS ALMEIDA”); DOB 3 Mar 1960; POB Mercaderes, Cauca, Colombia; citizen Colombia; nationality Colombia (individual) [SDNTK]

CAICEDO GALLEGO, Maria Nury (a.k.a. CAYCEDO GALLEGO, Maria Nury), 85 Brainerd Road, Townhouse 9, Allston, MA 02134; 18801 Collins Ave., Apt. 322-3, Sunny Isles Beach, FL 33160; c/o INVERSIONES AGROINDUSTRIALES DEL OCCIDENTE LTDA., Bogota, Colombia; Calle 2 Casa No. 4-13, Barrio San Isidro, Venezuela; c/o DIMABE LTDA., Bogota, Colombia; Calle 90 No. 10-05, Bogota, Colombia; Avenida 11 No. 7N-166, Cali, Colombia; c/o COMPANIA AGROPECUARIA DEL SUR LTDA., Bogota, Colombia; Diagonal 130 No. 7-20, Apt. 806, Bogota, Colombia; c/o COLOMBO ANDINA COMERCIAL COALSA LTDA., Bogota, Colombia; c/o SALOME GRAJALES Y CIA. LTDA., Bogota, Colombia; DOB 16 Nov 1956; POB Tulua, Valle, Colombia; citizen Colombia; nationality Colombia; Cedula No. 31191388 (Colombia); Passport AE889461 (Colombia); alt. Passport AH286341 (Colombia); SSN 594-33-3352 (United States) issued 1993 (individual) [SDNT]

CAICEDO ROJAS, Jorge Ernesto, c/o HOTEL LA CASCADA S.A., Girardot, Colombia; Calle 82 No 11-37 Ofc. 504, Bogota, Colombia; c/o PROMOCIONES E INVERSIONES LAS PALMAS S.A., Bogota, Colombia; DOB 21 Oct 1955; POB Bogota, Colombia; Cedula No. 3227987 (Colombia) (individual) [SDNT]

CAICEDO VERGARA, Nohemy (a.k.a. CAICEDO VERGARA, Nohemi), c/o INDUSTRIA DE PESCA SOBRE EL PACIFICO S.A., Buenaventura, Colombia; Km. 4 El Pinal, Buenaventura, Colombia; Cedula No. 31375185 (Colombia) (individual) [SDNT]

CAJA AMIGO EXPRESS, S.A. DE C.V., Boulevard Agua Caliente, Tijuana, Baja California, Mexico; 660 Bay Boulevard, Suite 205, Chula Vista, CA 91910; Calle 4, Entre Constitucion y Revolucion, Zona Centro, Tijuana, Baja California, Mexico; Diaz Ordaz, 9B Del Prado, Entre Bugambilias y Azucenas, Tijuana, Baja California, Mexico; Calle 4, Entre Conot & Revo, Tijuana, Baja California, Mexico; R.F.C. CAE-990224-BA3 (Mexico) [SDNTK]

CAJA SOLIDARIA (a.k.a. COOPERATIVA DE AHORRO Y CREDITO DE COLOMBIA; a.k.a. COOPERATIVA MULTIACTIVA DE COMERCIALIZACION Y SERVICIOS), Avenida 22 No. 40-77 of. 202, Bogota, Colombia; Calle 12B No. 27-39, Bogota, Colombia; Carrera 13A No. 28-38 of. 216 Parque, Bogota, Colombia; Transversal 29 No. 35A-29, Bogota, Colombia; Avenida 22 No. 44-70 of. 202, Bogota, Colombia; Carrera 13A No. 89-38 of. 713, Bogota, Colombia; NIT # 830033942-6 (Colombia) [SDNT]

CALDERON ASCANIO, Mercedes, c/o SEGECOL LTDA., Bucaramanga, Colombia; Cedula No. 63319306 (Colombia) (individual) [SDNT]

CALDERON ASCANIO, Reinaldo (a.k.a. CALDERON ASCANIO, Reynaldo), c/o COOPERATIVA DE TRABAJO ASOCIADO ACTIVAR, Bogota, Colombia; c/o MEGAPHARMA LTDA., Bogota, Colombia; c/o COOPIFARMA, Bucaramanga, Colombia; Calle 54 No. 23-10, Bucaramanga, Colombia; DOB 12 Jun 1978; Cedula No. 13541010 (Colombia) (individual) [SDNT]

CALDERON COLLAZOS, Gonzalo, c/o GEOPLASTICOS S.A., Cali, Colombia; c/o CONSTRUCCIONES PROGRESO DEL PUERTO S.A., Puerto Tejada, Colombia; c/o BANANERA AGRICOLA S.A., Santa Marta, Colombia; c/o COMPANIA DE FOMENTO MERCANTIL S.A., Cali, Colombia; DOB 29 Sep 1952; POB Cali, Valle, Colombia; Cedula No. 14989778 (Colombia); Passport 14989778 (Colombia) (individual) [SDNT]

CALDERON DE TRUJILLO, Nubia (a.k.a. “ESPERANZA”), Colombia; DOB 25 Mar 1956; citizen Colombia; Cedula No. 36159126 (Colombia); International FARC Commission Member for Ecuador (individual) [SDNTK]

CALDERON OLIVAR, Rafael Alfredo, c/o DISTRIBUIDORA DE DROGAS LA REBAJA PEREIRA S.A., Pereira, Colombia; c/o LITOPHARMA, Barranquilla, Colombia; c/o COOMULCOSTA, Barranquilla, Colombia; Cedula No. 19582440 (Colombia) (individual) [SDNT]

CALDERON VELANDIA, Nilson (a.k.a. “VILLA”), Colombia; DOB 18 Jul 1974; POB Mogotes, Santander, Colombia; citizen Colombia; nationality Colombia; Cedula No. 91348897 (Colombia); Passport AK040618 (Colombia) (individual) [SDNTK]

CALGARY FARM, Mazowe, Zimbabwe [ZIMBABWE]

CALI @ TELE.COM LTDA. (a.k.a. HOLA TELECOMUNICACIONES), Calle 13 No. 80-60 Loc. 224, Cali, Colombia; NIT # 805021515-1 (Colombia) [SDNT]

CALLE SERNA, Luis Enrique (a.k.a. CALLE SERNA, Manuel; a.k.a. “COMBA”; a.k.a. “COMBATIENTE”), Carrera 24C No. 33B-108, Santa Monica, Casanare, Colombia; Calle 1 No. 56-109, Seminario B, Caro 31, Cali, Colombia; Avenida 8N No. 9N-57, Cali, Colombia; DOB 16 Aug 1976; POB Cali, Colombia; alt. POB Armenia, Quindio, Colombia; citizen Colombia; Cedula No. 94487319 (Colombia) issued 31 Oct 1994; Passport AI811078 (Colombia) issued 09 May 2003; alt. Passport 94487319 (Colombia) issued 09 May 2003 expires 09 May 2013; alt. Passport AH454934 (Colombia) (individual) [SDNT]

CALVO LOMBANA, Gabriel Andres, c/o FISHING ENTERPRISE HOLDING INC., Panama City, Panama; c/o AQUAMARINA ISLAND INTERNATIONAL CORPORATION, Panama City, Panama; c/o ORIMAR LTDA., Bogota, Colombia; DOB 20 Aug 1935; POB Bogota, Colombia; Cedula No. 2859105 (Colombia) (individual) [SDNT]

CAMACHO BERNAL, Jose Edilberto, Colombia; DOB 28 Feb 1954; POB Venecia, Cundinamarca, Colombia; citizen Colombia; nationality Colombia; Cedula No. 11374416 (Colombia); Passport AI222190 (Colombia) (individual) [SDNTK]

CAMACHO VALLEJO ASESORES E.U. (a.k.a. CAMACHO VALLEJO CONTADORES), Calle 23BN No. 5N-37, Ofc. 202, Cali, Colombia; NIT # 805031109-7 (Colombia) [SDNT]

CAMACHO VALLEJO, Francisco Jose, c/o AGROPECUARIA LINDARAJA S.A., Cali, Colombia; c/o INVERSIONES BRASILAR S.A., Bogota, Colombia; c/o ILOVIN S.A., Bogota, Colombia; c/o CRETA S.A., La Union, Valle, Colombia; c/o CANADUZ S.A., Cali, Colombia; c/o CAMACHO VALLEJO ASESORES E.U., Cali, Colombia; c/o AGRONILO S.A., Toro, Valle, Colombia; Calle 23 BN No. 5-37 of. 202, Cali, Colombia; Carrera 37 No. 6-36, Cali, Colombia; c/o JOSAFAT S.A., Tulua, Valle, Colombia; Cedula No. 14443381 (Colombia) (individual) [SDNT]

CAMACHO VALLEJO, Javier, c/o INVERSIONES AGROINDUSTRIALES DEL OCCIDENTE LTDA., Bogota, Colombia; Carrera 65 No. 14C-90, Casa 65, Cali, Colombia; c/o COMPANIA AGROPECUARIA DEL SUR LTDA., Bogota, Colombia; c/o CAMACHO VALLEJO ASESORES E.U., Cali, Colombia; citizen Colombia; nationality Colombia; Cedula No. 16614154 (Colombia) (individual) [SDNT]

CAMARGO, Norbei (a.k.a. CAMARGO, Norbey; a.k.a. TRIANA, Hermer; a.k.a. “JAMES PATAMALA”; a.k.a. “JAMES PATAPALO”; a.k.a. “MUERTA PARADO”); DOB 5 Aug 1965; POB El Paujil, Caqueta, Colombia; citizen Colombia; nationality Colombia; Cedula No. 17702895 (Colombia) (individual) [SDNTK]

CAMBIOS EL TREBOL, Avenida Calle 26 No 69C-03 Local 214, Bogota, Colombia; Commercial Registry Number 1404087 (Colombia) [SDNTK]

CAMBIOS EURO LTDA, Carrera 7 No. 115-60 Local F-109, Bogota, Colombia; NIT # 830102482-6 (Colombia) [SDNTK]

CAMBIOS NASDAQ LTDA, Avenida 15 No. 77-05 Local 2-106, Bogota, Colombia; NIT # 8301284123 (Colombia) [SDNTK]

CAMBIOS PALMILLA S.A. DE C.V., Carretera Santa Barbara KM 3, Colonia Almancena, Hidalgo del Parral, Chihuahua 33800, Mexico; Calle Francisco Moreno S/N, Hidalgo del Parral, Chihuahua 33800, Mexico; Avenida Ortiz Mena 34A, Hidalgo del Parral, Chihuahua 33800, Mexico; Calle Maclovio Herrera 97A, Hidalgo del Parral, Chihuahua 33800, Mexico [SDNTK]

CAMBIOS Y CAPITALES S.A. (a.k.a. C & CAP S.A.), Centro Comercial New Point, Avenida Providencia No. 1-35 Local 106, San Andres, Colombia; Calle 12N No. 3N-12, Cali, Colombia; Transversal 71 No. 26-94 Sur Local 4506, Bogota, Colombia; Calle 99 No. 11A-41, Bogota, Colombia; Calle 29 No. 27-56 Local 102, Palmira, Valle, Colombia; Calle 19 No. 6-48 Local 314-315, Pereira, Colombia; Carrera 4 No. 10-62 Local 15, Cartago, Valle, Colombia; Carrera 44 No. 6A-43 piso 2, Cali, Colombia; Carrera 43A No. 34-95 Local 268, Medellin, Colombia; Calle 27 No. 26-60 Local 105 D, Tulua, Valle, Colombia; Carrera 15 No. 93-60 Local 1-36, Bogota, Colombia; NIT # 805001015-5 (Colombia) [SDNT]

CAMPO LIBRE A LA DIVERSION E.U. (a.k.a. PARQUE YAKU; a.k.a. YAKU E.U.), Calle 15 No. 27-33, Yumbo, Valle, Colombia; NIT # 805026848-1 (Colombia) [SDNT]

CAMPO RAMIREZ, Guido, c/o VALORCORP S.A., Bogota, Colombia; Cedula No. 16218589 (Colombia) (individual) [SDNT]

CAMPO VERDE LTDA., Carrera 54 No. 75-97 piso 2, Barranquilla, Colombia; NIT # 800204479-2 (Colombia) [SDNT]

CANADUZ S.A., Calle 23BN No. 5N-37, Ofc. 202, Cali, Colombia; NIT # 805024035-1 (Colombia) [SDNT]

CANAVAL LANDAZURI, Enrique Antonio, c/o ASOCIACION CIVIL LOS PROMOTORES AERONAUTICOS, Lima, Peru; c/o VUELA PERU S.A.C., Lima, Peru; Avenida Pedro Venturo 687, URB Higuereta, Lima, Peru; DOB 06 Jan 1953; LE Number 07790775 (Peru) (individual) [SDNTK]

CANIPEL S.A. (a.k.a. CANAPEL S.A.), c/o EMPRESA DE NAVEGACION MAMBISA, Apartado 543, San Ignacio 104, Havana, Cuba [CUBA]

CANO AGUDELO S EN C, Finca La Alambra, Alcala, Valle, Colombia; NIT # 821002095-7 (Colombia) [SDNT]

CANO ALZATE, Yolanda Sofia, c/o GAVIOTAS LTDA., Colombia; DOB 25 Apr 1957; POB Cartago, Valle; Cedula No. 31399608 (Colombia); Passport AH506324 (Colombia) (individual) [SDNT]

CANO CORREA, Jhon Eidelber (a.k.a. CANO, Jhonny; a.k.a. CARDONA RIBILLAS, Alejandro; a.k.a. “FLECHAS”), Carrera 28 No. 7-35, Cali, Colombia; Calle 18 No. 8-16, Cartago, Valle, Colombia; DOB 13 Dec 1963; POB El Aguila, Valle, Colombia; citizen Colombia; nationality Colombia; Cedula No. 16217170 (Colombia); alt. Cedula No. 16455750 (Colombia); Passport AC877214 (Colombia); alt. Passport AF133955 (Colombia) (individual) [SDNT]

CARACAS VIVEROS, Oscar (a.k.a. “EL NEGRO OSCAR”); DOB 15 Nov 1967; POB Colombia; Cedula No. 96351739 (Colombia) (individual) [SDNTK]

CARBONICA, S.A., Panama [CUBA]

CARDENAS GONGORA, Luis Fernando, c/o LATINFARMACOS S.A., Quito, Ecuador; Cedula No. 10105501 (Colombia); RUC # 1719649129001 (Ecuador) (individual) [SDNT]

CARDENAS GUILLEN, Osiel (a.k.a. CARDENAS CASTILLO, Osiel; a.k.a. CARDENAS GILLEN, Osiel; a.k.a. CARDENAS GUILLEN, Ociel; a.k.a. CARDENAS GUILLEN, Oscar; a.k.a. CARDENAS GUILLEN, Oziel; a.k.a. CARDENAS GULLEN, Osiel; a.k.a. CARDENAS TUILLEN, Osiel; a.k.a. SALINA AGUILAR, Jorge; a.k.a. SALINAS AGUILAR, Jorge); DOB 18 May 1967; POB Mexico (individual) [SDNTK]

CARDONA ACEVEDO, Carlos Arturo, c/o RIONAP COMERCIO Y REPRESENTACIONES S.A., Quito, Ecuador; Cedula No. 4383319 (Colombia); RUC # 1791819624001 (Ecuador) (individual) [SDNT]

CARDONA GARCIA, Diomiro, Carrera 4 No. 12-20 of. 206, Cartago, Valle, Colombia; c/o GANADERIA EL VERGEL LTDA., Cartago, Valle, Colombia; c/o AGRICOLA DOIMA DEL NORTE DEL VALLE LTDA., Cartago, Valle, Colombia; Carrera 1 No. 12-53, Cartago, Valle, Colombia; c/o GANADERIAS BILBAO LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o INMOBILIARIA EL ESCORIAL LTDA., Cartago, Valle, Colombia; c/o VISCAYA LTDA., Cartago, Valle, Colombia; c/o INMOBILIARIA LINARES LTDA., Cartago, Valle, Colombia; Cedula No. 6233272 (Colombia); Passport 6233272 (Colombia) (individual) [SDNT]

CARDONA OCHOA, Carlos Julio, c/o AUREAL INMOBILIARIA LTDA., Bogota, Colombia; c/o GRUPO SANTA LTDA., Cali, Colombia; DOB 22 Sep 1954; Cedula No. 7524996 (Colombia) (individual) [SDNT]

CARDONA RUEDA, Fernando Ivan, c/o COINTERCOS S.A., Bogota, Colombia; c/o DROGAS LA REBAJA BOGOTA S.A., Bogota, Colombia; c/o LABORATORIOS KRESSFOR DE COLOMBIA S.A., Bogota, Colombia; DOB 29 Apr 1957; Cedula No. 16607447 (Colombia) (individual) [SDNT]

CARGO AIRCRAFT LEASING CORP., 2310 NW 55TH Court, Suite 120, Ft. Lauderdale, FL 33309; Business Registration Document # 93000004034 (United States); US FEIN 65-0389435 [BPI-SDNTK]

CARGO FREIGHT INTERNATIONAL (a.k.a. CARGO FRET INTERNATIONAL, SPRL), P. O. Box 873, Goma, Congo, Democratic Republic of the; Kigali, Rwanda; Kinshasa, Congo, Democratic Republic of the [DRCONGO]

CARIBBEAN BEACH PARK, 1137 Sugar Mill Road, Montego Bay, Jamaica; Rosehall Main Road, Rosehall, Jamaica [SDNTK]

CARIBBEAN HAPPY LINES (a.k.a. CARIBBEAN HAPPY LINES CO.), Panama [CUBA]

CARIBBEAN PRINCESS (vessel) [CUBA]

CARIBBEAN PRINCESS SHIPPING LTD., c/o EMPRESA DE NAVEGACION MAMBISA, Apartado 543, San Ignacio 104, Havana, Cuba [CUBA]

CARIBBEAN QUEEN (vessel) [CUBA]

CARIBBEAN QUEEN SHIPPING LTD., c/o EMPRESA DE NAVEGACION MAMBISA, Apartado 543, San Ignacio 104, Havana, Cuba [CUBA]

CARIBBEAN SALVOR (vessel) [CUBA]

CARIBBEAN SHOWPLACE LTD (f.k.a. FLAMINGO CLUB), Rosehall Main Road, Rosehall, Jamaica; Tropigala Night Club, Ironshore, Montego Bay, Jamaica [SDNTK]

CARIBERIA, S.A., Spain [CUBA]

CARIBSUGAR INTERNATIONAL TRADERS, S.A., 125-133 Camden High Street, London NW1 7JR, United Kingdom [CUBA]

CARIBSUGAR, S.A., Panama [CUBA]

CARISUB, S.A., Panama [CUBA]

CARLOS SAIEH Y CIA. S.C.S., Carrera 74 No. 76—150, Barranquilla, Atlantico, Colombia; NIT # 800180437-8 (Colombia) [SDNT]

CARMONA, Juan Manuel, c/o INVERSIONES RODRIGUEZ MORENO, Cali, Colombia; c/o INVERSIONES ARA LTDA., Cali, Colombia; c/o INVERSIONES RODRIGUEZ ARBELAEZ, Cali, Colombia; DOB 14 Jan 1933; Cedula No. 3524135 (Colombia) (individual) [SDNT]

CARO PEREZ, Maria Eugenia, c/o COMEDICAMENTOS S.A., Bogota, Colombia; c/o GLAJAN S.A., Bogota, Colombia; c/o FOGENSA S.A., Bogota, Colombia; DOB 17 Sep 1971; Cedula No. 52583651 (Colombia); Passport 52583651 (Colombia) (individual) [SDNT]

CARO QUINTERO, Miguel Angel; DOB 9 Mar 1963; POB Mexico (individual) [SDNTK]

CARO QUINTERO, Rafael (a.k.a. CARO QUINTERO, Raphael); DOB 12 Dec 1952; alt. DOB 24 Oct 1955; alt. DOB 24 Nov 1955; POB Mexico (individual) [SDNTK]

CARRASCO MIRANDA, Willebaldo, Calle 11, 1815 Plana Centro, Chihuahua, Chihuahua CP 31000, Mexico; c/o CORRALES SAN IGNACIO S.P.R. DE R.L. DE C.V., Saucillo, Chihuahua, Mexico; DOB 06 Oct 1958; POB Chihuahua, Chihuahua, Mexico; citizen Mexico; nationality Mexico; C.U.R.P. CAMW581006HCHRRL00 (Mexico) (individual) [SDNTK]

CARRASQUILLA LORA, Jorge Eliecer, c/o CAJA SOLIDARIA, Bogota, Colombia; c/o COPSERVIR LTDA., Bogota, Colombia; Cedula No. 7461027 (Colombia) (individual) [SDNT]

CARRERA YLLADES, Marisela (a.k.a. CARRERA ILLADES, Marisela), Calle Decima No. 14, Hidalgo del Parral, Chihuahua, Mexico; c/o CAMBIOS PALMILLA S.A. DE C.V., Hidalgo del Parral, Mexico; DOB 02 Feb 1968; POB Hidalgo del Parral, Chihuahua, Mexico; citizen Mexico; nationality Mexico; C.U.R.P. CAIM680202MCHRLR08 (Mexico); alt. C.U.R.P. CAYM680202MCHRLR06 (Mexico); R.F.C. CATM-680202-T88 (Mexico) (individual) [SDNTK]

CARRERO BURBANO, Emma Alexandra, c/o LABORATORIOS KRESSFOR DE COLOMBIA S.A., Bogota, Colombia; c/o DROMARCA Y CIA. S.C.S., Bogota, Colombia; c/o FARMACOOP, Bogota, Colombia; Cedula No. 52362326 (Colombia) (individual) [SDNT]

CARRILLO CUEVAS, Mario Alberto, c/o CASA DE EMPENO RIO TIJUANA, S.A. DE C.V., Tijuana, Baja California, Mexico; Calle Lago Chaira 323, Colonia Vista Dorada, Ensenada, Baja California CP 22800, Mexico; DOB 11 Sep 1980; POB Navojoa, Sonora, Mexico (individual) [SDNTK]

CARRILLO FUENTES ORGANIZATION (a.k.a. CFO; a.k.a. JUAREZ CARTEL), Mexico [SDNTK]

CARRILLO FUENTES, Vicente (a.k.a. CARRILLO FUENTES, Andres); DOB 16 Oct 1962; POB Mexico (individual) [SDNTK]

CARRILLO LUNA, Andres Felipe, 801 Brickell Key Blvd., unit 1907, Miami, FL 33131; c/o SOCIEDAD MINERA GRIFOS S.A., El Bagre, Antioquia, Colombia; c/o INVERSIONES EL MOMENTO S.A., Medellin, Colombia; c/o CASA DEL GANADERO S.A., Medellin, Colombia; c/o GANADERIA LUNA HERMANOS LTDA., Medellin, Colombia; Calle 10C No. 25-41, Medellin, Colombia; Carrera 78A No. 33A-76, Medellin, Colombia; c/o ADMINISTRADORA GANADERA EL 45 LTDA., Medellin, Colombia; DOB 25 May 1986; alt. DOB 24 May 1986; POB Puerto Asis, Putumayo, Colombia; Cedula No. 1037572288 (Colombia); Passport RC10058210 (Colombia); alt. Passport AJ723916 (Colombia) (individual) [SDNT]

CARRILLO LUNA, Paula Andrea, 13315 SW 128 Passage, Miami, FL 33186; c/o SOCIEDAD MINERA GRIFOS S.A., El Bagre, Antioquia, Colombia; c/o GANADERIA LUNA HERMANOS LTDA., Medellin, Colombia; c/o CASA DEL GANADERO S.A., Medellin, Colombia; c/o ADMINISTRADORA GANADERA EL 45 LTDA., Medellin, Colombia; c/o INVERSIONES EL MOMENTO S.A., Medellin, Colombia; Carrera 78A No. 33A-76, Medellin, Colombia; DOB 25 Dec 1983; POB Puerto Asis, Putumayo, Colombia; Cedula No. 32244809 (Colombia); Passport AJ775569 (Colombia) (individual) [SDNT]

CARRILLO QUINTERO, Eugenio, c/o SHARPER S.A., Bogota, Colombia; c/o PATENTES MARCAS Y REGISTROS S.A., Bogota, Colombia; c/o BONOMERCAD S.A., Bogota, Colombia; c/o DECAFARMA S.A., Bogota, Colombia; c/o SHARVET S.A., Bogota, Colombia; c/o DISTRIBUIDORA AGROPECUARIA COLOMBIANA S.A., Cali, Colombia; c/o CODISA, Bogota, Colombia; DOB 30 Nov 1960; Cedula No. 73094061 (Colombia) (individual) [SDNT]

CARRILLO RODRIGUEZ, Luis Miguel, c/o VUELA PERU S.A.C., Lima, Peru; Orion 130, Ventanilla Naval, Callao, Peru; DOB 01 Dec 1961; LE Number 25693716 (Peru) (individual) [SDNTK]

CARRILLO SILVA, Armando, c/o DROGAS LA REBAJA, Cali, Colombia; c/o GRACADAL S.A., Cali, Colombia; c/o DISTRIBUIDORA DEL VALLE E.U., Cali, Colombia; c/o INVERSIONES CAMINO REAL S.A., Cali, Colombia; c/o DISTRIBUIDORA SANAR DE COLOMBIA S.A., Cali, Colombia; c/o INTERAMERICA DE CONSTRUCCIONES S.A., Cali, Colombia; c/o PROVIDA E.U., Cali, Colombia; c/o PROSPECTIVA EMPRESA UNIPERSONAL, Cali, Colombia; c/o ASESORIAS DE INGENIERIA EMPRESA UNIPERSONAL, Cali, Colombia; c/o TECNICAS CONTABLES Y ADMINISTRATIVAS, Cali, Colombia; DOB 11 Feb 1949; Cedula No. 16242828 (Colombia); Passport 16242828 (Colombia) (individual) [SDNT]

CARRION JIMENEZ, Jose Alonso, c/o BONOMERCAD S.A., Bogota, Colombia; c/o GLAJAN S.A., Bogota, Colombia; c/o SHARPER S.A., Bogota, Colombia; c/o DROCARD S.A., Bogota, Colombia; c/o FARMA 3.00 LIMITADA, Barranquilla, Colombia; c/o FOGENSA S.A., Bogota, Colombia; DOB 2 Aug 1958; Cedula No. 79000519 (Colombia); Passport 79000519 (Colombia) (individual) [SDNT]

CARS & CARS LTDA. (a.k.a. CENTRO COMERCIAL DEL AUTOMOVIL; a.k.a. COMERCIALIZADORA INTEGRAL LTDA.; a.k.a. PROYECTO CARS & CARS), Avenida Roosevelt entre carreras 38 y 38A esquinas, Cali, Colombia [SDNT]

CARVAJAL BARRIOS, Hugo Armando, Venezuela; DOB 01 Apr 1960; POB La Cruz, Venezuela; Director, Venezuelan Military Intelligence Directorate (“DGIM”) (individual) [SDNTK]

CARVAJAL SUAREZ, Luz Mary, c/o DISMERCOOP, Cali, Colombia; DOB 7 Apr 1966; Cedula No. 24626230 (Colombia) (individual) [SDNT]

CARVAJALINO, Jesus Emilio (a.k.a. “PARIS, Andres”); DOB 15 Mar 1955; POB Bogota, Colombia; Cedula No. 3228737 (Colombia); Passport AC192015 (Colombia) (individual) [SDNTK]

CASA APOLLO, Galeria Page, Ciudad del Este, Paraguay [SDGT]

CASA DE CUBA, Mexico; Spain [CUBA]

CASA DE EMPENO RIO TIJUANA, S.A. DE C.V., Paseo de los Heroes, No. 98 Loc. 14 D C, Colonia Zona Urbana Rio Tijuana, Tijuana, Baja California CP 22010, Mexico [SDNTK]

CASA DEL GANADERO S.A., Carrera 49A No. 48Sur-60 Bod. 102, Medellin, Colombia; Almacen Troncal Principal la Costa Jardin, Caceres, Antioquia, Colombia; Carrera 49A No. 61Sur-540 Bod. 137, Medellin, Colombia; NIT # 811034345-4 (Colombia) [SDNT]

CASA DEL REPUESTO, Panama City, Panama [CUBA]

CASA GRAJALES S.A., Apartado Aereo 20288, Cali, Colombia; Factoria La Rivera, La Union, Valle, Colombia; Zona Industrial Los Mangos, Cali, Colombia; Carrera 10 No. 31-01, Cali, Colombia; Calle 96 No. 11B-39, Bogota, Colombia; NIT # 891902138-1 (Colombia) [SDNT]

CASA HAMZE, Number 313, Fourth Floor, Galeria Page, Regimiento Piribebuy Avenue, Ciudad del Este, Paraguay; Paraguayan tax identification number BAHA 6301000 [SDGT]

CASABLANCA (vessel) [CUBA]

CASILIMAS ESCOBAR, Lia Patricia, c/o SU SERVICIO SOCIEDAD LTDA., Barranquilla, Colombia; c/o COPSERVIR LTDA., Bogota, Colombia; Cedula No. 32761550 (Colombia) (individual) [SDNT]

CASQUETE VARGAS, Orlando, c/o PENTA PHARMA DE COLOMBIA S.A., Bogota, Colombia; c/o LABORATORIOS GENERICOS VETERINARIOS, Bogota, Colombia; c/o ALFA PHARMA S.A., Bogota, Colombia; c/o LABORATORIOS KRESSFOR, Bogota, Colombia; DOB 7 Jan 1957; Cedula No. 19270159 (Colombia) (individual) [SDNT]

CASTANEDA CHACON, Olga Patricia, c/o ARCA DISTRIBUCIONES LTDA., Bogota, Colombia; c/o COOPERATIVA DE TRABAJO ASOCIADO ACTIVAR, Bogota, Colombia; Cedula No. 51870004 (Colombia) (individual) [SDNT]

CASTANEDA GIRALDO, Maria Teresa (a.k.a. CASTANEDA DE PABON, Maria Teresa), c/o PROYECTOS Y SOLUCIONES INMOBILIARIA LTDA., Bogota, Colombia; c/o INVERSIONES MPS S.A., Bogota, Colombia; c/o GERENCIA DE PROYECTOS Y SOLUCIONES LTDA., Bogota, Colombia; DOB 3 Aug 1957; POB Colombia; Cedula No. 35455961 (Colombia) (individual) [SDNT]

CASTANEDA QUINTERO, Luis Alberto, c/o PENTA PHARMA DE COLOMBIA S.A., Bogota, Colombia; c/o FARMACOOP, Bogota, Colombia; c/o PENTACOOP LTDA., Bogota, Colombia; c/o DECAFARMA S.A., Bogota, Colombia; c/o LABORATORIOS KRESSFOR DE COLOMBIA S.A., Bogota, Colombia; DOB 12 Feb 1938; Cedula No. 6064977 (Colombia) (individual) [SDNT]

CASTANEDA RAMIREZ, Lorena Constanza, c/o DROCARD S.A., Bogota, Colombia; c/o PENTA PHARMA DE COLOMBIA S.A., Bogota, Colombia; c/o PENTACOOP LTDA., Bogota, Colombia; c/o DECAFARMA S.A., Bogota, Colombia; c/o DROMARCA Y CIA. S.C.S., Bogota, Colombia; c/o MATERIAS PRIMAS Y SUMINISTROS S.A., Bogota, Colombia; DOB 13 May 1971; Cedula No. 52071011 (Colombia); Passport 52071011 (Colombia) (individual) [SDNT]

CASTANEDA, Martha Helena, c/o SOLUCIONES COOPERATIVAS, Bogota, Colombia; Cedula No. 41658669 (Colombia) (individual) [SDNT]

CASTANO ARANGO, Fernando, c/o INDUSTRIA AVICOLA PALMASECA S.A., Cali, Colombia; c/o AGROPECUARIA LA ROBLEDA S.A., Cali, Colombia; DOB 9 Jan 1949; Cedula No. 14953602 (Colombia) (individual) [SDNT]

CASTANO CASTANO, Consuelo, Carrera 20 No. 66-34, Bogota, Colombia; c/o TODOBOLSAS Y COLSOBRES, Bogota, Colombia; DOB 25 Feb 1951; POB Pereira, Risaralda, Colombia; Cedula No. 29493435 (Colombia); Passport 24943435 (Colombia) (individual) [SDNT]

CASTANO GIL, Carlos; DOB 15 May 1965; POB Amalfi, Antioquia, Colombia; Cedula No. 70564150 (Colombia) (individual) [SDNTK]

CASTANO GIL, Hector; DOB 24 Mar 1959; POB Amalfi, Antioquia, Colombia; Cedula No. 3371328 (Colombia) (individual) [SDNTK]

CASTANO GIL, Jose Vicente; DOB 2 Jul 1957; Cedula No. 3370637 (Colombia) (individual) [SDNTK]

CASTANO PATINO, Maria Janet, c/o CONSTRUVIDA S.A., Cali, Colombia; DOB 26 Oct 1958; Cedula No. 31149394 (Colombia) (individual) [SDNT]

CASTELL VALDEZ, Osvaldo Antonio, Panama (individual) [CUBA]

CASTELLANOS GARZON, Henry (a.k.a. “COMANDANTE ROMANA”; a.k.a. “EDISON ROMANA”; a.k.a. “ROMANA”); DOB 20 Mar 1965; POB San Martin, Meta, Colombia; Cedula No. 17353695 (Colombia) (individual) [SDNTK]

CASTELLANOS SANCHEZ, Federico Ernesto, c/o MC OVERSEAS TRADING COMPANY S.A. DE C.V., Guadalajara, Mexico; Calle Tauro No. 4090, Colonia Juan Manuel Vallarte, Zapopan, Jalisco, Mexico; DOB 11 Jan 1947; POB Tototlan, Jalisco, Mexico (individual) [SDNT]

CASTRILLON CRUZ, Maria Leonor, c/o AGROPECUARIA LA ROBLEDA S.A., Cali, Colombia; DOB 25 Oct 1922; Cedula No. 31138584 (Colombia) (individual) [SDNT]

CASTRILLON VASCO, Jhon Jairo, c/o INVERSIONES Y REPRESENTACIONES S.A., Medellin, Colombia; c/o HOTEL LA CASCADA S.A., Girardot, Colombia; c/o FLORIDA SOCCER CLUB S.A., Medellin, Colombia; DOB 30 Mar 1960; POB Medellin, Colombia; Cedula No. 71603587 (Colombia) (individual) [SDNT]

CASTRO ARIAS, Libardo (a.k.a. ARIAS CASTRO, Libardo), c/o COMEDICAMENTOS S.A., Bogota, Colombia; c/o GLAJAN S.A., Bogota, Colombia; c/o BONOMERCAD S.A., Bogota, Colombia; c/o SHARPER S.A., Bogota, Colombia; c/o FOGENSA S.A., Bogota, Colombia; c/o DECAFARMA S.A., Bogota, Colombia; DOB 13 Oct 1933; Cedula No. 2312291 (Colombia); Passport 2312291 (Colombia) (individual) [SDNT]

CASTRO CURE Y CIA. S. EN C., Calle 111 No. 34-139, Barranquilla, Colombia; NIT # 802001885-5 (Colombia) [SDNT]

CASTRO DE SANTACRUZ, Amparo, c/o MIRALUNA LTDA., Cali, Colombia; c/o INMOBILIARIA SAMARIA LTDA., Cali, Colombia; c/o INVERSIONES SANTA LTDA., Cali, Colombia; c/o INVERSIONES INTEGRAL LTDA., Cali, Colombia; c/o URBANIZACIONES Y CONSTRUCCIONES LTDA., DE CALI, Cali, Colombia; c/o COMERCIALIZACION Y FINANCIACION DE AUTOMOTORES S.A., Cali, Colombia; c/o SAMARIA LTDA., Cali, Colombia; DOB 13 Jan 48; alt. DOB 13 Jan 46; alt. DOB 14 Apr 59; Cedula No. 38983611 (Colombia); Passport AA429676 (Colombia); alt. Passport PE027370 (Colombia) (individual) [SDNT]

CASTRO GARZON, Ricardo (a.k.a. LINEROS GARZON, Rodolfo; a.k.a. “CAYO”), c/o CASTRO CURE Y CIA. S.C.S., Barranquilla, Colombia; c/o CURE SABAGH Y CIA. S.C.S., Barranquilla, Colombia; c/o FUDIA LTDA., Barranquilla, Colombia; c/o CABLES NACIONALES S.A., Barranquilla, Colombia; c/o INVERSIONES AGROPECUARIA ARIZONA LTDA., Barranquilla, Colombia; DOB 13 Dec 1960; POB Barranquilla, Colombia; Cedula No. 8715520 (Colombia) (individual) [SDNT]

CASTRO GARZON, Victor Hugo (a.k.a. “CABEZON”), Guadalajara, Jalisco, Mexico; DOB 10 May 1965; POB Barranquilla, Colombia; Cedula No. 72137257 (Colombia) (individual) [SDNT]

CASTRO PAEZ, Gerardo, c/o ORIMAR LTDA., Bogota, Colombia; c/o CABLES NACIONALES CANAL S.A., Barranquilla, Colombia; DOB 16 Mar 1974; POB Barranquilla, Colombia; Cedula No. 72196638 (Colombia) (individual) [SDNT]

CASTRO PAEZ, Jhon Paul, c/o CABLES NACIONALES CANAL S.A., Barranquilla, Colombia; POB Colombia; Cedula No. 72223501 (Colombia) (individual) [SDNT]

CASTRO SANCHEZ, Nelson, c/o ADMACOOP, Bogota, Colombia; c/o FARMACOOP, Bogota, Colombia; c/o CODISA, Bogota, Colombia; DOB 18 May 1953; Cedula No. 19308824 (Colombia); Passport 19308824 (Colombia) (individual) [SDNT]

CASTRO VERGARA, Sandra, c/o INVERSIONES EL PENON S.A., Cali, Colombia; DOB 24 Nov 1964; Cedula No. 31924082 (Colombia) (individual) [SDNT]

CAUCALITO LTDA. (f.k.a. GANADERA; f.k.a. GANADERIA LTDA.), Carrera 4 12-41 of. 1403, Edificio Seguros Bolivar, Cali, Colombia; Apartado Aereo 10077, Cali, Colombia; NIT # 800029160-9 (Colombia) [SDNT]

CAVIEDES CRUZ, Leonardo, c/o CAVIEDES DILEO Y CIA S.C.S., Cali, Colombia; Calle 21 Norte No. 3N-84, Cali, Colombia; c/o INVERSIONES SANTA LTDA., Cali, Colombia; DOB 23 Nov 1952; Cedula No. 16593470 (Colombia); Passport AB151486 (Colombia); alt. Passport OC444290 (Colombia); alt. Passport AC444270 (Colombia) (individual) [SDNT]

CAVIEDES DILEO Y CIA. S.C.S., Calle 21 Norte No. 3N-64, Cali, Colombia; NIT # 800113437-2 (Colombia) [SDNT]

CAVIEDES LOPEZ, Gloria Ines, c/o DISTRIBUCIONES GLOMIL LTDA., Cali, Colombia; DOB 20 Oct 1959; Cedula No. 42002286 (Colombia); Passport 42002286 (Colombia) (individual) [SDNT]

CAZARES SALAZAR, Blanca Margarita (a.k.a. CAZARES DE MEZA, Blanca Margarita; a.k.a. CAZARES GASTELLUM, Blanca Margarita; a.k.a. CAZARES GASTELUM, Blanca; a.k.a. CAZARES MESA, Blanca; a.k.a. CAZARES, Blanca; a.k.a. CAZAREZ MESA, Blanca; a.k.a. CAZAREZ SALAZAR DE MEZA, Blanca Margarita; a.k.a. CAZAREZ SALAZAR, Blanca Margarita; a.k.a. CAZAREZ SALAZAR, Chiquis; a.k.a. CAZAREZ, Chiquis; a.k.a. GASTELLUM CAZARES, Blanca Margarita; a.k.a. GASTELLUM, Blanca Margarita; a.k.a. GASTELUM CAZAREZ DE MEZA, Blanca Margarita), Calle G. Robles No. 152, Culiacan, Sinaloa, Mexico; 9311 Clancey Avenue, Downey, CA 90240; c/o CHIQUIS CAZAREZ CASA DE CAMBIO, Sepulveda con Juarez y Grandos, Culiacan, Sinaloa, Mexico; Urban Lot 11, Manzana 35, Zona 2, Culiacan, Sinaloa, Mexico; Avenida Ignacio Aldama No. 257 Norte, Culiacan, Sinaloa, Mexico; c/o TOYS FACTORY, S.A. DE C.V., Tijuana, Baja California, Mexico; Avenida Rodolfo G. Robles No. 153 South, Colonia Jorge Almada, Culiacan, Sinaloa, Mexico; c/o SIN-MEX IMPORTADORA, S.A. DE C.V., Mexico, Distrito Federal, Mexico; Avenida Rodolfo G. Robles No. 166, Colonia Jorge Almada, Culiacan, Sinaloa, Mexico; Calle Mariano Escobedo No. 366, #102, Culiacan, Sinaloa, Mexico; Calle Juan de Dios Batiz No. 139, Culiacan, Sinaloa, Mexico; Calle Mariano Escobedo No. 366, Apt. 102, Colonia Centro, Culiacan, Sinaloa, Mexico; DOB 18 Sep 1954; alt. DOB 18 Sep 1955; POB Guayabito, Pericos, Morocito, Sinaloa, Mexico; citizen Mexico; alt. citizen United States; nationality Mexico; C.U.R.P. CASB540918MSLZLL00 (Mexico); Electoral Registry No. CZSLBL54091825M200 (Mexico); R.F.C. CASB540918LVI (Mexico) (individual) [SDNTK]

CAZAREZ PEREZ, Efrain (a.k.a. CAZARES PEREZ, Efrain), c/o CAZPER IMPORTACIONES, S.A. DE C.V., Culiacan, Sinaloa, Mexico; Calle Torre de Londres No. 7028, Fraccionamiento Las Torres, Culiacan, Sinaloa, Mexico; DOB 16 May 1965; POB Campo Loaiza, Sinaloa, Mexico; citizen Mexico; nationality Mexico; Electoral Registry No. CAPE6505164F5 (Mexico) (individual) [SDNTK]

CAZAREZ PEREZ, Irma (a.k.a. CAZARES PEREZ, Irma), c/o CAZPER IMPORTACIONES, S.A. DE C.V., Culiacan, Sinaloa, Mexico; Calle Isla del Oeste No. 103, La Primavera, Culiacan, Sinaloa, Mexico; DOB 27 Sep 1956; POB Zapote de los Moya, Mocorito, Sinaloa, Mexico; citizen Mexico; nationality Mexico; C.U.R.P. CAPI560927MSLZRR07 (Mexico); alt. C.U.R.P. CAPI560927MSLZRR15 (Mexico); Electoral Registry No. CAPI560927RF4 (Mexico) (individual) [SDNTK]

CAZAREZ PEREZ, Maria Tiburcia (a.k.a. CAZARES PEREZ, Maria Tiburcia), c/o CAZPER IMPORTACIONES, S.A. DE C.V., Culiacan, Sinaloa, Mexico; Calle Isla del Oeste No. 103, La Primavera, Culiacan, Sinaloa, Mexico; DOB 14 Oct 1962; POB Campo Tribolet, Perteneciente a la sindicatura de Sataya, Navolato, Sinaloa; citizen Mexico; nationality Mexico; C.U.R.P. CAPT621014MSLZRB00 (Mexico); Electoral Registry No. CAPT6210144PA (Mexico) (individual) [SDNTK]

CAZAREZ SALAZAR, Victor Emilio (a.k.a. CAZARES GASTELLUM, Victor Emilio; a.k.a. CAZARES GASTELUM, Victor Emilio; a.k.a. CAZARES SALAZAR, Victor Emilio; a.k.a. CAZAREZ GASTELUM, Victor; a.k.a. “EL LICENCIADO”; a.k.a. “EL VIEJO”), Mexico; DOB 08 Aug 1961; POB Guasavito, Guasave, Sinaloa, Mexico; citizen Mexico; alt. citizen United States; nationality Mexico; C.U.R.P. CASV610808HSLZLC08 (Mexico) (individual) [SDNTK]

CAZPER IMPORTACIONES, S.A. DE C.V., Ave. Manuel Vallarta No. 2136, Col. Centro, Culiacan, Sinaloa, Mexico; Ave. Manuel Vallarta #2136-1, Col. Centro Sinaloa, Culiacan, Sinaloa, Mexico; Ave. Manuel Vallarta No. 2144, Col. Centro, Culiacan, Sinaloa, Mexico; Ave Manuel Vallarta 2136, Centro Culiacan Fray Servando Teresa de Mier E, Culiacan de Rosales, Culiacan 80129, Mexico; R.F.C. CIM040429UH4 (Mexico); Website www.cazper.com.mx (Mexico) [SDNTK]

CECEP EDITORES S.A., Carrera 22 No. 5A-21, Cali, Colombia; Calle 5A No. 22-13, Cali, Colombia; NIT # 805018858-1 (Colombia) [SDNT]

CECEP S.A. (f.k.a. CENTRO COLOMBIANO DE ESTUDIOS PROFESIONALES LTDA.), Calle 9B No. 29A-67, Cali, Colombia; Avenida 6 No. 28-102, Cali, Colombia; NIT # 890315495-4 (Colombia) [SDNT]

CECOEX, S.A., Panama City, Panama [CUBA]

CEDENO HERRERA, Luis Mario, c/o AGROPECUARIA LINDARAJA S.A., Cali, Colombia; c/o INVERSIONES AGROINDUSTRIALES DEL OCCIDENTE LTDA., Bogota, Colombia; c/o COMPANIA AGROPECUARIA DEL SUR LTDA., Bogota, Colombia; c/o INVERSIONES BRASILAR S.A., Bogota, Colombia; citizen Colombia; nationality Colombia; Cedula No. 16637213 (Colombia) (individual) [SDNT]

CELIS PEREZ, Alexander, c/o DROCARD S.A., Bogota, Colombia; DOB 16 Feb 1973; Cedula No. 79620931 (Colombia) (individual) [SDNT]

CELTIC (f.k.a. VIOLET ISLANDS) (vessel) [CUBA]

CEMENT INVESTMENT AND DEVELOPMENT COMPANY (a.k.a. CIDCO; a.k.a. CIDCO CEMENT HOLDING), No. 241, Mirdamad Street, Tehran, Iran [NPWMD]

CENGIC, Hasan; DOB 3 Aug 1957; POB Odzak, Bosnia-Herzegovina (individual) [BALKANS]

CENTRAFRICAN AIRLINES (a.k.a. CENTRAFRICAIN AIRLINES; a.k.a. CENTRAL AFRICAN AIR; a.k.a. CENTRAL AFRICAN AIR LINES; a.k.a. CENTRAL AFRICAN AIRWAYS), P.O. Box 2760, Bangui, Central African Republic; P.O. Box 2190, Ajman, United Arab Emirates; Kigali, Rwanda; Ras-al-Khaimah, United Arab Emirates; c/o Transavia Travel Agency, P.O. Box 3962, Sharjah, United Arab Emirates [LIBERIA]

CENTRAL AFRICA DEVELOPMENT FUND, 811 S. Central Expwy, Ste 210, Richardson, TX 75080; P.O. Box 850431, Richardson, TX 75085; US FEIN 75-2884986 [LIBERIA]

CENTRO CAMBIARIO KINO, S.A. DE C.V. (a.k.a. GAMAL-MULTISERVICIOS), Carretera Aeropuerto 1900, Local G-16, Tijuana, Baja California CP 22510, Mexico; Av. Independencia 1 Plaza Padre Kino, Local 11, Zona Rio, Tijuana, Baja California CP 22320, Mexico; R.F.C. CCK-010928-5C0 (Mexico) [SDNTK]

CENTRO COMERCIAL GUSS S.A., Carrera 105 No. 14-01, Cali, Colombia; NIT # 900105460-1 (Colombia) [SDNT]

CENTRO DE BELLEZA SHARY VERGARA, Carrera 54 No. 72-80 Local 25, Barranquilla, Colombia [SDNT]

CERKEZ, Mario; DOB 27 Mar 1959; POB Rijeka, Bosnia-Herzegovina; ICTY indictee (individual) [BALKANS]

CESIC, Ranko; DOB 5 Sep 1964; POB Drvar, Bosnia-Herzegovina; ICTY indictee in custody (individual) [BALKANS]

CESIC-ROJS, Ljubo; DOB 20 Feb 1958; POB Posulje, Bosnia-Herzegovina (individual) [BALKANS]

CET AVIATION ENTERPRISE (FZE), Equatorial Guinea; P.O. Box 932—C20, Ajman, United Arab Emirates [LIBERIA]

CETNIK RAVNAGORSKI POKRET (a.k.a. CRP) [BALKANS]

CHA, Ta Fa (a.k.a. CHATURONG, Taiyai; a.k.a. CHATURONG, Thaiyai; a.k.a. LU, Chin Shun; a.k.a. “CHA TA FA”; a.k.a. “LU TA FA”; a.k.a. “TA FA”), Burma; 29, Wawi Sub-district, Mae Suai District, Chiang Rai, Thailand; DOB 05 Mar 1958; National ID No. 3501000250521 (Thailand) (individual) [SDNTK]

CHAIJAMROONPHAN, Warin (a.k.a. CHAICHAMRUNPHAN, Warin; a.k.a. CHAIWORASILP, Warin; a.k.a. CHAIWORASIN, Warin; a.k.a. PICHAYOS, Warin; a.k.a. VORAWATVICHAI, Hataiwan; a.k.a. VORAWATVICHAI, Hathaiwan; a.k.a. VORAWATVICHAI, Suravee; a.k.a. VORAWATVICHAI, Surawee; a.k.a. VORAWATVICHAI, Varin; a.k.a. WORAWATVICHAI, Hataiwan; a.k.a. WORAWATVICHAI, Hathaiwan; a.k.a. WORAWATVICHAI, Suravee; a.k.a. WORAWATVICHAI, Surawee; a.k.a. WORAWATWICHAI, Hataiwan; a.k.a. WORAWATWICHAI, Hathaiwan; a.k.a. WORAWATWICHAI, Surawee; a.k.a. WORAWATWICHAI, Warin), c/o PLOYDAENG JEWELRY SHOP, Bangkok, Thailand; c/o RATTANA VICHAI COMPANY LTD., Bangkok, Thailand; c/o SIAM NICE COMPANY LTD., Bangkok, Thailand; c/o HATKAEW COMPANY LTD., Bangkok, Thailand; c/o RUNGRIN COMPANY LTD., Bangkok, Thailand; c/o PROGRESS SURAWEE COMPANY LTD., Bangkok, Thailand; c/o NICE FANTASY GARMENT COMPANY LTD., Bangkok, Thailand; c/o SCORE COMMERCIAL COMPANY LTD., Bangkok, Thailand; DOB 9 Jan 1956; National ID No. 3101701873838 (Thailand); Passport N302083 (Thailand) (individual) [SDNTK]

CHAIWORASIN, Wilai (a.k.a. CHAIVORASILP, Vilai; a.k.a. CHAIWORASIN, Vilai), c/o HATKAEW COMPANY LTD., Bangkok, Thailand; c/o SCORE COMMERCIAL COMPANY LTD., Bangkok, Thailand; c/o MAESAI K.D.P. COMPANY LTD., Chiang Rai, Thailand; c/o NICE FANTASY GARMENT COMPANY LTD., Bangkok, Thailand; c/o SIAM NICE COMPANY LTD., Bangkok, Thailand; c/o RUNGRIN COMPANY LTD., Bangkok, Thailand; c/o V.R. FRUIT COMPANY, Chiang Mai, Thailand; DOB 1934; National ID No. 3102002529284 (Thailand) (individual) [SDNTK]

CHAIWORASIN, Wimonsi (a.k.a. CHAIVORASILP, Vimolsri; a.k.a. CHAIVORASILP, Wimolsri; a.k.a. CHAIWORASIN, Vimonsi; a.k.a. CHAIWORASIN, Vimonsri; a.k.a. CHAIWORASIN, Wimonsri), c/o NICE FANTASY GARMENT COMPANY LTD., Bangkok, Thailand; c/o RUNGRIN COMPANY LTD., Bangkok, Thailand; c/o SIAM NICE COMPANY LTD., Bangkok, Thailand; c/o HATKAEW COMPANY LTD., Bangkok, Thailand; c/o V.R. FRUIT COMPANY, Chiang Mai, Thailand; c/o MAESAI K.D.P. COMPANY LTD., Chiang Rai, Thailand; c/o A-TEAM CHEMICALS COMPANY LTD., Bangkok, Thailand; c/o PLUS TECH AUTO SUPPLY COMPANY LTD., Bangkok, Thailand; c/o RATTANA VICHAI COMPANY LTD., Bangkok, Thailand; DOB 1953; National ID No. 3570900519762 (Thailand); Passport B272327 (Thailand) (individual) [SDNTK]

CHAMARTIN S.A., Calle 10 No. 4-47, piso 18, Cali, Colombia; NIT # 805024137-4 (Colombia) [SDNT]

CHAMET IMPORT, S.A., Panama [CUBA]

CHANG, Chi Fu (a.k.a. CHAN, Changtrakul; a.k.a. CHANG, Shi-Fu; a.k.a. CHANG, Xifu; a.k.a. CHANGTRAKUL, Chan; a.k.a. KHUN SA); DOB 17 Feb 1933; alt. DOB 12 Feb 1932; alt. DOB 7 Jan 1932; POB Burma (individual) [SDNTK]

CHANG, Chin Sung (a.k.a. KLUAI YUAI, Choi Luang; a.k.a. “AH SUNG”), Shan State, Burma; 57/2, Mu 4, Tambon Pa Pae, Amphur Mae Taeng, Chiang Mai, Thailand; DOB 20 Dec 1959; National ID No. 3550700628151 (Thailand) (individual) [SDNTK]

CHANG, Ping Yun (a.k.a. KHUN, Saeng); DOB 7 Jan 1940; POB Burma (individual) [SDNTK]

CHAO, Lazaro R., 20 Ironmonger Lane, London EC2V 8EY, United Kingdom; Executive Director, Havana International Bank (individual) [CUBA]

CHAPARRO MARTINEZ, Elizabeth, c/o ADMINISTRADORA DE SERVICIOS VARIOS CALIMA S.A., Cali, Colombia; DOB 5 May 1968; Cedula No. 31973372 (Colombia); Passport 31973372 (Colombia) (individual) [SDNT]

CHAPFIKA, Abina; DOB 23 Aug 1961; Passport ZE190297 (Zimbabwe); Spouse of David Chapfika (individual) [ZIMBABWE]

CHAPFIKA, David; DOB 7 Apr 1957; Passport ZL037165 (Zimbabwe); Deputy Minister of Finance (individual) [ZIMBABWE]

CHARAABI, Tarek (a.k.a. AL-CHARAABI, Tarek Ben Al-Bechir Ben Amara; a.k.a. SHARAABI, Tarek), Viale Bligny n.42, Milano, Italy; DOB 31 Mar 1970; POB Tunisia; nationality Tunisia; Italian Fiscal Code CHRTRK70C31Z352U; Passport L 579603 issued 19 Nov 1997 expires 18 Nov 2002 (individual) [SDGT]

CHARAMBA, George; DOB 4 Apr 1963; Passport AD001255 (Zimbabwe); Permanent Secretary, Zimbabwean Ministry of Information and Publicity (individual) [ZIMBABWE]

CHARAMBA, Rudo Grace; DOB 20 Jun 1964; Spouse of George Charamba (individual) [ZIMBABWE]

CHARIAPAPORN, Hiran (a.k.a. CHARI-APAPORN, Hiran; a.k.a. CHARI-APHAPHON, Hiran; a.k.a. JAREE-ARPAPORN, Hiran; a.k.a. JAREE-ARPAPORN, Hirun; a.k.a. WU, Nan Hsiung), c/o A-TEAM CHEMICALS COMPANY LTD., Bangkok, Thailand; c/oPLUS TECH AUTO SUPPLY COMPANY LTD., Bangkok, Thailand; DOB 3 Jan 1950; National ID No. 310062394060 (Thailand) (individual) [SDNTK]

CHARRIS MORALES, Geny Maria (a.k.a. CHARRYS MORALES, Geny Maria), c/o COOPIFARMA, Bucaramanga, Colombia; c/o REPRESENTACIONES Y DISTRIBUCIONES HUERTAS Y ASOCIADOS S.A., Bogota, Colombia; c/o COOPERATIVA MULTIACTIVA DE COLOMBIA FOMENTAMOS, Bogota, Colombia; DOB 24 Feb 1961; Cedula No. 51606354 (Colombia); Passport 51606354 (Colombia) (individual) [SDNT]

CHARUMBIRA, Fortune Zefanaya; DOB 10 Jun 1962; Member of Parliament & Central Committee Member (individual) [ZIMBABWE]

CHAVARRO, Hector Fabio, c/o AGROPECUARIA BETANIA LTDA., Cali, Colombia; c/o VALLADARES LTDA., Cali, Colombia; c/o INVERSIONES VILLA PAZ S.A., Cali, Colombia; DOB 28 Sep 1959; Cedula No. 16263212 (Colombia) (individual) [SDNT]

CHEKKOURI, Yassine; DOB 6 Oct 1966; POB Safi, Morocco (individual) [SDGT]

CHICHAKLI & ASSOCIATES PLLC (a.k.a. CHICHAKLI HICKMANRIGGS & RIGGS; a.k.a. CHICHAKLI HICKMAN-RIGGS & RIGGS, PLLC), 811 S. Central Expwy, Ste 210, Richardson, TX 75080 [LIBERIA]

CHICHAKLI, Richard Ammar (a.k.a. CHICHAKLI, Ammar M.), 225 Syracuse Place, Richardson, TX 75081; 811 S. Central Expwy, Ste 210, Richardson, TX 75080; DOB 29 Mar 1959; POB Syria; citizen United States; SSN 405-41-5342; alt. SSN 467-79-1065 (individual) [LIBERIA]

CHIGUDU, Tinaye Elisha Nzirasha; DOB 13 Aug 1942; Passport AD000013 (Zimbabwe); Manicaland Provincial Governor (individual) [ZIMBABWE]

CHIGWEDERE, Aeneas Soko; DOB 25 Nov 1939; Minister of Education, Sports and Culture (individual) [ZIMBABWE]

CHIHOTA, Phineas; DOB 23 Nov 1950; Deputy Minister of Industry and International Trade (individual) [ZIMBABWE]

CHIHUAHUA FOODS S.A. DE C.V., Cuauhtemoc, Chihuahua, Mexico [SDNTK]

CHIHURI, Augustine; DOB 10 Mar 1953; Passport AD000206 (Zimbabwe); Police Commissioner (individual) [ZIMBABWE]

CHIKOWORE, Enos; DOB 17 July 1942; Former Central Committee Member; Deceased (individual) [ZIMBABWE]

CHIMUTENGWENDE, Chenhamo Chakezha Chen; DOB 28 Aug 1943; Passport ZD001423 (Zimbabwe); alt. Passport AN288614 (Zimbabwe); Minister of State for Public and Interactive Affairs (individual) [ZIMBABWE]

CHINA NATIONAL PRECISION MACHINERY IMPORT/EXPORT CORPORATION (a.k.a. CHINA NATIONAL PRECISION MACHINERY I/E CORP.; a.k.a. CHINA PRECISION MACHINERY IMPORT/EXPORT CORPORATION; a.k.a. CPMIEC; a.k.a. ZHONGGUO JINGMI JIXIE JINCHUKOU ZONGGONGSI), No. 30 Haidian Nanlu, Beijing, China; and all other locations worldwide [NPWMD]

CHINAMASA, Gamuchirai, 2 Honeybear Lane, Borrowdale, Zimbabwe; DOB 11 Nov 1991; Passport AN634603 (Zimbabwe); Child of Patrick Chinamasa (individual) [ZIMBABWE]

CHINAMASA, Monica, 6B Honeybear Lane, Borrowdale, Zimbabwe; DOB circa 1950; Spouse of Patrick Chinamasa (individual) [ZIMBABWE]

CHINAMASA, Patrick, 6B Honeybear Lane, Borrowdale, Zimbabwe; DOB 25 Jan 1947; Minister of Justice, Legal and Parliamentary Affairs (individual) [ZIMBABWE]

CHINDORI-CHININGA, Edward; DOB 14 Mar 1955; Passport AN388694 (Zimbabwe); Member of Parliament for Guruve South (individual) [ZIMBABWE]

CHITEPO, Victoria; DOB 27 Mar 1928; Politburo (individual) [ZIMBABWE]

CHIWENGA, Constantine Gureya; DOB 25 Aug 1956; Passport AD000263 (Zimbabwe); Lt. General, Commander of Zimbabwe Defense Forces (individual) [ZIMBABWE]

CHIWENGA, Jocelyn Mauchaza; DOB 19 May 1955; Passport AN061550 (Zimbabwe); Spouse of Constantine Chiwenga (individual) [ZIMBABWE]

CHIWESHE, George; DOB 4 Jun 1953; Chairman of Zimbabwe Electoral Commission (individual) [ZIMBABWE]

CHIWEWE, Willard, Private Bag 7713, Causeway, Harare, Zimbabwe; DOB 19 Mar 1949; Masvingo Provincial Governor (individual) [ZIMBABWE]

CHOMBO, Ever, No. 38, 39th Crescent, Warrenton Park, Harare, Zimbabwe; DOB 20 Sep 1956; Passport AN845280 (Zimbabwe); Spouse of Ignatius Chombo (individual) [ZIMBABWE]

CHOMBO, Ignatius Morgan; DOB 1 Aug 1952; Passport AD000500 (Zimbabwe); Minister of Local Government, Public Works and National Housing (individual) [ZIMBABWE]

CHOMBO, Marian, 45 Basset Crescent, Alexandra Park, Zimbabwe; DOB 11 Aug 1960; Passport AD000896 (Zimbabwe); Spouse of Ignatius Chombo (individual) [ZIMBABWE]

CHOU, Hsien Cheng (a.k.a. CHEW, Kheng Siang), c/o TET KHAM (S) PTE. LTD., Singapore; c/o VEST SPECTRUM (S) PTE. LTD., Singapore, Singapore; 9 Haig Avenue, Singapore 438864, Singapore; National ID No. S1199192J (Singapore) (individual) [SDNTK]

CHOW RIOS, Harding Elvis; DOB 2 Apr 1962; POB San Andres, Colombia; Cedula No. 15243752 (Colombia) (individual) [SDNT]

CIA COMERCIALIZADORA DE BIENES RAICES LTDA. (a.k.a. COBIENES LTDA.; f.k.a. MEJIA MUNERA HERMANOS LTDA.), Cali, Colombia; NIT # 8000689284 (Colombia) [SDNT]

CIA. ANDINA DE EMPAQUES LTDA. (a.k.a. COEMPAQUES LTDA.), Carrera 4 No. 11-45 Ofc. 503, Cali, Colombia; Carrera 17 G No. 25-72, Cali, Colombia; NIT # 800018562-9 (Colombia) [SDNT]

CIA. CONSTRUCTORA Y COMERCIALIZADORA DEL SUR LTDA. (a.k.a. COSUR LTDA.; a.k.a. HOTEL PALACE), Avenida El Dorado Entrada 2 Int. 6, Bogota, Colombia; NIT # 890329758-7 (Colombia) [SDNT]

CIA. MINERA DAPA S.A., Carrera 16 No. 93-38 Ofc. 104, Bogota, Colombia; NIT # 800181373-1 (Colombia) [SDNT]

CICLON (vessel) [CUBA]

CIDCA (a.k.a. CENTRO INVESTIGACION DOCENCIA Y CONSULTORIA ADMINISTRATIVA), Calle 61 No. 11-09 Chapinero, Bogota, Colombia; Carrera 5 No. 23-16, Bogota, Colombia; NIT # 860404579-7 (Colombia) [SDNT]

CIFUENTES GALINDO, Luis Eduardo (a.k.a. “EL AGUILA”); DOB 16 Mar 1960; Cedula No. 3254362 (Colombia) (individual) [SDNTK]

CIMECO, SRL, Milan, Italy [CUBA]

CIMEX, Emerson No. 148 Piso 7, 11570 Mexico, D.F., Mexico [CUBA]

CIMEX IBERICA, Spain [CUBA]

CIMEX, S.A., Panama [CUBA]

CIPE INVESTMENTS CORPORATION, Panama City, Panama; C.R. No. 197910/22096/0051 (Panama); RUC # 2209651197910 (Panama) [SDNT]

CIRE, Kursad Zafer (a.k.a. CIRE, Kursat Zafer); DOB 30 Aug 1967; POB Germany; nationality Turkey; Passport 778456 (Turkey) issued 14 May 1997 expires 13 May 2007 (individual) [NPWMD]

CISCO SHIPPING COMPANY CO. LTD. (a.k.a. IRISL KOREA CO., LTD.; a.k.a. SEOUL INTERNATIONAL SHIPPING COMPANY; a.k.a. SISCO), 18th Floor, Sebang Building, 708-8, Yeoksam-dong, Kangnam-Gu, Seoul, Korea, South; 4th Floor, Sebang Building 68-46, Jwacheon-Dong, Dong-Gu, Busan, Korea, South [NPWMD]

CISSE, M. Moussa (a.k.a. KAMARA, Mamadee); DOB 24 Dec 1946; alt. DOB 26 Jan 1944; Passport D-001548-99 (Liberia); alt. Passport 0058070 (Liberia); Former Chief of Presidential Protocol of Liberia; Chairman, Mohammed Group of Companies; Diplomatic (individual) [LIBERIA]

CITICAR LTDA., Calle 15 No. 10-52, La Union, Valle, Colombia; NIT # 800026660-6 (Colombia) [SDNT]

CLAROS, Dario, c/o COOPCREAR, Bogota, Colombia; c/o SOLUCIONES COOPERATIVAS, Bogota, Colombia; c/o COOPERATIVA MULTIACTIVA DE COLOMBIA FOMENTAMOS, Bogota, Colombia; c/o LITOPHARMA, Barranquilla, Colombia; c/o CAJA SOLIDARIA, Bogota, Colombia; c/o COOPERATIVA DE TRABAJO ASOCIADO ACTIVAR, Bogota, Colombia; Cedula No. 83180350 (Colombia) (individual) [SDNT]

CLAUDIA PILAR RODRIGUEZ Y CIA. S.C.S., Calle 17A No. 28A-43, Bogota, Colombia; NIT # 830007201-7 (Colombia) [SDNT]

CLAVIJO GARCIA, Hector Augusto, c/o GANADERIAS DEL VALLE S.A., Cali, Colombia; DOB 15 Dec 1958; Cedula No. 16613930 (Colombia) (individual) [SDNT]

CLINICA ESPECIALIZADA DEL VALLE S.A. (a.k.a. C.E.V. S.A.), Calle 10 No. 44A-26, Cali, Colombia; Apartado Aereo 32412, Cali, Colombia; Carrera 46 No. 9C-85, Cali, Colombia; Carrera 40 No. 6-50, Of. 1501, Cali, Colombia; NIT # 800134099-6 (Colombia) [SDNT]

CLINICA SAN FRANCISCO S.A. (f.k.a. CLINICA DE OCCIDENTE TULUA S.A.; f.k.a. CLINICA NUESTRA SENORA DE FATIMA S.A.), Calle 26 No. 34-60, Tulua, Valle, Colombia; NIT # 800191916-1 (Colombia) [SDNT]

COBALT REFINERY CO. INC., Fort Saskatchewan, AB, Canada [CUBA]

COCINA DE TIJUANA, S. DE R.L. DE C.V., Boulevard Sanchez Taboada No. 10451, Colonia Urbano Rio Tijuana, Tijuana, Baja California, Mexico; R.F.C. CTI050414A55 (Mexico) [SDNTK]

CODISA (a.k.a. COOPERATIVA MULTIACTIVA DE DISTRIBUCION Y SERVICIOS ADMINISTRATIVOS), Calle 17A No. 28A-43, Bogota, Colombia; Calle 23 No. 19-75, Bogota, Colombia; NIT # 860524476-1 (Colombia) [SDNT]

COINTERCOS S.A. (f.k.a. BLAIMAR; a.k.a. CIA. INTERAMERICANA DE COSMETICOS S.A.; f.k.a. LABORATORIOS BLAIMAR DE COLOMBIA S.A.), Apartado Aereo 33248, Bogota, Colombia; Calle 12B No. 27-39, Bogota, Colombia; NIT # 860511578-8 (Colombia) [SDNT]

COLCHONES SUNMOONS LTDA, Carrera 50 No. 37-45 Sur, Bogota, Colombia; NIT # 830073142-1 (Colombia) [SDNTK]

COLD COMFORT FARM TRUST CO-OPERATIVE, 7 Cowie Road, Tynwald, Harare, Zimbabwe; P.O. Box 6996, Harare, Zimbabwe [ZIMBABWE]

COLFARMA PERU S.A., Av. Los Plateros 145 piso 2, Urb. El Artesano Ate, Lima, Peru; RUC # 2033645155 (Peru) [SDNT]

COLIMEX LTDA., Calle 29 Norte No. 6N-43, Cali, Colombia; NIT # 800256902-1 (Colombia) [SDNT]

COLL PRADO, Gabriel, Panama (individual) [CUBA]

COLOMBIANA DE CERDOS LTDA. (a.k.a. COLCERDOS LTDA.), Km. 3 Via Marsella Parque Industrial, Pereira, Colombia; Apartado Aereo 3786, Pereira, Colombia; NIT # 800018928-0 (Colombia) [SDNT]

COLOMBO ANDINA COMERCIAL COALSA LTDA., Carrera 14 No. 95-47, Ofc.201, Bogota, Colombia; NIT # 800084516-0 (Colombia) [SDNT]

COLON BETANCOURT, Eduardo, Panama (individual) [CUBA]

COLONY TRADING, S.A., Panama [CUBA]

COLOR 89.5 FM STEREO, Calle 15N No. 6N-34 piso 15, Edificio Alcazar, Cali, Colombia; Calle 19N No. 2N-29, Cali, Colombia [SDNT]

COMEDICAMENTOS S.A., Transversal 29 No. 39-92, Bogota, Colombia; NIT # 830030803-7 (Colombia) [SDNT]

COMERCIAL CIMEX, S.A., Panama [CUBA]

COMERCIAL DE NEGOCIOS CLARIDAD Y CIA., Avenida Caracas No. 59-77 of. 201A, 401B y 405B, Bogota, Colombia; NIT # 800080719-0 (Colombia) [SDNT]

COMERCIAL DE RODAJES Y MAQUINARIA, S.A. (a.k.a. CRYMSA), Jose Lazaro Galdeano 6-6, 28016 Madrid, Spain [CUBA]

COMERCIAL DOMELY, S.A. DE C.V, Ignacio Ramirez No. 603, Col. Jorge Almada, Culiacan, Sinaloa 80200, Mexico; R.F.C. CDO010522917 (Mexico) [SDNTK]

COMERCIAL IBEROAMERICANA, S.A. (a.k.a. COIBA), Spain [CUBA]

COMERCIAL JOANA, S.A. DE C.V., General Eulogio Parra No. 61, Interior Z, Col. El Retiro, Guadalajara, Jalisco, Mexico; General Eulogio Parra No. 1750-C, Col. El Retiro, Guadalajara, Jalisco, Mexico; Calle General Eulogio Parra Numero 61-Z, Col. El Retiro, Guadalajara, Jalisco 44280, Mexico; Parras No. 1750, Col. Educacion Alamos, Guadalajara, Mexico; R.F.C. CJO010202HQ4 (Mexico); alt. R.F.C. CJO010202HQH (Mexico) [SDNTK]

COMERCIAL MURALLA, S.A. (a.k.a. MURALLA, S.A.), Panama City, Panama [CUBA]

COMERCIALIZACION DE PRODUCTOS VARIOS (a.k.a. COPROVA; a.k.a. COPROVA SARL), Paris, France [CUBA]

COMERCIALIZACION Y FINANCIACION DE AUTOMOTORES S.A. (a.k.a. COMFIAUTOS S.A.), Carrera 4 No. 11-33 of. 303, Cali, Colombia; Avenida 2N No. 7N-55 of. 609, Cali, Colombia; NIT # 800086115-1 (Colombia) [SDNT]

COMERCIALIZADORA AMIA, S.A. DE C.V., Avenida Juan Sarabia, Calle 8106, Zona Central, Tijuana, Baja California CP 22000, Mexico; R.F.C. CAM-940526-8H9 (Mexico) [SDNTK]

COMERCIALIZADORA ANDINA BRASILERA S.A. (a.k.a. CABRASA), Carrera 30 No. 90-82, Bogota, Colombia; NIT # 830003298-2 (Colombia) [SDNT]

COMERCIALIZADORA BRIMAR'S, S.A. DE C.V., Calle Riva Palacio Sur No. 675, Col. Jorge Almada, Culiacan, Sinaloa, Mexico; R.F.C. CBS9710303N4 (Mexico) [SDNTK]

COMERCIALIZADORA CGQ LTDA. (a.k.a. CENTROPARTES CALI), Carrera 18 No. 9-24, Cali, Colombia; NIT # 805029062-3 (Colombia) [SDNT]

COMERCIALIZADORA COLOMBIAN MONEY EXCHANGE LTDA., Avenida 40 No. 26C-10 Local 304, Villavicencio, Colombia; Carrera 15 No. 90-36 Local 101, Bogota, Colombia; Calle 82 No. 11-75 Local 164, Bogota, Colombia; NIT # 830090469-6 (Colombia) [SDNTK]

COMERCIALIZADORA DE BIENES Y SERVICIOS ADMINISTRATIVOS Y FINANCIEROS S.A. (f.k.a. RENTAS Y ADMINISTRACIONES S.A.), Calle 6 No. 39-25 Local 206, Cali, Colombia; NIT # 800200471-6 (Colombia) [SDNT]

COMERCIALIZADORA DE CAFE DEL OCCIDENTE CODECAFE LTDA. (a.k.a. CODECAFE), Carrera 8 No. 23-09, Ofc. 903, Pereira, Risaralda, Colombia; NIT # 816004106-0 (Colombia) [SDNT]

COMERCIALIZADORA DE CARNES DEL PACIFICO LTDA., Calle 25 No. 8-54, Cali, Colombia [SDNT]

COMERCIALIZADORA DE CARNES LTDA. (a.k.a. COMECARNES LTDA.), Km. 3 Via Marsella, Pereira, Colombia; NIT # 800076369-0 (Colombia) [SDNT]

COMERCIALIZADORA DE LINEAS PHARMACEUTICAS S.A. (a.k.a. COLPHAR S.A.), Calle 39 Bis A No. 27-16, Bogota, Colombia; Calle 94A No. 13-91 of. 402, Bogota, Colombia; NIT # 830074552-2 (Colombia) [SDNT]

COMERCIALIZADORA DE PRODUCTOS FARMACEUTICOS LTDA., Manzana 48 Casa 12 Etapa 2 Simon Bolivar, Ibague, Colombia; NIT # 809010102-0 (Colombia) [SDNT]

COMERCIALIZADORA DIGLO LTDA., Calle 23 No. 19-75, Bogota, Colombia; NIT # 800789578-3 (Colombia) [SDNT]

COMERCIALIZADORA E IMPORTADORA GARDES, S.A. DE C.V., Carrillo Puerto, Calle 2025 21-A, Zona Central, Tijuana, Baja California, Mexico; Huixquilucan, Distrito Federal, Mexico; R.F.C. CIG-920206-F64 (Mexico) [SDNTK]

COMERCIALIZADORA EXPERTA Y CIA. S. EN C., Avenida Caracas No. 59-77 of. 201A, 401B, 405B y 407B, Bogota, Colombia; NIT # 800075687-3 (Colombia) [SDNT]

COMERCIALIZADORA INTERTEL S.A., Calle 18 No. 106-98 of. 207, 302, 303, Cali, Colombia; Carrera 42 No. 9D-49, Cali, Colombia; Calle 19 No. 9-50 of. 1501, Cali, Colombia; NIT # 805015152-7 (Colombia) [SDNT]

COMERCIALIZADORA JALSIN, S.A. DE C.V. (a.k.a. CHIKA'S; a.k.a. CHIKA'S ACCESORIOS Y COSMETICOS; a.k.a. COMERCIALIZADORA JALZIN, S.A. DE C.V.), Avenida Juarez 496, Col. Centro, Guadalajara, Jalisco, Mexico; Calle Juan Manuel 308, Col. Colonia Guadalajara Centro, Guadalajara, Jalisco, Mexico; Calle Alvaro Obregon 614, Col. Barrio San Juan De Dios, Guadalajara, Jalisco, Mexico; Calle Pedro Loza 174, Col. Colonia Guadalajara Centro, Guadalajara, Jalisco, Mexico; Parras No. 1750, Col. Educacion Alamos, Guadalajara, Jalisco 44280, Mexico; Calle Vasco de Quiroga 32, Col. Colonia Morelia Centro, Morelia, Michoacan, Mexico; Calle Javier Mina 26, Col. Colonia La Perla, Guadalajara, Jalisco, Mexico; Calle Pedro Loza 184, Col. Colonia Guadalajara Centro, Guadalajara, Jalisco, Mexico; Andador Pedro Loza 174, Col. Barrio Jesus, Guadalajara, Jalisco, Mexico; Calle Alvaro Obregon 614, Col. Colonia La Perla, Guadalajara, Jalisco, Mexico; Avenida Javier Mina 28, Col. Barrio San Juan De Dios, Guadalajara, Jalisco, Mexico; Avenida Juarez 498, Col. Colonia Guadalajara Centro, Guadalajara, Jalisco, Mexico; Privada Periferico Sur 1835, Col. Pueblo Santa Maria Tequepexpan, Tlaquepaque, Jalisco, Mexico; Cll 614 s/n, Col.San Jan de Dios, Guadalajara, Jalisco 44360, Mexico; Calle Reforma, Esquina Comonfort Esquina Loc 11, Col. Colonia Leon de los Aldamas Centro, Leon, Guanajuato 37000, Mexico; Ave. Juarez No. 496, Col. Centro, Guadalajara, Jalisco 44100, Mexico; Calle Reforma 217 A, Col. Colonia Leon de los Aldamas Centro, Leon, Guanajuato 37000, Mexico; Vasco de Quiroga No. 32, Zona Centro, Morelia, Michoacan, Mexico; Cll 271 s/n, Col. Centro, Guadalajara, Jalisco 44280, Mexico; R.F.C. CJA980901J13 (Mexico) [SDNTK]

COMERCIALIZADORA MOR GAVIRIA S.A. (a.k.a. ALFOMBRAS DURATEX DE COLOMBIA; a.k.a. “DURATEX ECUADOR”), Avenida Pedro Vicente Maldonado N229 y Rivas, Edificio Centro Comercial El Recreo, Local 24F, Pichincha, Quito, Ecuador; RUC # 1791813359001 (Ecuador) [SDNT]

COMERCIALIZADORA MORDUR S.A., Avenida Pedro Vicente Maldonado 14-205, Edificio Centro Comercial El Recreo, Local 22F, Pichincha, Quito, Ecuador; RUC # 1791315820001 (Ecuador) [SDNT]

COMERCIALIZADORA OROBANCA (A.K.A. SOCIR S.A.) (a.k.a. SOUCIR, S.A.), Calle 36A No. 3GN-07 of. 302, Edificio El Parque, Cali, Colombia; Calle 22N No. 5A-75 of. 702, Edificio Via Veneto, Cali, Colombia [SDNT]

COMERCIALIZADORA PELISSIER OSPINA LTDA., Carrera 58B No. 63B-96 bq. 21 int. 15 apto. 201, Bogota, Colombia; NIT # 830009052-5 (Colombia) [SDNT]

COMERCIALIZADORA TOQUIN, S.A. DE C.V. (a.k.a. CHIKA'S COSMETICS AND ACCESSORIES), Calzada Gonzalez Gallo, numero 3064, Col. Lomas de San Pedro, Guadalajara, Jalisco 44897, Mexico; Calle Paseo del Hospisio 22 1038, Col. Colonia La Perla, Guadalajara, Jalisco, Mexico; Poniente 140 #639, Col. Industrial Vallejo, Mexico, Distrito Federal, Mexico; Calle Parras, Numero 1750 Int. C, Col. Alamo Oriente, Tlaquepaque, Jalisco, Mexico; R.F.C. CTO010731CH9 (Mexico) [SDNTK]

COMITE' DE BIENFAISANCE ET DE SECOURS AUX PALESTINIENS (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 37 Rue de la Chapelle, 75018 Paris, France; 10 Rue Notre Dame, 69006 Lyon, France; 68 Rue Jules Guesde, 59000 Lille, France [SDGT]

COMMUNIST PARTY OF NEPAL (MAOIST) (a.k.a. CPN (M); a.k.a. THE PEOPLE'S LIBERATION ARMY OF NEPAL; a.k.a. UNITED REVOLUTIONARY PEOPLE'S COUNCIL) [SDGT]

COMOIL (PVT) LTD, Block D, Emerald Hill Office P, Emerald Park, Harare, Zimbabwe; 2nd Floor, Travel Plaza, 29 Mazoe St., Box CY2234, Causeway, Harare, Zimbabwe [ZIMBABWE]

COMPAGNIE AERIENNE DES GRANDS LACS (a.k.a. CAGL), Gisenyi, Rwanda; Av. President Mobutu, Goma, Congo, Democratic Republic of the [DRCONGO]

COMPANIA ADMINISTRADORA DE VIVIENDA S.A. (f.k.a. INVERSIONES GEMINIS S.A.), Carrera 40 No. 6-24 of. 402B, Cali, Colombia; Carrera 41 No. 6-15/35, Cali, Colombia; NIT # 800032419-1 (Colombia) [SDNT]

COMPANIA AGROINVERSORA HENAGRO LTDA., Carrera 1 No. 13-08, Cartago, Colombia; Km. 5 Via Aeropuerto, Cartago, Colombia; Hacienda Coque, Cartago, Colombia; NIT # 800084326-8 (Colombia) [SDNT]

COMPANIA AGROPECUARIA DEL SUR LTDA. (a.k.a. COAGROSUR LTDA.; f.k.a. MARIA NURY CAICEDO E HIJAS Y CIA S.C.S.), Calle 114A No. 11A-40, Apt. 302, Bogota, Colombia; NIT # 800107990-1 (Colombia) [SDNT]

COMPANIA DE FOMENTO MERCANTIL S.A., Avenida 7 Norte No. 23N-81, Cali, Colombia; NIT # 800124589-0 (Colombia) [SDNT]

COMPANIA DE IMPORTACION Y EXPORTACION IBERIA (a.k.a. CIMEX), Spain [CUBA]

COMPANIA FENIX INTERNACIONAL, S.A., Caracas, Venezuela [CUBA]

COMPANIA MINERA DEL RIO CIANURY S.A. DE C.V., Calle Rio Piaxtla No. exterior 45, Col. Guadalupe, Culiacan, Sinaloa 80220, Mexico; R.F.C. MRC900823R6A (Mexico) [SDNTK]

COMPANIA PESQUERA INTERNACIONAL, S.A., Panama [CUBA]

COMPLEJO TURISTICO OASIS, S.A. DE C.V. (a.k.a. OASIS BEACH RESORT & CONVENTION CENTER), Km 25 Carr. Tijuana-Ensenada, Colonia Leyes de Reforma, CP 22710, Playas Rosarito, Rosarito, Baja California, Mexico [SDNTK]

COMTECO LTDA. (a.k.a. COMUNICACIONES TECNICAS DE COLOMBIA LIMITADA), Calle 12N No. 9N-58, Cali, Colombia; Calle 44 Norte No. 2BN-08, Cali, Colombia; NIT # 800113514-1 (Colombia) [SDNT]

COMUDROGAS LTDA. (a.k.a. COOPERATIVA MULTIACTIVA DE DROGUISTAS LTDA.; a.k.a. COOPERATIVA MULTISERVICIOS DE DROGUISTAS LTDA.), Carrera 49B No. 75-63 Local 2, Barranquilla, Colombia; Calle 8 No. 31-03, Cali, Colombia; Calle 28 No. 22-25/27/39, Bucaramanga, Colombia; NIT # 804001143-6 (Colombia) [SDNT]

COMUNICACION VISUAL LTDA. (a.k.a. COMVIS LTDA.), Calle 11 No. 19-44, Cali, Colombia [SDNT]

COMUNICACIONES ABIERTAS CAMARY LTDA., Calle 13 No. 80-60 Loc. 224, Cali, Colombia; NIT # 805028107-1 (Colombia) [SDNT]

COMUNICACIONES UNIDAS DE COLOMBIA LTDA (f.k.a. RADIO COMUNICACIONES SUR DEL GUAVIARE LTDA), Calle 38 No. 33-72 Oficina 202, Villavicencio, Colombia; NIT # 822000712-8 (Colombia) [SDNTK]

CONCRETOS CALI S.A., Calle 7 No. 82-65, Cali, Colombia [SDNT]

CONDE RUBIO, Nancy (a.k.a. “ALEXANDRA RUBIO SILVA”; a.k.a. “DORIS ADRIANA”; a.k.a. “LUZ DARY”; a.k.a. “MARITZA”), Colombia; DOB 02 Sep 1972; alt. DOB 19 Nov 1973; POB Bogota, Colombia; citizen Colombia; nationality Colombia; Cedula No. 20645502 (Colombia) (individual) [SDNTK]

CONFECCIONES LINA MARIA LTDA., Factoria La Rivera, La Union, Valle, Colombia; NIT # 800026667-7 (Colombia) [SDNT]

CONFECCIONES LORD S.A., Carrera 74 No. 76 -150, Barranquilla, Atlantico, Colombia; NIT # 890101890-1 (Colombia) [SDNT]

CONGOCOM TRADING HOUSE, Butembo, Congo, Democratic Republic of the [DRCONGO]

CONSORCIO INMOBILIARIO DEL VALLE DE CULIACAN, S.A. DE C.V., Calle Miguel Hidalgo No. 590, #3, Culiacan, Sinaloa, Mexico; Calle Rodolfo G. Robles No. 158, Culiacan, Sinaloa, Mexico; Ave. Alvaro Obregon No. 1800, 74M, Colinas de San Miguel, Culiacan, Sinaloa, Mexico; Blvd. Emiliano Zapata No. 20, Col. Centro, Culiacan, Sinaloa, Mexico; Valle Aldama No. 257, Col. Centro, Culiacan, Sinaloa, Mexico; Ave. Alvaro Obregon No. 1800, 76M, Colinas de San Miguel, Culiacan, Sinaloa, Mexico; Ave. Alvaro Obregon No. 1800, 75M, Colinas de San Miguel, Culiacan, Sinaloa, Mexico; Calle Miguel Hidalgo No. 590, #4, Culiacan, Sinaloa, Mexico; Ave. Alvaro Obregon No. 1800, 77M, Colinas de San Miguel, Culiacan, Sinaloa, Mexico; R.F.C. CIV0106199MA (Mexico) [SDNTK]

CONSTRUCCIONES ASTRO S.A. (f.k.a. CONSTRUCTORA CASCADA; f.k.a. SOCIEDAD CONSTRUCTORA LA CASCADA S.A.), Carrera 4 No. 12-41 of. 1401, Cali, Colombia; Calle 1A 62A-120 B2 108, Cali, Colombia; Calle 13 3-22 piso 12 y piso 14, Cali, Colombia; Carrera 64 1B-83, Cali, Colombia; Carrera 64 1C-63, Cali, Colombia; Apartado Aereo 10077, Cali, Colombia; Calle 1A 62A-120 4114, Cali, Colombia; Calle 1A 62A-120, Cali, Colombia; Carrera 4 No. 12-41 of. 1402, Edificio Seguros Bolivar, Cali, Colombia; Carrera 4 No. 12-41 of. 1403, Cali, Colombia; Calle 1A 62A-120 2418, Cali, Colombia; Calle 1A 62A-120 2305, Cali, Colombia; Calle 1A 62A-120 6245, Cali, Colombia; NIT # 890307311-4 (Colombia) [SDNT]

CONSTRUCCIONES AVENDANO GUTIERREZ Y CIA. LTDA. (a.k.a. CONAGE LTDA.), Carrera 71 No. 57-07, Bogota, Colombia; NIT # 800211560-0 (Colombia) [SDNT]

CONSTRUCCIONES COLOMBO-ANDINAS LTDA., Carrera 8 No. 16-79 of. 504, Bogota, Colombia; Calle 29 No. 36-61, Bogota, Colombia; NIT # 860505252-8 (Colombia) [SDNT]

CONSTRUCCIONES E INVERSIONES LTDA., Calle 15 No. 10-52, La Union, Valle, Colombia; NIT # 800154939-3 (Colombia) [SDNT]

CONSTRUCCIONES LA RESERVA S.A., Carrera 105 No. 14-01, Cali, Colombia; NIT # 900100336-3 (Colombia) [SDNT]

CONSTRUCCIONES PROGRESO DEL PUERTO S.A. (a.k.a. CONPUERTO S.A.), Calle 12A No. 26-22, Puerto Tejada, Colombia; NIT # 817000779-2 (Colombia) [SDNT]

CONSTRUCTORA ALTAVISTA INTERNACIONAL S.A. (a.k.a. CONASA S.A.), Calle 77 B No. 57—141, Ofc. 917, Barranquilla, Colombia; NIT # 802019866-4 (Colombia) [SDNT]

CONSTRUCTORA ALTOS DEL RETIRO LTDA., Carrera 7 No. 72-28 of. 301, Bogota, Colombia; Carrera 4 No. 86-88, Bogota, Colombia; Transversal 3 No. 85-10 apt. 401 Interior 1, Bogota, Colombia; NIT # 890329139-8 (Colombia) [SDNT]

CONSTRUCTORA AMERICA S.A., Carrera 63 No. 17-07, Bogota, Colombia; NIT # 830125002-3 (Colombia) [SDNT]

CONSTRUCTORA CENTRAL DEL VALLE LTDA. (a.k.a. C.C.V. LTDA.), Calle 10 No. 44A-26, Cali, Colombia; NIT # 800144098-1 (Colombia) [SDNT]

CONSTRUCTORA DIMISA LTDA., Calle 70N No. 14-31, Cali, Colombia [SDNT]

CONSTRUCTORA E INMOBILIARIA ANDINA S.A., Calle 16 Norte No. 9N-41, Cali, Colombia; NIT # 800155233-7 (Colombia) [SDNT]

CONSTRUCTORA E INMOBILIARIA URVALLE CIA. LTDA., Carrera 9 No. 9-49 of. 902, Cali, Colombia; NIT # 800094652-7 (Colombia) [SDNT]

CONSTRUCTORA EL NOGAL S.A. (f.k.a. CONE S.A.; f.k.a. CONSTRUEXITO S.A.), Avenida 2N No. 7N-55 of. 501, Cali, Colombia; Calle 2A No. 65A-110, apto. 501 B3, Cali, Colombia; NIT # 800051378-9 (Colombia) [SDNT]

CONSTRUCTORA GOPEVA LTDA., Avenida 3A No. 51-15, Cali, Colombia [SDNT]

CONSTRUCTORA IRAKA S.A., Carrera 7 No. 132-82, Bogota, Colombia; NIT # 830111113-1 (Colombia) [SDNT]

CONSTRUCTORA JUANAMBU S.A., Carrera 105 No. 14-01, Cali, Colombia; NIT # 900100334-9 (Colombia) [SDNT]

CONSTRUCTORA LOMA LINDA S.A., Carrera 105 No. 14-01, Cali, Colombia; NIT # 900100191-2 (Colombia) [SDNT]

CONSTRUCTORA PYNZAR LTDA., Avenida 3 No. 21-50 Apt. 800, Cali, Colombia; Avenida 3 Norte No. 21-44, Cali, Colombia; Avenida 3 No. 21-50, Cali, Colombia; NIT # 800240723-8 (Colombia) [SDNT]

CONSTRUCTORA TREMI LTDA., Carrera 1A Oeste No. 68-75, Cali, Colombia [SDNT]

CONSTRUCTORA UMBRIA S.A., Carrera 105 No. 14-01, Cali, Colombia; NIT # 900100194-4 (Colombia) [SDNT]

CONSTRUCTORA UNIVERSAL LTDA., Carrera 50 No. 9B-20 of. 07, Cali, Colombia; Calle 52 No. 28E-30, Cali, Colombia; NIT # 800112051-9 (Colombia) [SDNT]

CONSTRUVIDA S.A., Calle 70N No. 14-31, Cali, Colombia; Avenida 2N No. 7N-55 of. 521, Cali, Colombia; Carrera 68 No. 13B-61 of. 104B, Cali, Colombia; NIT # 800108122-8 (Colombia) [SDNT]

CONSULTORIA DE INTERDIVISAS, S.A. DE C.V., Carretera Aeropuerto 1900, Centro Comercial Otay, Local G-16, Tijuana, Baja California CP 22500, Mexico; R.F.C. CIN-010123-MX9 (Mexico) [SDNTK]

CONSULTORIA DE OCCIDENTE, S.A. DE C.V., Guadalajara, Jalisco, Mexico; Paseo de Ensenada 170, Tijuana, Baja California CP 22200, Mexico [SDNTK]

CONSULTORIA EMPRESARIAL ESPECIALIZADA LTDA., Avenida 2N No. 7N-55 of. 421, Cali, Colombia; NIT # 800109042-1 (Colombia) [SDNT]

CONSULTORIA INTEGRAL Y ASESORIA EMPRESARIAL S.A. (f.k.a. ASECOM S.A.; a.k.a. COINEMP S.A.), Calle 15 Norte No. 6N-34 ofc. 404, Cali, Colombia; NIT # 890326149-8 (Colombia) [SDNT]

CONSULTORIA SANTAFE E.U., Carrera 13A No. 89-38 of. 713, Bogota, Colombia; NIT # 830043033-9 (Colombia) [SDNT]

CONSULTORIAS FINANCIERAS S.A. (a.k.a. COFINANZAS), Carrera 3 No. 12-40 ofc. 1001, Cali, Colombia; NIT # 805017446-6 (Colombia) [SDNT]

CONTACTEL COMUNICACIONES S.A., Calle 5 No. 46-83 local 218, Cali, Colombia; Calle 18 No. 106-98 of. 302, 303, Cali, Colombia; NIT # 805020429-1 (Colombia) [SDNT]

CONTEX, S.A., Panama [CUBA]

CONTINENTE MOVIL Y SERVICIOS S.R.L., Urb. Residencial Santa Rosa, MZ G Lt. 20, Callao, Peru; RUC # 20383848483 (Peru) [SDNTK]

CONTINUE PROFESSIONAL EDUCATION INC. (a.k.a. GULF MOTOR SALES INC.), 811 S. Central Expwy, Ste 210, Richardson, TX 75080; US FEIN 08000068-09 [LIBERIA]

CONTINUITY IRA (CIRA) (a.k.a. CONTINUITY ARMY COUNCIL; a.k.a. CONTINUITY IRISH REPUBLICAN ARMY; a.k.a. REPUBLICAN SINN FEIN), United Kingdom [FTO] [SDGT]

COOMULCOSTA (a.k.a. COOPERATIVA MULTIACTIVA DE LA COSTA COOMULCOSTA LTDA.), Carrera 14 No. 35B Esquina, Barranquilla, Colombia; Carrera 48 No. 76-49, Barranquilla, Colombia; Via 40 No. 71-197 Bodega 504, Barranquilla, Colombia; NIT # 802006273-0 (Colombia) [SDNT]

COOPCREAR (a.k.a. COOPERATIVA DE TRABAJO ASOCIADO DE COLOMBIA), Transversal 29 No. 35A-29, Bogota, Colombia; Avenida 13 No. 78-54, Cali, Colombia; Calle 13 No. 78-54, Cali, Colombia; NIT # 830066040-1 (Colombia) [SDNT]

COOPER, Randolph; DOB 28 Oct 1950; Former Managing Director, Roberts International Airport (individual) [LIBERIA]

COOPERATIVA DE SERVICIO DE TRANSPORTE DE CARGA DE COLOMBIA LTDA. (a.k.a. COOPERATIVA DE SERVICIO DE TRANSPORTE DE CARGA MULTIMODAL DE COLOMIBA LTDA.; a.k.a. COOTRANSMULTI H.H. LTDA.), Calle 30 No. 10-50, Barranquilla, Colombia; Calle 35 No. 36-68, Barranquilla, Colombia; NIT # 802019665-0 (Colombia) [SDNT]

COOPERATIVA MERCANTIL COLOMBIANA COOMERCOL (a.k.a. COOMERCOL), Diagonal 24 Transv. 11-99, Cali, Colombia; Pereira, Colombia; Calle 8 No. 31-11 Local 2, Cali, Colombia; NIT # 805010372-8 (Colombia) [SDNT]

COOPERATIVA MERCANTIL DEL SUR LTDA. (a.k.a. COOMERSUR; a.k.a. COOPMERSUR), Carrera 43 No. 16A-19 La Colina, Pasto, Colombia; NIT # 814002508-1 (Colombia) [SDNT]

COOPERATIVA MULTIACTIVA DE COLOMBIA FOMENTAMOS (a.k.a. FOMENTAMOS), Transversal 29 No. 35A-29, Bogota, Colombia; NIT # 830060914-4 (Colombia) [SDNT]

COOPERATIVA MULTIACTIVA DE COMERC. DROGUISTA Y FARMACEUTICA DROFARCO (a.k.a. DROFARCO), Via Circunvalar, Bodega M-A-3, Barranquilla, Colombia; Metroparque Bodega Mz. 3, Barranquilla, Colombia; Calle 110 No. 6-336, Barranquilla, Colombia; NIT # 802012877-3 (Colombia) [SDNT]

COOPERATIVA MULTIACTIVA DE DISTRIBUCION FARMAVISION LTDA. (a.k.a. FARMAVISION LTDA.), Carrera 24 No. 4-19, Bogota, Colombia; NIT # 830037372-6 (Colombia) [SDNT]

COOPERATIVA MULTIACTIVA DISTRIBUIDORA DE SANTANDER COOPDISAN (a.k.a. COOPDISAN), Calle 52 No. 31-148 of. 201, Bucaramanga, Colombia; Calle 45 No. 9 Occ-04, Bucaramanga, Colombia; Calle 52 No. 31-148, Bucaramanga, Colombia; Carrera 27 No. 65-60 La Victoria, Bucaramanga, Colombia; Carrera 33 No. 108-49, Floridablanca, Colombia; NIT # 804005384-2 (Colombia) [SDNT]

CO-OPERATIVE EXPORT-IMPORT ENTERPRISE (a.k.a. CEIE), 259/263 Bogyoke Aung San Street, Yangon, Burma [BURMA]

COOPIFARMA (a.k.a. COOPERATIVA MULTIACTIVA DE COMERCIALIZACION Y SERVICIOS DE COLOMBIA), Carrera 27 No. 47A-06, Bogota, Colombia; Carrera 13A No. 28-38 of. 215, Bogota, Colombia; Calle 54 No. 22-50, Bucaramanga, Colombia; NIT # 830071338-9 (Colombia) [SDNT]

COPA DE PLATA S.A. DE C.V., Culiacan, Sinaloa, Mexico; R.F.C. CPL9103222F5 (Mexico) [SDNTK]

COPSERVIR LTDA. (a.k.a. COOPERATIVA MULTIACTIVA DE EMPLEADOS DE DISTRIBUIDORES DE DROGAS COPSERVIR LTDA.; f.k.a. DISTRIBUIDORA DE DROGAS LA REBAJA PRINCIPAL S.A.; f.k.a. DISTRIBUIDORA DE DROGAS LA REBAJA S.A.; f.k.a. DROGAS LA REBAJA), Carrera 66A No. 53-47 piso 3, Bogota, Colombia; Calle 18 No. 121-130 Avenida Canasgordas Pance, Cali, Colombia; Calle 10 No. 4-47 piso 19, Cali, Colombia; Carrera 7A No. 14-25 piso 2, Cali, Colombia; Carrera 7 No. 13-132 piso 4, Cali, Colombia; Carrera 10 No. 11-71, Cali, Colombia; Calle 14 No. 6-66, Cali, Colombia; Carrera 99 No. 46A-10 Bdg 6 y 8, Bogota, Colombia; Calle 4 No. 22-24, Bogota, Colombia; NIT # 830011670-3 (Colombia) [SDNT]

COPTRADE COMPANY LIMITED (PHARMACEUTICAL AND CHEMICAL DIVISION), P.O. Box 246, Khartoum, Sudan; Port Sudan, Sudan [SUDAN]

COPTRADE ENG AND AUTOMOBILE SERVICES CO LTD. (f.k.a. KORDOFAN AUTOMOBILE COMPANY), P.O. Box 97, Khartoum, Sudan [SUDAN]

CORBURN 13 FARM, Chegutu, Zimbabwe [ZIMBABWE]

CORIC, Valentin; DOB 23 Jun 1956; POB Citluk, Bosnia-Herzegovina (individual) [BALKANS]

CORONEL VILLAREAL, Ignacio (a.k.a. “NACHO CORONEL”), Manzanillo, Colima, Mexico; DOB 01 Feb 1954; POB Veracruz, Mexico; alt. POB Canelas, Durango, Mexico; citizen Mexico; nationality Mexico (individual) [SDNTK]

CORPORACION ARGENTINA DE INGENIERIA Y ARQUITECTURA, S.A. (a.k.a. COPIA, S.A.), San Martin 323, 4th Floor, Buenos Aires, Argentina [CUBA]

CORPORACION CIMEX S.A. (a.k.a. CIMEX; a.k.a. CIMEX CUBA; a.k.a. COMERCIO INTERIOR, MERCADO EXTERIOR), Edificio Sierra Maestra, Avenida Primera entre 0 y 2, Miramar Playa, Ciudad de la Habana, Cuba; and all other locations worldwide [CUBA]

CORPORACION CIMEX, S.A., Panama [CUBA]

CORPORACION CLUB DEPORTIVO TULUA (a.k.a. CORTULUA), Carrera 26 No. 32-70 B. Salesiano, Tulua, Valle, Colombia; NIT # 800097185-2 (Colombia) [SDNT]

CORPORACION DE ALMACENES POR DEPARTAMENTOS S.A. (a.k.a. C.A.D. S.A.), Diagonal 127A No. 17-34, Bogota, Colombia; NIT # 800173127-0 (Colombia) [SDNT]

CORPORACION DE INVERSIONES EMPRESARIALES S.A., Jr. Bolognesi 125, Oficina 1002, Lima, Peru; RUC # 20503541727 (Peru) [SDNTK]

CORPORACION DEPORTIVA AMERICA (a.k.a. CLUB AMERICA DE CALI; a.k.a. CLUB DEPORTIVO AMERICA), Sede Naranjal, Cali, Colombia; Carrera 56 No. 2-70, Cali, Colombia; Calle 13 Carrera 70, Cali, Colombia; Sede Cascajal, Cali, Colombia; Calle 24N No. 5BN-22, Cali, Colombia; Avenida Guadalupe No. 2-70, Cali, Colombia; NIT # 890305773-4 (Colombia) [SDNT]

CORPORACION HOTELERA DEL CARIBE LIMITADA (a.k.a. APARTAHOTEL TRES CASITAS; a.k.a. “TRES CASITAS”), Avenida Colombia No. 1-60, San Andres, Providencia, Colombia; NIT # 800104679-1 (Colombia) [SDNT]

CORPORACION IBEROAMERICANA DEL COMERCIO (a.k.a. CIDECO), Spain [CUBA]

CORRALES SAN IGNACIO S.P.R. DE R.L. DE C.V., Domicilio en Ejido Ancon de Carros, Saucillo, Chihuahua, Mexico; R.F.C. CSI-000516-2U3 (Mexico) [SDNTK]

CORREA GIRALDO, Ricardo Leon, c/o COOPCREAR, Bogota, Colombia; c/o COOPERATIVA DE TRABAJO ASOCIADO ACTIVAR, Bogota, Colombia; Carrera 1 No. 2-45 Bloque A ap. 33, Cali, Colombia; DOB 27 Oct 1954; Cedula No. 70085655 (Colombia) (individual) [SDNT]

CORREA PULGARIN, Ernesto, c/o AGROPECUARIA LA ROBLEDA S.A., Cali, Colombia; Cedula No. 2510585 (Colombia) (individual) [SDNT]

CORREAL GUZMAN, Gloria Ines, c/o GIAMX LTDA., Bogota, Colombia; Cedula No. 51678272 (Colombia) (individual) [SDNT]

CORREDOR IBAGUE, Jose Maria (a.k.a. “ANGEL ORTIZ”; a.k.a. “BOYACO”; a.k.a. “CARLOS ALBERTO HENAO”; a.k.a. “CHEPE”; a.k.a. “HECTOR JAIME SANCHEZ”; a.k.a. “JOSE ADRIAN RODRIGUEZ BUITRAGO”; a.k.a. “JOSE GILBERTO RODRIGUEZ PEREZ”; a.k.a. “JOSE LEONEL”), Colombia; DOB 17 Dec 1966; POB Santana, Boyaca, Colombia; citizen Colombia; nationality Colombia; Cedula No. 4241983 (Colombia) (individual) [SDNTK]

CORREDOR RUEDA, Jaqueline, Calle 52A No. 31-67, Bogota, Colombia; c/o COPSERVIR LTDA., Bogota, Colombia; c/o CAJA SOLIDARIA, Bogota, Colombia; c/o FARMAVISION LTDA., Bogota, Colombia; c/o MEGAPHARMA LTDA., Bogota, Colombia; Cedula No. 51815763 (Colombia) (individual) [SDNT]

CORTES QUINTERO, Sandra, c/o CONSTRUCCIONES PROGRESO DEL PUERTO S.A., Puerto Tejada, Colombia; c/o UNIDAS S.A., Cali, Colombia; c/o CREDISA S.A., Cali, Colombia; c/o COMPANIA DE FOMENTO MERCANTIL S.A., Cali, Colombia; DOB 21 Jun 1971; POB Cali, Valle, Colombia; Cedula No. 66827003 (Colombia); Passport 66827003 (Colombia) (individual) [SDNT]

CORTES, Polania Raquel, c/o MAPRI DE COLOMBIA LTDA., Bogota, Colombia; DOB 5 Nov 1965; Cedula No. 55150515 (Colombia); Passport 55150515 (Colombia) (individual) [SDNT]

CORYBANTES LTD, New Boudary House, London Road, Sunningdale, Ascot, Berkshire SL5 0DJ, United Kingdom; Middleton House, Titlarks Hill Road, Sunningdale, Ascot, Berkshire SL5 0JB, United Kingdom; Business Registration Document # FC21190 (United Kingdom) [ZIMBABWE]

COSMEPOP (f.k.a. BLAIMAR; f.k.a. CIA. INTERAMERICANA DE COSMETICOS S.A.; f.k.a. COINTERCOS S.A.; a.k.a. COOPERATIVA DE COSMETICOS Y POPULARES COSMEPOP; f.k.a. LABORATORIOS BLAIMAR DE COLOMBIA S.A.; f.k.a. LABORATORIOS BLANCO PHARMA S.A.), A.A. 55538, Bogota, Colombia; Carrera 99 y 100 No. 46A-10, Bodega 4, Bogota, Colombia; Calle 12B No. 27-37/39, Bogota, Colombia; Calle 26 Sur No. 7-30 Este, Bogota, Colombia; Calle 12A No. 27-72, Bogota, Colombia; NIT # 800251322-5 (Colombia) [SDNT]

COTEI, Milan, Italy [CUBA]

COTRINO TRUJILLO, Olga, c/o FARMA XXI LTDA., Neiva, Huila, Colombia; Cedula No. 36183653 (Colombia); Passport 36183653 (Colombia) (individual) [SDNT]

COTTY (vessel) [CUBA]

CPV SISTEMAS GRAFICOS S.L., Rodriguez San Pedro 2, 28015 Madrid, Madrid, Spain; C.I.F. B82201039 (Spain) [SDNT]

CRASESORIAS E.U., Avenida 11 Norte No. 7N-201, Cali, Colombia; NIT # 805016474-8 (Colombia) [SDNT]

CREACIONES DEPORTIVAS WILLINGTON LTDA., Cosmocentro, Local 130, Cali, Colombia; Calle 5 No. 25-65, Cali, Colombia [SDNT]

CREDIREBAJA S.A, Calle 16 No. 100-88, Cali, Colombia; Calle 19 No. 2-29 of. 3001, Cali, Colombia; NIT # 805001030-6 (Colombia) [SDNT]

CREDISA S.A. (f.k.a. COMERCIALIZADORA AUTOMOTRIZ S.A.), Avenida 7 Norte No. 23N-81, Cali, Colombia; Carrera 7D Bis No. 68-58, Cali, Colombia; Avenida 7 Norte No. 23-77, Cali, Colombia; NIT # 800065773-6 (Colombia) [SDNT]

CREDISOL (a.k.a. COOPERATIVA DE AHORRO Y CREDITO PARA EL PROGRESO SOCIAL; a.k.a. COOPERATIVA MULTIACTIVA CREDISOL), Calle 39 Bis A No. 27-16, Bogota, Colombia; Transversal 29 No. 39-92, Bogota, Colombia; NIT # 830033943-3 (Colombia) [SDNT]

CREDIVIDA, Calle 16 No. 100-88, Cali, Colombia; Cedula No. 31919241 (Colombia) [SDNT]

CRETA S.A., Calle 15 No. 10-52, La Union, Valle, Colombia; NIT # 800019962-6 (Colombia) [SDNT]

CRIADERO DE POLLOS EL ROSAL S.A. (f.k.a. INDUSTRIA AVICOLA PALMASECA S.A.), Carretera Central via Aeropuerto Palmaseca, Colombia; Carrera 61 No. 11-58, Cali, Colombia; NIT # 800146749-7 (Colombia) [SDNT]

CRIADERO LA LUISA E.U. (f.k.a. INDUSTRIA AGROPECUARIA SANTA ELENA LTDA.), Avenida 7 Norte No. 23N-81, Cali, Colombia; Avenida 7 Norte No. 23-77, Cali, Colombia; Calle 15 No. 26-400, Cali, Colombia; Jamundi, Valle, Colombia; NIT # 860503330-5 (Colombia) [SDNT]

CRIADERO SANTA GERTRUDIS S.A., Callejon Zapatoca Km. 1 Via Jamundi, Jamundi, Valle, Colombia; NIT # 805014721-3 (Colombia) [SDNT]

CRIOLLO (vessel) [CUBA]

CRUZ REYES, Antonio Pedro, Milan, Italy (individual) [CUBA]

CRUZ, Juan M. de la, Dai-Ichi Bldg. 6th Floor, 10-2 Nihombashi, 2-chome, Chuo-ku, Tokyo 103, Japan; Director, Banco Nacional de Cuba (individual) [CUBA]

CRYMSA—ARGENTINA, S.A., Buenos Aires, Argentina [CUBA]

CUARTES MORALES, Juan Carlos, c/o INVERSIONES Y CONSTRUCCIONES VALLE S.A., Cali, Colombia; DOB 9 Nov 1968; Cedula No. 16757375 (Colombia) (individual) [SDNT]

CUBACANCUN CIGARS AND GIFT SHOPS, Cancun, Mexico [CUBA]

CUBAEXPORT, Spain [CUBA]

CUBAFRUTAS, Spain [CUBA]

CUBAN CIGARS TRADE, Italy [CUBA]

CUBANACAN GROUP (a.k.a. CUBANACAN; a.k.a. EL GRUPO CUBANACAN), Calle 68 e/5ta A, Apartado 16046, Ciudad de La Habana, Cuba [CUBA]

CUBANACAN INTERNATIONAL B.V, Visseringlaan 24, 2288 ER Rijswijk, Zevenhuizen, Netherlands; Registration ID 27134614 (Netherlands) [CUBA]

CUBANACAN U.K. LIMITED, Unit 49 Skylines Village, Limeharbour, Docklands, United Kingdom; Registration ID 2720485 (United Kingdom) [CUBA]

CUBANATUR, Baja California 255, Edificio B. Oficina 103, Condesa 06500, Mexico, D.F., Mexico [CUBA]

CUBATABACO, Spain [CUBA]

CUBILLOS CORREDOR, Manuel Antonio, c/o INTERCONTINENTAL DE AVIACION S.A., Bogota, Colombia; c/o INTERFIAR, Bogota, Colombia; Carrera 69BN No. 43A-70 Apt. 401 Int. 3, Bogota, Colombia; DOB 28 Sep 1948; POB Bogota, Colombia; Cedula No. 19057000 (Colombia); Passport P050296 (Colombia) (individual) [SDNT]

CUBILLOS, Bellanidia, c/o FARMEDIS LTDA., Bogota, Colombia; Cedula No. 36179143 (Colombia) (individual) [SDNT]

CUECA VILLARAGA, Hernan, c/o DROGAS LA REBAJA BOGOTA S.A., Bogota, Colombia; Cedula No. 11352426 (Colombia) (individual) [SDNT]

CUENCA, RAMON CESAR, Panama [CUBA]

CUERO MARTINEZ, Otalvaro, c/o INVHERESA S.A., Cali, Colombia; c/o ALKALA ASOCIADOS S.A., Cali, Colombia; DOB 17 Aug 1955; Cedula No. 16599979 (Colombia) (individual) [SDNT]

CUESTA LEON, Carlos Pompeyo, c/o COLCHONES SUNMOONS LTDA, Bogota, Colombia; DOB 29 Nov 1965; POB Ubala, Cundinamarca, Colombia; citizen Colombia; nationality Colombia; Cedula No. 80375525 (Colombia) (individual) [SDNTK]

CUESTA LEON, Josue (a.k.a. “DON JULIO”; a.k.a. “EL VIEJO”), Colombia; DOB 26 Jan 1970; POB Ubala, Cundinamarca, Colombia; citizen Colombia; nationality Colombia; Cedula No. 97610086 (Colombia) (individual) [SDNTK]

CUEVAS CABRERA, Erminso (a.k.a. “MINCHO”); DOB 16 Sep 1960; POB El Paujil, Caqueta, Colombia; citizen Colombia; nationality Colombia; Cedula No. 96328518 (Colombia) (individual) [SDNTK]

CUJAR DE FORERO, Claudia, c/o BONOMERCAD S.A., Bogota, Colombia; c/o DISTRIBUIDORA AGROPECUARIA COLOMBIANA S.A., Cali, Colombia; Cedula No. 20198740 (Colombia) (individual) [SDNT]

CULMA SUNZ, Bladimir (a.k.a. CULMAN SANZ, Bladimir; a.k.a. “VLADIMIR”), Colombia; DOB 23 Sep 1979; POB El Castillo, Meta, Colombia; citizen Colombia; nationality Colombia; Cedula No. 86068233 (Colombia) (individual) [SDNTK]

CULZAT LUGSIR, Rafael Alberto, c/o INVERSIONES CULZAT GUEVARA Y CIA. S.C.S., Cali, Colombia; c/o CONSTRUCTORA ALTOS DEL RETIRO LTDA., Bogota, Colombia; Transversal 3 No. 86-73, Bogota, Colombia; Calle 7 Oeste No. 2-228, Cali, Colombia; DOB 23 Oct 1940; Cedula No. 14962523 (Colombia); Passport P551220 (Colombia) (individual) [SDNT]

CUMEXINT, S.A., 1649 Adolfo Prieto, Colonia del Valle, Mexico City, Mexico [CUBA]

CURE SABAGH Y CIA. S.C.S., Calle 32 No. 43A-89, Barranquilla, Colombia; NIT # 802000463-6 (Colombia) [SDNT]

CURE SABAGH, Diana Maria, c/o CASTRO CURE Y CIA. S.C.S., Barranquilla, Colombia; c/o CURE SABAGH Y CIA. S.C.S., Barranquilla, Colombia; c/o FUDIA LTDA., Barranquilla, Colombia; c/o CABLES NACIONALES CANAL S.A., Barranquilla, Colombia; DOB 24 Oct 1967; POB Barranquilla, Colombia; Cedula No. 22443685 (Colombia) (individual) [SDNT]

CUREF METAL PROCESSING BV, Boezembolcht 23, Rotterdam, Netherlands [CUBA]

CURREA CORREA, Carlos Alberto (a.k.a. “CUCU”; a.k.a. “LA LLAVERIA”), Calle 24 No. 20-22, Tulua, Valle, Colombia; Spain; citizen Colombia; nationality Colombia; Cedula No. 16347900 (Colombia) (individual) [SDNT]

CUSTOMER NETWORKS S.L., Serrano 166, 28002 Madrid, Madrid, Spain; Ronda Manuel Granero 69, 28043 Madrid, Madrid, Spain; C.I.F. B82998543 (Spain) [SDNT]

DA COSTA, Luis Fernando (a.k.a. BEIRA-MAR, Fernandinho); DOB 4 Jul 1967; POB Rio de Janeiro (individual) [SDNTK]

DABENGWA, Dumiso; DOB 6 Dec 1939; Passport AD000005 (Zimbabwe); Politburo Committee Member (individual) [ZIMBABWE]

DABENGWA, Ijeoma; DOB 27 Oct 1971; Passport AN032426 (Zimbabwe); Child of Dumiso Dabengwa (individual) [ZIMBABWE]

DAGHIR, Ali Ashour, 2 Western Road, Western Green, Thames Ditton, Surrey, United Kingdom (individual) [IRAQ2]

DAGON INTERNATIONAL LIMITED (a.k.a. DAGON INTERNATIONAL; a.k.a. DAGON INTERNATIONAL CONSTRUCTION COMPANY), Dagon Centre, 6th Floor, 262-264 Pyay Road, Myayingone, Sanchaung Township, Yangon, Burma [BURMA] [JADE]

DAGON TIMBER LIMITED (a.k.a. DAGON TIMBER), Dagon Centre, 262-264 Pyay Road, Myaynigone, Yangon, Burma [BURMA]

DAIS (a.k.a. IRAN DAIS); Vessel Registration Identification IMO 8309696 (vessel) [NPWMD]

DALIPI, Tahir; DOB 1958; POB Ilince, Serbia and Montenegro (individual) [BALKANS]

DAMASANE, Abigail; DOB 27 May 1952; Deputy Minister for Women's Affairs, Gender and Community Development (individual) [ZIMBABWE]

DANDY (a.k.a. IRAN DANDY); Vessel Registration Identification IMO 8320157 (vessel) [NPWMD]

DAPPER (a.k.a. IRAN DAPPER); Vessel Registration Identification IMO 8309646 (vessel) [NPWMD]

DARKAZANLI, Mamoun, Uhlenhorsterweg 34 11, 22085, Hamburg, Germany; DOB 4 Aug 1958; POB Aleppo, Syria; Passport 1310636262 (Germany) (individual) [SDGT]

DARRAH, Kaddieyatu (a.k.a. DARA, Kaddieyatu; a.k.a. DARA, Kadiyatu; a.k.a. DARAH, Kadiyatu); Special Assistant to former President of Liberia Charles Taylor (individual) [LIBERIA]

DARRAJI, Kamel (a.k.a. DARRAJI, Kamal Ben Mohamed Ben Ahmed), via Belotti, n. 16, Busto Arsizio, Varese, Italy; DOB 22 Jul 1967; POB Menzel Bouzelfa, Tunisia; nationality Tunisia; Italian Fiscal Code DRRKLB67L22Z352S; alt. Italian Fiscal Code DRRKML67L22Z352Q; Passport L029899 issued 14 Aug 1995 expires 13 Aug 2000 (individual) [SDGT]

DARWISH, Sulayman Khalid (a.k.a. ABU AL-GHADIYA), Syria; DOB 1976; alt. DOB circa 1974; POB Outside Damascus, Syria; nationality Syria; Passport 11012 (Syria); alt. Passport 3936712 (Syria) (individual) [SDGT]

DASTJERDI, Ahmad Vahid (a.k.a. VAHID, Ahmed Dastjerdi); DOB 15 Jan 1954; Diplomatic Passport A0002987 (Iran) (individual) [NPWMD]

DAVALOS TORRES, Jorge, Colombia; DOB 14 Dec 1972; citizen Colombia; Cedula No. 94377215 (Colombia); International FARC Commission Member for Canada (individual) [SDNTK]

DAVILA RAMIREZ, Oscar Julio, c/o DISTRIBUIDORA MIGIL CALI S.A., Cali, Colombia; c/o CREDIREBAJA S.A., Cali, Colombia; c/o PROSALUD Y BIENSTAR S.A., Cali, Colombia; c/o COMERCIALIZADORA INTERTEL S.A., Cali, Colombia; c/o COPSERVIR LTDA., Bogota, Colombia; Cedula No. 16677937 (Colombia) (individual) [SDNT]

DAWOOD IBRAHIM ORGANIZATION (a.k.a. D COMPANY), India; United Arab Emirates; Pakistan [SDNTK]

DAYTONA POOLS, INC., 225 Syracuse Place, Richardson, TX 75081 [LIBERIA]

DAZA QUIROGA, Hugo Carlos, c/o LABORATORIOS GENERICOS VETERINARIOS, Bogota, Colombia; c/o DISTRIBUIDORA DE DROGAS CONDOR LTDA., Bogota, Colombia; c/o LABORATORIOS KRESSFOR DE COLOMBIA S.A., Bogota, Colombia; c/o DISTRIBUIDORA MYRAMIREZ S.A., Bogota, Colombia; DOB 23 Feb 1954; Cedula No. 19236485 (Colombia) (individual) [SDNT]

DAZA RIVERA, Pablo Emilio, c/o DISTRIBUIDORA MYRAMIREZ S.A., Bogota, Colombia; c/o INVERSIONES Y CONSTRUCCIONES ABC S.A., Cali, Colombia; c/o FARMATODO S.A., Bogota, Colombia; c/o RIONAP COMERCIO Y REPRESENTACIONES S.A., Quito, Ecuador; c/o DROGAS LA REBAJA, Cali, Colombia; c/o BLANCO PHARMA S.A., Bogota, Colombia; c/o COLOR 89.5 FM STEREO, Cali, Colombia; c/o LABORATORIOS KRESSFOR, Bogota, Colombia; DOB 9 Mar 1947; Cedula No. 4904545 (Colombia) (individual) [SDNT]

D'CACHE S.A., Calle 25N No. 3AN-39, Cali, Colombia; NIT # 800149284-8 (Colombia) [SDNT]

DE FRANCE, Naomi A., Cubanatur, Baja California 255, Edificio B., Oficina 103, Condesa 06500, Mexico, D.F., Mexico (individual) [CUBA]

DE LA HOZ BULA, Hugo Rafael, c/o COOMULCOSTA, Barranquilla, Colombia; c/o COPSERVIR LTDA., Bogota, Colombia; Cedula No. 8742278 (Colombia) (individual) [SDNT]

DE MARTINI TAMAYO, Sergio Rene (a.k.a. “CANOSO”); DOB 14 Sep 1962; POB Medellin, Colombia; Cedula No. 71622812 (Colombia) (individual) [SDNT]

DE VERA, Pio Abogne (a.k.a. DE VERA Y ABOGNE, Pio; a.k.a. DE VERA, Esmael; a.k.a. DE VERA, Ismael; a.k.a. DE VERA, Ismail; a.k.a. DE VERA, Pio Abagne; a.k.a. DE VERA, Pio Abogue; a.k.a. OBOGNE, Leo M.; a.k.a. “ART, Tito”; a.k.a. “MANEX”), Concepcion, Zaragosa, Nueva Ecija Province, Philippines; DOB 19 Dec 1969; POB Bagac, Bagamanok, Catanduanes Province, Philippines; nationality Philippines (individual) [SDGT]

DECAFARMA S.A., Transversal 29 No. 39-92, Bogota, Colombia; NIT # 800241240-7 (Colombia) [SDNT]

DECOROUS (a.k.a. IRAN DECOROUS); Vessel Registration Identification IMO 8309658 (vessel) [NPWMD]

DEFENSE INDUSTRIES ORGANIZATION (a.k.a. DEFENCE INDUSTRIES ORGANISATION; a.k.a. DIO; a.k.a. SASEMAN SANAJE DEFA; a.k.a. SAZEMANE SANAYE DEFA; a.k.a. “SASADJA”), P.O. Box 19585-777, Pasdaran Street, Entrance of Babaie Highway, Permanent Expo of Defence Industries Organization, Tehran, Iran [NPWMD]

DEGHDEGH, Ahmed (a.k.a. “ABU ABDALLAH”; a.k.a. “AL ILLAH, Abd”); DOB 17 Jan 1967; POB Anser, Jijel, Algeria (individual) [SDGT]

DEHONG THAILONG HOTEL CO., LTD. (a.k.a. DEHONG TAILONG INDUSTRY COMPANY LIMITED; a.k.a. TAI LONG HOTEL; a.k.a. TAI LUNG HOTEL; a.k.a. THAI LONG HOTEL; a.k.a. THAILONG HOTEL), Mang Shih Economic Development Zone, De Hong District, Yunnan Province, China; No. 58, Mangshi Avenue, Luxi City, Yunnan, China [SDNTK]

DEL NORTES CARNES FINAS SAN IGNACIO S.A. DE C.V., Chihuahua, Chihuahua, Mexico [SDNTK]

DEL VASTO CERON, Luis Mario, c/o ADMINISTRADORA DE SERVICIOS VARIOS CALIMA S.A., Cali, Colombia; DOB 26 Jul 1947; Cedula No. 17181655 (Colombia); Passport 17181655 (Colombia) (individual) [SDNT]

DELEGATE (a.k.a. IRAN DELEGATE); Vessel Registration Identification IMO 8320121 (vessel) [NPWMD]

DELGADO ARSENIO, Antonio, Panama (individual) [CUBA]

DELGADO GUTIERREZ, Elias, c/o CONSULTORIA DE INTERDIVISAS, S.A. DE C.V., Tijuana, Baja California, Mexico; c/o CENTRO CAMBIARIO KINO, S.A. DE C.V., Tijuana, Baja California, Mexico; c/o GS PLUS CONSULTORES, S.A. DE C.V., Tijuana, Baja California, Mexico; Calle Ramon Lopez Velarde 36, Colonia Reforma, Tijuana, Baja California CP 22620, Mexico; c/o M Q CONSULTORES, S.A. DE C.V., Tijuana, Baja California, Mexico; DOB 26 Feb 1964; R.F.C. DEGE-640226-3W9 (Mexico) (individual) [SDNTK]

DELGADO GUTIERREZ, Luis Alvaro, c/o TAURA S.A., Cali, Colombia; Cedula No. 16718474 (Colombia) (individual) [SDNT]

DELGADO PRIETO, Roberto, c/o COLPHAR S.A., Bogota, Colombia; Cedula No. 13921914 (Colombia); Passport 13921914 (Colombia) (individual) [SDNT]

DELGADO, Jorge Armando, c/o LABORATORIOS BLANCO PHARMA DE COLOMBIA S.A., Bogota, Colombia; c/o LABORATORIOS KRESSFOR DE COLOMBIA S.A., Bogota, Colombia; c/o FARMATODO S.A., Bogota, Colombia; c/o ALFA PHARMA S.A., Bogota, Colombia; c/o DISTRIBUIDORA MYRAMIREZ S.A., Bogota, Colombia; c/o COPSERVIR LTDA., Bogota, Colombia; c/o LABORATORIOS BLAIMAR DE COLOMBIA S.A., Bogota, Colombia; c/o COSMEPOP, Bogota, Colombia; c/o COINTERCOS S.A., Bogota, Colombia; DOB 4 Aug 1958; Cedula No. 19354318 (Colombia) (individual) [SDNT]

DELIC, Hazim; DOB 13 May 1964; ICTY indictee (individual) [BALKANS]

DELIGHT (a.k.a. IRAN DELIGHT); Vessel Registration Identification IMO 8320133 (vessel) [NPWMD]

DELLOSA, Redendo Cain (a.k.a. AKMAL, Hakid; a.k.a. ALVARADO, Arnulfo; a.k.a. BERUSA, Brandon; a.k.a. DELLOS, Reendo Cain; a.k.a. DELLOSA Y CAIN, Redendo; a.k.a. DELLOSA, Ahmad; a.k.a. DELLOSA, Habil Ahmad; a.k.a. DELLOSA, Habil Akmad; a.k.a. DELLOSA, Redendo Cain Jabil; a.k.a. ILONGGO, Abu; a.k.a. LLONGGO, Abu; a.k.a. MUADZ, Abu), 3111 Ma. Bautista Street, Punta, Santa Ana, Manila, Philippines; DOB 15 May 1972; POB Punta, Santa Ana, Manila, Philippines; nationality Philippines; SSN 33-3208848-3 (Philippines) (individual) [SDGT]

DELOS REYES, Feliciano Semborio, Jr. (a.k.a. ABDILLAH, Abdul; a.k.a. ABDILLAH, Abubakar; a.k.a. ABDILLAH, Ustadz Abubakar; a.k.a. CASTRO, Jorge; a.k.a. DE LOS REYES, Feliciano; a.k.a. DE LOS REYES, Feliciano Abubakar; a.k.a. DELOS REYES Y SEMBERIO, Feleciano; a.k.a. DELOS REYES, Feleciano Semborio; a.k.a. DELOS REYES, Ustadz Abubakar; a.k.a. REYES, Abubakar); DOB 4 Nov 1963; POB Arco, Lamitan, Basilan Province, Philippines; nationality Philippines (individual) [SDGT]

DELVEST HOLDING, S.A. (a.k.a. DELVEST HOLDING COMPANY), Case Postale 236, 10 Bis Rue Du Vieux College 12-11, Geneva, Switzerland [CUBA]

DEMOCRATIC FRONT FOR THE LIBERATION OF PALESTINE—HAWATMEH FACTION (a.k.a. DEMOCRATIC FRONT FOR THE LIBERATION OF PALESTINE; a.k.a. DFLP; a.k.a. RED STAR BATTALIONS; a.k.a. RED STAR FORCES) [SDT]

DENISSENKO, Serguei (a.k.a. DENISENKO, Sergei; a.k.a. DENISSENKO, Sergei), c/o SAN AIR GENERAL TRADING FZE, P.O. Box 2190, Ajman, United Arab Emirates; c/o SAN AIR GENERAL TRADING FZE, P.O. Box 932-20C, Ajman, United Arab Emirates; c/o SAN AIR GENERAL TRADING LLC, 811 S. Central Expwy, Ste 210, Richardson, TX 75080; DOB 1961; Passport 500144635 (Russia) (individual) [LIBERIA]

DEPOSITO POPULAR DE DROGAS S.A., Carrera 6 No. 24-77, Cali, Colombia [SDNT]

DERAKHSHANDEH, AHMAD, c/o BANK SEPAH, No. 33 Hormozan Building, Pirozan St., Sharak Ghods, Tehran, Iran; DOB 11 Aug 1956; POB Iran (individual) [NPWMD]

DERAMCHI, Othman (a.k.a. YOUSSEF, Abou), Via Milanese, 5, 20099 Sesto San Giovanni, Milan, Italy; Piazza Trieste, 11, Mortara, Italy; DOB 7 Jun 1954; POB Tighennif, Algeria; Italian Fiscal Code: DRMTMN54H07Z301T (individual) [SDGT]

DERECHO INTEGRAL Y CIA. LTDA., Calle 22N No. 5A-75 piso 5, Cali, Colombia [SDNT]

DERONJIC, Miroslav; DOB 6 Jun 1945; POB Bratunac, Bosnia-Herzegovina; ICTY indictee (individual) [BALKANS]

DESARROLLO DE PROYECTOS, S.A. (a.k.a. DEPROSA, S.A.), Panama City, Panama [CUBA]

DESARROLLO GEMMA CORPORATION, Calle 52 Bella Vista, Chalet # 17, Panama City, Panama; RUC # 25544701403775 (Panama) [SDNT]

DESARROLLO INDUSTRIAL CUBANO ESPANOL, S.A. (a.k.a. DICESA), Jose Lazaro Caldeano, 6-6, 28016 Madrid, Spain [CUBA]

DESARROLLO INDUSTRIAL CUBANO ESPANOL, S.A. (a.k.a. DICESA), Paseo De La Castellana 157, Madrid, Spain [CUBA]

DESARROLLOS AGROINDUSTRIALES S.A., Tranversal 13A No. 118A-45 Ofc. 301, Bogota, Colombia; NIT # 830000782-2 (Colombia) [SDNT]

DESARROLLOS COMERCIALES E INDUSTRIALES HENAO GONZALEZ Y CIA. S.C.S., Carrera 4A No. 16-04 apt. 303, Cartago, Colombia; NIT # 800160475-2 (Colombia) [SDNT]

DESARROLLOS URBANOS “DESARROLLAR” LTDA. (a.k.a. DESARROLLAR LTDA.), Calle 74 No. 53-30, Barranquilla, Colombia; NIT # 890108104-2 (Colombia) [SDNT]

DESME HURTADO, Maximo Zadi (a.k.a. DESME, Zadi), Cerro Alto De La Posada 58, Los Andes, Chile; c/o SISTEMA DE DISTRIBUCION MUNDIAL S.A.C., Lima, Peru; c/o AVIANDINA S.A.C., Lima, Peru; DOB 21 Aug 1958; LE Number 06367724 (Peru) (individual) [SDNTK]

DEVELOPER (a.k.a. IRAN DEVELOPER); Vessel Registration Identification IMO 8309660 (vessel) [NPWMD]

DEVIA SILVA, Luis Edgar (a.k.a. “RAUL REYES”); DOB 30 Sep 1948; POB La Plata, Huila, Colombia; Cedula No. 14871281 (Colombia) (individual) [SDNTK]

DEVOTEE (a.k.a. IRAN DEVOTEE); Vessel Registration Identification IMO 8309608 (vessel) [NPWMD]

DEVOTIONAL (a.k.a. IRAN DEVOTIONAL); Vessel Registration Identification IMO 8309684 (vessel) [NPWMD]

DHAMAT HOUMET DAAWA SALAFIA (a.k.a. DJAMAAT HOUMAT ED DAAWA ES SALAFIYA; a.k.a. DJAMAAT HOUMAT ED DAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

DHH ENTERPRISES, INC., 811 S. Central Expwy, Ste 210, Richardson, TX 75080 [LIBERIA]

DIAMOND (a.k.a. IRAN DIAMOND); Vessel Registration Identification IMO 8309593 (vessel) [NPWMD]

DIAS DE MENDONCA, Leonardo (a.k.a. DIAS MENDONA, Leonardo; a.k.a. DIAZ MENDONCA, Leonardo); DOB 12 Jan 1963; alt. DOB 1 Dec 1963; alt. DOB 21 Nov 1963; POB Brazil (individual) [SDNTK]

DIAZ GONZALEZ, Rolando, Frankfurt, Germany (individual) [CUBA]

DIAZ HERRERA, Carlos Olimpo, c/o CAMBIOS NASDAQ LTDA, Bogota, Colombia; DOB 07 Feb 1954; POB Pandi, Cundinamarca, Colombia; citizen Colombia; nationality Colombia; Cedula No. 11250581 (Colombia); Passport 11250581 (Colombia) (individual) [SDNTK]

DIAZ MATIZ, Maria Cecilia, c/o LEMOFAR LTDA., Bogota, Colombia; DOB 16 May 1950; Cedula No. 41510904 (Colombia); Passport 41510904 (Colombia) (individual) [SDNT]

DIAZ OREJUELA, Miguel Angel, c/o DIZRIVER Y CIA. S. EN C., Bogota, Colombia; c/o CAMBIOS EURO LTDA, Bogota, Colombia; DOB 15 May 1963; POB Bogota, Colombia; citizen Colombia; nationality Colombia; Cedula No. 17412428 (Colombia); Passport AI481119 (Colombia) (individual) [SDNTK]

DIAZ SANCHEZ, Alberto, c/o INMOBILIARIA U.M.V. S.A., Cali, Colombia; Carrera 66 No. 5-23, Cali, Colombia; c/o CONSTRUCTORA DIMISA LTDA., Cali, Colombia; c/o CONCRETOS CALI S.A., Cali, Colombia; DOB 2 Jan 1956; Cedula No. 16259623 (Colombia) (individual) [SDNT]

DIAZ, Manuel, c/o INMOBILIARIA GALES LTDA, Bogota, Colombia; c/o COMERCIALIZADORA EXPERTA Y CIA. S. EN C., Bogota, Colombia; c/o COMERCIAL DE NEGOCIOS CLARIDAD Y CIA., Bogota, Colombia; DOB 10 Feb 1954; Cedula No. 396358 (Colombia) (individual) [SDNT]

DIAZ, Rosa Isabel, c/o INVHERESA S.A., Cali, Colombia (individual) [SDNT]

DIGNIFIED (a.k.a. IRAN DIGNIFIED); Vessel Registration Identification IMO 8309610 (vessel) [NPWMD]

DIMABE LTDA., Diagonal 127A No. 30-25, Bogota, Colombia; NIT # 800107988-4 (Colombia) [SDNT]

DIODATO DEL GALLO, Marco Marino (a.k.a. RENATO), Bolivia; DOB 28 Jan 1957; POB Italy; citizen Italy; alt. citizen Bolivia; nationality Italy; Passport 072130-A (Italy) (individual) [SDNTK]

DIPLOMAT (a.k.a. IRAN DIPLOMAT); Vessel Registration Identification IMO 8309701 (vessel) [NPWMD]

DIRECCION COMERCIAL Y MARKETING CONSULTORIA EMPRESA UNIPERSONAL (a.k.a. D.C.M. CONSULTORIA E.U.), Calle 12B No. 27-39, Bogota, Colombia; Transversal 4 No. 110A-08, Bogota, Colombia; NIT # 800934781-4 (Colombia) [SDNT]

DISDROGAS LTDA. (f.k.a. RAMIREZ Y CIA. LTDA.), Calle 39 No. 17-42, Neiva, Huila, Colombia; Calle 15 No. 11-34, Pasto, Narino, Colombia; Apartado Aereo 30530, Cali, Colombia; Carrera 38 No. 13-138 Acopi, Yumbo, Valle, Colombia; Carrera 1D Bis. No. 15-55, Neiva, Huila, Colombia; NIT # 800058576-2 (Colombia) [SDNT]

DISMERCOOP (a.k.a. COOPERATIVA MULTIACTIVA DE EMPLEADOS DE SUPERMERCADOS Y AFINES; f.k.a. DISTRIBUIDORA MIGIL BOGOTA LTDA.; f.k.a. DISTRIBUIDORA MIGIL CALI S.A.; f.k.a. DISTRIBUIDORA MIGIL LTDA.; f.k.a. GRACADAL S.A.; f.k.a. MIGIL), Carrera 26 No. 5B-65, Cali, Colombia; Carrera 30 No. 5-12, Cali, Colombia; Calle 5C No. 41-30, Cali, Colombia; NIT # 805003637-5 (Colombia) [SDNT]

DISTRIBUCIONES GLOMIL LTDA. (a.k.a. AUTOSERVICIO CIUDAD JARDIN; a.k.a. AUTOSERVICIO PENON), Carrera 105 No. 15A-53, Cali, Colombia; Avenida Colombia No. 2-45, Cali, Colombia; Carrera 2 Oeste No. 2-54 ap. 201, Cali, Colombia; NIT # 805008233-6 (Colombia) [SDNT]

DISTRIBUIDOR AUTORIZADO TEQUILA 4 REYES, S. DE R.L., Tijuana, Baja California, Mexico [SDNTK]

DISTRIBUIDORA AGROPECUARIA COLOMBIANA S.A. (a.k.a. DIAGROCOL S.A.), Avenida 3 Bis Norte No. 23C-69, Cali, Colombia; NIT # 805011649-7 (Colombia) [SDNT]

DISTRIBUIDORA DE DROGAS CONDOR LTDA. (a.k.a. CONDOR), Calle 68 52-05, Bogota, Colombia; Calle 10 No. 32A-64, Bogota, Colombia [SDNT]

DISTRIBUIDORA DE DROGAS LA REBAJA S.A. (a.k.a. DISTRIBUIDORA DE DROGAS LA REBAJA PRINCIPAL S.A.; a.k.a. DROGAS LA REBAJA), Carrera 7A 14-25 piso 2, Cali, Colombia; Carrera 99 No. 46 A-10 Blg 6 y 8, Bogota, Colombia; Calle 18 121-130, Cali, Colombia; Calle 14 6-66, Cali, Colombia; Carrera 7 13-132 piso 4, Cali, Colombia; Calle 10 No. 4-47 Piso 19, Cali, Colombia; Carrera 10 11-71, Cali, Colombia [SDNT]

DISTRIBUIDORA DE ELEMENTOS PARA LA CONSTRUCCION S.A. (a.k.a. D'ELCON S.A.), Carrera 23D No. 13B-59, Cali, Colombia; NIT # 800117780-2 (Colombia) [SDNT]

DISTRIBUIDORA DE HERMOSILLO GAXIOLA HERMANOS S.A. DE C.V. (a.k.a. MADYVA), Blvd. Luis Encinas 581, Esquina Alberto Truqui, Colonia Pimentel, Hermosillo, Sonora, Mexico; Fco. Eusebio Kino 177-7, Col. 5 de Mayo, Hermosillo, Sonora 83010, Mexico; Guadalajara, Jalisco, Mexico; R.F.C. DHG900717NV3 (Mexico) [SDNTK]

DISTRIBUIDORA DE MEDICAMENTOS DISFOGEN LTDA. (a.k.a. DISFOGEN LTDA.), Carrera 42C No. 22C-36, Bogota, Colombia; Calle 13 No. 27-39 Int. 4, Bogota, Colombia; NIT # 830116941-6 (Colombia) [SDNT]

DISTRIBUIDORA DEL VALLE E.U., Calle, 18 No. 106-98 of. 303, Cali, Colombia; Diag., 23 Tr. 10-99, Cali, Colombia; NIT # 805007212-7 (Colombia) [SDNT]

DISTRIBUIDORA GRAN AUTO S.A. DE C.V., Hermosillo, Sonora, Mexico; R.F.C. DGA960531NUA (Mexico) [SDNTK]

DISTRIBUIDORA IMPERIAL DE BAJA CALIFORNIA, S.A. DE C.V. (a.k.a. DIBC; a.k.a. DISTRIBUIDORA IMPERIAL), Avenida Rio Nazas 10202, Tijuana, Baja California, Mexico; Heroes de Nacozari 3213 Colonia Maya, Culiacan, Sinaloa, Mexico; Ramon Morales No. 732 Colonia El Mirador, Guadalajara, Jalisco, Mexico; Rio Balsas 1579 Los Nogales, Ciudad Juarez, Chihuahua, Mexico; Blvd. Agua Caliente 1381, Colonia Revolucion, Tijuana, Baja California, Mexico; Lerdo de Tejada 1879 Sector Juarez, Guadalajara, Jalisco, Mexico; Luz Savinon 718-C Colonia del Valle, Mexico City, Distrito Federal, Mexico; P.O. Box 434440, San Ysidro, CA 92173; R.F.C. DIB-771110-HQ1 (Mexico) [SDNTK]

DISTRIBUIDORA MIGIL LTDA. (f.k.a. DISTRIBUIDORA MIGIL BOGOTA LTDA.; a.k.a. DISTRIBUIDORA MIGIL CALI S.A.; a.k.a. MIGIL), Carrera 26 5B-65, Cali, Colombia; Calle 5C 41-30, Cali, Colombia; Carrera 30-5-12, Cali, Colombia [SDNT]

DISTRIBUIDORA MYRAMIREZ S.A., Calle 33BN No. 2BN-49 apt. 503A, Cali, Colombia; Carrera 69A No. 49A-49, Bogota, Colombia [SDNT]

DISTRIBUIDORA SANAR DE COLOMBIA S.A., Carrera 3 No. 11-32 of. 939, Cali, Colombia; Carrera 13A No. 89-38, of. 713, Bogota, Colombia; Calle 18 No. 106-98 of. 206, 207, 302 and 303, Cali, Colombia; NIT # 805011728-0 (Colombia) [SDNT]

DISTRIEXPORT COMERCIALIZADORA INTERNACIONAL S.A. (a.k.a. DISTRIEXPORT C.I. S.A.; a.k.a. DISTRIEXPORT S.A.), Carrera 70 No. 54-30, Bogota, Colombia; Carrera 28 No. 11-65 of. 712, Bogota, Colombia; Calle 12B No. 27-40, Int. 4 of., Bogota, Colombia; Carrera 12 No. 71-53 of. 502, Bogota, Colombia; Calle 12B No. 27-39, Bogota, Colombia; NIT # 830047057-3 (Colombia) [SDNT]

DIVINE HOMES (a.k.a. DIVINE HOMES (PVT) LTD), 12 Meredith Drive, Eastlea, Harare, Zimbabwe; 31 Kensington, Highlands, Harare, Zimbabwe; Shop # 6, Hillside Shopping Center, Harare, Zimbabwe [ZIMBABWE]

DIZRIVER Y CIA. S. EN C., Carrera 68B No. 78-24 Unidad 23 Interior 5 Apartamento 402, Bogota, Colombia; NIT # 900013642-1 (Colombia) [SDNTK]

DJERMANE, Kamel (a.k.a. “ADEL”; a.k.a. “BILAL”; a.k.a. “FODHIL”); DOB 1965; POB Oum el Bouaghi, Algeria; nationality Algeria (individual) [SDGT]

DJOGO, Jovan; POB Kalinovik, Bosnia-Herzegovina (individual) [BALKANS]

DJORDA, Samojko; DOB 13 Jun 1959; POB Sarajevo, Bosnia-Herzegovina (individual) [BALKANS]

DJORDJEVIC, Vlastimir (a.k.a. DORDEVIC, Vlastimir); DOB 1948; POB Koznica, Vladicin Han municipality (individual) [BALKANS]

DJOUADI, Yahia (a.k.a. ABU AMAR, Yahia; a.k.a. “ABOU ALAM”; a.k.a. “ABU ALA”); DOB 1 Jan 1967; POB M'Hamid, Sidi Bel Abbas, Algeria (individual) [SDGT]

DJUE, Eugene Ngoran Kouadio; DOB 20 Dec 1969; alt. DOB 1 Jan 1966; POB Akakro, Cote d'Ivoire; Leader of Union for the Total Liberation of Cote d'Ivoire (Union pour la Liberation Totale de la Cote d'Ivoire, UPLTCI) (individual) [COTED]

DOCKRAT, Farhad Ahmed (a.k.a. DOCKRAT, Ahmed; a.k.a. DOCKRAT, Farhaad; a.k.a. DOCKRAT, Farhaad Ahmed; a.k.a. DOCKRAT, Farhad; a.k.a. DOCKRAT, Farhad Ahmad; a.k.a. DOCKRAT, Maulana Farhad; a.k.a. DOCRATE, Farhad; a.k.a. “DOCKRAT, F.”), 386 Swanepoel Street, Erasmia, Pretoria, South Africa; DOB 28 Feb 1959; POB Pretoria, South Africa; nationality South Africa; National ID No. 5902285162089/055 (South Africa); Passport 446333407 (South Africa) expires 26 May 2014 (individual) [SDGT]

DOCKRAT, Junaid Ismail (a.k.a. DOCKRAT, Junaid; a.k.a. DOCRATE, Junaid; a.k.a. “AHMED, DR.”; a.k.a. “DOCKRAT, J. I.”), Johannesburg, South Africa; P.O. Box 42928, Fordsburg 2033, South Africa; 71 Fifth Avenue, Mayfair 2108, South Africa; DOB 16 Mar 1971; National ID No. 7103165178083 (South Africa) (individual) [SDGT]

DOMINGUEZ GARIBELLO, Freddy Orlando (a.k.a. DOMINGUEZ GARIVELLO, Freddy Orlando), c/o INDUSTRIA AVICOLA PALMASECA S.A., Cali, Colombia; DOB 25 Apr 1960; Cedula No. 16659634 (Colombia) (individual) [SDNT]

DOMINGUEZ HERNANDEZ, Fernando Antonio, c/o DISMERCOOP, Cali, Colombia; DOB 7 Aug 1964; Cedula No. 16701778 (Colombia) (individual) [SDNT]

DOMINGUEZ, Carlos, Vinales Tours, Oaxaca 80, Roma, Mexico, D.F., Mexico (individual) [CUBA]

DOMINION INTERNATIONAL, United Kingdom [IRAQ2]

DONO MORALES, Edman Manuel, c/o GS PLUS CONSULTORES, S.A. DE C.V., Tijuana, Baja California, Mexico; Privada Niza 3617 Int. 2, Colonia Playas de Tijuana, Tijuana, Baja California, Mexico; c/o GRUPO GAMAL, S.A. DE C.V., Guadalajara, Jalisco, Mexico; DOB 20 Jul 1966; POB Guadalajara, Jalisco, Mexico (individual) [SDNTK]

DOOLEY, Michael P., Panama (individual) [CUBA]

DOSEN, Damir; DOB 7 Apr 1967; POB Cirkin Polje, Bosnia-Herzegovina; ICTY indictee (individual) [BALKANS]

DOXA S.A., Carrera 16 No. 13-31, La Union, Valle, Colombia; NIT # 821002801-0 (Colombia) [SDNT]

DRAGADOS Y MUELLES GAVIOTA LTDA., Km. 5 Carretera Simon Bolivar, Buenaventura, Colombia; NIT # 800173053-4 (Colombia) [SDNT]

DREAMLAND (a.k.a. IRAN DREAMLAND); Vessel Registration Identification IMO 8320183 (vessel) [NPWMD]

DRIFTER (a.k.a. IRAN DRIFTER); Vessel Registration Identification IMO 8320169 (vessel) [NPWMD]

DRISSI, Noureddine Ben Ali Ben Belkassem, Via Plebiscito 3, Cremona, Italy; DOB 30 Apr 1969; alt. DOB 30 Apr 1964; POB Tunisi, Tunisia; nationality Tunisia; Passport L851940 issued 9 Sep 1998 expires 8 Sep 2003; arrested 1 Apr 2003 (individual) [SDGT]

DROCARD S.A., Transversal 29 No. 39-92, Bogota, Colombia; Calle 39 Bis A No. 27-16, Bogota, Colombia; NIT # 830059716-0 (Colombia) [SDNT]

DROGAS LA REBAJA BARRANQUILLA S.A., Local Cerete, Barranquilla, Colombia; Local de Riohacha, Barranquilla, Colombia; Avenida Pedro Heredia, Barranquilla, Colombia [SDNT]

DROGAS LA REBAJA BUCARAMANGA S.A., Local No. 7, Cucuta, Colombia; Local No. 9, Cucuta, Colombia; Local 201, Valledupar, Colombia; Local No. 1, Cucuta, Colombia; Local No. 6, Cucuta, Colombia; Local No. 1, Bucaramanga, Colombia; Local No. 2, Cucuta, Colombia [SDNT]

DROGAS LA REBAJA CALI S.A., Barrio Siloe, Cali, Colombia; Santander de Quilichao, Cali, Colombia; Local del Poblado No. 17, Cali, Colombia; Calle 3 #4-02 B/Ventura, Cali, Colombia; Local Comuneros No. 20, Cali, Colombia; Calle 13 #6-85, Cali, Colombia [SDNT]

DROGAS LA REBAJA NEIVA S.A., Neiva, Colombia [SDNT]

DROGAS LA REBAJA PASTO S.A., Calle 18 #26-40, Pasto, Colombia; Local No. 6, Pasto, Colombia; Local No. 13, Puerto Asis, Colombia [SDNT]

DROGAS LA REBAJA PEREIRA S.A., Local Cajamarca, Pereira, Colombia; Local Dos Quebradas, Pereira, Colombia; Local Santa Rosa de Cabal, Pereira, Colombia; Local la Virginia, Pereira, Colombia [SDNT]

DROMARCA Y CIA. S.C.S., Calle 12B No. 28-58, Bogota, Colombia; Calle 39 Bis A No. 27-169, Bogota, Colombia; NIT # 800225556-1 (Colombia) [SDNT]

DROUKDEL, Abdelmalek (a.k.a. ABD AL-WADOUB, Abdou Moussa; a.k.a. ABD EL OUADOUD, Abou Mossab; a.k.a. ABD EL OUADOUD, Abou Mousab; a.k.a. ABD EL-OUADOUD, Abi Mossaab; a.k.a. ABD-AL-WADUD, Abu-Mus'ab; a.k.a. ABDEL EL-WADOUD, Abu Mossaab; a.k.a. ABDEL WADOUD, Abou Mossab; a.k.a. ABDEL WADOUD, Abou Moussaab; a.k.a. ABDELMALEK, Drokdal; a.k.a. ABDELMALEK, Droukdal; a.k.a. ABDELMALEK, Droukdel; a.k.a. ABDELOUADODUD, Abu Mussaab; a.k.a. ABDELOUADOUD, Abi Mousaab; a.k.a. ABDELOUADOUD, Abou Mossaab; a.k.a. ABDELOUADOUD, Abou Mossab; a.k.a. ABDELOUADOUD, Abou Mousaab; a.k.a. ABDELOUADOUD, Abou Moussab; a.k.a. ABDELOUADOUD, Abou Musab; a.k.a. ABDELOUADOUD, Abu Mossab; a.k.a. ABDELOUADOUD, Abu Mus'ab; a.k.a. ABDELOUADOUDE, Abou Moussaab; a.k.a. ABDELOUDOUD, Abu Musab; a.k.a. ABDELWADOUD, Abou Mossab; a.k.a. ABKELWADOUD, Abou Mosaab; a.k.a. ABOU MOSSAAB, Abdelwadoud; a.k.a. ABOU MOSSAAH, Abdelouadoud; a.k.a. ABOU MOSSAB, Abdelouadoud; a.k.a. ABU MUSAB, Abdelwadoud; a.k.a. DARDAKIL, Abdelmalek; a.k.a. DERDOUKAL, Abdelmalek; a.k.a. DEROUDEL, Abdel Malek; a.k.a. DOURKDAL, Abdelmalek; a.k.a. DRIDQAL, Abd-al-Malik; a.k.a. DROKDAL, 'Abd-al-Malik; a.k.a. DROKDAL, Abdelmalek; a.k.a. DROUGDEL, Abdelmalek; a.k.a. DROUKADAL, Abdelmalek; a.k.a. DROUKBEL, Abdelmalek; a.k.a. DROUKDAL, Abdelmalek; a.k.a. DROUKDAL, Abdelmalik; a.k.a. DROUKDEL, Abdel Malek; a.k.a. DROUKDEL, Abdelouadour; a.k.a. DRUKDAL, 'Abd al-Malik; a.k.a. DURIKDAL, 'Abd al-Malik; a.k.a. OUDOUD, Abu Musab; a.k.a. “ABDELWADOUD, Abou”), Meftah, Algeria; DOB 20 Apr 1970; POB Meftah, Algeria; alt. POB Khemis El Khechna, Algeria; nationality Algeria (individual) [SDGT]

DUARTE FAJARDO, Maria del Carmen, c/o MAGEN LTDA., Bogota, Colombia; DOB 12 Oct 1975; Cedula No. 63436645 (Colombia); Passport 63436645 (Colombia) (individual) [SDNT]

DUARTE MUNOZ, Roque (a.k.a. CAMPOS ARREDONDO, Humberto), c/o COMPANIA MINERA DEL RIO CIANURY S.A. DE C.V., Culiacan, Sinaloa, Mexico; DOB 09 Dec 1960; POB Mexico (individual) [SDNTK]

DUBAI TRADING COMPANY, 44-45, Royal Shopping Plaza, Industrial Estate, Hayatabad, Peshawar, Pakistan; 53 Royal Shopping Plaza, Industrial Estate, Hayatabad, Peshawar, Pakistan [SDNTK]

DUIKER FLATS FARM, Zimbabwe [ZIMBABWE]

DUMONT, Lionel (a.k.a. BROUGERE, Jacques; a.k.a. BRUGERE, Jacques; a.k.a. “ABOU HAMZA”; a.k.a. “ABOU HANZA”; a.k.a. “ABU KHAMZA”; a.k.a. “BILAL”; a.k.a. “BILAL KUMKAL”; a.k.a. “HAMZA”; a.k.a. “KOUMAL”; a.k.a. “LAJONEL DIMON”); DOB 21 Jan 1971; alt. DOB 29 Jan 1975; alt. DOB 19 Jan 1971; POB Roubaix, France (individual) [SDGT]

DUNBAR, Belle Y.; DOB 27 OCT 1967; alt. DOB 27 OCT 1963; Former Managing Director, Liberian Petroleum Refining Company (individual) [LIBERIA]

DUNBAR, Jenkins; DOB 10 JAN 1947; Former Minister of Lands, Mines, Energy of Liberia (individual) [LIBERIA]

DUQUE BOTERO, Jorge Alirio, Calle 5 No. 5A-49, Buenaventura, Colombia; c/o INDUSTRIA DE PESCA SOBRE EL PACIFICO S.A., Buenaventura, Colombia; DOB 4 Jun 1949; Cedula No. 6160843 (Colombia) (individual) [SDNT]

DUQUE CORREA, Francisco Javier, c/o CORPORACION DE ALMACENES POR DEPARTAMENTOS S.A., Bogota, Colombia; c/o ALMACAES S.A., Bogota, Colombia; c/o G.L.G. S.A., Bogota, Colombia; c/o RAMAL S.A., Bogota, Colombia; DOB 04 Apr 1948; POB Medellin, Colombia; Cedula No. 8292581 (Colombia); Passport P009253 (Colombia) (individual) [SDNT]

DUQUE GAVIRIA, Ivan Roberto (a.k.a. “ERNESTO BAEZ”); DOB 9 May 1955; POB Aguadas, Caldas, Colombia; Cedula No. 10241940 (Colombia) (individual) [SDNTK]

DUQUE JARAMILLO, German, c/o APOYOS DIAGNOSTICOS S.A., Tulua, Valle, Colombia; DOB 20 Apr 1951; POB Tulua, Valle, Colombia; citizen Colombia; nationality Colombia; Cedula No. 14972076 (Colombia) (individual) [SDNT]

DUQUE MARTINEZ, Diego Fernando, c/o GENERICOS ESPECIALES S.A., Bogota, Colombia; DOB 31 Jan 1972; Cedula No. 8191760 (Colombia); Passport 8191760 (Colombia) (individual) [SDNT]

DUQUE MARTINEZ, Maria Consuelo (a.k.a. DUQUE DE GIRALDO, Maria Consuelo), c/o LABORATORIOS KRESSFOR DE COLOMBIA S.A., Bogota, Colombia; c/o FARMACOOP, Bogota, Colombia; DOB 19 May 1955; Cedula No. 41716296 (Colombia) (individual) [SDNT]

DUQUE, Carlos Jaen, Panama (individual) [CUBA]

DURAN DAZA, Diego, c/o COPSERVIR LTDA., Bogota, Colombia; c/o PROSALUD S.A. Y BIENESTAR S.A., Cali, Colombia; DOB 25 Oct 1958; Cedula No. 16260356 (Colombia); Passport 16260356 (Colombia) (individual) [SDNT]

DURAN RAMIREZ, Pompilio, c/o AGRICOLA DOIMA DEL NORTE DEL VALLE LTDA., Cartago, Valle, Colombia; c/o GANADERIAS BILBAO LTDA., Cartago, Valle, Colombia; c/o INMOBILIARIA EL ESCORIAL LTDA., Cartago, Valle, Colombia; c/o INMOBILIARIA PASADENA LTDA., Cartago, Valle, Colombia; c/o GANADERIA EL VERGEL LTDA., Cartago, Valle, Colombia; c/o ORGANIZACION LUIS HERNANDO GOMEZ BUSTAMANTE Y CIA. S.C.S., Cartago, Valle, Colombia; c/o INMOBILIARIA LINARES LTDA., Cartago, Valle, Colombia; Carrera 4 No. 12-20 of. 206, Cartago, Valle, Colombia; c/o VISCAYA LTDA., Cartago, Valle, Colombia; Cedula No. 2534945 (Colombia); Passport 2534945 (Colombia) (individual) [SDNT]

DURAND PROPERTIES LIMITED, Haven Court, 5 Library Ramp, Gibraltar, United Kingdom [IRAQ2]

DURATEX S.A. (f.k.a. INVERSIONES JEDA S.A.), Calle 116 No. 19-22, Bogota, Colombia; Carrera 63 No. 17-07, Bogota, Colombia; Avenida 19 No. 95-13 Local 1, Bogota, Colombia; NIT # 800054668-3 (Colombia) [SDNT]

DURGACO, London, United Kingdom [CUBA]

DURGUTI, Safet (a.k.a. “ABU-SUMAYA”); DOB 10 May 1967; POB Orahovac, Kosovo; Bosnian Personal ID No. 1005967953038; Passport 1144602 (Bosnia and Herzegovina) (individual) [SDGT]

DUTY FREE SHOPS CORPORATION, P.O. Box 1789, Khartoum, Sudan [SUDAN]

DUZCAN, Ceylan, United Arab Emirates; DOB 01 Mar 1975; POB Savsat, Turkey; citizen Turkey; Driver's License No. 11550 (Turkey); Passport 315408 (Turkey) (individual) [SDNTK]

DWIKARNA, Agus; DOB 11 Aug 1964; POB Makassar, South Sulawesi, Indonesia; nationality Indonesia; currently incarcerated in the Philippines (individual) [SDGT]

DYNAMIZE (a.k.a. IRAN DYNAMIZE); Vessel Registration Identification IMO 8309634 (vessel) [NPWMD]

EAGLE COMMUNICATION BROKERS INC., Panama City, Panama [SDNT]

EAST ISLAND SHIPPING CO. LTD., c/o EMPRESA DE NAVEGACION MAMBISA, Apartado 543, San Ignacio 104, Havana, Cuba [CUBA]

EAST ISLANDS (vessel) [CUBA]

EASTERN TURKISTAN ISLAMIC MOVEMENT (a.k.a. EASTERN TURKISTAN ISLAMIC PARTY; a.k.a. ETIM; a.k.a. ETIP) [SDGT]

ECHEBERRIA SIMARRO, Leire; DOB 20 Dec 1977; POB Basauri (Vizcaya Province), Spain; D.N.I. 45.625.646; member ETA (individual) [SDGT]

ECHEGARAY ACHIRICA, Alfonso; DOB 10 Jan 1958; POB Plencia (Vizcaya Province), Spain; D.N.I. 16.027.051; member ETA (individual) [SDGT]

ECHEVERRI, German, Panama (individual) [CUBA]

ECHEVERRY HERRERA, Hernando (a.k.a. ECHEVERRI HERRERA, Hernando), c/o INDUSTRIA DE PESCA SOBRE EL PACIFICO S.A., Buenaventura, Colombia; Cedula No. 1625525 (Colombia) (individual) [SDNT]

ECHEVERRY TRUJILLO, Oscar Alberto, c/o M.O.C. ECHEVERRY HERMANOS LTDA., Cali, Colombia; c/o COLOR 89.5 FM STEREO, Cali, Colombia; Avenida 4N No. 17-23 piso 1, Cali, Colombia; Calle 43N No. 4-05, Cali, Colombia; DOB 21 Oct 1964; Cedula No. 16272989 (Colombia) (individual) [SDNT]

ECHO DELTA HOLDINGS LTD, Newboudary House, London Road, Sunningdale, Ascot, Berkshire SL5 0DJ, United Kingdom; Thetford Farm, P.O. Box HP86, Mount Pleasant, Harare, Zimbabwe; Hurst Grove, Sandford Lane, Hurst, Reading, Berkshire RG10 0SQ, United Kingdom [ZIMBABWE]

ECIM, Ljuban; DOB 6 Jan 1964; POB Sviljanac, Bosnia-Herzegovina; National ID No. 601964100083 (Bosnia and Herzegovina) (individual) [BALKANS]

EDBI EXCHANGE COMPANY, Tehran, Iran [NPWMD]

EDBI STOCK BROKERAGE COMPANY, Tehran, Iran [NPWMD]

EDICIONES CUBANAS, Spain [CUBA]

EDIFICACIONES DEL CARIBE LTDA. (a.k.a. EDIFICAR), Calle 74 No. 53-30, Barranquilla, Colombia; NIT # 890108103-5 (Colombia) [SDNT]

EDITORA TRANSPARENCIA S.A., Jr. Bolognesi 125, Dpto. 301, Lima, Peru; RUC # 20508146885 (Peru) [SDNTK]

EDYJU, S.A., Panama [CUBA]

EGGLETON, Wilfred, Baja California 255, Edificio B., Oficina 103, Condesa 06500, Mexico, D.F., Mexico; Director General, Cubanatur (individual) [CUBA]

EIRIN FARM, Marondera, Zimbabwe [ZIMBABWE]

EL AYASHI, Radi Abd El Samie Abou El Yazid (a.k.a. “MERA'I”), Via Cilea 40, Milan, Italy; DOB 2 Jan 1972; POB El Gharbia, Egypt; nationality Egypt; arrested 31 Mar 2003 (individual) [SDGT]

EL BOUHALI, Ahmed (a.k.a. ABU KATADA), vicolo S. Rocco, n. 10—Casalbuttano, Cremona, Italy; DOB 31 May 1963; POB Sidi Kacem, Morocco; nationality Morocco; Italian Fiscal Code LBHHMD63E31Z330M (individual) [SDGT]

EL GEZIRA AUTOMOBILE COMPANY (a.k.a. GEZIRA AUTOMOBILE COMPANY), P.O. Box 232, Khartoum, Sudan [SUDAN]

EL HABHAB, Redouane (a.k.a. “ABDELRAHMAN”), Iltisstrasse 58, Kiel 24143, Germany; DOB 20 Dec 1969; POB Casablanca, Morocco; nationality Germany; National ID No. 1007850441 (Germany) issued 27 Mar 2001 expires 26 Mar 2011; Passport 1005552350 (Germany) issued 27 Mar 2001 expires 26 Mar 2011; currently incarcerated in Lubeck, Germany (individual) [SDGT]

EL HADI, Mustapha Nasri Ben Abdul Kader Ait; DOB 5 Mar 1962; POB Tunis, Tunisia; nationality Algeria; alt. nationality Germany (individual) [SDGT]

EL HASSAN, Gaffar Mohmed (a.k.a. “EL HASSAN, Gaffar Mohamed”); DOB 24 Jun 1952; POB Khartoum, Sudan; Major General for the Sudan Armed Forces (individual) [DARFUR]

EL HEIT, Ali (a.k.a. KAMEL, Mohamed; a.k.a. “ALI DI ROMA”), Via D. Fringuello, 20, Rome, Italy; Milan, Italy; DOB 20 Mar 1970; alt. DOB 30 Jan 1971; POB Rouba, Algeria (individual) [SDGT]

EL MAHFOUDI, Mohamed, via Puglia, n. 22, Gallarate, Varese, Italy; DOB 24 Sep 1964; POB Agadir, Morocco; Italian Fiscal Code LMHMMD64P24Z330F; Residence, Agadir, Morocco (individual) [SDGT]

EL MOTASSADEQ, Mounir, Goschenstasse 13, Hamburg 21073, Germany; DOB 3 Apr 1974; POB Marrakesh, Morocco; nationality Morocco (individual) [SDGT]

EL NILEIN BANK (n.k.a. EL NILEIN INDUSTRIAL DEVELOPMENT BANK (SUDAN); n.k.a. EL NILEIN INDUSTRIAL DEVELOPMENT BANK GROUP; n.k.a. NILEIN INDUSTRIAL DEVELOPMENT BANK (SUDAN)), Parliament Street, P.O. Box 466, Khartoum, Sudan; P.O. Box 6013, Abu Dhabi City, United Arab Emirates; P.O. Box 466/1722, United Nations Square, Khartoum, Sudan [SUDAN]

EL TAKA AUTOMOBILE COMPANY (a.k.a. TAKA AUTOMOBILE COMPANY), P.O. Box 221, Khartoum, Sudan [SUDAN]

EL-AICH, Dhou (a.k.a. “ABDEL HAK”); DOB 5 Aug 1964; POB Debila, Algeria (individual) [SDGT]

ELCORO AYASTUY, Paulo; DOB 22 Oct 1973; POB Vergara, Guipuzcoa Province, Spain; D.N.I. 15.394.062 (Spain); Member ETA (individual) [SDGT]

ELECTRONICS INSTITUTE, P.O. Box 4470, Damascus, Syria [NPWMD]

ELEHSSAN (a.k.a. AL-AHSAN CHARITABLE ORGANIZATION; a.k.a. AL-BAR AND AL-IHSAN SOCIETIES; a.k.a. AL-BAR AND AL-IHSAN SOCIETY; a.k.a. AL-BIR AND AL-IHSAN ORGANIZATION; a.k.a. AL-BIRR WA AL-IHSAN CHARITY ASSOCIATION; a.k.a. AL-BIRR WA AL-IHSAN WA AL-NAQA; a.k.a. AL-IHSAN CHARITABLE SOCIETY; a.k.a. BIR WA ELEHSSAN SOCIETY; a.k.a. BIRR AND ELEHSSAN SOCIETY; a.k.a. ELEHSSAN SOCIETY; a.k.a. ELEHSSAN SOCIETY AND BIRR; a.k.a. ELEHSSAN SOCIETY WA BIRR; a.k.a. IHSAN CHARITY; a.k.a. JAMI'A AL-AHSAN AL-KHAYRIYYAH; a.k.a. THE BENEVOLENT CHARITABLE ORGANIZATION), Bethlehem, West Bank, Palestinian; AL-MUZANNAR ST, AL-NASIR AREA, Gaza City, Gaza, Palestinian; Lebanon; Ramallah, West Bank, Palestinian; Tulkarm, West Bank, Palestinian; P.O. BOX 398, Hebron, West Bank, Palestinian; Jenin, West Bank, Palestinian [SDGT]

ELEVENTH OCEAN; Vessel Registration Identification IMO 9209324 (vessel) [NPWMD]

EL-HOORIE, Ali Saed Bin Ali (a.k.a. AL-HOURI, Ali Saed Bin Ali; a.k.a. EL-HOURI, Ali Saed Bin Ali); DOB 10 Jul 1965; alt. DOB 11 Jul 1965; POB El Dibabiya, Saudi Arabia; citizen Saudi Arabia (individual) [SDGT]

ELIZABETH OVERSEAS INC., Panama City, Panama; C.R. No. 194798/21722 (Panama); RUC # 2172202194798 (Panama) [SDNT]

ELMABRUK, Maftah Mohamed (a.k.a. AL MABROOK, Muftah; a.k.a. AL-FATHALI, Al-Mabruk; a.k.a. AL-FATHALI, Al-Mabruk Muftah Muhammad; a.k.a. EL MABRUK, Muftah; a.k.a. EL MOBRUK, Maftah; a.k.a. ELMABRUK, Mustah; a.k.a. MAFTAH, Elmobruk; a.k.a. “AL HAK, Al Haj Abd”; a.k.a. “AL HAQQ, Al Hajj Abd”; a.k.a. “AL-HAQ, Haj 'Abd”; a.k.a. “AL-HAQQ, Al-Hajj 'Abd”), undetermined; DOB 1 May 1950; POB Libya; nationality Libya (individual) [SDGT]

ELOSTA, Abdelrazag Elsharif (a.k.a. ABU MU'AWIYA; a.k.a. AL USTA, Abdelrazag Elsharif; a.k.a. AL-MULAY, 'Abd; a.k.a. AL-USTA, 'Abd Al-Razzaq Al-Sharif; a.k.a. SHARIF, 'Abd al-Razzaq), undetermined; DOB 20 Jun 1963; POB SOGUMA, LIBYA; nationality United Kingdom (individual) [SDGT]

ELSHANI, Gafur; DOB 29 Mar 1958; POB Suva Reka, Serbia and Montenegro (individual) [BALKANS]

EMERALD ISLANDS (vessel) [CUBA]

EMIRATES AND SUDAN INVESTMENT COMPANY LIMITED, Port Sudan, Sudan; P.O. Box 7036, Khartoum, Sudan [SUDAN]

EMPRESA CUBANA DE AVIACION (a.k.a. CUBANA AIRLINES), Frankfurter TOR 8-A, Berlin, Germany [CUBA]

EMPRESA CUBANA DE AVIACION (a.k.a. CUBANA AIRLINES), Calle 29 y Avda Justo Arosemena, Panama City, Panama [CUBA]

EMPRESA CUBANA DE AVIACION (a.k.a. CUBANA AIRLINES), Grantley Adams Airport, Christ Church, Barbados [CUBA]

EMPRESA CUBANA DE AVIACION (a.k.a. CUBANA AIRLINES), Corrientes 545 Primer Piso, Buenos Aires, Argentina [CUBA]

EMPRESA CUBANA DE AVIACION (a.k.a. CUBANA AIRLINES), 24 Rue Du Quatre Septembre, Paris, France [CUBA]

EMPRESA CUBANA DE AVIACION (a.k.a. CUBANA AIRLINES), Belas Airport, Luanda, Angola [CUBA]

EMPRESA CUBANA DE AVIACION (a.k.a. CUBANA AIRLINES), Dobrininskaya No. 7, Sec 5, Moscow, Russia [CUBA]

EMPRESA CUBANA DE AVIACION (a.k.a. CUBANA AIRLINES), Norman Manley International Airport, Kingston, Jamaica [CUBA]

EMPRESA CUBANA DE AVIACION (a.k.a. CUBANA AIRLINES), 1 Place Ville Marie, Suite 3431, Montreal, Canada [CUBA]

EMPRESA CUBANA DE AVIACION (a.k.a. CUBANA AIRLINES), Parizska 17, Prague, Czech Republic [CUBA]

EMPRESA CUBANA DE AVIACION (a.k.a. CUBANA AIRLINES), 32 Main Street, Georgetown, Guyana [CUBA]

EMPRESA CUBANA DE AVIACION (a.k.a. CUBANA AIRLINES), Piarco Airport, Port au Prince, Haiti [CUBA]

EMPRESA CUBANA DE AVIACION (a.k.a. CUBANA AIRLINES), c/o Anglo-Caribbean Shipping Co. Ltd., Ibex House, The Minories, London EC3N 1DY, United Kingdom [CUBA]

EMPRESA CUBANA DE AVIACION (a.k.a. CUBANA AIRLINES), Melchor Ocampo 469, 5DF Mexico City, Mexico [CUBA]

EMPRESA CUBANA DE AVIACION (a.k.a. CUBANA AIRLINES), Madrid, Spain [CUBA]

EMPRESA CUBANA DE AVIACION (a.k.a. CUBANA AIRLINES), Paseo de la Republica 126, Lima, Peru [CUBA]

EMPRESA CUBANA DE PESCADOS Y MARISCOS (a.k.a. CARIBBEAN EXPORT ENTERPRISE; a.k.a. CARIBEX), Paris, France [CUBA]

EMPRESA CUBANA DE PESCADOS Y MARISCOS (a.k.a. CARIBBEAN EXPORT ENTERPRISE; a.k.a. CARIBEX), Madrid, Spain [CUBA]

EMPRESA CUBANA DE PESCADOS Y MARISCOS (a.k.a. CARIBBEAN EXPORT ENTERPRISE; a.k.a. CARIBEX), Tokyo, Japan [CUBA]

EMPRESA CUBANA DE PESCADOS Y MARISCOS (a.k.a. CARIBBEAN EXPORT ENTERPRISE; a.k.a. CARIBEX), Cologne, Germany [CUBA]

EMPRESA CUBANA DE PESCADOS Y MARISCOS (a.k.a. CARIBBEAN EXPORT ENTERPRISE; a.k.a. CARIBEX), Downsview, Ontario, Canada [CUBA]

EMPRESA CUBANA DE PESCADOS Y MARISCOS (a.k.a. CARIBBEAN EXPORT ENTERPRISE; a.k.a. CARIBEX), Milan, Italy [CUBA]

EMPRESA CUBANA DE PESCADOS Y MARISCOS (a.k.a. CARIBBEAN EXPORT ENTERPRISE; a.k.a. CARIBEX), Moscow, Russia [CUBA]

EMPRESA DE TRANSPORTES CHULUCANAS 2000 S.A., Jr. Augusto Gonzales, Olaechea 1311, Urb. Elio, Lima, Peru; RUC # 20458820989 (Peru) [SDNTK]

EMPRESA DE TURISMO NACIONAL Y INTERNACIONAL (a.k.a. CUBATUR), Buenos Aires, Argentina [CUBA]

EMPRESA EDITORA CONTINENTE PRESS S.A., Avenida Javier Prado, Oeste 640, Lima, Peru; RUC # 20381427391 (Peru) [SDNTK]

ENDSHIRE EXPORT MARKETING, United Kingdom [IRAQ2]

ENGINEERING EQUIPMENT COMPANY, C/O ENGINEERING EQUIPMENT CORPORATION, P.O. Box 97, Khartoum, Sudan [SUDAN]

ENGINEERING EQUIPMENT CORPORATION, P.O. Box 97, Khartoum, Sudan [SUDAN]

ENSAMBLADORA COLOMBIANA AUTOMOTRIZ S.A. (a.k.a. E.C.A. S.A.), Carrera 39 No. 43-75, Barranquilla, Colombia; NIT # 817000791-1 (Colombia) [SDNT]

ENTREGA DE CORRESPONDENCIA OPORTUNA, S.A. DE C.V., Madero 941 21 A, Entre Carrillo Puerto y Diaz Miron, Zona Central, Tijuana, Baja California, Mexico; R.F.C. ECO-990920-7H6 (Mexico) [SDNTK]

EPAMAC SHIPPING CO. LTD., c/o EMPRESA DE NAVEGACION MAMBISA, Apartado 543, San Ignacio 104, Havana, Cuba [CUBA]

ES SAYED, Abdelkader Mahmoud (a.k.a. ES SAYED, Kader), Via del Fosso di Centocelle n.66, Roma, Italy; DOB 26 Dec 1962; POB Egypt; Italian Fiscal Code SSYBLK62T26Z336L (individual) [SDGT]

ESCALONA, Victor Julio, c/o C A V J CORPORATION LTDA., Bogota, Colombia; c/o VOL PHARMACYA LTDA., Cucuta, Colombia; c/o C.A. V.J. CORPORATION, Barquisimeto, Lara, Venezuela; C.I.N. 7353289 (Venezuela); Passport A0229910 (Venezuela) (individual) [SDNT]

ESCOBAR BUITRAGO, Walter, c/o SERVIAUTOS UNO A 1A LIMITADA, Cali, Colombia; c/o INMOBILIARIA BOLIVAR LTDA., Cali, Colombia; DOB 8 Feb 1971; Cedula No. 16785833 (Colombia); Passport AD254557 (Colombia) (individual) [SDNT]

ESCOBEDO CHAZARO, Raul, P.O. Box 432477, San Diego, CA 92143; c/o ENTREGA DE CORRESPONDENCIA OPORTUNA, S.A. DE C.V., Tijuana, Baja California, Mexico; c/o TERMINADOS BASICOS DE TIJUANA, S. DE R.L. DE C.V., Tijuana, Baja California, Mexico; c/o COMERCIALIZADORA E IMPORTADORA GARDES, S.A. DE C.V., Tijuana, Baja California, Mexico; DOB 16 Jun 1965; alt. DOB 16 Jul 1965; POB Distrito Federal, Mexico; citizen Mexico; nationality Mexico; C.U.R.P. EOCR650716HDFSHL08 (Mexico) (individual) [SDNTK]

ESCOBEDO MORALES, Sandra Angelica, c/o CENTRO CAMBIARIO KINO, S.A. DE C.V., Tijuana, Baja California, Mexico; c/o MULTISERVICIOS ALPHA, S.A. DE C.V., Tijuana, Baja California, Mexico; c/o CONSULTORIA DE INTERDIVISAS, S.A. DE C.V., Tijuana, Baja California, Mexico; DOB 25 Dec 1966; POB Guadalajara, Jalisco, Mexico (individual) [SDNTK]

ESFAHAN NUCLEAR FUEL RESEARCH AND PRODUCTION CENTER (a.k.a. ENTC; a.k.a. ESFAHAN NUCLEAR TECHNOLOGY CENTER; a.k.a. NFRPC; a.k.a. “ESFAHAN NUCLEAR FUEL AND PROCUREMENT COMPANY”; a.k.a. “NERPC”), P.O. Box 81465-1589, Esfahan, Iran [NPWMD]

ESMAELI, Reza-Gholi; DOB 3 Apr 1961; POB Tehran, Iran; Passport A0002302 (Iran) (individual) [NPWMD]

ESPACE AVENIR EXECUTIVE SERVICED APARTMENT (a.k.a. ESPACE AVENIR), No. 523, Pyay Road, Kamaryut Township, Yangon, Burma [JADE] [BURMA]

ESPANA CUELLAR, Irlena, c/o COLPHAR S.A., Bogota, Colombia; DOB 28 Feb 1965; Cedula No. 40764759 (Colombia); Passport 40764759 (Colombia) (individual) [SDNT]

ESPARRAGOZA MORENO, Juan Jose, Calle 8 8988, Colonia Zona Este, Tijuana, Baja California CP 22000, Mexico; Calle Colima 2316, Colonia Francisco I. Madero, Tijuana, Baja California CP 22150, Mexico; Avenida Los Angeles No. 5183, Colonia Las Palmas, Tijuana, Baja California CP 22440, Mexico; Predio Rustico en Km. 42—43 de la Carretera, Tijuana-Ensenada, Baja California, Mexico; Cjon. Quintana Roo 8220, Colonia Zona Este, Tijuana, Baja California, Mexico; DOB 3 Feb 1949; alt. DOB 2 Mar 1949; POB Chuicopa, Sinaloa, Mexico (individual) [SDNTK]

ESPARZA PENA, Jose de Jesus, c/o CAJA AMIGO EXPRESS, S.A. DE C.V., Tijuana, Baja California, Mexico; DOB 15 Nov 1966; POB Baja California, Mexico; citizen Mexico; nationality Mexico; C.U.R.P. EAPJ661115HBCSXS04 (Mexico) (individual) [SDNTK]

ESPIBENA COMERCIALIZADORA DE MEDICAMENTOS GENERICOS S.A. (a.k.a. ESPIBENA S.A.), Luis Cordero 1154 y Juan Leon Mera, Edificio Gabriela Mistral, Quito, Ecuador; RUC # 1791706420001 (Ecuador) [SDNT]

ESPITIA ORTIZ, Mauricio Arturo (a.k.a. SPITIA, Mauricio), c/o SPITIA VALENCIA LTDA., Cali, Colombia; c/o GRUPO INVERSOR PRINCIPE DE VERGARA S.L., Madrid, Spain; Spain; Carrera 25 F No. 7-15 Oeste, Cali, Colombia; c/o M S CONSTRUCTORES LTDA., Cali, Colombia; Calle Ayala 64 3 Iz., Madrid 28001, Spain; Carrera 42 No. 8-36, Cali, Colombia; c/o ARQUITECTOS UNIDOS LTDA., Cali, Colombia; c/o ESVA S.C.S., Cali, Colombia; DOB 29 Dec 1959; POB Barranquilla, Colombia; Cedula No. 16634827 (Colombia); Passport AJ424421 (Colombia) (individual) [SDNT]

ESQUIVEL PENA, William, c/o BANANERA AGRICOLA S.A., Santa Marta, Colombia; c/o UNIPAPEL S.A., Cali, Colombia; c/o J. FREDDY MAFLA Y CIA. S.C.S., Cali, Colombia; Cedula No. 16641631 (Colombia); Passport 16641631 (Colombia) (individual) [SDNT]

ESSAADI, Moussa Ben Amor Ben Ali (a.k.a. “ABDELRAHMMAN”; a.k.a. “BECHIR”; a.k.a. “DAH DAH”), Via Milano n.108, Brescia, Italy; DOB 4 Dec 1964; POB Tabarka, Tunisia; nationality Tunisia; Passport L335915 issued 8 Nov 1996 expires 7 Nov 2001 (individual) [SDGT]

ESSABAR, Zakarya (a.k.a. ESSABAR, Zakariya), Dortmunder Strasse 38, Hamburg 22419, Germany; DOB 13 Apr 1977; alt. DOB 3 Apr 1977; POB Essaouria, Morocco (individual) [SDGT]

ESSID, Sami Ben Khemais (a.k.a. ELSSEID, Sami Ben Khamis Ben Saleh), Via Dubini n.3, Gallarate (VA), Italy; DOB 10 Feb 1968; POB Tunisia; nationality Tunisia; Italian Fiscal Code SSDSBN68B10Z352F; Passport K929139 issued 14 Feb 1995 expires 13 Feb 2000 (individual) [SDGT]

ESTABLO PUERTO RICO S.A. DE C.V. (a.k.a. ESTABLO LECHERO PUERTO RICO), Calle Indio De Guelatao Interior 20230, Colonia Miguel Hidalgo, Culiacan, Sinaloa, Mexico; Avenida Manuel Vallarta 2141, Colonia Centro, Culiacan, Sinaloa 80129, Mexico; Carretera El Salado, Quila KM 4, Culiacan, Sinaloa, Mexico; R.F.C. EPR-000322-UM9 (Mexico) [SDNTK]

ESTANCIA INFANTIL NINO FELIZ S.C., Avenida Manuel Vallarta 2141, Colonia Centro, Culiacan, Sinaloa 80129, Mexico [SDNTK]

ESTRADA RAMIREZ, Jose Arnoldo, c/o CONSTRUCTORA CENTRAL DEL VALLE LTDA., Cali, Colombia; c/o CLINICA ESPECIALIZADA DEL VALLE S.A., Cali, Colombia; c/o PARQUE INDUSTRIAL LAS DELICIAS LTDA., Cali, Colombia; Carrera 1H No. 39-56, Cali, Colombia; c/o INVERSIONES JAER LTDA., Cali, Colombia; c/o HIELO CRISTAL Y REFRIGERACION LTDA., Cali, Colombia; Calle 39 No. 1H-31, Cali, Colombia; c/o INVERSIONES SAN JOSE LTDA., Cali, Colombia; c/o MARIN ESTRADA Y CIA S. EN C.S., Cali, Colombia; DOB 14 Jul 1947; Cedula No. 16200018 (Colombia) (individual) [SDNT]

ESTRADA URIBE, Octavio, c/o GRUPO SANTA LTDA., Cali, Colombia; c/o SOCIEDAD CONSTRUCTORA LA CASCADA S.A., Cali, Colombia; DOB 7 Oct 1954; Cedula No. 19258562 (Colombia) (individual) [SDNT]

ESVA S.C.S. (a.k.a. FLEXX GYM), Carrera 42 No. 8-36, Cali, Colombia; NIT # 805019977-4 (Colombia) [SDNT]

ETCO INTERNATIONAL COMMODITIES LTD., Devonshire House, 1 Devonshire Street, London, United Kingdom [CUBA]

ETCO INTERNATIONAL COMPANY, LIMITED, Kawabe Building, 1-5 Kanda Nishiki-Cho, Chiyoda-Ku, Tokyo, Japan [CUBA]

EUROMAC EUROPEAN MANUFACTURER CENTER SRL, Via Ampere 5, 20052 Monza, Italy [IRAQ2]

EUROMAC TRANSPORTI INTERNATIONAL SRL, Via Ampere 5, 20052 Monza, Italy [IRAQ2]

EUROMAC, LTD, 4 Bishops Avenue, Northwood, Middlesex, United Kingdom [IRAQ2]

EUZKADI TA ASKATASUNA (a.k.a. ASKATASUNA; a.k.a. BASQUE FATHERLAND AND LIBERTY; a.k.a. BATASUNA; a.k.a. EKIN; a.k.a. EPANASTATIKI PIRINES; a.k.a. ETA; a.k.a. EUSKAL HERRITARROK; a.k.a. HERRI BATASUNA; a.k.a. JARRAI-HAIKA-SEGI; a.k.a. K.A.S.; a.k.a. POPULAR REVOLUTIONARY STRUGGLE; a.k.a. XAKI) [FTO] [SDGT]

EXCHANGE CENTER LTDA, Calle 183 No 45-03 Local 328, Bogota, Colombia; Avenida Carrera 19 No. 122-49 Local 13, Bogota, Colombia; NIT # 830003608-2 (Colombia) [SDNTK]

EXPLORATION AND PRODUCTION AUTHORITY (SUDAN), Kuwait Building, Nile Avenue, Khartoum, Sudan; P.O. Box 2986, Khartoum, Sudan [SUDAN]

EXPLOTACIONES AGRICOLAS Y GANADERAS LA LORENA S.C.S. (a.k.a. EXAGAN), Calle 5 No. 22-39 of. 205, Cali, Colombia; Calle 52 No. 28E-30, Cali, Colombia; NIT # 800083192-3 (Colombia) [SDNT]

EXPORT CAFE LTDA., Carrera 7 No. 11-22 of. 413, Cali, Colombia [SDNT]

EXPORT DEVELOPMENT BANK OF IRAN (a.k.a. BANK TOSEH SADERAT IRAN; a.k.a. BANK TOWSEEH SADERAT IRAN; a.k.a. EDBI), No. 129, 21's Khaled Eslamboli, No. 1 Building, Tehran, Iran; Export Development Building, Next to the 15th Alley, Bokharest Street, Argentina Square, Tehran, Iran; Tose'e Tower, Corner of 15th St., Ahmad Qasir Ave., Argentine Square, Tehran, Iran; C.R. No. 86936 (Iran); All branches worldwide [NPWMD]

EXPORTADORA DEL CARIBE, Medira, Mexico [CUBA]

EYRIE FARM, Mashvingo, Zimbabwe [ZIMBABWE]

FABRO INVESTMENT, INC., Panama [CUBA]

FACOBATA, Panama [CUBA]

FADHIL, Mustafa Mohamed (a.k.a. AL MASRI, Abd Al Wakil; a.k.a. ALI, Hassan; a.k.a. AL-NUBI, Abu; a.k.a. ANIS, Abu; a.k.a. ELBISHY, Moustafa Ali; a.k.a. FADIL, Mustafa Muhamad; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt; alt. citizen Kenya; Kenyan ID No. 12773667; Serial No. 201735161 (individual) [SDGT]

FADLALLAH, Shaykh Muhammad Husayn; DOB 1938; alt. DOB 1936; POB Najf Al Ashraf (Najaf), Iraq; Leading Ideological Figure of HIZBALLAH (individual) [SDT]

FAJARDO CUELLAR, Jairo, c/o CHAMARTIN S.A., Cali, Colombia; c/o ADMINISTRADORA DE SERVICIOS VARIOS CALIMA S.A., Cali, Colombia; Cedula No. 1619282 (Colombia); Passport 1619282 (Colombia) (individual) [SDNT]

FAJARDO HERNANDEZ, Gloria Elena, c/o INDUSTRIAS DEL ESPIRITU SANTO S.A., Malambo, Atlantico, Colombia; c/o DOXA S.A., La Union, Valle, Colombia; c/o FUNDACION CENTRO DE INVESTIGACION HORTIFRUTICOLA DE COLOMBIA, La Union, Valle, Colombia; c/o AGROPECUARIA EL NILO S.A., La Union, Valle, Colombia; Cedula No. 29926353 (Colombia) (individual) [SDNT]

FAJARDO, Mary Victoria, c/o APVA S.A., Cali, Colombia; c/o CECEP S.A., Cali, Colombia; c/o CECEP EDITORES S.A., Cali, Colombia; c/o WORLD LINE SYSTEM S.A., Palmira, Valle, Colombia; c/o NEGOCIOS Y CAPITALES S.A., Pereira, Colombia; Cali, Colombia; Cedula No. 31923020 (Colombia) (individual) [SDNT]

FAJR INDUSTRIES GROUP (a.k.a. FADJR INDUSTRIES GROUP; a.k.a. IFP; a.k.a. INDUSTRIAL FACTORIES OF PRECISION-MACHINERY; a.k.a. INSTRUMENTATION FACTORIES OF PRECISION MACHINERY; a.k.a. INSTRUMENTATION FACTORY PLANT; a.k.a. MOJTAME SANTY AJZAE DAGHIGH; a.k.a. NASR INDUSTRIES GROUP), P.O. Box 1985-777, Tehran, Iran [NPWMD]

FAKHRIZADEH-MAHABADI, Mohsen (a.k.a. FAKHRIZADEH; a.k.a. FAKHRIZADEH, Mohsen); Passport A0009228; alt. Passport 4229533 (individual) [NPWMD]

FALCON SYSTEMS, United Kingdom [IRAQ2]

FAMBA SAFARIS, P.O. Box CH273, Chisipite, Harare, Zimbabwe; 4 Wayhill Lane, Umwisdale, Harare, Zimbabwe [ZIMBABWE]

FAMESA INTERNATIONAL, S.A., Panama [CUBA]

FARAJ, Samal Majid, Iraq; Former Minister of Planning (individual) [IRAQ2]

FARALLONES STEREO 91.5 FM, Calle 15N No. 6N-34 piso 15, Edificio Alcazar, Cali, Colombia [SDNT]

FARASAKHT INDUSTRIES, P.O. Box 83145-311, Kilometer 28, Esfahan—Tehran Freeway, Shahin Shahr, Esfahan, Iran [NPWMD]

FARAYAND TECHNIQUE (a.k.a. FARAYAND TECHNIC), Isfahan, Iran; Esfahan, Iran; P.O. Box 14155-1339, Tehran, Iran; End of North Karegar Avenue, Shomali, Tehran, Iran [NPWMD]

FARFALLA INVESTMENT S.A., Calle Elida Diez. Nuevo Reparto El Carme Edif. Milena No. 1, Panama City, Panama; RUC # 1986361395028 (Panama) [SDNT]

FARFAN SUAREZ, Alexander (a.k.a. “ENRIQUE GAFAS”), Colombia; DOB 12 Feb 1973; POB San Jose del Guaviare, Guaviare, Colombia; citizen Colombia; nationality Colombia; Cedula No. 86007030 (Colombia) (individual) [SDNTK]

FARMA 3.000 LIMITADA, Calle 12B No. 27-39 of. 203, Bogota, Colombia; Via Circunvalar, Bodega M-A-3, Barranquilla, Colombia; Calle 39 BIS A No. 27-16 and 27-20, Bogota, Colombia; NIT # 802012873-4 (Colombia) [SDNT]

FARMA XXI LTDA., Calle 39 BIS A No. 27-16 and 27-20, Bogota, Colombia; Calle 12 No. 5-07 of. 301, Neiva, Huila, Colombia; NIT # 813006330-2 (Colombia) [SDNT]

FARMACIA JERLYNE, S.A. DE C.V. (a.k.a. FARMACIA JARLINE, S.A. DE C.V.; a.k.a. FARMACIA JARLYNE, S.A. DE C.V.; a.k.a. FARMACIAS JERLYNE, S.A. DE C.V.), Avenida Benito Juarez 2020-8, Colonia Zona Centro, Tijuana, Baja California, Mexico; Lot 70, Sector 6, Colonia Jardines de Chapultepec, Baja California, Mexico; Buenaventura 391, Fraccionamiento Chapultepec, Tijuana, Baja California, Mexico; Cascadas 100-2, Colonia Las Huertas, Tijuana, Baja California, Mexico; Avenida Revolucion 2020, Tijuana, Baja California 22000, Mexico; Lot 18, Sector 21, Centro Urbano 70-76, Colonia Mesa de Otay, Baja California, Mexico; Lots 13, 14, Sector A, Rancho El Grande, Baja California, Mexico [SDNTK]

FARMACIA VIDA SUPREMA, S.A. DE C.V. (a.k.a. FARMACIA VIDA; a.k.a. FARMACIAS VIDA), Blvd. D. Ordaz No. 700-316, Tijuana, Baja California, Mexico; Calle 4ta. Y Ninos Heroes 1802, Tijuana, Baja California, Mexico; Paseo Estrella del Mar 1075-B, Placita Coronado, Playas de Tijuana, Tijuana, Baja California, Mexico; Calle Benito Juarez 1890-A, Tijuana, Baja California, Mexico; Blvd. Benito Juarez 20000, Rosarito, Baja California, Mexico; Avenida Tecnologico 15300-308, Centro Comercial Otay Universidad, Tijuana, Baja California, Mexico; Avenida Constitucion 823, Tijuana, Baja California, Mexico; Calle Benito Juarez 1941, Tijuana, Baja California, Mexico; Avenida Revolucion 651, Zona Centro, Tijuana, Baja California, Mexico; Calle 4ta. 1339 y 'G', Tijuana, Baja California, Mexico; Blvd. Fundadores 8417, Fraccionamiento El Rubi, Tijuana, Baja California, Mexico; Blvd. Sanchez Taboada 4002, Zona Rio, Tijuana, Baja California, Mexico; Calle Carrillo Puerto (3ra.) No. 1434-131, Tijuana, Baja California, Mexico; Blvd. Agua Caliente 1381, Colonia Revolucion, Tijuana, Baja California, Mexico; Avenida Constitucion y 10ma., Tijuana, Baja California, Mexico; Blvd. Diaz Ordaz No. 1159-101, Tijuana, Baja California, Mexico; Plaza del Norte, M. Matamoros No. 10402, Frac. M. Matamoros, Tijuana, Baja California, Mexico; Avenida Constitucion No. 1300, Tijuana, Baja California, Mexico; Avenida Negrete No. 1200, Tijuana, Baja California, Mexico; Avenida 16 de Septiembre No. 1100, Tijuana, Baja California, Mexico; Avenida Jose Lopez Portillo 131-B, Modulos Otay, Tijuana, Baja California, Mexico; Toribio Ortega No. 6072-1 Colonia Fco. Villa, Tijuana, Baja California, Mexico; Blvd. Ejido Matamoros No. 402-1 Lomas Granjas la Espanola, Tijuana, Baja California, Mexico; Calz. Cucapah 20665-1B Colonia Buenos Aires Norte, Tijuana, Baja California, Mexico; Avenida Segunda No. 1702, Tijuana, Baja California, Mexico; Avenida Benito Juarez No. 16-2, Rosarito, Baja California, Mexico; Avenida Las Americas, Int. Casa Ley, Tijuana, Baja California, Mexico; Blvd. Diaz Ordaz 915, La Mesa, Tijuana, Baja California, Mexico; R.F.C. FVS-870610-LX3 (Mexico) [SDNTK]

FARMACOOP (a.k.a. COOPERATIVA MULTIACTIVA DE COMERCIALIZACION Y SERVICIOS FARMACOOP; f.k.a. LABORATORIOS KRESSFOR DE COLOMBIA S.A.), Calle 16 No. 28A-57, Bogota, Colombia; Calle 17A No. 28A-43, Bogota, Colombia; Calle 16 No. 28A-51, Bogota, Colombia; A.A. 18491, Bogota, Colombia; Calle 17A No. 28-43, Bogota, Colombia; NIT # 830010878-3 (Colombia) [SDNT]

FARMAHOGAR (a.k.a. DROGUERIA FARMAHOGAR; a.k.a. FARMAHOGAR COPSERVIR 19), Carrera 7 No. 118-38, Bogota, Colombia; Avenida 7 No. 118-46, Bogota, Colombia; NIT # 830011670-3 (Colombia) [SDNT]

FARMALIDER S.A., Calle 17 Norte No. 3N-16, Cali, Colombia; NIT # 805026183-2 (Colombia) [SDNT]

FARMATEL E.U. (a.k.a. TELEFARMA E.U.), Calle 93 No. 16-75, Bogota, Colombia [SDNT]

FARMATODO S.A., Diagonal 17 No. 28A-39, Bogota, Colombia; Diagonal 17 No. 28A-80, Bogota, Colombia [SDNT]

FARMEDIS LTDA., Calle 12 No. 5-07 of. 301, Neiva, Colombia; Calle 17A No. 28A-43, Bogota, Colombia; Carrera 42C No. 22C-36, Bogota, Colombia; NIT # 813009188-6 (Colombia) [SDNT]

FARMERS COMMERCIAL BANK (f.k.a. FARMERS BANK FOR INVESTMENT & RURAL DEVELOPMENT; f.k.a. SUDAN COMMERCIAL BANK), P.O. Box 1174, Gamhoria Avenue, Khartoum, Sudan; P.O Box 570, Port Sudan, Sudan; El Fau, Sudan; P.O. Box 45153, El Suk Elarabi, Sudan; Wad Madani, Sudan; P.O. Box 1116, El Kasr Avenue, Khartoum, Sudan; P.O. Box 412, El Obeid, Sudan; P.O. Box 36, New Halfa, Sudan; P.O. Box 1, El Hawata, Sudan; P.O. Box 22, El Damazin, Sudan; P.O. Box 8, El Nuhud, Sudan; P.O. Box 8127, Khartoum, Sudan; P.O. Box 182, El Gadaref, Sudan; P.O. Box 899, Omdurman, Sudan; P.O. Box 1694, El Suk Elafrangi, Khartoum, Sudan; P.O. Box 86, Industrial Area, Khartoum, Sudan; P.O. Box 384, Khartoum, Sudan [SUDAN]

FAROOQ, Muhammad; DOB 12 Mar 1949; nationality Pakistan; Passport S122252 (Pakistan) (individual) [NPWMD]

FARTRADE HOLDINGS S.A., Switzerland [IRAQ2]

FATAH AL-ISLAM, Nahr al-Barid Palestinian refugee camp, Lebanon [SDGT]

FATTAH, Jum'a Abdul, P.O. Box 1318, Amman, Jordan (individual) [IRAQ2]

FAVARONY URREA, Pedro F., c/o COPSERVIR LTDA., Bogota, Colombia; Cedula No. 167136671 (Colombia) (individual) [SDNT]

FAYAD, Saleh Mahmoud (a.k.a. FAYYAD, Saleh Mahmud); DOB 20 Oct 1972; POB Al-Taybe, Lebanon (individual) [SDGT]

FAYAD, Sobhi Mahmoud (a.k.a. FAYAD, Soubi Mamout; a.k.a. FAYADH, Sobhi Mahmoud; a.k.a. FAYYAD, Subhi Mahmud), 315, Piso 3, Galeria Page, Ciudad del Este, Paraguay; DOB 20 Aug 1965; POB Al-Taybe, Lebanon; citizen Paraguay; alt. citizen Lebanon; Passport 002301585 (Paraguay); alt. Passport 142517 (Paraguay); alt. Passport 220705 (Paraguay); alt. Passport 1035562 (Paraguay); alt. Passport 189103 (Paraguay) (individual) [SDGT]

FERNANDEZ CASTRO, Fernando Alberto (a.k.a. “FERCHO”), c/o GIMNASIO BODY AND HEALTH, Barranquilla, Colombia; DOB 12 May 1966; POB Colombia; Cedula No. 72137518 (Colombia) (individual) [SDNT]

FERNANDEZ GRANADOS, Claudia, c/o CAJA SOLIDARIA, Bogota, Colombia; c/o COOMULCOSTA, Barranquilla, Colombia; c/o COPSERVIR LTDA., Bogota, Colombia; Cedula No. 57433265 (Colombia) (individual) [SDNT]

FERNANDEZ LACERA, Felix Daniel, Carrera 95 No. 68A-24 ap. 221, Bogota, Colombia; c/o COOPIFARMA, Bucaramanga, Colombia; c/o COPSERVIR LTDA., Bogota, Colombia; Cedula No. 4979304 (Colombia) (individual) [SDNT]

FERNANDEZ LUNA, Tiberio, c/o COPSERVIR LTDA., Bogota, Colombia; c/o DISTRIBUIDORA DE DROGAS CONDOR S.A., Bogota, Colombia; c/o LABORATORIOS BLANCO PHARMA DE COLOMBIA S.A., Bogota, Colombia; DOB 3 Nov 1960; Cedula No. 93286690 (Colombia); Passport AE956843 (Colombia) (individual) [SDNT]

FETTAR, Rachid (a.k.a. “AMINE DEL BELGIO”; a.k.a. “DJAFFAR”), Via degli Apuli n.5, Milan, Italy; DOB 16 Apr 1969; POB Boulogin, Algeria (individual) [SDGT]

FIDUSER LTDA., Calle 12A No. 27-72, Bogota, Colombia; NIT # 830013160-8 (Colombia) [SDNT]

FIFTH OCEAN; Vessel Registration Identification IMO 9349667 (vessel) [NPWMD]

FIGAL ARRANZ, Antonio Agustin; DOB 2 Dec 1972; POB Baracaldo, Vizcaya Province, Spain; D.N.I. 20.172.692 (Spain); Member ETA (individual) [SDGT]

FIGUEROA DE BRUSATIN, Dacier, c/o W. HERRERA Y CIA. S. EN C., Cali, Colombia; c/o INVERSIONES EL GRAN CRISOL LTDA., Cali, Colombia; DOB 7 Nov 1930; Cedula No. 29076093 (Colombia) (individual) [SDNT]

FIGUEROA PERALTA, Eduardo Alberto, c/o CAJA SOLIDARIA, Bogota, Colombia; c/o LITOPHARMA, Barranquilla, Colombia; c/o COPSERVIR LTDA., Bogota, Colombia; c/o COOMULCOSTA, Barranquilla, Colombia; Calle 63 No. 16-61, Barranquilla, Colombia; Cedula No. 8747807 (Colombia) (individual) [SDNT]

FINANCIACION Y EMPRESA S.A. (a.k.a. FINEMPRESA S.A.), Calle 16 Norte No. 9N-41, Cali, Colombia; NIT # 800153965-0 (Colombia) [SDNT]

FINANZAS DEL NORTE LUIS SAIEH Y CIA. S.C.A. (f.k.a. FINANZAS DEL NORTE LTDA.), Calle 77 B No. 57—141, Ofc. 917, Barranquilla, Colombia; NIT # 890108715-2 (Colombia) [SDNT]

FINVE S.A. (f.k.a. FINANCIERA DE INVERSIONES LTDA.), Calle 93A No. 14-17 Ofc. 711, Bogota, Colombia; Calle 93N No. 14-20 Ofc. 601, Bogota, Colombia; NIT # 860074650-5 (Colombia) [SDNT]

FIORILLO BAPTISTE, Lester Raul, c/o CONSTRUCCIONES PROGRESO DEL PUERTO S.A., Puerto Tejada, Colombia; Calle 27 Norte No. 6AN-43, Cali, Colombia; Cedula No. 14987352 (Colombia); Passport 14987352 (Colombia) (individual) [SDNT]

FIRST OF OCTOBER ANTIFASCIST RESISTANCE GROUP (GRAPO), Spain [SDGT]

FIRST PERSIAN EQUITY FUND (a.k.a. FIRST PERSIA EQUITY FUND; a.k.a. FPEF), Rafi Alley, Vali Asr Avenue, Nader Alley, P.O. Box 15875-3898, Tehran 15116, Iran; Walker House, 87 Mary Street, George Town, Grand Cayman KY1-9002, Cayman Islands; Clifton House, 75 Fort Street, P.O. Box 190, Grand Cayman KY1-1104, Cayman Islands [NPWMD]

FISHING ENTERPRISE HOLDING, INC., Avenida Samuel Lewis, Edificio Comosa, Piso 16, Panama City, Panama; RUC # 2120741397076 (Panama) [SDNT]

FITCH PARENTE, Jose Elmer, c/o MINERA RIO PRESIDIO S.A. DE C.V., Culiacan, Sinaloa, Mexico; Francisco I. Madero Numero 145 al Oriente, Colonia Centro, Culiacan, Sinaloa, Mexico; c/o MINERA LA CASTELLANA Y ANEXAS S.A. DE C.V., Culiacan, Sinaloa, Mexico; c/o COMPANIA MINERA DEL RIO CIANURY S.A. DE C.V., Culiacan, Sinaloa, Mexico; DOB 27 Jan 1965; POB Mazatlan, Sinaloa, Mexico; citizen Mexico; nationality Mexico; C.U.R.P. FIPE650127HSLTRL05 (Mexico); R.F.C. FIPJ650127 (Mexico) (individual) [SDNTK]

FITCH PARENTE, Pablo Antonio, Boulevard Francisco I. Madero Numero 145 al Oriente, Colonia Centro, Culiacan, Sinaloa, Mexico; c/o COMPANIA MINERA DEL RIO CIANURY S.A. DE C.V., Culiacan, Sinaloa, Mexico; DOB 24 Mar 1966; POB Mazatlan, Sinaloa, Mexico; citizen Mexico; nationality Mexico; C.U.R.P. FIPP660324HSLTRB07 (Mexico); R.F.C. FIPP660324 (Mexico) (individual) [SDNTK]

FITCH TOVAR, Jose Manuel, c/o COPA DE PLATA S.A. DE C.V., Culiacan, Sinaloa, Mexico; c/o COMPANIA MINERA DEL RIO CIANURY S.A. DE C.V., Culiacan, Sinaloa, Mexico; c/o MINERA RIO PRESIDIO S.A. DE C.V., Culiacan, Sinaloa, Mexico; c/o MINERA LA CASTELLANA Y ANEXAS S.A. DE C.V., Culiacan, Sinaloa, Mexico; Rio de la Plata, numero 28, Campo Bello de Mazatlan, Sinaloa, Mexico; DOB 28 Dec 1936; POB Panuco, Concordia, Sinaloa, Mexico; citizen Mexico; nationality Mexico; R.F.C. FITM361228 (Mexico) (individual) [SDNTK]

FLETES Y TRANSPORTES GAXGAR S.A. DE C.V., Alberto Truqui 581, Col. Pimentel, CP 83188, Hermosillo, Sonora, Mexico, Hermosillo, Sonora 83188, Mexico; Boulevard Luis Encinas No 581-B Esquina Alberto Truqui, Colonia Pimentel, Hermosillo, Sonora, Mexico; Guadalajara, Jalisco, Mexico; R.F.C. FTG950807F20 (Mexico) [SDNTK]

FLEXOEMPAQUES LTDA. (f.k.a. PLASTICOS CONDOR LTDA.), Carrera 13 No. 16-62, Cali, Colombia; NIT # 800044167-2 (Colombia) [SDNT]

FLIGHT DRAGON SHIPPING LTD., c/o ANGLO-CARIBBEAN SHIPPING CO. LTD., 4th Floor, South Phase 2, South Quay Plaza II, 183, March Wall, London, United Kingdom [CUBA]

FLORES MONROY, Julio Cesar (a.k.a. FLORES, Julio C.), Calle Granito No. 2025, Seccion El Dorado, Fraccionamiento Playas de Tijuana, Tijuana, Baja California, Mexico; c/o ACCESOS ELECTRONICOS, S.A. DE C.V., Calle David Alfaro Siqueiros 2789 #201, Col. Zona Rio, Tijuana, Baja California, Mexico; C. Azteca 0, Col. Azteca, Tijuana, Baja California CP 22000, Mexico; Calle Granito No. 602, Seccion El Dorado, Fraccionamiento Playas de Tijuana, Tijuana, Baja California, Mexico; c/o KONTROLES ELECTRONICOS DE BAJA CALIFORNIA, S.A. DE C.V., Ave. Azueta 11750, Col. Libertad, Tijuana, Baja California CP 22400, Mexico; DOB 13 Jul 1944; POB Guadalajara, Jalisco, Mexico; Immigration No. A07268659 (United States) (individual) [SDNTK]

FLOREZ GRAJALES, Yudy Lorena (a.k.a. FLOREZ GRAJALES, Yudi Lorena), Carrera 78 No. 3-46, Cali, Colombia; Carrera 8N No. 17A-12, Cartago, Colombia; c/o AGROPECUARIA MIRALINDO S.A., Cartago, Colombia; c/o ARIZONA S.A., Cartago, Colombia; DOB 26 Jun 1978; Cedula No. 32180561 (Colombia); Passport 32180561 (Colombia) (individual) [SDNT]

FLOREZ SARAMA, Jorge Humberto, c/o ASESORIAS DE INGENIERIA EMPRESA UNIPERSONAL, Cali, Colombia; c/o ADMINISTRADORA DE SERVICIOS VARIOS CALIMA S.A., Cali, Colombia; c/o CHAMARTIN S.A., Cali, Colombia; c/o SERVICIOS DE LA SABANA E.U., Bogota, Colombia; Cedula No. 13007449 (Colombia); Passport 13007449 (Colombia) (individual) [SDNT]

FLORIDA SOCCER CLUB S.A. (a.k.a. CORPORACION DEPORTIVA FLORIDA SOCCER CLUB; a.k.a. FSC S.A.), Calle 49B No. 74-31 Sector Estadio, Medellin, Colombia; Itagui, Antioquia, Colombia; Calle 48 No. 70-80 Ofc. 115, Medellin, Colombia; NIT # 811046159-2 (Colombia) [SDNT]

FLYING DRAGON (vessel) [CUBA]

FMF GENERAL TRADING LLC, Ahmad Abdulla Bahzad Building, Al Qusais Street, Al Qusais Industrial Area, Dubai, United Arab Emirates; P.O. Box 16542, Dubai, United Arab Emirates; C.R. No. 66488 (United Arab Emirates) [SDNTK]

FOFIE, Martin Kouakou; DOB 1 Jan 1968; “New Forces” (Forces Nouvelles) Zone Commander in Korhogo (individual) [COTED]

FOGENSA S.A. (a.k.a. FORMAS GENERICAS FARMACEUTICAS S.A.), Calle 53 No. 31-69, Bucaramanga, Colombia; Carrera 42C No. 22C-36, Bogota, Colombia; Calle 53 No. 31-52, Bucaramanga, Colombia; NIT # 804005325-8 (Colombia) [SDNT]

FOMEQUE BLANCO, Amparo, Mz. 21 Casa 5 Barrio San Fernando, Pereira, Colombia; c/o INDUSTRIA DE PESCA SOBRE EL PACIFICO S.A., Buenaventura, Colombia; DOB 26 Mar 1948; Cedula No. 31206092 (Colombia) (individual) [SDNT]

FONSECA PARAMO, Luisa Fernanda, c/o REPRESENTACIONES Y DISTRIBUCIONES HUERTAS Y ASOCIADOS S.A., Bogota, Colombia; DOB 18 Nov 1978; Cedula No. 30400266 (Colombia); Passport 30400266 (Colombia) (individual) [SDNT]

FONTES MORENO, Eleazar, c/o AGRICOLA GAXIOLA S.A. DE C.V., Hermosillo, Sonora, Mexico; Ave. Real 73, Hermosillo, Sonora 83200, Mexico; c/o TEMPLE DEL PITIC S.A. DE C.V., Hermosillo, Sonora, Mexico; Avenida Serdan No. 122 Poniente, Altos 10, Hermosillo, Sonora, Mexico; DOB 23 Jul 1947; POB Hermosillo, Sonora, Mexico; citizen Mexico; nationality Mexico; C.U.R.P. FOME470723HSRNRL05 (Mexico); Passport 260057687 (Mexico) (individual) [SDNTK]

FOOD INDUSTRIES CORPORATION, P.O. Box 2341, Khartoum, Sudan [SUDAN]

FORENINGEN AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

FORERO SALAMANCA, Sonia Viviana, c/o INTERFARMA S.A., San Jose, Costa Rica; c/o CREDIREBAJA S.A., Cali, Colombia; c/o COPSERVIR LTDA., Bogota, Colombia; c/o JOMAGA DE COSTA RICA S.A., San Jose, Costa Rica; DOB 16 Oct 1975; Cedula No. 52342283 (Colombia); Passport 52342283 (Colombia) (individual) [SDNT]

FORPRES, S.C., Tijuana, Baja California, Mexico [SDNTK]

FORUZANDEH, Ahmed (a.k.a. FAYRUZI, Ahmad; a.k.a. FOROOZANDEH, Ahmad; a.k.a. FORUZANDEH, Ahmad; a.k.a. FRUZANDAH, Ahmad; a.k.a. “ABU AHMAD ISHAB”; a.k.a. “ABU SHAHAB”; a.k.a. “JAFARI”), Qods Force Central Headquarters, Former U.S. Embassy Compound, Tehran, Iran; DOB circa 1960; alt. DOB circa 1958; alt. DOB circa 1963; alt. DOB circa 1959; alt. DOB 1957; alt. DOB circa 1955; alt. DOB circa 1961; alt. DOB circa 1962; POB Kermanshah, Iran; Brigadier General, Commanding Officer of the Iranian Islamic Revolutionary Guard Corps-Qods Force Ramazan Corps; Deputy Commander of the Ramazan Headquarters; Chief of Staff of the Iraq Crisis Staff (individual) [IRAQ3]

FOUNTAIN FARM, Insiza, Zimbabwe [ZIMBABWE]

FRANCO MUNOZ, Francisco, Calle 10 Bis No. 67A-51, Cali, Colombia; c/o GRAN MUELLE S.A., Buenaventura, Colombia; POB Facatativa, Cundinamarca, Colombia; Cedula No. 03014999 (Colombia); Passport 03014999 (Colombia) (individual) [SDNT]

FRANCO RUIZ, Nestor Raul, Carrera 142 No. 18A-80 Casa 23, Cali, Colombia; Avenida 5AN No. 51N-27, Cali, Colombia; DOB 21 Aug 1967; POB Cali, Colombia; Cedula No. 16744648 (Colombia); Passport AF828495 (Colombia) (individual) [SDNT]

FRANCO RUIZ, Ruben Alberto, c/o CAMPO LIBRE A LA DIVERSION E.U., Yumbo, Valle, Colombia; Avenida 5N No. 51-57, Cali, Colombia; Calle 34N No. 3CN-62, Cali, Colombia; DOB 18 Feb 1964; POB Cali, Colombia; Cedula No. 16702454 (Colombia); Passport AH070927 (Colombia) (individual) [SDNT]

FRANCO VALENCIA, Fabio Hernan, Carrera 4 No. 11-45 Ofc. 506, Cali, Colombia; c/o GEOPLASTICOS S.A., Cali, Colombia; c/o CIA. MINERA DAPA S.A., Bogota, Colombia; c/o CIA. ANDINA DE EMPAQUES LTDA., Cali, Colombia; c/o OCCIDENTAL DE PAPELES LTDA., Cali, Colombia; c/o COMPANIA DE FOMENTO MERCANTIL S.A., Cali, Colombia; DOB 06 Dec 1940; POB Cali, Valle, Colombia; Cedula No. 6076743 (Colombia); Passport 6076743 (Colombia) (individual) [SDNT]

FREE LIFE PARTY OF KURDISTAN (a.k.a. KURDISTAN FREE LIFE PARTY; a.k.a. PARTIYA JIYANA AZAD A KURDISTANE; a.k.a. PARTY OF FREE LIFE OF KURDISTAN; a.k.a. PEJAK; a.k.a. PEZHAK; a.k.a. PJAK), Razgah, Iran; Qandil Mountain, Irbil Governorate, Iraq [SDGT]

FREGOSO AMEZQUITA, Maria Antonieta, Calle Jerez 552-B, Fraccionamiento Chapultepec, CP 22420, Tijuana, Baja California, Mexico; c/o Administradora De Inmuebles Vida, S.A. de C.V., Tijuana, Baja California, Mexico; Calle Jerez 538, Fraccionamiento Chapultepec, Tijuana, Baja California, Mexico; c/o Forpres, S.C., Tijuana, Baja California, Mexico; c/o Operadora Valpark, S.A. de C.V., Tijuana, Baja California, Mexico; c/o ADP, S.C., Tijuana, Baja California, Mexico; c/o Accesos Electronicos, S.A. de C.V., Tijuana, Baja California, Mexico; DOB 29 Oct 1952; POB Guadalajara, Jalisco; Credencial electoral 088455751391 (Mexico); Driver's License No. 180839 (Mexico); R.F.C. AEL-980417-S51 (Mexico) (individual) [SDNTK]

FREIGHT MOVERS INTERNATIONAL, Airport Road, Basseterre, Basseterre, Saint Kitts and Nevis; Church Street, Basseterre, Basseterre, Saint Kitts and Nevis; Offices in St. Kitts and Nevins, West Indies ONLY [SDNTK]

FRIENDSHIP SPINNING FACTORY, Hassaheisa, Sudan [SUDAN]

FRIGO HISPANIA (vessel) [CUBA]

FRONT FOR ALBANIAN NATIONAL UNITY (a.k.a. FBKSH) [BALKANS]

FRONTERA VIRTUAL S.A., Carrera 12 No. 90-19, Piso 2, Bogota, Colombia; NIT # 830118496-9 (Colombia) [SDNT]

FRUNI TRADING CO., c/o MELFI MARINE CORPORATION S.A., Oficina 7, Edificio Senorial, Calle 50, Apartado 31, Panama City 5, Panama [CUBA]

FRUTAS EXOTICAS COLOMBIANOS S.A. (a.k.a. FREXCO S.A.), Factoria La Rivera, La Union, Valle, Colombia; NIT # 800183514-0 (Colombia) [SDNT]

FUDIA LTDA., Calle 111 No. 36B-17, Barranquilla, Colombia; NIT # 800230555-4 (Colombia) [SDNT]

FUENTES COBA, Fernando, Cozumel, Mexico (individual) [CUBA]

FUNDACION CENTRO DE INVESTIGACION HORTIFRUTICOLA DE COLOMBIA (a.k.a. CENIHF), Km. 2 La Victoria, La Union, Valle, Colombia; NIT # 821002640-1 (Colombia) [SDNT]

FUNDACION CENTRO FRUTICOLA ANDINO, Km. 2 Via La Victoria, La Union, Valle, Colombia; NIT # 800077756-2 (Colombia) [SDNT]

FUNDACION PARA LA EDUCACION Y EL DESARROLLO SOCIAL (a.k.a. FUNDASOCIAL), Calle 16 Norte No. 9N-41, Cali, Colombia; NIT # 800142875-9 (Colombia) [SDNT]

FUNDACION PARA LA PAZ DE CORDOBA (a.k.a. FUNDACION POR LA PAS DE CORDOBA; a.k.a. FUNDAZCOR; a.k.a. FUNPAZCOR), Carrera 6 No. 29-12, Monteria, Cordoba, Colombia; NIT # 830054536-9 (Colombia) [SDNTK]

FUNDACION VIVIR MEJOR (a.k.a. F.V.M.), Calle 8 No. 22-60, Cali, Colombia; NIT # 805002213-1 (Colombia) [SDNT]

FUNDASER (a.k.a. FUNDACION DE CALI PARA EL DESARROLLO HUMANO; a.k.a. FUNDACION PARA EL SERVICIO DEL SER INTEGRAL; a.k.a. FUNDECALI), Calle 29 Norte No. 6N-43, Cali, Colombia; Calle 2 No. 4-14 of. 101, Cali, Colombia; NIT # 800243417-2 (Colombia) [SDNT]

FURUNDZIJA, Anto; DOB 8 Jul 1969; POB Travnik, Bosnia-Herzegovina; ICTY indictee (individual) [BALKANS]

FUSTAR, Dusan; DOB 29 Jun 1954; POB Prijedor, Bosnia-Herzegovina; ICTY indictee in custody (individual) [BALKANS]

FUTURE BANK B.S.C., Block 304, City Centre Building, Building 199, Government Avenue, Road 383, Manama, Bahrain; P.O. Box 785, City Centre Building, Government Avenue, Manama, Bahrain; Business Registration Document # 54514-1 (Bahrain) expires 9 Jun 2009; Trade License No. 13388 (Bahrain); All branches worldwide [NPWMD]

G A ARDMORE PTE. LTD., 3 Shenton Way, 10-01 Shenton House, Singapore 068805, Singapore; 101 Cecil Street, 08-08 Tong Eng Building, Singapore 069533, Singapore [BURMA] [JADE]

G A ARDMORE PTE. LTD., 3 Shenton Way, #10-01 Shenton House, Singapore 068805, Singapore [BURMA]

G A CAPITAL PTE. LTD., 101 Cecil Street, 08-08 Tong Eng Building, Singapore 069533, Singapore [JADE] [BURMA]

G A CAPITAL PTE. LTD., 3 Shenton Way, #10-01 Shenton House, Singapore 068805, Singapore [BURMA]

G A FOODSTUFFS PTE. LTD., 101 Cecil Street, 08-08 Tong Eng Building, Singapore 069533, Singapore [BURMA] [JADE]

G A FOODSTUFFS PTE. LTD., 3 Shenton Way, #10-01 Shenton House, Singapore 068805, Singapore [BURMA]

G A LAND PTE. LTD., 3 Shenton Way, #10-01 Shenton House, Singapore 068805, Singapore [BURMA]

G A LAND PTE. LTD., 1 Scotts Road, 21-07/08 Shaw House, Singapore 228208, Singapore [BURMA] [JADE]

G A RESORT PTE. LTD., 3 Shenton Way, 10-01 Shenton House, Singapore 068805, Singapore; 1 Scotts Road, 21-07 Shaw House, Singapore 228208, Singapore [BURMA] [JADE]

G A RESORT PTE. LTD., 3 Shenton Way, #10-01 Shenton House, Singapore 068805, Singapore [BURMA]

G A SENTOSA PTE. LTD., 101 Cecil Street, 08-08 Tong Eng Building, Singapore 069533, Singapore [BURMA] [JADE]

G A SENTOSA PTE. LTD., 3 Shenton Way, #10-01 Shenton House, Singapore 068805, Singapore [BURMA]

G A TREASURE PTE. LTD., 3 Shenton Way, 10-01 Shenton House, Singapore 068805, Singapore [BURMA] [JADE]

G A TREASURE PTE. LTD., 3 Shenton Way, #10-01 Shenton House, Singapore 068805, Singapore [BURMA]

G A WHITEHOUSE PTE. LTD., 3 Shenton Way, #10-01 Shenton House, Singapore 068805, Singapore [BURMA]

G A WHITEHOUSE PTE. LTD., 3 Shenton Way, 10-01 Shenton House, Singapore 068805, Singapore [BURMA] [JADE]

G M C GRUPO MAQUILACION COLOMBIANO, Carrera 66A No. 48-91, Bogota, Colombia; Calle 68B No. 105F-80, Bogota, Colombia; NIT # 41322501 (Colombia) [SDNT]

G.L.G. S.A. (a.k.a. CASA ESTRELLA), Carrera 65 No. 71-74, Barranquilla, Colombia; Centro Comercial Chipichape, Cali, Colombia; Apartado Aereo 250752, Bogota, Colombia; Centro Comercial Unicentro, Local 1-13, Bogota, Colombia; Centro Comercial Unicentro, Local 209, Cali, Colombia; Avenida 15 No. 123-30, Local 1-13, Bogota, Colombia; Calle 53 No. 25-30, Bogota, Colombia; Centro Comercial Galerias, Bogota, Colombia; Calle 164 No. 40-40, Bogota, Colombia; Diagonal 127A No. 17-34 Piso 5, Bogota, Colombia; NIT # 800023807-8 (Colombia) [SDNT]

GAD S.A., Factoria La Rivera, La Union, Valle, Colombia; NIT # 821002971-4 (Colombia) [SDNT]

GAJIC-MILOSEVIC, Milica; DOB 1970; daughter-in-law of Slobodan Milosevic (individual) [BALKANS]

GALAPAGOS S.A, Calle 24N No. 6AN-15, Cali, Colombia; Carrera 115 No. 16B-121, Cali, Colombia; NIT # 800183712-2 (Colombia) [SDNT]

GALAVIZ CORPORATION, LTD., 7801 NW 37 Street No. 152059, Miami, FL 33166; Nassau, Bahamas, The; Avenida 4 Norte 6N-67 Of. 705, Cali, Colombia [SDNT]

GALAX TRADING CO., LTD. (a.k.a. GALAX INC.), 5250 Ferrier Street, Montreal, Quebec, Canada [CUBA]

GALEANO CUBILLOS, Mario Nelson, c/o TERAPIAS VETERINARIA LIMITADA, Bogota, Colombia; Cedula No. 17125384 (Colombia); Passport 17125384 (Colombia) (individual) [SDNT]

GALEANO RESTREPO, Diego Mauro, c/o INVERSIONES EL MOMENTO S.A., Medellin, Colombia; c/o INVERSIONES LICOM LTDA., Medellin, Colombia; c/o CASA DEL GANADERO S.A., Medellin, Colombia; c/o ADMINISTRADORA GANADERA EL 45 LTDA., Medellin, Colombia; c/o GANADERIA LUNA HERMANOS LTDA., Medellin, Colombia; DOB 17 Mar 1976; POB Medellin, Colombia; Cedula No. 98626113 (Colombia) (individual) [SDNT]

GALERIA DE PORTALES, S.A., Miguel Yuste 48, 28037 Madrid, Spain; Jose Serrano 166, 28019 Madrid, Spain; C.I.F. A82464934 (Spain) [SDNT]

GALERIA PAGE (a.k.a. GALERIA PAGE I), 899 Calle Regimento Pirebebuy, Ciudad del Este, Paraguay [SDGT]

GALIC, Stanislav; DOB 12 Mar 1943; POB Goles, Bosnia-Herzegovina; ICTY indictee (individual) [BALKANS]

GALINDO HERRERA, Diana Paola, c/o INMOBILIARIA GALES LTDA., Bogota, Colombia; c/o INVERSIONES HERREBE LTDA., Cali, Colombia; c/o COMERCIAL DE NEGOCIOS CLARIDAD Y CIA., Bogota, Colombia; c/o CONSTRUEXITO S.A., Cali, Colombia; c/o AGROPECUARIA Y REFORESTADORA HERREBE LTDA., Cali, Colombia; c/o INDUSTRIA AVICOLA PALMASECA S.A., Cali, Colombia; c/o COMERCIALIZADORA EXPERTA Y CIA. S. EN C., Bogota, Colombia; DOB 8 Jul 1978; Cedula No. 31538790 (Colombia); Passport AF127300 (Colombia) (individual) [SDNT]

GALINDO HERRERA, Diego Alexander, c/o INMOBILIARIA GALES LTDA., Bogota, Colombia; c/o CONSTRUEXITO S.A., Cali, Colombia; c/o COMERCIAL DE NEGOCIOS CLARIDAD Y CIA., Bogota, Colombia; c/o INDUSTRIA AVICOLA PALMASECA S.A., Cali, Colombia; c/o INVERSIONES HERREBE LTDA., Cali, Colombia; c/o AGROPECUARIA Y REFORESTADORA HERREBE LTDA., Cali, Colombia; c/o COMERCIALIZADORA EXPERTA Y CIA. S. EN C., Bogota, Colombia; DOB 9 Feb 1977; Cedula No. 16836449 (Colombia); Passport AF246678 (Colombia) (individual) [SDNT]

GALINDO LEYVA, Esperanza, 536 Huerto Place, Chula Vista, CA 91910; 950 Norella Street, Chula Vista, CA 91910; c/o INMOBILIARIA LA PROVINCIA S.A. DE C.V., Tijuana, Baja California, Mexico; c/o COMPLEJO TURISTICO OASIS, S.A. de C.V., Playas de Rosarito, Rosarito, Baja California, Mexico; c/o PLAYA MAR S.A. DE C.V., Tijuana, Baja California, Mexico; DOB 16 Aug 1920; POB San Ignacio, Sinaloa, Mexico; Passport 99020017901 (Mexico); R.F.C. # GALE-200816-6IA (Mexico); alt. R.F.C. # GALE-241004-61A (Mexico) (individual) [SDNTK]

GALINDO, Gilmer Antonio (a.k.a. GUZMAN TRUJILLO, Carlos Arturo), c/o COMERCIAL DE NEGOCIOS CLARIDAD Y CIA., Bogota, Colombia; c/o COMERCIALIZADORA EXPERTA Y CIA. S. EN C., Bogota, Colombia; c/o CONSTRUEXITO S.A., Cali, Colombia; Carrera 4C No. 53-40 apt. 307, Cali, Colombia; c/o INDUSTRIA AVICOLA PALMASECA S.A., Cali, Colombia; c/o INMOBILIARIA GALES LTDA., Bogota, Colombia; DOB 28 Dec 1948; Cedula No. 16245188 (Colombia); Passport AC824879 (Colombia) (individual) [SDNT]

GALLASTEGUI SODUPE, Lexuri; DOB 18 Jun 1969; POB Bilbao Vizcaya Province, Spain; D.N.I. 16.047.113; Member ETA (individual) [SDGT]

GALLEGO CANO, Juan de la Cruz, c/o GAVIOTAS LTDA., Cartago, Valle, Colombia; Carrera 3 No. 6-39, El Aguila, Valle, Colombia; DOB 26 Feb 1956; POB El Aguila, Valle, Colombia; citizen Colombia; nationality Colombia; Cedula No. 6272570 (Colombia); Passport AF200504 (Colombia) (individual) [SDNT]

GALLEGO RAMOS, Luis Alfredo, Calle 83 No. 14-130, Cali, Colombia; c/o INTERCONTINENTAL DE AVIACION S.A., Bogota, Colombia; c/o AEROVIAS ATLANTICO LTDA., Bogota, Colombia; c/o GREEN ISLAND S.A., Bogota, Colombia; c/o AEROCOMERCIAL ALAS DE COLOMBIA LTDA., Bogota, Colombia; DOB 7 Aug 1954; POB Cali, Colombia; Cedula No. 16585721 (Colombia); Passport 16585721 (Colombia); alt. Passport AF783512 (Colombia); alt. Passport AE187469 (Colombia) (individual) [SDNT]

GALLEGO RUBIO, Maribel (a.k.a. “MARITZA”; a.k.a. “MERY”), Colombia; DOB 09 Apr 1984; POB Acacias, Meta, Colombia; citizen Colombia; nationality Colombia; Cedula No. 30946062 (Colombia); Passport AJ834783 (Colombia) (individual) [SDNTK]

GALLEGO SOSSA, Rosa Esperanza, c/o CONSTRUCTORA DIMISA LTDA., Cali, Colombia; Calle 24AN No. 42BN-61, Cali, Colombia; c/o CONCRETOS CALI S.A., Cali, Colombia; DOB 1 May 1963; Cedula No. 43059188 (Colombia) (individual) [SDNT]

GALLEGO VALENCIA, John Jairo (a.k.a. “DON JOTA”; a.k.a. “FREDERICO”), c/o LAVADERO EL CASTILLO, Medellin, Colombia; DOB 30 Jul 1950; POB Medellin, Colombia; Cedula No. 70126377 (Colombia); Passport AC312064 (Colombia) (individual) [SDNT]

GALLO IMPORT, Panama [CUBA]

GALVEZ RODRIGUEZ, Luz Marina, c/o PRODUCTOS GALO Y CIA. LTDA., Bogota, Colombia; c/o REPRESENTACIONES Y DISTRIBUCIONES HUERTAS Y ASOCIADOS S.A., Bogota, Colombia; DOB 15 Mar 1953; Cedula No. 41589020 (Colombia); Passport 41589020 (Colombia) (individual) [SDNT]

GALVEZ RODRIGUEZ, Nancy, c/o COSMEPOP, Bogota, Colombia; c/o DISTRIBUIDORA DE DROGAS CONDOR S.A., Bogota, Colombia; c/o CAJA SOLIDARIA, Bogota, Colombia; c/o COOPCREAR, Bogota, Colombia; c/o COPSERVIR LTDA., Bogota, Colombia; DOB 2 Dec 1954; Cedula No. 41703406 (Colombia); Passport 41703406 (Colombia) (individual) [SDNT]

GAMA'A AL-ISLAMIYYA (a.k.a. AL-GAMA'AT; a.k.a. EGYPTIAN AL-GAMA'AT AL-ISLAMIYYA; a.k.a. GI; a.k.a. IG; a.k.a. ISLAMIC GAMA'AT; a.k.a. ISLAMIC GROUP) [SDT] [FTO] [SDGT]

GAMBA SANCHEZ, Fernando, c/o DISTRIBUIDORA DE DROGAS CONDOR S.A., Bogota, Colombia; DOB 3 Nov 1962; Cedula No. 19494919 (Colombia) (individual) [SDNT]

GAMBE, Theophilus Pharaoh; DOB 20 Jun 1959; Passport ZA567403 (Zimbabwe); Chairman, Electoral Supervisory Commission (individual) [ZIMBABWE]

GAMBIA NEW MILLENIUM AIR COMPANY (a.k.a. GAMBIA MILLENIUM AIRLINE; a.k.a. GAMBIA NEW MILLENIUM AIR), State House, Banjul, Gambia, The [LIBERIA]

GAMEZ CIFUENTES, Norma Lucero, c/o DROCARD S.A., Bogota, Colombia; DOB 22 Jan 1958; Cedula No. 41674484 (Colombia); Passport 41674484 (Colombia) (individual) [SDNT]

GAMEZ, Gilberto, c/o ARCA DISTRIBUCIONES LTDA., Bogota, Colombia; Cedula No. 79846794 (Colombia) (individual) [SDNT]

GANADERIA ARIZONA, Hacienda Arizona, Caucasia, Antioquia, Colombia; Carrera 43A No. 1 Sur-188 of. 903, Medellin, Colombia; NIT # 10026001-7 (Colombia) [SDNT]

GANADERIA EL VERGEL LTDA., Carrera 4 No. 12-20 of. 206, Cartago,Valle, Colombia; Km 7 Via Cartago-Obando, Hacienda El Vergel, Cartago, Valle, Colombia; NIT # 800146295-5 (Colombia) [SDNT]

GANADERIA LUNA HERMANOS LTDA., Carrera 49 No. 61Sur-540, Medellin, Colombia; Carrera 49A No. 48S-60 Bod. 102, Medellin, Colombia; NIT # 811045931-8 (Colombia) [SDNT]

GANADERIAS BILBAO LTDA., Carrera 4 No. 12-20 of. 206, Cartago, Valle, Colombia; Km 7 Via Cartago-Obando, Hacienda El Vergel, Cartago, Valle, Colombia; NIT # 800146290-9 (Colombia) [SDNT]

GANADERIAS DEL VALLE S.A., Avenida 2FN No. 24N-92, Cali, Colombia; Carrera 83 No. 6-50, Cali, Colombia; Carrera 61 No. 11-58, Cali, Colombia; NIT # 800119808-9 (Colombia) [SDNT]

GARAVITO, Doris Amelia, c/o GALAPAGOS S.A., Cali, Colombia; Cedula No. 31233463 (Colombia) (individual) [SDNT]

GARCES VARGAS, Elmo, c/o INVERSIONES EL PENON S.A., Cali, Colombia; c/o INVERSIONES BETANIA LTDA., Cali, Colombia; c/o SOCOVALLE, Cali, Colombia; DOB 20 Jul 1953; Cedula No. 16581793 (Colombia) (individual) [SDNT]

GARCIA ALBERT, Maria Remedios (a.k.a. “IRENE”; a.k.a. “SORAYA”), Spain; DOB 17 Feb 1951; POB Avila, Spain; D.N.I. 00263695-T (Spain); International FARC Commission Member for Spain (individual) [SDNTK]

GARCIA BUITRAGO, Miyer Alberto (a.k.a. “CHIQUI”); DOB 13 Jul 1970; POB Manzanares, Caldas, Colombia; Cedula No. 10287969 (Colombia); Passport AH132212 (Colombia) (individual) [SDNT]

GARCIA DE LA FUENTE ARRIAGA, Ignacio, c/o CUSTOMER NETWORKS S.L., Madrid, Spain; c/o GALERIA DE PORTALES S.A., Madrid, Spain; c/o SOCIEDAD INVERSORA EN PROYECTOS DE INTERNET S.A., Madrid, Spain; D.N.I. 27340558-K (Spain) (individual) [SDNT]

GARCIA DUQUE, Gustavo, Carrera 4 No. 12-20 of. 206, Cartago, Valle, Colombia; c/o INMOBILIARIA LINARES LTDA., Cartago, Valle, Colombia; c/o INMOBILIARIA EL ESCORIAL LTDA., Cartago, Valle, Colombia; DOB 30 Jun 1961; Cedula No. 16213736 (Colombia); Passport 16213736 (Colombia) (individual) [SDNT]

GARCIA DURAN, Maria Del Rosario, c/o DISTRIBUIDORA DE HERMOSILLO GAXIOLA HERMANOS S.A. DE C.V., Hermosillo, Sonora, Mexico; c/o MOLDURAS DEL NOROESTE S.A. DE C.V., Hermosillo, Sonora, Mexico; Preferico Poniente, Calle Simon Bleyy Manuel I. Loaiza, Colonia Olivaries, Hermosillo, Sonora, Mexico; c/o COPA DE PLATA S.A. DE C.V., Culiacan, Sinaloa, Mexico; c/o DISTRIBUIDORA GRAN AUTO S.A. DE C.V., Hermosillo, Sonora, Mexico; Calle Uvalama 19 Esq., Blvd Sabinos, Hermosillo, Sonora, Mexico; Alamos 40, Colonia Modelo, Hermosillo, Sonora, Mexico; c/o FLETES Y TRANSPORTES GAXGAR S.A. DE C.V., Hermosillo, Sonora, Mexico; c/o MINERA LA CASTELLANA Y ANEXAS S.A. DE C.V., Culiacan, Sinaloa, Mexico; Av. Uvalama 15, Hermosillo, Sonora, Mexico; c/o MINERA RIO PRESIDIO S.A. DE C.V., Culiacan, Sinaloa, Mexico; Ave Eduardo Villa 333, Col Oliv., Hermosillo, Sonora, Mexico; c/o COMPANIA MINERA DEL RIO CIANURY S.A. DE C.V., Culiacan, Sinaloa, Mexico; Prop. Priv y Bldg G. Escoboza, Hermosillo, Sonora, Mexico; c/o TEMPLE DEL PITIC S.A. DE C.V., Hermosillo, Sonora, Mexico; c/o INMOBILIARIA GAXIOLA HERMANOS S.A. DE C.V., Hermosillo, Sonora, Mexico; Calle Clavel No. 1406, Esquina con Calle Rosa, Colonia Margarita, Culiacan, Sinaloa, Mexico; Calle Zaragoza No. 166-2, al Poniente de la Col. Centro, Culiacan, Sinaloa, Mexico; c/o GRUPO INDUSTRIAL GAXIOLA HERMANOS S.A. DE C.V., Hermosillo, Sonora, Mexico; Uvalama 15 y Sabinos, Col Sabin, Hermosillo, Sonora, Mexico; Rafael Campoy #307, Colonia Pitic, Hermosillo, Sonora, Mexico; Calle de Anza Numero 210, Colonia Pitic, Hermosillo, Sonora, Mexico; DOB 12 Sep 1953; POB Culiacan, Sinaloa, Mexico; citizen Mexico; nationality Mexico; R.F.C. GADR521211 (Mexico); alt. R.F.C. GADR530912 (Mexico) (individual) [SDNTK]

GARCIA GARCIA, Gabriel Alfonso, c/o AGRICOLA DOIMA DEL NORTE DEL VALLE LTDA., Cartago, Valle, Colombia; c/o GANADERIAS BILBAO LTDA., Cartago, Valle, Colombia; c/o GANADERIA EL VERGEL LTDA., Cartago, Valle, Colombia; Carrera 4 No. 12-20 of. 206, Cartago, Valle, Colombia; DOB 7 Jun 1976; Cedula No. 16230989 (Colombia); Passport 16230989 (Colombia) (individual) [SDNT]

GARCIA MOLINA, Gener (a.k.a. “GUTIERREZ, Jhon”; a.k.a. “HERNANDEZ, John”; a.k.a. “JHON 40”; a.k.a. “JOHN 40”; a.k.a. “JOHNNY 40”); DOB 23 Aug 1963; POB San Martin, Meta, Colombia; Cedula No. 17353242 (Colombia) (individual) [SDNTK]

GARCIA MONTILLA, Edgar Alberto (a.k.a. GARCIA MANTILLA, Edgar Alberto; a.k.a. GARCIA MOGAR, Edgar; a.k.a. GARCIA MONTELLA, Edgar Alberto), c/o COMERCIALIZACION Y FINANCIACION DE AUTOMOTORES S.A., Cali, Colombia; c/o REVISTA DEL AMERICA LTDA., Cali, Colombia; c/o LABORATORIOS KRESSFOR DE COLOMBIA S.A., Bogota, Colombia; DOB 28 Nov 1946; Cedula No. 14936775 (Colombia); Passport AC365457 (Colombia); alt. Passport PE008603 (Colombia); alt. Passport AA294885 (Colombia); alt. Passport PO564495 (Colombia) (individual) [SDNT]

GARCIA PIZARRO, Gentil Velez, c/o GALAPAGOS S.A., Cali, Colombia; Cedula No. 6616986 (Colombia) (individual) [SDNT]

GARCIA RODRIGUEZ, Martha, c/o TRANSPORTES MICHAEL LTDA., Barranquilla, Colombia; c/o COOPERATIVA DE SERVICIO DE TRANSPORTE DE CARGA DE COLOMBIA LTDA., Barranquilla, Colombia; c/o CENTRO DE BELLEZA SHARY VERGARA, Barranquilla, Colombia; POB Colombia; Cedula No. 32761805 (Colombia) (individual) [SDNT]

GARCIA ROMERO, Audra Yamile, c/o INVHERESA S.A., Cali, Colombia; c/o ALKALA ASOCIADOS S.A., Cali, Colombia; DOB 23 Jul 1971; Cedula No. 66765096 (Colombia) (individual) [SDNT]

GARCIA VARELA, Luis Fernando,, c/o TAURA S.A., Cali, Colombia; Cedula No. 16282923 (Colombia) (individual) [SDNT]

GARCIA VASQUEZ, Omaira, Avenida 2 Norte No. 2N-36, Edif. Campanari Ofc. 340, Cali, Colombia; c/o UNIDAS S.A., Cali, Colombia; c/o FINVE S.A., Bogota, Colombia; DOB 26 Jan 1961; POB Cali, Valle, Colombia; Cedula No. 31870497 (Colombia); Passport 31870497 (Colombia) (individual) [SDNT]

GARCIA, Daniel, Avenida Insurgentes Sur No. 421, Bloque B Despacho 404, C.P. 06100, Mexico, D.F., Mexico; Manager, Promociones Artisticas (PROARTE) (individual) [CUBA]

GARCIA, Freddy (a.k.a. GARCIA, Fredy), Calle 11 No. 1-07 of. 405, Cali, Colombia; c/o PROCESADORA DE POLLOS SUPERIOR S.A., Cali, Colombia; c/o COMERCIALIZADORA INTERNACIONAL VALLE DE ORO S.A., Cali, Colombia; Cedula No. 79376230 (Colombia) (individual) [SDNT]

GARZON RESTREPO, Juan Leonardo, c/o DISTRIBUIDORA MYRAMIREZ S.A., Cali, Colombia; c/o LABORATORIOS GENERICOS VETERINARIOS DE COLOMBIA S.A., Bogota, Colombia; c/o ALFA PHARMA S.A., Bogota, Colombia; Carrera 7P No. 76-90, Cali, Colombia; c/o LABORATORIOS KRESSFOR DE COLOMBIA S.A., Bogota, Colombia; c/o VALORES MOBILIARIOS DE OCCIDENTE S.A., Bogota, Colombia; c/o FARMATODO S.A., Bogota, Colombia; c/o PENTACOOP LTDA., Bogota, Colombia; Diagonal 53 No. 38A-20 apt. 103, Bogota, Colombia; c/o BLANCO PHARMA S.A., Bogota, Colombia; c/o PENTA PHARMA DE COLOMBIA S.A., Bogota, Colombia; c/o DROGAS LA REBAJA, Cali, Colombia; c/o INVERSIONES ARA LTDA., Cali, Colombia; DOB 14 Jan 1962; Cedula No. 16663709 (Colombia) (individual) [SDNT]

GASHI, Sabit; DOB 30 Dec 1967; POB Suva Reka, Serbia and Montenegro (individual) [BALKANS]

GASMI, Salah (a.k.a. “BOUNOUADHER”; a.k.a. “SALAH ABU MOHAMED”; a.k.a. “SALAH ABU MUHAMAD”); DOB 13 Apr 1971; POB Zeribet El Oued, Biskra, Algeria (individual) [SDGT]

GASOLINERAS SAN FERNANDO S.A. DE C.V., Ciudad Camargo, Chihuahua, Mexico; Avenida 3A y Calle Mina, Colonia Centro, Saucillo, Chihuahua, Mexico [SDNTK]

GAVIOTAS LTDA. (a.k.a. HOTEL SIN PECADOS; a.k.a. MOTEL CAMPO AMOR; a.k.a. “HOTEL SIN PK2”), Calle 4A No. 21-34 Circunvalar, Cartago, Valle, Colombia; NIT # 800032092-7 (Colombia) [SDNT]

GAVIRIA DE MOR, Liliana, c/o MOR ALFOMBRAS ALFOFIQUE S.A., Bogota, Colombia; c/o CONSTRUCTORA AMERICA S.A., Bogota, Colombia; c/o DURATEX S.A., Bogota, Colombia; c/o GAVIRIA MOR Y CIA. LTDA., Girardot, Colombia; c/o MOR GAVIRIA S.C.S., Bogota, Colombia; DOB 16 Mar 1965; POB Bogota, Colombia; Cedula No. 20621292 (Colombia); Passport AG443233 (Colombia) (individual) [SDNT]

GAVIRIA MOR Y CIA. LTDA., Calle 16 No. 11-82 Ofc. 302, Girardot, Colombia; NIT # 800212771-2 (Colombia) [SDNT]

GAVIRIA PRICE, Juan Pablo, c/o CRIADERO LA LUISA E.U., Cali, Colombia; Carrera 4 No. 11-33 Ofc. 710, Cali, Colombia; DOB 09 Jul 1960; POB Cali, Valle, Colombia; Cedula No. 16639081 (Colombia); Passport 16639081 (Colombia) (individual) [SDNT]

GAVIRIA RUEDA, Gloria Ines (a.k.a. GAVIRIA DE INDABURU, Gloria Ines), c/o INTERNACIONAL DE PROYECTOS INMOBILIARIOS S.A., Quito, Ecuador; c/o COMERCIALIZADORA MOR GAVIRIA S.A., Quito, Ecuador; POB Colombia; Cedula No. 1719011601 (Ecuador); alt. Cedula No. 41576358 (Colombia); RUC # 1233779 (Ecuador) (individual) [SDNT]

GAXIOLA GARCIA, Carlos Alberto, Avenida Raul Campoy Numero 307, Colonia Pitic, Hermosillo, Sonora, Mexico; Calles Olivares y Eduardo W. Villa, Hermosillo, Sonora, Mexico; c/o INMUEBLES SIERRA VISTA S.A. DE C.V., Hermosillo, Sonora, Mexico; Calle Angel Garcia Aburto No. 62, Col. Loma Linda, Hermosillo, Sonora, Mexico; c/o DISTRIBUIDORA GRAN AUTO S.A. DE C.V., Hermosillo, Sonora, Mexico; DOB 02 Mar 1978; POB Hermosillo, Sonora, Mexico; citizen Mexico; nationality Mexico; C.U.R.P. GAGC780302HSRXRR00 (Mexico); R.F.C. GAGC780302H75 (Mexico) (individual) [SDNTK]

GAXIOLA GARCIA, Maria Elena, Priv. Bugambilia 55, Colonia Bugambilia, Hermosillo, Sonora, Mexico; Rafael Campoy Num 307, Hermosillo, Sonora, Mexico; Calle Rafael Campoy No. 305, Col. Pitic, Hermosillo, Sonora, Mexico; c/o DISTRIBUIDORA GRAN AUTO S.A. DE C.V., Hermosillo, Sonora, Mexico; c/o INMOBILIARIA GAXIOLA HERMANOS S.A. DE C.V., Hermosillo, Sonora, Mexico; DOB 18 Aug 1975; POB Culiacan, Sinaloa, Mexico; alt. POB Arizpe, Sonora, Mexico; citizen Mexico; nationality Mexico; C.U.R.P. GAGE750818MSLXRL11 (Mexico); alt. C.U.R.P. GAGE750818MSLXRL03 (Mexico); R.F.C. GAGE350904 (Mexico); alt. R.F.C. GAGE680511 (Mexico); alt. R.F.C. GAGE750818L66 (Mexico) (individual) [SDNTK]

GAXIOLA GARCIA, Rigoberto, Calle de Anza Numero 210, Colonia Pitic, Hermosillo, Sonora, Mexico; Avenida de Anza #210, Colonia Pitic, Hermosillo, Sonora, Mexico; c/o FLETES Y TRANSPORTES GAXGAR S.A. DE C.V., Hermosillo, Sonora, Mexico; c/o TEMPLE DEL PITIC S.A. DE C.V., Hermosillo, Sonora, Mexico; Avenida Adolfo de la Huerta 401, Colonia Pitic, Hermosillo, Sonora, Mexico; Rafael Campoy #307, Pitic, Hermosillo, Sonora, Mexico; Calle Clavel No. 1406, Esquina con Calle Rosa, Colonia Margarita, Culiacan, Sinaloa, Mexico; c/o MINERA LA CASTELLANA Y ANEXAS S.A. DE C.V., Culiacan, Sinaloa, Mexico; c/o INMOBILIARIA GAXIOLA HERMANOS S.A. DE C.V., Hermosillo, Sonora, Mexico; Uvalama No. 19, Col Los Sabinos, Hermosillo, Sonora, Mexico; c/o MOLDURAS DEL NOROESTE S.A. DE C.V., Hermosillo, Sonora, Mexico; c/o MINERA RIO PRESIDIO S.A. DE C.V., Culiacan, Sinaloa, Mexico; Alamos No. 42, Colonia Modelo, Hermosillo, Sonora, Mexico; c/o AGRICOLA GAXIOLA S.A. DE C.V., Hermosillo, Sonora, Mexico; Calles Olivares y Eduardo W. Villa, Colonia Olivares, Hermosillo, Sonora, Mexico; Ave Colonizadores 830, Hermosillo, Sonora, Mexico; c/o DISTRIBUIDORA DE HERMOSILLO GAXIOLA HERMANOS S.A. DE C.V., Hermosillo, Sonora, Mexico; c/o GRUPO INDUSTRIAL GAXIOLA HERMANOS S.A. DE C.V., Hermosillo, Sonora, Mexico; c/o INMUEBLES SIERRA VISTA S.A. DE C.V., Hermosillo, Sonora, Mexico; c/o DISTRIBUIDORA GRAN AUTO S.A. DE C.V., Hermosillo, Sonora, Mexico; c/o COPA DE PLATA S.A. DE C.V., Culiacan, Sinaloa, Mexico; DOB 25 Jan 1973; alt. DOB 26 Jan 1973; POB CULIACAN, SINALOA, MEXICO; citizen Mexico; nationality Mexico; C.U.R.P. GAGR730125HSLXRG08 (Mexico); R.F.C. GAGR730125DC9 (Mexico); alt. R.F.C. GACR730125 (Mexico); alt. R.F.C. GAGP730125 (Mexico) (individual) [SDNTK]

GAXIOLA MEDINA, Rigoberto (a.k.a. MEDINA SAENZ, Enrique; a.k.a. MORALES GUERRERO, Juan Antonio; a.k.a. SAENZ MEDINA, Enrique), Hermosillo, Sonora, Mexico; Calle Clavel No. 1406, Colonia Margarita, Culiacan, Sinaloa, Mexico; DOB 27 Sep 1950; POB Sinaloa, Mexico; citizen Mexico; nationality Mexico; R.F.C. GAMR-501027 (Mexico) (individual) [SDNTK]

GBS TRADING S.A., Carrera 85 No. 15-110, Cali, Colombia; NIT # 805026824-5 (Colombia) [SDNT]

GEIGES, Daniel; DOB 25 Jan 1938; POB Lachen, Switzerland; nationality Switzerland; Passport 8071366 (Switzerland) (individual) [NPWMD]

GELOWICZ, Fritz Martin (a.k.a. GEBERT, Markus; a.k.a. GELOWICZ, Abdullah; a.k.a. GELOWICZ, Fritz Martin Abdullah; a.k.a. GELOWITZ, Fritz Martin Abdullah; a.k.a. KONARS, Robert; a.k.a. “BENZL”), Boefinger Weg 20, Ulm 89075, Germany; Eberhardstrasse 70, Ulm 89073, Germany; DOB 1 Sep 1979; alt. DOB 10 Apr 1979; POB Munich, Germany; alt. POB Liege, Belgium; citizen Germany; Passport 7020069907 (Germany); Personal ID Card 7020783883; currently incarcerated at Stuttgart-Stammheim, Germany (individual) [SDGT]

GEMEX AUSSENHANDELS GMBH, Hanauer Landstr. 126-128, D-6000, Frankfurt am Main 1, Germany [CUBA]

GENERAL DE NEGOCIOS Y ADMINISTRACION LTDA. (a.k.a. GENEGA LTDA.), Calle 10 No. 4-47 piso 18, Cali, Colombia; Carrera 3 No. 11-32 of. 939, Cali, Colombia; NIT # 805006744-9 (Colombia) [SDNT]

GENERICOS ESPECIALES S.A. (a.k.a. GENES S.A.), Carrera 42C No. 22C-36, Bogota, Colombia; NIT # 830050661-3 (Colombia) [SDNT]

GEOPLASTICOS S.A. (f.k.a. COLOMBIANA DE BOLSAS S.A.), Calle 24 No. 4-31, Cali, Colombia; NIT # 890931876-9 (Colombia) [SDNT]

GERENCIA DE PROYECTOS Y SOLUCIONES LTDA., Avenida 13 No. 100-12 Ofc. 302, Bogota, Colombia; NIT # 800231600-2 (Colombia) [SDNT]

GESTORA MERCANTIL S.A., Avenida 7 Norte No. 23N-81, Cali, Colombia; Avenida 7 Norte No. 23-77, Cali, Colombia; NIT # 800154869-6 (Colombia) [SDNT]

GEX EXPLORE S. DE R.L. DE C.V., Avenida David Alfaro Siqueiros 2789-102, Colonia Zona Rio, Tijuana, Baja California, Mexico; Avenida David Alfaro 25, CP 22320, Tijuana, Baja California, Mexico; Calle Nezahualcoyotyl No. 1660, CP 22320, Colonia Zona Rio, Tijuana, Baja California, Mexico [SDNTK]

GEZIRA TANNERY, Gezira, Sudan [SUDAN]

GEZIRA TRADE & SERVICES COMPANY LIMITED, P.O. Box 215, Khartoum, Sudan; Gedarit, Sudan; Kosti, Sudan; Juba, Sudan; P.O. Box 17, Port Sudan, Sudan; El Obeid, Sudan; Sennar, Sudan; Wad Medani, Sudan [SUDAN]

GHAILANI, Ahmed Khalfan (a.k.a. AHMAD, Abu Bakr; a.k.a. “AHMED THE TANZANIAN”; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. “FOOPIE”; a.k.a. “FUPI”; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 14 Apr 1974; alt. DOB 1 Aug 1970; alt. DOB 13 Apr 1974; POB Zanzibar, Tanzania; citizen Tanzania (individual) [SDGT]

GHALIB, Nayif Shindakh Thamir; nationality Iraq; Ba'th party regional command chairman, an-Najaf; member; Iraqi National Assembly (individual) [IRAQ2]

GHANI, Mohammad Nadeem (a.k.a. GHANI, Mohamed Nadim), c/o ZULEKHA GENERAL TRADING LLC, Ajman, United Arab Emirates; United Kingdom; citizen United Kingdom; Passport 093055372 (United Kingdom) (individual) [SDNTK]

GHARARGAHE SAZANDEGI GHAEM (a.k.a. GHARARGAH GHAEM), No. 25, Valiasr St., Azadi Sq., Tehran, Iran [NPWMD]

GHARIB, Fadil Mahmud (a.k.a. AL-MASHAIKHI, Gharib Muhammad Fazel); DOB 1944; POB Dujail, Iraq; nationality Iraq; Ba'th party regional command chairman, Babil; chairman, General Federation of Iraqi Trade Unions (individual) [IRAQ2]

GHAZALI, Rustum, Syria; DOB circa 1949; nationality Syria; Chief of Syrian Military Intelligence for Lebanon (individual) [SYRIA]

GHORB KARBALA (a.k.a. GHARARGAH KARBALA; a.k.a. GHARARGAH SAZANDEGI KARBALA-MOASSESEH TAHA), No. 2 Firouzeh Alley, Shahid Hadjipour St., Resalat Highway, Tehran, Iran [NPWMD]

GHORB NOOH, P.O. Box 16765-3476, Tehran, Iran [NPWMD]

GIAD AUTOMOTIVE INDUSTRY COMPANY LIMITED (a.k.a. GIAD AUTOMOTIVE AND TRUCK; a.k.a. GIAD AUTOMOTIVE COMPANY; a.k.a. GIAD CARS & HEAVY TRUCKS COMPANY), Gazera State (40 km distance from Khartoum), P.O. Box 444/13600, Khartoum 1111, Sudan; Website www.giadmotors.com/giad_auto.html [SUDAN]

GIAD MOTOR INDUSTRY COMPANY LIMITED (a.k.a. GIAD MOTOR COMPANY), Basheer Mohammad Saeed Building, Baladia Street, P.O. Box 13610, Khartoum, Sudan; Website www.giadmotors.com (Sudan) [SUDAN]

GIAMX LTDA., Calle 80 No. 37-30, Bogota, Colombia; NIT # 830095943-9 (Colombia) [SDNT]

GIBSON, Myrtle; DOB 03 NOV 1952; Former Liberian Senator; advisor to former President of Liberia Charles Taylor (individual) [LIBERIA]

GIL GARCIA, Jose Alejandro, Avenida Ejercito Trigarante 7865-J, Infonavit Cuchanilla 22680, Tijuana, Baja California, Mexico; c/o Farmacia Vida Suprema, S.A. DE C.V., Tijuana, Baja California, Mexico; c/o Administradora De Inmuebles Vida, S.A. de C.V., Tijuana, Baja California, Mexico; c/o ADP, S.C., Tijuana, Baja California, Mexico; Avenida Altabrisa 15401, Fraccionamiento Altabrisa, Otay Universidad, Tijuana, Baja California, Mexico; c/o Distribuidora Imperial De Baja California, S.A. de C.V., Tijuana, Baja California, Mexico; DOB 22 Jan 1952; POB Culiacan, Sinaloa, Mexico; Credencial electoral 103624690069 (Mexico); R.F.C. GIGA-520122 (Mexico) (individual) [SDNTK]

GIL GARZON, Marco Antonio, c/o CONSTRUCTORA AMERICA S.A., Bogota, Colombia; DOB 25 May 1947; POB Toca, Boyaca, Colombia; Cedula No. 17176949 (Colombia) (individual) [SDNT]

GIL GUIO, Alexandra, c/o PROMOCIONES E INVERSIONES LAS PALMAS S.A., Bogota, Colombia; c/o C.I. OTILIA FLOWERS S.A., Cajica, Cundinamarca, Colombia; c/o DURATEX S.A., Bogota, Colombia; c/o CONSTRUCTORA AMERICA S.A., Bogota, Colombia; c/o CONSTRUCTORA IRAKA S.A., Bogota, Colombia; DOB 11 Oct 1973; POB Colombia; Cedula No. 52145376 (Colombia) (individual) [SDNT]

GIL RODRIGUEZ, Ana Maria, c/o AMPARO R. DE GIL Y CIA. S.C.S., Cali, Colombia; c/o DROBLAM S.A., Cali, Colombia; DOB 24 Aug 1978; Cedula No. 67020296 (Colombia); Passport 67020296 (Colombia) (individual) [SDNT]

GIL RODRIGUEZ, Angela Maria, c/o AMPARO R. DE GIL Y CIA. S.C.S., Cali, Colombia; c/o AQUILEA S.A., Cali, Colombia; c/o DROBLAM S.A., Cali, Colombia; DOB 21 Feb 1980; Cedula No. 52721666 (Colombia); Passport 52721666 (Colombia) (individual) [SDNT]

GIL RODRIGUEZ, Juan Felipe, c/o AMPARO R. DE GIL Y CIA. S.C.S., Cali, Colombia; c/o DROBLAM S.A., Cali, Colombia; DOB 7 Apr 1975; Cedula No. 94446642 (Colombia); Passport 94446642 (Colombia) (individual) [SDNT]

GILBOA, Joseph (a.k.a. GIL, Josef; a.k.a. GILBERT, Joseph; a.k.a. GILBOA, Joseph Papzian; a.k.a. GILBOA, Yosef); DOB 8 Apr 1943; POB Israel (individual) [SDNTK]

GILMAN FRANCO, Maria, c/o TAURA S.A., Cali, Colombia; Cedula No. 22103099 (Colombia) (individual) [SDNT]

GIMBER INVESTING CORPORATION, Virgin Islands, British [SDNT]

GIMNASIO BODY AND HEALTH, Calle 80 No. 75-210, Barranquilla, Colombia [SDNT]

GINEID SUGAR FACTORY, P.O. Box 1, Gineid, Sudan [SUDAN]

GIRALDO ARBELAEZ, Fernando, c/o INMOBILIARIA U.M.V. S.A., Cali, Colombia; DOB 27 Nov 1952; Cedula No. 16249351 (Colombia) (individual) [SDNT]

GIRALDO FRANCO, Juan Carlos, Calle 3 Oeste No. 26-12, El Aguila, Valle, Colombia; DOB 10 Jun 1971; Cedula No. 16791184 (Colombia) (individual) [SDNT]

GIRALDO RUBIO, Marleni, c/o MAGEN LTDA., Bogota, Colombia; c/o DISFOGEN LTDA., Bogota, Colombia; Cedula No. 51760752 (Colombia); Passport 51760752 (Colombia) (individual) [SDNT]

GIRALDO SARRIA, Octavio, c/o INMOBILIARIA U.M.V. S.A., Cali, Colombia; DOB 15 Nov 1967; Cedula No. 16281770 (Colombia) (individual) [SDNT]

GIRALDO SARRIA, Rosa Amelia, c/o INMOBILIARIA U.M.V. S.A., Cali, Colombia; DOB 18 Aug 1974; Cedula No. 43821679 (Colombia) (individual) [SDNT]

GIRALDO SERNA, Hernan; DOB 16 Oct 1948; Cedula No. 12531356 (Colombia) (individual) [SDNTK]

GIRALDO VELASCO, Hector Fabio, c/o CRIADERO SANTA GERTRUDIS S.A., Jamundi, Valle, Colombia; DOB 17 Mar 1965; Cedula No. 16711573 (Colombia) (individual) [SDNT]

GLAJAN S.A., Transversal 29 No. 39-92, Bogota, Colombia; NIT # 830023266-2 (Colombia) [SDNT]

GLOBAL FILMS, S.A. DE C.V., Blvd. Fundadores 104-11A, Colonia Valle del Rubi, Tijuana, Baja California, Mexico; R.F.C. GFI-961219-9J4 (Mexico) [SDNTK]

GLOBAL INTERFACE COMPANY INC. (f.k.a. TRANS SCIENTIFIC CORP.), 9F-1, No. 22, Hsin Yi Rd., Sec. 2, Taipei, Taiwan; 1st Floor, No. 49, Lane 280, Kuang Fu S. Road, Taipei, Taiwan; Business Registration Document # 12873346 (Taiwan) [NPWMD]

GLOBAL MARINE OVERSEAS, INC., Panama [CUBA]

GLOBAL RELIEF FOUNDATION, INC. (a.k.a. FONDATION SECOURS MONDIAL A.S.B.L.; a.k.a. FONDATION SECOURS MONDIAL VZW; a.k.a. FONDATION SECOURS MONDIAL 'WORLD RELIEF'; a.k.a. FONDATION SECOURS MONDIAL-BELGIQUE A.S.B.L.; a.k.a. FONDATION SECOURS MONDIAL-KOSOVA; a.k.a. FSM; a.k.a. SECOURS MONDIAL DE FRANCE; a.k.a. STICHTING WERELDHULP-BELGIE, V.Z.W.), Put Mladih Muslimana Street 30/A, Sarajevo, Bosnia and Herzegovina; House 267 Street No. 54, Sector F-11/4, Islamabad, Pakistan; Jordan; Gaza Strip, undetermined; Rruga e Kavajes, Building No. 3, Apartment No. 61, P.O. Box 2892, Tirana, Albania; Vaatjesstraat, 29, 2580 Putte, Belgium; India; Ingushetia, Russia; 49 rue du Lazaret, 67100 Strasbourg, France; Afghanistan; Chechnya, Russia; China; Georgia; Syria; P.O. Box 6, 1040 Etterbeek 2, Brussels, Belgium; Kashmir, undetermined; Lebanon; West Bank; Mula Mustafe Baseskije Street No. 72, Sarajevo, Bosnia and Herzegovina; Ylli Morina Road, Djakovica, Serbia; Iraq; Rue des Bataves 69, 1040 Etterbeek, Brussels, Belgium; Rr. Skenderbeu 76, Lagjja Sefa, Gjakova, Serbia; Azerbaijan; Bangladesh; Eritrea; Ethiopia; Somalia; Saray Cad. No. 37 B Blok, Yesilyurt Apt. 2/4, Sirinevler, Turkey; Sierra Leone; V.A.T. Number BE 454,419,759 [SDGT]

GLOBAL RELIEF FOUNDATION, INC., P.O. Box 1406, Bridgeview, IL 60455; US FEIN 36-3804626 [SDGT]

GOCHE, Nicholas Tasunungurwa; DOB 1 Aug 1946; Minister of Public Works, Labour and Social Welfare (individual) [ZIMBABWE]

GOGEASCOECHEA ARRONATEGUI, Eneko; DOB 29 Apr 1967; POB Guernica, Vizacaya Province, Spain; D.N.I. 44.556.097 (Spain); Member ETA (individual) [SDGT]

GOIRICELAYA GONZALEZ, Cristina; DOB 23 Dec 1967; POB Vergara, Guipuzcoa Province, Spain; D.N.I. 16.282.556 (Spain); Member ETA (individual) [SDGT]

GOLDEN AARON PTE. LTD., 3 Shenton Way, 10-01, Shenton House, Signapore 068805, Singapore; 101 Cecil Street, 08-08 Tong Eng Building, Singapore 069533, Singapore [JADE] [BURMA]

GOLDEN AARON PTE. LTD., 3 Shenton Way, #10-01 Shenton House, Singapore 068805, Singapore [BURMA]

GOLDEN COMET NAVIGATION CO. LTD., c/o EMPRESA DE NAVEGACION MAMBISA, Apartado 543, San Ignacio 104, Havana, Cuba [CUBA]

GOMEZ ALVAREZ, Sor Teresa, c/o FUNDACION PARA LA PAZ DE CORDOBA, Monteria, Cordoba, Colombia; DOB 27 Jun 1956; POB Amalfi, Antioquia, Colombia; Cedula No. 21446537 (Colombia); Passport 21446537 (Colombia) (individual) [SDNTK]

GOMEZ APONTE, Laura Victoria, Carrera 4A No. 63N-29, Cali, Colombia; c/o LADRILLERA LA CANDELARIA LTDA., Cali, Colombia; DOB 31 Oct 1965; POB Cali, Valle, Colombia; Cedula No. 31937650 (Colombia); Passport 31937650 (Colombia) (individual) [SDNT]

GOMEZ BERRIO, Olmes de Jesus (a.k.a. GOMEZ BERRIO, Holmes de Jesus), Carrera 1 No. 18-52, Cali, Colombia; c/o INVERSIONES Y CONSTRUCCIONES VALLE S.A., Cali, Colombia; c/o INVERSIONES INVERVALLE S.A., Cali, Colombia; DOB 15 Dec 1961; Cedula No. 73105133 (Colombia) (individual) [SDNT]

GOMEZ BUSTAMANTE, Luis Alfonso, Carrera 5 No. 1-82, Obando, Valle, Colombia; Calle 1B No. 1-26, Barrio El Prado, Cartago, Valle, Colombia; c/o GAVIOTAS LTDA., Colombia; DOB 01 Nov 1953; Cedula No. 4451571 (Colombia); Passport 4451571 (Colombia) (individual) [SDNT]

GOMEZ BUSTAMANTE, Luis Hernando, Km 12 Via Santa Ana Molina, Hacienda Doima, Cartago, Colombia; c/o GANADERIA EL VERGEL LTDA., Cartago, Valle, Colombia; c/o ORGANIZACION LUIS HERNANDO GOMEZ BUSTAMANTE Y CIA. S.C.S., Cartago, Valle, Colombia; c/o AGRICOLA DOIMA DEL NORTE DEL VALLE LTDA., Cartago, Valle, Colombia; c/o INMOBILIARIA PASADENA LTDA., Cartago, Valle, Colombia; Km 7 Via Cartago-Obando, Hacienda El Vergel, Cartago, Colombia; c/o GANADERIAS BILBAO LTDA., Cartago, Valle, Colombia; c/o VISCAYA LTDA., Cartago, Valle, Colombia; c/o INMOBILIARIA EL ESCORIAL LTDA., Cartago, Valle, Colombia; c/o INMOBILIARIA LINARES LTDA., Cartago, Valle, Colombia; DOB 14 Mar 1958; POB El Aguila, Valle, Colombia; Cedula No. 16209410 (Colombia); Passport 16209410 (Colombia) (individual) [SDNT]

GOMEZ BUSTAMANTE, Wilmer de Jesus, c/o GAVIOTAS LTDA., Cartago, Valle, Colombia; Calle 17A No. 8N-15, Cartago, Valle, Colombia; DOB 26 Jan 1970; POB Aguila, Valle; Cedula No. 16223940 (Colombia); Passport AF002565 (Colombia); alt. Passport AH345442 (Colombia) (individual) [SDNT]

GOMEZ GALINDO, Omaira, Apartado Aereo 38028, Cali, Colombia; c/o CONSTRUCTORA GOPEVA LTDA., Cali, Colombia; Avenida 6N No. 38-90, Cali, Colombia; DOB 12 Dec 1951; Cedula No. 31299825 (Colombia) (individual) [SDNT]

GOMEZ GOMEZ, Viviana, c/o ORGANIZACION LUIS HERNANDO GOMEZ BUSTAMANTE Y CIA. S.C.S., Cartago, Valle, Colombia; c/o VISCAYA LTDA., Cartago, Valle, Colombia; c/o AGRICOLA DOIMA DEL NORTE DEL VALLE LTDA., Cartago, Valle, Colombia; c/o INMOBILIARIA PASADENA LTDA., Cartago, Valle, Colombia; Carrera 4 No. 12-20 of. 206, Cartago, Valle, Colombia; DOB 17 Oct 1982; NIT # 681946748-1 (Colombia) (individual) [SDNT]

GOMEZ JARAMILLO, Luis Fernando, c/o INMOBILIARIA U.M.V. S.A., Cali, Colombia; DOB 23 Aug 1965; Cedula No. 16716914 (Colombia) (individual) [SDNT]

GOMEZ JARAMILLO, Olga Cecilia, c/o GANADERIA EL VERGEL LTDA., Cartago, Valle, Colombia; c/o INMOBILIARIA EL ESCORIAL LTDA., Cartago, Valle, Colombia; c/o INMOBILIARIA LINARES LTDA., Cartago, Valle, Colombia; Carrera 4 No. 12-20 of. 206, Cartago, Valle, Colombia; c/o INMOBILIARIA PASADENA LTDA., Cartago, Valle, Colombia; c/o AGRICOLA DOIMA DEL NORTE DEL VALLE LTDA., Cartago, Valle, Colombia; c/o VISCAYA LTDA., Cartago, Valle, Colombia; c/o ORGANIZACION LUIS HERNANDO GOMEZ BUSTAMANTE Y CIA. S.C.S., Cartago, Valle, Colombia; DOB 29 Feb 1956; Cedula No. 31398070 (Colombia); Passport 31398070 (Colombia) (individual) [SDNT]

GOMEZ LLANOS AISPURO, Jose Rolando, c/o COMERCIALIZADORA BRIMAR'S, S.A. DE. C.V., Culiacan, Sinaloa, Mexico; c/o COMERCIAL JOANA, S.A. DE C.V., Guadalajara, Jalisco, Mexico; Calle Bradley, No. 5, Col. Anzures, Deleg. Miguel Hidalgo, Mexico City, Distrito Federal, Mexico; Acoxpa Andador 9, Edificio 44, Colonia Villa, Coapa, Distrito Federal, Mexico; DOB 8 Feb 1971; alt. DOB 2 Feb 1971; POB Culiacan, Sinaloa, Mexico; citizen Mexico; nationality Mexico; Passport 340038412 (Mexico); alt. Passport 340015480 (Mexico); R.F.C. GOAR710208RS0 (Mexico) (individual) [SDNTK]

GOMEZ MARIN LTDA., Km. 2 Via al Amprao, Ansermanuevo, Valle, Colombia; Calle 16 No. 1N-74, Cartago, Valle, Colombia; Km. 2 Via al Amparo, Cartago, Valle, Colombia; NIT # 800102465-1 (Colombia) [SDNT]

GOMEZ OCAMPO, Davinson (a.k.a. “GORDO”), c/o GOMEZ MARIN LTDA., Ansermanuevo, Valle, Colombia; Calle 16 No. 1-58, Cartago, Valle, Colombia; DOB 10 Jul 1960; Cedula No. 2470433 (Colombia) (individual) [SDNT]

GOMEZ PABON, Humberto Henoc, c/o COPSERVIR LTDA., Bogota, Colombia; c/o TRIMARK LTDA., Bogota, Colombia; Cedula No. 7557394 (Colombia) (individual) [SDNT]

GOMEZ QUINTERO, Carlos Alberto, c/o FREXCO S.A., La Union, Valle, Colombia; c/o CONSTRUCCIONES E INVERSIONES LTDA., La Union, Valle, Colombia; c/o CASA GRAJALES S.A., La Union, Valle, Colombia; c/o FUNDACION CENTRO FRUTICOLA ANDINO, La Union, Valle, Colombia; c/o GRAJALES S.A., La Union, Valle, Colombia; c/o INVERSIONES SANTA CECILIA S.C.S., La Union, Valle, Colombia; Factoria La Rivera, La Union, Valle, Colombia; Calle 14 No. 4-124, La Union, Valle, Colombia; c/o INVERSIONES SANTA MONICA LTDA., La Union, Valle, Colombia; DOB 23 Jan 1957; POB Palmira, Valle, Colombia; Cedula No. 6355791 (Colombia); Passport AH411417 (Colombia) (individual) [SDNT]

GOMEZ SUAREZ, Jose Alonso, c/o DROGAS LA REBAJA BUCARAMANGA S.A., Bucaramanga, Colombia; c/o COOPDISAN, Bucaramanga, Colombia; DOB 8 Jan 1956; Cedula No. 91066409 (Colombia); Passport 91066409 (Colombia) (individual) [SDNT]

GOMEZ VIVAS, Manuel Antonio, c/o GANADERA LTDA., Cali, Colombia; DOB 3 Sep 1963; Cedula No. 7921814 (Colombia) (individual) [SDNT]

GONGORA ALARCON, Hernando, c/o TAURA S.A., Cali, Colombia; Cedula No. 19298944 (Colombia) (individual) [SDNT]

GONO, Gideon; DOB 29 Nov 1959; Passport AD000854 (Zimbabwe); Governor of the Reserve Bank of Zimbabwe (individual) [ZIMBABWE]

GONO, Hellin Mushanyuri; DOB 6 May 1962; Passport AN548299 (Zimbabwe); Spouse of Gideon Gono (individual) [ZIMBABWE]

GONZALES GARBANCHO DE ZEVALLOS, Sara Maria, c/o SERVICIOS SILSA S.A.C., Lima, Peru; c/o ORIENTE TOURS S.R.L., Lima, Peru; c/o PERUVIAN PRECIOUS METALS S.A.C., Lima, Peru; c/o TRANSPORTES AEREOS UNIDOS SELVA AMAZONICA S.A., Lima, Peru; Calle Trinidad Moran 1316, Lima, Peru; c/o LUCERO IMPORT S.A.C., Lima, Peru; c/o EDITORA TRANSPARENCIA S.A., Lima, Peru; c/o PERU GLOBAL TOURS S.A.C., Lima, Peru; c/o EMPRESA EDITORA CONTINENTE PRESS S.A., Lima, Peru; DOB 02 Aug 1936; LE Number 07553590 (Peru) (individual) [SDNTK]

GONZALEZ BENITEZ, Olga Patricia, Hacienda Coque, Cartago, Colombia; c/o COMPANIA AGROINVERSORA HENAGRO LTDA., Cartago, Colombia; c/o AGRICOLA GANADERA HENAO GONZALEZ Y CIA. S.C.S., Cartago, Colombia; c/o DESARROLLOS COMERCIALES E INDUSTRIALES HENAO GONZALEZ Y CIA. S.C.S., Cartago, Colombia; Carrera 4 No. 16-04 apt. 303, Cartago, Colombia; Avenida 4 Oeste No. 5-97 Apt. 1001, Cali, Colombia; DOB 4 Aug 1965; POB Cartago, Valle Colombia; Cedula No. 29503761 (Colombia); Passport AH567983 (Colombia); alt. Passport 29503761 (Colombia) (individual) [SDNT]

GONZALEZ BETANCUR, Angel Horacio, c/o FISHING ENTERPRISE HOLDING INC., Panama City, Panama; c/o AQUAMARINA ISLAND INTERNATIONAL CORPORATION, Panama City, Panama; DOB 3 Feb 1966; POB Colombia; Cedula No. 6465085 (Colombia) (individual) [SDNT]

GONZALEZ MARTINEZ, Francisco Javier, c/o SERVICIOS DE LA SABANA E.U., Bogota, Colombia; c/o ADMINISTRADORA DE SERVICIOS VARIOS CALIMA S.A., Cali, Colombia; c/o CHAMARTIN S.A., Cali, Colombia; Cedula No. 16693353 (Colombia); Passport 16693353 (Colombia) (individual) [SDNT]

GONZALEZ MUNOZ, Daniel, Calle Carrasco 3895 No. 2, Chapultepec, Tijuana, Baja California, Mexico; c/o MULTISERVICIOS BRAVIO, S.A. DE C.V., Tijuana, Baja California, Mexico; c/o MULTISERVICIOS DEL NOROESTE DE MEXICO, S.A. DE C.V., Tijuana, Baja California, Mexico; c/o MEGA DOLAR, S.A. DE C.V., Tijuana, Baja California, Mexico; Blvd. Cuahutemoc 1499 L C 7BI, Colonia Zona Rio, Tijuana, Baja California, Mexico; DOB 20 Jun 1958; POB Ensenada, Baja California, Mexico; R.F.C. GOMD-580620-SX9 (Mexico) (individual) [SDNTK]

GONZALEZ POLANCO, Hermagoras (a.k.a. GONZALEZ APUSHANA, Armando; a.k.a. GONZALEZ POLANCO, Amaury; a.k.a. “EL GORDO BAEZ”; a.k.a. “GORDITO POLANCO”; a.k.a. “MILCIADES”; a.k.a. “UNCLE TOLI”), Karla Karolin Penthouse, Avenida 3 Entre 76 y 77, Maracaibo, Zulia, Venezuela; Caja Seca, Zulia, Venezuela; Avenida El Milagro, Edificio Villa Virginia, Maracaibo, Zulia, Venezuela; Maicao, Guajira, Colombia; Merida, Merida, Venezuela; Maracaibo, Zulia, Venezuela; Aruba; DOB 19 Oct 1962; alt. DOB 19 Oct 1959; POB Maicao, Guajira, Colombia; citizen Venezuela; alt. citizen Colombia; nationality Venezuela; alt. nationality Colombia; Cedula No. 7789819 (Venezuela); alt. Cedula No. 84041400 (Colombia) (individual) [SDNTK]

GONZALEZ QUINTERO, Melba Patricia, c/o AMERICANA DE COSMETICOS S.A., Bogota, Colombia; c/o LATINA DE COSMETICOS S.A. Y DISTRIBUCIONES S.A., Bogota, Colombia; c/o DISTRIBUIDORA DE DROGAS CONDOR S.A., Bogota, Colombia; c/o COINTERCOS S.A., Bogota, Colombia; c/o FIDUSER LTDA., Bogota, Colombia; c/o COSMEPOP, Bogota, Colombia; DOB 24 Dec 1971; Cedula No. 35415232 (Colombia); Passport 35415232 (Colombia) (individual) [SDNT]

GONZALEZ QUIRARTE, Eduardo (a.k.a. GOMEZ CHAVEZ, Gabriel; a.k.a. GONZALEZ LOPEZ, Gregorio; a.k.a. GONZALEZ QUIRARTE, Jose; a.k.a. GONZALEZ QUIRARTE, Lalo; a.k.a. ORELLANA ERAZO, Hector Manuel); DOB 28 Aug 1962; alt. DOB 20 Aug 1962; POB Jalisco Mexico; Passport 96140045817 (Mexico); alt. Passport 97380018185 (Mexico); SSN 550-63-9593 (United States) (individual) [SDNTK]

GONZALEZ ROBLEDO, Julio Cesar, c/o LABORATORIOS GENERICOS VETERINARIOS, Bogota, Colombia; DOB 9 Feb 1936; Cedula No. 2905977 (Colombia) (individual) [SDNT]

GONZALEZ, Carlos Alfonso (a.k.a. ALFONSO, Carlos), Panama (individual) [CUBA]

GONZALEZ, Maria Luz Nelly, c/o COOPERATIVA DE TRABAJO ASOCIADO ACTIVAR, Bogota, Colombia; c/o COOPERATIVA MULTIACTIVA DE COLOMBIA FOMENTAMOS, Bogota, Colombia; Cedula No. 51973466 (Colombia) (individual) [SDNT]

GOODRIDGE, Reginald B. (Senior) (a.k.a. GOODRICH, Reginald B. (Senior)); DOB 11 NOV 1952; Former Minister for Culture, Information, Tourism of Liberia (individual) [LIBERIA]

GOODWILL CHARITABLE ORGANIZATION, INC. (f.k.a. AL-SHAHID SOCIAL ASSOCIATION; f.k.a. EDUCATIONAL DEVELOPMENT ASSOCIATION), PO Box 1794, Dearborn, MI 48126; 13106 Warren Ave. Suite #4, Dearborn, MI 48126 [SDGT]

GOTOVINA, Ante; DOB 12 Oct 1955; POB Pasman, Croatia; ICTY indictee (individual) [BALKANS]

GOWHAR; Vessel Registration Identification IMO 9103087 (vessel) [NPWMD]

GOWRIE FARM, Norton, Zimbabwe [ZIMBABWE]

GRAJALES BERNAL, Sonia Patricia, c/o GRAJALES S.A., La Union, Valle, Colombia; c/o C.A.D. S.A., Bogota, Colombia; c/o JOSAFAT S.A., Tulua, Valle, Colombia; c/o COMUNICACIONES ABIERTAS CAMARY LTDA., Cali, Colombia; c/o ILOVIN S.A., Bogota, Colombia; c/o SALIM S.A., La Union, Valle, Colombia; c/o JEHOVA LTDA., Tulua, Valle, Colombia; c/o ASESORES CONSULTORES ASOCIADOS LTDA., Cali, Colombia; c/o CALI@TELE.COM LTDA., Cali, Colombia; c/o SALOME GRAJALES Y CIA. LTDA., Bogota, Colombia; c/o FUNDACION CENTRO FRUTICOLA ANDINO, La Union, Valle, Colombia; c/o G.L.G. S.A., Bogota, Colombia; c/o MACEDONIA LTDA., La Union, Valle, Colombia; Cedula No. 29613767 (Colombia) (individual) [SDNT]

GRAJALES HERNANDEZ, Agustin, c/o GRAJALES S.A., La Union, Valle, Colombia; c/o CASA GRAJALES S.A., La Union, Valle, Colombia; c/o FREXCO S.A., La Union, Valle, Colombia; Cedula No. 2697864 (Colombia) (individual) [SDNT]

GRAJALES HERNANDEZ, Alvaro Octavio, c/o C.A.D. S.A., Bogota, Colombia; c/o GRAJALES S.A., La Union, Valle, Colombia; c/o CRETA S.A., La Union, Valle, Colombia; Cedula No. 19465707 (Colombia) (individual) [SDNT]

GRAJALES LEMOS, Aida Salome, c/o GRAJALES S.A., La Union, Valle, Colombia; c/o JEHOVA LTDA., Tulua, Valle, Colombia; c/o RAMAL S.A., Bogota, Colombia; c/o CRETA S.A., La Union, Valle, Colombia; c/o FRUTAS DE LA COSTA S.A., Malambo, Atlantico, Colombia; c/o FUNDACION CENTRO DE INVESTIGACION HORTIFRUTICOLA DE COLOMBIA, La Union, Valle, Colombia; c/o GAD S.A., La Union, Valle, Colombia; c/o HOTEL LOS VINEDOS, La Union, Valle, Colombia; c/o MACEDONIA LTDA., La Union, Valle, Colombia; c/o AGRONILO S.A., Toro, Valle, Colombia; c/o ALMACAES S.A., Bogota, Colombia; c/o CASA GRAJALES S.A., La Union, Valle, Colombia; c/o SALIM S.A., La Union, Valle, Colombia; Calle 14 No. 13-03, La Union, Valle, Colombia; c/o TARRITOS S.A., Cali, Colombia; DOB 13 Dec 1970; POB La Union, Valle, Colombia; Cedula No. 39789871 (Colombia) (individual) [SDNT]

GRAJALES LEMOS, Juan Jacobo (a.k.a. GRAJALES LEMOS, Javier), c/o CRETA S.A., La Union, Valle, Colombia; c/o TRANSPORTES DEL ESPIRITU SANTO S.A., La Union, Valle, Colombia; c/o FUNDACION CENTRO FRUTICOLA ANDINO, La Union, Valle, Colombia; c/o GRAJALES S.A., La Union, Valle, Colombia; c/o SALIM S.A., La Union, Valle, Colombia; c/o HOTEL LOS VINEDOS, La Union, Valle, Colombia; c/o JEHOVA LTDA., Tulua, Valle, Colombia; DOB 28 Oct 1972; POB La Union, Valle, Colombia; Cedula No. 94273951 (Colombia) (individual) [SDNT]

GRAJALES LEMOS, Raul Alberto, c/o HOTEL LOS VINEDOS, La Union, Valle, Colombia; c/o TRANSPORTES DEL ESPIRITU SANTO S.A., La Union, Valle, Colombia; Carrera 10 Norte No. 31-01, Cali, Colombia; c/o AGRONILO S.A., Toro, Valle, Colombia; c/o ALMACAES S.A., Bogota, Colombia; c/o SALOME GRAJALES Y CIA. LTDA., Bogota, Colombia; Carrera 15 No. 13-39, La Union, Valle, Colombia; c/o IBADAN LTDA., Tulua, Valle, Colombia; c/o INTERNATIONAL FREEZE DRIED S.A., Bogota, Colombia; c/o FUNDACION CENTRO DE INVESTIGACION HORTIFRUTICOLA DE COLOMBIA, La Union, Valle, Colombia; c/o ARMAGEDON S.A., La Union, Valle, Colombia; c/o HEBRON S.A., Tulua, Valle, Colombia; c/o MACEDONIA LTDA., La Union, Valle, Colombia; c/o PANAMERICANA LTDA., Cali, Colombia; c/o SOCIEDAD DE NEGOCIOS SAN AGUSTIN LTDA., La Union, Valle, Colombia; c/o FUNDACION CENTRO FRUTICOLA ANDINO, La Union, Valle, Colombia; c/o C.A.D. S.A., Bogota, Colombia; c/o CRETA S.A., La Union, Valle, Colombia; c/o GRAJALES S.A., La Union, Valle, Colombia; c/o INVERSIONES AGUILA LTDA., La Union, Valle, Colombia; c/o INVERSIONES SANTA MONICA LTDA., La Union, Valle, Colombia; c/o CASA GRAJALES S.A., La Union, Valle, Colombia; c/o FREXCO S.A., La Union, Valle, Colombia; c/o AGUSTIN GRAJALES Y CIA. LTDA., La Union, Valle, Colombia; c/o INDUSTRIAS DEL ESPIRITU SANTO S.A., Malambo, Atlantico, Colombia; c/o INVERSIONES SANTA CECILIA S.C.S., La Union, Valle, Colombia; c/o JOSAFAT S.A., Tulua, Valle, Colombia; c/o RAMAL S.A., Bogota, Colombia; c/o CONFECCIONES LINA MARIA LTDA., La Union, Valle, Colombia; c/o GAD S.A., La Union, Valle, Colombia; c/o G.L.G. S.A., Bogota, Colombia; c/o ILOVIN S.A., Bogota, Colombia; c/o INVERSIONES GRAME LTDA., La Union, Valle, Colombia; c/o INVERSIONES LOS POSSO LTDA. S.C.S., La Union, Valle, Colombia; c/o SALIM S.A., La Union, Valle, Colombia; c/o FRUTAS DE LA COSTA S.A., Malambo, Atlantico, Colombia; DOB 13 Dec 1957; POB La Union, Valle, Colombia; Cedula No. 6356044 (Colombia) (individual) [SDNT]

GRAJALES LONDONO, Juan Raul, c/o HEBRON S.A., Tulua, Valle, Colombia; c/o CONFECCIONES LINA MARIA LTDA., La Union, Valle, Colombia; c/o SALIM S.A., La Union, Valle, Colombia; c/o CITICAR LTDA., La Union, Valle, Colombia; c/o INTERNATIONAL FREEZE DRIED S.A., Bogota, Colombia; c/o DOXA S.A., La Union, Valle, Colombia; c/o CALI@TELE.COM LTDA., Cali, Colombia; c/o COMUNICACIONES ABIERTAS CAMARY LTDA., Cali, Colombia; c/o JOSAFAT S.A., Tulua, Valle, Colombia; DOB 10 Oct 1986; POB Bogota, Colombia; Cedula No. 11167762 (Colombia) (individual) [SDNT]

GRAJALES LONDONO, Lina Maria, c/o L.G.R. E.U., Cali, Colombia; c/o HOTEL LOS VINEDOS, La Union, Valle, Colombia; c/o HEBRON S.A., Tulua, Valle, Colombia; c/o JOSAFAT S.A., Tulua, Valle, Colombia; c/o SALIM S.A., La Union, Valle, Colombia; c/o CONFECCIONES LINA MARIA LTDA., La Union, Valle, Colombia; c/o GBS TRADING S.A., Cali, Colombia; c/o AGRONILO S.A., Toro, Valle, Colombia; c/o DOXA S.A., La Union, Valle, Colombia; c/o CITICAR LTDA., La Union, Valle, Colombia; DOB 13 Mar 1979; POB Bogota, Colombia; Cedula No. 29567575 (Colombia) (individual) [SDNT]

GRAJALES MARIN, Aura Cecilia, Carrera 15 No. 33A-53, Cali, Colombia; c/o INVERSIONES SANTA CECILIA S.C.S., La Union, Valle, Colombia; c/o INVERSIONES SANTA MONICA LTDA., La Union, Valle, Colombia; Cedula No. 21236002 (Colombia) (individual) [SDNT]

GRAJALES MARIN, Carlos Arturo, c/o INVERSIONES SANTA CECILIA S.C.S., La Union, Valle, Colombia; c/o INVERSIONES SANTA MONICA LTDA., La Union, Valle, Colombia; Cedula No. 63568339 (Colombia) (individual) [SDNT]

GRAJALES MEJIA, Hugo Marino, c/o PANAMERICANA LTDA., Cali, Colombia; c/o SOCIEDAD DE NEGOCIOS SAN AGUSTIN LTDA., La Union, Valle, Colombia; c/o FREXCO S.A., La Union, Valle, Colombia; c/o INVERSIONES GRAME LTDA., La Union, Valle, Colombia; Cedula No. 6355130 (Colombia) (individual) [SDNT]

GRAJALES MEJIA, Jorge Julio, c/o GRAJALES S.A., La Union, Valle, Colombia; c/o FREXCO S.A., La Union, Valle, Colombia; c/o INVERSIONES GRAME LTDA., La Union, Valle, Colombia; c/o AGUSTIN GRAJALES Y CIA. LTDA., La Union, Valle, Colombia; c/o SOCIEDAD DE NEGOCIOS SAN AGUSTIN LTDA., La Union, Valle, Colombia; c/o FUNDACION CENTRO DE INVESTIGACION HORTIFRUTICOLA DE COLOMBIA, La Union, Valle, Colombia; c/o FUNDACION CENTRO FRUTICOLA ANDINO, La Union, Valle, Colombia; Cedula No. 14961290 (Colombia) (individual) [SDNT]

GRAJALES MEJIA, Jose Agustin, c/o AGUSTIN GRAJALES Y CIA. LTDA., La Union, Valle, Colombia; DOB 29 Dec 1952; POB La Union, Valle, Colombia; Cedula No. 14990496 (Colombia) (individual) [SDNT]

GRAJALES POSSO, Gloria Amparo, c/o IBADAN LTDA., Tulua, Valle, Colombia; c/o INVERSIONES AGUILA LTDA., La Union, Valle, Colombia; Cedula No. 29613755 (Colombia) (individual) [SDNT]

GRAJALES POSSO, Maria Nancy, c/o CASA GRAJALES S.A., La Union, Valle, Colombia; c/o FREXCO S.A., La Union, Valle, Colombia; c/o GRAJALES S.A., La Union, Valle, Colombia; c/o INVERSIONES LOS POSSO LTDA S.C.S., La Union, Valle, Colombia; c/o PLAZA REAL LTDA., Cali, Colombia; Cedula No. 29613013 (Colombia) (individual) [SDNT]

GRAJALES PUENTES, Diana Carolina, c/o SALIM S.A., La Union, Valle, Colombia; c/o CITICAR LTDA., La Union, Valle, Colombia; c/o DOXA S.A., La Union, Valle, Colombia; c/o HEBRON S.A., Tulua, Valle, Colombia; c/o AGRONILO S.A., Toro, Valle, Colombia; c/o INDUSTRIAS DEL ESPIRITU SANTO S.A., Malambo, Atlantico, Colombia; c/o FRUTAS DE LA COSTA S.A., Malambo, Atlantico, Colombia; c/o JOSAFAT S.A., Tulua, Valle, Colombia; Transversal 13A No. 123-10 Int. 2 apt. 203, Bogota, Colombia; DOB 15 Mar 1979; POB La Victoria, Valle, Colombia; Cedula No. 52455790 (Colombia) (individual) [SDNT]

GRAJALES S.A., Carrera 25 No. 8-78, Bogota, Colombia; Factoria La Rivera, La Union, Valle, Colombia; Via Roldanillo Finca La Palmera, La Union, Valle, Colombia; NIT # 891900090-8 (Colombia) [SDNT]

GRAN COMPANIA DE HOTELES LTDA. (a.k.a. GRANCO), Calle 74 No. 53-30, Barranquilla, Colombia; NIT # 800011606-2 (Colombia) [SDNT]

GRAN MUELLE S.A., Calle 6 Km 5 Kennedy, Buenaventura, Colombia; Av. Simon Bolivar Km 5, Buenaventura, Colombia; Av. Portuaria Edif. Colfecar B-B Modulo 38, Buenaventura, Colombia; Carrera 3 No. 7-32 Piso 3, Buenaventura, Colombia; Av. Simon Bolivar Km 4 El Pinal, Buenaventura, Colombia; Calle 7A No. 3-73 Piso 3, Buenavetura, Colombia; Carrera 3 No. 7-42, Buenaventura, Colombia; NIT # 800173054-1 (Colombia) [SDNT]

GRANADA ASSOCIATES, INC., 9100 South Dadeland Boulevard, Suite 912, Miami, FL 33156; 780 NW Le Jeune Road, Suite 516, Miami, FL 33126; 780 NW 42nd Avenue, Suite 516, Miami, FL 33126; citizen Colombia; US FEIN 65-0336843 (United States) [SDNT]

GRANDA ESCOBAR, Rodrigo (a.k.a. “CAMPOS, Arturo”; a.k.a. “GALLOPINTO”; a.k.a. “GONZALEZ, Ricardo”), Avenida Victoria No. 36, Urbanizacion Bolivar La Victoria, Jose Felix Rivas, Estado de Aragua, Venezuela; DOB 9 Apr 1949; POB Frontino, Antioquia, Colombia; Cedula No. 171493523-4 (Ecuador); alt. Cedula No. 19104578 (Colombia); Electoral Registry No. 22942118 (Venezuela); Passport PO16104 (Colombia) (individual) [SDNTK]

GRANJA LA SIERRA LTDA., Carrera 85C No. 43-22, Cali, Colombia; Callejon El Dinamo V/Gorgona, Candelaria, Colombia; NIT # 800253142-5 (Colombia) [SDNT]

GRANJA PORCICOLA LA FORTALEZA, Vda. La Hondura, Cartago, Valle, Colombia; Carrera 22 No. 8-71, Cartago, Valle, Colombia; NIT # 31423447-7 (Colombia) [SDNT]

GREAT LAKES BUSINESS COMPANY (a.k.a. GLBC), Gisenyi, Rwanda; P. O. Box 315, Goma, Congo, Democratic Republic of the [DRCONGO]

GREATER NILE PETROLEUM OPERATING COMPANY LIMITED (a.k.a. GNPOC), El Nar Oilfield, Muglad Basin, Sudan; Red Sea Export Terminal, Marsa al-Basha'ir, Sudan; El Toor Oilfield, Muglad Basin, Sudan; El Harr Oilfield, Muglad Basin, Sudan; Heglig Processing Facility, Muglad Basin, Sudan; Pipeline, Heglig via El-Obeid to Port Sudan, Sudan; Hotel Palace, Room 420, El Nil Avenue, Khartoum, Sudan; Kaikang Oilfield, Muglad Basin, Sudan; Unity Oilfield, Muglad Basin, Sudan; Heglig Oilfield, Muglad Basin, Sudan; Toma South Oilfield, Muglad Basin, Sudan [SUDAN]

GREEN CAR RENT LIMITED PARTNERSHIP (a.k.a. HANG HUN SUAN CHAMKAT KRIN KHA REN), 445/11 Soi Ramkamhaeng, 39 Lat Phrao Road, Wang Thong Lang, Bang Kapi district, Bangkok, Thailand [SDNTK]

GREEN ISLAND S.A., Avenida El Dorado Entrada 2 Int. 6, Bogota, Colombia; NIT # 830067456-4 (Colombia) [SDNT]

GRETE SHIPPING CO. S.A., c/o EMPRESA DE NAVEGACION CARIBE, Edificio Lonja del Comercio, Lamparilla 2, Caja Postal 1784, Havana 1, Cuba [CUBA]

GRETE STAR (f.k.a. AVIS FAITH) (vessel) [CUBA]

GRIFFIN, Paul Nicholas; DOB 16 Feb 1964; nationality United Kingdom (individual) [NPWMD]

GRIFFIN, Peter; DOB 9 Sep 1935; POB Oxford, United Kingdom; nationality United Kingdom; Passport B401584 (United Kingdom) issued 28 Sep 1989 expires 28 Sep 1999; alt. Passport B109455 (United Kingdom) issued 3 Oct 1979 (individual) [NPWMD]

GROUPED INDUSTRIES CORPORATION, P.O. Box 2241, Khartoum, Sudan [SUDAN]

GRUBAN, Momcilo; DOB 19 Jun 1961; Bosnian Serb; ICTY indictee in custody (individual) [BALKANS]

GRUESO HURTADO, Ximena, c/o INCOMMERCE S.A., Cali, Colombia; DOB 19 Nov 1980; Cedula No. 66968767 (Colombia); Passport 66968767 (Colombia) (individual) [SDNT]

GRUESO, Alexei, c/o INCOMMERCE S.A., Cali, Colombia; Cedula No. 16607352 (Colombia); Passport 16607352 (Colombia) (individual) [SDNT]

GRUPO ARIAS-ARCE AGENCIA DE LOCALIZACION DE VEHICULOS, S. DE R.L., Rufino Tamayo 9970, Rio Tijuana, Tijuana, Baja California, Mexico; R.F.C. GAA-990226-SW8 (Mexico) [SDNTK]

GRUPO GAMAL, S.A. DE C.V., Av. La Paz 1951, Guadalajara, Jalisco CP 44160, Mexico [SDNTK]

GRUPO INDUSTRIAL GAXIOLA HERMANOS S.A. DE C.V. (a.k.a. GRUPO INDUSTRIAL GAXIOLA; f.k.a. MADYVA), Calle del Oro, Esq. Vinedo, Colonia Parque Industrial, Hermosillo, Sonora 83299, Mexico; Guadalajara, Jalisco, Mexico; Luis Encinas y Alberto Truqui, Hermosillo, Sonora, Mexico; R.F.C. GIG910522BR8 (Mexico) [SDNTK]

GRUPO INMOBILIARIO PROFESIONAL BAJA, S.A DE C.V., Carrillo Puerto, Calle 8317 4, Zona Central, Tijuana, Baja California, Mexico; R.F.C. GIP-951219-8P9 (Mexico) [SDNTK]

GRUPO INVERSOR PRINCIPE DE VERGARA S.L., Calle Jarilla, 5—Pis 4 B, Madrid 28043, Spain; C.I.F. B84758374 (Spain) [SDNT]

GRUPO SANTA LTDA., Carrera 4 12-41 piso 14 y 15, Edificio Seguros Bolivar, Cali, Colombia; Calle 18 106-98 of. 201/202, Cali, Colombia; Carrera 84 17-29, Cali, Colombia [SDNT]

GS PLUS CONSULTORES, S.A. DE C.V., Tijuana, Baja California, Mexico; R.F.C. GPC-011226-4A5 (Mexico) [SDNTK]

GUACA EXPORT, Panama [CUBA]

GUAMAR SHIPPING CO. S.A., c/o EMPRESA DE NAVEGACION CARIBE, Edificio Lonja del Comercio, Lamparilla 2, Caja Postal 1784, Havana 1, Cuba [CUBA]

GUAMATUR, Buenos Aires, Argentina [CUBA]

GUERRERO BRAND, Luis Hernando, c/o A G REPRESENTACIONES LTDA., Cali, Colombia; Cedula No. 16656929 (Colombia) (individual) [SDNT]

GULF CARTEL (a.k.a. CARDENAS GUILLEN ORGANIZATION), Mexico [SDNTK]

GUMBO, Aleck Rugare Ngidi, Montrolse Farm, PO Box 1175, Gweru, Zimbabwe; DOB 8 Mar 1940; Minister of Economic Development (individual) [ZIMBABWE]

GUNAWAN, Gun Gun Rusman (a.k.a. GUNAWAN, Rusman; a.k.a. “ABD AL-HADI”; a.k.a. “ABDUL HADI”; a.k.a. “ABDUL KARIM”; a.k.a. “BUKHORI”; a.k.a. “BUKHORY”); DOB 6 Jul 1977; POB Cianjur, West Java, Indonesia; nationality Indonesia (individual) [SDGT]

GUNEID SUGAR COMPANY LIMITED (a.k.a. GUNEID SUGAR FACTORY), P.O. Box 511, Khartoum, Sudan [SUDAN]

GUTIERREZ ARDILA, Eduardo, c/o EXPORT CAFE LTDA., Cali, Colombia; DOB 8 Aug 1958; Cedula No. 16642433 (Colombia) (individual) [SDNT]

GUTIERREZ REYES, Jose, Vinales Tours, Oaxaca 80, Roma, Mexico, D.F., Mexico (individual) [CUBA]

GUTIERREZ RODRIGUEZ, Pablo, c/o LITOPHARMA, Barranquilla, Colombia; c/o COPSERVIR LTDA., Bogota, Colombia; Cedula No. 85435604 (Colombia) (individual) [SDNT]

GUTIERREZ VERGARA, Luz Mery, Colombia; DOB 26 Apr 1977; POB Ubala, Cundinamarca, Colombia; citizen Colombia; nationality Colombia; Cedula No. 40442724 (Colombia) (individual) [SDNTK]

GUTIERREZ, Teobaldo Jesus, c/o CAJA SOLIDARIA, Bogota, Colombia; c/o LITOPHARMA, Barranquilla, Colombia; c/o COPSERVIR LTDA., Bogota, Colombia; Cedula No. 72167412 (Colombia) (individual) [SDNT]

GUZMAN ENRIQUEZ, Juan Luis, Mexico; DOB 24 Jun 1950; POB La Huacana, Michoacan De Ocampo, Mexico; citizen Mexico; nationality Mexico; C.U.R.P. GUEJ500624HDFZNN06 (Mexico); R.F.C. GUEJ500624 (Mexico) (individual) [SDNTK]

GUZMAN LOERA, Joaquin (a.k.a. AREGON, Max; a.k.a. CARO RODRIGUEZ, Gilberto; a.k.a. GUIERREZ LOERA, Jose Luis; a.k.a. GUMAN LOERAL, Joaquin; a.k.a. GUZMAN FERNANDEZ, Joaquin; a.k.a. GUZMAN LOEIA, Joaguin; a.k.a. GUZMAN LOESA, Joaquin; a.k.a. GUZMAN LOREA, Chapo; a.k.a. GUZMAN PADILLA, Joaquin; a.k.a. GUZMAN, Achivaldo; a.k.a. GUZMAN, Archibaldo; a.k.a. GUZMAN, Aureliano; a.k.a. GUZMAN, Chapo; a.k.a. GUZMAN, Joaquin Chapo; a.k.a. ORTEGA, Miguel; a.k.a. OSUNA, Gilberto; a.k.a. RAMIREZ, Joise Luis; a.k.a. RAMOX PEREZ, Jorge); DOB 25 Dec 1954; POB Mexico (individual) [SDNTK]

GUZMAN TROCHA, Luis Fernando, c/o CAJA SOLIDARIA, Bogota, Colombia; c/o COPSERVIR LTDA., Bogota, Colombia; c/o LITOPHARMA, Barranquilla, Colombia; Cedula No. 72170509 (Colombia) (individual) [SDNT]

H & H METALFORM GMBH, Postfach 1160, Strontianitstrasse 5, Drensteinfurt 4406, Germany [IRAQ2]

HABANOS TRADING, Geneva, Switzerland [CUBA]

HABBASH, George (a.k.a. HABASH, George); Secretary General of POPULAR FRONT FOR THE LIBERATION OF PALESTINE (individual) [SDT]

HABIB, Mohammed Turki, Baghdad, Iraq (individual) [IRAQ2]

HABIBI, Skender; DOB 13 Jul 1968; POB Vitina, Serbia and Montenegro (individual) [BALKANS]

HACHITO SANCHEZ, Angel Alberto, c/o COPSERVIR LTDA., Bogota, Colombia; DOB 9 Nov 1962; Cedula No. 17634454 (Colombia) (individual) [SDNT]

HACIENDA CIEN ANOS DE TIJUANA, S. DE R.L. DE C.V. (a.k.a. COCINA ANTIGUA, S. DE R.L. DE C.V.; a.k.a. LA HACIENDA DE TIJUANA, S. DE R.L. DE C.V.), Calle Jose Maria Velazco No. 1407, Colonia Zona Rio, Baja California, Mexico; Sanchez Taboada 10451, Rio Tijuana, Arreola y Cjon de Acceso Frente a Saveri, Tijuana, Baja California, Mexico; Blvd. Sanchez Taboada S/N, No. 10451, Zona Rio, Fte. de Saverios e Arreola y cion accesso, Tijuana, Baja California, Mexico; R.F.C. CAN010702DF8 (Mexico); alt. R.F.C. HTI010702GR7 (Mexico) [SDNTK]

HACIENDA DE DON JOSE RESTAURANT BAR, S.A. DE C.V., Av. del Rocio 1193, Tijuana, Baja California CP 22200, Mexico [SDNTK]

HACIENDA LA NOVILLERA (a.k.a. NOVILLERA; a.k.a. NOVILLERA GANADERA), Carrera 4 12-41 piso 15, Edificio Seguros Bolivar, Cali, Colombia; Paso de la Bolsa, Jamundi, Valle del Cauca, Cali, Colombia [SDNT]

HACIENDA SANDRANA (a.k.a. SANDRANA GANADERA; a.k.a. SANDRANDA), Carrera 4 12-41 piso 15, Edificio Seguros Bolivar, Cali, Colombia; San Pedro, Valle del Cauca, Colombia [SDNT]

HADDAD, Fethi Ben Assen Ben Salem, Via Fulvio Testi, 184, Cinisello Balsamo, Milan, Italy; Via Porte Giove, 1, Mortara, Pavia, Italy; DOB 28 Mar 1963; alt. DOB 28 Jun 1963; POB Tataouene, Tunisia; nationality Tunisia; Italian Fiscal Code HDDFTH63H28Z352V; Passport L 183017 issued 14 Feb 1996 expires 13 Feb 2001 (individual) [SDGT]

HADI, Mizban Khadr; DOB 1938; POB Mandali District, Diyala, Iraq; nationality Iraq; member, Ba'th party regional command and Revolutionary Command Council since 1991 (individual) [IRAQ2]

HADZIC, Goran; DOB 7 Sep 1958; POB Municipality of Vinkovci, Croatia (individual) [BALKANS]

HADZIHASANOVIC, Enver; DOB 7 Jul 1950; POB Zvornik, Bosnia-Herzegovina; ICTY indictee (individual) [BALKANS]

HAGGAR ASSALAYA SUGAR FACTORY, Haggar Assalaya, Sudan [SUDAN]

HALAVANAU, Viktar Hryhoryavich (a.k.a. GOLOVANOV, Viktar Grigoriyevich; a.k.a. GOLOVANOV, Viktar Hryhoryavich; a.k.a. GOLOVANOV, Viktar Ryhoravich; a.k.a. GOLOVANOV, Viktor Grigoriyevich; a.k.a. GOLOVANOV, Viktor Hryhoryavich; a.k.a. GOLOVANOV, Viktor Ryhoravich; a.k.a. HALAVANAU, Viktor Hryhoryavich; a.k.a. HALAVANAU, Viktar Grigoriyevich; a.k.a. HALAVANAU, Viktar Ryhoravich; a.k.a. HALAVANAU, Viktor Grigoriyevich; a.k.a. HALAVANAU, Viktor Ryhoravich); DOB 1952; POB Borisov, Belarus; Minister of Justice (individual) [BELARUS]

HALILI, Nevzat; DOB 15 Sep 1946; POB Poroj, Macedonia (individual) [BALKANS]

HALILOVIC, Sefer; DOB 6 Jan 1952; POB Prijepolje, Serbia and Montenegro; ICTY indictee (individual) [BALKANS]

HAMAMI, Brahim Ben Hedili Ben Mohamed, Via de' Carracci n.l5, Casalecchio di Reno (Bologna), Italy; DOB 20 Nov 1971; POB Goubellat, Tunisia; alt. POB Koubellat, Tunisia; nationality Tunisia; Passport Z106861 issued 18 Feb 2004 expires 17 Feb 2009 (individual) [SDGT]

HAMAS (a.k.a. HARAKAT AL-MUQAWAMA AL-ISLAMIYA; a.k.a. ISLAMIC RESISTANCE MOVEMENT; a.k.a. IZZ AL-DIN AL QASSAM BATTALIONS; a.k.a. IZZ AL-DIN AL QASSAM BRIGADES; a.k.a. IZZ AL-DIN AL QASSAM FORCES; a.k.a. IZZ AL-DIN AL-QASSIM BATTALIONS; a.k.a. IZZ AL-DIN AL-QASSIM BRIGADES; a.k.a. IZZ AL-DIN AL-QASSIM FORCES; a.k.a. STUDENTS OF AYYASH; a.k.a. STUDENTS OF THE ENGINEER; a.k.a. YAHYA AYYASH UNITS) [SDT] [FTO] [SDGT]

HAMDAN, Salim Ahmad Salim (a.k.a. AL-JADAWI, Saqar; a.k.a. AL-JADDAW, Saqr); DOB 1965; POB Al-Mukalla, Yemen; Passport 00385937 (Yemen) (individual) [SDGT]

HAMDAN, Usama, Haret Hreik, Lebanon; DOB 1964 (individual) [SDGT]

HAMID, Mustafa (a.k.a. AL-MASRI, Abu al-Walid; a.k.a. AL-MISRI, Abu Walid; a.k.a. AL-WALID, Abu; a.k.a. ATIYA, Mustafa; a.k.a. HAMID, Mustafa Muhammad 'Atiya; a.k.a. “AL-MAKKI, Hashim”); DOB Mar 1945; POB Alexandria, Egypt; nationality Egypt; alt. nationality Pakistan (individual) [SDGT]

HAMIEH, Jamiel (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamil Abdulkarim; a.k.a. HAMIE, Jamile; a.k.a. HAMIEAH, Jamiel; a.k.a. HAMIEAH, Jamil; a.k.a. HAMIEH, Jamal; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMMADOU, Abid (a.k.a. ABOU ZEID, Abdelhamid; a.k.a. ABU ZEID, Abdelhamid; a.k.a. ADEL, Youcef; a.k.a. HAMADU, Abid; a.k.a. “ABU ABDELLAH”); DOB 12 Dec 1965; POB Touggourt, Ouargla, Algeria (individual) [SDGT]

HAMMID, Mohammed Tahir (a.k.a. “ABDELHAMID AL KURDI”), Via della Martinella 132, Parma, Italy; DOB 1 Nov 1975; POB Poshok, Iraq; nationality Iraq; Kurdish; arrested 31 Mar 2003 (individual) [SDGT]

HAMRAOUI, Kamel Ben Mouldi Ben Hassan (a.k.a. “KAMEL”; a.k.a. “KIMO”), Via Bertesi 27, Cremona, Italy; DOB 21 Oct 1977; POB Beja, Tunisia; nationality Tunisia; Passport P229856 issued 1 Nov 2002 expires 31 Oct 2007; arrested 1 Apr 2003 (individual) [SDGT]

HAMUDAT, General Maki Mustafa (a.k.a. AL-HAMADAT, General Maki; a.k.a. HAMUDAT, Maki; a.k.a. HMODAT, Mackie; a.k.a. MUSTAFA, Macki Hamoudat), Mosul, Iraq; DOB circa 1934; nationality Iraq (individual) [IRAQ2]

HAPILON, Isnilon Totoni (a.k.a. HAPILUN, Isnilon; a.k.a. HAPILUN, Isnilun; a.k.a. “ABU MUSAB”; a.k.a. “SALAHUDIN”; a.k.a. “TUAN ISNILON”); DOB 18 Mar 1966; alt. DOB 10 Mar 1967; POB Bulanza, Lantawan, Basilan, the Philippines; nationality Philippines (individual) [SDGT]

HAPPY DAYS S. DE H., Calle 78 No. 53-70, Locales 315 y 316, Barranquilla, Colombia; NIT # 802003826-1 (Colombia) [SDNT]

HAQ, Abdul (a.k.a. ABUDUHAKE; a.k.a. AL-HAQ, 'Abd; a.k.a. AXIMU, Memetiming; a.k.a. HEQ, Abdul; a.k.a. IMAN, Maimaiti; a.k.a. JUNDULLAH, Abdulheq; a.k.a. MAIMAITI, Maimaitiming; a.k.a. MAIMAITI, Maiumaitimin; a.k.a. MEMETI, Memetiming; a.k.a. QEKEMAN, Memetiming; a.k.a. SAIFUDING; a.k.a. SAIMAITI, Abdul; a.k.a. “KHALIQ, Muhammad Ahmed”; a.k.a. “MUHELISI”; a.k.a. “QERMAN”); DOB 10 Oct 1971; POB Chele County, Khuttan Area, Xinjiang Uighur Autonomous Region, China; nationality China; National ID No. 653225197110100533 (China) (individual) [SDGT]

HAQ, Huda bin Abdul (a.k.a. AL MUKHLAS, Ali Gufron; a.k.a. GHUFRON, Ali; a.k.a. GUFRON, Ali; a.k.a. MUCHLAS; a.k.a. MUKHLAS; a.k.a. MUKLAS; a.k.a. “SOFWAN”); DOB 9 Feb 1960; alt. DOB 2 Feb 1960; POB Solokuro subdistrict, Lamongan district, East Java province, Indonesian; nationality Indonesia (individual) [SDGT]

HARA COMPANY (a.k.a. HARA INSTITUTE), Tehran, Iran [NPWMD]

HARADINAJ, Daut; DOB 6 Apr 1978; POB Glodjane, Serbia and Montenegro (individual) [BALKANS]

HARAKAT UL-JIHAD-I-ISLAMI/BANGLADESH (a.k.a. HARAKAT UL JIHAD AL ISLAMI; a.k.a. HARAKAT UL JIHAD ISLAMI BANGLADESH; a.k.a. HARAKAT UL-JIHAD E ISLAMI BANGLADESH; a.k.a. HARKAT UL JIHAD AL ISLAMI; a.k.a. HARKATUL JIHAD; a.k.a. HARKATUL JIHAD AL ISLAM; a.k.a. HARKAT-UL-JEHAD-AL-ISLAMI; a.k.a. HUJI-B; a.k.a. IDEK; a.k.a. ISLAMI DAWAT-E-KAFELA) [FTO] [SDGT]

HARAKAT UL-MUJAHIDEEN (a.k.a. AL-FARAN; a.k.a. AL-HADID; a.k.a. AL-HADITH; a.k.a. HARAKAT UL-ANSAR; a.k.a. HARAKAT UL-MUJAHIDIN; a.k.a. HUA; a.k.a. HUM; a.k.a. JAMIAT UL-ANSAR) [FTO] [SDGT]

HARDAN, Assaad Halim (a.k.a. HARDAN, As'ad; a.k.a. HARDAN, Assad); DOB 31 Jul 1951; POB Rashayya al-Fakhar, Lebanon; alt. POB Rashayya al-Fuqhar, Lebanon; alt. POB Rashia al Foukhar, Lebanon (individual) [LEBANON]

HARMONY FARM, Mazowe, Zimbabwe [ZIMBABWE]

HARNMAN H (f.k.a. PEONY ISLANDS) (vessel) [CUBA]

HARUN, Ahmad Muhammed (a.k.a. HAROUN, Ahmed Mohamed; a.k.a. HAROUN, Ahmed Mohammed; a.k.a. HARUN, Ahmad; a.k.a. HARUN, Ahmad Muhammad; a.k.a. HARUN, Mawlana Ahmad Muhammad); DOB 1964; POB Kordofan, Sudan; nationality Sudan; State Minister for Humanitarian Affairs; former State Minister for the Interior; former Coordinator of the Popular Police Forces (individual) [DARFUR]

HASANI, Zhavit; DOB 5 May 1957; POB Tanusevci, Macedonia (individual) [BALKANS]

HATKAEW COMPANY LTD. (a.k.a. BORISAT HAT KAEO CHAMKAT; a.k.a. HAD KAEW COMPANY LTD.), 275 Soi Thiam Ruammit, Ratchada Phisek Road, Huai Khwang district, Bangkok, Thailand [SDNTK]

HAVANA INTERNATIONAL BANK, LTD., 20 Ironmonger Lane, London EC2V 8EY, United Kingdom [CUBA]

HAVANATUR, 54 Rue Richelieu, Paris, France [CUBA]

HAVANATUR BAHAMAS LTD., East Bay Street, Nassau, Bahamas, The [CUBA]

HAVANATUR CHILE S.A. (f.k.a. GUAMATUR S.A.), Avenue 11 de Septiembre 2155, Edificio Panoramico, Torre C, Oficina 805, Providencia, Santiago, Chile [CUBA]

HAVANATUR S.A. (a.k.a. HAVANATUR, S.A.), Monteagudo e/Cuba y Carretera Central, Camaguey, Cuba; Panama City, Panama; Hialeah, FL; Maipu 464, Piso 10, Buenos Aires 1006, Argentina; Gerardo Medina No. 633, e/Avenue Borregos y Carretera de Vinales, Pinar del Rio, Cuba; Edificio Sierra Maestra, Calle 1era e/0 y 2, Miramar, Playa, Ciudad Habana, Cuba; Avenue 3era e/33 y 34, Varadero, Cuba; Calle 8 no. 56 e/1era. y 3ra. Rpto., Vista Allegre, Santiago de Cuba, Cuba; Avenue 40 esq. 41 #4101, Cienfuegos, Cuba; 1ra. Rotonda Cayo Coco, Moron, Ciego de Avila, Cuba; Frexes no. 172 e/Morales Lemus y Narciso Lopez, Holguin, Cuba; C.U.I.T. 30-68074603-2 (Argentina) [CUBA]

HAVINPEX, S.A. (a.k.a. TRANSOVER, S.A.), Panama City, Panama [CUBA]

HAWATMA, Nayif (a.k.a. HAWATMAH, Nayif; a.k.a. HAWATMEH, Nayif; a.k.a. KHALID, Abu); DOB 1933; Secretary General of DEMOCRATIC FRONT FOR THE LIBERATION OF PALESTINE—HAWATMEH FACTION (individual) [SDT]

HAXHIREXHA, Kastriot; DOB 9 May 1961; POB Debar, Macedonia (individual) [BALKANS]

HAYA, Francisco, Panama (individual) [CUBA]

HAYDEE DE MUNOZ Y CIA. S. EN C., Avenida 6N No. 23DN-16, Cali, Colombia; Avenida 4N No. 5N-20, Cali, Colombia [SDNT]

HEATH, Noel Timothy (a.k.a. ZAMBA, Noel Heath; a.k.a. ZAMBO, Noel Heath), Cardin Avenue, Saint Kitts and Nevis; DOB 16 Dec 1949; POB St Kitts and Nevis; Passport 03574 (United Kingdom) (individual) [SDNTK]

HEBRON S.A., Calle 28 No. 27-18, Tulua, Valle, Colombia; NIT # 800107304-7 (Colombia) [SDNT]

HEJAZI, Mohammad; DOB circa 1959; citizen Iran; nationality Iran (individual) [NPWMD]

HEKMATYAR, Gulbuddin (a.k.a. HEKHMARTYAR, Gulbuddin; a.k.a. HEKMATIAR, Gulbuddin; a.k.a. HEKMATYAR, Gulabudin; a.k.a. HEKMETYAR, Gulbudin; a.k.a. HIKMETYAR, Golboddin; a.k.a. KHEKMATIYAR, Gulbuddin), Iran; DOB 1 Aug 1949; POB Konduz Province, Afghanistan (individual) [SDGT]

HELFORD DIRECTORS LIMITED, Haven Court, 5 Library Ramp, Gibraltar, United Kingdom [IRAQ2]

HENAO DE SANCHEZ, Hortensia, c/o ALFA PHARMA S.A., Bogota, Colombia; DOB 17 Oct 1917; Cedula No. 29013554 (Colombia) (individual) [SDNT]

HENAO GONZALEZ, Carlos Andres, c/o ARIZONA S.A., Cartago, Colombia; c/o ORGANIZACION EMPRESARIAL A DE J HENAO M E HIJOS Y CIA. S.C.S., Cartago, Colombia; c/o COMPANIA AGROINVERSORA HENAGRO LTDA., Cartago, Colombia; c/o AGRICOLA GANADERA HENAO GONZALEZ Y CIA. S.C.S., Cartago, Colombia; Carrera 8N No. 17A-12, Cartago, Colombia; c/o AGROPECUARIA MIRALINDO S.A., Cartago, Colombia; c/o DESARROLLOS COMERCIALES E INDUSTRIALES HENAO GONZALEZ Y CIA. S.C.S., Cartago, Colombia; DOB 27 Nov 1980; Cedula No. 75096405 (Colombia); Passport 75096405 (Colombia) (individual) [SDNT]

HENAO GONZALEZ, Lina Marcela, c/o COMPANIA AGROINVERSORA HENAGRO LTDA., Cartago, Colombia; c/o ORGANIZACION EMPRESARIAL A DE J HENAO M E HIJOS Y CIA. S.C.S., Cartago, Colombia; c/o DESARROLLOS COMERCIALES E INDUSTRIALES HENAO GONZALEZ Y CIA. S.C.S., Cartago, Colombia; c/o AGRICOLA GANADERA HENAO GONZALEZ Y CIA. S.C.S., Cartago, Colombia; Avenida 4 Oeste No. 5-97, Apt. 1001, Cali, Colombia; DOB 10 May 1985; POB Cali, Valle, Colombia; Cedula No. TI-85051037834 (Colombia); NIT # 650000091-9 (Colombia); Passport AF228090 (Colombia); alt. Passport TI-85051037834 (Colombia) (individual) [SDNT]

HENAO GONZALEZ, Olga Patricia, c/o COMPANIA AGROINVERSORA HENAGRO LTDA., Cartago, Colombia; Avenida 4 Oeste No. 5-97, Apt. 1001, Cali, Colombia; c/o DESARROLLOS COMERCIALES E INDUSTRIALES HENAO GONZALEZ Y CIA. S.C.S., Cartago, Colombia; c/o ORGANIZACION EMPRESARIAL A DE J HENAO M E HIJOS Y CIA. S.C.S., Cartago, Colombia; c/o AGRICOLA GANADERA HENAO GONZALEZ Y CIA. S.C.S., Cartago, Colombia; DOB 18 Jan 1988; POB Cali, Valle, Colombia; Cedula No. RN12524986 (Colombia); NIT # 600018532-2 (Colombia); Passport AG762459 (Colombia); alt. Passport RN12524986 (Colombia) (individual) [SDNT]

HENAO HINESTROZA, Maria Nohelio, c/o INVHERESA S.A., Cali, Colombia; DOB 20 Mar 1954; Cedula No. 26271587 (Colombia) (individual) [SDNT]

HENAO LOPEZ, Alberto (a.k.a. HENAO, Alberto Lopez), c/o ALFA PHARMA S.A., Bogota, Colombia; DOB 12 Aug 1913; Cedula No. 2630951 (Colombia) (individual) [SDNT]

HENAO MONTOYA, Arcangel de Jesus, c/o DESARROLLOS COMERCIALES E INDUSTRIALES HENAO GONZALEZ Y CIA. S.C.S., Cartago, Colombia; c/o ORGANIZACION EMPRESARIAL A DE J HENAO M E HIJOS Y CIA. S.C.S., Cartago, Colombia; c/o AGRICOLA GANADERA HENAO GONZALEZ Y CIA. S.C.S., Cartago, Colombia; c/o AGROPECUARIA MIRALINDO S.A., Cartago, Colombia; c/o COMPANIA AGROINVERSORA HENAGRO LTDA., Cartago, Colombia; c/o ARIZONA S.A., Cartago, Colombia; c/o MAQUINARIA TECNICA Y TIERRAS LTDA., Cartago, Colombia; Hacienda Coque, Cartago, Colombia; Carrera 42 No. 5B-81, Cali, Colombia; Carrera 4 No. 16-04 apt. 303, Cartago, Colombia; Carrera 8N No. 17A-12, Cartago, Colombia; DOB 7 Oct 1954; POB Cartago, Valle, Colombia; Cedula No. 16215230 (Colombia); NIT # 16215230-1 (Colombia); Passport 16215230 (Colombia) (individual) [SDNT]

HENAO MONTOYA, Lorena, c/o INVERSIONES LOS POSSO LTDA. S.C.S., La Union, Valle, Colombia; c/o IBADAN LTDA., Tulua, Valle, Colombia; c/o INDUSTRIAS AGROPECUARIAS EL EDEN S.A., Higueronal Torti, Darien, Panama; c/o INVERSIONES EL EDEN S.C.S., Cali, Colombia; c/o CONSTRUCTORA UNIVERSAL LTDA., Cali, Colombia; Calle 8 No. 39-79 of. 201, Cali, Colombia; c/o INVERSIONES SANTA MONICA LTDA., La Union, Valle, Colombia; c/o INDUSTRIAS AGROPECUARIAS DEL VALLE LTDA., Cali, Colombia; c/o PANAMERICANA LTDA., Cali, Colombia; c/o INVERSIONES SANTA CECILIA S.C.S., La Union, Valle, Colombia; c/o INVERSIONES AGUILA LTDA., La Union, Valle, Colombia; c/o AGROINVERSORA URDINOLA HENAO Y CIA. S.C.S., Cali, Colombia; c/o CASA GRAJALES S.A., La Union, Valle, Colombia; c/o FREXCO S.A., La Union, Valle, Colombia; c/o SOCIEDAD DE NEGOCIOS SAN AGUSTIN LTDA., La Union, Valle, Colombia; c/o INVERSIONES GRAME LTDA., La Union, Valle, Colombia; c/o HOTEL LOS VINEDOS, La Union, Valle, Colombia; c/o GRAJALES S.A., La Union, Valle, Colombia; c/o EXPLOTACIONES AGRICOLAS Y GANADERAS LA LORENA S.C.S., Cali, Colombia; Calle 52 No. 28E-30, Cali, Colombia; DOB 9 Oct 1968; Cedula No. 31981533 (Colombia) (individual) [SDNT]

HENAO VDA. DE BOTERO, Maria Yolanda, c/o ALFA PHARMA S.A., Bogota, Colombia; DOB 21 Jun 1929; Cedula No. 29070489 (Colombia) (individual) [SDNT]

HERMANN (vessel) [CUBA]

HERMANN SHIPPING CORP., INC., Panama [CUBA]

HERNANDEZ ARBOLEDA, Sandra Milena, c/o COMERCIALIZADORA DE CAFE DEL OCCIDENTE CODECAFE LTDA., Pereira, Risaralda, Colombia; c/o INVERSIONES MACARNIC PATINO Y CIA S.C.S., Pereira, Risaralda, Colombia; Cedula No. 42109136 (Colombia) (individual) [SDNT]

HERNANDEZ CANOBAS, Hector Fabio, c/o INVERSIONES BETANIA LTDA., Cali, Colombia; c/o INVERSIONES EL PENON S.A., Cali, Colombia; DOB 21 Jun 1958; Cedula No. 16615804 (Colombia) (individual) [SDNT]

HERNANDEZ CARBALLOSA, Alexis Eneilo, Milan, Italy (individual) [CUBA]

HERNANDEZ MORENO, Arturo, c/o INMOBILIARIA EL ESCORPION DEL NORTE S.A. DE C.V., Chihuahua, Mexico; Calle 16 No. 4016, Chihuahua, Chihuahua, Mexico; c/o DEL NORTES CARNES FINAS SAN IGNACIO S.A. DE C.V., Chihuahua, Mexico; c/o INMOBILIARIA EL PRESON S.A. DE C.V., Chihuahua, Mexico; DOB 27 Nov 1962; POB Hidalgo Del Parral, Chihuaua, Mexico; citizen Mexico; nationality Mexico; R.F.C. HEMA-621127 (Mexico) (individual) [SDNTK]

HERNANDEZ ORTEGA, Cesar Alejandro, c/o LIZZY MUNDO INTERIOR, Guadalajara, Mexico; DOB 28 Oct 1975; POB Guadalajara, Jalisco, Mexico; C.U.R.P. HEOC751028HJCRRS09 (Mexico); Passport 140022479 (Mexico) (individual) [SDNT]

HERNANDEZ PULIDO, Maria Elda, c/o Farmacia Vida Suprema, S.A. DE C.V., Tijuana, Baja California, Mexico; c/o Distribuidora Imperial De Baja California, S.A. de C.V., Tijuana, Baja California, Mexico; Calle Juan de Dios Peza 1015, Colonia Mexico 22150, Tijuana, Baja California, Mexico; DOB 18 Aug 1971; POB Baja California Norte, Mexico (individual) [SDNTK]

HERNANDEZ SAN MARTIN, Ricardo Arturo, Calle Huancavelica 270, URB Santa Patricia, Lima, Peru; c/o AVIANDINA S.A.C., Lima, Peru; c/o PERU GLOBAL TOURS S.A.C., Lima, Peru; DOB 04 Jul 1955; LE Number 10321329 (Peru) (individual) [SDNTK]

HERNANDEZ SOMERO, Urbano, c/o INMOBILIARIA LA PROVINCIA S.A. DE C.V., Tijuana, Baja California, Mexico; c/o COMPLEJO TURISTICO OASIS S.A. DE C.V., Rosarito, Baja California, Mexico; c/o INMOBILIARIA TIJUANA COSTA S.A. DE C.V., Tijuana, Baja California, Mexico; Avenida Manuela Herrera 592, Colonia Rio Reforma CP 22000, Tijuana, Baja California, Mexico; C. Mision de Mulege 2993, Colonia Zona Urbana Rio Tijuana, Tijuana, Baja California, Mexico; c/o PLAYA MAR S.A. DE C.V., Tijuana, Baja California, Mexico; C. Hermosillo, Colonia Rancho El Grande CP 22000, Tijuana, Baja California, Mexico; Avenida Del Bosque 4640, Colonia Jardines de Chapultepec, Tijuana, Baja California, Mexico; Pda. Del Cobre 0, Colonia Puerto De Hierro CP 22000, Tijuana, Baja California, Mexico; Avenida Manuela Herrera 590, Colonia Rio Reforma CP 22000, Tijuana, Baja California, Mexico; Pda. Mercurio, Colonia Puerta De Hierro CP 22330, Tijuana, Baja California, Mexico; c/o INMOBILIARIA ESTADO 29 S.A. DE C.V., Tijuana, Baja California, Mexico; DOB 25 May 1943; POB Mexicali, Baja California, Mexico; C.U.R.P. # HEXU430525HBCRXR07 (Mexico); alt. C.U.R.P. # HESU430525HBCRMR05 (Mexico); alt. C.U.R.P. # HESU430525HBCRMR13 (Mexico); Immigration No. A38839964 (United States) (individual) [SDNTK]

HERNANDEZ VASQUEZ, Gladys Darlen, Carrera 34A No. 10-27 Sur, Bogota, Colombia; c/o COOPIFARMA, Bucaramanga, Colombia; c/o CAJA SOLIDARIA, Bogota, Colombia; c/o COPSERVIR LTDA., Bogota, Colombia; c/o FARMAVISION LTDA., Bogota, Colombia; Cedula No. 52026909 (Colombia) (individual) [SDNT]

HERNANDEZ ZEA, Ana Elvia, Carrera 35 No. 53-53, Bogota, Colombia; c/o GREEN ISLAND S.A., Bogota, Colombia; c/o INTERCONTINENTAL DE AVIACION S.A., Bogota, Colombia; c/o INTERCONTINENTAL DE FINANCIACION AEREA S.A., Bogota, Colombia; DOB 28 Dec 1949; POB Tibasosa, Boyaca, Colombia; Cedula No. 41503907 (Colombia); Passport AG686192 (Colombia); alt. Passport AE591041 (Colombia); alt. Passport AC594144 (Colombia) (individual) [SDNT]

HERNANDEZ ZEA, Luis Antonio (a.k.a. “EL CAPITAN”), c/o ASOCIACION TURISTICA INTERNACIONAL S.C.S., Bogota, Colombia; c/o GREEN ISLAND S.A., Bogota, Colombia; c/o LARGO LEASING LTD., George Town, Cayman Islands; c/o INTERCONTINENTAL DE AVIACION S.A., Bogota, Colombia; c/o INTERCONTINENTAL DE FINANCIACION AEREA S.A., Bogota, Colombia; c/o AEROVIAS ATLANTICO LTDA. AEROATLANTICO LTDA., Baranquilla, Colombia; Carrera 53 No. 35-35, Bogota, Colombia; c/o CIA CONSTRUCTORA Y COMERCIALIZADORA DEL SUR LTDA., Bogota, Colombia; c/o INVERSIONES Y COMERCIALIZADORA INCOM LTDA., Cali, Colombia; c/o TRANS PACIFIC WORLD LEASING LIMITED, Port Vila, Vanuatu; DOB 7 May 1960; POB Bogota, Colombia; Cedula No. 79252957 (Colombia); Passport P006320 (Colombia); alt. Passport PE022166 (Colombia) (individual) [SDNT]

HERNANDEZ, Oscar, Mz. 21 Casa 5 Barrio San Fernando, Pereira, Colombia; c/o TAURA S.A., Cali, Colombia; Cedula No. 6157940 (Colombia) (individual) [SDNT]

HERRAN SAAVEDRA, Victor Hugo, c/o GALAPAGOS S.A., Cali, Colombia; Cedula No. 16447166 (Colombia) (individual) [SDNT]

HERRERA AGUILERA, Augusto, c/o FARMAVISION LTDA., Bogota, Colombia; Cedula No. 17067884 (Colombia) (individual) [SDNT]

HERRERA AGUILERA, Gabriel, c/o DROGAS LA REBAJA BUCARAMANGA S.A., Bucaramanga, Colombia; c/o COOPDISAN, Bucaramanga, Colombia; Cedula No. 91236347 (Colombia); Passport 91236347 (Colombia) (individual) [SDNT]

HERRERA BUITRAGO, Alvaro, c/o INDUSTRIA AVICOLA PALMASECA S.A., Cali, Colombia; Avenida 6N No. 25-14, Cali, Colombia; DOB 10 Oct 1955; Cedula No. 16258303 (Colombia) (individual) [SDNT]

HERRERA BUITRAGO, Helmer (a.k.a. “H7”; a.k.a. “PACHO”), Cali, Colombia; DOB 24 Aug 1951; alt. DOB 5 Jul 1951; Cedula No. 16247821 (Colombia); Passport J287011 (Colombia) (individual) [SDNT]

HERRERA BUITRAGO, Stella, c/o INMOBILIARIA GALES LTDA., Bogota, Colombia; c/o INVERSIONES GEMINIS S.A., Cali, Colombia; c/o INVERSIONES HERREBE LTDA., Cali, Colombia; c/o INDUSTRIA AVICOLA PALMASECA S.A., Cali, Colombia; c/o COMERCIALIZADORA EXPERTA Y CIA. S. EN C., Bogota, Colombia; c/o AGROPECUARIA Y REFORESTADORA HERREBE LTDA., Cali, Colombia; Avenida 1B Oeste No. 1-44 apt. 602, Medeira Building, Cali, Colombia; c/o CONSTRUCTORA DIMISA LTDA., Cali, Colombia; c/o SOCOVALLE LTDA., Cali, Colombia; c/o CONCRETOS CALI S.A., Cali, Colombia; c/o COMERCIAL DE NEGOCIOS CLARIDAD Y CIA., Bogota, Colombia; DOB 7 Oct 1953; Cedula No. 31143871 (Colombia); Passport AD031302 (Colombia) (individual) [SDNT]

HERRERA BUITRAGO, William, c/o W. HERRERA Y CIA. S. EN C., Cali, Colombia; DOB 29 Nov 1964; Cedula No. 16716887 (Colombia); Passport P046550 (Colombia) (individual) [SDNT]

HERRERA CARDONA, Libia Constanza, c/o COPSERVIR LTDA., Bogota, Colombia; c/o TRIMARK LTDA., Bogota, Colombia; Cedula No. 66978250 (Colombia) (individual) [SDNT]

HERRERA GARCIA, Otto Roberto (a.k.a. VILLAGRAN, Francisco), Guatemala; DOB 14 Mar 1965; citizen Guatemala (individual) [SDNTK]

HERRERA INFANTE, Alberto, c/o CONSTRUCTORA DIMISA LTDA., Cali, Colombia; c/o INDUSTRIA AVICOLA PALMASECA S.A., Cali, Colombia; DOB 10 Apr 1960; Cedula No. 16637518 (Colombia) (individual) [SDNT]

HERRERA RAMIREZ, Giselle, c/o INVERSIONES HERREBE LTDA., Cali, Colombia; c/o AGROPECUARIA Y REFORESTADORA HERREBE LTDA., Cali, Colombia; c/o INDUSTRIA AVICOLA PALMASECA S.A., Cali, Colombia (individual) [SDNT]

HERRERA RAMIREZ, Linda Nicolle, c/o INDUSTRIA AVICOLA PALMASECA S.A., Cali, Colombia (individual) [SDNT]

HESONG TRADING CORPORATION, Pyongyang, Korea, North [NPWMD]

HEYATUL ULYA, Mogadishu, Somalia [SDGT]

HEYWOOD NAVIGATION CORPORATION, c/o MELFI MARINE CORPORATION S.A., Oficina 7, Edificio Senorial, Calle 50, Apartado 31, Panama City 5, Panama [CUBA]

HI TECH GROUP (a.k.a. HIGH TECH GROUP; a.k.a. HIGHTECH GROUP; a.k.a. HITECH GROUP), Amarat Street No. 31, P.O. Box 44690, Khartoum, Sudan; Website www.htg-sdn.com (Sudan) [SUDAN]

HICOM (a.k.a. HI-COM), Khartoum, Sudan [SUDAN]

HICONSULT (a.k.a. HI-CONSULT), Khartoum, Sudan [SUDAN]

HIELO CRISTAL Y REFRIGERACION LTDA. (a.k.a. CUATRO FRIO), Carrera 8 No. 32-16, Cali, Colombia; Carrera 44A No. 9C-85, Bogota, Colombia; NIT # 890303017-5 (Colombia) [SDNT]

HIGHER INSTITUTE OF APPLIED SCIENCE AND TECHNOLOGY (a.k.a. HIAST; a.k.a. INSTITUT DES SCIENCES APPLIQUEES ET DE TECHNOLOGIE; a.k.a. INSTITUT SUPERIEUR DES SCIENCES APPLIQUEES ET DE TECHNOLOGIE; a.k.a. ISAT; a.k.a. ISSAT), P.O. Box 31983, Barzeh, Damascus, Syria [NPWMD]

HIGUERA GUERRERO, Gilberto (a.k.a. “EL GILILLO”); DOB 14 Apr 1968; nationality Mexico (individual) [SDNTK]

HIGUERA GUERRERO, Ismael; DOB 17 Mar 1961; POB Mexico (individual) [SDNTK]

HIJAZI, Riad (a.k.a. AL-AMRIKI, Abu-Ahmad; a.k.a. AL-HAWEN, Abu-Ahmad; a.k.a. AL-MAGHRIBI, Rashid; a.k.a. AL-SHAHID, Abu-Ahmad; a.k.a. HIJAZI, Raed M), Jordan; DOB 1968; POB California, USA; SSN 548-91-5411 (United States) (individual) [SDGT]

HILAL TRAVEL AGENCY (a.k.a. HILAL TRAVEL C.A.), Avenida Baralt, Esquina Maderero, Edificio Santa Isabel, Caracas, Venezuela; Business Registration Document # 80074366 (Venezuela) [SDGT]

HILAL, Musa (a.k.a. HILAL, Moussa); DOB circa 1960; POB Kutum, North Darfur, Sudan; Sheikh and Paramount Chief of the Jalul Tribe in North Darfur (individual) [DARFUR]

HIMMAT, Ali Ghaleb, Via Posero 2, Campione d'Italia CH-6911, Switzerland; DOB 16 Jun 1938; POB Damascus, Syria; citizen Switzerland; alt. citizen Tunisia (individual) [SDGT]

HIR, Zulkifli Bin Abdul (a.k.a. HIR, Musa Abdul; a.k.a. HIR, Zulkifli Abdul; a.k.a. ZULKIFLI, Abdul Hir bin; a.k.a. ZULKIFLI, Bin Abdul Hir; a.k.a. “MUSA ABDUL”); DOB 5 Jan 1966; alt. DOB 5 Oct 1966; POB Malaysia (individual) [SDGT]

HI-TECH CHEMICALS, Khartoum, Sudan [SUDAN]

HI-TECH PETROLEUM GROUP, Khartoum, Sudan [SUDAN]

HIZBALLAH (a.k.a. ANSAR ALLAH; a.k.a. FOLLOWERS OF THE PROPHET MUHAMMED; a.k.a. ISLAMIC JIHAD; a.k.a. ISLAMIC JIHAD FOR THE LIBERATION OF PALESTINE; a.k.a. ISLAMIC JIHAD ORGANIZATION; a.k.a. ORGANIZATION OF RIGHT AGAINST WRONG; a.k.a. ORGANIZATION OF THE OPPRESSED ON EARTH; a.k.a. PARTY OF GOD; a.k.a. REVOLUTIONARY JUSTICE ORGANIZATION) [SDT] [FTO] [SDGT]

HLA, Aung (a.k.a. “AH BANG”; a.k.a. “AH PANG”; a.k.a. “HLA AUNG”), c/o YANGON AIRWAYS COMPANY LIMITED, Rangoon, Burma; c/o TET KHAM CONSTRUCTION COMPANY LIMITED, Mandalay, Burma; No. 7, Corner of Inya Road & Oo Yin Street, Ward. 10, Kamayut, Yangon, Burma; c/o TET KHAM GEMS CO., LTD., Yangon, Burma; Passport 497797 (Burma); alt. Passport 706634 (Burma) (individual) [SDNTK]

HO, Chun Ting (a.k.a. HAW, Aik; a.k.a. HEIN, Aung; a.k.a. HO, Aik; a.k.a. HO, Chung Ting; a.k.a. HO, Hsiao; a.k.a. HOE, Aik; a.k.a. TE, Ho Chun; a.k.a. TIEN, Ho Chun; a.k.a. WIN, Aung; a.k.a. “AIK HAW”; a.k.a. “HO CHUN TING”; a.k.a. “HSIO HO”), c/o HONG PANG LIVESTOCK DEVELOPMENT COMPANY LIMITED, Burma; c/o HONG PANG TEXTILE COMPANY LIMITED, Yangon, Burma; c/o TET KHAM CONSTRUCTION COMPANY LIMITED, Mandalay, Burma; 7, Corner of Inya Road and Oo Yin street, Kamayut Township, Rangoon, Burma; 11 Ngu Shwe Wah Road, Between 64th and 65th Streets, Chan Mya Thar Zan Township, Mandalay, Burma; No. 7 Oo Yim Road Kamayut TSP, Rangoon, Burma; The Anchorage, Alexandra Road, Apt. 370G, Cowry Building (Lobby 2, Singapore; c/o HONG PANG GEMS & JEWELLERY COMPANY LIMITED, Mandalay, Burma; c/o HONG PANG GENERAL TRADING COMPANY, LIMITED, Kyaington, Burma; 89 15th Street, Lanmadaw Township, Rangoon, Burma; c/o TET KHAM GEMS CO., LTD., Yangon, Burma; c/o HONG PANG MINING COMPANY LIMITED, Yangon, Burma; c/o TET KHAM (S) PTE. LTD., Singapore; c/o HONG PANG ELECTRONIC INDUSTRY CO., LTD., Yangon, Burma; DOB 18 Jul 1965; National ID No. 176089 (Burma); alt. National ID No. 272851 (Singapore); alt. National ID No. 029430 (Burma); alt. National ID No. 000016 (Burma); Passport A043850 (Burma) (individual) [SDNTK]

HODWALKER MARTINEZ, Martin David (a.k.a. “TILO”), c/o MARTIN HODWALKER M. Y CIA. S. EN C., Barranquilla, Colombia; c/o DESARROLLO GEMMA CORPORATION, Panama City, Panama; c/o VERANILLO DIVE CENTER LTDA., Barranquilla, Colombia; c/o YAMAHA VERANILLO DISTRIBUIDORES, Barranquilla, Colombia; DOB 26 Dec 1968; POB Colombia; Cedula No. 8534760 (Colombia); Passport AF465508 Colombia (individual) [SDNT]

HOJATI, Mohsen, c/o Fajr Industries Group, Tehran, Iran; DOB 28 Sep 1955; POB Najafabad, Iran; nationality Iran; Passport G4506013 (Iran) (individual) [NPWMD]

HOLA SUN HOLIDAYS LIMITED, 146 Beaver Creek Road, Richmond Hill, Ontario, L4B 1C2, Canada [CUBA]

HOLGUIN SARRIA, Alvaro, c/o DISTRIBUIDORA DE DROGAS CONDOR LTDA., Bogota, Colombia; c/o DISTRIBUIDORA MIGIL LTDA., Cali, Colombia; c/o DEPOSITO POPULAR DE DROGAS S.A., Cali, Colombia; c/o DERECHO INTEGRAL Y CIA. LTDA., Cali, Colombia; DOB 28 Oct 1946; Cedula No. 14950269 (Colombia) (individual) [SDNT]

HOLY LAND FOUNDATION FOR RELIEF AND DEVELOPMENT (f.k.a. OCCUPIED LAND FUND), P.O. Box 832390, Richardson, TX 75083; Hebron, West Bank; Jenin, West Bank; Shurta Street, 'Amira al-Ramuna, 4th Floor, Ramallah, West Bank; 525 International Parkway, Suite 509, Richardson, TX 75081; 345 E. Railway Avenue, Paterson, NJ 07503; 9250 S. Harlem Avenue, Bridgeview, IL; Gaza Strip, undetermined; 12798 Rancho Penasquitos Blvd., Suite F, San Diego, CA 92128; US FEIN 95-4227517; and other locations within the United States [SDT] [SDGT]

HONG PANG ELECTRONIC INDUSTRY CO., LTD. (f.k.a. GOLD MOUNT INDUSTRIAL COMPANY LIMITED; a.k.a. HONG PANG ELECTRONIC INDUSTRIES LIMITED), Hong Pang Wire Showroom, Room D, 80-81 35th Street, Mandalay, Burma; 216, Corner of 49th St. and Maha Bandoola Rd., Pazundaung, Yangon, Burma [SDNTK]

HONG PANG GEMS & JEWELLERY (HK) CO. LIMITED (a.k.a. HONG KONG HONG PANG GEMS & JEWELLERY CO., LTD.), 12th Floor C, Jade Exchange Center, 513-531, Canton Road, Kowloon, Hong Kong; Room 3605 36/F Wu Chung House, 213 Queen's Road East, Wan Chai, Hong Kong; 6A, 6D North Section, 7th Building, Chilung Park, 68 Sin Chung St., East City Drive, Beijing, China; 28th and 29th Floor, Overseas Friendship Building, 2, Yun Chun Road, Lo Hu, Sham Cheng, Kuang Tung, China; 11, Huang Ching (Gold) Road, Between 64/65 Street, Myo Thit, Mandalay, Burma; No. 19, Hung Hua Bridge, Kunming, Yunnan, China; Certificate of Incorporation Number 766810 (Hong Kong) [SDNTK]

HONG PANG GEMS & JEWELLERY COMPANY LIMITED, 11, Ngui Shwe Wah Road, Between 64th and 65th Street, Chan Maya Thar Si Township, Mandalay, Burma [SDNTK]

HONG PANG GENERAL TRADING COMPANY, LIMITED (f.k.a. HONG PANG IMPORT EXPORT GENERAL TRADING COMPANY LIMITED), 216/222, Room C/D, (G/F), Bo Myat Tun Housing, Mahabandoola Road, Pazundaung Township, Yangon, Burma; 18, Kyaing Ngan St., Qtr. 2, Kyaington, Burma; 102, Lanmadaw St., Sarsy Qtr., Magway, Burma; 157, Pyihtaungsu Rd., Yuzana Qtr., Myitkyina, Burma; 9, West of Market, Haw Gone Qtr., Taunggyi, Burma [SDNTK]

HONG PANG LIVESTOCK DEVELOPMENT COMPANY LIMITED, Burma [SDNTK]

HONG PANG MINING COMPANY LIMITED, No. 216/222, Room No. C/D Ground Floor, Bo Myat Tun Housing, Mahabandoola Road, Pazundaung Township, Yangon, Burma [SDNTK]

HONG PANG TEXTILE COMPANY LIMITED, No. 216/222, Room C/D, Ground Floor, Bo Myat Tun Housing, Mahabandoola Road, Pazundaung Township, Yangon, Burma [SDNTK]

HOOKER TAYLOR, Javier Arnulfo (a.k.a. HOOKER POMARE, Javier), c/o ROCK FISH IMPORT EXPORT E.U., San Andres, Colombia; c/o COOPERATIVA DE SERVICIO DE TRANSPORTE DE CARGA DE COLOMBIA LTDA., Barranquilla, Colombia; DOB 19 Feb 1971; POB San Andres, Colombia; Cedula No. 18001893 (Colombia) (individual) [SDNT]

HORMUZ 2; Vessel Registration Identification IMO 7904580 (vessel) [NPWMD]

HOTEL LA CASCADA S.A. (f.k.a. CENTRO RECREACIONAL LA CASCADA LTDA.), Carrera 12 Avenida 25 Esquina, Girardot, Colombia; NIT # 890601336-8 (Colombia) [SDNT]

HOTEL MAX (a.k.a. HOTEL CHAUNG THA BEACH RESORT), No. 1 Ywama Curve, Ba Yint Naung Road, Block-2, Hlaing Township, Yangon, Burma [BURMA]

HOTELES E INMUEBLES DE COLOMBIA LTDA. (a.k.a. HOTINCOL), Calle 74 No. 53-30, Barranquilla, Colombia; NIT # 800013139-3 (Colombia) [SDNT]

HOVE, Richard Chemist; DOB 23 Sep 1939; Passport ZD002376 (Zimbabwe); Politburo Secretary for Economic Affairs (individual) [ZIMBABWE]

HTOO GROUP OF COMPANIES, 5 Pyay Road, Hlaing Township, Yangon, Burma [BURMA]

HTOO TRADING COMPANY LIMITED (a.k.a. HTOO TRADING GROUP COMPANY), 5 Pyay Road, Hlaing Township, Yangon, Burma [BURMA]

HTOO WOOD PRODUCTS PTE. LIMITED (a.k.a. HTOO FURNITURE; a.k.a. HTOO WOOD; a.k.a. HTOO WOOD PRODUCTS; a.k.a. HTOO WOOD-BASED INDUSTRY), Shwe Pyithar T/S, Tangon, Burma; No. 21 Thukha Waddy Road, Yankin T/S, Yangon, Burma; 3 Shenton Way, #24-02 Shenton House, Singapore, 068805, Singapore; 5 Pyay Road, Hlaing Township, Yangon, Burma [BURMA]

HTWE, Aung; DOB 1 Feb 1943; citizen Burma; nationality Burma; Lieutenant-General; Chief of Armed Forces Training; Member, State Peace and Development Council (individual) [BURMA]

HUBER, Albert Friedrich Armand (a.k.a. HUBER, Ahmed), Mettmenstetten, Switzerland; DOB 1927 (individual) [SDGT]

HUERTAS RAMIREZ, Jorge Luis, c/o LABORATORIOS KRESSFOR DE COLOMBIA S.A., Bogota, Colombia; c/o REPRESENTACIONES Y DISTRIBUCIONES HUERTAS Y ASOCIADOS S.A., Bogota, Colombia; c/o PRODUCTOS GALO Y CIA. LTDA., Bogota, Colombia; c/o DECAFARMA S.A., Bogota, Colombia; DOB 2 Apr 1951; Cedula No. 19134241 (Colombia); Passport 19134241 (Colombia) (individual) [SDNT]

HUNTSLAND (vessel) [CUBA]

HUNTSLAND NAVIGATION CO. LTD., c/o NIPPON CARIBBEAN SHIPPING CO. LTD., 8th Floor, Tsukiji Hosoda Building, 2-1, Tsukiji 2-chome, Chuo-ku, Tokyo, Japan [CUBA]

HUNTSVILLE (vessel) [CUBA]

HUNTSVILLE NAVIGATION CO. LTD., c/o NIPPON CARIBBEAN SHIPPING CO. LTD., 8th Floor, Tsukiji Hosoda Building, 2-1, Tsukiji 2-chome, Chuo-ku, Tokyo, Japan [CUBA]

HURACAN (vessel) [CUBA]

HURTADO ROMERO, Jairo Jose, c/o ARIZONA S.A., Cartago, Colombia; Carrera 8N No. 17A-12, Cartago, Colombia; c/o MAQUINARIA TECNICA Y TIERRAS LTDA., Cali, Colombia; Carrera 42 No. 5B-81, Cali, Colombia; Cedula No. 13809079 (Colombia); Passport 13809079 (Colombia) (individual) [SDNT]

HUSAIN, Ali Saleh (a.k.a. 'ALA'LAH, 'Ali Salih Husayn; a.k.a. AL-TABUKI, Ali Saleh Husain; a.k.a. AL-TABUKI, 'Ali Salih Husayn al-Dhahak; a.k.a. AL-YEMENI, Abu Dhahak; a.k.a. DAHHAK, Abu; a.k.a. 'ULA'LAH, 'Ali Salih Husayn); DOB circa 1970; POB al-Hudaydah, Yemen; nationality Yemen; Individual's height is 5 feet 9 inches. (individual) [SDGT]

HUSAYN ALAYWAH, Al-Sayyid Ahmad Fathi; DOB 30 Jul 1964; POB Suez, Egypt; nationality Egypt (individual) [SDGT]

HUSSEIN, Mazen Ali (a.k.a. SALAH MUHAMAD, Issa), Schwabisch Hall Prison, Germany; Branderstrasse 28, Augsburg 86154, Germany; DOB 1 Jan 1982; alt. DOB 1 Jan 1980; POB Baghdad, Iraq; nationality Iraq; Travel Document Number A0144378 (Germany) (individual) [SDGT]

HUWAYSH, Abd-al-Tawab Mullah; DOB 1957; alt. DOB 14 Mar 1942; POB Mosul or Baghdad, Iraq; nationality Iraq; deputy prime minister; director, Organization of Military Industrialization (individual) [IRAQ2]

HYALITE (vessel) [CUBA]

HYDE, Clive Norman (a.k.a. HYDE SR., Clive Norman; a.k.a. “MR. HYDE”); DOB 8 Apr 1956; POB Belize (individual) [SDNT]

HYSENI, Xhemajl; DOB 15 Aug 1958; POB Lojane, Macedonia (individual) [BALKANS]

I.P.C. INTERNATIONAL LIMITED, United Kingdom [IRAQ2]

I.P.C. MARKETING LIMITED, United Kingdom [IRAQ2]

IAC INTERNATIONAL INC. (a.k.a. I A C INTERNATIONAL INC.; a.k.a. INTERNATIONAL AIRLINE CONSULTING), 8940 NW 24 TERRACE, Miami, FL 33122; Business Registration Document # P9800004558 (United States); US FEIN 65-0842701 [BPI-SDNTK]

IB OF AMERICA HOLDINGS INC., 811 S. Central Expwy, Ste 210, Richardson, TX 75080 [LIBERIA]

IBADAN LTDA., Calle 28 No. 27-18, Tulua, Valle, Colombia; NIT # 800112215-1 (Colombia) [SDNT]

IBANEZ LOPEZ, Raul Alberto, c/o INCOES LTDA., Cali, Colombia; c/o INMOBILIARIA U.M.V. S.A., Cali, Colombia; c/o GANADERIAS DEL VALLE S.A., Cali, Colombia; c/o DISTRIBUIDORA DE ELEMENTOS PARA LA CONSTRUCCION S.A., Cali, Colombia; c/o AGROPECUARIA LA ROBLEDA S.A., Cali, Colombia; DOB 11 Apr 1960; Cedula No. 16640123 (Colombia) (individual) [SDNT]

IBRAHIM, Dawood (a.k.a. ANIS, Ibrahim Shaikh Mohd; a.k.a. AZIZ, Abdul Hamid Abdul; a.k.a. DILIP, Aziz; a.k.a. EBRAHIM, Dawood; a.k.a. HASAN, Shaikh Daud; a.k.a. HASSAN, Dawood; a.k.a. IBRAHIM, Anis; a.k.a. IBRAHIM, Dawood Sheik; a.k.a. KASKAR, Dawood Ibrahim; a.k.a. REHMAN, Shaikh Ismail Abdul; a.k.a. SABRI, Dawood; a.k.a. SAHEB, Amir; a.k.a. SETH, Iqbal), 33-36, Pakmodiya Street, Haji Musafirkhana, Dongri, Bombay, India; 617 CP Berar Society, Block 7-8, Karachi, Pakistan; White House, Al-Wassal Road, Jumeira, Dubai, United Arab Emirates; House No. 10, Hill Top Arcade, Defence Housing Authority, Karachi, Pakistan; House No. 37, Street 30, Phase V, Defence Housing Authority, Karachi, Pakistan; Moin Palace, 2nd Floor, Opp. Abdullah Shah Gazi Dargah, Clifton, Karachi, Pakistan; DOB 26 Dec 1955; alt. DOB 31 Dec 1955; POB Ratnagiri, Maharashtra, India; citizen India; alt. citizen United Arab Emirates; alt. citizen Pakistan; nationality India; Passport F-823692 (Yemen) issued 02 Sep 1989; alt. Passport G-869537 (Pakistan); alt. Passport A-333602 (India) issued 04 Jun 1985; alt. Passport P-537849 (India) issued 30 Jul 1979; alt. Passport G-866537 (Pakistan) issued 12 Aug 1991; alt. Passport A-501801 (India) issued 26 Jul 1985; alt. Passport A-717288 (United Arab Emirates) issued 18 Aug 1985; alt. Passport K-560098 (India) issued 30 Jul 1975; alt. Passport V-57865 (India) issued 03 Oct 1983; alt. Passport R-841697 (India) issued 26 Nov 1981; alt. Passport M-110522 (India) issued 13 Nov 1978 (individual) [SDGT] [SDNTK]

IBRAHIM, Haji (a.k.a. IBRAHIM, Haji Ehai; a.k.a. KHAN AFRIDI, Haji Ibrahim; a.k.a. KHAN, Haji Ibrahim); DOB 28 Sep 1957; POB Pakistan (individual) [SDNTK]

ICDB (a.k.a. ISLAMIC CO-OPERATIVE DEVELOPMENT BANK), P.O. Box 62, Khartoum, Sudan [SUDAN]

IDARRAGA ESCANDON, Herned (a.k.a. IDARRAGA ESCANDON, Hernet), c/o GRACADAL S.A., Cali, Colombia; c/o DISMERCOOP, Cali, Colombia; Carrera 25A No. 49-73, Cali, Colombia; DOB 22 Dec 1954; Cedula No. 16595668 (Colombia) (individual) [SDNT]

IDARRAGA ORTIZ, Jaime, c/o INVERSIONES CAMINO REAL S.A., Cali, Colombia; c/o DEPOSITO POPULAR DE DROGAS S.A., Cali, Colombia; c/o DISTRIBUIDORA MIGIL LTDA., Cali, Colombia; c/o LABORATORIOS BLAIMAR DE COLOMBIA S.A., Bogota, Colombia; c/o INTERAMERICA DE CONSTRUCCIONES S.A., Cali, Colombia; c/o BLANCO PHARMA S.A., Bogota, Colombia; c/o DISTRIBUIDORA DE DROGAS CONDOR LTDA., Bogota, Colombia; c/o DISTRIBUIDORA DE DROGAS LA REBAJA S.A., Bogota, Colombia; c/o FARMATODO S.A., Bogota, Colombia; c/o DROGAS LA REBAJA BOGOTA S.A., Bogota, Colombia; c/o LABORATORIOS KRESSFOR DE COLOMBIA S.A., Bogota, Colombia; DOB 14 Dec 1941; Cedula No. 8237011 (Colombia) (individual) [SDNT]

IDARRAGA ORTIZ, Rogelio, c/o CAJA SOLIDARIA, Bogota, Colombia; c/o COPSERVIR LTDA., Bogota, Colombia; DOB 10 Jan 1944; Cedula No. 3417272 (Colombia); Passport 3417272 (Colombia) (individual) [SDNT]

IDARRAGA RIOS, Andres Felipe, c/o 2000-DODGE S.L., Madrid, Spain; c/o 2000 DOSE E.U., Cali, Colombia; C Y S MEDIOS E.U., Cali, Colombia; Cedula No. 16274109 (Colombia); Passport 16274109 (Colombia) (individual) [SDNT]

IDARRAGA RODRIGUEZ, Mauricio, c/o ASPOIR DEL PACIFICO Y CIA. LTDA., Cali, Colombia; c/o FUNDASER, Cali, Colombia; DOB 16 Mar 1970; Cedula No. 94307887 (Colombia); Passport 94307887 (Colombia) (individual) [SDNT]

IKHTIYAR, Hisham (a.k.a. AL IKHTEYAR, Hisham; a.k.a. AL IKHTIYAR, Hisham; a.k.a. AL-IKHTIYAR, Hisham; a.k.a. AL-IKHTIYAR, Hisham Ahmad; a.k.a. BAKHTIAR, Hisham; a.k.a. BAKHTIYAR, Hisham; a.k.a. ICHTIJAR, Hisham; a.k.a. IKHTEYAR, Hisham), Maliki, Damascus, Syria; DOB 1941; Major General; Director, Syria Ba'ath Party Regional Command National Security Bureau (individual) [SYRIA]

ILOVIN S.A., Avenida 15 No. 123-30, Local 1-13, Bogota, Colombia; NIT # 800141304-0 (Colombia) [SDNT]

IMPERATORI, Julio A., 20 Ironmonger Lane, London EC2V 8EY, United Kingdom; Managing Director, Havana International Bank (individual) [CUBA]

IMPORT MAPRI LTDA., Carrera 7 No. 17-01 of. 603, Bogota, Colombia; Carrera 16 Bis No. 148-37, Bogota, Colombia; NIT # 830079014-4 (Colombia) [SDNT]

IMPORTADORA Y COMERCIALIZADORA LTDA. (a.k.a. IMCOMER), Avenida 6N y Avenida 4 No. 13N-50 of. 1201, Cali, Colombia; NIT # 800152058-0 (Colombia) [SDNT]

IMPRISA, Spain [CUBA]

IMPRISA, S.A., Panama [CUBA]

INCOMMERCE S.A., Calle 13 No. 66-14, Cali, Colombia; NIT # 805023544-4 (Colombia) [SDNT]

INDABURU LUENGAS, Pedro Enrique, c/o COMERCIALIZADORA MOR GAVIRIA S.A., Quito, Ecuador; c/o INTERNACIONAL DE PROYECTOS INMOBILIARIOS S.A., Quito, Ecuador; c/o COMERCIALIZADORA MORDUR S.A., Quito, Ecuador; DOB 29 Jun 1948; POB Bogota, Colombia; Cedula No. 19074171 (Colombia); alt. Cedula No. 1719011619 (Ecuador); RUC # 171901161-9 (Ecuador) (individual) [SDNT]

INDIO VITORIO S. DE P.R. DE R.L. DE C.V., Saucillo, Chihuahua, Mexico; R.F.C. IVI-030311-1L6 (Mexico) [SDNTK]

INDUSTRIA DE PESCA SOBRE EL PACIFICO S.A (a.k.a. INPESCA S.A.), Av. Simon Bolivar Km. 5 El Pinal, Buenaventura, Colombia; Km. 5 El Pinal, Buenaventura, Colombia; NIT # 890302172-4 (Colombia) [SDNT]

INDUSTRIA MADERERA ARCA LTDA., Calle 11 No. 32-47 Bodega 41 Arroyohondo, Cali, Colombia; Calle 32 No. 11-41 Bodega 4 Arroyohondo, Cali, Colombia; NIT # 800122866-7 (Colombia) [SDNT]

INDUSTRIAL BANK COMPANY FOR TRADE & DEVELOPMENT LIMITED, Khartoum, Sudan [SUDAN]

INDUSTRIAL BANK OF SUDAN (N.K.A. EL NILEIN INDUSTRIAL DEVELOPMENT BANK GROUP), United Nations Square, P.O. Box 1722, Khartoum, Sudan [SUDAN]

INDUSTRIAL DE GESTION DE NEGOCIOS E.U., Calle 5C No. 41-30, Cali, Colombia; NIT # 805005946-5 (Colombia) [SDNT]

INDUSTRIAL DEVELOPMENT CORPORATION OF ZIMBABWE LTD (a.k.a. INDUSTRIAL DEVELOPMENT CORPORATION OF ZIMBABWE), 93 Park Lane, Harare, Zimbabwe; P.O. Box CY1431, Causeway, Harare, Zimbabwe; Phone 263-4-794805; Fax No. 263-4-250385 [ZIMBABWE]

INDUSTRIAL MINERA Y PECUARIA S.A. (a.k.a. IMPECUA S.A.), Carrera 30 No. 90-82B La Castellana, Bogota, Colombia; NIT # 830000855-1 (Colombia) [SDNT]

INDUSTRIAL PRODUCTION CORPORATION, P.O. Box 1034, El Gamaa Street, Khartoum, Sudan [SUDAN]

INDUSTRIAL RESEARCH AND CONSULTANCY INSTITUTE, P.O. Box 268, Khartoum, Sudan [SUDAN]

INDUSTRIAS AGROPECUARIAS DEL VALLE LTDA., Calle 52 No. 28E-30, Cali, Colombia; Carrera 50 No. 9B-20 of. 07, Cali, Colombia; NIT # 800068160-5 (Colombia) [SDNT]

INDUSTRIAS AGROPECUARIAS EL EDEN S.A., Higueronal Torti, Darien, Panama [SDNT]

INDUSTRIAS DEL ESPIRITU SANTO S.A. (a.k.a. FRUCOSTA; n.k.a. FRUTAS DE LA COSTA S.A.), Carretera Oriental Km. 2 Via Barranquilla, Malambo, Atlantico, Colombia; NIT # 821002015-8 (Colombia) [SDNT]

INFRASTRUCTURE DEVELOPMENT BANK OF ZIMBABWE (a.k.a. ZIMBABWE DEVELOPMENT BANK), P.O. Box 1720, Harare, Zimbabwe; ZDB House, 99 Rotten Row, Harare, Mashonaland East, Zimbabwe; Phone No. 263-4-7501718; Fax No. 263-4-7744225 [ZIMBABWE]

INGASSANA MINES HILLS CORPORATION (a.k.a. INGESSANA HILLS MINES CORPORATION), P.O. Box 2241, Khartoum, Sudan; P.O. Box 1108, Khartoum, Sudan [SUDAN]

INMOBILIARIA AURORA LTDA., Carrera 24F Oeste 3-70, Cali, Colombia; Avenida Canasgordas con Avenida Guali Casa 35, Cali, Colombia; Carrera 4 12-41 piso 15, Edificio Seguros Bolivar, Cali, Colombia; Carrera 38A No. 5E-31, Edificio Conquistadores, Cali, Colombia [SDNT]

INMOBILIARIA BOLIVAR LTDA., Calle 24N No. 6N-21, Cali, Colombia; Calle 17N No. 6N-28, Cali, Colombia; NIT # 890330573-3 (Colombia) [SDNT]

INMOBILIARIA DEL CARIBE LTDA., Calle 74 No. 53-30, Barranquilla, Colombia; NIT # 890108105-1 (Colombia) [SDNT]

INMOBILIARIA EL ESCORIAL LTDA., Carrera 4 No. 12-20 of. 206, Cartago, Valle, Colombia; Carrera 5 No. 18-20 Local 12, Cartago, Valle, Colombia; NIT # 800146869-2 (Colombia) [SDNT]

INMOBILIARIA EL ESCORPION DEL NORTE S.A. DE C.V., Chihuahua, Chihuahua, Mexico [SDNTK]

INMOBILIARIA EL PRESON S.A. DE C.V., Chihuahua, Chihuahua, Mexico [SDNTK]

INMOBILIARIA ESPARTA S.A. DE C.V., Avenida Negrete 220 Local 2B, Colonia Zona Central, Tijuana, Baja California, Mexico; R.F.C. # IES-870805 (Mexico) [SDNTK]

INMOBILIARIA ESTADO 29 S.A. DE C.V., Ocampo 1860 4, Colonia Zona Central, Tijuana, Baja California, Mexico; Entre Juan Sarabia y Plutarco Elias C., Tijuana, Baja California, Mexico; R.F.C. # IEV-950628 (Mexico) [SDNTK]

INMOBILIARIA GALES LTDA., Avenida Caracas No. 59-77 of. 201A, 401B y 405B, Bogota, Colombia; NIT # 800061287-1 (Colombia) [SDNT]

INMOBILIARIA GAXIOLA HERMANOS S.A. DE C.V. (f.k.a. DISTRIBUIDORA DE MUEBLES GAXIOLA HERMANOS; a.k.a. INMOBILIARIA GAXIOLA), Guadalajara, Jalisco, Mexico; Michoacan 404 Inter. 11, Colonia Cerrada Paraiso, Hermosillo, Sonora 83170, Mexico; Blvd. L Encinas numero 581-A, Esquina Truqui, Colonia Pimentel, Hermosillo, Sonora, Mexico; Blvd. Francisco Eusebio km. 177-7, Col. 5 de Mayo, Hermosillo, Sonora 83010, Mexico; Blvd. Jose Maria Morelos s/n y Ave 13 Col Colinas del Bachoco, Hermosilo, Sonora 83000, Mexico; R.F.C. IGH910522UM3 (Mexico); alt. R.F.C. DMG910522 (Mexico) [SDNTK]

INMOBILIARIA HOTELERA DEL CARIBE LTDA. (a.k.a. INHOCAR), Calle 74 No. 53-30, Barranquilla, Colombia; NIT # 800012713-7 (Colombia) [SDNT]

INMOBILIARIA IMTASA LTDA., Carrera 3 No. 11-32 of. 939, Cali, Colombia; Calle 10 No. 4-47 piso 18, Cali, Colombia; NIT # 805012623-0 (Colombia) [SDNT]

INMOBILIARIA LA PROVINCIA S.A. DE C.V., Cuauhtemoc 6046 3 Libertad, Tijuana, Baja California, Mexico; R.F.C. # IPR-931014 (Mexico) [SDNTK]

INMOBILIARIA LINARES LTDA., Carrera 4 No. 12-20 of. 206, Cartago, Valle, Colombia; NIT # 800146860-7 (Colombia) [SDNT]

INMOBILIARIA PASADENA LTDA., Carrera 4 No. 12-20 of. 206, Cartago, Valle, Colombia; NIT # 800146861-4 (Colombia) [SDNT]

INMOBILIARIA QUILICHAO S.A. (f.k.a. AGROPECUARIA B GRAND LTDA.), Avenida 4N No. 6N-61, Apt. 510, Cali, Colombia; NIT # 817002547-1 (Colombia) [SDNT]

INMOBILIARIA TIJUANA COSTA S.A. DE C.V., Entre Abelardo L. Rodriguez y Avenida Del Rio, Tijuana, Baja California, Mexico; Agua Caliente 10440 9, Colonia Aviacion, Tijuana, Baja California, Mexico; R.F.C. # ITC-910503 (Mexico) [SDNTK]

INMOBILIARIA U.M.V. S.A., Carrera 83 No. 6-50, Edificio Alqueria, Torre C, of. 302, Cali, Colombia [SDNT]

INMOBILIUM INVESTMENT CORP., Avenida Frederico Boyd y Calle 51, Edificio Torre Universal, Piso 3, Panama City, Panama; RUC # 4055231267286 (Panama) [SDNT]

INMUEBLES SIERRA VISTA S.A. DE C.V., Hermosillo, Sonora, Mexico [SDNTK]

INSTITUTO NACIONAL DE TURISMO DE CUBA, Spain [CUBA]

INTERAMERICANA DE CONSTRUCCIONES S.A. (f.k.a. ANDINA DE CONSTRUCCIONES S.A.), Calle 12 Norte No. 9N-56, Cali, Colombia; NIT # 800237404-2 (Colombia) [SDNT]

INTERCONSULT, Panama [CUBA]

INTERCONTINENTAL DE AVIACION S.A. (a.k.a. INTER; a.k.a. INTERCONTINENTAL), Avenida El Dorado Entrada 2 Int. 6, Bogota, Colombia; NIT # 860009526-3 (Colombia) [SDNT]

INTERCONTINENTAL DE FINANCIACION AEREA S.A. (a.k.a. INTERFIAR S.A.), Avenida El Dorado Entrada 2 Int. 6, Bogota, Colombia; NIT # 800043810-6 (Colombia) [SDNT]

INTERCREDITOS S.A. (a.k.a. INTERCREDITOS BOGOTA; a.k.a. INTERCREDITOS CALI), Bogota, Colombia; Avenida Roosevelt No. 38-32, piso 2, Cali, Colombia [SDNT]

INTERMARKET HOLDINGS LIMITED, 10th Floor ZB House, 46 Speke Avenue, P.O. Box 3198, Harare, Zimbabwe; Phone No. 263-4-751168; Fax No. 263-4-251029 [ZIMBABWE]

INTERNACIONAL DE DIVISAS S.A., Centro Comercial Cosmocentro Local 103, Cali, Colombia; Transversal 71D No. 26-94 Sur Local 3504, Bogota, Colombia; Calle 19 No. 5-48 Local 226, Pereira, Colombia; Carrera 28 No. 29-06 Local 104, Palmira, Colombia; Calle 10 No. 4-40 of. 312, Cali, Colombia; Carrera 52 No. 72-65 Local 106, Barranquilla, Colombia; Carrera 22 No. 18-65 Local 28, Manizales, Colombia; NIT # 805013989-5 (Colombia) [SDNT]

INTERNACIONAL DE DIVISAS S.A., LLC, 280 Crandon Blvd., Suite 32-185, Miami, FL 33149-1540; Business Registration Document # L00000003506 (United States); US FEIN 65-0996161 (United States) [SDNT]

INTERNACIONAL DE PROYECTOS INMOBILIARIA IPI S.A. (a.k.a. IPI S.A.), Avenida Pedro Vicente Maldonado 744, Edificio Centro Comercial El Recreo, Local 24I, Pichincha, Quito, Ecuador; RUC # 1791843436001 (Ecuador) [SDNT]

INTERNATIONAL COBALT CO. INC., Fort Saskatchewan, AB, Canada [CUBA]

INTERNATIONAL FREEZE DRIED S.A. (a.k.a. IFD S.A.), Carrera 92 No. 62-30, Bogota, Colombia; NIT # 830132968-1 (Colombia) [SDNT]

INTERNATIONAL ISLAMIC RELIEF ORGANIZATION INDONESIA BRANCH OFFICE (a.k.a. AL IGATHA AL-ISLAMIYA; a.k.a. EGASSA; a.k.a. HAYAT AL-AGHATHA AL-ISLAMIA AL-ALAMIYA; a.k.a. HAYAT AL-'IGATHA; a.k.a. HAYAT AL-IGATHA; a.k.a. IGASA; a.k.a. IGASE; a.k.a. IGASSA; a.k.a. IGATHA; a.k.a. IGHATHA; a.k.a. IIRO; a.k.a. INTERNATIONAL ISLAMIC AID ORGANIZATION; a.k.a. INTERNATIONAL ISLAMIC RELIEF AGENCY; a.k.a. INTERNATIONAL RELIEF ORGANIZATION; a.k.a. ISLAMIC RELIEF ORGANIZATION; a.k.a. ISLAMIC SALVATION COMMITTEE; a.k.a. ISLAMIC WORLD RELIEF; a.k.a. THE HUMAN RELIEF COMMITTEE OF THE MUSLIM WORLD LEAGUE; a.k.a. WORLD ISLAMIC RELIEF ORGANIZATION), P.O. Box 3654, Jakarta, Java 54021, Indonesia; Jalan Raya Cipinang Jaya No. 90, East Jakarta, Java 13410, Indonesia [SDGT]

INTERNATIONAL ISLAMIC RELIEF ORGANIZATION PHILIPPINES BRANCH OFFICE (a.k.a. AL IGATHA AL-ISLAMIYA; a.k.a. EGASSA; a.k.a. HAYAT AL-AGHATHA AL-ISLAMIA AL-ALAMIYA; a.k.a. HAYAT AL-'IGATHA; a.k.a. HAYAT AL-IGATHA; a.k.a. IGASA; a.k.a. IGASE; a.k.a. IGASSA; a.k.a. IGATHA; a.k.a. IGHATHA; a.k.a. IIRO; a.k.a. INTERNATIONAL ISLAMIC AID ORGANIZATION; a.k.a. INTERNATIONAL ISLAMIC RELIEF AGENCY; a.k.a. INTERNATIONAL RELIEF ORGANIZATION; a.k.a. ISLAMIC RELIEF ORGANIZATION; a.k.a. ISLAMIC SALVATION COMMITTEE; a.k.a. ISLAMIC WORLD RELIEF; a.k.a. THE HUMAN RELIEF COMMITTEE OF THE MUSLIM WORLD LEAGUE; a.k.a. WORLD ISLAMIC RELIEF ORGANIZATION), Basilan, Philippines; Cotabato City, Philippines; Tawi Tawi, Philippines; Marawi City, Philippines; 201 Heart Tower Building, 108 Valero Street, Salcedo Village, Makati City, Metropolitan Manila, Philippines; Zamboanga City, Philippines [SDGT]

INTERNATIONAL PACIFIC TRADING, INC., 2858 NW 79 Avenue, Miami, FL 33122; Business Registration Document # V16155 (United States); US FEIN 65-0315268 [BPI-SDNTK]

INTERNATIONAL PETROLEUM, S.A. (a.k.a. IPESCO), Colon Free Zone, Panama [CUBA]

INTERNATIONAL SIKH YOUTH FEDERATION (ISYF) [SDGT]

INTERNATIONAL TRANSPORT CORPORATION, Colon Free Zone, Panama [CUBA]

INTERPAL (a.k.a. AL-SANDUQ AL-FILISTINI LIL-IGHATHA; a.k.a. AL-SANDUQ AL-FILISTINI LIL-IGHATHA WA AL-TANMIYA; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London NW6 1RW, United Kingdom; Registered Charity No. 1040094 [SDGT]

INTERVENTORIA, CONSULTORIA Y ESTUDIOS LIMITADA INGENIEROS ARQUITECTOS (a.k.a. INCOES), Avenida 6N No. 13N-50 of. 1209, Cali, Colombia; NIT # 800144790-0 (Colombia) [SDNT]

INVERSIETE S.A., Carrera 3 No. 11-32 of. 939, Cali, Colombia; NIT # 800234909-6 (Colombia) [SDNT]

INVERSIONES AGRICOLAS AVICOLAS Y GANADERAS LA CARMELITA LTDA., Carrera 61 Nos. 11-58 y 11-62, Cali, Colombia; NIT # 800052898-1 (Colombia) [SDNT]

INVERSIONES AGROINDUSTRIALES DEL OCCIDENTE LTDA. (a.k.a. INAGROCCIDENTE LTDA.; f.k.a. RENTERIA CAICEDO E HIJAS Y CIA S.C.S.), Calle 114A No. 11A-40, Apt. 302, Bogota, Colombia; NIT # 800107993-1 (Colombia) [SDNT]

INVERSIONES AGROPECUARIA ARIZONA LTDA., Calle 82 No. 43-21 Ofc. 1C, Barranquilla, Colombia; NIT # 802019694-4 (Colombia) [SDNT]

INVERSIONES AGUILA LTDA., Factoria La Rivera, La Union, Valle, Colombia; Carrera 14 No. 14-56, La Union, Valle, Colombia; NIT # 891903843-0 (Colombia) [SDNT]

INVERSIONES ARA LTDA., Avenida 4N 6N-67 of. 601, Cali, Colombia; Club El Remanso, Jamundi, Colombia; Avenida 6AN 23DN-16 of. 402, Cali, Colombia; Avenida 6AN 18-69 1-128, Cali, Colombia [SDNT]

INVERSIONES ARIO LTDA., Carrera 4 No. 12-41 of. 608 y 701, Cali, Colombia; NIT # 890328888-1 (Colombia) [SDNT]

INVERSIONES BOMBAY S.A. (a.k.a. AGROVETERINARIA EL TORO; a.k.a. AGROVETERINARIA EL TORO #2), Transversal 29 No. 39-92, Bogota, Colombia; Calle 7 No. 25-69, Cali, Colombia; Calle 12B No. 28-50, Bogota, Colombia; Avenida 3 Bis Norte No. 23CN-69, Cali, Colombia; NIT # 830019226-2 (Colombia) [SDNT]

INVERSIONES BRASILAR S.A. (f.k.a. INVERSIONES RIVERA CAICEDO Y CIA S.C.S.; f.k.a. “INRICA”), Carrera 11 No. 73-44, Ofc. 803, Bogota, Colombia; NIT # 891305286-2 (Colombia) [SDNT]

INVERSIONES CAPITAL LTDA., Calle 22 Norte No. 9-43, Cali, Colombia; NIT # 800106082-2 (Colombia) [SDNT]

INVERSIONES CARFENI, S.L., Calle Gran Via 80, 28013 Madrid, Spain [SDNT]

INVERSIONES CLAUPI S.L., Calle Consuegra 3, 28036 Madrid, Madrid, Spain; C.I.F. B81684421 (Spain) [SDNT]

INVERSIONES CORPORATIVAS LTDA., Calle 16 Norte No. 9N-41, Cali, Colombia; NIT # 800203027-2 (Colombia) [SDNT]

INVERSIONES CULZAT GUEVARA Y CIA. S.C.S., Avenida 4A Oeste No. 5-187 apt. 401, Cali, Colombia; Avenida 7N No. 23N-39, Cali, Colombia; Avenida 4A Oeste No. 5-107 apt. 401, Cali, Colombia; NIT # 860065523-1 (Colombia) [SDNT]

INVERSIONES DEL PRADO ABDALA SAIEH Y CIA. S.C.A., Calle 77 B No. 57—141, Ofc. 901, Barranquilla, Colombia; NIT # 890108452-0 (Colombia) [SDNT]

INVERSIONES DOBLE CERO E.U., Transversal 29 No. 39-92, Bogota, Colombia; NIT # 830021696-7 (Colombia) [SDNT]

INVERSIONES EL EDEN S.C.S., Calle 52 No. 28E-30, Cali, Colombia; Calle 5 No. 22-39 of. 205, Cali, Colombia; NIT # 800083195-5 (Colombia) [SDNT]

INVERSIONES EL GRAN CRISOL LTDA. (f.k.a. W. HERRERA Y CIA. S. EN C.), Carrera 24D Oeste No. 6-237, Cali, Colombia; Avenida 2N 7N-55 of. 501, Cali, Colombia; NIT # 800001330-2 (Colombia) [SDNT]

INVERSIONES EL MOMENTO S.A., Carrera 49A No.48S-60 Bod. 102, Medellin, Colombia; Carrera 49 No. 61Sur-540, Medellin, Colombia; NIT # 811030776-7 (Colombia) [SDNT]

INVERSIONES EL PENON S.A., Avenida 2N, Cali, Colombia [SDNT]

INVERSIONES EPOCA S.A., Calle 15 Norte No. 6N-34 ofc. 404, Cali, Colombia; NIT # 805012582-7 (Colombia) [SDNT]

INVERSIONES ESPANOLAS FEMCAR S.L., Ronda Manuel Granero 69, piso 4-1, 28043 Madrid, Madrid, Spain; C.I.F. B82290727 (Spain) [SDNT]

INVERSIONES GEELE LTDA., Calle 17A No. 28A-23, Bogota, Colombia [SDNT]

INVERSIONES GRAME LTDA., Factoria La Rivera, La Union, Valle, Colombia; NIT # 891903520-7 (Colombia) [SDNT]

INVERSIONES HERREBE LTDA., Avenida 2N No. 7N-55 of. 501, Cali, Colombia; Carrera 25 No. 4-65, Cali, Colombia [SDNT]

INVERSIONES HOTELERAS DEL LITORAL LTDA. (a.k.a. INHOTEL), Calle 74 No. 53-30, Barranquilla, Colombia; NIT # 800011604-8 (Colombia) [SDNT]

INVERSIONES INMOBILIARIA QUILICHAO S.A. Y CIA S.C.A. (f.k.a. RENGIFO OSPINA Y CIA S.C.S.), Avenida 4N No. 6N-61, Ofc. 510, Cali, Colombia; NIT # 8001329098 (Colombia) [SDNT]

INVERSIONES INMOBILIARIAS VALERIA S.L., Calle Consuegra 3, 28036 Madrid, Madrid, Spain; Calle Zurbano 76, 7, Madrid, Madrid, Spain; C.I.F. B81681454 (Spain) [SDNT]

INVERSIONES INTEGRAL LTDA., Apartado Aereo 10077, Cali, Colombia; Carrera 4 No. 12-41 of. 1403, 1501 Edificio Seguros Bolivar, Cali, Colombia; NIT # 800092770-9 (Colombia) [SDNT]

INVERSIONES INTEGRAL Y CIA., Calle 16B No. 114-80 Casa 2, Cali, Colombia; Carrera 2 Oeste 5-46 apt/of 503, Cali, Colombia [SDNT]

INVERSIONES JAER LTDA., Apartado Aereo 10454, Cali, Colombia; Carrera 1H No. 39-42, Cali, Colombia; Carrera 7 No. 34-341 Bodega 7, Cali, Colombia; Calle 6A Norte No. 2N-36 of. 436, Cali, Colombia; NIT # 890332242-1 (Colombia) [SDNT]

INVERSIONES KANTON LTDA., Avenida 10A No. 5E-26 La Rivera, Cucuta, Norte de Santander, Colombia; NIT # 807000572-9 (Colombia) [SDNT]

INVERSIONES LA QUINTA Y CIA. LTDA., Diagonal 27 No. 27-104, Cali, Colombia; Diagonal 29 No. 36-10 of. 801, Cali, Colombia; NIT # 800160387-2 (Colombia) [SDNT]

INVERSIONES LA SEXTA LTDA., Calle 10 No. 4-47 piso 19, Cali, Colombia [SDNT]

INVERSIONES LICOM LTDA. (a.k.a. RESTAURANTE ANGUS BRANGUS), Carrera 45 No. 54-56, Via las Palmas, Medellin, Colombia; Carrera 42 No. 34-15, Medellin, Colombia; NIT # 811038211-4 (Colombia) [SDNT]

INVERSIONES LOS POSSO LTDA. S.C.S., Factoria La Rivera, La Union, Valle, Colombia; NIT # 891903760-8 (Colombia) [SDNT]

INVERSIONES LUPAMAR, S.A. (a.k.a. LUPAMAR INVESTMENT COMPANY), Panama [CUBA]

INVERSIONES MACARNIC PATINO Y CIA S.C.S., Carrera 8 No. 23-09, Ofc. 903, Pereira, Risaralda, Colombia; Calle 19 No. 9-50, Ofc. 505, Pereira, Risaralda, Colombia; NIT # 816005011-4 (Colombia) [SDNT]

INVERSIONES MONDRAGON Y CIA. S.C.S. (f.k.a. MARIELA DE RODRIGUEZ Y CIA. S. EN C.), Calle 12 Norte No. 9N-56/58, Cali, Colombia; NIT # 890328152-1 (Colombia) [SDNT]

INVERSIONES MPS S.A. (f.k.a. EQUIPOS MPS S.A.), Avenida 13 No. 100-12 Ofc. 302, Bogota, Colombia; NIT # 800231392-5 (Colombia) [SDNT]

INVERSIONES NAMOS Y CIA. LTDA., Carrera 54 No. 75-107, Barranquilla, Colombia; NIT # 800182475-7 (Colombia) [SDNT]

INVERSIONES NUEVO DIA E.U., Calle 86 No. 103C-49, Bogota, Colombia; NIT # 830020410-3 (Colombia) [SDNT]

INVERSIONES PRADO TRADE CENTER LTDA. (a.k.a. IPRACARIBE), Calle 74 No. 53-30, Barranquilla, Colombia; NIT # 800236713-9 (Colombia) [SDNT]

INVERSIONES RODRIGUEZ RAMIREZ Y CIA. S.C.S.S., Calle 10 No. 4-47 piso 19, Cali, Colombia [SDNT]

INVERSIONES SAMPLA E.U., Calle 86 No. 103C-49, Bogota, Colombia; NIT # 830020409-5 (Colombia) [SDNT]

INVERSIONES SAN JOSE LTDA., Calle 44 No. 1E-155, Cali, Colombia; Carrera 7 No. 34-341, Cali, Colombia; Calle 44 No. 1E-135, Cali, Colombia; Apartado Aereo 10454, Cali, Colombia; NIT # 800079682-5 (Colombia) [SDNT]

INVERSIONES SANTA CECILIA S.C.S., Factoria La Rivera, La Union, Valle, Colombia; NIT # 891903795-5 (Colombia) [SDNT]

INVERSIONES SANTA LTDA. (f.k.a. INVERSIONES Y CONSTRUCCIONES SANTA LIMITADA), Calle 5 66B-49 piso 3, Cali, Colombia; Carrera 4 12-41 piso 14, Edificio Seguros Bolivar, Cali, Colombia; Calle 9 No. 46-69 Of. 302, Cali, Colombia; Calle 5 Oeste 3A-26 apt/of 103, 301, 404, 502, 503, Cali, Colombia; Carrera 2 Oeste 5-46 of 502, Cali, Colombia; Calle 7 Oeste 25-48, Cali, Colombia; Carrera 4 12-41 piso 15, Edificio Seguros Bolivar, Cali, Colombia; Calle 13 3-32 piso 14, Cali, Colombia [SDNT]

INVERSIONES SANTA MONICA LTDA., Factoria La Rivera, La Union, Valle, Colombia; NIT # 800042933-9 (Colombia) [SDNT]

INVERSIONES SARDI ALZATE S.C.S., Calle 16 Norte No. 9N-41, Cali, Colombia; NIT # 805009126-0 (Colombia) [SDNT]

INVERSIONES VILLA PAZ S.A., Avenida 2DN No. 24N-76, Cali, Colombia; Carrera 61 No. 11-58, Cali, Colombia; Avenida 2CN No. 24N-92, Cali, Colombia; Calle 70N No. 14-31, Cali, Colombia; NIT # 800091083-2 (Colombia) [SDNT]

INVERSIONES Y COMERCIALIZADORA INCOM LTDA. (f.k.a. CONSTRUCTORA HENA LTDA.), Calle 12 No. 4-63, Cali, Colombia; NIT # 890329658-9 (Colombia) [SDNT]

INVERSIONES Y COMERCIALIZADORA RAMIREZ Y CIA. LTDA., Avenida 4 No. 8N-67, Cali, Colombia; Calle 12N No. 9N-58, Cali, Colombia; NIT # 800075600-3 (Colombia) [SDNT]

INVERSIONES Y CONSTRUCCIONES ABC S.A. (f.k.a. INVERSIONES CAMINO REAL S.A.), Calle 10 No. 4-47 piso 19, Cali, Colombia; Calle 12 Norte No. 9N-56/58, Cali, Colombia; NIT # 890325389-4 (Colombia) [SDNT]

INVERSIONES Y CONSTRUCCIONES VALLE S.A. (a.k.a. INCOVALLE), Avenida 2N No. 7N-55 of. 501, Cali, Colombia [SDNT]

INVERSIONES Y DISTRIBUCIONES A M M LTDA., Calle 5 No. 50-103, Cali, Colombia; NIT # 800192791-2 (Colombia) [SDNT]

INVERSIONES Y REPRESENTACIONES S.A. (a.k.a. IRSA S.A.), Carrera 43A No. 16A Sur—38, Barrio El Poblado, Medellin, Colombia; NIT # 811040270-5 (Colombia) [SDNT]

INVESTACAST PRECISION CASTINGS, LTD., 112 City Road, London, United Kingdom [IRAQ2]

IPARRAGUIRRE GUENECHEA, Maria Soledad; DOB 25 Apr 1961; POB Escoriaza, Guipuzcoa Province, Spain; D.N.I. 16.255.819 (Spain); Member ETA (individual) [SDGT]

IRAGORI TORRES, Maria Consuelo (a.k.a. IRAGORRI TORRES, Maria Consuelo), c/o INTERNACIONAL DE DIVISAS S.A., Cali, Colombia; c/o OBURSATILES S.A., Cali, Colombia; c/o ALERO S.A., Cali, Colombia; c/o VALORCORP S.A., Bogota, Colombia; c/o INTERNACIONAL DE DIVISAS S.A., LLC, Miami, FL; c/o SEPULVEDA-IRAGORRI LTD., Nassau, Bahamas, The; DOB 26 Apr 1964; Cedula No. 31921847 (Colombia); Passport 31921847 (Colombia) (individual) [SDNT]

IRAN ADL; Vessel Registration Identification IMO 8108559 (vessel) [NPWMD]

IRAN AFZAL; Vessel Registration Identification IMO 8105284 (vessel) [NPWMD]

IRAN AIRCRAFT MANUFACTURING INDUSTRIAL COMPANY (a.k.a. HESA; a.k.a. HESA TRADE CENTER; a.k.a. HTC; a.k.a. IAMCO; a.k.a. IAMI; a.k.a. IRAN AIRCRAFT MANUFACTURING COMPANY; a.k.a. IRAN AIRCRAFT MANUFACTURING INDUSTRIES; a.k.a. KARKHANEJATE SANAYE HAVAPAYMAIE IRAN; a.k.a. “HAVA PEYMA SAZI-E IRAN”; a.k.a. “HAVAPEYMA SAZHRAN”; a.k.a. “HAVAPEYMA SAZI IRAN”; a.k.a. “HEVAPEIMASAZI”), Shahih Shar Industrial Zone, Isfahan, Iran; P.O. Box 81465-935, Esfahan, Iran; P.O. Box 8140, No. 107 Sepahbod Gharany Ave, Tehran, Iran; P.O. Box 83145-311, 28 km Esfahan—Tehran Freeway, Shahin Shahr, Esfahan, Iran; P.O. Box 14155-5568, No. 27 Shahamat Ave, Vallie Asr Sqr, Tehran 15946, Iran [NPWMD]

IRAN AKHAVAN; Vessel Registration Identification IMO 8113009 (vessel) [NPWMD]

IRAN AMANAT; Vessel Registration Identification IMO 8112990 (vessel) [NPWMD]

IRAN AMIRABAD; Vessel Registration Identification IMO 9368003 (vessel) [NPWMD]

IRAN ANZALI; Vessel Registration Identification IMO 9367982 (vessel) [NPWMD]

IRAN ARAK; Vessel Registration Identification IMO 9270646 (vessel) [NPWMD]

IRAN ARDEBIL; Vessel Registration Identification IMO 9284154 (vessel) [NPWMD]

IRAN AZADI; Vessel Registration Identification IMO 7632838 (vessel) [NPWMD]

IRAN AZARBAYJAN; Vessel Registration Identification IMO 9193185 (vessel) [NPWMD]

IRAN BAGHAEI; Vessel Registration Identification IMO 7502734 (vessel) [NPWMD]

IRAN BAGHERI; Vessel Registration Identification IMO 7428811 (vessel) [NPWMD]

IRAN BAM; Vessel Registration Identification IMO 9323833 (vessel) [NPWMD]

IRAN BASEER; Vessel Registration Identification IMO 9010711 (vessel) [NPWMD]

IRAN BASHEER; Vessel Registration Identification IMO 8215742 (vessel) [NPWMD]

IRAN BIRJAND; Vessel Registration Identification IMO 9305219 (vessel) [NPWMD]

IRAN BOJNOORD; Vessel Registration Identification IMO 9305207 (vessel) [NPWMD]

IRAN BRAVE; Vessel Registration Identification IMO 9051650 (vessel) [NPWMD]

IRAN BROOJERDI; Vessel Registration Identification IMO 7502722 (vessel) [NPWMD]

IRAN BUSHEHR; Vessel Registration Identification IMO 9270658 (vessel) [NPWMD]

IRAN COMMUNICATION INDUSTRIES (a.k.a. ICI; a.k.a. IRAN COMMUNICATIONS INDUSTRIES GROUP; a.k.a. SANAYE MOKHABERAT IRAN), P.O. Box 19575-131, 34 Apadana Avenue, Tehran, Iran; Shahid Langary Street, Nobonyad Square Ave., Pasdaran, Tehran, Iran; P.O. Box 19295-4731, Pasdaran Avenue, Tehran, Iran [NPWMD]

IRAN DALEER; Vessel Registration Identification IMO 9118551 (vessel) [NPWMD]

IRAN DEYANAT; Vessel Registration Identification IMO 8107579 (vessel) [NPWMD]

IRAN DOLPHIN; Vessel Registration Identification IMO 8320195 (vessel) [NPWMD]

IRAN ELECTRONICS INDUSTRIES (a.k.a. IEI; a.k.a. SANAYE ELECTRONIC IRAN; a.k.a. SASAD IRAN ELECTRONICS INDUSTRIES; a.k.a. SHERKAT SANAYEH ELECTRONICS IRAN), P.O. Box 19575-365, Shahied Langari Street, Noboniad Sq, Pasdaran Ave, Saltanad Abad, Tehran, Iran; P.O. Box 71365-1174, Hossain Abad/Ardakan Road, Shiraz, Iran; Business Registration Document # 829 [NPWMD]

IRAN ENTEKHAB; Vessel Registration Identification IMO 7632814 (vessel) [NPWMD]

IRAN ESTEGHLAL; Vessel Registration Identification IMO 7620550 (vessel) [NPWMD]

IRAN FARS; Vessel Registration Identification IMO 9283021 (vessel) [NPWMD]

IRAN GHADEER; Vessel Registration Identification IMO 9010723 (vessel) [NPWMD]

IRAN GHAZI; Vessel Registration Identification IMO 8309672 (vessel) [NPWMD]

IRAN GILAN; Vessel Registration Identification IMO 9193202 (vessel) [NPWMD]

IRAN GOLESTAN; Vessel Registration Identification IMO 9226944 (vessel) [NPWMD]

IRAN HAMADAN; Vessel Registration Identification IMO 9226956 (vessel) [NPWMD]

IRAN HAMZEH; Vessel Registration Identification IMO 8320171 (vessel) [NPWMD]

IRAN HORMUZ 12; Vessel Registration Identification IMO 9005596 (vessel) [NPWMD]

IRAN HORMUZ 14; Vessel Registration Identification IMO 9020778 (vessel) [NPWMD]

IRAN HORMUZ 21; Vessel Registration Identification IMO 8314263 (vessel) [NPWMD]

IRAN HORMUZ 22; Vessel Registration Identification IMO 8314275 (vessel) [NPWMD]

IRAN HORMUZ 23; Vessel Registration Identification IMO 8319782 (vessel) [NPWMD]

IRAN HORMUZ 25; Vessel Registration Identification IMO 8422072 (vessel) [NPWMD]

IRAN HORMUZ 26; Vessel Registration Identification IMO 8422084 (vessel) [NPWMD]

IRAN ILAM; Vessel Registration Identification IMO 9283033 (vessel) [NPWMD]

IRAN JOMHURI; Vessel Registration Identification IMO 7632826 (vessel) [NPWMD]

IRAN KABEER; Vessel Registration Identification IMO 9076478 (vessel) [NPWMD]

IRAN KASHAN; Vessel Registration Identification IMO 9270696 (vessel) [NPWMD]

IRAN KERMAN; Vessel Registration Identification IMO 9209350 (vessel) [NPWMD]

IRAN KERMANSHAH; Vessel Registration Identification IMO 9213399 (vessel) [NPWMD]

IRAN KHORASAN; Vessel Registration Identification IMO 9193214 (vessel) [NPWMD]

IRAN KOLAHDOOZ; Vessel Registration Identification IMO 7428809 (vessel) [NPWMD]

IRAN MADANI; Vessel Registration Identification IMO 8309622 (vessel) [NPWMD]

IRAN MAHALLATI; Vessel Registration Identification IMO 7428823 (vessel) [NPWMD]

IRAN MATIN; Vessel Registration Identification IMO 9051624 (vessel) [NPWMD]

IRAN MAZANDARAN; Vessel Registration Identification IMO 9193197 (vessel) [NPWMD]

IRAN MODARES; Vessel Registration Identification IMO 7618985 (vessel) [NPWMD]

IRAN NABUVAT; Vessel Registration Identification IMO 7618571 (vessel) [NPWMD]

IRAN NAVAB (a.k.a. IRAN DESTINY); Vessel Registration Identification IMO 8320145 (vessel) [NPWMD]

IRAN NOWSHAHR; Vessel Registration Identification IMO 9367994 (vessel) [NPWMD]

IRAN O HIND SHIPPING COMPANY (a.k.a. IHSC; a.k.a. IRANO HIND SHIPPING COMPANY; a.k.a. IRANOHIND SHIPPING COMPANY (PJS); a.k.a. KESHTIRANI IRAN VE HEND SAHAMI KHASS), 18 Mehrshad Street, Sadaghat Street, Opposite of Park Mellat, Vali-e-Asr Ave., Tehran, Iran; 265, Next to Mehrshad, Sedaghat St., Opposite of Mellat Park, Vali Asr Ave., Tehran 1A001, Iran [NPWMD]

IRAN O MISR SHIPPING COMPANY (a.k.a. IRAN & EGYPT SHIPPING LINES; a.k.a. IRANMISR SHIPPING CO.), No. 41, 3rd Floor, Corner of 6th Alley, Sanaei St., Karim Khan Zand Ave., Tehran, Iran; 6 El Horreya Avenue, Alexandria, Egypt; El Nahda Building, Elnahda St., 4th Floor, Port Said, Egypt [NPWMD]

IRAN PIROOZI; Vessel Registration Identification IMO 9283007 (vessel) [NPWMD]

IRAN SARBAZ; Vessel Registration Identification IMO 8113011 (vessel) [NPWMD]

IRAN SEPAH; Vessel Registration Identification IMO 7375363 (vessel) [NPWMD]

IRAN SHAHED; Vessel Registration Identification IMO 9184691 (vessel) [NPWMD]

IRAN SHALAMCHEH; Vessel Registration Identification IMO 8820925 (vessel) [NPWMD]

IRAN SHARIAT; Vessel Registration Identification IMO 8107581 (vessel) [NPWMD]

IRAN TABAS; Vessel Registration Identification IMO 9305192 (vessel) [NPWMD]

IRAN TAKHTI; Vessel Registration Identification IMO 7602194 (vessel) [NPWMD]

IRAN TEYFOURI; Vessel Registration Identification IMO 7602211 (vessel) [NPWMD]

IRAN TORKAMAN; Vessel Registration Identification IMO 9368015 (vessel) [NPWMD]

IRAN TUCHAL; Vessel Registration Identification IMO 9346536 (vessel) [NPWMD]

IRAN YASOOJ; Vessel Registration Identification IMO 9284142 (vessel) [NPWMD]

IRAN YAZD; Vessel Registration Identification IMO 9213387 (vessel) [NPWMD]

IRAN ZANJAN; Vessel Registration Identification IMO 9283019 (vessel) [NPWMD]

IRAQI ALLIED SERVICES LIMITED, United Kingdom [IRAQ2]

IRAQI FREIGHT SERVICES LIMITED, United Kingdom [IRAQ2]

IRAQI TRADE CENTER, Dubai, United Arab Emirates [IRAQ2]

IRBIS AIR COMPANY, UL Furmanova 65, office 317, Almaty 48004, Kazakhstan [LIBERIA]

IRINVESTSHIP LTD., Global House, 61 Petty France, London SW1H 9EU, United Kingdom; Business Registration Document # 4110179 (United Kingdom) [NPWMD]

IRISL (MALTA) LIMITED, Flat 1, 181, Tower Road, Sliema SLM 1604, Malta; Business Registration Document # C33735 (Malta); Tax ID No. MT 17037313 (Malta) [NPWMD]

IRISL (UK) LTD., 2 Abbey Rd., Barking, Essex IG11 7 AX, United Kingdom; Business Registration Document # 4765305 (United Kingdom) [NPWMD]

IRISL BENELUX NV, Noorderlaan 139, B-2030, Antwerp, Belgium; V.A.T. Number BE480224531 (Belgium) [NPWMD]

IRISL CHINA SHIPPING CO., LTD. (a.k.a. YI HANG SHIPPING COMPANY, LTD.), F23A-D, Times Plaza No. 1, Taizi Road, Shekou, Shenzhen 518067, China [NPWMD]

IRISL EUROPE GMBH, Schottweg 5, 22087, Hamburg, Germany; V.A.T. Number DE217283818 (Germany) [NPWMD]

IRISL MARINE SERVICES & ENGINEERING COMPANY (a.k.a. IMSENGCO; a.k.a. SHERKATE KHADAMTE DARYA AND MOHAMDESI KESHTIRANI), Sarbandar, Gas Station, P.O. Box 199, Bandar Imam Khomeini, Iran; No. 221, Northern Iranshahr St., Karimkhan Ave., Tehran, Iran; Karim Khan Zand Ave., Iran Shahr Shomai, No. 221, Tehran, Iran [NPWMD]

IRISL MULTIMODAL TRANSPORT CO. (a.k.a. RAIL IRAN SHIPPING COMPANY), No. 25, Shahid Arabi Line, Sanaei St., Karimkhan Zand St., Tehran, Iran [NPWMD]

IRITAL SHIPPING SRL COMPANY, Ponte Francesco Morosini 59, 16126 Genova (GE), Italy; Commercial Registry Number GE 426505 (Italy); Italian Fiscal Code 03329300101 (Italy); V.A.T. Number 12869140157 (Italy) [NPWMD]

ISAMUDDIN, Nurjaman Riduan (a.k.a. HAMBALI; a.k.a. ISOMUDDIN, Riduan; a.k.a. NURJAMAN; a.k.a. NURJAMAN, Encep); DOB 04 Apr 1964; alt. DOB 01 Apr 1964; POB Cianjur, West Java, Indonesia; nationality Indonesia (individual) [SDGT]

ISAZA ARANGO, Ramon Maria; DOB 30 Sep 1940; POB Sonson, Antioquia, Colombia; Cedula No. 5812993 (Colombia) (individual) [SDNTK]

ISLAMBOULI, Mohammad Shawqi; DOB 15 Jan 1955; POB Egypt; Passport 304555 (Egypt); Military Leader of ISLAMIC GAMA'AT (individual) [SDT]

ISLAMIC AFRICAN RELIEF AGENCY (a.k.a. AL-WAKALA AL-ISLAMIYA AL-AFRIKIA L'IL-IGHATHA; a.k.a. AL-WAKALA AL-ISLAMIYA L'IL-IGHATHA; a.k.a. IARA; a.k.a. ISLAMIC AMERICAN RELIEF AGENCY; a.k.a. ISLAMIC RELIEF AGENCY; a.k.a. ISRA), 201 E. Cherry Street, Suite D, Columbia, MO 65205; all offices worldwide [SDGT]

ISLAMIC ARMY (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC SALVATION FOUNDATION; a.k.a. NEW JIHAD; a.k.a. “THE BASE”; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION) [FTO] [SDGT] [SDT]

ISLAMIC ARMY OF ADEN [SDGT]

ISLAMIC JIHAD GROUP (IJG) (a.k.a. AL-DJIHAD AL-ISLAMI; a.k.a. DZHAMAAT MODZHAKHEDOV; a.k.a. ISLAMIC JIHAD GROUP OF UZBEKISTAN; n.k.a. ISLAMIC JIHAD UNION (IJU); n.k.a. ISLOMIY JIHOD ITTIHODI; n.k.a. ITTIHAD AL-JIHAD AL-ISLAMI; a.k.a. JAMA'AT AL-JIHAD; a.k.a. JAMIAT AL-JIHAD AL-ISLAMI; a.k.a. JAMIYAT; a.k.a. THE JAMAAT MOJAHEDIN; a.k.a. THE KAZAKH JAMA'AT; a.k.a. THE LIBYAN SOCIETY) [SDGT] [FTO]

ISLAMIC MOVEMENT OF UZBEKISTAN (a.k.a. IMU) [FTO] [SDGT]

ISLAMIC REPUBLIC OF IRAN SHIPPING LINES (a.k.a. ARYA SHIPPING COMPANY; a.k.a. IRI SHIPPING LINES; a.k.a. IRISL; a.k.a. IRISL GROUP), No. 37, Aseman Tower, Sayyade Shirazee Square, Pasdaran Ave., P.O. Box 19395-1311, Tehran, Iran; No. 37, Corner of 7th Narenjestan, Sayad Shirazi Square, After Noboyand Square, Pasdaran Ave., Tehran, Iran [NPWMD]

ISLAMIC RESISTANCE SUPPORT ORGANIZATION (a.k.a. HAYAT AL-DAM LIL-MUQAWAMA AL-ISLAMIYA; a.k.a. ISLAMIC RESISTANCE SUPPORT ASSOCIATION), Beirut, Lebanon [SDGT]

ISLAMIC REVOLUTIONARY GUARD CORPS (a.k.a. AGIR; a.k.a. IRANIAN REVOLUTIONARY GUARD CORPS; a.k.a. IRG; a.k.a. IRGC; a.k.a. ISLAMIC REVOLUTIONARY CORPS; a.k.a. PASDARAN; a.k.a. PASDARAN-E ENGHELAB-E ISLAMI; a.k.a. PASDARAN-E INQILAB; a.k.a. REVOLUTIONARY GUARD; a.k.a. REVOLUTIONARY GUARDS; a.k.a. SEPAH; a.k.a. SEPAH PASDARAN; a.k.a. SEPAH-E PASDARAN-E ENQELAB-E ESLAMI; a.k.a. THE ARMY OF THE GUARDIANS OF THE ISLAMIC REVOLUTION; a.k.a. THE IRANIAN REVOLUTIONARY GUARDS), Tehran, Iran [NPWMD]

ISLAMIC REVOLUTIONARY GUARD CORPS (IRGC)-QODS FORCE (a.k.a. PASDARAN-E ENGHELAB-E ISLAMI (PASDARAN); a.k.a. SEPAH-E QODS (JERUSALEM FORCE)) [SDGT]

ISSA, Issa Osman (a.k.a. ATTO, Abdullah; a.k.a. BUR, Abdullah; a.k.a. SUDANI, Abdala; a.k.a. “AFADEY”; a.k.a. “MUSSE”); DOB 1973; POB Malindi, Kenya; nationality Kenya (individual) [SDGT]

IVANOVIC, Milan; DOB 5 Feb 1955 (individual) [BALKANS]

IZQUIERDO QUINTERO, Rosalino, c/o INVERSIONES INVERVALLE S.A., Cali, Colombia; DOB 4 Oct 1956; Cedula No. 70111037 (Colombia) (individual) [SDNT]

IZTUETA BARANDICA, Enrique; DOB 30 Jul 1955; POB Santurce (Vizcaya Province), Spain; D.N.I. 14.929.950; member ETA (individual) [SDGT]

IZZ-AL-DIN, Hasan (a.k.a. GARBAYA, AHMED; a.k.a. SA-ID; a.k.a. SALWWAN, Samir), Lebanon; DOB 1963; POB Lebanon; citizen Lebanon (individual) [SDGT]

IZZAT, Dieman Abdulkadir (a.k.a. AL-JABBARI, Deiman Alhasenben Ali), Fuerther Street 335, Nuremberg, Germany; Nuremberg Prison, Germany; Adolf-Braun Street 6, Nuremberg 90429, Germany; DOB 4 Jul 1965; POB Kirkuk, Iraq; nationality Iraq; Travel Document Number A0141062 (Germany) (individual) [SDGT]

J. FREDDY MAFLA Y CIA. S.C.S., Carrera 4 No. 11-45 Ofc. 503, Cali, Colombia; NIT # 800020482-4 (Colombia) [SDNT]

J.A.J. BARBOSA Y CIA. S.C.S. (f.k.a. COMERCIO GLOBAL Y CIA. S.C.S.), Calle 15 Norte No. 6N-34 ofc. 404, Cali, Colombia; NIT # 800214437-6 (Colombia) [SDNT]

JAAR JACIR, Armando Jacobo (a.k.a. JAAR JASSIR, Armando Jacobo), c/o JACARIA FLORIDA, INC., Miami, FL; Calle 72 No. 65-56, Barranquilla, Colombia; c/o ALMACAES S.A., Bogota, Colombia; c/o BLACKMORE INVESTMENTS A.V.V., Oranjestad, Aruba; c/o ARMANDO JAAR Y CIA. S.C.S., Barranquilla, Colombia; c/o ILOVIN S.A., Bogota, Colombia; Calle 81 No. 57-56, Barranquilla, Colombia; c/o CORPORACION DE ALMACENES POR DEPARTAMENTOS S.A., Bogota, Colombia; c/o G.L.G. S.A., Bogota, Colombia; Calle 118 No. 19-38, Bogota, Colombia; c/o RAMAL S.A., Bogota, Colombia; DOB 20 Jan 1947; POB Barranquilla, Colombia; Cedula No. 7432263 (Colombia); Passport P015313 (Colombia) (individual) [SDNT]

JAAR JASSIR, Ricardo (a.k.a. JAAR JACIR, Ricardo), c/o CONFECCIONES LORD S.A., Barranquilla, Atlantico, Colombia; c/o ALMACAES S.A., Bogota, Colombia; c/o CORPORACION DE ALMACENES POR DEPARTAMENTOS S.A., Bogota, Colombia; c/o G.L.G. S.A., Bogota, Colombia; c/o ILOVIN S.A., Bogota, Colombia; c/o RAMAL S.A., Bogota, Colombia; c/o JACARIA FLORIDA, INC., Miami, FL; c/o GIMBER INVESTING CORPORATION, Virgin Islands, British; DOB 29 Sep 1940; POB Barranquilla, Colombia; citizen Colombia; Cedula No. 3714973 (Colombia); Passport AF665413 (Colombia) (individual) [SDNT]

JABBER IBN HAYAN (a.k.a. JABER IBN HAYAN RESEARCH DEPARTMENT; a.k.a. JABR IBN HAYAN MULTIPURPOSE LABORATORIES; a.k.a. “JABIR BIN AL-HAYYAN LABORATORY”; a.k.a. “JHL”), c/o AEOI-JIHRD P.O. Box 11365-8486, Tehran, Iran [NPWMD]

JABRIL, Ahmad (a.k.a. JIBRIL, Ahmad); DOB 1938; POB Ramleh, Israel; Secretary General of POPULAR FRONT FOR THE LIBERATION OF PALESTINE—GENERAL COMMAND (individual) [SDT]

JACARIA FLORIDA, INC., 1149 SW 27th Avenue Suite 203, Miami, FL 33135; 9400 South Dadeland Boulevard Suite 601, Miami, FL 33156; US FEIN 592804133 (United States) [SDNT]

JAFFAR 'ALI, 'Abd al-Rahman Muhammad (a.k.a. JAFFAR, Abdulrahman Mohammad; a.k.a. JAFFER ALI, Abdul Rahman Mohamed; a.k.a. JAFFIR ALI, Abd al-Rahman; a.k.a. JAFFIR, 'Abd al-Rahman Muhammad; a.k.a. JAFIR 'ALI, 'Abd al-Rahman Muhammad; a.k.a. “ABU MUHAMMAD AL-KHAL”; a.k.a. “'ALI AL-KHAL”); DOB 15 Jan 1968; POB Muharraq, Bahrain; nationality Bahrain (individual) [SDGT]

JAIMES RIVERA, Jose Isidro, c/o CONSULTORIA EMPRESARIAL ESPECIALIZADA LTDA., Cali, Colombia; c/o INVERSIONES GEMINIS S.A., Cali, Colombia; c/o INMOBILIARIA U.M.V. S.A., Cali, Colombia; c/o CONCRETOS CALI S.A., Cali, Colombia; c/o INVERSIONES BETANIA LTDA., Cali, Colombia; c/o CONSTRUCTORA DIMISA LTDA., Cali, Colombia; c/o GANADERIAS DEL VALLE S.A., Cali, Colombia; c/o ADMINISTRACION INMOBILIARIA BOLIVAR S.A., Cali, Colombia; c/o SOCOVALLE LTDA., Cali, Colombia; c/o INDUSTRIA DE CARNES LTDA., Pereira, Colombia; c/o COMERCIALIZADORA INTERNACIONAL VALLE DE ORO S.A., Cali, Colombia; c/o INVERSIONES EL PENON S.A., Cali, Colombia; DOB 7 Nov 1949; Cedula No. 10090006 (Colombia) (individual) [SDNT]

JAISH-I-MOHAMMED (a.k.a. ARMY OF MOHAMMED; a.k.a. JAISH-E-MOHAMMED; a.k.a. KHUDAMUL ISLAM; a.k.a. KHUDDAM-UL-ISLAM; a.k.a. KUDDAM E ISLAMI; a.k.a. MOHAMMED'S ARMY; a.k.a. TEHRIK UL-FURQAAN), Pakistan [FTO] [SDGT]

JAKSIC, Marko; DOB 1954; POB Mitrovica, Serbia and Montenegro (individual) [BALKANS]

JAKUPI, Avdyl; DOB 20 Apr 1974; POB Stimlje, Kosovo, Serbia (individual) [BALKANS]

JALOLOV, Najmiddin Kamolitdinovich (a.k.a. ABU YAHYA MUHAMMAD FATIH; a.k.a. JALALOV, Najmiddin; a.k.a. JALOLOV, Najmiddin; a.k.a. YAKH'YO; a.k.a. ZHALALOV, Nazhmiddin; a.k.a. ZHALOLOV, Nazhmiddin; a.k.a. ZHALOLOV, Nazhmiddin Kamoldinovich; a.k.a. ZHALOLOV, Nazhmidin Kamoldinovich; a.k.a. ZHALOLOV, Nazhmuddin Kamoldinovich; a.k.a. ZHANOV, Najmiddin Kamilidinovich; a.k.a. “ABDURAKHMON”; a.k.a. “YAHYO”), S. Jalilov Street 14, Khartu, Andijan region, Uzbekistan; DOB 1 Apr 1972; alt. DOB 1972; POB Andijan region, Uzbekistan; nationality Uzbekistan (individual) [SDGT]

JAMARO CONSTRUCTORES S.A. DE C.V., Culiacan, Sinaloa, Mexico [SDNTK]

JAM'AT AL TAWHID WA'AL-JIHAD (a.k.a. AL-QAIDA GROUP OF JIHAD IN IRAQ; a.k.a. AL-QAIDA GROUP OF JIHAD IN THE LAND OF THE TWO RIVERS; a.k.a. AL-QAIDA IN IRAQ; a.k.a. AL-QAIDA IN MESOPOTAMIA; a.k.a. AL-QAIDA IN THE LAND OF THE TWO RIVERS; a.k.a. AL-QAIDA OF JIHAD IN IRAQ; a.k.a. AL-QAIDA OF JIHAD ORGANIZATION IN THE LAND OF THE TWO RIVERS; a.k.a. AL-QAIDA OF THE JIHAD IN THE LAND OF THE TWO RIVERS; a.k.a. AL-TAWHID; a.k.a. AL-ZARQAWI NETWORK; a.k.a. TANZEEM QA'IDAT AL JIHAD/BILAD AL RAAFIDAINI; a.k.a. TANZIM QA'IDAT AL-JIHAD FI BILAD AL-RAFIDAYN; a.k.a. THE MONOTHEISM AND JIHAD GROUP; a.k.a. THE ORGANIZATION BASE OF JIHAD/COUNTRY OF THE TWO RIVERS; a.k.a. THE ORGANIZATION BASE OF JIHAD/MESOPOTAMIA; a.k.a. THE ORGANIZATION OF AL-JIHAD'S BASE IN IRAQ; a.k.a. THE ORGANIZATION OF AL-JIHAD'S BASE IN THE LAND OF THE TWO RIVERS; a.k.a. THE ORGANIZATION OF AL-JIHAD'S BASE OF OPERATIONS IN IRAQ; a.k.a. THE ORGANIZATION OF AL-JIHAD'S BASE OF OPERATIONS IN THE LAND OF THE TWO RIVERS; a.k.a. THE ORGANIZATION OF JIHAD'S BASE IN THE COUNTRY OF THE TWO RIVERS) [FTO] [SDGT]

JAMCE INVESTMENTS LTD., Georgetown, Grand Cayman, Cayman Islands; C.R. No. 93989 (Cayman Islands) [SDNT]

JAMI JAMI (a.k.a. JAMA' JAMA'; a.k.a. JAMEA, Jamea Kamil; a.k.a. JAM'I JAM'I); DOB 16 Jun 1954; POB Jablah, Zama, Syria; Brigadier General (individual) [SYRIA]

JAMIL GEORGES, Fahd (a.k.a. JAMIL GEORGES, Fuad; a.k.a. YAMIL GEORGES, Fahd; a.k.a. “EL PADRINO”; a.k.a. “TURCO”), Pedro Juan Caballero, Amambay, Paraguay; Ponta Pora, Mato Grosso do Sul, Brazil; DOB 7 Jun 1941; citizen Brazil; nationality Lebanon; Cedula No. RG-013147 (Brazil) (individual) [SDNTK]

JAMMALI, Imed Ben Bechir Ben Hamda, via Dubini, n. 3, Gallarate, Varese, Italy; DOB 25 Jan 1968; POB Menzel Temine, Tunisia; nationality Tunisia; Italian Fiscal Code JMMMDI68A25Z352D; Passport K693812 issued 23 Apr 1999 expires 22 Apr 2004; Currently in jail in Tunisia (individual) [SDGT]

JAM'YAH TA'AWUN AL-ISLAMIA (a.k.a. JAM'IYAT AL TA'AWUN AL ISLAMIYYA; a.k.a. JIT; a.k.a. SOCIETY OF ISLAMIC COOPERATION), Qandahar City, Afghanistan [SDGT]

JANJALANI, Khadafi Abubakar (a.k.a. ABU MUKTAR; a.k.a. JANJALANI, Khadafy; a.k.a. JANJALANI, Khaddafy Abubakar); DOB 3 Mar 1975; POB Isabela, Basilan, Philippines; nationality Philippines (individual) [SDGT]

JANKOVIC, Gojko; DOB 31 Oct 1954; POB Foca, Bosnia-Herzegovina; ICTY indictee at large; sub-commander of the military police in Foca (individual) [BALKANS]

JANPRAPAPORN, Arin (a.k.a. CHANTARAPRAPAPORN, Arin; a.k.a. CHANTHRAPRAPHAPHON, Amarin; a.k.a. CHANTHRAPRAPHAPHON, Arin; a.k.a. CHANTRAPRAPAPORN, Arrin; a.k.a. CHATARAPRAPAPORN, Arin), c/o BANGKOK ARTI-FLORA DESIGN LIMITED PARTNERSHIP, Bangkok, Thailand; c/o BANGKOK SILK FLOWER COMPANY LTD., Bangkok, Thailand; DOB 5 May 1954; Passport M93116 (Thailand) (individual) [SDNTK]

JARACO S.A. (a.k.a. SOKTAR; a.k.a. TRADACO S.A.), 45 Route de Frontenex, CH-1207 Geneva, Switzerland [IRAQ2]

JARAMILLO ARIAS, Gustavo Alfonso, c/o FARMATEL E.U., Bogota, Colombia; Cedula No. 16601998 (Colombia); Passport 16601998 (Colombia) (individual) [SDNT]

JARAMILLO ARIAS, Juan Guillermo, c/o PROVIDA E.U., Cali, Colombia; DOB 6 Dec 1959; Cedula No. 16634644 (Colombia); Passport 16634644 (Colombia) (individual) [SDNT]

JARAMILLO FRANCO, Harvy, c/o DISMERCOOP, Cali, Colombia; DOB 10 Aug 1965; Cedula No. 16711189 (Colombia) (individual) [SDNT]

JAROMO INVERSIONES S.L., Calle Florencio Castillo 8, portal 7, piso 2-21, 28043 Madrid, Madrid, Spain; C.I.F. B81784548 (Spain) [SDNT]

JARRAYA, Khalil (a.k.a. JARRAYA, Khalil Ben Ahmed Ben Mohamed; a.k.a. “ABDEL' AZIZ BEN NARVAN”; a.k.a. “AMR”; a.k.a. “AMRO”; a.k.a. “AMROU”; a.k.a. “BEN NARVAN ABDEL AZIZ”; a.k.a. “KHALIL YARRAYA”; a.k.a. “OMAR”), Via Bellaria n.10, Bologna, Italy; Via Lazio n.3, Bologna, Italy; DOB 8 Feb 1969; alt. DOB 15 Aug 1970; POB Sfax, Tunisia; alt. POB Sreka, ex-Yugoslavia; nationality Tunisia; alt. nationality Bosnia and Herzegovina; Passport K989895 (Tunisia) issued 26 Jul 1995 expires 25 Jul 2000 (individual) [SDGT]

JARRAYA, Mounir Ben Habib (a.k.a. JARRAYA, Mounir Ben Habib Ben Al-Taher; a.k.a. “YARRAYA”), Via Mirasole n.11, Bologna, Italy; Via Ariosto n.8, Casalecchio di Reno (Bologna), Italy; DOB 25 Oct 1963; POB Sfax, Tunisia; nationality Tunisia; Passport L 065947 issued 28 Oct 1995 expires 27 Oct 2000 (individual) [SDGT]

JASIM, Latif Nusayyif (a.k.a. JASSEM, Latif Nassif), Baghdad, Iraq; DOB 1941; Former Minister of Labor and Social Affairs (individual) [IRAQ2]

JEHOVA LTDA., Calle 28 No. 27-18, Tulua, Valle, Colombia; NIT # 800112196-8 (Colombia) [SDNT]

JELASSI, Riadh Ben Belkassem Ben Mohamed; DOB 15 Dec 1970; POB Al-Mohamedia, Tunisia; nationality Tunisia; Passport L276046 issued 1 Jul 1996 expires 30 Jun 2001 (individual) [SDGT]

JELAVIC, Ante; DOB 21 Oct 1963; POB Potprolog, Croatia (individual) [BALKANS]

JELISIC, Goran; DOB 7 Jun 1968; POB Bijeljina, Bosnia-Herzegovina; ICTY indictee (individual) [BALKANS]

JEMAA ISLAMIYAH (JI) (a.k.a. JEMAA ISLAMIYA; a.k.a. JEMA'A ISLAMIYAH; a.k.a. JEMAA ISLAMIYYA; a.k.a. JEMA'A ISLAMIYYA; a.k.a. JEMAA ISLAMIYYAH; a.k.a. JEMA'A ISLAMIYYAH; a.k.a. JEMAAH ISLAMIAH; a.k.a. JEMA'AH ISLAMIYAH; a.k.a. JEMAAH ISLAMIYAH; a.k.a. JEMA'AH ISLAMIYYAH; a.k.a. JEMAAH ISLAMIYYAH); founded by Abdullah Sungkar [FTO] [SDGT]

JENDOUBI, Faouzi Ben Mohamed Ben Ahmed (a.k.a. “SAID”; a.k.a. “SAMIR”), Via di Saliceto n.51/9, Bologna, Italy; Via Agucchi n.250, Bologna, Italy; DOB 30 Jan 1966; POB Beja, Tunisia; nationality Tunisia; Passport K459698 issued 6 Mar 1999 expires 5 Mar 2004 (individual) [SDGT]

JIHAD AL-BINA (a.k.a. CONSTRUCTION FOR THE SAKE OF THE HOLY STRUGGLE; a.k.a. CONSTRUCTION JIHAD; a.k.a. HOLY CONSTRUCTION FOUNDATION; a.k.a. JIHAD AL BINAA; a.k.a. JIHAD CONSTRUCTION; a.k.a. JIHAD CONSTRUCTION FOUNDATION; a.k.a. JIHAD CONSTRUCTION INSTITUTION; a.k.a. JIHAD-AL-BINAA ASSOCIATION; a.k.a. JIHADU-I-BINAA; a.k.a. STRUGGLE FOR RECONSTRUCTION), Bekaa Valley, Lebanon; Southern Lebanon, Lebanon; Beirut, Lebanon [SDGT]

JIM'ALE, Ahmed Nur Ali (a.k.a. JIMALE, Ahmad Ali; a.k.a. JIM'ALE, Ahmad Nur Ali; a.k.a. JUMALE, Ahmed Nur; a.k.a. JUMALI, Ahmed Ali), P.O. Box 3312, Dubai, United Arab Emirates; Mogadishu, Somalia (individual) [SDGT]

JIMENEZ BEDOYA, Maria Adriana, Carrera 4 No. 12-20 of. 206, Cartago, Valle, Colombia; c/o INMOBILIARIA PASADENA LTDA., Cartago, Valle, Colombia; c/o ORGANIZACION LUIS HERNANDO GOMEZ BUSTAMANTE Y CIA. S.C.S., Cartago, Valle, Colombia; DOB 13 Apr 1971; Cedula No. 31417388 (Colombia); Passport 31417388 (Colombia) (individual) [SDNT]

JIMENEZ CARDENAS, Amparo, c/o COOPERATIVA MERCANTIL DEL SUR LTDA., Pasto, Colombia; Cedula No. 30726230 (Colombia); Passport 30726230 (Colombia) (individual) [SDNT]

JIMENEZ NARANJO, Carlos Mario (a.k.a. “MACACO”), Calle 10C No. 25-45, Medellin, Colombia; DOB 26 Feb 1966; POB Envigado, Antioquia, Colombia; Cedula No. 71671990 (Colombia); Passport AH521672 (Colombia); alt. Passport AE915378 (Colombia) (individual) [SDNT]

JIMENEZ NARANJO, Roberto, c/o CASA DEL GANADERO S.A., Medellin, Colombia; c/o TEJAR LA MOJOSA S.A., Caucasia, Antioquia, Colombia; DOB 18 Apr 1963; Cedula No. 18502967 (Colombia) (individual) [SDNT]

JIMENEZ PEREZ, Jose Julian Bruno, c/o INMOBILIARIA LA PROVINCIA S.A. DE C.V., Tijuana, Baja California, Mexico; Avenida Independencia, Colonia Zona Urbana Rio Tijuana, Tijuana, Baja California, Mexico; c/o INMOBILIARIA ESTADO 29 S.A. DE C.V., Tijuana, Baja California, Mexico; Calle Rio Bravo, Colonia Revolucion, Tijuana, Baja California, Mexico; DOB 19 Jun 1961; POB Ensenada, Baja California, Mexico; C.U.R.P. # JIPJ610619HBCMRL07 (Mexico) (individual) [SDNTK]

JIMENEZ, Isabel Cristina, c/o CONTACTEL COMUNICACIONES S.A., Cali, Colombia; c/o INVERSIONES Y CONSTRUCCIONES ATLAS LTDA, Cali, Colombia; c/o COMERCIALIZADORA INTERTEL S.A., Cali, Colombia; DOB 1 Jan 1973; Cedula No. 66852533 (Colombia); Passport 66852533 (Colombia) (individual) [SDNT]

JIMINEZ SOLER, Gillermo, Panama (individual) [CUBA]

JOBE, Baba; nationality Gambia, The; Director, Gambia New Millenium Air Company; Member of Parliament of Gambia (individual) [LIBERIA]

JOKIC, Dragan; DOB 20 Aug 1957; POB Grbavci, Bosnia-Herzegovina; ICTY indictee (individual) [BALKANS]

JOKIC, Miodrag; DOB 1935; POB Mionica, Serbia and Montenegro; ICTY indictee (individual) [BALKANS]

JOKONYA, Tichaona Joseph Benjamin, Samaita Mutasa Farm, Beatrice, Zimbabwe; DOB 27 Dec 1938; Passport D001289 (Zimbabwe); alt. Passport AD000797 (Zimbabwe); alt. Passport ZD002261 (Zimbabwe); Minister of Information and Publicity (individual) [ZIMBABWE]

JOMAGA DE COSTA RICA S.A. (a.k.a. INTERFARMA S.A.), 200 Norte y 25 Oeste del Restaurante Tierra Colombiana, San Francisco de Dos Rios, San Jose, Costa Rica; Numero Judicial # 3-101-76327 (Costa Rica) [SDNT]

JON, Hana Paul, 19 Tudor House, Windsor Way, Brook Green, London, United Kingdom (individual) [IRAQ2]

JONGWE PRINTING AND PUBLISHING COMPANY (a.k.a. JONGWE PRINTING & PUBLISHING COMPANY (PVT) LTD; a.k.a. JONGWE PRINTING AND PUBLISHING CO), 14 Austin Road, Coventry Road, Workington, Harare, Zimbabwe; Po Box 5988, Harare, Zimbabwe [ZIMBABWE]

JOSAFAT S.A., Calle 28 No. 27-18, Tulua, Valle, Colombia; NIT # 800112217-4 (Colombia) [SDNT]

JOSIPOVIC, Drago; DOB 14 Feb 1955; POB Santici, Bosnia-Herzegovina; ICTY indictee (individual) [BALKANS]

JOZA INDUSTRIAL COMPANY (a.k.a. JOZA INDUSTRIES COMPANY), P.O. Box 16595-159, Tehran, Iran [NPWMD]

JUBA DUTY FREE SHOP, Juba, Sudan [SUDAN]

JULAIDAN, Wa'el Hamza Abd Al-Fatah (a.k.a. “ABU AL-HASAN AL MADANI”; a.k.a. JALADIN, Wa'el Hamza; a.k.a. JALADIN, Wa'il Hamza; a.k.a. JALAIDAN, Wa'el Hamza; a.k.a. JALAIDAN, Wa'il Hamza; a.k.a. JILDAN, Wail H.A.; a.k.a. JULAIDAN, Wa'il Hamza; a.k.a. JULAYDAN, Wa'el Hamza; a.k.a. JULAYDAN, Wa'il Hamza); DOB 22 Jan 1958; alt. DOB 20 Jan 1958; POB Al-Madinah, Saudi Arabia; nationality Saudi Arabia; Passport A-992535 (Saudi Arabia); alt. Passport B 524420 issued 15 Jul 1998 expires 22 May 2003 (individual) [SDGT]

JULKIPLI SALIM Y SALAMUDDIN (a.k.a. JULKIPLI, Salim; a.k.a. KIPLI, Sali); DOB 20 Jun 1976; POB Tulay, Jolo Sulu, Philippines (individual) [SDGT]

JUME'AN, George, P.O. Box 1318, Amman, Jordan (individual) [IRAQ2]

JUNTARAPRAPORN, Aping (a.k.a. CHANTARAPRAPAPORN, Apinya; a.k.a. CHANTHRAPRAPHAPHON, Aphinya; a.k.a. CHANTRAPRAPAPORN, Apinya; a.k.a. CHATARAPRAPAPORN, Apinya), c/o BANGKOK ARTI-FLORA DESIGN LIMITED PARTNERSHIP, Bangkok, Thailand; c/o BANGKOK SILK FLOWER COMPANY LTD., Bangkok, Thailand; DOB 14 Jan 1955 (individual) [SDNTK]

JURADO CARDONA, Diego Maria, c/o FARMALIDER S.A., Cali, Colombia; c/o MACROFARMA S.A., Pereira, Colombia; Cedula No. 7526942 (Colombia); Passport 7526942 (Colombia) (individual) [SDNT]

JURADO PALOMINO, Orlay (a.k.a. “COMMANDER HERMES”; a.k.a. “LIBARDO ANTONIO BENAVIDES MONCAYO”), Colombia; DOB 09 Feb 1950; citizen Colombia; Cedula No. 7245990 (Colombia); International FARC Commission Member for Venezuela (individual) [SDNTK]

JUVENAL VELANDIA, Jose (a.k.a. MUNOZ ORTIZ, Manuel Jesus; a.k.a. “IVAN RIOS”); DOB 19 Dec 1961; POB San Francisco, Putumayo, Colombia; Cedula No. 71613902 (Colombia) (individual) [SDNTK]

JYG ASESORES LTDA., Carrera 32 No. 25-71, Bogota, Colombia; NIT # 830120367-3 (Colombia) [SDNT]

K. P. TO JEANS WEAR S. DE H., Calle 78 No. 53-70 Local 218, Barranquilla, Colombia; NIT # 800211718-7 (Colombia) [SDNT]

KABABANKOLA MINING COMPANY (a.k.a. KMC), Nr. 1106 Avenue Lomami, Lubumbashi, Katanga, Congo, Democratic Republic of the [ZIMBABWE]

KAHANE CHAI (a.k.a. AMERICAN FRIENDS OF THE UNITED YESHIVA; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH IDEA YESHIVA; a.k.a. JEWISH LEGION; a.k.a. JUDEA POLICE; a.k.a. JUDEAN CONGRESS; a.k.a. KACH; a.k.a. KAHANE; a.k.a. KAHANE LIVES; a.k.a. KAHANE TZADAK; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JEWISH IDEA YESHIVA; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [FTO] [SDGT] [SDT]

KAHIE, Abdullahi Hussein, Bakara Market, Dar Salaam Buildings, Mogadishu, Somalia (individual) [SDGT]

KALAYE ELECTRIC COMPANY (a.k.a. KALA ELECTRIC COMPANY), 33 Fifteenth (15th) Street, Seyed-Jamal-Eddin-Assad Abadi Avenue, Tehran, Iran [NPWMD]

KAMMOUN, Mehdi (a.k.a. KAMMOUN, Mehdi Ben Mohamed Ben Mohamed), Via Masina n.7, Milan, Italy; DOB 3 Apr 1968; POB Tunis, Tunisia; nationality Tunisia; Passport M307707 issued 12 Apr 2000 expires 11 Apr 2005; Italian Fiscal Code: KMMMHD68D03Z352N (individual) [SDGT]

KANAAN, Ghazi, Damascus, Syria; DOB circa 1943; POB Near Qerdaha, Syria; nationality Syria; Minister of Interior, Syria (individual) [SYRIA]

KAN'AN, Fawzi Mustafa (a.k.a. CANAAN, Fazi; a.k.a. CAN'AN, Faouzi; a.k.a. GANAN, Fauzi; a.k.a. KANAAN, Fauzi; a.k.a. KANAAN, Maustaf Fawzi (Faouzi); a.k.a. KAN'AN, Fawzi; a.k.a. KANAN, Fouzi), Esquina Bucare, Building 703, Second Floor, Apartment 20, Caracas, Venezuela; Calle 2, Residencias Cosmos, Fifth Floor, Apartment 5D, La Urbina, Caracas, Venezuela; DOB 7 Jun 1943; alt. DOB 1 Jun 1943; alt. DOB Feb 1943; POB Lebanon; alt. POB Baalbeck, Lebanon; alt. POB Betechelida, Lebanon; National ID No. V-6.919.272 (Venezuela); Passport 0877677 (Venezuela) (individual) [SDGT]

KANGAI, Kumbirai; DOB 17 Feb 1938; Politburo Deputy Secretary for External Relations (individual) [ZIMBABWE]

KARADZIC, Aleksandar 'Sasa'; DOB 14 May 1973; POB Sarajevo, Bosnia-Herzegovina (individual) [BALKANS]

KARADZIC, Luka; DOB 31 Apr 1951; POB Savnik, Serbia and Montenegro (individual) [BALKANS]

KARADZIC, Radovan; DOB 19 Jun 1945; POB Petnica, Serbia and Montenegro; ICTY indictee at large; former president of the Republika Srpska (individual) [BALKANS]

KARADZIC-JOVICEVIC, Sonja; DOB 22 May 1967; POB Sarajevo, Bosnia-Herzegovina (individual) [BALKANS]

KARAGHULLY, Labeed A., Iraq; General Manager of REAL ESTATE BANK (individual) [IRAQ2]

KARAM, Nabil Victor, c/o TRADING AND TRANSPORT SERVICES, P.O. Box 910606, Amman 11191, Jordan; c/o ALFA COMPANY LIMITED FOR INTERNATIONAL TRADING AND MARKETING, P.O. Box 910606, Amman 11191, Jordan; c/o TRADING AND TRANSPORT SERVICES, P.O. Box 212953, Amman 11121, Jordan; c/o TRADING AND TRANSPORT SERVICES, Al-Razi Medical Complex, Jabal Al-Hussein, Amman, Jordan; c/o ALFA COMPANY LIMITED FOR INTERNATIONAL TRADING AND MARKETING, P.O. Box 212953, Amman 11121, Jordan; DOB 1954; nationality Lebanon (individual) [IRAQ2]

KAREN OVERSEAS FLORIDA, INC., 9100 South Dadeland Boulevard, Suite 912, Miami, FL 33156; 780 NW Le Jeune Road, Suite 516, Miami, FL 33126; 780 NW 42nd Avenue, Suite 516, Miami, FL 33126; US FEIN 592827636 (United States) [SDNT]

KAREN OVERSEAS, INC., Panama City, Panama; C.R. No. 194799/0011 (Panama); RUC # 2172211194799 (Panama) [SDNT]

KARIAN LTDA., Calle 23 No. 68A-95, Bogota, Colombia; NIT # 800166692-1 (Colombia) [SDNT]

KARIM (a.k.a. IRAN KARIM); Vessel Registration Identification IMO 9465758 (vessel) [NPWMD]

KARIMA DATE FACTORY, Karima, Sudan [SUDAN]

KARIMA FRUIT AND VEGETABLE CANNING FACTORY, P.O. Box 54, Karima, Sudan [SUDAN]

KARIMANZIRA, David; DOB 25 May 1947; Harare Provincial Governor & Politburo Secretary for Finance (individual) [ZIMBABWE]

KASMURI, Abdul Manaf (a.k.a. KASMURI, Lt. Col. (Rtd). Abd Manaf); DOB 29 May 1955; POB Malaysia; nationality Malaysia (individual) [SDGT]

KASPAR SHIPPING CO. S.A., c/o EMPRESA DE NAVEGACION CARIBE, Edificio Lonja del Comercio, Lamparilla 2, Caja Postal 1784, Havana 1, Cuba [CUBA]

KASSALA FRUIT PROCESSING COMPANY, Khartoum, Sudan [SUDAN]

KASSALA ONION DEHYDRATION FACTORY, P.O. Box 22, Kassala, Sudan [SUDAN]

KASUKUWERE, Savior, 78 Enterprise Road, Chisipite, Harare, Zimbabwe; DOB 23 Oct 1970; Deputy Minister for Youth Development and Employment Creation & Deputy Secretary for Youth Affairs (individual) [ZIMBABWE]

KATTUS CORPORATION, Bridgetown, St. Michael, Barbados; Registration ID 67199901 (Barbados) [SDNT]

KATTUS II CORPORATION, Panama City, Panama; C.R. No. 390286/172468 (Panama); RUC # 1724681390286 (Panama) [SDNT]

KAUKONDE, Ray Joseph, Private Bag 7706, Causeway, Harare, Zimbabwe; DOB 4 Mar 1963; Mashonaland East Provincial Governor (individual) [ZIMBABWE]

KAVE, S.A., Panama [CUBA]

KAVEH CUTTING TOOLS COMPANY (a.k.a. KAVEH CUTTING TOOLS; a.k.a. KAVEH CUTTING TOOLS COMPLEX; a.k.a. KAVEH CUTTING TOOLS FACTORIES), Km 4 of Khalaj Road, End of Seyedi Street, Mashad, Iran; Moqan St., Pasdaran St., Pasdaran Cross Rd., Tehran, Iran; Khalaj Rd., End of Seyyedi Alley, Mashad, Iran; 3rd Km of Khalaj Road, Seyyedi Street, Mashad 91638, Iran; P.O. Box 91735-549, Mashad, Iran [NPWMD]

KAVOSHYAR COMPANY (a.k.a. KAAVOSH YAAR; a.k.a. KAVOSHYAR), Vanaq Square, Corner of Shiraz Across No. 71, Molla Sadra Ave., Tehran, Iran; No. 86, 20th St., North Karegar Ave., Tehran, Iran; P.O. Box 19395-1834, Tehran, Iran [NPWMD]

KAZAN, Ali Muhammad (a.k.a. KASSAN, Ali Mohamad; a.k.a. QAZAN, Ali Mohamad), Avenue Taroba, 1005 Edificio Beatriz Mendes, Apt 1704, Foz do Iguacu, Brazil; DOB 19 Dec 1967; POB Taibe, Lebanon; citizen Lebanon; alt. citizen Paraguay; Passport 0089044 (Lebanon) (individual) [SDGT]

KAZIM, Rashid Taan; nationality Iraq; Ba'th party regional command chairman, al-Anbar (individual) [IRAQ2]

KECHIK, Mahmood Awang, Ampang Puteri Specialist Hospital, 1, Jalan Mamanda 9, Selangor Darul Ehsan 68000, Malaysia; DOB 22 Aug 1954; citizen Malaysia; nationality Malaysia; Dr. (individual) [ZIMBABWE]

KEENCLOUD LIMITED, 11 Catherine Place, Westminister, London, United Kingdom [IRAQ2]

KENAF SOCKS FACTORY, Abu Naama, Sudan [SUDAN]

KESMAN OVERSEAS, 3rd Floor, Geneva Place, Waterfront Drive, Road Town, Tortola, Virgin Islands, British [SDNT]

KETABACHI, Mehrdada Akhlaghi (a.k.a. KETABCHI, Merhdada Akhlaghi), c/o SBIG, Tehran, Iran; DOB 10 Sep 1958; nationality Iran; Passport A0030940 (Iran) (individual) [NPWMD]

KHALED, Abdulbaqi Mohammed (a.k.a. KHALED, Abul Baki; a.k.a. KHALED, Abul Baki Mohammed; a.k.a. MOHAMMED, Abd' al-Baki; a.k.a. “ABU KHAWLA”), Birmingham, United Kingdom; DOB 18 Aug 1957; POB Tripoli, Libya; citizen United Kingdom (individual) [SDGT]

KHALIL, Dr. Ahmad Murtada Ahmad (a.k.a. KHALIL, Ahmad Murtadha Ahmad), Iraq; Former Minister of Transport and Communications (individual) [IRAQ2]

KHALIL, Ibrahim Mohamed (a.k.a. AL ZAFIRI, Khalil Ibrahim; a.k.a. JASSEM, Khalil Ibrahim; a.k.a. MOHAMMAD, Khalil Ibrahim), Frankenthal Prison, Germany; Pankratiusstrause 44, Mainz 55118, Germany; DOB 2 Jul 1975; alt. DOB 2 May 1972; alt. DOB 3 Jul 1975; alt. DOB 1972; POB Mosul, Iraq; alt. POB Baghdad, Iraq; nationality Iraq; Travel Document Number A0003900 (Germany) (individual) [SDGT]

KHAN & SCHIRINDEL GMBH, Schwalbacher Strasse 19, Weisbaden 65185, Germany; C.R. No. HRB20555 (Germany) [SDNTK]

KHAN, Abdul Qadeer (a.k.a. ZAMAN, Hayder); DOB 27 Apr 1936; POB Bhopal, India; nationality Pakistan; Passport D000428 (Pakistan) (individual) [NPWMD]

KHAN, Nasir Ali (a.k.a. KHAN, Ali; a.k.a. KHAN, Nafir Ali; a.k.a. KHAN, Nazir Ali; a.k.a. KHAN, Nisan Ali; a.k.a. KHAN, Nisar Ali; a.k.a. NASIR, Ali Khan; a.k.a. NASIR, Khan Ali); DOB 1 Oct 1955; POB Pakistan (individual) [SDNTK]

KHAN, Shahbaz (a.k.a. HAN, Cellat; a.k.a. HAN, Sahbaz; a.k.a. KHAN GALAT KHAN, Shahbaz; a.k.a. KHAN JALAT KHAN, Shahbaz; a.k.a. KHAN ZADRAN, Shahbaz; a.k.a. KOCHI, Haji Shahbaz Khan; a.k.a. KOOCHI, Shahbaz; a.k.a. ZADRAN, Haji Shabaz; a.k.a. ZADRAN, Haji Shahbaz; a.k.a. ZADRAN, Shabbaz; a.k.a. ZADRAN, Shahbaz; a.k.a. “HAJI SHABBAZ”; a.k.a. “HAJI SHAHBAZ”; a.k.a. “HAJI SHAHBAZ KOOCHI”), c/o SHAHNAWAZ TRADERS, Peshawar, Pakistan; Hanover, Germany; Peshawar, Pakistan; c/o SHER MATCH INDUSTRIES (PVT.) LIMITED, Peshawar, Pakistan; c/o SHAHBAZ TV CENTER, Peshawar, Pakistan; c/o KHAN & SCHIRINDEL GMBH, Weisbaden, Germany; c/o SHAHBAZ KHAN GENERAL TRADING LLC, Dubai, United Arab Emirates; c/o SAF TECH S.L., Barcelona, Spain; Dubai, United Arab Emirates; c/o DUBAI TRADING COMPANY, Peshawar, Pakistan; DOB 01 Jan 1948; POB Landi Kotal, Pakistan; citizen Pakistan; Passport AB4106401 (Pakistan) (individual) [SDNTK]

KHAN, Sherbaz, P.O. Box 33651, Dubai, United Arab Emirates; c/o SHER MATCH INDUSTRIES (PVT.) LIMITED, Peshawar, Pakistan; Peshawar, Pakistan; c/o SHAHBAZ KHAN GENERAL TRADING LLC, Dubai, United Arab Emirates; DOB 03 Apr 1979; POB Khyber Agency, Pakistan; citizen Pakistan; Passport 137987 (Pakistan) (individual) [SDNTK]

KHARTOUM CENTRAL FOUNDRY, Khartoum, Sudan [SUDAN]

KHARTOUM COMMERCIAL AND SHIPPING COMPANY LIMITED, Kasr Avenue, P.O. Box 221, Khartoum, Sudan [SUDAN]

KHARTOUM TANNERY, P.O. Box 134, Khartoum South, Sudan [SUDAN]

KHATAM OL ANBIA GHARARGAH SAZANDEGI NOOH (a.k.a. GHORB KHATAM; a.k.a. KHATAM AL-ANBYA; a.k.a. KHATAM OL AMBIA), No. 221, Phase 4, North Falamak-Zarafshan Intersection, Shahrak-E-Ghods, Tehran 14678, Iran [NPWMD]

KHAYRBIK, Muhammad Nasif (a.k.a. KHAIRBEK, Mohammed Nassif; a.k.a. KHAYR-BAYK, Muhammad Nasif; a.k.a. KHEIR BEIK, Mohamad; a.k.a. KHEIR BEIK, Mohamad Nassif; a.k.a. KHEIRBEK, Mohammad Nasif), Damascus, Syria; DOB 5 Apr 1937; POB Hama, Syria; Passport D000000483, Diplomatic (Syria); Syrian Deputy Vice President for Security Affairs; Major General (individual) [SYRIA]

KHAZAR SEA SHIPPING LINES (a.k.a. DARYA-YE KHAZAR SHIPPING COMPANY; a.k.a. KHAZAR SHIPPING CO), No. 1, End of Shahid Mostafa Khomeini St., Tohid Square, P.O. Box 43145, Bandar Anzali 1711-324, Iran; M. Khomeini St., Ghazian, Bandar Anzali, Gilan, Iran [NPWMD]

KHINE, Oo Oo (a.k.a. “OO OO KHINE”; a.k.a. “U OO OO KHINE”), 15 Bongyi Street, Lanmadaw Township, Rangoon, Burma; c/o TET KHAM GEMS CO., LTD., Yangon, Burma; c/o TET KHAM CONSTRUCTION COMPANY LIMITED, Mandalay, Burma; c/o YANGON AIRWAYS COMPANY LIMITED, Rangoon, Burma; National ID No. 009016 (Burma); Passport A056782 (Burma) (individual) [SDNTK]

KHOR OMER ENGINEERING COMPANY, P.O. Box 305, Khartoum, Sudan [SUDAN]

KHORASAN METALLURGY INDUSTRIES (a.k.a. KHORASAN AMMUNITION AND METALLURGY INDUSTRIES; a.k.a. KHORASAN METALOGY INDUSTRIES; a.k.a. SANAYE METOLOGIE IRAN; a.k.a. THE METALLURGY INDUSTRIES OF KHORASAN), Khalaj Road, End of Seyedi Street, Mashad, Iran; P.O. Box 91735-549, Mashad, Iran [NPWMD]

KHUM THAW COMPANY LIMITED, 261 Wichayanont Road, Chang Moi, Muang, Chiang Mai 50300, Thailand; Registration ID 0505535000804 (Thailand) issued 28 Feb 1992 [SDNTK]

KIFANE, Abderrahmane, Via S. Biagio, 35, Sant'Anastasia, Naples, Italy; Via S. Biagio, 32, Sant'Anastasia, Naples, Italy; DOB 7 Mar 1963; POB Casablanca, Morocco (individual) [SDGT]

KIIA TAI, Joseph Wong; Executive, Oriental Timber Company (individual) [LIBERIA]

KINDHEARTS FOR CHARITABLE HUMANITARIAN DEVELOPMENT, INC., Mar Elyas Street, Hiba Center, 1st Floor, Beirut, Lebanon; Jenin, West Bank, Palestinian; P.O. Box 23310, Toledo, OH 43623; Ramallah, West Bank, Palestinian; Pakistan; P.O. Box 1248, Gaza, Palestinian; 3450 West Central Avenue, #366, Toledo, OH 43606 [BPI-PA]

KISHK, Samir; DOB 14 May 1955; POB Gharbia, Egypt (individual) [SDGT]

KISONI, Kambale (a.k.a. KAMBALE, Kisoni; a.k.a. KISONI, Dr.); DOB 24 May 1961; citizen Congo, Democratic Republic of the; Passport C0323172 (Congo, Democratic Republic of the) (individual) [DRCONGO]

KLEILAT, Ali; DOB 10 Jul 1970; POB Beirut, Lebanon; nationality Lebanon; Businessman (individual) [LIBERIA]

KNEZEVIC, Dusan; DOB 23 Jun 1955; POB Orlovci, Bosnia-Herzegovina; ICTY indictee in custody (individual) [BALKANS]

KNOWLES, Samuel (a.k.a. KNOWLES, JR., Samuel); DOB 28 May 1959; POB Bahamas (individual) [SDNTK]

KO, Myint Myint (a.k.a. KO, Daw Myint Myint); DOB 11 Jan 1946; wife of Saw Tun (individual) [BURMA]

KOHAS AG, Route des Arsenaux 15, Fribourg, FR 1700, Switzerland; C.R. No. CH-217.0.135.719-4 (Switzerland) [NPWMD]

KOJIC, Radomir (a.k.a. “MINEUR”); DOB 23 Nov 1950; POB Bijela Voda, Sokolac Canton, Bosnia-Herzegovina; Passport 3943074 (Bosnia and Herzegovina) issued 27 Sep 2002 in Sarajevo; Bosnia-Herzegovina (individual) [BALKANS]

KOL INVESTMENTS, INC., Miami, FL [CUBA]

KOMOTKO, 12 Pop Lukina, Belgrade, Serbia; Registration ID 17307746 (Serbia); Tax ID No. 100036378 (Serbia) [BALKANS]

KONTROLES ELECTRONICOS DE BAJA CALIFORNIA, S.A. DE C.V. (a.k.a. KONTROLES), Ave. Azueta 11750, Col. Libertad, Tijuana, Baja California CP 22400, Mexico; R.F.C. KEB-020222-380 (Mexico) [SDNTK]

KONY, Joseph; DOB 1961; alt. DOB 1963; alt. DOB 1965; POB Odek, Omoro, Gulu, Uganda; nationality Uganda (individual) [SDGT]

KORDIC, Dario; DOB 14 Dec 1960; POB Sarajevo, Bosnia-Herzegovina; ICTY indictee (individual) [BALKANS]

KORDOFAN COMPANY, Khartoum, Sudan [SUDAN]

KOREA COMPLEX EQUIPMENT IMPORT CORPORATION, Rakwon-dong, Pothonggang District, Pyongyang, Korea, North [NPWMD]

KOREA INTERNATIONAL CHEMICAL JOINT VENTURE COMPANY (a.k.a. CHOSON INTERNATIONAL CHEMICALS JOINT OPERATION COMPANY; a.k.a. CHOSUN INTERNATIONAL CHEMICALS JOINT OPERATION COMPANY; a.k.a. INTERNATIONAL CHEMICAL JOINT VENTURE CORPORATION), Hamhung, South Hamgyong Province, Korea, North; Man gyongdae-kuyok, Pyongyang, Korea, North; Mangyungdae-gu, Pyongyang, Korea, North [NPWMD]

KOREA KWANGSONG TRADING CORPORATION, Rakwon-dong, Pothonggang District, Pyongyang, Korea, North [NPWMD]

KOREA MINING DEVELOPMENT TRADING CORPORATION (a.k.a. CHANGGWANG SINYONG CORPORATION; a.k.a. EXTERNAL TECHNOLOGY GENERAL CORPORATION; a.k.a. NORTH KOREAN MINING DEVELOPMENT TRADING CORPORATION; a.k.a. “KOMID”), Central District, Pyongyang, Korea, North [NPWMD]

KOREA PUGANG TRADING CORPORATION, Rakwon-dong, Pothonggang District, Pyongyang, Korea, North [NPWMD]

KOREA RYONBONG GENERAL CORPORATION (a.k.a. KOREA YONBONG GENERAL CORPORATION; f.k.a. LYONGAKSAN GENERAL TRADING CORPORATION), Rakwon-dong, Pothonggang District, Pyongyang, Korea, North; Pot'onggang District, Pyongyang, Korea, North [NPWMD]

KOREA RYONGWANG TRADING CORPORATION (a.k.a. KOREA RYENGWANG TRADING CORPORATION), Rakwon-dong, Pothonggang District, Pyongyang, Korea, North [NPWMD]

KOREA RYONHA MACHINERY JOINT VENTURE CORPORATION (a.k.a. CHOSUN YUNHA MACHINERY JOINT OPERATION COMPANY; a.k.a. KOREA RYENHA MACHINERY J/V CORPORATION; a.k.a. RYONHA MACHINERY JOINT VENTURE CORPORATION), Mangungdae-gu, Pyongyang, Korea, North; Mangyongdae District, Pyongyang, Korea, North; Central District, Pyongyang, Korea, North [NPWMD]

KOS, Milojica; DOB 1 Apr 1963; POB Lamovita, Bosnia-Herzegovina; ICTY indictee (individual) [BALKANS]

KOUWENHOVEN, Gus (a.k.a. KOUENHAVEN, Gus; a.k.a. KOUENHOVEN, Gus; a.k.a. KOUVENHOVEN, Gus), Villa # 1, Hotel Africa Virginia, Monrovia, Liberia; P.O. Box 1522, Monrovia, Liberia; DOB 15 Sep 1942; nationality Netherlands; President, Oriental Timber Company; Owner, Hotel Africa (individual) [LIBERIA]

KOVAC, Tomislav (a.k.a. “TOMO”); DOB 4 Dec 1959; POB Sarajevo, Bosnia-Herzegovina; Passport 412959171315 (Bosnia and Herzegovina) (individual) [BALKANS]

KOVACEVIC, Vladimir; DOB 15 Jan 1961; ICTY indictee (individual) [BALKANS]

KRADUMPORN IMPORT EXPORT COMPANY LTD., 4 Mu 1, Tambon Wiang Phang Kham, Mae Sai district, Chiang Rai, Thailand [SDNTK]

KRADUMPORN, Somboon (a.k.a. KRADOOMPORN, Chinwong; a.k.a. KRADUMPHON, Sombun; a.k.a. KRADUMPORN, Chinawong; a.k.a. KRADUMPORN, Chinwong; a.k.a. KRAPOOMPORN, Somboon; a.k.a. KRAPUMPORN, Somboon; a.k.a. KRATUMPORN, Somboon), c/o HATKAEW COMPANY LTD., Bangkok, Thailand; c/o PROGRESS SURAWEE COMPANY LTD., Bangkok, Thailand; c/o SCORE COMMERCIAL COMPANY LTD., Bangkok, Thailand; c/o MAESAI K.D.P. COMPANY LTD., Chiang Rai, Thailand; c/o RUNGRIN COMPANY LTD., Bangkok, Thailand; c/o SIAM NICE COMPANY LTD., Bangkok, Thailand; c/o KRADUMPORN IMPORT EXPORT COMPANY LTD., Chiang Rai, Thailand; c/o V.R. FRUIT COMPANY, Chiang Mai, Thailand; DOB 6 May 1959; National ID No. 3570900151471 (Thailand) (individual) [SDNTK]

KRADUMPORN, Varee (a.k.a. KRADOOMPORN, Chanikan; a.k.a. KRADOOMPORN, Varee; a.k.a. KRADOOMPORN, Wari; a.k.a. KRADUMPHON, Chanikan; a.k.a. KRADUMPHON, Wari; a.k.a. KRADUMPORN, Chanikan; a.k.a. KRADUMPORN, Waree; a.k.a. KRAPUMPORN, Varee; a.k.a. KRATUMPORN, Varee), c/o SIAM NICE COMPANY LTD., Bangkok, Thailand; c/o PLUS TECH AUTO SUPPLY COMPANY LTD., Bangkok, Thailand; c/o SCORE COMMERCIAL COMPANY LTD., Bangkok, Thailand; c/o RATTANA VICHAI COMPANY LTD., Bangkok, Thailand; c/o KRADUMPORN IMPORT EXPORT COMPANY LTD., Chiang Rai, Thailand; c/o HATKAEW COMPANY LTD., Bangkok, Thailand; c/o MAESAI K.D.P. COMPANY LTD., Chiang Rai, Thailand; c/o NICE FANTASY GARMENT COMPANY LTD., Bangkok, Thailand; c/o PROGRESS SURAWEE COMPANY LTD., Bangkok, Thailand; c/o RUNGRIN COMPANY LTD., Bangkok, Thailand; DOB 18 Mar 1960; National ID No. 3570900151480 (Thailand) (individual) [SDNTK]

KRAJISNIK, Momcilo; DOB 20 Jan 1945; POB Zabrdje, Bosnia-Herzegovina; ICTY indictee (individual) [BALKANS]

KRIKAH INDUSTRIES GROUP, P.O. Box 755, Khartoum North, Sudan [SUDAN]

KRNOJELAC, Milorad; DOB 25 Jul 1940; POB Birotici, Bosnia-Herzegovina; ICTY indictee (individual) [BALKANS]

KRSTIC, Radislav; DOB 15 Feb 1948; POB Nedjeljiste, Vlasenica, Bosnia-Herzegovina; ICTY indictee (individual) [BALKANS]

KRUNIC, Savo (a.k.a. KRUNIC, Savko), Sokolac, Bosnia and Herzegovina; DOB 27 Jan 1958; POB Sokolac, Bosnia-Herzegovina; Passport 3667905 (Bosnia and Herzegovina); Director, Srpska Sume Forestry Company, Sokolac, Bosnia-Herzegovina (individual) [BALKANS]

KRYEZIU, Izmet; DOB 3 Oct 1954; POB Pagarusha-Malishev, Serbia and Montenegro (individual) [BALKANS]

KUBURA, Amir; DOB 4 Mar 1964; POB Kakanj, Bosnia-Herzegovina; ICTY indictee (individual) [BALKANS]

KUJUNDZIC, Predrag (a.k.a. “PREDO”); DOB 30 Jan 1961; POB Suho Polje, Doboj, Bosnia-Herzegovina (individual) [BALKANS]

KUNARAC, Dragoljub; DOB 15 May 1960; POB Foca, Bosnia-Herzegovina; ICTY indictee (individual) [BALKANS]

KUNFUTH, Abbas Khalaf, House 21, Lane 17, Subdivision 603, Dragh District, Al-Mansour; DOB 1955; POB Baghdad, Iraq (individual) [IRAQ2]

KURDISTAN WORKERS' PARTY (a.k.a. FREEDOM AND DEMOCRACY CONGRESS OF KURDISTAN; a.k.a. HALU MESRU SAVUNMA KUVVETI (HSK); a.k.a. KADEK; a.k.a. KGK; a.k.a. KONGRA-GEL; a.k.a. KURDISTAN FREEDOM AND DEMOCRACY CONGRESS; a.k.a. KURDISTAN PEOPLE'S CONGRESS (KHK); a.k.a. PARTIYA KARKERAN KURDISTAN; a.k.a. PEOPLE'S CONGRESS OF KURDISTAN; a.k.a. PKK; a.k.a. THE PEOPLE'S DEFENSE FORCE) [FTO] [SDGT] [SDNTK]

KUTRY MANAGEMENT INC., Torre Universal Building, 3rd Floor, Federico Boyd Avenue and 51st Street, Panama City, Panama; RUC # 34407212255995 (Panama) [SDNT]

KVOCKA, Miroslav; DOB 1 Jan 1957; POB Maricka, Bosnia-Herzegovina; ICTY indictee (individual) [BALKANS]

KYA, La Bo (a.k.a. “CHA LA BO”; a.k.a. “JA LA BO”; a.k.a. “KYA LA BO”), Nakawngmu, Shan, Burma; Wan Hong, Shan, Burma; DOB 1940; alt. DOB 1942 (individual) [SDNTK]

KYOEI INTERNATIONAL COMPANY, LIMITED, Tokyo, Japan [CUBA]

L.GR. E.U. (a.k.a. PLATERIA L.GR. E.U.), Calle 38N No. 6N-35, Loc. 46, Cali, Colombia; NIT # 805024405-3 (Colombia) [SDNT]

LA COMPANIA GENERAL DE NIQUEL (a.k.a. GENERAL NICKEL SA), Cuba [CUBA]

LA COMPANIA TIENDAS UNIVERSO S.A. (a.k.a. WWW.CUBA-SHOP.NET) [CUBA]

LA CROSSE GROUP INC, Vanterpool Plaza, 2nd Floor, Wickhams Cay 1, Road Town, Tortola, Virgin Islands, British; Registration ID 268379 (Virgin Islands, British) [SDNTK]

LA EMPRESA CUBANA DE FLETES (a.k.a. CUBAN FREIGHT ENTERPRISE; a.k.a. CUFLET), Mexico [CUBA]

LA EMPRESA CUBANA DE FLETES (a.k.a. CUBAN FREIGHT ENTERPRISE; a.k.a. CUFLET), Varna, Bulgaria [CUBA]

LA EMPRESA CUBANA DE FLETES (a.k.a. CUBAN FREIGHT ENTERPRISE; a.k.a. CUFLET), Syczecin, Poland [CUBA]

LA EMPRESA CUBANA DE FLETES (a.k.a. CUBAN FREIGHT ENTERPRISE; a.k.a. CUFLET), Pyongyang, Korea, North [CUBA]

LA EMPRESA CUBANA DE FLETES (a.k.a. CUBAN FREIGHT ENTERPRISE; a.k.a. CUFLET), Moscow, Russia [CUBA]

LA EMPRESA CUBANA DE FLETES (a.k.a. CUBAN FREIGHT ENTERPRISE; a.k.a. CUFLET), Barcelona, Spain [CUBA]

LA EMPRESA CUBANA DE FLETES (a.k.a. CUBAN FREIGHT ENTERPRISE; a.k.a. CUFLET), Montreal, Canada [CUBA]

LA EMPRESA CUBANA DE FLETES (a.k.a. CUBAN FREIGHT ENTERPRISE; a.k.a. CUFLET), Genoa, Italy [CUBA]

LA EMPRESA CUBANA DE FLETES (a.k.a. CUBAN FREIGHT ENTERPRISE; a.k.a. CUFLET), Rostock, Germany [CUBA]

LA EMPRESA CUBANA DE FLETES (a.k.a. CUBAN FREIGHT ENTERPRISE; a.k.a. CUFLET), Rotterdam, Netherlands [CUBA]

LA EMPRESA CUBANA DE FLETES (a.k.a. CUBAN FREIGHT ENTERPRISE; a.k.a. CUFLET), Buenos Aires, Argentina [CUBA]

LA FAMILIA MICHOACANA, Mexico [SDNTK]

LA FRONTERA UNION GALVEZ Y CIA S EN C (f.k.a. LA FRONTERA PUERTA GALVEZ LTDA.), Carrera 30 No. 90-82, Bogota, Colombia; NIT # 800050795-2 (Colombia) [SDNT]

LA HOLANDA S.A., Calle 23C No. 3BISN-26, Cali, Colombia; NIT # 805025864-5 (Colombia) [SDNT]

LA MONEDITA DE ORO LTDA, Carrera 7 No. 115-60 Local C227, Bogota, Colombia; NIT # 800149502-9 (Colombia) [SDNTK]

LAAGOUB, Abdelkader, via Europa, 4—Paderno Ponchielli, Cremona, Italy; DOB 23 Apr 1966; POB Casablanca, Morocco; nationality Morocco; Italian Fiscal Code LGBBLK66D23Z330U (individual) [SDGT]

LABORATORIOS BLAIMAR DE COLOMBIA S.A. (a.k.a. BLAIMAR), Calle 12B 27 39, Bogota, Colombia [SDNT]

LABORATORIOS BLANCO PHARMA S.A. (a.k.a. BLANCO PHARMA S.A.), Carrera 99 y 100 No. 46A-10, Bodega 4, Bogota, Colombia [SDNT]

LABORATORIOS GENERICOS VETERINARIOS DE COLOMBIA S.A, Carrera 71 No. 57-07, Bogota, Colombia [SDNT]

LABORATORIOS KRESSFOR DE COLOMBIA S.A. (a.k.a. KRESSFOR), Calle 16 28A 51, Bogota, Colombia; Calle 16 28A 57, Bogota, Colombia; Calle 17A 28 43, Bogota, Colombia; Calle 17 28A-43, Bogota, Colombia [SDNT]

LABORATORIOS PROFARMA LTDA., Calle 74 No. 15-80 of. 611 Int. 1, Bogota, Colombia; Calle 23 No. 19-75, Bogota, Colombia; Calle 17 No. 28A-13, Bogota, Colombia; NIT # 800217468-8 (Colombia) [SDNT]

LABORATORIOS WILLMAR, S.A. DE C.V., Calle Esteban Loera 481, Colonia Beatriz Hernandez, Guadalajara, Jalisco 44760, Mexico; Los Placeres No. 1030, Colonia Chapalita, Guadalajara, Jalisco 44100, Mexico; Calle Esteban Loera No. 481, Colonia Zona Obrera, Guadalajara, Jalisco 44760, Mexico; R.F.C. LW1760923BT6 (Mexico) [SDNTK]

LABORATORIOS Y COMERCIALIZADORA DE MEDICAMENTOS DROBLAM S.A. (a.k.a. DROBLAM S.A.), Carrera 21 No. 13B-33, Cali, Colombia; NIT # 805014078-5 (Colombia) [SDNT]

LABRA AVILES, Jesus Abraham (a.k.a. AVILES, Jesus Labra; a.k.a. “CHUY LABRA”); DOB 1945; nationality Mexico (individual) [SDNTK]

LADEHYANOY, Mufti Rashid Ahmad (a.k.a. AHMAD, Mufti Rasheed; a.k.a. LUDHIANVI, Mufti Rashid Ahmad; a.k.a. WADEHYANOY, Mufti Rashid Ahmad), Karachi, Pakistan (individual) [SDGT]

LADINO AVILA, Jaime Arturo (a.k.a. COLOSIO, Vincente; a.k.a. CONTREAS, Miguel Angel; a.k.a. “EL OJON”; a.k.a. “FAYO”), c/o GRUPO ROLA S.A. DE C.V., Colima, Colima, Mexico; Calle Jesus Ponce 1083, Colonia Jardin Vista Hermosa, Colima, Colima, Mexico; DOB 24 Jul 1964; alt. DOB 13 Nov 1964; alt. DOB 26 Aug 1962; citizen Mexico; nationality Mexico; C.U.R.P. LAAJ640724HCMDVM07 (Mexico); R.F.C. LAAJ640724 (Mexico) (individual) [SDNTK]

LADRILLERA LA CANDELARIA LTDA., Avenida 6 Norte No. 17N-92, of. 514, Cali, Colombia; Correg. Buchitolo, Vereda Tres Esquinas, Candelaria, Colombia; NIT # 800119741-4 (Colombia) [SDNT]

LAJNAT AL DAAWA AL ISLAMIYYA (a.k.a. ISLAMIC CALL COMMITTEE; a.k.a. LAJNA ALDAWA ALISALMIAH; a.k.a. LAJNA ALDAWA ALISLAMIA; a.k.a. LAJNA ALDAWA ALISLAMIYA; a.k.a. LAJNAT AL DAAWA AL ISLAMIYA; a.k.a. LAJNAT AL DAWA; a.k.a. LAJNAT AL DAWA AL ISLAMIA; a.k.a. LAJNAT AL D'AWA AL ISLAMIAK; a.k.a. LAJNAT ALDAWA AL ISLAMIAH; a.k.a. LAJNAT ALDAWA ALISLAMIA), Kuwait [SDGT]

LAKHVI, Zaki-ur-Rehman (a.k.a. ARSHAD, Abu Waheed Irshad Ahmad; a.k.a. LAKVI, Zaki Ur-Rehman; a.k.a. LAKVI, Zakir Rehman; a.k.a. REHMAN, Zakir; a.k.a. UR-REHMAN, Zaki; a.k.a. “CHACHAJEE”), Chak No. 18/IL, Rinala Khurd, Tehsil Rinala Khurd, District Okara, Pakistan; Barahkoh, P.O. DO, Tehsil and District Islamabad, Pakistan; DOB 30 Dec 1960; POB Okara, Pakistan; nationality Pakistan; National ID No. 61101-9618232-1 (Pakistan) (individual) [SDGT]

LAKOKRASKA OAO (a.k.a. LAKOKRASKA OPEN JOINT-STOCK COMPANY), 71 Ignatova Street, Grodnenskaya Region, Lida 231300, Belarus; ul. Ignatova, 71, Grodnenskaya oblast, Lida 231300, Belarus [BELARUS]

LAKSHMI, Panama [CUBA]

LALOVIC, Dragan 'Mate'; DOB 14 Jun 1953; POB Vlaholje, nr Kalinovik, Bosnia-Herzegovina (individual) [BALKANS]

LANDZO, Esad; DOB 7 Mar 1973; ICTY indictee (individual) [BALKANS]

LANGA, Andrew; DOB 13 Jan 1965; Deputy Minister of Environment and Tourism (individual) [ZIMBABWE]

LAO, Ssu (a.k.a. HATSADIN, Phonsakunphaisan; a.k.a. RUNGRIT, Thianphichet; a.k.a. WANG, Ssu; a.k.a. WANG, Wen Chou; a.k.a. WITTHAYA, Ngamthiralert; a.k.a. “LAO SSU”), Burma; DOB 01 Jan 1960; National ID No. 3570700443258 (Thailand); Passport P403726 (Thailand) (individual) [SDNTK]

LARGO LEASING LTD., c/o T.R.C. Corporate Services Limited P.O. Box 1982, George Town, Cayman Islands [SDNT]

LARRANAGA CALVACHE, Juan Carlos, c/o INMOBILIARIA BOLIVAR LTDA., Cali, Colombia; c/o ADMINISTRACION INMOBILIARIA BOLIVAR S.A., Cali, Colombia; c/o INVERSIONES EL PENON S.A., Cali, Colombia; c/o COMERCIALIZADORA INTERNACIONAL VALLE DE ORO S.A., Cali, Colombia; DOB 18 Mar 1964; Cedula No. 12982064 (Colombia) (individual) [SDNT]

LAS COLORADOS (vessel) [CUBA]

LASA PERU S.A.C., Jr. Emilio Althaus 748, Int. 3, Lima, Peru; RUC # 20509588091 (Peru) [SDNTK]

LASHKAR E-TAYYIBA (a.k.a. AL MANSOOREEN; a.k.a. AL MANSOORIAN; a.k.a. ARMY OF THE PURE; a.k.a. ARMY OF THE PURE AND RIGHTEOUS; a.k.a. ARMY OF THE RIGHTEOUS; a.k.a. IDARA KHIDMAT-E-KHALQ; a.k.a. JAMA'AT AL-DAWA; a.k.a. JAMAAT UD-DAAWA; a.k.a. JAMAAT UL-DAWAH; a.k.a. JAMA'AT-I-DAWAT; a.k.a. JAMAATI-UD-DAWA; a.k.a. JAMA'AT-UD-DA'AWA; a.k.a. JAMA'AT-UD-DA'AWAH; a.k.a. JAMAAT-UD-DAWA; a.k.a. JAMAAT-UL-DAWA; a.k.a. JAMAIAT-UD-DAWA; a.k.a. LASHKAR E-TOIBA; a.k.a. LASHKAR-I-TAIBA; a.k.a. PAASBAN-E-AHLE-HADIS; a.k.a. PAASBAN-E-KASHMIR; a.k.a. PAASBAN-I-AHLE-HADITH; a.k.a. PASBAN-E-AHLE-HADITH; a.k.a. PASBAN-E-KASHMIR; a.k.a. “JUD”), Pakistan [SDGT] [FTO]

LASHKAR I JHANGVI (LJ) (a.k.a. LASHKAR E JHANGVI; a.k.a. LASHKAR-I-JHANGVI) [FTO] [SDGT]

LATINA DE COSMETICOS Y DISTRIBUCIONES S.A., Carrera 28 No. 11-65 of. 712, Bogota, Colombia; Calle 12B No. 27-39, Bogota, Colombia; Carrera 70 No. 54-30, Bogota, Colombia; NIT # 830018857-5 (Colombia) [SDNT]

LATINOAMERICANA DE FARMACOS S.A. (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. SUPERFARMACIA), Av. Rodrigo de Chavez 387, Quito, Ecuador; Cayambe, Ecuador; Av. Amazonas 244 y Jorge Washington, Quito, Ecuador; El Carmen, Ecuador; Ambato, Ecuador; Av. Amazonas 1134 y General Foch, Quito, Ecuador; Av. 10 de Agosto 2753 y Gral. Vicente Aguirre, Edificio Freile Ardiani, Quito, Ecuador; Quito, Ecuador; Gualberto Perez 633 y Andres Perez, Quito, Ecuador; Michelena y Mariscal Sucre, Quito, Ecuador; Tres de Julio y Cuenca, Santo Domingo, Ecuador; Tulcan, Ecuador; Santo Domingo Colorados, Ecuador; RUC # 1791286812001 (Ecuador) [SDNT]

LAURA I (f.k.a. LAURA) (vessel) [CUBA]

LAVADERO EL CASTILLO, Carrera 84 No. 32B-40, Medellin, Colombia [SDNT]

LAVERDE GOMEZ, German, c/o CONSTRUCTORA ALTOS DEL RETIRO LTDA., Bogota, Colombia; DOB 20 Apr 1956; Cedula No. 79140380 (Colombia) (individual) [SDNT]

LAVILLA, Ruben Pestano, Jr. (a.k.a. DE LAVILLA, Mike; a.k.a. LABELLA, Omar; a.k.a. LAVILLA, Mile D.; a.k.a. LAVILLA, Omar; a.k.a. LAVILLA, Ramo; a.k.a. LAVILLA, Reuben; a.k.a. LAVILLA, Reuben Omar; a.k.a. LAVILLA, Reymund; a.k.a. LOBILLA, Shaykh Omar; a.k.a. MUDDARIS, Abdullah; a.k.a. SHARIEF, Ahmad Omar), Sitio Banga Maiti, Barangay Tranghawan, Lambunao, Iloilo Province, Philippines; 10th Avenue, Caloocan City, Manila, Philippines; DOB 4 Oct 1972; POB Sitio Banga Maiti, Barangay Tranghawan, Lambunao, Iloilo Province, Philippines; nationality Philippines (individual) [SDGT]

LAW, Steven (a.k.a. CHUNG, Lo Ping; a.k.a. HALIM, Abdul; a.k.a. LAW, Stephen; a.k.a. LO, Ping Han; a.k.a. LO, Ping Hau; a.k.a. LO, Ping Zhong; a.k.a. LO, Steven; a.k.a. NAING, Htun Myint; a.k.a. NAING, Tun Myint; a.k.a. NAING, U Myint), 330 Strand Rd., Latha Township, Rangoon, Burma; 61-62 Bahosi Development Housing, Wadan St., Lanmadaw Township, Rangoon, Burma; No. 124 Insein Road, Ward (9), Hlaing Township, Rangoon, Burma; 8A Jalan Teliti, Singapore, Singapore; 3 Shenton Way, #10-01 Shenton House, Singapore 068805, Singapore; DOB 16 May 1958; alt. DOB 27 Aug 1960; POB Lashio, Burma; citizen Burma; Passport 937174 (Burma) (individual) [BURMA]

LAZAREVIC, Vladimir; DOB 23 Mar 1949; POB Gricar (individual) [BALKANS]

LEAL FLOREZ, Luis Alejandro, LATINA DE COSMETICOS Y DISTRIBUCIONES S.A., Bogota, Colombia; c/o COINTERCOS S.A., Bogota, Colombia; COSMEPOP, Bogota, Colombia; c/o FIDUSER LTDA., Bogota, Colombia; c/o DISTRIBUIDORA DE DROGAS CONDOR S.A., Bogota, Colombia; DOB 12 Sep 1961; Cedula No. 7217432 (Colombia); Passport 7217432 (Colombia) (individual) [SDNT]

LEAL GARCIA, Ignacio (a.k.a. “CAMILO”; a.k.a. “TUERTO”); citizen Colombia; nationality Colombia; Cedula No. 96186610 (Colombia) (individual) [SDNTK]

LEAL HERNANDEZ, Mauricio, c/o INCOMMERCE S.A., Cali, Colombia; DOB 24 Nov 1974; Cedula No. 94429420 (Colombia); Passport 94429420 (Colombia) (individual) [SDNT]

LEAL LOPEZ, Janey Farides, c/o VERANILLO DIVE CENTER LTDA., Barranquilla, Colombia; c/o MARTIN HODWALKER M. Y CIA. S. EN C., Barranquilla, Colombia; DOB 6 Nov 1972; POB Colombia; Cedula No. 32779104 (Colombia); Passport AF665724 (Colombia) (individual) [SDNT]

LEAL RODRIGUEZ, Jose Guillermo, c/o LABORATORIOS KRESSFOR DE COLOMBIA S.A., Bogota, Colombia; c/o DECAFARMA S.A., Bogota, Colombia; c/o PENTACOOP LTDA., Bogota, Colombia; c/o PENTA PHARMA DE COLOMBIA S.A., Bogota, Colombia; DOB 1 Mar 1932; Cedula No. 89867 (Colombia) (individual) [SDNT]

LEATHER INDUSTRIES CORPORATION (a.k.a. LEATHER INDUSTRIES TANNERIES), P.O. Box 1639, Khartoum, Sudan [SUDAN]

LEBANESE MEDIA GROUP (a.k.a. LEBANESE COMMUNICATION GROUP), Al Manar Building, Ahmad Kassir Street, Haret Hriek, Baabda, Lebanon; Abed Al Nour Street, Haret Hriek, PO Box 354/25, Beirut, Lebanon; Company ID: No. 59 531 at Commercial Registry of the Civil Court of First Instance at Baabda, Lebanon [SDGT]

LEBREDO, Jose A., Zweierstrasse 35, CH-8022 Zurich, Switzerland; Director, Banco Nacional de Cuba (individual) [CUBA]

LEILABADI, Ali Hajinia (a.k.a. LAILABADI, ALI HADJINIA), c/o MESBAH ENERGY COMPANY, Iran; DOB 19 Feb 1950; POB Tabriz, Iran; citizen Iran; nationality Iran; Passport E4710151 (Iran) issued 15 Oct 2000 expires 15 Oct 2005 (individual) [NPWMD]

LEMOFAR LTDA. (a.k.a. LMF LTDA.), Calle 39 Bis A No. 27-12, Bogota, Colombia; NIT # 830116405-1 (Colombia) [SDNT]

LEON REYES, German, c/o COLPHAR S.A., Bogota, Colombia; Cedula No. 79273729 (Colombia); Passport 79273729 (Colombia) (individual) [SDNT]

LEON, Hector, c/o MANUFACTURAS REAL S.A., Bogota, Colombia; DOB 29 Jan 1954; POB Viota, Cundinamarca, Colombia; Cedula No. 19251100 (Colombia); Passport P026720 (Colombia) (individual) [SDNT]

LERCH, Gotthard, Kreuzbergstrasse 4, 9472 Grabs, St Gallen Canton, Switzerland; DOB 21 Dec 1942; POB Germany; nationality Germany; Passport 3545767791D (Germany) issued 7 Aug 1998 expires 6 Aug 2008; alt. Passport 3545767791 (Germany) (individual) [NPWMD]

LESABE, Thenjiwe; DOB 5 Jan 1933; Politburo Committee Member (individual) [ZIMBABWE]

LESMES BULLA, Jairo Alfonso (a.k.a. CALDERON, Javier), Colombia; DOB 25 Mar 1947; citizen Colombia; Cedula No. 17164408 (Colombia); International FARC Commission Member for Argentina, Chile, Uruguay, and Paraguay (individual) [SDNTK]

LEVERAGE, S.A., San Martin 323, Piso 14, Buenos Aires, Argentina [CUBA]

LEVERYE, S.A., Corrientes 1386, 5th Floor, Buenos Aires, Argentina [CUBA]

LEYBDA CORPORATION, S.A., Panama [CUBA]

LI, Cheng Yu (a.k.a. BOONTHAWEE, Sae Jang; a.k.a. BUNTHAWEE, Sae Chang; a.k.a. BUNTHAWEE, Sae Jang; a.k.a. “AH LI KO”; a.k.a. “LI CHENG YU”), 725, Mu 10, Tambon Nong Bua, Amphur Chaiprakan, Chiang Mai, Thailand; 199/132, Mu 8, Tambon Non Jom, Amphur San Sai, Chiang Mai, Thailand; Shan, Burma; DOB 06 Jun 1961; National ID No. 5502100007251 (Thailand); Passport X638456 (Thailand) (individual) [SDNTK]

LI, Fangwei (a.k.a. LEE, Karl), c/o LIMMT ECONOMIC AND TRADE COMPANY, LTD., 2501-2508 Yuexiu Mansion, No. 82 Xinkai Road, Dalian, Liaoning 116011, China; China; DOB 18 Sep 1972; nationality China (individual) [NPWMD]

LI, Kai Shou (a.k.a. “LI KAI SHOU”), Huay Aw, Shan, Burma; DOB 1949 (individual) [SDNTK]

LIBERATION ARMY OF PRESEVO, MEDVEDJA, AND BUJANOVAC (a.k.a. UCPMB) [BALKANS]

LIBERATION TIGERS OF TAMIL EELAM (a.k.a. ELLALAN FORCE; a.k.a. LTTE; a.k.a. TAMIL TIGERS) [FTO] [SDGT]

LIBREROS DIEZ, Orlando, c/o CONSTRUCTORA DIMISA LTDA., Cali, Colombia; c/o VALLE COMUNICACIONES LTDA., Cali, Colombia; c/o INDUSTRIA AVICOLA PALMASECA S.A., Cali, Colombia; c/o DISTRIBUIDORA DE ELEMENTOS PARA LA CONSTRUCCION S.A., Cali, Colombia; DOB 6 Dec 1960; Cedula No. 16651068 (Colombia) (individual) [SDNT]

LIBYAN ISLAMIC FIGHTING GROUP [FTO] [SDGT]

LICON MUNOZ, Jorge Arturo, c/o CORRALES SAN IGNACIO S.P.R. DE R.L. DE C.V., Saucillo, Chihuahua, Mexico; Mexico; c/o CORRALES SAN IGNACIO L.L.C., Presidio, TX; DOB 17 May 1974; citizen Mexico; nationality Mexico; C.U.R.P. LIMJ740517HCHCXR09 (Mexico); Immigration No. A7800002 Border Crossing (United States) (individual) [SDNTK]

LICOREXPORT S.A., Quito, Ecuador [CUBA]

LILAC ISLANDS (vessel) [CUBA]

LIMAJ, Fatmir; DOB 4 Feb 1971; POB Banja, Serbia and Montenegro; ICTY indictee (individual) [BALKANS]

LIMMT ECONOMIC AND TRADE COMPANY, LTD. (a.k.a. ANSI METALLURGY INDUSTRY CO. LTD.; a.k.a. BLUE SKY INDUSTRY CORPORATION; a.k.a. DALIAN CARBON CO. LTD.; a.k.a. DALIAN SUNNY INDUSTRY & TRADE CO., LTD.; a.k.a. LIAONING INDUSTRY & TRADE CO., LTD.; a.k.a. LIMMT (DALIAN FTZ) METALLURGY AND MINERALS CO., LTD.; a.k.a. LIMMT (DALIAN FTZ) MINMETALS AND METALLURGY CO., LTD.; a.k.a. LIMMT (DALIAN) METALLURGY AND MINERALS CO., LTD.; a.k.a. SC (DALIAN) INDUSTRY & TRADE CO., LTD.; a.k.a. SINO METALLURGY & MINMETALS INDUSTRY CO., LTD.; a.k.a. WEALTHY OCEAN ENTERPRISES LTD.), No. 08 F25, Yuexiu Mansion, Xigang District, Dalian, China; No. 10 Zhongshan Road, Dalian, China; No. 100 Zhongshan Road, Dalian, China; 2501-2508 Yuexiu Mansion, No. 82 Xinkai Road, Dalian, Liaoning 116011, China; and all other locations worldwide [NPWMD]

LIN, Aung Thein (a.k.a. “LYNN, Aung Thein”), Burma; DOB 1952; citizen Burma; nationality Burma; Brigadier General, Mayor and Chairman of Yangon City (Rangoon) City Development Committee (individual) [BURMA]

LINARES GUZMAN, Juan Carlos, c/o TRIMARK LTDA., Bogota, Colombia; Carrera 6B No. 33B-80, Barranquilla, Colombia; c/o CAJA SOLIDARIA, Bogota, Colombia; c/o COPSERVIR LTDA., Bogota, Colombia; c/o LITOPHARMA, Barranquilla, Colombia; Cedula No. 72185736 (Colombia) (individual) [SDNT]

LINARES REYES, Ricardo Jose (a.k.a. LLENARES REYES, Jose Ricardo), c/o ADMINISTRACION INMOBILIARIA BOLIVAR S.A., Cali, Colombia; c/o INVERSIONES BETANIA LTDA., Cali, Colombia; c/o CONCRETOS CALI S.A., Cali, Colombia; c/o W. HERRERA Y CIA. S. EN C., Cali, Colombia; c/o INVERSIONES EL PENON S.A., Cali, Colombia; c/o INVHERESA S.A., Cali, Colombia; c/o CONSTRUEXITO S.A., Cali, Colombia; c/o VIAJES MERCURIO LTDA, Cali, Colombia; c/o INVERSIONES INVERVALLE S.A., Cali, Colombia; c/o INCOVALLE, Cali, Colombia; c/o INVERSIONES HERREBE LTDA., Cali, Colombia; DOB 8 Mar 1955; alt. DOB 3 Mar 1955; Cedula No. 14440139 (Colombia); Passport PO466638 (Colombia) (individual) [SDNT]

LINDO HURTADO, Edgar, c/o INMOBILIARIA U.M.V. S.A., Cali, Colombia; DOB 23 Mar 1927; Cedula No. 6061717 (Colombia) (individual) [SDNT]

LISANDRO LASCARRO, Jose (a.k.a. MUNOZ LASCARRO, Felix Antonio; a.k.a. “PASTOR ALAPE”); DOB 4 Jun 1959; alt. DOB 1946; POB Puerto Berrio, Antioquia, Colombia; Cedula No. 3550075 (Colombia); alt. Cedula No. 71180715 (Colombia) (individual) [SDNTK]

LITOPHARMA (a.k.a. COOPERATIVA MULTIACTIVA DEL LITORAL), Calle 72 No. 48-60 Local 1B, Barranquilla, Colombia; Calle 72 No. 48-60 Local 1A Centro Ejecutivo Kathand, Barranquilla, Colombia; Carrera 3 Sur No. 43-62, Barranquilla, Colombia; NIT # 802012669-8 (Colombia) [SDNT]

LITTLE CONNEMARA 1 FARM, Nyanga, Zimbabwe [ZIMBABWE]

LIZZY MUNDO INTERIOR, Justo Sierra 1963, Guadalajara, Jalisco, Mexico [SDNT]

LJUBICIC, Pasko; DOB 15 Nov 1965; POB Nezirovic, Bosnia-Herzegovina; ICTY indictee (individual) [BALKANS]

LLADROVICI, Ramiz; DOB 3 Jan 1966 (individual) [BALKANS]

LO, Hsing Han (a.k.a. LAW, Hsit-han; a.k.a. LO, Hsin Han; a.k.a. LO, Hsing-han), 126A Damazedi Rd, Bahan Township, Rangoon, Burma; 47 Latha St., Latha Township, Rangoon, Burma; 20B Massoeyein St., 9 Mile, Rangoon, Burma, Burma; 36 19th St., Lower Blk, Latha Township, Rangoon, Burma; 330 Strand Rd, Latha Township, Rangoon, Burma; 60-61 Strand Rd., Latha Township, Rangoon, Burma; 152 Sule Pagoda Rd, Rangoon, Burma; 20-23 Masoeyein Kyang St., Mayangone, Rangoon, Burma; 20 Wingabar Rd, Rangoon, Burma; DOB 1938; alt. DOB 1935 (individual) [BURMA]

LOAN, Waseem Rauf (a.k.a. BUTT, Abdul Majid; a.k.a. LOAN, Waseem Raouf; a.k.a. LON RAOUF, Wasim Raouf; a.k.a. LOUN, Waseem Raouf; a.k.a. LOUN, Waseem Rauf; a.k.a. LOUN, Waseem Rouf; a.k.a. RASHI, Abdul Majid; a.k.a. RASHID, Abdul Majid), c/o AL AMLOOD TRADING LLC, Dubai, United Arab Emirates; c/o FMF GENERAL TRADING LLC, Dubai, United Arab Emirates; Pakistan; DOB 03 Mar 1966; POB Lahore, Pakistan; citizen Pakistan; Identification Number 35200-5407888-5 (Pakistan); Passport AA8908881 (Pakistan) (individual) [SDNTK]

LOBATO, Julio (a.k.a. PRADO, Julio), Panama (individual) [CUBA]

LOCHINVAR FARM, Mashvingo, Zimbabwe [ZIMBABWE]

LOGAN MOREY, Elvis Angus (a.k.a. “BURTON BURGESS”); DOB 28 Jul 1963; POB Toledo District, Belize; Passport P0017003 (Belize); SSN 561-77-9011 (United States) (individual) [SDNT]

LOGARCHEO S.A. (f.k.a. LOGARCHEO AG), Chemin du Carmel, 1661 Le Paquier-Montbarry, Switzerland; US FEIN CH-217-0-431-423-3 (United States) [IRAQ2]

LOMEDIC, S.A. DE C.V. (a.k.a. MEDIC EXPRESS, S.A. DE C.V.), Av. del Parque #489, Col. San Andres, Guadalajara, Jalisco 44810, Mexico; R.F.C. LOM-990211-KQ2 (Mexico) [SDNTK]

LOMELI BOLANOS, Carlos, c/o LOMEDIC, S.A. DE C.V., Guadalajara, Jalisco, Mexico; DOB 05 Aug 1959; POB Guadalajara, Mexico; citizen Mexico; nationality Mexico; C.U.R.P. LOBC590805HJCMLR02 (Mexico) (individual) [SDNTK]

LONDONO ALVAREZ, Gloria Elena (a.k.a. LONDONO DE GRAJALES, Gloria Elena), c/o CITICAR LTDA., La Union, Valle, Colombia; c/o MELON LTDA., Cali, Colombia; c/o GBS TRADING S.A., Cali, Colombia; c/o GAD S.A., La Union, Valle, Colombia; c/o HOTEL LOS VINEDOS, La Union, Valle, Colombia; c/o INTERNATIONAL FREEZE DRIED S.A., Bogota, Colombia; c/o JOSAFAT S.A., Tulua, Valle, Colombia; c/o WORLD WORKING COMERCIALIZADORA INTERNACIONAL S.A., Cali, Colombia; c/o CRETA S.A., La Union, Valle, Colombia; c/o SALIM S.A., La Union, Valle, Colombia; c/o FRUTAS DE LA COSTA S.A., Malambo, Atlantico, Colombia; c/o HEBRON S.A., Tulua, Valle, Colombia; c/o ARMAGEDON S.A., La Union, Valle, Colombia; c/o TRANSPORTES DEL ESPIRITU SANTO S.A., La Union, Valle, Colombia; c/o CONFECCIONES LINA MARIA LTDA., La Union, Valle, Colombia; c/o INDUSTRIAS DEL ESPIRITU SANTO S.A., Malambo, Atlantico, Colombia; DOB 22 Apr 1962; POB Medellin, Colombia; Cedula No. 51635146 (Colombia) (individual) [SDNT]

LONDONO DE UPEGUI, Maria del Carmen, c/o INVERSIONES VILLA PAZ S.A., Cali, Colombia; DOB 16 Oct 1927; Cedula No. 29652262 (Colombia) (individual) [SDNT]

LONDONO ECHEVERRY, Rodrigo (a.k.a. “TIMOCHENKO”; a.k.a. “TIMOLEON JIMENEZ”); DOB 22 Jan 1959; alt. DOB 1 Jan 1949; POB Calarca, Quindio, Colombia; Cedula No. 79149126 (Colombia) (individual) [SDNTK]

LONDONO VASQUEZ, Marco Julio, Carrera 63B No. 42-50, Medellin, Colombia; c/o INVERSIONES EL MOMENTO S.A., Medellin, Colombia; c/o CASA DEL GANADERO S.A., Medellin, Colombia; c/o ADMINISTRADORA GANADERA EL 45 LTDA., Medellin, Colombia; c/o SOCIEDAD MINERA GRIFOS S.A., El Bagre, Antioquia, Colombia; DOB 04 Dec 1955; POB Fredonia, Antioquia, Colombia; Cedula No. 15345634 (Colombia); Passport AG062408 (Colombia) (individual) [SDNT]

LONDONO VELEZ, Roberto, Calle 19 No. 12-49, Apt. 504, Armenia, Quindio, Colombia; Calle 13 No. 101-50, Armenia, Quindio, Colombia; c/o ASESORIAS PROFESIONALES LTDA., Armenia, Colombia; DOB 17 Dec 1958; POB Cali, Colombia; alt. POB Armenia, Quindio, Colombia; citizen Colombia; Cedula No. 7527342 (Colombia); Passport AI520011 (Colombia) (individual) [SDNT]

LONGWOOD FARM, Zimbabwe [ZIMBABWE]

LOPERA BARBOSA, Adriana, c/o J.A.J. BARBOSA Y CIA. S.C.S., Cali, Colombia; Calle 1A No. 60-61 apto. 205B, Cali, Colombia; c/o INVERSIONES EPOCA S.A., Cali, Colombia; c/o CONSULTORIA INTEGRAL Y ASESORIA EMPRESARIAL S.A., Cali, Colombia; c/o ASESORIA Y SOLUCIONES GRUPO CONSULTOR S.A., Cali, Colombia; DOB 21 Jun 1965; POB Cali, Colombia; Cedula No. 31930002 (Colombia); Passport AG820191 (Colombia) (individual) [SDNT]

LOPERA BARBOSA, Jairo Humberto, Carrera 72 No. 11-46 Blq. 11 apto. 403, Cali, Colombia; c/o INVERSIONES EPOCA S.A., Cali, Colombia; c/o CONSULTORIA INTEGRAL Y ASESORIA EMPRESARIAL S.A., Cali, Colombia; c/o J.A.J. BARBOSA Y CIA. S.C.S., Cali, Colombia; c/o ASESORIA Y SOLUCIONES GRUPO CONSULTOR S.A., Cali, Colombia; DOB 22 Feb 1971; POB Cali, Colombia; Cedula No. 16792756 (Colombia); Passport AJ172334 (Colombia) (individual) [SDNT]

LOPERA BARBOSA, Juan Carlos, c/o ASESORIA Y SOLUCIONES GRUPO CONSULTOR S.A., Cali, Colombia; Carrera 81 No. 13A-125 Casa 11, Cali, Colombia; c/o INVERSIONES EPOCA S.A., Cali, Colombia; c/o CONSULTORIA INTEGRAL Y ASESORIA EMPRESARIAL S.A., Cali, Colombia; c/o J.A.J. BARBOSA Y CIA. S.C.S., Cali, Colombia; DOB 18 Jan 1968; POB Cali, Colombia; Cedula No. 16746731 (Colombia); Passport AK122874 (Colombia) (individual) [SDNT]

LOPERA LONDONO, Vicente de Jesus, c/o INVERSIONES Y CONSTRUCCIONES VALLE S.A., Calle, Colombia; Cedula No. 1393107 (Colombia) (individual) [SDNT]

LOPEZ ARANGO, Gloria Ines (a.k.a. LOPEZ DE OSPINA, Gloria Ines), c/o DISTRIBUIDORA MIGIL CALI S.A., Cali, Colombia; c/o GENERAL DE NEGOCIOS Y ADMINISTRACION LTDA., Cali, Colombia; Carrera 1K No. 60-71, Cali, Colombia; c/o INMOBILIARIA IMTASA LTDA., Cali, Colombia; DOB 18 Mar 1952; Cedula No. 31237563 (Colombia) (individual) [SDNT]

LOPEZ DIAZ, Jesus Alfonso, c/o ESTABLO PUERTO RICO S.A. DE C.V., Culiacan, Sinaloa, Mexico; Avenida Const. Pedro L Zavala 1957, Colonia Libertad, Culiacan, Sinaloa 80180, Mexico; DOB 30 Sep 1962; POB Sinaloa, Mexico; citizen Mexico; nationality Mexico; C.U.R.P. LODJ620930HSLPZS09 (Mexico); R.F.C. LODJ-620930 (Mexico) (individual) [SDNTK]

LOPEZ MENDEZ, Luis Eduardo (a.k.a. LOPEZ MENDEZ, Alfonso; a.k.a. “EFREN ARBOLEDA”); citizen Colombia; nationality Colombia; Cedula No. 96329889 (Colombia) (individual) [SDNTK]

LOPEZ PALACIOS, Liliana (a.k.a. LUCIA MARIN, Olga), Colombia; DOB 21 Sep 1961; citizen Colombia; Cedula No. 51708175 (Colombia); International FARC Commission Member for Mexico (individual) [SDNTK]

LOPEZ PENA, Julio Cesar (a.k.a. “COMBA”; a.k.a. “JULITO”), Carrera 72 No. 10 bis 21, Apt. 303, Cali, Colombia; Carrera 71 No. 10 Bis 103, Cali, Colombia; Carrera 16 No. 21N-02, Armenia, Colombia; Avenida 4O No. 6-140, Apt. 1301, Cali, Colombia; Calle 62 No. 4C-18, Cali, Colombia; DOB 25 Jun 1961; POB Chaparral, Tolima, Colombia; citizen Colombia; Cedula No. 16655942 (Colombia) (individual) [SDNT]

LOPEZ POBLANO, Beatriz Raquel (a.k.a. LOPEZ POBLANO DE ARRIOLA, Beatriz Raquel; a.k.a. LOPEZ PORTILLO, Beatriz Raquel), c/o CHIHUAHUA FOODS S.A. DE C.V., Cuauhtemoc, Mexico; c/o INMOBILIARIA EL PRESON S.A. DE C.V., Chihuahua, Mexico; c/o INDIO VITORIO S. DE P.R. DE R.L. DE C.V., Saucillo, Mexico; Calle Sierra San Diego No. 2502, Chihuahua, Chihuahua, Mexico; DOB 11 Apr 1968; alt. DOB 11 Apr 1971; POB Delicias, Chihuahua, Mexico; citizen Mexico; nationality Mexico (individual) [SDNTK]

LOPEZ RODRIGUEZ, Cecilia, c/o COMERCIALIZADORA INTERNACIONAL VALLE DE ORO S.A., Cali, Colombia; DOB 4 Jul 1965; Cedula No. 31171066 (Colombia) (individual) [SDNT]

LOPEZ SANDOVAL, Fernando Alberto, c/o FARMACOOP, Bogota, Colombia; c/o DISTRIBUIDORA SANAR DE COLOMBIA S.A., Cali, Colombia; c/o DISTRIEXPORT S.A., Bogota, Colombia; c/o INCOMMERCE S.A., Cali, Colombia; DOB 12 Oct 1975; Cedula No. 94450287 (Colombia); Passport 94450287 (Colombia) (individual) [SDNT]

LOPEZ URREA, Adriana Patricia, c/o COLPHAR S.A., Bogota, Colombia; DOB 29 Feb 1968; Cedula No. 36378461 (Colombia); Passport 36378461 (Colombia) (individual) [SDNT]

LOPEZ VALENCIA, Oscar Alberto, c/o MEGAPLAST S.A., Palmira, Valle, Colombia; Carrera 6A No. 11-43 501-2, Cali, Colombia; c/o PLASTICOS CONDOR LTDA., Cali, Colombia; c/o FLEXOEMPAQUES LTDA., Cali, Colombia; DOB 30 Aug 1960; Cedula No. 10537943 (Colombia) (individual) [SDNT]

LOPEZ ZAPATA, Hernan de Jesus, c/o AGROPECUARIA LA ROBLEDA S.A., Cali, Colombia; c/o INDUSTRIA MADERERA ARCA LTDA., Cali, Colombia; Cedula No. 16344058 (Colombia) (individual) [SDNT]

LOPEZ, Miguel, A., 20 Ironmonger Lane, London EC2V 8EY, United Kingdom; Deputy Chairman, Havana International Bank (individual) [CUBA]

LOPEZ, Quirino Gutierrez, c/o ANGLO CARIBBEAN SHIPPING CO., LTD., 7th Floor, Ibex House, the Minories, London EC3N 1DY, United Kingdom (individual) [CUBA]

LOPRETTO DURAN, Jorge Enrique, Carrera 4 No. 12-20 of. 206, Cartago, Valle, Colombia; c/o VISCAYA LTDA., Cartago, Valle, Colombia; c/o INMOBILIARIA PASADENA LTDA., Cartago, Valle, Colombia; c/o INMOBILIARIA EL ESCORIAL LTDA., Cartago, Valle, Colombia; c/o INMOBILIARIA LINARES LTDA., Cartago, Valle, Colombia; DOB 8 Aug 1962; Cedula No. 16215409 (Colombia); Passport 16215409 (Colombia) (individual) [SDNT]

LOS GNOMOS LTDA., Calle 5 No. 61-82, Apt. 412B, Cali, Valle, Colombia; NIT # 800165614-2 (Colombia) [SDNTK]

LOS VINEDOS DE GETSEMANI S.A. (a.k.a. HOTEL LOS VINEDOS; a.k.a. VALLE LINDO HOSTAL RESTAURANTE), Troncal Del Pacifico Km. 1, La Union, Valle, Colombia; Km. 1 Via a Roldanillo, La Union, Valle, Colombia; NIT # 800108902-6 (Colombia) [SDNT]

LOS ZETAS, Mexico [SDNTK]

LOT 3A OF DETE VALLEY FARM, Lupane, Zimbabwe [ZIMBABWE]

LOTHAIN FARM, Gutu, Zimbabwe [ZIMBABWE]

LOTUS ISLANDS (vessel) [CUBA]

LOUBIRI, Habib Ben Ahmed (a.k.a. AL-LOUBIRI, Habib Ben Ahmed), via Brughiera, n. 5, Castronno, Varese, Italy; DOB 17 Nov 1961; POB Menzel Temime, Tunisia; nationality Tunisia; Italian Fiscal Code LBRHBB61S17Z352F; Passport M 788439 issued 20 Oct 2001 expires 19 Oct 2006 (individual) [SDGT]

LOUNICI, Djamel; DOB 1 Feb 1962; POB Algiers, Algeria (individual) [SDGT]

LOUTH HOLDINGS, S.A., Panama [CUBA]

LOYALIST VOLUNTEER FORCE (LVF), United Kingdom [SDGT]

LOZANO ESCOBAR, Enrique Alejandro, c/o GRANJA LA SIERRA LTDA., Cali, Colombia; DOB 5 Aug 1961; POB Cali, Valle, Colombia; Cedula No. 16657902 (Colombia); Passport 16657902 (Colombia) (individual) [SDNT]

LOZANO OSPINA, Max Abilio, c/o CONSTRUCTORA AMERICA S.A., Bogota, Colombia; c/o DURATEX S.A., Bogota, Colombia; c/o C.I. OTILIA FLOWERS S.A., Cajica, Cundinamarca, Colombia; c/o PROMOCIONES E INVERSIONES LAS PALMAS S.A., Bogota, Colombia; DOB 23 May 1971; POB Colombia; Cedula No. 79248772 (Colombia) (individual) [SDNT]

LUCERO DE MARTINEZ, Sandra (a.k.a. LUCERO VALENZUELA, Sandra; a.k.a. VALENCIA ZAZUETA, Sandra; a.k.a. VALENZUELA, Sandra), Mexico; DOB 29 Oct 1969; POB Nogales, Sonora, Mexico; citizen Mexico; nationality Mexico; C.U.R.P. VAZS691029MSRLZN04 (Mexico); alt. C.U.R.P. VAZS691029HSRLZN04 (Mexico) (individual) [SDNTK]

LUCERO IMPORT S.A.C., Calle Soledad 113, Interior 301, Lima, Peru; RUC # 20432287221 (Peru) [SDNTK]

LUCKY LILY (a.k.a. IRAN LUCKY LILY); Vessel Registration Identification IMO 9165827 (vessel) [NPWMD]

LUCKY MAN (a.k.a. IRAN LUCKY MAN); Vessel Registration Identification IMO 9165839 (vessel) [NPWMD]

LUGO PALACIOS, Julian Alberto, c/o COOPERATIVA MERCANTIL COLOMBIANA COOMERCOL, Cali, Colombia; c/o COPSERVIR LTDA., Bogota, Colombia; DOB 8 Aug 1972; Cedula No. 94381586 (Colombia); Passport 94381586 (Colombia) (individual) [SDNT]

LUKASHENKA, Alyaksandr Hryhoryavich (a.k.a. LUKASHENKA, Aleksandr Grigorievich; a.k.a. LUKASHENKA, Aleksandr Grigoriyevich; a.k.a. LUKASHENKA, Aleksandr Hryhoryavich; a.k.a. LUKASHENKA, Aleksandr Ryhoravich; a.k.a. LUKASHENKA, Alexander Grigorievich; a.k.a. LUKASHENKA, Alexander Grigoriyevich; a.k.a. LUKASHENKA, Alexander Hryhoryavich; a.k.a. LUKASHENKA, Alexander Ryhoravich; a.k.a. LUKASHENKA, Aliaksandr Grigorievich; a.k.a. LUKASHENKA, Aliaksandr Grigoriyevich; a.k.a. LUKASHENKA, Aliaksandr Hryhoryavich; a.k.a. LUKASHENKA, Aliaksandr Ryhoravich; a.k.a. LUKASHENKA, Alyaksandr Grigorievich; a.k.a. LUKASHENKA, Alyaksandr Grigoriyevich; a.k.a. LUKASHENKA, Alyaksandr Ryhoravich; a.k.a. LUKASHENKO, Aleksandr Grigorievich; a.k.a. LUKASHENKO, Aleksandr Grigoriyevich; a.k.a. LUKASHENKO, Aleksandr Hryhoryavich; a.k.a. LUKASHENKO, Aleksandr Ryhoravich; a.k.a. LUKASHENKO, Alexander Grigorievich; a.k.a. LUKASHENKO, Alexander Grigoriyevich; a.k.a. LUKASHENKO, Alexander Hryhoryavich; a.k.a. LUKASHENKO, Alexander Ryhoravich; a.k.a. LUKASHENKO, Aliaksandr Grigorievich; a.k.a. LUKASHENKO, Aliaksandr Grigoriyevich; a.k.a. LUKASHENKO, Aliaksandr Hryhoryavich; a.k.a. LUKASHENKO, Aliaksandr Ryhoravich; a.k.a. LUKASHENKO, Alyaksandr Grigorievich; a.k.a. LUKASHENKO, Alyaksandr Grigoriyevich; a.k.a. LUKASHENKO, Alyaksandr Hryhoryavich; a.k.a. LUKASHENKO, Alyaksandr Ryhoravich); DOB 30 Aug 1954; POB Kopys, Vitebsk oblast, Belarus; President (individual) [BELARUS]

LUKASHENKA, Viktar Aliaksandravich (a.k.a. LUKASHENKA, Victor Aliaksandravich; a.k.a. LUKASHENKA, Viktor Aliaksandravich; a.k.a. LUKASHENKO, Victor Aliaksandravich; a.k.a. LUKASHENKO, Viktar Aliaksandravich; a.k.a. LUKASHENKO, Viktor Aliaksandravich); DOB 1976; POB Mogilev, Belarus; Head of Presidential Guard; Also identified as National Security Advisor (individual) [BELARUS]

LUKIC, Milan; DOB 6 Sep 1967; POB Foca, Bosnia-Herzegovina; ICTY indictee at large (individual) [BALKANS]

LUKIC, Sredoje; DOB 5 Apr 1961; POB Visegrad, Bosnia-Herzegovina; ICTY indictee at large (individual) [BALKANS]

LUKIC, Sreten; DOB 28 Mar 1955; POB Visegrad municipality, Bosnia and Herzegovina (individual) [BALKANS]

LUKOVIC, Milorad Ulemek 'Legija'; DOB 15 Mar 1968; POB Belgrade, Serbia and Montenegro (individual) [BALKANS]

LUNA CORDOBA, Rosa Edelmira, c/o SOCIEDAD MINERA GRIFOS S.A., El Bagre, Antioquia, Colombia; c/o INVERSIONES EL MOMENTO S.A., Medellin, Colombia; c/o CASA DEL GANADERO S.A., Medellin, Colombia; 13315 SW 128 Passage, Miami, FL 33186; Carrera 42 No. 34-15, Medellin, Colombia; Calle 10E No. 25-41, Medellin, Colombia; c/o GANADERIA LUNA HERMANOS LTDA., Medellin, Colombia; c/o ELECTROMUEBLES DEL BAJO CAUCA, Medellin, Colombia; c/o ADMINISTRADORA GANADERA EL 45 LTDA., Medellin, Colombia; 801 Brickell Key Blvd., unit 1907, Miami, FL 33131; c/o INVERSIONES LICOM LTDA., Medellin, Colombia; DOB 18 Sep 1960; POB Puerto Asis, Putumayo, Colombia; Cedula No. 41101742 (Colombia); Passport AK031225 (Colombia) (individual) [SDNT]

LUSHTAKU, Sami; DOB 20 Feb 1961; POB Srbica, Serbia and Montenegro (individual) [BALKANS]

LUZ MERY TRISTAN E.U. (a.k.a. CLUB DEPORTIVO LUZ MERY TRISTAN WORLD CLASS; a.k.a. LUZ MERY TRISTAN WORLD CLASS), Carrera 125 No. 19-275, Cali, Colombia; Diagonal 32 No. 37-125, Cali, Colombia; Holguines Trade Center L-239, Cali, Colombia; Calle 5B 4 No. 37-125, Cali, Colombia; Avenida 6 Norte No. 17-92 Apt. 508, Cali, Colombia; NIT # 805449310-7 (Colombia); alt. NIT # 805012268-9 (Colombia) [SDNT]

LWIN, Saw, Burma; DOB 1939; citizen Burma; nationality Burma; Major General, Minister of Industry 2 (individual) [BURMA]

M & S SYNDICATE (PVT) LTD., P.O. Box 1275, Harare, Zimbabwe; First Floor, Victory House, 88 Robert Mugabe Road, Harare, Zimbabwe [ZIMBABWE]

M C M Y CIA. LTDA. (a.k.a. HAPPY DAYS), Calle 22 Norte No. 5A-75, Cali, Colombia; Calle 25 Norte No. 3AN-39, Cali, Colombia; NIT # 800204288-2 (Colombia) [SDNT]

M Q CONSULTORES, S.A. DE C.V., Tijuana, Baja California, Mexico; R.F.C. MQC-020611-6Y9 (Mexico) [SDNTK]

M S CONSTRUCTORES LTDA., Calle 22N No. 5AN-75, Cali, Colombia; NIT # 800206430-1 (Colombia) [SDNT]

M. RODRIGUEZ O. Y CIA. S. EN C.S., Cali, Colombia [SDNT]

MAAROUFI, Tarek Ben Habib Ben Al-Toumi; DOB 23 Nov 1965; POB Ghardimaou, Tunisia; alt. POB Ghar el-dimaa, Tunisia; nationality Tunisia; Passport E590976 (Tunisia) issued 19 Jun 1987 expires 18 Jun 1992 (individual) [SDGT]

MACEDONIA LTDA., Calle 15 No. 10-52, La Union, Valle, Colombia; NIT # 800121860-9 (Colombia) [SDNT]

MACHANGA LTD., Kampala, Uganda [DRCONGO]

MACHAYA, Jaison Max Kokerai; DOB 13 Jun 1952; Member of Parliament for Gokwe Kana (individual) [ZIMBABWE]

MACROFARMA S.A., Calle 17 Norte No. 3N-16, Cali, Colombia; NIT # 816005709-6 (Colombia) [SDNT]

MADAN RIVAS, Jorge, Frankfurt, Germany (individual) [CUBA]

MADE, Joseph Mtakwese; DOB 21 Nov 1954; Passport AN000144 (Zimbabwe); Minister of Agriculture (individual) [ZIMBABWE]

MADZONGWE, Edna; DOB 11 Jul 1945; Deputy Speaker of Parliament (individual) [ZIMBABWE]

MAESAI K.D.P. COMPANY LTD. (a.k.a. BORISAT MAE SAI KHE. DI. PHI. CHAMKAT; a.k.a. MAE SAI K.D.P. COMPANY LTD.), 4 Mu 1, Tambon Wiang Phang Kham, Mae Sai district, Chiang Rai, Thailand [SDNTK]

MAFLA POLO, Jose Freddy, Carrera 11 No. 46-26, Cali, Colombia; c/o GEOPLASTICOS S.A., Cali, Colombia; Calle 52N No. 5B-111, Cali, Colombia; Carrera 11 No. 46-24 Apt. 201, Cali, Colombia; c/o COMPANIA DE FOMENTO MERCANTIL S.A., Cali, Colombia; c/o PARQUE INDUSTRIAL PROGRESO S.A., Yumbo, Colombia; c/o CONSTRUCCIONES PROGRESO DEL PUERTO S.A., Puerto Tejada, Colombia; c/o J. FREDDY MAFLA Y CIA. S.C.S., Cali, Colombia; Carrera 4 No. 11-45 Ofc. 503, Cali, Colombia; POB Cali, Valle, Colombia; Cedula No. 16689935 (Colombia); Passport 16689935 (Colombia) (individual) [SDNT]

MAFLA, Carlos Obeymar (a.k.a. MAFLA, Carlos Obeimar; f.k.a. OBEYMAR MAFLA, Carlos), c/o MERCAVICOLA LTDA., Cali, Colombia; Carrera 11 No. 9-11, Villagorgon, Candelaria, Colombia; DOB 5 Aug 1955; Cedula No. 6226643 (Colombia) (individual) [SDNT]

MAGEN LTDA., Carrera 7 No. 17-01 of. 602, Bogota, Colombia; Calle 23 No. 19-75, Bogota, Colombia; NIT # 830070365-3 (Colombia) [SDNT]

MAHDI, Adil Abdallah; DOB 1945; POB al-Dur, Iraq; Ba'th party regional command chairman, Dhi-Qar (individual) [IRAQ2]

MAHECHA JARAMILLO, Cesar Javier, c/o OBURSATILES S.A., Cali, Colombia; DOB 22 Dec 1967; Cedula No. 16746488 (Colombia); Passport 16746488 (Colombia) (individual) [SDNT]

MAHMOOD, Sultan Bashir-Ud-Din (a.k.a. MAHMOOD, Sultan Bashiruddin; a.k.a. MEHMOOD, Dr. Bashir Uddin; a.k.a. MEKMUD, Sultan Baishiruddin), Street 13, Wazir Akbar Khan, Kabul, Afghanistan; DOB 1937; alt. DOB 1940; alt. DOB 1942; alt. DOB 1943; alt. DOB 1938; alt. DOB 1945; alt. DOB 1939; alt. DOB 1941; alt. DOB 1944; nationality Pakistan (individual) [SDGT]

MAHOFA, Shuvai Ben; DOB 4 Apr 1941; Passport AD000369 (Zimbabwe); Member of Parliament for Gutu South (individual) [ZIMBABWE]

MAJEED, Abdul (a.k.a. MAJEED, Chaudhry Abdul; a.k.a. MAJID, Abdul); DOB 15 Apr 1939; alt. DOB 1938; nationality Pakistan (individual) [SDGT]

MAKHLUF, Hafiz (a.k.a. MAKHLOUF, Hafez); DOB circa 1975; POB Damascus, Syria; Colonel (individual) [LEBANON]

MAKHLUF, Rami (a.k.a. MAKHLOUF, Rami; a.k.a. MAKHLOUF, Rami Bin Mohammed; a.k.a. MAKHLOUF, Rami Mohammad); DOB 10 Jul 1969; POB Syria; citizen Syria; Passport 98044 (Syria) (individual) [SYRIA]

MAKHTAB AL-KHIDAMAT/AL KIFAH, House no. 125, Street 54, Phase II, Hayatabad, Peshawar, Pakistan [SDGT]

MAKKI, Jaffar Ahmad Abdullah; DOB 1956; POB Sudan; Passport A553077 (Sudan) issued 4 Apr 2000; alt. Passport 079925 (Sudan) issued 7 Sep 1992; IARA South Asia Regional Director (individual) [SDGT]

MALDONADO ESCOBAR, Fernando, c/o MOR GAVIRIA Y CIA. S.C.S., Bogota, Colombia; c/o AQUAMARINA ISLAND INTERNATIONAL CORPORATION, Panama City, Panama; c/o AUDITORES ESPECIALIZADOS LTDA., Bogota, Colombia; c/o GAVIRIA MOR Y CIA. LTDA., Girardot, Colombia; c/o PROMOCIONES E INVERSIONES LAS PALMAS S.A., Bogota, Colombia; DOB 16 May 1961; POB Bogota, Colombia; Cedula No. 19445721 (Colombia); Passport AH330349 (Colombia) (individual) [SDNT]

MALDONADO ESCOBAR, Mauricio, c/o MOR GAVIRIA Y CIA. S.C.S., Bogota, Colombia; c/o AUDITORES ESPECIALIZADOS LTDA., Bogota, Colombia; c/o MAYOR COMERCIALIZADORA LTDA., Bogota, Colombia; DOB 22 Oct 1962; POB Colombia; Cedula No. 79266443 (Colombia) (individual) [SDNT]

MALEKI, Naser (a.k.a. MALEKI, Nasser), c/o SHIG, Tehran, Iran; DOB circa 1960; nationality Iran; Passport A0003039 (Iran) (individual) [NPWMD]

MALHERBE DE LEON, Oscar (a.k.a. BECERRA MIRELES, Martin; a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 64; POB Mexico (individual) [SDNTK]

MALIK, Assim Mohammed Rafiq Abdul (a.k.a. ABDULMALIK, Abdul Hameed; a.k.a. RAFIQ, Assem), 14 Almotaz Sad Al Deen Street, Al Nozha, Cairo, Egypt (individual) [IRAQ2]

MALINGA, Joshua; DOB 28 Apr 1944; Deputy Secretary for Disabled and Disadvantaged (individual) [ZIMBABWE]

MALUT SUGAR FACTORY, Malut, Sudan [SUDAN]

MAMOUN DARKAZANLI IMPORT-EXPORT COMPANY (a.k.a. DARKAZANLI COMPANY; a.k.a. DARKAZANLI EXPORT-IMPORT SONDERPOSTEN), Uhlenhorsterweg 34 11, Hamburg, Germany [SDGT]

MANAURE S.A. (f.k.a. AGROPECUARIA LA ROBLEDA S.A.), Avenida 2D Norte No. 24N-76, Cali, Colombia; Carrera 61 No. 11-58, Cali, Colombia; NIT # 800160353-2 (Colombia) [SDNT]

MANCO OIL COMPANY [BALKANS]

MANCUSO GOMEZ, Salvatore (a.k.a. LOZADA, Santander), Calle 64 No. 8A-56, Monteria, Cordoba, Colombia; DOB 17 Aug 1964; POB Monteria, Cordoba, Colombia; Cedula No. 6892624 (Colombia) (individual) [SDNTK]

MANDIC, Momcilo 'Momo'; DOB 1 May 1954; POB Kalinovik, Bosnia-Herzegovina; National ID No. JMB 0105954171511 (individual) [BALKANS]

MANDIZHA, Barbara; DOB 24 Oct 1959; Deputy Police Commissioner (individual) [ZIMBABWE]

MANDRO, Khawa Panga (a.k.a. KAHWA, Chief; a.k.a. KAHWA, Mandro Panga; a.k.a. KARIM, Yves Andoul; a.k.a. MANDRO, Kawa; a.k.a. MANDRO, Kawa Panga; a.k.a. MANDRO, Yves Khawa Panga; a.k.a. PANGA, Kawa); DOB 20 Aug 1973; POB Bunia, Democratic Republic of the Congo; former President, Party for Unity and Safeguarding of the Integrity of Congo (PUSIC) (individual) [DRCONGO]

MANGALA SUGAR FACTORY, Mangala, Sudan [SUDAN]

MANGWANA, Munyaradzi Paul, Box 360, Kadoma, Zimbabwe; No. 1, 5th Avenue, Westview, Kadoma, Zimbabwe; DOB 10 Aug 1961; Passport AD000459 (Zimbabwe); Minister of State for Anti-Corruption and Anti-Monopolies (individual) [ZIMBABWE]

MANGWENDE, Witness; DOB 15 Aug 1946; Former Minister of Transport and Communications; Deceased (individual) [ZIMBABWE]

MANJARRES FORERO, Baudelino,, c/o CAJA SOLIDARIA, Bogota, Colombia; c/o FOMENTAMOS, Bogota, Colombia; c/o CREDISOL, Bogota, Colombia; DOB 24 May 1949; Cedula No. 19073383 (Colombia); Passport 19073383 (Colombia) (individual) [SDNT]

MANJARREZ GRANDE, Jorge (a.k.a. MANJARRES GRANDE, Jorge), ASESORIAS DE INGENIERIA EMPRESA UNIPERSONAL, Cali, Colombia; c/o SONAR F.M. S.A., Cali, Colombia; c/o RADIO UNIDAS F.M. S.A., Cali, Colombia; INVERSIETE S.A., Cali, Colombia; c/o SERVIFAR S.A., Cali, Colombia; c/o INTERAMERICANA DE CONSTRUCCIONES S.A., Cali, Colombia; c/o GRACADAL S.A., Cali, Colombia; c/o ADMINISTRADORA DE SERVICIOS VARIOS CALIMA S.A., Cali, Colombia; GENERAL DE NEGOCIOS Y ADMINISTRACION LTDA., Cali, Colombia; INVERSIONES Y CONSTRUCCIONES COSMOVALLE LTDA., Cali, Colombia; DOB 5 Jul 1959; Cedula No. 16632969 (Colombia); Passport 16632969 (Colombia) (individual) [SDNT]

MANN, Aung Thet (a.k.a. KO, Shwe Mann Ko); DOB 19 Jun 1977; c/o Ayer Shwe Wah Company Limited; c/o Htoo Group of Companies; c/o Htoo Trading Company Limited (individual) [BURMA]

MANN, Shwe (a.k.a. MANN, Thura Shwe); DOB 11 Jul 1947; citizen Burma; nationality Burma; Joint Chief of Staff; Member, State Peace and Development Council (individual) [BURMA]

MANUFACTURAS REAL S.A. (f.k.a. MANUFACTURAS REAL LTDA.), Avenida 13 Sur No. 24C-73 Barrio Balvanera, Bogota, Colombia; NIT # 800158181-6 (Colombia) [SDNT]

MANYIKA, Elliot, PO Box 300, Bindura, Zimbabwe; DOB 30 Jul 1955; Passport AD000642 (Zimbabwe); Minister Without Portfolio (individual) [ZIMBABWE]

MANYONDA, Kenneth, 6 Speke Avenue, Murambi, Mutare, Zimbabwe; DOB 10 Aug 1934; Central Committee Member (individual) [ZIMBABWE]

MANZPER CORP., Panama [CUBA]

MAPRI DE COLOMBIA LTDA., Calle 12B No. 27-40 Int. 4, Bogota, Colombia; Carrera 129 No. 29-57 Int. 137, Bogota, Colombia; NIT # 830103959-1 (Colombia) [SDNT]

MAQUINARIA TECNICA Y TIERRAS LTDA. (a.k.a. M.T.T. LTDA.), Carrera 4A No. 16-04, Cartago, Colombia; Carrera 42 No. 5B-81, Cali, Colombia; NIT # 800084233-1 (Colombia) [SDNT]

MAR AZUL (vessel) [CUBA]

MAR SEM, Maria Gloria, c/o MC OVERSEAS TRADING COMPANY S.A. DE C.V., Guadalajara, Jalisco, Mexico; DOB 19 Aug 1944; POB Mexico; Passport 97140093454 (Mexico) (individual) [SDNT]

MARC LLC, 9100 South Dadeland Boulevard, Suite 912, Miami, FL 33156; 780 Le Jeune Road, Suite 516, Miami, FL 33126; 780 NW 42nd Avenue, Suite 516, Miami, FL 33126 [SDNT]

MARIELA MONDRAGON DE R. Y CIA. S. EN C., Avenida 4 Norte No. 8N-67, Cali, Colombia; Calle 12 Norte No. 9N-56/58, Cali, Colombia; NIT # 800122032-1 (Colombia) [SDNT]

MARIJANOVIC, Milovan; DOB 14 Mar 1944; POB Kraljevo, Serbia (individual) [BALKANS]

MARIMON SARMIENTO, Nayfe Maria, c/o LITOPHARMA, Barranquilla, Colombia; Calle 6 No. 8-19, Salgar, Puerto Colombia, Colombia; c/o COPSERVIR LTDA., Bogota, Colombia; Cedula No. 22583054 (Colombia) (individual) [SDNT]

MARIN ARANGO, Luciano (a.k.a. “IVAN MARQUEZ”; a.k.a. “IVAN MARQUES”); DOB 16 Jun 1955; POB Florencia, Caqueta, Colombia; Cedula No. 19304877 (Colombia) (individual) [SDNTK]

MARIN ESTRADA Y CIA. S. EN C.S., Calle 44 No. 1E-155, Cali, Colombia; Apartado Aereo 1175, Cali, Colombia; Carrera 8 No. 32-16, Cali, Colombia; Calle 45 No. 1E-86, Cali, Colombia; NIT # 800083114-9 (Colombia) [SDNT]

MARIN GOMEZ, Mallerly Alejandra, c/o LEMOFAR LTDA., Bogota, Colombia; DOB 2 Jul 1982; Cedula No. 52719053 (Colombia); Passport 52719053 (Colombia) (individual) [SDNT]

MARIN TOBON, Bernardo Antonio, Calle 14 No. 18-62, La Union, Valle, Colombia; c/o FUNDACION CENTRO DE INVESTIGACION HORTIFRUTICOLA DE COLOMBIA, La Union, Valle, Colombia; c/o MANUFACTURAS REAL S.A., Bogota, Colombia; Calle 14 No. 18-64, La Union, Valle, Colombia; c/o GRAJALES S.A., La Union, Valle, Colombia; Carrera 16 No. 13-31, La Union, Valle, Colombia; c/o ILOVIN S.A., Bogota, Colombia; c/o DOXA S.A., La Union, Valle, Colombia; c/o ALMACAES S.A., Bogota, Colombia; c/o HOTEL LOS VINEDOS, La Union, Valle, Colombia; Carrera 16 No. 13-29 Piso 2, La Union, Valle, Colombia; c/o TRANSPORTES DEL ESPIRITU SANTO S.A., La Union, Valle, Colombia; DOB 18 Jan 1954; POB La Union, Valle, Colombia; Cedula No. 6355508 (Colombia) (individual) [SDNT]

MARIN ZAMORA, Jaime Alberto (a.k.a. “BETO MARIN”), Carrera 13A No. 1A-139, Armenia, Quindio, Colombia; c/o PLASTEC LTDA., Colombia; Avenida San Martin 4-46, Bocagrande, Cartagena, Colombia; DOB 22 Jul 1964; POB Quimbaya, Quindio, Colombia; citizen Colombia; Cedula No. 7544228 (Colombia); Passport AF595263 (Colombia); alt. Passport AD380146 (Colombia) (individual) [SDNT]

MARIN, Pedro Antonio (a.k.a. MARIN MARIN, Pedro Antonio; a.k.a. “MANUEL MARULANDA”; a.k.a. “MANUEL MARULANDA VELEZ”; a.k.a. “TIROFIJO”); DOB 13 May 1930; POB Genova, Quindio, Colombia; Cedula No. 4870142 (Colombia) (individual) [SDNTK]

MARINE REGISTRATION COMPANY, Panama [CUBA]

MARINIC, Zoran; DOB 6 Jun 1963; POB Busovaca, Bosnia-Herzegovina; ICTY indictee at large (individual) [BALKANS]

MARISCO (OR MARISCOS) DE FARALLON, S.A., Panama [CUBA]

MARKETING ASSOCIATES CORPORATION, Calle 52 E, Campo Alegre, Panama City, Panama [CUBA]

MARKOVIC, Mirjana; DOB 10 Jul 1942; wife of Slobodan Milosevic (individual) [BALKANS]

MARKOVIC, Radovac; DOB 1946; alt. DOB 1947; Ex-FRY Deputy Minister of Interior (individual) [BALKANS]

MARKS, Martin Gregory (a.k.a. “GORDON, Howard A.”); DOB 30 Oct 1958; POB Jamaica; Passport 217720 (Jamaica) (individual) [SDNT]

MARKU, Ton; DOB 13 Jun 1964 (individual) [BALKANS]

MARMOLEJO LOAIZA, Carlos Julio, c/o INVERSIONES AGRICOLAS AVICOLAS Y GANADERAS LA CARMELITA LTDA., Cali, Colombia; c/o COMERCIALIZADORA INTERNACIONAL VALLE DE ORO S.A., Cali, Colombia; c/o INVERSIONES BETANIA LTDA., Cali, Colombia; c/o INDUSTRIA AVICOLA PALMASECA S.A., Cali, Colombia; DOB 3 May 1958; Cedula No. 16601783 (Colombia) (individual) [SDNT]

MARMOLEJO VACA, Hernan Rodrigo, c/o INVERSIONES INVERVALLE S.A., Cali, Colombia; DOB 2 Jul 1948; Cedula No. 14972401 (Colombia) (individual) [SDNT]

MARONDERA MAPLE LEAF FARM, Zimbabwe [ZIMBABWE]

MARQUEZ CANOVAS, Alberto, c/o INMOBILIARIA U.M.V. S.A., Cali, Colombia; c/o SERVICIOS INMOBILIARIOS LTDA., Cali, Colombia; DOB 27 Oct 1951; Cedula No. 14993019 (Colombia) (individual) [SDNT]

MARTAN RODRIGUEZ, Oscar Ignacio, c/o INVERSIONES BRASILAR S.A., Bogota, Colombia; Carrera 33A No. 19-67, Tulua, Valle, Colombia; c/o CORPORACION CLUB DEPORTIVO TULUA, Tulua, Valle, Colombia; c/o AGROPECUARIA LINDARAJA S.A., Cali, Colombia; Calle 27 No. 38A-26, Tulua, Valle, Colombia; DOB 08 Feb 1958; POB Guapi, Cauca, Colombia; citizen Colombia; nationality Colombia; Cedula No. 19365692 (Colombia); Passport AD445570 (Colombia) expires 12 Jun 1992; alt. Passport AJ534873 (Colombia) issued 23 Jun 2005 expires 23 Jun 2015; alt. Passport AF775306 (Colombia) (individual) [SDNT]

MARTIC, Milan; DOB 18 Nov 1954; POB Zagrovic, Croatia; ICTY indictee in custody (individual) [BALKANS]

MARTIN DIAZ, John Edward, c/o AGRO MASCOTAS S.A., Bogota, Colombia; DOB 20 Jun 1974; Cedula No. 79668278 (Colombia); Passport 79668278 (Colombia) (individual) [SDNT]

MARTIN HODWALKER M. & CIA. S. EN C., Via 40 No. 67-42, Barranquilla, Colombia; NIT # 802007314-9 (Colombia) [SDNT]

MARTINEZ CASAS, Carlos Mario, c/o GASOLINERAS SAN FERNANDO S.A. DE C.V., Saucillo, Mexico; Mexico; c/o INDIO VITORIO S. DE P.R. DE R.L. DE C.V., Saucillo, Mexico; DOB 23 Apr 1969; citizen Mexico; nationality Mexico; C.U.R.P. MACC690423HCHRSR08 (Mexico); R.F.C. MACC-690423-D78 (Mexico) (individual) [SDNTK]

MARTINEZ DUARTE, Armando; DOB 12 Aug 1954; nationality Mexico (individual) [SDNTK]

MARTINEZ PLAZA, Omar Axel, c/o MULTISERVICIOS SIGLO, S.A. DE C.V., Tijuana, Baja California, Mexico; DOB 4 Aug 1972; POB Irapuato, Guanajuato, Mexico (individual) [SDNTK]

MARTINEZ VASQUEZ, Beatriz Elena, c/o CAJA SOLIDARIA, Bogota, Colombia; c/o COPSERVIR LTDA., Bogota, Colombia; c/o LITOPHARMA, Barranquilla, Colombia; Cedula No. 22437371 (Colombia) (individual) [SDNT]

MARTINOVIC, Vinko; DOB 21 Sep 1963; POB Mostar, Bosnia-Herzegovina; ICTY indictee (individual) [BALKANS]

MARTYRS FOUNDATION (a.k.a. AL-SHAHID ASSOCIATION FOR MARTYRS AND INTERNEES FAMILIES; a.k.a. AL-SHAHID CORPORATION; a.k.a. BONYAD SHAHID; a.k.a. BONYAD-E SHAHID; a.k.a. BONYAD-E SHAHID VA ISARGARAN; a.k.a. ES-SHAHID; a.k.a. IRANIAN MARTYRS FUND; a.k.a. SHAHID FOUNDATION; a.k.a. SHAHID FOUNDATION OF THE ISLAMIC REVOLUTION), P.O. Box 15815-1394, Tehran 15900, Iran [SDGT]

MARTYRS FOUNDATION IN LEBANON (a.k.a. AL-MUA'ASSAT AL-SHAHID; a.k.a. AL-SHAHID CHARITABLE AND SOCIAL ORGANIZATION; a.k.a. AL-SHAHID FOUNDATION; a.k.a. AL-SHAHID ORGANIZATION; a.k.a. HIZBALLAH MARTYRS FOUNDATION; a.k.a. ISLAMIC REVOLUTION MARTYRS FOUNDATION; a.k.a. LEBANESE MARTYR ASSOCIATION; a.k.a. LEBANESE MARTYR FOUNDATION; a.k.a. MARTYRS INSTITUTE), Biqa' Valley, Lebanon; P.O. Box 110 24, Bir al-Abed, Beirut, Lebanon [SDGT]

MA'RUF, Taha Muhyi-al-Din (a.k.a. MARUF, Taha, Muhyi al-Din); DOB 1924; POB Sulaymaniyah, Iraq; nationality Iraq; Vice President; member of Revolutionary Command Council (individual) [IRAQ2]

MARUMAHOKO, Rueben, 11 Douglas Clark Avenue, The Grange, Harare, Zimbabwe; DOB 4 Apr 1948; Deputy Minister for Home Affairs (individual) [ZIMBABWE]

MARYOL ENTERPRISES INC., c/o EMPRESA DE NAVEGACION MAMBISA, Apartado 543, San Ignacio 104, Havana, Cuba [CUBA]

MARZUKI, Zulkifli (a.k.a. BIN MARZUKI, Zulkifli; a.k.a. BIN ZUKEPLI, Marzuki; a.k.a. MARZUKI, Zulkepli; a.k.a. ZUKIPLI; a.k.a. ZULKIFLI); DOB 3 Jul 1968; POB Malaysia; nationality Malaysia (individual) [SDGT]

MASPIO CEMENT CORPORATION, P.O. Box 96, Atbara, Sudan [SUDAN]

MASTERS INTERNATIONAL LTD., New Boundary House, London Road, Sunningdale, Ascot, Berkshire SL5 0DJ, United Kingdom; Business Registration Document # 2927685 (United Kingdom) [ZIMBABWE]

MASTERS INTERNATIONAL, INC., 1905 S. Florida Avenue, Lakeland, FL 33803; US FEIN 133798020 (United States) [ZIMBABWE]

MASUKU, Angeline; DOB 14 Oct 1936; Matebeleland South Provincial Governor & Politburo Secretary for Gender and Culture (individual) [ZIMBABWE]

MATA MATA, Noel (a.k.a. MATTA MATTA, Noel; a.k.a. “EFRAIN GUZMAN”; a.k.a. “EL CHUCHO”); DOB 31 Jan 1935; alt. DOB 30 Jan 1935; POB Chaparral, Tolima, Colombia; Cedula No. 4870352 (Colombia) (individual) [SDNTK]

MATADERO METROPOLITANO LTDA., Apartado Aereo 3786, Pereira, Colombia; Km. 3 Via Marsella Parque Industrial, Pereira, Colombia; Carrera 10 No. 34-21 Dosq., Pereira, Colombia; NIT # 891412986-8 (Colombia) [SDNT]

MATANGA, Godwin; DOB 5 Feb 1962; Passport ZL042663 (Zimbabwe); Deputy Police Commissioner (individual) [ZIMBABWE]

MATERIAS PRIMAS Y SUMINISTROS S.A. (a.k.a. MATERIAS PRIMAS Y SUMINISTROS LTDA.; a.k.a. MATSUM S.A.), Calle 12B No. 28-58, Bogota, Colombia; Calle 39 Bis A No. 27-16, Bogota, Colombia; Calle 39 Bis A No. 27-20, Bogota, Colombia; NIT # 830031863-3 (Colombia) [SDNT]

MATHEMA, Cain; DOB 28 Jan 1948; Bulawayo Provincial Governor (individual) [ZIMBABWE]

MATHUTHU, Sithokozile; Matabeleland North Provincial Governor & Deputy Secretary for Transport and Social Welfare (individual) [ZIMBABWE]

MATIBIRI, Innocent Tonderai; DOB 9 Oct 1968; Deputy Police Commissioner (individual) [ZIMBABWE]

MATIZA, Biggie Joel; DOB 17 Aug 1960; Passport ZA557399 (Zimbabwe); Deputy Minister of Rural Housing and Social Amenities (individual) [ZIMBABWE]

MATONGA, Bright; DOB circa 1969; Deputy Minister of Information and Publicity (individual) [ZIMBABWE]

MATRIX CHURCHILL CORPORATION, 5903 Harper Road, Cleveland, OH 44139 [IRAQ2]

MATSHALAGA, Obert; DOB 21 Apr 1951; Deputy Minister of Foreign Affairs (individual) [ZIMBABWE]

MATTHEW, Karen, c/o Freight Movers International, Basseterre, Saint Kitts and Nevis; DOB 27 Jan 1964; POB St Vincent & Grenadines (individual) [SDNTK]

MATTHEWS, Glenroy Vingrove (a.k.a. MATHEW, Glenroy; a.k.a. MATTHEW, Glenroy Wingrove; a.k.a. MATTHEWS, Glen Roy), Frigate Bay, Saint Kitts and Nevis; DOB 26 Jul 1958; POB St Kitts and Nevis; Passport 047815 (Saint Kitts and Nevis) (individual) [SDNTK]

MAX (MYANMAR) CONSTRUCTION CO., LTD, 1 Ywama Curve, Bayint Naung Road, Ward (2), Hlaing Township, Yangon, Burma [BURMA] [JADE]

MAX MYANMAR GEMS AND JEWELLERY CO., LTD., 1 Ywama Curve, Bayint Naung Road, Ward (2), Hlaing Township, Yangon, Burma [BURMA] [JADE]

MAX MYANMAR GROUP OF COMPANIES (a.k.a. MAX MYANMAR; a.k.a. MAX MYANMAR CO.; a.k.a. MAX MYANMAR COMPANY LIMITED; a.k.a. MAX MYANMAR GROUP), No. 1 Ywama Curve, Ba Yint Naung Road, Ward (2), Hlaing Township, Yangon, Burma [BURMA] [JADE]

MAX MYANMAR MANUFACTURING CO., LTD., 1 Ywama Curve, Bayint Naung Road, Ward (2), Hlaing Township, Yangon, Burma [BURMA] [JADE]

MAX MYANMAR SERVICES CO., LTD., 1 Ywama Curve, Bayint Naung Road, Ward (2), Hlaing Township, Yangon, Burma [BURMA] [JADE]

MAX MYANMAR TRADING CO., LTD., 1 Ywama Curve, Bayint Naung Road, Ward (2), Hlaing Township, Yangon, Burma [BURMA] [JADE]

MAX SINGAPORE INTERNATIONAL PTE. LTD., 3 Shenton Way, #24-02, Shenton House 068805, Singapore [BURMA] [JADE]

MAXITIENDAS TODO EN UNO, Avenida Guadalupe con Avenida Simon Bolivar, Cali, Colombia [SDNT]

MAY ENGINEERING COMPANY, C/O ENGINEERING EQUIPMENT CORPORATION, P.O. Box 97, Khartoum, Sudan [SUDAN]

MAYOR COMERCIALIZADORA LTDA., Carrera 40 No. 169-30 Barrio Toberin, Bogota, Colombia; NIT # 800088288-4 (Colombia) [SDNT]

MAZANDARAN CEMENT COMPANY, 40 Satari Ave., Afrigha Highway, P.O. Box 19688, Tehran, Iran; Africa Street, Sattari Street No. 40, P.O. Box 121, Tehran 19688, Iran [NPWMD]

MAZANDARAN TEXTILE COMPANY (a.k.a. SHERKATE NASAJI MAZANDARAN), Kendovan Alley 5, Vila Street, Enghelab Ave., P.O. Box 11365-9513, Tehran 11318, Iran; Sari Ave., Ghaemshahr, Iran; 28 Candovan Cooy Enghelab Ave., P.O. Box 11318, Tehran, Iran [NPWMD]

MAZUERO ERAZO, Hugo, c/o INVERSIONES SANTA LTDA., Cali, Colombia; c/o GRUPO SANTA LTDA., Cali, Colombia; c/o SOCIEDAD CONSTRUCTORA LA CASCADA S.A., Cali, Colombia; DOB 17 Jul 1936; alt. DOB 1945; alt. DOB 14 Jul 1936; Cedula No. 2445590 (Colombia) (individual) [SDNT]

MBARUSHIMANA, Callixte, Paris, France; Thiais, France; DOB 24 Jul 1963; POB Ndusu/Ruhengeri, Northern Province, Rwanda; alt. POB Ruhengeri Province, Rwanda; citizen Rwanda; FDLR Executive Secretary (individual) [DRCONGO]

MC OVERSEAS TRADING COMPANY SA DE CV, Justo Sierra 1963, Guadalajara, Jalisco, Mexico [SDNT]

MEADOWBROOK INVESTMENTS LIMITED, 44 Upper Belgrave Road, Clifton, Bristol BS8 2XN, United Kingdom; Registered Charity No. 05059698 (United Kingdom) [SDGT]

MEDIA MARKETING E.U., Avenida 4N No. 6-67 of. 610, Cali, Colombia; NIT # 805019234-0 (Colombia) [SDNT]

MEDINA CASTILLO, Sandro, c/o LITOPHARMA, Barranquilla, Colombia; c/o SU SERVICIO SOCIEDAD LTDA., Bogota, Colombia; Cedula No. 8538055 (Colombia) (individual) [SDNT]

MEDINA FAJARDO, Yovany (a.k.a. MEDINA FAJARDO, Yovani), c/o CODISA, Bogota, Colombia; c/o FARMACOOP, Bogota, Colombia; DOB 21 Nov 1969; Cedula No. 11317493 (Colombia); Passport 11317493 (Colombia) (individual) [SDNT]

MEDINA, Ana Maria (a.k.a. MEDINA, Anita), Panama (individual) [CUBA]

MEED INTERNATIONAL LIMITED, 3 Mandeville Place, London, United Kingdom [IRAQ2]

MEFLA MOSQUERA, Aristides, c/o FARMALIDER S.A., Cali, Colombia; Cedula No. 6039981 (Colombia) (individual) [SDNT]

MEGA DOLAR, S.A. DE C.V. (a.k.a. MEGA DOLAR MULTISERVICIOS), Local C-25 Plaza Rio, Colonia Zona Rio, Tijuana, Baja California, Mexico; Av. Via Rapida 25-E, Colonia Zona Rio, Tijuana, Baja California, Mexico; R.F.C. MDO-940316-RTA (Mexico) [SDNTK]

MEGAPHARMA LTDA. (a.k.a. COMERCOOP; a.k.a. COOPERATIVA HUILENSE DE COMERCIALIZACION COMERCOOP LTDA.; a.k.a. COOPERATIVA MULTIACTIVA DE DISTRIBUCION MEGAPHARMA LTDA.), Calle 15 No. 31-99 Bodega 5 Parque Industrial Acerosa, Yumbo, Colombia; Carrera 26 No. 62-42, Bogota, Colombia; Diag. 57A No. 24-84, Bogota, Colombia; NIT # 813002466-7 (Colombia) [SDNT]

MEGAPLAST S.A., Calle 0 No. 2-276, Palmira, Valle, Colombia; NIT # 815002727-1 (Colombia) [SDNT]

MEHR CAYMAN LTD., Walker House, 87 Mary Street, George Town, Grand Cayman KY1-9002, Cayman Islands [NPWMD]

MEJAKIC, Zeljko; DOB 2 Aug 1964; POB Petrov Gaj, Bosnia-Herzegovina; ICTY indictee at large (individual) [BALKANS]

MEJIA MAGNANI, John Yvan (a.k.a. MEJIA MAGNANI, Jhon; a.k.a. MEJIA MAGNANI, John Ivan), La Ladera MZ. J LT. 14, Las Vinas, Lima, Peru; c/o AERO CONTINENTE S.A., Lima, Peru; c/o CONTINENTE MOVIL Y SERVICIOS S.R.L., Callao, Peru; c/o SISTEMA DE DISTRIBUCION MUNDIAL S.A.C., Lima, Peru; DOB 20 Apr 1966; LE Number 07541863 (Peru) (individual) [SDNTK]

MEJIA MUNERA, Miguel Angel Melchor (a.k.a. MEJIA MUNERA, Miguel Angel; a.k.a. “COMANDANTE PABLO”; a.k.a. “LOS MELLIZOS”; a.k.a. “PABLO MEJIA”), Calle 9F No. 24-98, Cali, Colombia; c/o CIA COMERCIALIZADORA DE BIENES RAICES LTDA., Cali, Colombia; DOB 11 Jul 1959; POB Cali, Colombia; citizen Colombia; nationality Colombia; Cedula No. 16627309 (Colombia); Passport AC744430 (Colombia) (individual) [SDNT]

MEJIA MUNERA, Victor Manuel (a.k.a. “DON SEBASTIAN”; a.k.a. “LOS MELLIZOS”; a.k.a. “PABLO ARAUCA”), Colombia; DOB 11 Jul 1959; POB Cali, Colombia; citizen Colombia; nationality Colombia; Cedula No. 16627308 (Colombia); Passport AE313327 (Colombia) (individual) [SDNT]

MEJIA REGALADO, Jose Manuel, Agrp. Block K Dpto 200, Lima, Peru; DOB 18 May 1948; LE Number 07609623 (Peru) (individual) [SDNTK]

MELFI MARINE CORPORATION S.A. (a.k.a. MELFI MARINE S.A.), Anillo del Puerto e/Pote y Linea del Ferrocarril, La Habana Vieja, Habana, Cuba; Oficina 7, Edificio Senorial, Calle 50 Apartado 31, Panama City 5, Panama; Calle Oficios No. 410 e/Luz y Acosta, La Habana Vieja, Habana, Cuba; Oficios 104 Havana Vieja, Havana, Cuba [CUBA]

MELGOZA TORRES, Martin, c/o FARMACIA VIDA SUPREMA, S.A. DE C.V., Boulevard Agua Caliente 1381, Revolucion, Tijuana, Baja California Norte 22400, Mexico; Paseo Coronado No. 964, Fraccionamiento El Mirador, Tijuana, Baja California, Mexico; DOB 11 Nov 1946; POB Villa de Alvarez, Colima, Mexico; Credencial electoral 073855815496 (Mexico); R.F.C. METM-46111-BF4 (Mexico) (individual) [SDNTK]

MELLAT BANK SB CJSC (a.k.a. “MELLAT BANK DB AOZT”), P.O. Box 24, Yerevan 0010, Armenia [NPWMD]

MELLI AGROCHEMICAL COMPANY PJS (a.k.a. SHERKAT MELLI SHIMI KESHAVARZ), Mola Sadra Street, 215 Khordad, Sadr Alley No. 13, Vanak Sq., P.O. Box 15875-1734, Tehran, Iran [NPWMD]

MELLI BANK PLC, 1 London Wall, London EC2Y 5EA, United Kingdom [NPWMD]

MELLI INVESTMENT HOLDING INTERNATIONAL (a.k.a. MEHR), 514, Business Avenue Building, Deira, P.O. Box 181878, Dubai, United Arab Emirates; Registration Certificate Number (Dubai) 0107 issued 30 Nov 2005 [NPWMD]

MELON LTDA., Unicentro Casa Grajales, Cali, Colombia; NIT # 805000581-8 (Colombia) [SDNT]

MENDEZ DIAZ, Marlen, c/o COOPDISAN, Bucaramanga, Colombia; c/o DROGAS LA REBAJA BUCARAMANGA S.A., Bucaramanga, Colombia; Cedula No. 37813841 (Colombia); Passport 37813841 (Colombia) (individual) [SDNT]

MENDEZ SALAZAR, John Jairo, c/o MAQUINARIA TECNICA Y TIERRAS LTDA., Cali, Colombia; Carrera 42 No. 5B-81, Cali, Colombia; Calle 1 No. 56-109 Casa 32, Cali, Colombia; Cedula No. 98515360 (Colombia); Passport 98515360 (Colombia) (individual) [SDNT]

MENDOZA RODRIGUEZ, Ana Janeth, c/o CREDISOL, Bogota, Colombia; c/o ADMACOOP, Bogota, Colombia; DOB 6 Jul 1963; Cedula No. 51721267 (Colombia); Passport 51721267 (Colombia) (individual) [SDNT]

MENDOZA ROJAS, Monica Jazmin, c/o COOPDISAN, Bucaramanga, Colombia; c/o COPSERVIR LTDA., Bogota, Colombia; c/o SEGECOL LTDA., Bucaramanga, Colombia; Cedula No. 37728726 (Colombia) (individual) [SDNT]

MERCADO DE LA HOZ, Manuel Enrique, c/o COPSERVIR LTDA., Bogota, Colombia; Cedula No. 72134380 (Colombia) (individual) [SDNT]

MERCAVICOLA LTDA., Calle 34 No. 5A-25, Cali, Colombia; Calle 47AN, Cali, Colombia; NIT # 800086338-5 (Colombia) [SDNT]

MERCURIO INTERNACIONAL S.A., Carrera 15 No. 93-60 Local 205, Bogota, Colombia; Transversal 71D No. 26-94 Sur, Local 3504, Bogota, Colombia; Carrera 1 No. 61A-30, Locales 80 y 81, Cali, Colombia; Carrera 54 No. 72-147, Local 144, Barranquilla, Colombia; Avenida Carrera 15 No. 100-69, Oficina 303, Bogota, Colombia; Carrera 43A No. 34-95, Local 253, Medellin, Colombia; Calle 5 No. 50-103, Local C108, Cali, Colombia; Calle 19 No. 6-48, Oficinas 403 y 404, Pereira, Colombia; Carrera 14 No. 18-56, Locales 34 y 35, Piso 3, Armenia, Colombia; NIT # 830063708-7 (Colombia) [SDNTK]

MERCURIUS IMPORT/EXPORT COMPANY, PANAMA, S.A., Calle C, Edificio 18, Box 4048, Colon Free Zone, Panama [CUBA]

MESBAH ENERGY COMPANY (a.k.a. “MEC”), 77 Armaghan Gharbi Street, Valiasr Blve, Tehran, Iran [NPWMD]

MEXGLOBO, S.A. DE C.V., Boulevard Agua Caliente No. 148, Col. Revolucion, Tijuana, Baja California 22015, Mexico; R.F.C. MEX9909034Y0 (Mexico) [SDNTK]

MEZA CAZARES, Arturo (a.k.a. MEZA CAZAREZ, Arturo; a.k.a. MEZA GASTELLUM, Arturo; a.k.a. MEZA, JR., Arturo), Calle Benito Juarez No. 636, Oriente, Colonia Centro, Culiacan, Sinaloa, Mexico; Avenida Rodolfo G. Robles No. 153 Sur, Colonia Almada, Culiacan, Sinaloa, Mexico; Calle G. Robles No. 153, Colonia Almada Sur, Culiacan, Sinaloa, Mexico; c/o COMERCIAL DOMELY, S.A. DE C.V., Culiacan, Sinaloa, Mexico; c/o SISTEMA DE RADIO DE SINALOA, S.A. DE C.V., Culiacan, Sinaloa, Mexico; Avenida Ignacio Aldama #257, Colonia Centro, Culiacan, Sinaloa, Mexico; Avenida Rodolfo Robles 153 Sur, Colonia Jorge Almada, Culiacan, Sinaloa, Mexico; c/o CONSORCIO INMOBILIARIO DEL VALLE DE CULIACAN, S.A. DE C.V., Culiacan, Sinaloa, Mexico; Avenida Ignacio Aldama No. 257 Norte, Culiacan, Sinaloa, Mexico; Predio de San Rafael, Sindicatura de Costa Rica, Culiacan, Sinaloa, Mexico; DOB 6 Mar 1976; alt. DOB 29 Mar 1976; POB Culiacan, Sinaloa, Mexico; citizen Mexico; nationality Mexico; Identification Number B9457110 (United States); R.F.C. MECA760306V70 (Mexico); alt. R.F.C. MECA760329 (Mexico) (individual) [SDNTK]

MEZA CAZARES, Gipsy (a.k.a. MEZA CAZAREZ, Gipsy; a.k.a. MEZA CAZAREZ, Gipzy; a.k.a. MEZA GASTELLUM, Gipsy), No. 626 Calle Benito Juarez, Culiacan, Sinaloa, Mexico; c/o CONSORCIO INMOBILIARIO DEL VALLE DE CULIACAN, S.A. DE C.V., Culiacan, Sinaloa, Mexico; Mariano Escobedo No. 366-102, Colonia Centro, Culiacan, Sinaloa, Mexico; Calle G. Robles No. 153, Colonia Almada Sur, Culiacan, Sinaloa, Mexico; c/o SISTEMA DE RADIO DE SINALOA, S.A. DE C.V., Culiacan, Sinaloa, Mexico; c/o COMERCIAL JOANA, S.A. DE C.V., Guadalajara, Jalisco, Mexico; DOB 24 Sep 1973; alt. DOB 24 Sep 1972; POB Culiacan, Sinaloa, Mexico; citizen Mexico; nationality Mexico; R.F.C. MECG730924N73 (Mexico); alt. R.F.C. MECG720924N75 (Mexico) (individual) [SDNTK]

MEZA CAZARES, Lizbeth (a.k.a. MEZA CAZAREZ, Lizbeth; a.k.a. MEZA GASTELLUM, Lizbeth), Calle G. Robles No. 153, Colonia Almada Sur, Culiacan, Sinaloa, Mexico; Avenida Rodolfo G. Robles No. 153 Sur, Colonia Almada, Culiacan, Sinaloa, Mexico; Avenida Rodolfo Robles 153 Sur, Colonia Jorge Almada, Culiacan, Sinaloa, Mexico; Cll Villa Santander 2834, Villas del Rio Culiacan Villas del Rio Villa Vizcaya, Culiacan Rosales, Culiacan, Sinaloa, Mexico; c/o CONSORCIO INMOBILIARIO DEL VALLE DE CULIACAN, S.A. DE C.V., Culiacan, Sinaloa, Mexico; Calle Juan de Dios Batiz No. 139, Culiacan, Sinaloa, Mexico; No. 154 Avenida Teofilo Noris, Colonia Almada, Culiacan, Sinaloa, Mexico; c/o SISTEMA DE RADIO DE SINALOA, S.A. DE C.V., Culiacan, Sinaloa, Mexico; DOB 5 Jan 1981; alt. DOB 15 Jan 1981; POB Culiacan, Sinaloa, Mexico; citizen Mexico; nationality Mexico; R.F.C. MECL810115 (Mexico) (individual) [SDNTK]

MEZA GASPAR, Arturo (a.k.a. MEZA, Arturo), c/o SIN-MEX IMPORTADORA, S.A. DE C.V., Mexico, Distrito Federal, Mexico; c/o SISTEMA DE RADIO DE SINALOA, S.A. DE C.V., Culiacan, Sinaloa, Mexico; c/o CONSORCIO INMOBILIARIO DEL VALLE DE CULIACAN, S.A. DE C.V., Culiacan, Sinaloa, Mexico; Predio de San Rafael, Sindicatura de Costa Rica, Culiacan, Sinaloa, Mexico; Avenida Rodolfo G. Robles No. 153, Sur, Colonia Aldama, Culiacan, Sinaloa, Mexico; Calle Juan de Dios Batiz No. 139, Culiacan, Sinaloa, Mexico; c/o OPERADORA INTEGRAL DE COMERCIO, S.A. DE C.V., Tijuana, Baja California, Mexico; Avenida Ignacio Aldama No. 257 Norte, Culiacan, Sinaloa, Mexico; c/o TOYS FACTORY, S.A. DE C.V., Tijuana, Baja California, Mexico; Calle Mariano Escobedo No. 366, #102, Culiacan, Sinaloa, Mexico; DOB 4 Jul 1946; POB Jacola, Culiacan, Sinaloa, Mexico; citizen Mexico; nationality Mexico; Electoral Registry No. MZGSAR46070425H400 (Mexico); R.F.C. MEGA460704 (Mexico) (individual) [SDNTK]

MICHIELSEN, Tom (a.k.a. MICHIELSEN, Tom R.D.), Belgium; DOB 22 Dec 1975; POB Kapellen, Belgium; citizen Belgium; Identification Number 1041 002019 56 (Belgium); Passport FF615720 (Belgium) (individual) [SDNTK]

MIDCO FINANCE S.A. (a.k.a. MIDCO FINANCIAL S.A.; a.k.a. MONTANA MANAGEMENT INC.), Panama; 57 Rue du Rhone, CH-1204 Geneva, Switzerland; US FEIN CH-660-0-469-982-0 (United States); Switzerland [IRAQ2]

MIDZI, Amos Bernard Muvenga; DOB 4 July 1952; Minister of Mines and Mining Development (individual) [ZIMBABWE]

MIJARES TRANCOSO, Gilberto, c/o ADP, S.C., Tijuana, Baja California, Mexico; P.O. Box 43440, San Ysidro, California 92173; c/o Distribuidora Imperial De Baja California, S.A. de C.V., Tijuana, Baja California, Mexico; Calle Luis Echeverria 6329-B, Infonavit Presidentes, Tijuana, Baja California, Mexico; DOB 4 Feb 1951; POB Vicente Guerrero, Durango; Driver's License No. 210082884 (Mexico); Passport ASDI1418 (Mexico) (individual) [SDNTK]

MIKLASHEVICH, Petr Petrovich (a.k.a. MIKLASHEVICH, Piotr Piatrovich); DOB 1954; POB Kosuta, Minsk district, Belarus; citizen Belarus; nationality Belarus; Prosecutor General (individual) [BELARUS]

MILITARY COMMERCIAL CORPORATION, P.O. Box 221, Khartoum, Sudan [SUDAN]

MILLAN BONILLA, German, c/o CONSTRUVIDA S.A., Cali, Colombia; DOB 1 Feb 1952; Cedula No. 14995885 (Colombia) (individual) [SDNT]

MILLAN SALAS, Jaime, c/o VALORCORP S.A., Bogota, Colombia; c/o ALERO S.A., Cali, Colombia; Cedula No. 16589582 (Colombia) (individual) [SDNT]

MILOSEVIC, Borislav; DOB 1936; brother of Slobodan Milosevic (individual) [BALKANS]

MILOSEVIC, Dragomir; DOB 4 Feb 1942; POB Murgas, Bosnia-Herzegovina; ICTY indictee (individual) [BALKANS]

MILOSEVIC, Marija; DOB 1965; daughter of Slobodan Milosevic (individual) [BALKANS]

MILOSEVIC, Marko; DOB 2 Jul 1974; son of Slobodan Milosevic (individual) [BALKANS]

MILOSEVIC, Milanka; sister-in-law of Slobodan Milosevic (individual) [BALKANS]

MILOSEVIC, Slobodan; DOB 20 Aug 1941; POB Pozarevac, Serbia and Montenegro; ex-FRY President; ICTY indictee in custody (individual) [BALKANS]

MILUTINOVIC, Milan; DOB 19 Dec 1942; POB Belgrade, Serbia and Montenegro; ex-President of Republika Srpska; ICTY indictee in custody (individual) [BALKANS]

MIN, Zaw, Burma; DOB 10 Jan 1949; citizen Burma; nationality Burma; Colonel, Minister of Electric Power 1 (individual) [BURMA]

MINERA LA CASTELLANA Y ANEXAS S.A. DE C.V., Culiacan, Sinaloa, Mexico; R.F.C. MCA9011192R3 (Mexico) [SDNTK]

MINERA RIO PRESIDIO S.A. DE C.V., Culiacan, Sinaloa, Mexico [SDNTK]

MINERALS MARKETING CORPORATION OF ZIMBABWE (a.k.a. MMCZ), P.O. Box 2628, Harare, Zimbabwe; 90 Mutare Road, Harare, Zimbabwe; Phone No. 263-4-486946; Fax No. 263-4-487261 [ZIMBABWE]

MININ, Leonid (a.k.a. BLAVSTEIN; a.k.a. BLUVSHTEIN; a.k.a. BLYAFSHTEIN; a.k.a. BLYUFSHTEIN; a.k.a. BLYUVSHTEIN; a.k.a. BRESLAN, Wolf; a.k.a. BRESLAN, Wulf; a.k.a. KERLER, Vladimir Abramovich; a.k.a. OSOLS, Igor; a.k.a. POPELA, Vladimir Abramovich; a.k.a. POPELAVESKI, Vladimir Abramovich; a.k.a. POPELO, Vladimir Abramovich; a.k.a. POPELOVESKI, Vladimir Abramovich; a.k.a. POPILOVESKI, Vladimir Abramovich); DOB 14 Dec 1947; alt. DOB 18 Oct 1946; nationality Ukraine; Passport 9001689 (Israel) issued 23 Jan 1997 expires 22 Jan 1999; alt. Passport 5280007248D (Germany); alt. Passport 6019832 (Israel) issued 6 Nov 1994 expires 5 Nov 1999; alt. Passport KI0861177 (Russia); alt. Passport 65118 (Bolivia); alt. Passport 90109052 (Israel) issued 26 Nov 1997; alt. Passport 18106739D (Germany); Owner, Exotic Tropical Timber Enterprise (individual) [LIBERIA]

MINISTRY OF DEFENSE FOR ARMED FORCES LOGISTICS (a.k.a. MINISTRY OF DEFENSE AND SUPPORT FOR ARMED FORCES LOGISTICS; a.k.a. MODAFL; a.k.a. MODSAF), located on the west side of Dabestan Street, Abbas Abad District, Tehran, Iran [NPWMD]

MIR DAMAD; Vessel Registration Identification IMO 9148491 (vessel) [NPWMD]

MIR EMAD; Vessel Registration Identification IMO 9148518 (vessel) [NPWMD]

MIRA E.U., Avenida 8 Norte No. 10-91 Ofc. 301, Cali, Colombia; NIT # 805009267-0 (Colombia) [SDNT]

MIRA VALENCIA, Adriana Patricia, Avenida Piedra Grande, Casa 45, Cali, Colombia; c/o UNIDAS S.A., Cali, Colombia; Carrera 4 No. 11-45 Ofc. 503, Cali, Colombia; c/o MIRA E.U., Cali, Colombia; c/o CONSTRUCCIONES PROGRESO DEL PUERTO S.A., Puerto Tejada, Colombia; DOB 07 May 1970; POB Cali, Valle, Colombia; Cedula No. 66810589 (Colombia); Passport 66810589 (Colombia) (individual) [SDNT]

MIRACANA INMOBILIARIA QUILICHAO S.A. & CIA S.C.A., Avenida 4N No. 6N-61, Ofc. 510, Cali, Colombia; NIT # 805017200-1 (Colombia) [SDNT]

MIRALUNA LTDA. (f.k.a. EL PASO LTDA.), Carrera 4 No. 12-41 of. 1403, 1501, Cali, Colombia; NIT # 890328836-9 (Colombia) [SDNT]

MIRCHI, Iqbal (a.k.a. MAMEN, Mohamed Iqbal; a.k.a. MEMON, Iqbal Mohammed; a.k.a. MERCHANT, Iqbal); DOB 25 Apr 1950; alt. DOB 13 Feb 1959; alt. DOB 12 Aug 1959; POB Bombay, India; Passport H-825326 (United Arab Emirates); alt. Passport C-602033 (India); alt. Passport G-679302 (United Arab Emirates) (individual) [SDNTK]

MIRZA KOCHEK KHAN; Vessel Registration Identification IMO 7027899 (vessel) [NPWMD]

MISHAAL, Khalid, Damascus, Syria; DOB 1956; POB Silwad, Ramallah, West Bank (Palestinian Authority) (individual) [SDGT]

MIZAN MACHINE MANUFACTURING GROUP (a.k.a. 3MG), P.O. Box 16595-365, Tehran, Iran [NPWMD]

MLA INVESTMENTS INC., Virgin Islands, British; C.R. No. IBC 525487 (Virgin Islands, British) [SDNT]

MLADIC, Ratko; DOB 12 Mar 1943; POB Bozinovici, Bosnia-Herzegovina; ICTY indictee at large (individual) [BALKANS]

MNANGAGWA, Emmerson Dambudzo; DOB 15 Sep 1946; Passport AD00060 (Zimbabwe); Minister of Rural Housing and Social Amenities (individual) [ZIMBABWE]

MNASRI, Fethi Ben Rebai Ben Absha (a.k.a. FETHI, Alic; a.k.a. “ABU OMAR”; a.k.a. “AMOR”), Via Toscana n.46, Bologna, Italy; Via di Saliceto n.51/9, Bologna, Italy; DOB 6 Mar 1969; POB Baja, Tunisia; Passport L497470 issued 3 Jun 1997 expires 2 Jun 2002 (individual) [SDGT]

MOA NICKEL SA, Cuba [CUBA]

MODERN ELECTRONIC COMPANY, Khartoum, Sudan [SUDAN]

MODERN LAUNDRY BLUE FACTORY (a.k.a. THE MODERN LAUNDRY BLUE FACTORY), P.O. Box 2241, Khartoum, Sudan [SUDAN]

MODERN PLASTIC & CERAMICS INDUSTRIES COMPANY, Khartoum, Sudan [SUDAN]

MODULO DE CAMBIOS (a.k.a. MODULO DE CAMBIO; a.k.a. MODULO DE CAMBIO-MULTISERVICIO; a.k.a. MODULOS DE CAMBIO), Calle 2 y Moderno, Zona Centro, Tijuana, Baja California, Mexico; Benito Juarez 8290, C.P. 22000, Tijuana, Baja California, Mexico [SDNTK]

MOGOLLON RUEDA, Eduardo, c/o INVERSIONES RODRIGUEZ MORENO Y CIA. S. EN C., Cali, Colombia; c/o DISTRIBUIDORA DE DROGAS CONDOR LTDA., Bogota, Colombia; c/o ALFA PHARMA S.A., Bogota, Colombia; c/o DEPOSITO POPULAR DE DROGAS S.A., Cali, Colombia; DOB 5 Feb 1953; Cedula No. 19194691 (Colombia) (individual) [SDNT]

MOHADI, Kembo Campbell Dugishi; DOB 15 Nov 1949; Minister of Home Affairs (individual) [ZIMBABWE]

MOHAMED, Abdul Kader Ibrahim, Jianguomenwai Diplomatic Housing Compound, Building 7-1, 5th Floor, Apartment 4, Beijing, China (individual) [IRAQ2]

MOHAMED, Daki, Via Melato 11, Reggio Emilia, Italy; DOB 29 Mar 1965; POB Casablanca, Morocco; nationality Morocco; arrested 4 Apr 2003 (individual) [SDGT]

MOHAMMAD, Haji Baz (a.k.a. MOHAMMAD, Baz); DOB 1958; POB Kandahar, Afghanistan; nationality Afghanistan (individual) [SDNTK]

MOHAMMADHASNI, Haji Asad Khan Zarkari (a.k.a. ASAD, Haji; a.k.a. KHAN, Asad; a.k.a. KHAN, Haji Asad; a.k.a. KHAN, Mohammed; a.k.a. MOHADMMADHASNI, Asad Khan; a.k.a. MOHAMMADHASNI, Haji Asad Khan; a.k.a. MOHMMADHASNI, Asad Khan; a.k.a. MUHAMMADHASNI, Asad Khan; a.k.a. ZARKARI, Asad Khan; a.k.a. “HAJI ABDULLAH”), Kabul, Afghanistan; Nimroz, Afghanistan; Karachi, Pakistan; Balochistan, Pakistan; Dubai, United Arab Emirates; Basalani, Afghanistan; DOB 01 Jan 1955; POB Nimroz, Afghanistan; citizen Afghanistan; Passport OR1126692 (Afghanistan) (individual) [SDNTK]

MOHAMMED, Fazul Abdullah (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Feb 1974; alt. DOB 25 Dec 1974; POB Moroni, Comoros Islands; citizen Comoros; alt. citizen Kenya (individual) [SDGT]

MOHAMMED, Khalid Shaikh (a.k.a. ALI, Salem; a.k.a. BIN KHALID, Fahd Bin Adballah; a.k.a. HENIN, Ashraf Refaat Nabith; a.k.a. WADOOD, Khalid Adbul); DOB 14 Apr 1965; alt. DOB 1 Mar 1964; POB Kuwait; citizen Kuwait (individual) [SDGT]

MOISES SAIEH Y CIA. S.C.A., Carrera 74 No. 76—150, Barranquilla, Atlantico, Colombia; NIT # 890114338-3 (Colombia) [SDNT]

MOLDTRANSAVIA SRL, Aeroport, Chisinau MD-2026, Moldova [LIBERIA]

MOLDURAS DEL NOROESTE S.A. DE C.V., Blvd. Francisco Eusebio Kino 177-7, Col. 5 de Mayo, Hermosillo, Sonora 83010, Mexico; R.F.C. MNO960403HJ0 (Mexico) [SDNTK]

MOLINA CARACAS, Tomas (a.k.a. CASTILLO CORTES, Miguel Angel; a.k.a. MEDINA CARACAS, Tomas; a.k.a. “ARTURO GUEVARA”; a.k.a. “EL PATRON'”; a.k.a. “JORGE MEDINA”; a.k.a. “NEGRO ACACIO”); DOB 15 Mar 1965; POB Lopez De Micay, Cauca, Colombia (individual) [SDNTK]

MOLINA GONZALEZ, Jose Epinemio (a.k.a. MOLINA GONZALEZ, Jose Epimenio; a.k.a. “DANILO GARCIA”); DOB 18 Nov 1957; POB Icononzo, Tolima, Colombia; citizen Colombia; nationality Colombia; Cedula No. T.I. 57111-01681 (Colombia) (individual) [SDNTK]

MOLINA MOLINA, Jesus Dagoberto, c/o TRANSPORTES MICHAEL LTDA., Barranquilla, Colombia; c/o COOPERATIVA DE SERVICIO DE TRANSPORTE DE CARGA MULTIMODAL, Barranquilla, Colombia; POB Colombia; Cedula No. 8233532 (Colombia) (individual) [SDNT]

MOLINA QUINTAN, Leticia, c/o DISFOGEN LTDA., Bogota, Colombia; Cedula No. 24718126 (Colombia) (individual) [SDNT]

MOMBESHORA, Swithun; DOB 20 Aug 1945; Former Minister of Higher Education; Deceased (individual) [ZIMBABWE]

MONDRAGON AVILA, Alicia, c/o INVERSIONES Y DISTRIBUCIONES A M M LTDA., Cali, Colombia; c/o INVERSIONES Y CONSTRUCCIONES COSMOVALLE LTDA., Cali, Colombia; c/o ALERO S.A., Cali, Colombia; c/o INVERSIETE S.A., Cali, Colombia; DOB 26 Oct 1936; Cedula No. 29086016 (Colombia) (individual) [SDNT]

MONDRAGON DE RODRIGUEZ, Mariela, c/o CORPORACION DEPORTIVA AMERICA, Cali, Colombia; c/o MARIELA MONDRAGON DE R. Y CIA. S. EN C., Cali, Colombia; c/o LABORATORIOS KRESSFOR DE COLOMBIA S.A., Bogota, Colombia; c/o COMPAX LTDA., Cali, Colombia; c/o CREDIREBAJA S.A., Cali, Colombia; c/o INVERSIONES Y DISTRIBUCIONES A M M LTDA., Cali, Colombia; c/o MARIELA DE RODRIGUEZ Y CIA. S. EN C., Cali, Colombia; c/o INVERSIONES Y CONSTRUCCIONES COSMOVALLE LTDA., Cali, Colombia; c/o INVERSIONES MONDRAGON Y CIA. S.C.S., Cali, Colombia; DOB 12 Apr 1935; Cedula No. 29072613 (Colombia); Passport 4436059 (Colombia) (individual) [SDNT]

MONET TRADING COMPANY, Panama [CUBA]

MONROY ARCILA, Francisco Jose, c/o COMPANIA ADMINISTRADORA DE VIVIENDA S.A., Cali, Colombia; c/o INVERSIONES EL PENON S.A., Cali, Colombia; c/o CONSTRUCTORA DIMISA LTDA., Cali, Colombia; c/o INVERSIONES GEMINIS S.A., Cali, Colombia; DOB 2 Aug 1942; Cedula No. 79153691 (Colombia) (individual) [SDNT]

MONSALVE HERNANDEZ, Laris, c/o COMERCIALIZADORA DE PRODUCTOS FARMACEUTICOS LTDA., Ibague, Colombia; c/o MATERIAS PRIMAS Y SUMINISTROS S.A., Bogota, Colombia; DOB 10 Apr 1953; Cedula No. 41590169 (Colombia); Passport 41590169 (Colombia) (individual) [SDNT]

MONSALVO RUIZ, Elkin Miguel, c/o CAJA SOLIDARIA, Bogota, Colombia; c/o LITOPHARMA, Barranquilla, Colombia; c/o COPSERVIR LTDA., Bogota, Colombia; Calle 35B No. 17-143, Barranquilla, Colombia; Cedula No. 72186915 (Colombia) (individual) [SDNT]

MONTALVO GUZMAN, Luis Federico, c/o COPSERVIR LTDA., Bogota, Colombia; Cedula No. 14953049 (Colombia) (individual) [SDNT]

MONTANEZ, Michael, Panama (individual) [CUBA]

MONTANO ALVAREZ, Luis Hernando, Carrera 16A No. 33D-20, Cali, Colombia; c/o GRANJA LA SIERRA LTDA., Cali, Colombia; Cedula No. 16671124 (Colombia); Passport 16671124 (Colombia) (individual) [SDNT]

MONTANO BERMUDEZ, Libardo, c/o LABORATORIOS GENERICOS VETERINARIOS, Bogota, Colombia; DOB 4 Jul 1942; Cedula No. 17083296 (Colombia) (individual) [SDNT]

MONTANO PACHON, Marlen, c/o COOPERATIVA DE TRABAJO ASOCIADO ACTIVAR, Bogota, Colombia; c/o COOPCREAR, Bogota, Colombia; c/o COOPERATIVA MULTIACTIVA DE COLOMBIA FOMENTAMOS, Bogota, Colombia; Cedula No. 52492258 (Colombia) (individual) [SDNT]

MONTERO MARTINEZ, Rafael Antonio, c/o COPSERVIR LTDA., Bogota, Colombia; c/o SU SERVICIO SOCIEDAD LTDA., Barranquilla, Colombia; c/o CAJA SOLIDARIA, Bogota, Colombia; Cedula No. 8778405 (Colombia) (individual) [SDNT]

MONTES OCAMPO, Jose Alberto, c/o AGRICOLA DOIMA DEL NORTE DEL VALLE LTDA., Cartago, Valle, Colombia; c/o GANADERIA EL VERGEL LTDA., Cartago, Valle, Colombia; c/o GANADERIAS BILBAO LTDA., Cartago, Valle, Colombia; Carrera 4 No. 12-20 of. 206, Cartago, Valle, Colombia; DOB 24 Feb 1965; Cedula No. 79339330 (Colombia); Passport 79339330 (Colombia) (individual) [SDNT]

MONTOYA LUNA E HIJOS Y CIA. S.C.S., Carrera 85B No. 13A-136, Cali, Colombia; NIT # 800077316-5 (Colombia) [SDNT]

MONTOYA MARTINEZ, Juan Carlos, c/o AGROPECUARIA BETANIA LTDA., Cali, Colombia; c/o INVERSIONES VILLA PAZ S.A., Cali, Colombia; c/o INDUSTRIA AVICOLA PALMASECA S.A., Cali, Colombia; c/o AGROPECUARIA LA ROBLEDA S.A., Cali, Colombia; DOB 11 Oct 1966; Cedula No. 16801475 (Colombia) (individual) [SDNT]

MONTOYA SANCHEZ, Diego Leon, c/o MONTOYA LUNA E HIJOS Y CIA. S.C.S., Cali, Colombia; c/o INVERSIONES LA QUINTA Y CIA. LTDA., Cali, Colombia; Diagonal 27 No. 27-104, Cali, Colombia; c/o LADRILLERA LA CANDELARIA LTDA., Cali, Colombia; DOB 11 Jan 1958; POB Trujillo, Valle, Colombia; Cedula No. 16348515 (Colombia); Passport 16348515 (Colombia) (individual) [SDNT]

MONTOYA SANCHEZ, Eugenio (a.k.a. CARVAJAL TAFURT, Hector Fabio), Calle 7 No. 45-25, Cali, Colombia; Diagonal 27 No. 27-104, Cali, Colombia; c/o LADRILLERA LA CANDELARIA LTDA., Cali, Colombia; DOB 17 Apr 1970; alt. DOB 15 Apr 1972; POB Trujillo, Valle, Colombia; Cedula No. 94307307 (Colombia); alt. Cedula No. 16836750 (Colombia); Passport 94307307 (Colombia); alt. Passport 16836750 (Colombia); alt. Passport AC814028 (Colombia) (individual) [SDNT]

MONTOYA SANCHEZ, Juan Carlos, Carrera 85B No. 13A-136, Cali, Colombia; c/o MONTOYA LUNA E HIJOS Y CIA. S.C.S., Cali, Colombia; DOB 3 Sep 1962; POB Riofrio, Valle, Colombia; Cedula No. 16357049 (Colombia); Passport 16357049 (Colombia) (individual) [SDNT]

MOONEX INTERNATIONAL, S.A., Kingston, Jamaica [CUBA]

MOONEX INTERNATIONAL, S.A., Panama [CUBA]

MOR ALFOMBRAS ALFOFIQUE S.A. (f.k.a. ALFOFIQUE LTDA.; f.k.a. ALFOFIQUE TRANSPORTES LTDA.), Carrera 40 No. 169-32, Bogota, Colombia; NIT # 830081048-0 (Colombia) [SDNT]

MOR GAVIRIA Y CIA. S.C.S. SOCIEDAD DE COMERCIALIZACION INT C.I. (f.k.a. MOR GAVIRIA Y CIA. S.C.S.), Carrera 63 No. 17-07, Bogota, Colombia; NIT # 860535567-0 (Colombia) [SDNT]

MOR GAVIRIA, Jaime, c/o DURATEX S.A., Bogota, Colombia; c/o SUPER BOYS GAMES LTDA., Bogota, Colombia; c/o GAVIRIA MOR Y CIA. LTDA., Girardot, Colombia; c/o MOR GAVIRIA Y CIA. S.C.S., Bogota, Colombia; c/o MOR ALFOMBRAS ALFOFIQUE S.A., Bogota, Colombia; c/o PROMOCIONES E INVERSIONES LAS PALMAS S.A., Bogota, Colombia; DOB 27 Sep 1980; POB Colombia; Cedula No. 11203386 (Colombia); Passport AG443304 (Colombia) (individual) [SDNT]

MOR SAAB, Jaime Dib (a.k.a. MOR, Jaime Div; a.k.a. “JAIME MOORE”), c/o MOR GAVIRIA Y CIA. S.C.S., Bogota, Colombia; c/o CONSTRUCTORA AMERICA S.A., Bogota, Colombia; c/o ACUICOLA SANTA CATALINA S.A., Bogota, Colombia; c/o SUPER BOYS GAMES LTDA., Bogota, Colombia; c/o COMERCIALIZADORA MOR GAVIRIA S.A., Quito, Ecuador; c/o COMERCIALIZADORA MORDUR S.A., Quito, Ecuador; c/o GAVIRIA MOR Y CIA. LTDA., Girardot, Colombia; c/o CONSTRUCTORA IRAKA S.A., Bogota, Colombia; c/o MOR ALFOMBRAS ALFOFIQUE S.A., Bogota, Colombia; c/o MAYOR COMERCIALIZADORA LTDA., Bogota, Colombia; c/o INTERNACIONAL DE PROYECTOS INMOBILIARIOS IPI S.A., Quito, Ecuador; c/o INVERSIONES MPS S.A., Bogota, Colombia; c/o GERENCIA DE PROYECTOS Y SOLUCIONES LTDA., Bogota, Colombia; c/o PROMOCIONES E INVERSIONES LAS PALMAS S.A., Bogota, Colombia; c/o KARIAN LTDA., Bogota, Colombia; c/o DURATEX S.A., Bogota, Colombia; c/o PROYECTOS Y SOLUCIONES S.A., Bogota, Colombia; DOB 29 Apr 1955; POB Girardot, Cundinamarca, Colombia; Cedula No. 19222380 (Colombia); SSN 591-98-9689 (United States) (individual) [SDNT]

MOR SAAB, Soraya, c/o CONSTRUCTORA IRAKA S.A., Bogota, Colombia; c/o ACUICOLA SANTA CATALINA S.A., Bogota, Colombia; c/o PROYECTOS Y SOLUCIONES S.A., Bogota, Colombia; c/o DURATEX S.A., Bogota, Colombia; c/o MOR GAVIRIA Y CIA. S.C.S., Bogota, Colombia; c/o PROMOCIONES E INVERSIONES LAS PALMAS S.A., Bogota, Colombia; DOB 10 May 1959; POB Girardot, Cundinamarca, Colombia; Cedula No. 35461535 (Colombia) (individual) [SDNT]

MORA RICARDO, Daniel Alberto, c/o SOCIEDAD SUPERDEPORTES LTDA., Bogota, Colombia; c/o ABS HEALTH CLUB SA, Bogota, Colombia; Miami, FL; DOB 08 Jan 1965; citizen Colombia; nationality Colombia; Cedula No. 80408253 (Colombia); Driver's License No. M600161650080 (United States) issued 07 Apr 2006 expires 08 Jan 2011; SSN 027-68-4733 (United States) (individual) [SDNT]

MORA ROMERO, Gloria Isabel, c/o FARFALLA INVESTMENT S.A., Panama City, Panama; c/o PREMIER SALES S.A., Panama; Cedula No. 4-192-157 (Panama); alt. Cedula No. No. 4-194-157 (Panama) (individual) [SDNT]

MORALES CASTRILLON, Victor Hugo, c/o TAURA S.A., Cali, Colombia; Cedula No. 16620349 (Colombia) (individual) [SDNT]

MORALES ESPINAR, Carmen Rosa, c/o COLFARMA PERU S.A., Lima, Peru; DOB 9 Aug 1976; D.N.I. 10006822 (Peru) (individual) [SDNT]

MORALES LOAIZA, Edilma (a.k.a. “CAROLINA”; a.k.a. “GLADYS GOMEZ SOLANO”; a.k.a. “MARIA OFELIA”; a.k.a. “MARUCHA”), Colombia; DOB 29 Dec 1974; POB Lejanias, Meta, Colombia; citizen Colombia; nationality Colombia; Cedula No. 40356505 (Colombia) (individual) [SDNTK]

MORALES LUYO, Luis Jaime, c/o COLFARMA PERU S.A., Lima, Peru; LE Number 08195408 (Peru) (individual) [SDNT]

MORALES ROBLEDO, Nicolas Abdul, c/o AGRO MASCOTAS S.A., Bogota, Colombia; Cedula No. 16686544 (Colombia); Passport 16686544 (Colombia) (individual) [SDNT]

MORAN GUERRERO, Mario Fernando, c/o COINTERCOS S.A., Bogota, Colombia; c/o PENTA PHARMA DE COLOMBIA S.A., Bogota, Colombia; c/o PENTACOOP LTDA., Bogota, Colombia; c/o LABORATORIOS KRESSFOR, Bogota, Colombia; DOB 17 Mar 1965; Cedula No. 12983857 (Colombia) (individual) [SDNT]

MORCILLO TORRES, Gracia; DOB 15 Mar 1967; POB San Sebastian, Guipuzcoa Province, Spain; D.N.I. 72.439.052 (Spain); Member ETA (individual) [SDGT]

MORENO DAZA, Ricardo Alfredo, c/o GALAPAGOS S.A., Cali, Colombia; Carrera 38D No. 4B-57, Cali, Colombia; c/o TAURA S.A., Cali, Colombia; Cedula No. 16631400 (Colombia) (individual) [SDNT]

MORENO FERNANDEZ, Monica, Spain; c/o RUIZ DE ALARCON 12 S.L., Madrid, Spain; DOB 20 Apr 1963; citizen Colombia; nationality Colombia; Cedula No. 31903968 (Colombia); National Foreign ID Number X3881333Z (Spain); Passport AE613367 (Colombia); alt. Passport AG744728 (Colombia) (individual) [SDNT]

MORENO GOMEZ, Ingrid Del Carmen, c/o CAJA SOLIDARIA, Bogota, Colombia; c/o COPSERVIR LTDA., Bogota, Colombia; c/o LITOPHARMA, Barranquilla, Colombia; c/o COOMULCOSTA, Barranquilla, Colombia; Cedula No. 49741445 (Colombia) (individual) [SDNT]

MORENO MEDINA, Luis Ignacio, Calle Guadalupe Victoria 6, Colonia Lomas Hipodromo, Tijuana, Baja California, Mexico; c/o ADP, S.C., Tijuana, Baja California, Mexico; c/o Forpres, S.C., Tijuana, Baja California, Mexico; Avenida David Alfaro Siqueiros 2789-102, Colonia Zona Rio, Tijuana, Baja California, Mexico; c/o Gex Explore, S. de R.L. de C.V., Tijuana, Baja California, Mexico; c/o Accesos Electronicos, S.A. de C.V., Tijuana, Baja California, Mexico; c/o Farmacia Vida Suprema, S.A. DE C.V., Tijuana, Baja California, Mexico; c/o Distribuidora Imperial De Baja California, S.A. de C.V., Tijuana, Baja California, Mexico; Calle Guadalupe Victoria 9, Colonia Lomas Hipodromo, Tijuana, Baja California, Mexico; Avenida de las Americas 3048, Fraccionamiento El Paraiso, Tijuana, Baja California, Mexico; c/o Administradora De Inmuebles Vida, S.A. de C.V., Tijuana, Baja California, Mexico; c/o Operadora Valpark, S.A. de C.V., Tijuana, Baja California, Mexico; c/o Valpark, S.A. de C.V., Tijuana, Baja California, Mexico; DOB 26 May 1953; POB Distrito Federal, Mexico; Passport 96020025125 (Mexico); alt. Passport ATIJ07154 (Mexico); R.F.C. MOML-530526-ED4 (Mexico) (individual) [SDNTK]

MORENO MUNOZ, Liliana Judith, c/o CAJA SOLIDARIA, Bogota, Colombia; c/o SU SERVICIO SOCIEDAD LTDA., Barranquilla, Colombia; Carrera 6 No. 72-68, Barranquilla, Colombia; c/o COPSERVIR LTDA., Bogota, Colombia; c/o LITOPHARMA, Barranquilla, Colombia; Cedula No. 32751536 (Colombia) (individual) [SDNT]

MORENO, Carlos Arturo, c/o INVERSIONES EL PENON S.A., Cali, Colombia; Cedula No. 14264233 (Colombia) (individual) [SDNT]

MORINA, Xhavit; DOB 13 Sep 1963; POB Drenovc (individual) [BALKANS]

MOROCCAN ISLAMIC COMBATANT GROUP (a.k.a. GICM; a.k.a. GROUPE ISLAMIQUE COMBATTANT MAROCAIN) [SDGT]

MOSCOSO MONTES, Nelly Fabiola, c/o CODISA, Bogota, Colombia; c/o ADMACOOP, Bogota, Colombia; c/o FARMACOOP, Bogota, Colombia; DOB 5 May 1964; Cedula No. 51740771 (Colombia); Passport 51740771 (Colombia) (individual) [SDNT]

MOSQUERA MAYA, Maria Alejandra (a.k.a. SANTACOLOMA, Maria Alejandra), 14420 NW 16th St., Pembroke Pines, FL 33028; c/o ASH TRADING, INC., Pembroke Pines, FL; DOB 22 Sep 1973; Cedula No. 34564670 (Colombia); Passport 34564670 (Colombia) (individual) [SDNT]

MOSQUERA, Juan Carlos, Avenida 2 Norte No. 7N-55 of. 601, Cali, Colombia; Calle 24N No. 6-17, Cali, Colombia; c/o INMOBILIARIA U.M.V. S.A., Cali, Colombia; Cedula No. 16692007 (Colombia) (individual) [SDNT]

MOSTAFA, Mohamed Amin,, Via della Martinella 132, Parma, Italy; DOB 11 Oct 1975; POB Karkuk, Iraq; nationality Iraq; Kurdish; arrested 31 Mar 2003 (individual) [SDGT]

MOTEL MOMENTOS E.U., Carrera 22 No. 8-71, Cartago, Valle, Colombia; NIT # 900089381-9 (Colombia) [SDNT]

MOUMOU, Mohamed (a.k.a. MUMU, Mohamed; a.k.a. “'ABDALLAH, Abu”; a.k.a. “ABDERRAHMAN, Abou”; a.k.a. “AMINA, Abu”; a.k.a. “SHRAYDA, Abu”), Trodheimsgatan 6, 164 32 Kista, Sweden; Dobelnsgatan 97, 7TR C/O Lamrabet, 113 52 Stockholm, Sweden; London, United Kingdom; Storvretsvagen 92, 7 TR. C/O Drioua, 142 31 Skogas, Sweden; Jungfruns Gata 413; Postal Address Box: 3027, 13603 Haninge, Sweden; DOB 30 Jul 1965; alt. DOB 30 Sep 1965; POB Fez, Morocco; citizen Morocco; alt. citizen Sweden; Passport 9817619 (Sweden) expires 14 Dec 2009 (individual) [SDGT]

MOUSTFA, Djamel (a.k.a. KALED, Belkasam; a.k.a. “ALI BARKANI”; a.k.a. “MOUSTAFA”), c/o Birgit Melani Schroeder, Kuehlungsborner Strasse 30, Hamburg 22147, Germany; DOB 28 Sep 1973; alt. DOB 31 Dec 1979; alt. DOB 22 Aug 1973; POB Tiaret, Algeria; alt. POB Morocco; nationality Algeria; arrested 23 Apr 2002; currently in remand at 20355 Hamburg Holstenglacis 3, Germany (individual) [SDGT]

MOVEMENT FOR ISLAMIC REFORM IN ARABIA (a.k.a. AL-HARAKAT AL-ISLAMIYAH LIL-ISLAH; a.k.a. AL-ISLAH; a.k.a. ISLAMIC MOVEMENT FOR REFORM; a.k.a. MIRA; a.k.a. MOVEMENT FOR REFORM IN ARABIA), BM Box: MIRA, London WC1N 3XX, United Kingdom; 21 Blackstone Road, London NW2 6DA, United Kingdom; Safiee Suite, EBC House, Townsend Lane, London NW9 8LL, United Kingdom; UK Company Number 03834450 (United Kingdom) [SDGT]

MOYO, Jonathan Nathaniel; DOB 12 Jan 1957; Passport AD000432 (Zimbabwe); Member of Parliament for Tsholotsho & Former Minister of Information and Publicity (individual) [ZIMBABWE]

MOYO, Simon Khaya; DOB 1 Oct 1945; Passport ZD001512 (Zimbabwe); Politburo Member (individual) [ZIMBABWE]

MPANO, Douglas (a.k.a. MPAMO, Douglas Iruta); DOB 28 Dec 1965; alt. DOB 29 Dec 1965; POB Goma, Democratic Republic of the Congo; Manager, Great Lakes Business Company and Compagnie Aerienne des Grands Lacs (individual) [DRCONGO]

MPOFU, Obert Moses; DOB 12 Oct 1951; Passport ZD001549 (Zimbabwe); Deputy Secretary for National Security (individual) [ZIMBABWE]

MRDJA, Darko; DOB 28 Jun 1967; POB Zagreb, Croatia; ICTY indictee (individual) [BALKANS]

MRKSIC, Milan; DOB 20 Jul 1947; POB Vrginmost, Croatia; ICTY indictee in custody (individual) [BALKANS]

MSALAM, Fahid Mohammed Ally (a.k.a. AL-KINI, Usama; a.k.a. ALLY, Fahid Mohammed; a.k.a. MSALAM, Fahad Ally; a.k.a. MSALAM, Fahid Mohammed Ali; a.k.a. MSALAM, Mohammed Ally; a.k.a. MUSALAAM, Fahid Mohammed Ali; a.k.a. SALEM, Fahid Muhamad Ali); DOB 19 Feb 1976; POB Mombasa, Kenya; citizen Kenya (individual) [SDGT]

MSIKA, Joseph; DOB 6 Dec 1923; Passport ZD001610 (Zimbabwe); First Vice President (individual) [ZIMBABWE]

MSIPA, Cephas George; DOB 7 Jul 1931; Passport ZD001500 (Zimbabwe); Midlands Provincial Governor (individual) [ZIMBABWE]

MSIPA, Sharlottie; DOB 6 May 1936; Passport ZL008055 (Zimbabwe); Spouse of Cephas Msipa (individual) [ZIMBABWE]

MUBARAK, Umid Medhat (a.k.a. MUBARAK, Umid Midhat), Iraq; DOB circa 1940; Former Minister of Health (individual) [IRAQ2]

MUCHENA, Olivia Nyembezi, 59 The Chase, Mount Pleasant, Harare, Zimbabwe; DOB 18 Aug 1946; Passport AD000086 (Zimbabwe); Minister of State for Science and Technology Development (individual) [ZIMBABWE]

MUCHINGURI, Natasha, 2 Tender Road, Highlands, Harare, Zimbabwe; DOB circa 1994; Child of Oppah Muchinguri (individual) [ZIMBABWE]

MUCHINGURI, Oppah Chamu Zvipange, 15 Moorherist Avenue, Harare, Zimbabwe; DOB 14 Dec 1958; Minister of Women's Affairs, Gender and Community Development (individual) [ZIMBABWE]

MUCHINGURI, Tanya, 2 Tender Road, Highlands, Harare, Zimbabwe; DOB circa 1989; Child of Oppah Muchinguri (individual) [ZIMBABWE]

MUCIC, Zdravko; DOB 31 Aug 1955; ICTY indictee (individual) [BALKANS]

MUDACUMURA, Sylvestre (a.k.a. COMMANDANT PHARAON; a.k.a. MUKANDA; a.k.a. MUPENZI, Bernard; a.k.a. MUPENZI, General Pierre Bernard; a.k.a. RADJA), Kibua, North Kivu, Congo, Democratic Republic of the; DOB 1955; POB Karago, Western Province, Rwanda; citizen Rwanda; Major General; Commander FDLR/FOCA (individual) [DRCONGO]

MUDENGE, Isack Stan Gorerazvo, 31 St. Brelades Road, Borrowdale, Harare, Zimbabwe; DOB 17 Dec 1948; Passport AD000964 (Zimbabwe); Minister of Higher and Tertiary Education (individual) [ZIMBABWE]

MUGABE, Grace; DOB 23 Jul 1965; Passport AD001159 (Zimbabwe); Spouse of Robert Mugabe (individual) [ZIMBABWE]

MUGABE, Leo (a.k.a. CDE MUGABE), 72 Green Groove Drive, Greendale, Harare, Zimbabwe; DOB 28 Feb 1957; alt. DOB 28 Aug 1962; MP for Makonde; Son of Sabina MUGABE; Nephew of Robert MUGABE (individual) [ZIMBABWE]

MUGABE, Robert Gabriel; DOB 21 Feb 1924; Passport AD002119 (Zimbabwe); President of the Republic of Zimbabwe (individual) [ZIMBABWE]

MUGABE, Sabina; DOB 14 Oct 1934; Politburo Senior Committee Member (individual) [ZIMBABWE]

MUGHNIYAH, Imad Fa'iz (a.k.a. MUGHNIYAH, Imad Fayiz); DOB 07 Dec 1962; POB Tayr Dibba, Lebanon; Passport 432298 (Lebanon); Senior Intelligence Officer of HIZBALLAH (individual) [SDT] [SDGT]

MUGICA GONI, Ainhoa; DOB 27 Jun 1970; POB San Sebastian, Guipuzcoa Province, Spain; D.N.I. 34.101.243 (Spain); Member ETA (individual) [SDGT]

MUGUTI, Edwin, 7 Tay Road, Vainona, Borrowdale, Zimbabwe; DOB 2 May 1964; Passport AN775556 (Zimbabwe); Deputy Minister of Health and Child Welfare (individual) [ZIMBABWE]

MUHAMMAD, Sirajuddin Haqqani Jalaluddin Khwasa (a.k.a. HAQANI, Saraj; a.k.a. HAQANI, Siraj; a.k.a. HAQANI, Sirajuddin; a.k.a. HAQQANI, Saraj; a.k.a. HAQQANI, Siraj; a.k.a. HAQQANI, Sirajuddin), Manba'ul uloom Madrasa, Miramshah, North Waziristan, FATA, NWFP, Pakistan; Dergey Manday Madrasa (North of Miramsha), North Waziristan, FATA, NWFP, Pakistan; Kela neighborhood/Danda neighborhood (2 km NW from Miramshah town), Pakistan; DOB 1977; alt. DOB 1970; alt. DOB 1978; POB Danda, Miramshah, Afghanistan; alt. POB Srana Village, Garda Saray District, Paktya Province, Afghanistan; alt. POB Neka District, Paktika, Afghanistan; alt. POB Khowst Province, Afghanistan (individual) [SDGT]

MUJAHEDIN-E KHALQ ORGANIZATION (a.k.a. MEK; a.k.a. MKO; a.k.a. MUJAHEDIN-E KHALQ; a.k.a. MUSLIM IRANIAN STUDENT'S SOCIETY; a.k.a. NATIONAL COUNCIL OF RESISTANCE; a.k.a. NATIONAL COUNCIL OF RESISTANCE (NCR); a.k.a. NATIONAL COUNCIL OF RESISTANCE OF IRAN; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN) [FTO] [SDGT]

MUJURU, Joyce Teurai Ropa; DOB 15 Apr 1955; Second Vice President (individual) [ZIMBABWE]

MUJURU, Solomon Tapfumaneyi Ruzambo (a.k.a. “NANGO, Rex”); DOB 1 May 1949; Passport ZD001348 (Zimbabwe); Politburo Senior Committee Member (individual) [ZIMBABWE]

MUJYAMBERE, Leopold (a.k.a. ACHILLE; a.k.a. IBRAHIM, Frere Petrus; a.k.a. MUSENYERI), Mwenga, South Kivu Province, Congo, Democratic Republic of the; DOB 17 Mar 1962; alt. DOB 1966; POB Kigali, Rwanda; citizen Rwanda; Colonel; Commander, FDLR CO 2nd Division (individual) [DRCONGO]

MULTICAJA DE TIJUANA, S.A. DE C.V. (f.k.a. CASA DE CAMBIO DEL OESTE), Calle 3 y Madero, Zona Centro, Tijuana, Baja California, Mexico; Blvd. Insurgentes 2120, Porvenir, Tijuana, Baja California, Mexico; Avenida Lazaro Cardenas 1702 18, Otay Constituyentes, Tijuana, Baja California, Mexico; Carrillo Puerto, Calle 291, Zona Central, Tijuana, Baja California, Mexico; Insurg-Campos S/N BCO., Insurgentes, Tijuana, Baja California, Mexico; Centro Comercial Otay, Tijuana, Baja California, Mexico; 3A. y Madero, 291, Zona Centro, Tijuana, Baja California, Mexico; R.F.C. MTI-920115-RR6 (Mexico) [SDNTK]

MULTISERVICIOS AGSA, S.A. DE C.V., Boulevard Agua Caliente No. 148, Revolucion, Tijuana, Baja California, Mexico; R.F.C. MAG941123BYA (Mexico) [SDNTK]

MULTISERVICIOS ALPHA, S.A. DE C.V., Paseo Playas 24-2, Colonia Playas de Tijuana, Tijuana, Baja California, Mexico; Av. Allende 1197, Colonia Independencia, Tijuana, Baja California, Mexico; R.F.C. MAL-960401-I35 (Mexico) [SDNTK]

MULTISERVICIOS BRAVIO, S.A. DE C.V. (a.k.a. BRAVIO ARMORED GROUP), Av. Via Rapida 26, Colonia Zona Rio, Tijuana, Baja California, Mexico; Local C-25 Plaza Rio, Colonia Zona Rio, Tijuana, Baja California, Mexico; R.F.C. MBR-961115-4M6 (Mexico) [SDNTK]

MULTISERVICIOS DEL NOROESTE DE MEXICO, S.A. DE C.V., Tijuana, Baja California, Mexico [SDNTK]

MULTISERVICIOS GAMAL, S.A. DE C.V. (a.k.a. CASA DE CAMBIO RUBI), Paseo Playas 24-2, Colonia Playas de Tijuana, Tijuana, Mexico, Mexico; Blvd. Fundadores 5343-22, Colonia El Rubi, Tijuana, Baja California CP 22180, Mexico; Av. Federico Benitez 6400-52, Colonia Yamille, Tijuana, Baja California, Mexico; Paseo Estrella Del Mar 359, Colonia Playas de Tijuana, Tijuana, Baja California CP 22200, Mexico; Paseo Ensenada S/N D11, Colonia Playas de Tijuana, Tijuana, Baja California, Mexico; R.F.C. MGA-940615-SC3 (Mexico) [SDNTK]

MULTISERVICIOS JEVIZ S.A. DE C.V. (a.k.a. JEVIZ), Carretera a El Dorado # 2501, Colonia Campo El Diez, Culiacan, Sinaloa 80155, Mexico [SDNTK]

MULTISERVICIOS SIGLO, S.A. DE C.V., Carretera Aeropuerto 1900-16G, Colonia Otay, Tijuana, Baja California, Mexico; Paseo Tijuana 10126-A, Colonia Zona Rio, Tijuana, Baja California, Mexico; R.F.C. MSI-960220-Q84 (Mexico) [SDNTK]

MUMBENGEGWI, Samuel Simbarashe Simbanenduku, 22 Stour Road, Vainona, Borrowdale, Harare, Zimbabwe; DOB 20 July 1945; Non-Constituency Member of Parliament (individual) [ZIMBABWE]

MUNANDAR, Aris; DOB 1 Jan 1971; alt. DOB 1962; alt. DOB 1967; alt. DOB 1964; alt. DOB 1966; alt. DOB 1965; alt. DOB 1968; alt. DOB 1963; POB Sambi, Boyolali, Java, Indonesia (individual) [SDGT]

MUNERA FERNANDEZ, Pablo Jesus, c/o CAJA SOLIDARIA, Bogota, Colombia; c/o COOMULCOSTA, Barranquilla, Colombia; c/o COPSERVIR LTDA., Bogota, Colombia; Cedula No. 8719504 (Colombia) (individual) [SDNT]

MUNOA ORDOZGOITI, Alona; DOB 6 Jul 1976; POB Segura, Guipuzcoa Province, Spain; D.N.I. 35.771.259 (Spain); Member ETA (individual) [SDGT]

MUNOZ CORTES, Julio Cesar (a.k.a. MUNOZ CORTEZ, Julio Cesar), c/o DISTRIBUIDORA DE DROGAS CONDOR LTDA., Bogota, Colombia; c/o COPSERVIR LTDA., Bogota, Colombia; c/o BLANCO PHARMA S.A., Bogota, Colombia; c/o DROGAS LA REBAJA BARRANQUILLA S.A., Barranquilla, Colombia; c/o DROGAS LA REBAJA CALI S.A., Cali, Colombia; c/o DROGAS LA REBAJA PRINCIPAL S.A., Bogota, Colombia; DOB 26 Feb 1947; Cedula No. 14938700 (Colombia) (individual) [SDNT]

MUNOZ NARVAEZ, Yamileth, c/o COOPERATIVA MULTIACTIVA DE COLOMBIA FOMENTAMOS, Bogota, Colombia; c/o COMERCIALIZADORA INTERTEL S.A., Cali, Colombia; c/o DISTRIBUIDORA SANAR DE COLOMBIA S.A., Cali, Colombia; DOB 30 Dec 1970; Cedula No. 66825769 (Colombia); Passport 66825769 (Colombia) (individual) [SDNT]

MUNOZ PAZ, Adriana del Socorro, c/o INVERSIONES Y CONSTRUCCIONES VALLE S.A., Cali, Colombia; DOB 1 Oct 1966; Cedula No. 31950689 (Colombia) (individual) [SDNT]

MUNOZ PAZ, Joaquin Emilio, c/o CONSTRUCTORA DIMISA LTDA., Cali, Colombia; c/o INVERSIONES Y CONSTRUCCIONES VALLE S.A., Cali, Colombia; c/o INMOBILIARIA U.M.V. S.A., Cali, Colombia; Avenida 4AN No. 47-89, Cali, Colombia; DOB 18 Jan 1971; Cedula No. 16789012 (Colombia) (individual) [SDNT]

MUNOZ RODRIGUEZ, Juan Carlos, c/o CREDIREBAJA S.A., Cali, Colombia; c/o DISTRIBUIDORA DE DROGAS CONDOR LTDA., Bogota, Colombia; c/o REPRESENTACIONES Y DISTRIBUCIONES HUERTAS Y ASOCIADOS S.A., Bogota, Colombia; c/o GRACADAL S.A., Cali, Colombia; c/o DISTRIBUIDORA MIGIL LTDA., Cali, Colombia; c/o DISTRIBUIDORA DE DROGAS LA REBAJA S.A., Bogota, Colombia; c/o LATINFAMRACOS S.A., Quito, Ecuador; c/o ASESORIAS ECONOMICAS MUNOZ SANTACOLOMA E.U., Cali, Colombia; c/o DISTRIBUIDORA SANAR DE COLOMBIA S.A., Cali, Colombia; c/o COMERCIALIZADORA INTERTEL S.A., Cali, Colombia; c/o BLANCO PHARMA S.A., Bogota, Colombia; c/o ASPOIR DEL PACIFICO Y CIA. LTDA., Cali, Colombia; c/o LABORATORIOS BLAIMAR DE COLOMBIA S.A., Bogota, Colombia; c/o DEPOSITO POPULAR DE DROGAS S.A., Cali, Colombia; c/o FUNDASER, Cali, Colombia; c/o CONTACTEL COMUNICACIONES S.A., Cali, Colombia; c/o INVERSIONES Y CONSTRUCCIONES ABC S.A., Cali, Colombia; c/o LABORATORIOS KRESSFOR DE COLOMBIA S.A., Bogota, Colombia; DOB 25 Sep 1964; Cedula No. 16703148 (Colombia); Passport 16703148 (Colombia) (individual) [SDNT]

MUNOZ RODRIGUEZ, Soraya, c/o LATINFAMRACOS S.A., Quito, Ecuador; c/o DISTRIBUIDORA MIGIL LTDA., Cali, Colombia; c/o RADIO UNIDAS FM S.A., Cali, Colombia; c/o INVERSIONES Y CONSTRUCCIONES ABC S.A., Cali, Colombia; c/o DEPOSITO POPULAR DE DROGAS S.A., Cali, Colombia; c/o FUNDASER, Cali, Colombia; c/o DISTRIBUIDORA DE DROGAS CONDOR LTDA., Bogota, Colombia; c/o LABORATORIOS KRESSFOR DE COLOMBIA S.A., Bogota, Colombia; c/o DISTRIBUIDORA DE DROGAS LA REBAJA S.A., Bogota, Colombia; c/o LABORATORIOS BLAIMAR DE COLOMBIA S.A., Bogota, Colombia; c/o SORAYA Y HAYDEE LTDA., Cali, Colombia; c/o 2000-DODGE S.L., Madrid, Spain; c/o BLANCO PHARMA S.A., Bogota, Colombia; DOB 26 Jun 1967; Cedula No. 31976822 (Colombia); Passport AC569012 (Colombia) (individual) [SDNT]

MUNOZ Y RODRIGUEZ Y CIA. LTDA., Avenida 6N No. 23DN-26, Cali, Colombia [SDNT]

MURAD, Abdul Hakim (a.k.a. AHMED, Saeed; a.k.a. AKMAN, Saeed; a.k.a. MURAD, Abdul Hakim Al Hashim; a.k.a. MURAD, Abdul Hakim Hasim; a.k.a. MURAD, Adbul Hakim Ali Hashim); DOB 4 Jan 1968; POB Kuwait; nationality Pakistan; currently incarcerated in the U.S. (individual) [SDGT]

MURERWA, Herbert Muchemwa; DOB 31 July 1941; Passport AD001167 (Zimbabwe); Minister of Finance (individual) [ZIMBABWE]

MURERWA, Ruth Chipo, 321 Ard-Na-Lea Close, Glen Lorne, Chisipite, Zimbabwe; DOB 27 Jul 1947; Passport AD001244 (Zimbabwe) expires 19 Aug 2009; Spouse of Herbert Murerwa (individual) [ZIMBABWE]

MURILLO BEJARANO, Diego Fernando (a.k.a. “ADOLFO PAZ”; a.k.a. “DON BERNA”); DOB 23 Feb 1961; Cedula No. 16357144 (Colombia) (individual) [SDNTK]

MURILLO MURILLO, Jose Tolentino, c/o AGROPECUARIA LA ROBLEDA S.A., Cali, Colombia; Cedula No. 2240779 (Colombia) (individual) [SDNT]

MURWANASHYAKA, Ignace; DOB 14 May 1963; POB Nogoma-Butera, Rwanda; President, Forces Democratiques pour la Liberation du Rwanda (FDLR) (individual) [DRCONGO]

MUSA, Rifa'i Ahmad Taha (a.k.a. 'ABD ALLAH, 'Issam 'Ali Muhammad; a.k.a. 'ABD-AL-'IZ; a.k.a. ABD-AL-WAHAB, Abd-al-Hai Ahmad; a.k.a. ABU YASIR; a.k.a. AL-KAMEL, Salah 'Ali; a.k.a. TAHA MUSA, Rifa'i Ahmad; a.k.a. THABIT 'IZ); DOB 24 Jun 1954; POB Egypt; Passport 1046403 (Egypt); alt. Passport 83860 (Sudan); alt. Passport 30455 (Egypt) (individual) [SDT]

MUSHOHWE, Christopher Chindoti; DOB 6 Feb 1954; Minister of Transport and Communications (individual) [ZIMBABWE]

MUSLIU, Isak; DOB 31 Oct 1970; POB Racak, Serbia and Montenegro (individual) [BALKANS]

MUSLIU, Jonuz; DOB 5 Jan 1959; POB Konculj, Serbia and Montenegro (individual) [BALKANS]

MUSLIU, Shefqet; DOB 12 Feb 1963; POB Konculj, Serbia and Montenegro (individual) [BALKANS]

MUSONI, Straton; DOB 6 Apr 1961; alt. DOB 4 Jun 1961; POB Mugambazi, Kigali; citizen Rwanda; nationality Rwanda (individual) [DRCONGO]

MUSTAFA BAKRI, Ali Sa'd Muhammad (a.k.a. AL-MASRI, Abd Al-Aziz); DOB 18 Apr 1966; nationality Egypt (individual) [SDGT]

MUSTAFA, Rrustem; DOB 27 Feb 1971; POB Podujevo, Serbia and Montenegro (individual) [BALKANS]

MUTASA, Didymus Noel Edwin; DOB 27 July 1935; Minister of State for National Security (individual) [ZIMBABWE]

MUTEZO, Munacho Thomas Alvar, 950 Sugarloaf Hill, Glen Lorne, Zimbabwe; DOB 14 Feb 1954; Passport AN187189 (Zimbabwe) expires 5 Dec 2010; Minister of Water Resources and Infrastructural Development (individual) [ZIMBABWE]

MUTINHIRI, Ambrose; DOB 22 Feb 1944; Passport AD000969 (Zimbabwe); Minister of Youth Development and Employment Creation (individual) [ZIMBABWE]

MUTIWEKUZIVA, Kenneth Keparadza; DOB 27 May 1948; Deputy Minister for Small and Medium Enterprise Development (individual) [ZIMBABWE]

MUVDY BERBESY, Salua Teresa, c/o CONSTRUCTORA PYNZAR LTDA., Cali, Colombia; c/o CIA. MINERA DAPA S.A., Bogota, Colombia; Avenida Las Americas No. 21N-50 Ofc. 702, Cali, Colombia; c/o PARQUE INDUSTRIAL PROGRESO S.A., Yumbo, Colombia; DOB 30 Jan 1959; POB Barranquilla, Atlantico, Colombia; Cedula No. 32639757 (Colombia); Passport 32639757 (Colombia) (individual) [SDNT]

MUZENDA, Simon Vengesai; DOB 28 Oct 1922; Former Vice President; Deceased (individual) [ZIMBABWE]

MUZENDA, Tsitsi; DOB 22 Aug 1922; Politburo Senior Committee Member (individual) [ZIMBABWE]

MUZONZINI, Elisha; DOB 24 Jun 1957; Passport AD000648 (Zimbabwe); Former Director of the Central Intelligence Organization (individual) [ZIMBABWE]

MYANMA ECONOMIC BANK (a.k.a. MYANMAR ECONOMIC BANK), 1-19 Sule Pagoda Road, Pabedan T/S, Yangon, Burma [BURMA]

MYANMA FOREIGN TRADE BANK (a.k.a. MYANMAR FOREIGN TRADE BANK), P.O. Box 203, 80-86 Maha Bandoola Garden Street, Kyauktada T/S, Yangon, Burma; SWIFT/BIC FOTMMMM1 [BURMA]

MYANMA INVESTMENT AND COMMERCIAL BANK (a.k.a. MICB; a.k.a. MYANMAR INVESTMENT AND COMMERCIAL BANK), 170/176 Bo Aung Kyaw Street, Botataung Township, Yangon, Burma; SWIFT/BIC MYANMMM1; alt. SWIFT/BIC MICB MM MY (Burma); alt. SWIFT/BIC MICB MM MY MAN (Burma) [BURMA]

MYANMAR AVIA EXPORT COMPANY LIMITED (a.k.a. MYANMAR AVIA EXPORT) [BURMA]

MYANMAR ECONOMIC CORPORATION (a.k.a. MEC), 74-76 Shwedagon Pagoda Road, Dagon Township, Yangon, Burma [BURMA]

MYANMAR GEM ENTERPRISE (a.k.a. MGE; a.k.a. MYANMA GEM ENTERPRISE), 66 Kaba Aye Pagoda Road, Rangoon, Mayangone Township (MYGN), Burma [BURMA]

MYANMAR IMPERIAL JADE CO., LTD, 22 Sule Pagoda Road, Mayangone Township, Yangon, Burma [BURMA]

MYANMAR IVANHOE COPPER COMPANY LIMITED (a.k.a. MICCL; a.k.a. MONYWA JVCO; a.k.a. MYANMAR IVANHOE COPPER CO. LTD.), 70 (I) Bo Chein Street, Pyay Road, Hlaing Township, Yangon, Burma; Monywa, Sagaing Division, Burma; 70 (I) Bo Chein Street, 6.5 miles Pyay Road, Yangon, Burma [BURMA]

MYANMAR PEARL ENTERPRISE (a.k.a. MPE; a.k.a. MYANMA PEARL ENTERPRISE), No. 4345, Bu Khwe, Naypyitaw, Burma [BURMA]

MYANMAR RUBY ENTERPRISE CO. LTD. (a.k.a. MYANMAR RUBY ENTERPRISE), 24/26 Sule Pagoda Road, Kyauktada Township, Yangon, Burma [BURMA]

MYANMAR TIMBER ENTERPRISE (a.k.a. MTE; a.k.a. MYANMA TIMBER ENTERPRISE), P.O. Box 206, Mission Road/Ahlone Street, Rangoon, Burma [BURMA]

MYANMAR TREASURE RESORTS (a.k.a. MYANMAR TREASURE BEACH RESORT; a.k.a. MYANMAR TREASURE BEACH RESORTS; a.k.a. MYANMAR TREASURE RESORT (BAGAN); a.k.a. MYANMAR TREASURE RESORT (PATHEIN); a.k.a. “MYANMAR TREASURE RESORT II”), No 56 Shwe Taung Gyar Road, Golden Valley, Bahan Township, Yangon, Burma; No. 41 Shwe Taung Gyar Street, Bahan Township, Yangon, Burma [BURMA]

MYAWADDY BANK LTD. (a.k.a. MYAWADDY BANK), 24/26 Sule Pagoda Road, Yangon, Burma [BURMA]

MYAWADDY TRADING LTD. (a.k.a. MYAWADDY TRADING CO.), 189-191 Maha Bandoola Street, Botataung P.O, Yangon, Burma [BURMA]

MYINT, Htay (a.k.a. MYINT, U Htay), Burma; DOB 6 Feb 1955; citizen Burma; nationality Burma; Chairman, Yuzana Company Limited (individual) [BURMA]

MYINT, Kyaw (a.k.a. MYINT, Kyaw, Dr.), Burma; DOB 1940; citizen Burma; nationality Burma; Minister of Health (individual) [BURMA]

MYINT, Li (a.k.a. HSING, Su; a.k.a. “SU HSING”; a.k.a. “U LI MYINT”), c/o HONG PANG GENERAL TRADING COMPANY, LIMITED, Kyaington, Burma; 525 Merchant Street, Rangoon, Burma; c/o HONG PANG MINING COMPANY LIMITED, Yangon, Burma; c/o HONG PANG TEXTILE COMPANY LIMITED, Yangon, Burma; c/o HONG PANG LIVESTOCK DEVELOPMENT COMPANY LIMITED, Burma; c/o HONG PANG GEMS & JEWELLERY COMPANY LIMITED, Burma; c/o HONG PANG ELECTRONIC INDUSTRY CO., LTD., Yangon, Burma; Tangyan, Burma; National ID No. 13/Ta Ta Na (Naing)019077 (Burma) (individual) [SDNTK]

MYINT, Tin Lin (a.k.a. MYINT, Daw Tin Lin); DOB 25 Jan 1947; wife of Ye Myint (individual) [BURMA]

MYINT, Ye; DOB 21 Oct 1943; citizen Burma; nationality Burma; Lieutenant-General; Chief, Military Affairs; Chief, Bureau of Special Operation 1; Member, State Peace and Development Council (individual) [BURMA]

MZOUDI, Abdelghani (a.k.a. MAZUTI, Abdelghani; a.k.a. MAZWATI, Abdelghani), Marienstrasse 54, Hamburg, Germany; Op de Wisch 15, Hamburg 21149, Germany; DOB 6 Dec 1972; POB Marrakech, Morocco; citizen Morocco; Moroccan Personal ID No. E 427689 (Morocco) issued 20 Mar 2001; Passport M271392 (Morocco) issued 04 Dec 2000; alt. Passport F 879567 (Morocco) issued 29 Apr 1992 (individual) [SDGT]

NADA INTERNATIONAL ANSTALT, Vaduz, Liechtenstein; formerly c/o Asat Trust reg., Vaduz, Liechtenstein [SDGT]

NADA MANAGEMENT ORGANIZATION SA (f.k.a. AL TAQWA MANAGEMENT ORGANIZATION SA), Viale Stefano Franscini 22, Lugano CH-6900 TI, Switzerland [SDGT]

NADA, Youssef (a.k.a. NADA, Youssef M.; a.k.a. NADA, Youssef Mustafa), Via Riasc 4, Campione d'Italia CH-6911, Switzerland; Via Arogno 32, Campione d'Italia 6911, Italy; Via Per Arogno 32, Campione d'Italia 6911, Switzerland; DOB 17 May 1931; alt. DOB 17 May 1937; POB Alexandria, Egypt; citizen Tunisia (individual) [SDGT]

NAIZAQUE PUENTES, Jose de Jesus, c/o COSMEPOP, Bogota, Colombia; Calle 58A S 80C-31, Bogota, Colombia; c/o LABORATORIOS BLAIMAR DE COLOMBIA S.A., Bogota, Colombia; c/o COINTERCOS S.A., Bogota, Colombia; DOB 12 Mar 1956; Cedula No. 19348370 (Colombia) (individual) [SDNT]

NAJI, Talal Muhammad Rashid; DOB 1930; POB Al Nasiria, Palestine; Principal Deputy of POPULAR FRONT FOR THE LIBERATION OF PALESTINE—GENERAL COMMAND (individual) [SDT]

NALETILIC, Mladen; DOB 1 Dec 1946; POB Listica, Bosnia-Herzegovina; ICTY indictee (individual) [BALKANS]

NAMAN, Saalim (a.k.a. NAMAN, Sam), P.O. Box 39, Fletchamstead Highway, Coventry, United Kingdom; Amman, Jordan; Iraq; 5903 Harper Road, Solon, OH; 3343 Woodview Lake Road, West Bloomfield, MI 48323 (individual) [IRAQ2]

NARVAEZ GONI, Juan Jesus; DOB 23 Feb 1961; POB Pamplona, Navarra Province, Spain; D.N.I. 15.841.101 (Spain); Member ETA (individual) [SDGT]

NARVAEZ PUENTES, James Orlando, Calle 1 No. 56-109, Casa 33 Seminar, Cali, Colombia; c/o CONSTRUCTORA LOMA LINDA S.A., Cali, Colombia; c/o CONSTRUCCIONES LA RESERVA S.A., Cali, Colombia; c/o CONSTRUCTORA UMBRIA S.A., Cali, Colombia; c/o VENECIA INMOBILIARIA QUILICHAO S.A. & CIA S.C.A., Cali, Colombia; c/o CONSTRUCTORA JUANAMBU S.A., Cali, Colombia; c/o CENTRO COMERCIAL GUSS S.A., Cali, Colombia; c/o AGROGANADERA LA ISABELA S.A., Cali, Colombia; Carrera 121 No. 13-76, Casa 7, Cali, Colombia; Carrera 66 No. 10-36, Cali, Colombia; DOB 29 Nov 1959; citizen Colombia; nationality Colombia; Cedula No. 16634261 (Colombia); Passport AF366653 (Colombia); alt. Passport AK279300 (Colombia) (individual) [SDNT]

NASR AL DIN, Ghazi (a.k.a. NASR AL-DIN, Hajj Ghazi 'Atif; a.k.a. NASR EL DIN GHASSAN, Ghassan; a.k.a. NASRALDINE, Ghazi 'Atef; a.k.a. NASSER AL-DIN, Ghazil; a.k.a. NASSER EL-DIN, Gazi; a.k.a. NASSERDDINE, Ghassan Attef Salame; a.k.a. NASSERDDINE, Ghazi; a.k.a. NASSERDINE GHASAN, Atef Salameh; a.k.a. NASSEREDDINE, Ghazi; a.k.a. NASSEREDDINE, Haj Ghazzi; a.k.a. NASSEREDINE, Haj Ghazi; a.k.a. NASSERIDINE, Gazi); DOB 13 Dec 1962; POB Lebanon (individual) [SDGT]

NASRALLAH, Hasan; DOB 31 Aug 1960; alt. DOB 31 Aug 1958; alt. DOB 31 Aug 1955; alt. DOB 31 Aug 1953; POB Al Basuriyah, Lebanon; Passport 042833 (Lebanon); Secretary General of HIZBALLAH (individual) [SDT]

NASSER ARANA, Carlos Alberto, c/o INVERSIONES NAMOS Y CIA. LTDA., Barranquilla, Colombia; c/o SURAMERICANA DE HOTELES LTDA., Barranquilla, Colombia; c/o PROMOTORA HOTEL BARRANQUILLA LTDA., Barranquilla, Colombia; c/o EDIFICACIONES DEL CARIBE LTDA., Barranquilla, Colombia; c/o GRAN COMPANIA DE HOTELES LTDA., Barranquilla, Colombia; c/o INVERSIONES PRADO TRADE CENTER LTDA., Barranquilla, Colombia; c/o INMOBILIARIA DEL CARIBE LTDA., Barranquilla, Colombia; c/o HOTELES E INMUEBLES DE COLOMBIA LTDA., Barranquilla, Colombia; c/o INMOBILIARIA HOTELERA DEL CARIBE LTDA., Barranquilla, Colombia; c/o PROMOCIONES Y CONSTRUCCIONES DEL CARIBE LTDA., Y CIA. S.C.A., Barranquilla, Colombia; c/o DESARROLLOS URBANOS “DESARROLLAR” LTDA., Barranquilla, Colombia; c/o K. P. TO JEANS WEAR S. DE H., Barranquilla, Colombia; Calle 74 No. 53-30, Barranquilla, Colombia; c/o NEGOCIOS Y PROPIEDADES DEL CARIBE LTDA., Barranquilla, Colombia; c/o INVERSIONES HOTELERAS DEL LITORAL LTDA., Barranquilla, Colombia; c/o AGRICOLA SONGO LTDA., Barranquilla, Colombia; c/o PROMOCIONES Y CONSTRUCCIONES DEL CARIBE LTDA., Barranquilla, Colombia; DOB 21 Nov 1964; Cedula No. 8745045 (Colombia); Passport PE008808 (Colombia); alt. Passport T707770 (Colombia) (individual) [SDNT]

NASSER ARANA, Claudia Patricia (a.k.a. NASSER DE HASBUN, Claudia Patricia; a.k.a. NASSER DE HAZBUN, Claudia Patricia), c/o PROMOCIONES Y CONSTRUCCIONES DEL CARIBE LTDA., Barranquilla, Colombia; c/o CAMPO VERDE LTDA., Barranquilla, Colombia; Calle 74 No. 53-30, Barranquilla, Colombia; c/o PROMOCIONES Y CONSTRUCCIONES DEL CARIBE LTDA., Y CIA. S.C.A., Barranquilla, Colombia; c/o NEGOCIOS Y PROPIEDADES DEL CARIBE LTDA., Barranquilla, Colombia; c/o INVERSIONES PRADO TRADE CENTER LTDA., Barranquilla, Colombia; c/o INMOBILIARIA DEL CARIBE LTDA., Barranquilla, Colombia; c/o INMOBILIARIA HOTELERA DEL CARIBE LTDA., Barranquilla, Colombia; c/o GRAN COMPANIA DE HOTELES LTDA., Barranquilla, Colombia; Carrera 54 No. 75-97 piso 2, Barranquilla, Colombia; c/o HOTELES E INMUEBLES DE COLOMBIA LTDA., Barranquilla, Colombia; c/o DESARROLLOS URBANOS “DESARROLLAR” LTDA., Barranquilla, Colombia; c/o VILLA DE ARTE S. DE H., Barranquilla, Colombia; c/o EDIFICACIONES DEL CARIBE LTDA., Barranquilla, Colombia; Carrera 54 No. 74-79, Barranquilla, Colombia; c/o AGRICOLA SONGO LTDA., Barranquilla, Colombia; c/o SURAMERICANA DE HOTELES LTDA., Barranquilla, Colombia; c/o PROMOTORA HOTEL BARRANQUILLA LTDA., Barranquilla, Colombia; c/o INVERSIONES HOTELERAS DEL LITORAL LTDA., Barranquilla, Colombia; DOB 23 Jan 1966; alt. DOB 23 Jan 1963; Cedula No. 32665137 (Colombia); Passport AC751227 (Colombia) (individual) [SDNT]

NASSER ARANA, Jorge, c/o NEGOCIOS Y PROPIEDADES DEL CARIBE LTDA., Barranquilla, Colombia; c/o INVERSIONES HOTELERAS DEL LITORAL LTDA., Barranquilla, Colombia; c/o AGRICOLA SONGO LTDA., Barranquilla, Colombia; Calle 74 No. 53-30, Barranquilla, Colombia; c/o SURAMERICANA DE HOTELES LTDA., Barranquilla, Colombia; c/o INVERSIONES PRADO TRADE CENTER LTDA., Barranquilla, Colombia; c/o PROMOCIONES Y CONSTRUCCIONES DEL CARIBE LTDA., Barranquilla, Colombia; c/o PROMOTORA HOTEL BARRANQUILLA LTDA., Barranquilla, Colombia; c/o PROMOCIONES Y CONSTRUCCIONES DEL CARIBE LTDA., Y CIA. S.C.A., Barranquilla, Colombia; c/o HOTELES E INMUEBLES DE COLOMBIA LTDA., Barranquilla, Colombia; c/o VESTIMENTA J Y J S. de H., Barranquilla, Colombia; c/o HAPPY DAYS S. de H., Barranquilla, Colombia; c/o INMOBILIARIA HOTELERA DEL CARIBE LTDA., Barranquilla, Colombia; c/o EDIFICACIONES DEL CARIBE LTDA., Barranquilla, Colombia; c/o INMOBILIARIA DEL CARIBE LTDA., Barranquilla, Colombia; c/o GRAN COMPANIA DE HOTELES LTDA., Barranquilla, Colombia; c/o DESARROLLOS URBANOS “DESARROLLAR” LTDA., Barranquilla, Colombia; DOB 6 Nov 1966; Cedula No. 72139939 (Colombia); Passport T705915 (Colombia); alt. Passport AC143719 (Colombia) (individual) [SDNT]

NASSER DAVID, Julio Cesar (a.k.a. PEREZ PENA, Jaime), c/o DESARROLLOS URBANOS “DESARROLLAR” LTDA., Barranquilla, Colombia; c/o PROMOTORA HOTEL BARRANQUILLA LTDA., Barranquilla, Colombia; c/o INVERSIONES PRADO TRADE CENTER LTDA., Barranquilla, Colombia; c/o INMOBILIARIA HOTELERA DEL CARIBE LTDA., Barranquilla, Colombia; c/o INMOBILIARIA DEL CARIBE LTDA., Barranquilla, Colombia; Carrera 38B No. 76-40, Barranquilla, Colombia; c/o PROMOCIONES Y CONSTRUCCIONES DEL CARIBE LTDA., Barranquilla, Colombia; c/o HOTELES E INMUEBLES DE COLOMBIA LTDA., Barranquilla, Colombia; c/o EDIFICACIONES DEL CARIBE LTDA., Barranquilla, Colombia; c/o SURAMERICANA DE HOTELES LTDA., Barranquilla, Colombia; c/o AGRICOLA SONGO LTDA., Barranquilla, Colombia; c/o INVERSIONES HOTELERAS DEL LITORAL LTDA., Barranquilla, Colombia; c/o PROMOCIONES Y CONSTRUCCIONES DEL CARIBE LTDA., Y CIA. S.C.A., Barranquilla, Colombia; Calle 74 No. 53-30, Barranquilla, Colombia; c/o NEGOCIOS Y PROPIEDADES DEL CARIBE LTDA., Barranquilla, Colombia; c/o GRAN COMPANIA DE HOTELES LTDA., Barranquilla, Colombia; DOB 1 Nov 1940; alt. DOB 1 Oct 1940; Cedula No. 3710619 (Colombia); Passport H130865 (Colombia) (individual) [SDNT]

NASUF, Tahir (a.k.a. NASOOF, Tahar; a.k.a. NASUF, Taher; a.k.a. NASUF, Tahir Mustafa; a.k.a. “ABU RIDA”; a.k.a. “ABU SALIMA EL LIBI”; a.k.a. “AL-QA'QA”), Manchester, United Kingdom; DOB 4 Nov 1961; alt. DOB 11 Apr 1961; POB Tripoli, Libya (individual) [SDGT]

NATIONAL CIGARETTES CO. LTD., P.O. Box 2083, Khartoum, Sudan; and all other branches in Sudan [SUDAN]

NATIONAL COMMITTEE FOR THE LIBERATION AND PROTECTION OF ALBANIAN LANDS (a.k.a. KKCMTSH) [BALKANS]

NATIONAL COTTON AND TRADE COMPANY, P.O. Box 1552, Khartoum, Sudan [SUDAN]

NATIONAL COUNCIL OF RESISTANCE (NCR) (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN); including its U.S. representative offices and all other offices worldwide [FTO] [SDGT]

NATIONAL ELECTRICITY CORPORATION, P.O. Box 1380, Khartoum, Sudan [SUDAN]

NATIONAL EXPORT-IMPORT BANK (N.K.A. BANK OF KHARTOUM GROUP), Sudanese Kuwait Commercial Centre, Nile Street, P.O. Box 2732, Khartoum, Sudan [SUDAN]

NATIONAL LIBERATION ARMY (a.k.a. NLA; a.k.a. UCK) [BALKANS]

NATIONAL LIBERATION ARMY (a.k.a. EJERCITO DE LIBERACION NACIONAL; a.k.a. ELN) [FTO] [SDGT]

NATIONAL MOVEMENT FOR THE LIBERATION OF KOSOVO (a.k.a. LKCK) [BALKANS]

NATIONAL REINSURANCE COMPANY (SUDAN) LIMITED, P.O. Box 443, Khartoum, Sudan [SUDAN]

NATIONAL STANDARDS AND CALIBRATION LABORATORY (a.k.a. NATIONAL CALIBRATION CENTRE; a.k.a. NSCL), P.O. Box 4470, Damascus, Syria [NPWMD]

NAUMAU, Uladzimir Uladzimiravich (a.k.a. NAUMOV, Vladimir Vladimirovich); DOB 1956; Minister of the Interior; Position also referred to as Minister of Internal Affairs (individual) [BELARUS]

NAVARRO HERNANDEZ, Yanet, c/o COPSERVIR LTDA., Bogota, Colombia; c/o CAJA SOLIDARIA, Bogota, Colombia; c/o LITOPHARMA, Barranquilla, Colombia; Cedula No. 32728558 (Colombia) (individual) [SDNT]

NAVARRO MARTINEZ, Samuel, Frankfurt, Germany (individual) [CUBA]

NAVARRO REYES, Fernando, c/o DROGAS LA REBAJA BARRANQUILLA S.A., Barranquilla, Colombia; c/o DROGAS LA REBAJA PRINCIPAL S.A., Bogota, Colombia; c/o DEPOSITO POPULAR DE DROGAS S.A., Cali, Colombia; c/o DROGAS LA REBAJA NEIVA S.A., Neiva, Colombia; c/o DROGAS LA REBAJA PEREIRA S.A., Pereira, Colombia; c/o SERVICIOS FARMACEUTICOS SERVIFAR S.A., Cali, Colombia; c/o DISTRIBUIDORA DEL VALLE E.U., Cali, Colombia; c/o DROGAS LA REBAJA CALI S.A., Cali, Colombia; c/o DROGAS LA REBAJA BOGOTA S.A., Bogota, Colombia; Cedula No. 16616177 (Colombia); Passport 16616177 (Colombia) (individual) [SDNT]

NAVIA DIAZ, Ricardo Alberto, c/o INTERNACIONAL DE DIVISAS S.A., Cali, Colombia; c/o OBURSATILES S.A., Cali, Colombia; c/o INTERNACIONAL DE DIVISAS S.A., LLC, Miami, FL; DOB 11 Nov 1961; Cedula No. 16662355 (Colombia); Passport 16662355 (Colombia) (individual) [SDNT]

NAVIERA MARITIMA DE AROSA, S.A., Paseo de Pereda 36, Apartado 141, 39004 Santander, Spain [CUBA]

NAVIGABLE WATER CORPORATION, c/o EMPRESA DE NAVEGACION CARIBE, Edificio Lonja del Comercio, Lamparilla 2, Caja Postal 1784, Havana 1, Cuba [CUBA]

NAWAY, Haji Ali (a.k.a. NAVAI, Ali; a.k.a. NAWAE, Ali; a.k.a. NAWA'EE, Ali; a.k.a. NAWAI, Ali; a.k.a. NAWA'I, Ali), Iran; Karachi, Pakistan; United Arab Emirates; DOB circa 1945; alt. DOB circa 1950; POB Sistan Va Baluchistan, Iran; nationality Iran (individual) [SDNTK]

NAYDO, Valeriy (a.k.a. NAIDO, Valerii), c/o CET AVIATION, P.O. Box 932—20C, Ajman, United Arab Emirates; Equatorial Guinea; DOB 10 Aug 1957; citizen Ukraine; Passport KC024178 (Ukraine); alt. Passport AC251295 (Ukraine) (individual) [LIBERIA]

NCUBE, Abedinico; DOB 13 Mar 1954; Deputy Minister of Public Service, Labor and Social Welfare (individual) [ZIMBABWE]

NDLOVU MOTORWAYS, c/o Sam Nujoma Street/Livingston Avenue, Harare, Zimbabwe [ZIMBABWE]

NDLOVU, Naison K.; DOB 22 Oct 1930; Politburo Secretary for Production and Labor (individual) [ZIMBABWE]

NDLOVU, Richard; DOB 26 Jun 1942; Politburo Deputy Commissariat (individual) [ZIMBABWE]

NDLOVU, Rose Jaele; DOB 27 Sep 1939; Passport AD000813 (Zimbabwe); Spouse of Sikhanyiso Ndlovu (individual) [ZIMBABWE]

NDLOVU, Sikhanyiso Duke; DOB 4 May 1937; Passport ZD001355 (Zimbabwe); Deputy Minister of Higher and Tertiary Education (individual) [ZIMBABWE]

'NDRANGHETA ORGANIZATION, Italy [SDNTK]

NDRECAJ, Maliq; DOB 22 Apr 1969; POB Maciteve, Serbia and Montenegro (individual) [BALKANS]

NEAL, Juanita; DOB 09 MAY 1947; Former Deputy Minister of Finance of Liberia (individual) [LIBERIA]

NEGEEN; Vessel Registration Identification IMO 9071519 (vessel) [NPWMD]

NEGOCIOS LOS SAUCES LTDA., Carrera 4 No. 4-21 of. 1501, Edificio Seguros Bolivar, Cali, Colombia; Apartado Aereo 10077, Cali, Colombia; NIT # 890328835-1 (Colombia) [SDNT]

NEGOCIOS LOS SAUCES LTDA. Y CIA. S.C.S. (f.k.a. INMOBILIARIA SAMARIA LTDA.), Calle 18, No. 106-96 of. 201/202, Cali, Colombia; Calle 13A 64-50 F102, Cali, Colombia; Calle 13 3-32 piso 13, Cali, Colombia; Carrera 4 12-41 of. 1501, Edificio Seguros Bolivar, Cali, Colombia; NIT # 890937859-0 (Colombia) [SDNT]

NEGOCIOS Y CAPITALES S.A., Avenida 30 de Agosto No. 34-51, Pereira, Colombia; NIT # 800101701-0 (Colombia) [SDNT]

NEGOCIOS Y PROPIEDADES DEL CARIBE LTDA. (f.k.a. NEGOCIAR LTDA.), Calle 74 No. 53-30, Barranquilla, Colombia; NIT # 890108102-8 (Colombia) [SDNT]

NEMBHARD, Norris (a.k.a. NEMHARD, Norris; a.k.a. “DEDO”; a.k.a. “DIDO”); DOB 5 Jan 1952; alt. DOB 12 May 1954; alt. DOB 5 Jan 1951; POB Jamaica (individual) [SDNTK]

NETHERLANDS CARIBBEAN BANK N.V., 5ta. Ave. No. 6407 esq. a 66, Miramar, Municipio Playa, La Habana, Cuba; Kaya WFG (Jombi) Mensing 14, P.O. Box 3895, Willemstad, Curacao, Netherlands Antilles [CUBA]

NEW GROVE (f.k.a. KASPAR) (vessel) [CUBA]

NEW HAIFA SUGAR FACTORY, Kashm el Girba, Sudan [SUDAN]

NEW HALFA SUGAR FACTORY COMPANY LIMITED (a.k.a. NEW HALFA SUGAR COMPANY), El Gamaa Street (Aljama Street), New Halfa, P.O. Box 511/3047, Khartoum, Sudan; E-mail Address sukar@sudanmail.net (Sudan) [SUDAN]

NEW KHARTOUM TANNERY, P.O. Box 17, Khartoum, Sudan [SUDAN]

NEW PEOPLE'S ARMY/COMMUNIST PARTY OF THE PHILIPPINES (a.k.a. COMMUNIST PARTY OF THE PHILIPPINES; a.k.a. CPP; a.k.a. NEW PEOPLE'S ARMY; a.k.a. NPA; a.k.a. NPP/CPP) [FTO] [SDGT]

NEW STATE (a.k.a. IRAN NEW STATE); Vessel Registration Identification IMO 9209336 (vessel) [NPWMD]

NG, Sor Hong (a.k.a. LAW, Cecilia; a.k.a. LO, Cecilia; a.k.a. NG, Cecilia), 3 Shenton Way, #10-01 Shenton House, Singapore 068805, Singapore; 150 Prince Charles Crescent, #18-03, Singapore 159012, Singapore; DOB 1958; citizen Singapore; Identification Number S1481823E (Singapore); Chief Executive, Managing Director, and Owner, Golden Aaron Pte. Ltd., Singapore; Director and Owner, G A Ardmore Pte. Ltd., Singapore; Chief Executive, Director and Owner, G A Capital Pte. Ltd., Singapore; Director and Owner, G A Foodstuffs Pte. Ltd., Singapore; Chief Executive, Director and Owner, G A Land Pte. Ltd., Singapore; Director and Owner, G A Resort Pte. Ltd., Singapore; Chief Executive, Director and Owner, G A Sentosa Pte. Ltd., Singapore; Chief Executive, Director and Owner, G A Treasure Pte. Ltd., Singapore; Director and Owner, G A Whitehouse Pte. Ltd., Singapore; Chief Executive, Manager, and Owner, S H Ng Trading Pte. Ltd., Singapore (individual) [BURMA]

NGUNI, Sylvester Robert; DOB 4 May 1955; Passport ZE215371 (Zimbabwe); Deputy Minister of Agriculture (individual) [ZIMBABWE]

NHEMA, Chenayaimoyo Dunstan Francis, 3 Farthinghill Road, Borrowdale, Harare, Zimbabwe; DOB 17 Apr 1959; Passport AD000966 (Zimbabwe); Minister of Environment and Tourism (individual) [ZIMBABWE]

NICE FANTASY GARMENT COMPANY LTD., 391/6—391/9 Soi Santi Thetsaban, Ratchada Phisek Road, Lat Yao precinct, Chatuchak district, Bangkok, Thailand [SDNTK]

NIDAL, Abu (a.k.a. AL BANNA, Sabri Khalil Abd Al Qadir); DOB May 1937; alt. DOB May 1940; POB Jaffa, Israel; Founder and Secretary General of ABU NIDAL ORGANIZATION (individual) [SDT]

NIEBLA CORDOZA, Rosario (a.k.a. NIEBLA CORDOSA, Rosario), La Calle Jesus Clark Flores # 48, Octava Seccion, Fraccionamiento Chapultepec, Tijuana, Baja California, Mexico; Avenida Paseo Lomas De Mazatlan 6, Lomas De Mazatlan, Mazatlan, Sinaloa 82110, Mexico; c/o ROSARIO NIEBLA CARDOZA A. EN P., Culiacan, Sinaloa, Mexico; S Madre Occidental 1323, Culiacan, Sinaloa 80178, Mexico; Calle Ciudades de Hermanas # 277, Colonia Guadalupe, Culiacan, Sinaloa, Mexico; Calle Ciudad Victoria 1168, Las Quintas, Culiacan, Sinaloa 80060, Mexico; c/o NUEVA INDUSTRIA DE GANADEROS DE CULIACAN S.A. DE C.V., Culiacan, Sinaloa, Mexico; c/o ESTABLO PUERTO RICO S.A. DE C.V., Culiacan, Sinaloa, Mexico; Avenida Manuel Vallarta 2141, Colonia Centro, Culiacan, Sinaloa 80129, Mexico; Calle Ciudad de Hermosillo # 1168, Fraccionamiento Las Quintas, Culiacan, Sinaloa 80060, Mexico; c/o JAMARO CONSTRUCTORES S.A. DE C.V., Culiacan, Sinaloa, Mexico; DOB 06 Oct 1946; POB Culiacan, Sinaloa, Mexico; citizen Mexico; nationality Mexico; C.U.R.P. NICR461006MSLBRS09 (Mexico); R.F.C. NICR-461006-T36 (Mexico) (individual) [SDNTK]

NIKOLIC, Dragan; DOB 26 Apr 1957; POB Vlasenica, Bosnia-Herzegovina; ICTY indictee (individual) [BALKANS]

NIKOLIC, Drago; DOB 9 Nov 1957; POB Vlasenica, Bosnia-Herzegovina; ICTY indictee (individual) [BALKANS]

NIKOLIC, Momir; DOB 20 Feb 1955; POB Bratunac, Bosnia-Herzegovina; ICTY indictee (individual) [BALKANS]

NIKOLIC, Zarko; DOB 7 May 1938; POB Sovljak, Serbia and Montenegro (individual) [BALKANS]

NILE CEMENT COMPANY LIMITED, P.O. Box 1502, Khartoum, Sudan; Factories at Rabak, St. 45-47, Khartoum Extension, Sudan [SUDAN]

NILE CEMENT FACTORY, P.O. Box 1502, Khartoum, Sudan; Rabak, Sudan [SUDAN]

NINO VALBUENA, Luis German, c/o COLPHAR S.A., Bogota, Colombia; Cedula No. 19423011 (Colombia); Passport 19423011 (Colombia) (individual) [SDNT]

NINTH OCEAN; Vessel Registration Identification IMO 9165798 (vessel) [NPWMD]

NIPPON-CARIBBEAN CO., LTD., Chuo-Ku, Akasaki-Chuo 1-1 Akasaki Bldg., Tokyo, Japan [CUBA]

NIREF, Boezembolcht 23, Rotterdam, Netherlands [CUBA]

NIRU BATTERY MANUFACTURING COMPANY (a.k.a. NIROU BATTERY MANUFACTURING SABA BATTERY COMPANY; a.k.a. NIRU CO. LTD.; a.k.a. SHERKAT BATTERY SAZI NIRU SAHAMI KHASS; a.k.a. THE NIRU BATTERY COMPANY), End of Pasdaran Avenue, Nobonyad Square, P.O. Box 19575-361, Tehran 16489, Iran; Next to Babee Exp. Way, Nobonyad Sq., P.O. Box 19575-361, Tehran, Iran [NPWMD]

NKOMO, Georgina Ngwenya, 59 Muchbimding Road, Worringham, Bulawayo, Zimbabwe; DOB 4 Aug 1966; Spouse of John Nkomo (individual) [ZIMBABWE]

NKOMO, John Landa, 59 Muchbimding Road, Worringham, Bulawayo, Zimbabwe; DOB 22 Aug 1934; Passport AD000477 (Zimbabwe); Speaker of Parliament & ZANU-PF National Chairman (individual) [ZIMBABWE]

NKOMO, Louise S. (a.k.a. NHEMA, Louise Sehulle), 3 Farthinghill Road, Borrowdale, Harare, Zimbabwe; DOB 25 Aug 1964; Passport ZE151361 (Zimbabwe); Spouse of Francis Nhema (individual) [ZIMBABWE]

NKOMO, Stephen; DOB 3 Oct 1926; Former Politburo Senior Committee Member; Deceased (individual) [ZIMBABWE]

NKUNDA, Laurent (a.k.a. NKUNDA BATWARE, Laurent; a.k.a. NKUNDA MAHORO BATWARE, Laurent; a.k.a. NKUNDA, General; a.k.a. NKUNDABATWARE, Laurent); DOB 6 Feb 1967; alt. DOB 2 Feb 1967; POB Rutshuru, North Kivu, Democratic Republic of the Congo; Founder, National Congress for the People's Defense; Senior Officer, Rally for Congolese Democracy-Goma (RCD-G), 1998-2006; Officer, Rwandan Patriotic Front (RPF), 1992-1998 (individual) [DRCONGO]

NO. 1 MINING ENTERPRISE, 90 Kanbe Road, Yankin, Rangoon, Burma [BURMA]

NO. 2 MINING ENTERPRISE, 90 Kanbe Road, Yankin, Rangoon, Burma [BURMA]

NO. 3 MINING ENTERPRISE, 90 Kanbe Road, Yankin, Rangoon, Burma [BURMA]

NOOR MUHAMMAD, Abdul Majeed (a.k.a. NOOR MOHAMMAD, Abdul Majid; a.k.a. NOOR MUHAMMED, Abdul Majid), c/o FMF GENERAL TRADING LLC, Dubai, United Arab Emirates; DOB 1957; POB Chagai, Pakistan; citizen Pakistan; Passport LA097936 (Pakistan) (individual) [SDNTK]

NOORZAI, Haji Bashir (a.k.a. BISHR, Haji); DOB 1961; POB Afghanistan (individual) [SDNTK]

NORDIC LTD. (a.k.a. NORDIK LIMITED EOOD), 9 Frederick J. Curie Street, Sofia 1113, Bulgaria [LIBERIA]

NORDSTRAND LTD., Liechtenstein [CUBA]

NORDSTRAND MARITIME AND TRADING COMPANY, 33 Akti Maouli, 185-35 Pireas (Piraeus), Greece [CUBA]

NORIEGA, Manuel Antonio, Panama (individual) [CUBA]

NORTH ISLAND SHIPPING CO. LTD., c/o UNION MARITIMA PORTUARIA, 9-Piso, Apartado B, Esquina Cuarteles y Pena Pobre 60, Havana Vieje, Havana, Cuba [CUBA]

NORTH ISLANDS (vessel) [CUBA]

NORTHWEST SENNAR SUGAR FACTORY, Northwest Sennar, Sudan [SUDAN]

NOVA CARVAJAL, Mary Luz, c/o ABS HEALTH CLUB SA, Bogota, Colombia; c/o SOCIEDAD SUPERDEPORTES LTDA., Bogota, Colombia; DOB 19 Dec 1974; citizen Colombia; nationality Colombia; Cedula No. 52253223 (Colombia) (individual) [SDNT]

NOVAPINSKI LTDA., Avenida 3 No. 21-50, Cali, Colombia; NIT # 800246936-7 (Colombia) [SDNT]

NOVIN ENERGY COMPANY (a.k.a. ENERGY NOVIN; a.k.a. NOVEEN ENERGY COMPANY), End of North Karegar Avenue, Tehran, Iran [NPWMD]

NTAWUNGUKA, Pacifique (a.k.a. COLONEL OMEGA; a.k.a. NTAWUNGULA, Pacifique; a.k.a. NZERI), Peti, Walikale, Masisi Border, Congo, Democratic Republic of the; DOB 1 Jan 1964; alt. DOB 1964; POB Gaseke, Gisenyi Province, Rwanda; Colonel; Commander of FDLR 1st Division (individual) [DRCONGO]

NUCLEAR RESEARCH CENTER FOR AGRICULTURE AND MEDICINE (a.k.a. CENTER FOR AGRICULTURAL RESEARCH AND NUCLEAR MEDICINE; a.k.a. KARAJ NUCLEAR RESEARCH CENTER; a.k.a. NRCAM; a.k.a. “KARAJI AGRICULTURAL AND MEDICAL RESEARCH CENTER”), P.O. Box 31585-4395, Karaj, Iran [NPWMD]

NUEVA INDUSTRIA DE GANADEROS DE CULIACAN S.A. DE C.V. (a.k.a. DORA PASTEURIZA DE LECHE SANTA MONICA; f.k.a. INDUSTRIAS DE GANADEROS S.A. DE C.V.; a.k.a. LECHERIA SANTA MONICA; a.k.a. SANTA MONICA DAIRY), Avenida Vallarta 2141, Colonia Centro, Culiacan, Sinaloa 80060, Mexico; Carretera A Navolato, Colonia Bachigualato, Culiacan, Sinaloa 80060, Mexico; Calle Tomate 10 Bodega 34Y5, Colonia Mercado Abastos, Culiacan, Sinaloa 83170, Mexico; Matamoros 5, Escuinapa, Sinaloa 82478, Mexico; Carretera Los Mochis Topolobampo, KM. 5.2, Los Mochis, Sinaloa, Mexico; Calle Federalismo 2000, Colonia Recursos Hidraulicos, Culiacan, Sinaloa 80060, Mexico; Avenida Xicotencalth # 1795, Colonia Las Quintas, Culiacan, Sinaloa 80060, Mexico; Chamizal S/N, La Cruz, Sinaloa 82700, Mexico; Carretera Internacional 1845, Bodega 8 y 10, Colonia Zona Industrial 2, Ciudad Obregon, Sonora 85065, Mexico; Carretera A Topolobampo 5, Colonia Ninos Heroes, Ahome, Sinaloa 81290, Mexico; Avenida Francisco Villa Norte 135, Colonia Ninos Heroes, Salvador Alvarado, Sinaloa 81400, Mexico; Carretera La Cruz KM 15 S/N, Colonia Arroyitos, La Cruz, Sinaloa 82700, Mexico; Plaza Azul S/N, Colonia Las Brisas, Tecuala, Nayarit, Mexico; Calle Sauces 384, Colonia Del Bosque, Guasave, Sinaloa 81020, Mexico; Calle Central Local A10, Colonia Mercado Abastos, Cajeme, Sonora 85000, Mexico; Calle Jose Diego Abad 2923, Colonia Bachigualato, Culiacan, Sinaloa 80140, Mexico; Calle/Boulevard Doctor Mora 1230, Colonia Las Quintas, Culiacan, Sinaloa 80060, Mexico; Carretera Internacional al Norte KM 1.5, 1207, Colonia Ejido Venadillo, Mazatlan, Sinaloa 82129, Mexico; Carretera Augstin Olachea Local 30, Colonia Pericues, La Paz, Baja California Sur 23090, Mexico; Calle Prolongacion Morelos y Matamoros S/N, Colonia Benito Juarez, Escuinapa, Sinaloa 82400, Mexico; R.F.C. NIG-8802029-Y7 (Mexico) [SDNTK]

NUMA SANJUAN, Antonieta, c/o INTERCONTINENTAL DE AVIACION S.A., Bogota, Colombia; c/o ACCIRENT S.A., Bogota, Colombia; Avenida 0 No. 10-38, Cucuta, Norte de Santander, Colombia; DOB 20 Oct 1962; POB Ocana, Norte de Santander, Colombia; Cedula No. 60291819 (Colombia); Passport AC227693 (Colombia); alt. Passport AE227693 (Colombia) (individual) [SDNT]

NUNEZ TOLBANOS, Vicente Antonio, c/o COLIMEX LTDA., Cali, Colombia; c/o CPV SISTEMAS GRAFICOS S.L., Madrid, Spain; c/o JAROMO INVERSIONES S.L., Madrid, Spain; c/o RODRIGUEZ Y TOLBANOS S.A., Alcala de Henares, Madrid, Spain; N.I.E. 8966981-V (Spain) (individual) [SDNT]

NYAMBUYA, Michael Rueben; DOB 23 Jul 1955; Passport AN045019 (Zimbabwe); Minister of Energy and Power Development (individual) [ZIMBABWE]

NYEIN, Chan (a.k.a. NYEIN, Chan, Dr.; a.k.a. NYEIN, Chang, Dr.), Burma; DOB 1944; citizen Burma; nationality Burma; Minister of Education (individual) [BURMA]

NYONI, Peter Baka; DOB 10 Jan 1950; Passport ZD002188 (Zimbabwe); Spouse of Sithembiso Nyoni (individual) [ZIMBABWE]

NYONI, Sithembiso; DOB 20 Sept 1949; Passport AD000223 (Zimbabwe); Minister of Small and Medium Enterprises Development (individual) [ZIMBABWE]

NZEYIMANA, Stanislas (a.k.a. BIGARUKA; a.k.a. BIGARUKA IZABAYO, Deogratias; a.k.a. BIGARURA; a.k.a. IZABAYO DEO), Kalonge, Masisi, North Kivu, Congo, Democratic Republic of the; Kibua, Congo, Democratic Republic of the; DOB 1 Jan 1966; alt. DOB 28 Aug 1966; alt. DOB 1967; POB Mugusa (Butare), Rwanda; citizen Rwanda; Brig. General; Deputy Overall Commander FOCA (individual) [DRCONGO]

OASIS FREIGHT AGENCIES (a.k.a. OASIS FREIGHT AGENCY LLC), Kayed Ahli Building, Jamal Abdul Nasser Road (Parallel to Al Wahda St.), P.O. Box Box 4840, Sharjah, United Arab Emirates; Sharaf Building, No. 4, 2nd Floor, Al Meena Road, Opposite Customs, Dubai, United Arab Emirates; Sharaf Building, 1st Floor, Al Mankhool St., Bur Dubai, P.O. Box 5562, Dubai, United Arab Emirates [NPWMD]

OBRENOVIC, Dragan; DOB 12 Apr 1963; POB Matino Brdo, Bosnia-Herzegovina; ICTY indictee (individual) [BALKANS]

OBURSATILES S.A. (a.k.a. OPERACIONES BURSATILES S.A. COMISIONISTA DE BOLSA), Carrera 7 No. 74-56 of. 909, Bogota, Colombia; Carrera 15 No. 87-32, Bogota, Colombia; Carrera 22 No. 18-65 Local 28, Manizales, Colombia; Calle 10 No. 4-40 of. 312, Cali, Colombia; Carrera 28 No. 29-06 Local 104, Palmira, Colombia; Centro Comercial Cosmocentro Local 103, Cali, Colombia; Transversal 71D No. 26-94 Sur Local 3504, Bogota, Colombia; Avenida 4N No. 4N-30, Cali, Colombia; Avenida 68 No. 75A-50 Local 230, Bogota, Colombia; Calle 19 No. 5-48 Local 226, Pereira, Colombia; Carrera 49 No. 52-81 L-9923, Medellin, Colombia; Carrera 52 No. 72-65 Local 106, Barranquilla, Colombia; Carrera 66B No. 34A-76 Local 227, Medellin, Colombia; NIT # 800012425-0 (Colombia) [SDNT]

OCAMPO ROMAN, Carlos Jose, c/o CONSTRUCCIONES ASTRO S.A., Cali, Colombia; DOB 2 Feb 1959; Cedula No. 6401478 (Colombia) (individual) [SDNT]

OCCIDENTAL COMUNICACIONES LTDA., Calle 19N No. 2N-29 piso 10 Sur, Cali, Colombia; Calle 44N No. 2BN-10, Cali, Colombia; NIT # 800146996-1 (Colombia) [SDNT]

OCCIDENTAL DE PAPELES LTDA. (a.k.a. OCCIPAPEL LTDA.), Avenida 2D No. 24N-06, Cali, Colombia; NIT # 805017535-3 (Colombia) [SDNT]

OCEAN CANDLE (a.k.a. IRAN OCEAN CANDLE); Vessel Registration Identification IMO 9167253 (vessel) [NPWMD]

OCEJO MIRAMONTES, Alfredo Eugenio, c/o QUINTA REAL JARDIN SOCIAL Y DE EVENTOS, S.A. DE C.V., Tijuana, Baja California, Mexico; Via Rapida Oriente 10950, Altos Rio Tijuana, Tijuana, Baja California, Mexico; Sinaloa, Calle 112 Mexico, Tijuana, Baja California 22150, Mexico; DOB 26 May 1964; POB Baja California, Mexico; C.U.R.P. OEMA640526HBCCRL05 (Mexico); R.F.C. OEMA-640526-AJ3 (Mexico) (individual) [SDNTK]

OCHOA VASCO, Fabio Enrique (a.k.a. GONZALEZ ZAPATA, Antonio; a.k.a. MARTINEZ PEREZ, Juan Carlos; a.k.a. OCHOA VASCO, Carlos Mario; a.k.a. VEGA TOBON, Carlos Mario; a.k.a. “CARLOS MARIO”; a.k.a. “KIKO”; a.k.a. “KIKO EL CHIQUITO”), Av Mexico 2867-17, Col Vallarta, Norte, Guadalajara, Jalisco 44690, Mexico; Medellin, Antioquia, Colombia; Av Miguel Angel 18, Real Vallarta, Zapopan, Jalisco 44020, Mexico; DOB 22 Nov 1960; alt. DOB 20 Nov 1963; POB Medellin, Colombia; Cedula No. 79281039 (Colombia); alt. Cedula No. 15508422 (Colombia); Passport AE063894 (Colombia) (individual) [SDNT]

OCTUBRE HOLDING SOCIETE ANONIME (a.k.a. OCTOBER HOLDING COMPANY), Vaduz, Liechtenstein [CUBA]

ODESSA AIR (f.k.a. OKAPI AIR), Entebbe, Uganda [LIBERIA]

OFFENBACH HAUSHALTWAREN B.V., Rietlanden 5—A, Beverwijk 1948, Netherlands; Rietlanden 5—7, Beverwijk 1948 NE, Netherlands; C.R. No. 28094396 (Netherlands) [SDNTK]

OGUNGBUYI, Abeni O. (a.k.a. BABESTAN, Abeni O.; a.k.a. SHOFESO, Olatutu Temitope); DOB 30 Jun 1952; POB Nigeria (individual) [SDNTK]

OGUNGBUYI, Oluwole A. (a.k.a. ADEMULERO, Babestan Oluwole; a.k.a. BABESTAN, Wole A.; a.k.a. OGUNGBUYI, Wally; a.k.a. OGUNGBUYI, Wole A.; a.k.a. SHOFESO, Olatude I.; a.k.a. SHOFESO, Olatunde Irewole); DOB 4 Mar 1953; POB Nigeria (individual) [SDNTK]

OIL CORPORATION, P.O. Box 64, Khartoum, Sudan [SUDAN]

OJDANIC, Dragoljub; DOB 1 Jun 1941; POB Ravni-Cajetina, Serbia and Montenegro; Ex-Fry Minister of Defense; ICTY indictee in custody (individual) [BALKANS]

OLARRA GURIDI, Juan Antonio; DOB 11 Sep 1967; POB San Sebastian, Guipuzcoa Province, Spain; D.N.I. 30.084.504 (Spain); Member ETA (individual) [SDGT]

OLARTE LOMBANA, Alonso (a.k.a. GUZMAN FLOREZ, Reinel; a.k.a. “LUIS EDUARDO MARIN”; a.k.a. “RAFAEL GUTIERREZ”); DOB 7 Nov 1960; alt. DOB 11 Apr 1957; POB Bogota, Colombia; alt. POB Natagaima, Tolima, Colombia; citizen Colombia; nationality Colombia; Cedula No. 18260876 (Colombia) (individual) [SDNTK]

OLAYA ROSCIASCO, Patricia Esperanza, c/o LABORATORIOS PROFARMA LTDA., Bogota, Colombia; DOB 30 Mar 1963; Cedula No. 51698439 (Colombia); Passport 51698439 (Colombia) (individual) [SDNT]

OLDHAM FARM, Chegutu, Zimbabwe [ZIMBABWE]

OLIVAS OJEDA, Jesus Joaquin, Av. Sexecnal No. 3043, Col. Republica Mexicana, Culiacan, Sinaloa, Mexico; c/o COMERCIALIZADORA TOQUIN, S.A. DE. C.V., Guadalajara, Jalisco, Mexico; DOB 25 Oct 1955; citizen Mexico; nationality Mexico; R.F.C. OIOJ551025S49 (Mexico) (individual) [SDNTK]

OLIVAS OJEDA, Juan Carlos, c/o COMERCIALIZADORA BRIMAR'S, S.A. DE. C.V., Culiacan, Sinaloa, Mexico; Calle Sierra Madre del Sur No. 1525-A, Infonavit Canadas, Culiacan, Sinaloa, Mexico; DOB 14 Mar 1965; POB Navolato, Sinaloa, Mexico; citizen Mexico; nationality Mexico (individual) [SDNTK]

OLIVAS OJEDA, Marco Antonio, Ave. Naciones Unidas No. 5677-4, Condominio Essex, Jard. de la Parque Regenci., Zapopan, Jalisco, Mexico; Calle Jesus Almada No. 214, Colonia Pueblo Nuevo 1, Navolato, Sinaloa, Mexico; c/o SIN-MEX IMPORTADORA, S.A. DE C.V., Guadalajara, Jalisco, Mexico; c/o COMERCIAL JOANA, S.A. DE C.V., Guadalajara, Jalisco, Mexico; c/o TOYS FACTORY, S.A. DE C.V., Tijuana, Baja California, Mexico; c/o COMERCIAL DOMELY, S.A. DE C.V., Toluca, Mexico, Mexico; c/o COMERCIALIZADORA BRIMAR'S, S.A. DE. C.V., Culiacan, Sinaloa, Mexico; DOB 14 Jun 1960; POB Navolato, Sinaloa, Mexico; citizen Mexico; nationality Mexico; C.U.R.P. OIOM600614HSLLJR08 (Mexico); Electoral Registry No. OIOJMR60061425H900 (Mexico); R.F.C. OIOM600614YA5 (Mexico) (individual) [SDNTK]

OLIVELLA CELEDON, Jaime Antonio, Carrera 5 No. 86-36 Apt. 402, Bogota, Colombia; c/o INTERCONTINENTAL DE AVIACION S.A., Bogota, Colombia; DOB 23 May 1944; POB Augustin Codazzi, Cesar, Colombia; Cedula No. 17100787 (Colombia); Passport AG619501 (Colombia); alt. Passport AE542565 (Colombia); alt. Passport AC557754 (Colombia) (individual) [SDNT]

OLIVEROS GUZMAN, Henry, c/o MAYOR COMERCIALIZADORA LTDA., Bogota, Colombia; c/o INVERSIONES MPS S.A., Bogota, Colombia; c/o HOTEL LA CASCADA S.A., Girardot, Colombia; c/o MOR ALFOMBRAS ALFOFIQUE S.A., Bogota, Colombia; c/o GERENCIA DE PROYECTOS Y SOLUCIONES LTDA., Bogota, Colombia; POB Colombia; Cedula No. 79484051 (Colombia) (individual) [SDNT]

OMAIRI, Farouk (a.k.a. AL-OMAIRI, Faruk; a.k.a. AL-UMAYRI, Faruz; a.k.a. OMAIRI, Farouk Abdul Haj; a.k.a. UMAIRI, Faruq), 605 Avenida Brasil, Apt No. 48, Foz do Iguacu, Brazil; DOB 6 Dec 1945; POB Hermel, Lebanon; citizen Brazil (individual) [SDGT]

OMAR, Mohammed, Afghanistan; DOB 1950; POB Hotak, Kandahar Province, Afghanistan; Commander of the Faithful (“Amir al-Munineen”) (individual) [SDGT]

OMDURMAN SHOE FACTORY, Omdurman, Sudan [SUDAN]

OMRAN SAHEL, Tehran, Iran [NPWMD]

OMRAN, Karim Dhaidas, Iraq (individual) [IRAQ2]

ONYX ISLANDS (vessel) [CUBA]

OO, Maung; DOB 1952; citizen Burma; nationality Burma; Major General; Minister of Home Affairs (individual) [BURMA]

OO, Tin Aung Myint (a.k.a. OO, Thiha Thura Tin Aung Myint); DOB 27 May 1950; citizen Burma; nationality Burma; Lieutenant-General; Quartermaster General; Minister of Military Affairs; Member, State Peace and Development Council (individual) [BURMA]

OPERADORA DE CAJA Y SERVICIOS, S.A. DE C.V., Diaz Ordaz Blvd., 9B del Prado, Tijuana, Baja California, Mexico; Blvd. Agua Caliente 9231, Cacho, Tijuana, Baja California, Mexico; R.F.C. OCS-920326-850 (Mexico) [SDNTK]

OPERADORA INTEGRAL DE COMERCIO, S.A. DE C.V., Blvd. Bellas Artes, No. 17686, No. Int. 5, Col. Garita de Otay, Tijuana, Baja California, Mexico; R.F.C. OIC040925SA9 (Mexico) [SDNTK]

OPERADORA VALPARK, S.A. DE C.V., Calle Netzahuacoyotl y Paseo Centenario, Tijuana, Baja California, Mexico; Avenida Cuauhtemoc 1711, Ofc. 305A, Zona Rio, Tijuana, Baja California, Mexico [SDNTK]

ORANGE VOLUNTEERS, United Kingdom [SDGT]

ORBE SEVILLANO, Zigor; DOB 22 Sep 1975; POB Basauri, Vizcaya Province, Spain; D.N.I. 45.622.851 (Spain); Member ETA (individual) [SDGT]

ORGANIZACION EMPRESARIAL A DE J HENAO M E HIJOS Y CIA. S.C.S., Carrera 4A No. 16-04 apt. 303, Cartago, Colombia; Km. 5 Via Aeropuerto, Hacienda Coque, Cartago, Colombia; NIT # 800157331-1 (Colombia) [SDNT]

ORGANIZACION LUIS HERNANDO GOMEZ BUSTAMANTE Y CIA S.C.S., Carrera 4 No. 12-20 of. 206, Cartago, Valle, Colombia; NIT # 800140477-1 (Colombia) [SDNT]

ORIC, Naser; DOB 3 Mar 1967; POB Potocari, Bosnia-Herzegovina; ICTY indictee in custody (individual) [BALKANS]

ORIENT SHIPPING LIMITED, Lot 18, Bay Street, Kingstowne, Saint Vincent and the Grenadines [IRAQ2]

ORIENT STAR CORPORATION (a.k.a. ORIENT STAR AVIATION), 811 S. Central Expwy., Ste 210, Richardson, TX 75080 [LIBERIA]

ORIENTAL OIL KISH, Second Floor, 96/98 East Atefi St., Africa Blvd., Tehran, Iran; Dubai, United Arab Emirates [NPWMD]

ORIENTE CONTRATISTAS GENERALES S.A., Jr. San Martin 707, Int. 201, Trujillo, Peru; RUC # 20167975616 (Peru) [SDNTK]

ORIENTE TOURS S.R.L., Jr. Soledad 113, Oficina 302, Lima, Peru; RUC # 20107539884 (Peru) [SDNTK]

ORIMAR LTDA., Carrera 19 No. 57-33, Bogota, Colombia; NIT # 801076804-7 (Colombia) [SDNT]

ORLANDO SABOGAL ZULUAGA E HIJOS & CIA S EN C, Hacienda Portugal, Ansermanuevo, Valle, Colombia; NIT # 800181393-7 (Colombia) [SDNT]

OROPEZA MEDRANO, Francisco Javier, c/o Farmacia Vida Suprema, S.A. DE C.V., Tijuana, Baja California, Mexico; Avenida Los Reyes 18108-D, Fraccionamiento Villa de Baja California 22684, Tijuana, Baja California, Mexico; DOB 23 Feb 1968; POB Coahuila, Mexico (individual) [SDNTK]

OROZCO CARDENAS, Adrian, c/o Farmacia Vida Suprema, S.A. DE C.V., Tijuana, Baja California, Mexico; c/o Distribuidora Imperial De Baja California, S.A. de C.V., Tijuana, Baja California, Mexico; c/o ADP, S.C., Tijuana, Baja California, Mexico; c/o Forpres, S.C., Tijuana, Baja California, Mexico; Privada Colonia del Valle 7001, Fraccionamiento Residencial Agua Caliente, Tijuana, Baja California, Mexico; c/o Administradora De Inmuebles Vida, S.A. de C.V., Tijuana, Baja California, Mexico; Calle Circunvalacion Sur 273-5, Colonia Las Fuentes 45070, Zapopan, Jalisco, Mexico; DOB 14 Sep 1953; POB Distrito Federal, Mexico (individual) [SDNTK]

OROZCO LOPEZ, Orlando, c/o ASESORIAS ECONOMICAS MUNOZ SANTACOLOMA E.U., Cali, Colombia; c/o CHAMARTIN S.A., Cali, Colombia; Cedula No. 16736406 (Colombia); Passport 16736406 (Colombia) (individual) [SDNT]

OROZCO NINO, Carlos Alberto, c/o RENTAR INMOBILIARIA S.A., Cali, Colombia; c/o PROSALUD S.A. Y BIENESTAR S.A., Cali, Colombia; c/o COMERCIALIZADORA INTERTEL S.A., Cali, Colombia; DOB 16 Oct 1967; Cedula No. 16745992 (Colombia); Passport 16745992 (Colombia) (individual) [SDNT]

ORS, Jose Antonio Rego, Tokyo, Japan (individual) [CUBA]

ORTEGA PINA, Dario, Edificio Saldivar, Panama City, Panama (individual) [CUBA]

ORTIZ CARDONA, Gloria, c/o MACROFARMA S.A., Pereira, Colombia; Cedula No. 34056678 (Colombia); Passport 34056678 (Colombia) (individual) [SDNT]

ORTIZ PALACIOS, Willington Alfonso (a.k.a. ORTIZ PALACIO, Willington Alfonso), Avenida 5AN No. 23D-68 piso 2 L-113, Cali, Colombia; Calle 5 No. 25-65, Cali, Colombia; Carrera 62 Bis No. 6A, Cali, Colombia; c/o CREACIONES DEPORTIVAS WILLINGTON LTDA., Cali, Colombia; Cedula No. 19159807 (Colombia); Passport AF582577 (Colombia) (individual) [SDNT]

ORTIZ, Guadalupe, Cubanatur, Baja California 255, Edificio B, Oficina 103, Condesa 06500, Mexico, D.F., Mexico (individual) [CUBA]

ORYX NATURAL RESOURCES (a.k.a. ORYX DIAMONDS; a.k.a. ORYX DIAMONDS (PTY) LTD; a.k.a. ORYX DIAMONDS LTD.; a.k.a. ORYX ZIMCON (PVT) LIMITED), S Drive, George Town, Grand Cayman, Cayman Islands; Bermuda; Parc Nicol Offices, Bldg. 6, 301, William Nicol Drive, Bryanston, Gauteng 2021, South Africa; Alexander Forbes Building, Windhoek, Namibia; 3, Victor Darcy Close, Borrowdale, Harare, Zimbabwe; Bank of Nova Scotia Bldg., Fourth Floor, George Town, Grand Cayman, Cayman Islands [ZIMBABWE]

OSLEG (a.k.a. OPERATION SOVEREIGN LEGITIMACY; a.k.a. OSLEG (PVT.) LTD.; a.k.a. OSLEG ENTERPRISES; a.k.a. OSLEG MINES; a.k.a. OSLEG MINING AND EXPLORATION; a.k.a. OSLEG VENTURES), Lonhoro House, Union Avenue, Harare, Zimbabwe [ZIMBABWE]

OSORIO AVILA, Orlando, c/o CASA GRAJALES S.A., La Union, Valle, Colombia; c/o INVERSIONES SANTA CECILIA S.C.S., La Union, Valle, Colombia; c/o EAGLE COMMUNICATION BROKERS INC., Panama City, Panama; Calle 14 No. 16-54, La Union, Valle, Colombia; c/o FREXCO S.A., La Union, Valle, Colombia; c/o TRANSPORTES DEL ESPIRITU SANTO S.A., La Union, Valle, Colombia; c/o FUNDACION CENTRO DE INVESTIGACION HORTIFRUTICOLA DE COLOMBIA, La Union, Valle, Colombia; c/o GRAJALES S.A., La Union, Valle, Colombia; c/o INDUSTRIAS DEL ESPIRITU SANTO S.A., Malambo, Atlantico, Colombia; c/o HOTEL LOS VINEDOS, La Union, Valle, Colombia; c/o FUNDACION CENTRO FRUTICOLA ANDINO, La Union, Valle, Colombia; c/o GAD S.A., La Union, Valle, Colombia; Cedula No. 6355939 (Colombia) (individual) [SDNT]

OSORIO CADAVID, Maria Victoria, c/o DERECHO INTEGRAL Y CIA. LTDA., Cali, Colombia; c/o COLOR 89.5 FM STEREO, Cali, Colombia; Cedula No. 31932294 (Colombia) (individual) [SDNT]

OSORIO VALENCIA, James Augusto, Carrera 26 No. 8-60, Cali, Colombia; Calle 4N No. 1-10, Apt. 901, Cali, Valle, Colombia; c/o INVERSIONES BRASILAR S.A., Bogota, Colombia; c/o AGROPECUARIA LINDARAJA S.A., Cali, Colombia; DOB 16 Nov 1959; POB Miranda, Cauca, Colombia; citizen Colombia; nationality Colombia; Cedula No. 14880646 (Colombia); Passport AE758158 (Colombia); alt. Passport AG940978 (Colombia) (individual) [SDNT]

OSPINA LIZALDA, Marina, c/o CHAMARTIN S.A., Cali, Colombia; c/o ADMINISTRADORA DE SERVICIOS VARIOS CALIMA S.A., Cali, Colombia; Cedula No. 31838118 (Colombia); Passport 31838118 (Colombia) (individual) [SDNT]

OSPINA PRADA, Maria del Carmen, c/o INVERSIONES INMOBILIARIA QUILICHAO S.A. Y CIA S.C.A., Cali, Colombia; Calle 98 No. 9-41, Apt. 1102, Bogota, Colombia; c/o MIRACANA INMOBILIARIA QUILCHAO S.A. & CIA S.C.A., Cali, Colombia; DOB 04 Jul 1953; POB San Luis, Tolima, Colombia; citizen Colombia; nationality Colombia; Cedula No. 41700627 (Colombia); Passport AH715906 (Colombia); alt. Passport AH456850 (Colombia) (individual) [SDNT]

OSSA AYALA, Alvaro Javier, c/o GANADERIA LUNA HERMANOS LTDA., Medellin, Colombia; c/o INVERSIONES LICOM LTDA., Medellin, Colombia; c/o CASA DEL GANADERO S.A., Medellin, Colombia; c/o INVERSIONES EL MOMENTO S.A., Medellin, Colombia; c/o SOCIEDAD MINERA GRIFOS S.A., El Bagre, Antioquia, Colombia; c/o ADMINISTRADORA GANADERA EL 45 LTDA., Medellin, Colombia; Cedula No. 98528421 (Colombia) (individual) [SDNT]

OTALORA RESTREPO, Edgar Marino, c/o DISDROGAS LTDA., Yumbo, Valle, Colombia; Cedula No. 5198602 (Colombia) (individual) [SDNT]

OTEGUI UNANUE, Mikel; DOB 8 Oct 1972; POB Itsasondo, Guipuzcoa Province, Spain; D.N.I. 44.132.976 (Spain); Member ETA (individual) [SDGT]

OUAZ, Najib (a.k.a. AL-WAZ, Najib Ben Mohamed Ben Salem), Vicolo dei Prati n.2/2, Bologna, Italy; DOB 12 Apr 1960; POB Hekaima Al-Mehdiya, Tunisia; nationality Tunisia; Passport K 815205 issued 17 Sep 1994 expires 16 Sep 1999 (individual) [SDGT]

OUTSOURCING DE OPERACIONES S.A. (a.k.a. AFIAZACREDIT; a.k.a. AVANTECARD; a.k.a. CREDIAVANTE; f.k.a. SERVICIOS Y REMESAS S.A.; a.k.a. TURISMO AVANTE), Calle 52A No. 9-86 piso 2 y piso 3, Bogota, Colombia; NIT # 805021157-8 (Colombia) [SDNT]

OVERSEAS TRADING COMPANY (a.k.a. “DURATEX GUATEMALA”; a.k.a. “DURATEX S.A.”), 7A Avenida 9-15, Zona 12 Colonia La Reformita, Guatemala City, Guatemala; Barrio del Monte 1 Avenida 2-51, Zona 1 Colonia ViCanales No. 4, Guatemala City, Guatemala; 20 Calle 20-81 Zona 10, Guatemala City, Guatemala; NIT # 2500971-0 (Guatemala) [SDNT]

OZIA MAZIO, Dieudonne (a.k.a. “OMARI”); DOB 6 Jun 1949; POB Ariwara, DRC; citizen Congo, Democratic Republic of the (individual) [DRCONGO]

OZLAM PROPERTIES LIMITED, 88 Smithdown Road, Liverpool L7 4JQ, United Kingdom; Registered Charity No. 05258730 [SDGT]

PABON ALVARADO, Gustavo Alberto, c/o PROYECTOS Y SOLUCIONES INMOBILIARIA LTDA., Bogota, Colombia; c/o GERENCIA DE PROYECTOS Y SOLUCIONES LTDA., Bogota, Colombia; c/o ACUICOLA SANTA CATALINA S.A., Bogota, Colombia; Avenida 13 No. 100-12 Ofc. 302, Bogota, Colombia; c/o PROYECTOS Y SOLUCIONES S.A., Bogota, Colombia; c/o INVERSIONES MPS S.A., Bogota, Colombia; c/o HOTEL LA CASCADA S.A., Girardot, Colombia; c/o FLORIDA SOCCER CLUB S.A., Medellin, Colombia; DOB 6 May 1955; POB Bogota, Colombia; Cedula No. 79146243 (Colombia) (individual) [SDNT]

PACHECO MEJIA, Luis, Calle Paseo de Los Virreyes No. 4022, Colonia San Wenceslao, Zapopan, Jalisco, Mexico; c/o FLORIDA SOCCER CLUB S.A., Medellin, Colombia; DOB 18 Jun 1951; POB Guadalajara, Jalisco, Mexico; Passport 03140120376 (Mexico); RFC PAML-510618-ED7 (Mexico) (individual) [SDNT]

PACHECO, Rosa Elena, c/o LEMOFAR LTDA., Bogota, Colombia; DOB 2 Jan 1958; Cedula No. 36162233 (Colombia); Passport 36162233 (Colombia) (individual) [SDNT]

PADILLA ORTIZ, Marino, c/o MEGAPHARMA LTDA., Bogota, Colombia; c/o CAJA SOLIDARIA, Bogota, Colombia; Carrera 97 No. 39-75, Bogota, Colombia; c/o COPSERVIR LTDA., Bogota, Colombia; DOB 1 Aug 1965; Cedula No. 80408422 (Colombia) (individual) [SDNT]

PADRON TRUJILLO, Amado, Panama (individual) [CUBA]

PALACIO ADARVE, John Ricardo; DOB 11 Mar 1969; POB Itagui, Antioquia, Colombia; Cedula No. 70697538 (Colombia) (individual) [SDNT]

PALACIOS ALDAY, Gorka; DOB 17 Oct 1974; POB Baracaldo Vizcaya Province, Spain; D.N.I. 30.654.356; Member ETA (individual) [SDGT]

PALESTINE ISLAMIC JIHAD—SHAQAQI FACTION (a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINIAN ISLAMIC JIHAD; a.k.a. PIJ; a.k.a. PIJ-SHALLAH FACTION; a.k.a. PIJ-SHAQAQI FACTION; a.k.a. SAYARA AL-QUDS) [SDT] [FTO] [SDGT]

PALESTINE LIBERATION FRONT—ABU ABBAS FACTION (a.k.a. PALESTINE LIBERATION FRONT; a.k.a. PLF; a.k.a. PLF-ABU ABBAS) [SDT] [FTO] [SDGT]

PALESTINIAN ASSOCIATION IN AUSTRIA (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINIAN MARTYRS FOUNDATION (a.k.a. AL-SHAHID FOUNDATION-PALESTINIAN BRANCH; a.k.a. MUASSASAT SHAHID FILISTIN; a.k.a. PALESTINIAN MARTYRS INSTITUTION GROUP; a.k.a. SHAHID FUND), Lebanon [SDGT]

PALMA MOCHA (vessel) [CUBA]

PALMA RODRIGUEZ, Geovanny (a.k.a. PALMA RODRIGUEZ, Giovanni; a.k.a. PALMA RODRIGUEZ, Giovanny), c/o COPSERVIR LTDA., Bogota, Colombia; Carrera 8A No. 45B-82, Barranquilla, Colombia; c/o LITOPHARMA, Barranquilla, Colombia; Cedula No. 72175536 (Colombia) (individual) [SDNT]

PALMA SAADE, Jessica Maria, Calle 78 No. 53-70, Local 202, Barranquilla, Colombia; c/o VESTIMENTA J y J S. de H., Barranquilla, Colombia; Cedula No. 32758645 (Colombia) (individual) [SDNT]

PALMA SALAZAR, Hector Luis (a.k.a. PALMA SALAZAR, Jesus Hector); DOB 29 Apr 1960; alt. DOB 26 Aug 1962; alt. DOB 25 Aug 1962; POB Sinaloa, Mexico (individual) [SDNTK]

PAMIT C. SHIPPING CO., LTD., Limassol, Cyprus [CUBA]

PANAMERICAN IMPORT AND EXPORT COMMERCIAL CORPORATION, Panama [CUBA]

PANAMERICANA LTDA., Carrera 9 No. 9-46, Cali, Colombia; NIT # 800091914-8 (Colombia) [SDNT]

PANDORA SHIPPING CO. S.A., Honduras [IRAQ2]

PANDUREVIC, Vinko; DOB 1959; POB Sokolac, Bosnia-Herzegovina; ICTY indictee (individual) [BALKANS]

PANOAMERICANA, Panama [CUBA]

PAO, Hua Chiang (a.k.a. “PAO HUA CHIANG”; a.k.a. “TA KAT”), Panghsang, Shan, Burma (individual) [SDNTK]

PAO, Yu Hsiang (a.k.a. “PAO YU HSIANG”; a.k.a. “TA PANG”), Kwe Ma, Burma; DOB 19 Sep 1940 (individual) [SDNTK]

PAO, Yu Liang (a.k.a. “PAO YU LIANG”; a.k.a. “TA KYET”), Mong Mao, Shan, Burma (individual) [SDNTK]

PAO, Yu Yi (a.k.a. “PAO YU YI”; a.k.a. “TA RANG”), Panghsang, Shan, Burma (individual) [SDNTK]

PARCHIN CHEMICAL INDUSTRIES (a.k.a. PARA CHEMICAL INDUSTRIES; a.k.a. PARCHIN CHEMICAL FACTORIES; a.k.a. PARCHIN CHEMICAL INDUSTRIES GROUP; a.k.a. PCF; a.k.a. PCI), Khavaran Road Km 35, Tehran, Iran; 2nd Floor, Sanam Bldg., 3rd Floor, Sanam Bldg., P.O. Box 16765-358, Nobonyad Square, Tehran, Iran [NPWMD]

PARDO OJEDA, Mauricio, c/o G.L.G. S.A., Bogota, Colombia; c/o ILOVIN S.A., Bogota, Colombia; c/o CANADUZ S.A., Cali, Colombia; c/o KUTRY MANAGEMENT INC., Panama City, Panama; Carrera 18C No. 149-33, Apt. 309, Bogota, Colombia; c/o RAMAL S.A., Bogota, Colombia; c/o JOSAFAT S.A., Tulua, Valle, Colombia; c/o COPORACION HOTELERA DEL CARIBE LIMITADA, San Andres, Providencia, Colombia; c/o COLOMBO ANDINA COMERCIAL COALSA LTDA., Bogota, Colombia; c/o BLACKMORE INVESTMENTS A.V.V., Oranjestad, Aruba; c/o CRETA S.A., La Union, Valle, Colombia; c/o AGRONILO S.A., Toro, Valle, Colombia; c/o INVERSIONES AGROINDUSTRIALES DEL OCCIDENTE LTDA., Bogota, Colombia; c/o TARRITOS S.A., Cali, Colombia; c/o COMPANIA AGROPECUARIA DEL SUR LTDA., Bogota, Colombia; c/o ALMACAES S.A., Bogota, Colombia; DOB 27 Jul 1961; citizen Colombia; nationality Colombia; Cedula No. 19445690 (Colombia) (individual) [SDNT]

PAREDES CORDOVA, Jorge Mario (a.k.a. ARRAIZA BETANCUR, Mario Jorge; a.k.a. CORDON, Mario; a.k.a. PAREDEZ CORDOVA, Jorge Mario; a.k.a. “EL GORDO”; a.k.a. “HIPER”), Morazan El Progreso, Guatemala; DOB 09 Jan 1966; POB Morazan, El Progreso, Guatemala; citizen Guatemala; nationality Guatemala; Passport 1102020001107JK (Guatemala) (individual) [SDNTK]

PAREDES GONZALEZ, Nohora, c/o COPSERVIR LTDA., Bogota, Colombia; DOB 6 Aug 1963; Cedula No. 36376456 (Colombia) (individual) [SDNT]

PAREJA, Dinno Amor Rosalejos (a.k.a. AMINAH, Khalil Pareja; a.k.a. PAREJA, Dinno Rosalejos; a.k.a. PAREJA, Johnny; a.k.a. PAREJA, Kahlil; a.k.a. PAREJA, Khalil; a.k.a. ROSALEJOS-PAREJA, Dino Amor), Atimonan, Quezon Province, Philippines; DOB 19 Jul 1981; POB Cebu City, Cebu Province, Philippines; nationality Philippines (individual) [SDGT]

PARIRENYATWA, David Pagwese, P.O. Box 66222, Kopje, Harare, Zimbabwe; DOB 2 Aug 1950; Passport AD000899 (Zimbabwe); Minister of Health and Child Welfare (individual) [ZIMBABWE]

PARKA TRADING COMPANY, P.O. Box 3313, Deira, Dubai, United Arab Emirates [SDGT]

PARQUE INDUSTRIAL LAS DELICIAS LTDA., Carrera 7 No. 34-341 L-6, Cali, Colombia; Carrera 7 No. 34-341, Cali, Colombia [SDNT]

PARQUE INDUSTRIAL PROGRESO S.A., Autopista Cali Yumbo, Km. 4 No. 26-400, Yumbo, Colombia; NIT # 805002419-1 (Colombia) [SDNT]

PARRA DUQUE, Guillermo, Carrera 3 Oeste No. 11-168, Cali, Colombia; DOB 30 Dec 1964; POB Cali, Colombia; Cedula No. 16824664 (Colombia); Passport AF776832 (Colombia) (individual) [SDNT]

PARRA RESTREPO, Diego, c/o AGRO MASCOTAS S.A., Bogota, Colombia; Cedula No. 6089400 (Colombia); Passport 6089400 (Colombia) (individual) [SDNT]

PARRA RESTREPO, Pedro Nel, c/o AGRO MASCOTAS S.A., Bogota, Colombia; Cedula No. 1211206 (Colombia); Passport 1211206 (Colombia) (individual) [SDNT]

PARRA VELASCO, Edwin Hiulder, c/o PARQUE INDUSTRIAL PROGRESO S.A., Yumbo, Colombia; Calle 55BN No. 2FN-77, Cali, Colombia; DOB 18 Apr 1961; POB Cali, Valle, Colombia; Cedula No. 16672814 (Colombia); Passport 16672814 (Colombia) (individual) [SDNT]

PARS TRASH COMPANY (a.k.a. PARS TARASH; a.k.a. PARS TERASH; a.k.a. PARS TRASH), 33 Fifteenth (15th) Street, Seyed-Jamal-Eddin-Assad Abadi Avenue, Tehran, Iran [NPWMD]

PASCUAS SANTOS, Miguel Angel (a.k.a. “HUMBERTO”; a.k.a. “SARGENTO PASCUAS”); DOB 28 Apr 1952; POB Tello, Huila, Colombia; citizen Colombia; nationality Colombia; Cedula No. 12160124 (Colombia) (individual) [SDNTK]

PATEL, Khantibhal; DOB 28 Oct 1928; Politburo Deputy Secretary for Finance (individual) [ZIMBABWE]

PATENTES MARCAS Y REGISTROS S.A. (a.k.a. PATMAR S.A.), Transversal 29 No. 39-92, Bogota, Colombia; NIT # 830016913-0 (Colombia) [SDNT]

PATINO FOMEQUE, Sonia Daysi (a.k.a. PATINO FOMEQUE, Sonia Daicy), Calle 9 Oeste No. 25-106, Cali, Colombia; c/o INDUSTRIA DE PESCA SOBRE EL PACIFICO S.A., Buenaventura, Colombia; DOB 20 Jan 1975; Cedula No. 66920533 (Colombia) (individual) [SDNT]

PATINO FOMEQUE, Victor Julio (a.k.a. PATINO FOMEQUE, Victor Hugo), c/o TAURA S.A., Cali, Colombia; Avenida 4N No. 10N-100, Cali, Colombia; c/o INDUSTRIA DE PESCA SOBRE EL PACIFICO S.A., Buenaventura, Colombia; c/o GALAPAGOS S.A., Cali, Colombia; DOB 31 JAN 1959; Cedula No. 16473543 (Colombia) (individual) [SDNT]

PATINO RESTREPO, Carlos Arturo (a.k.a. “PATE MURO”; a.k.a. “PATEMURO”), Carrera 8-21, Viterbo, Caldas, Colombia; c/o COMERCIALIZADORA DE CAFE DEL OCCIDENTE CODECAFE LTDA., Pereira, Risaralda, Colombia; c/o INVERSIONES MACARNIC PATINO Y CIA S.C.S., Pereira, Risaralda, Colombia; Calle 20 No. 6-30, Ofc. 1304, Pereira, Risaralda, Colombia; DOB 27 Apr 1964; POB La Virginia, Risaralda, Colombia; citizen Colombia; nationality Colombia; Cedula No. 9991679 (Colombia); Passport AF186124 (Colombia); alt. Passport AC455469 (Colombia); alt. Passport 9991679 (Colombia); alt. Passport PO69381 (Colombia) (individual) [SDNT]

PATINO RINCON, Octavio, c/o INVERSIONES VILLA PAZ S.A., Cali, Colombia; DOB 20 Sep 1916; Cedula No. 2438955 (Colombia) (individual) [SDNT]

PATRACA PONCE, Jorge Normando, c/o SISTEMA DE RADIO DE SINALOA, S.A. DE C.V., Culiacan, Sinaloa, Mexico; Edo. de Tabasco # 1423, Culiacan, Sinaloa, Mexico; Escobedo No. 366 Oriente, Departamento No. 102, Culiacan, Sinaloa, Mexico; Avenida Jose Maria Morelos 302 Pte, Local 3, Col. Sector Culiacan Centro, Culiacan, Sinaloa 80000, Mexico; Calle Mariano Escobedo No. 366-102, Colonia Centro, Tijuana, Baja California, Mexico; Cll Cerro de San Cayetano 728, Colinas de San Miguel, Culiacan Circuito Ceroo de la Silla, Culiacan Rosales, Culiacan, Mexico; c/o OPERADORA INTEGRAL DE COMERCIO, S.A. DE C.V., Tijuana, Baja California, Mexico; DOB 23 Apr 1974; POB Culiacan, Sinaloa, Mexico; alt. POB Tijuana, Baja California, Mexico; citizen Mexico; nationality Mexico; Electoral Registry No. PTPNJR74042325H500 (Mexico); Passport 040015561 (Mexico); R.F.C. PAPJ740423DB8 (Mexico) (individual) [SDNTK]

PATRACA, S.A. DE C.V. (a.k.a. BOUTIQUE PATRACA), Cll Jose Diego Valadez Rios 16, Plaza Patraca PB-16, Proyecto Urbano Tres Rios, Culiacan Rosales, Culiacan 80000, Mexico; Alvaro Obregon y Cerro de Montelargo Local 74M, 75M, 76M, 7 Colinas de San Miguel, Culiacan 80228, Mexico; Avenida Jose Maria Morelos 302 Pte, Local 3, Col. Sector Culiacan Centro, Culiacan, Sinaloa 80000, Mexico; Cll Jose Diego Valadez Rios 16, Plaza Patraca PB-39, Proyecto Urbano Tres Rios, Culiacan Rosales, Culiacan 80000, Mexico; Ave Alvaro Obregon No. 1800, 74M, Col. Colinas de San Miguel, Culiacan, Sinaloa 80228, Mexico; Col. Proyecto Urbano Tres Rios, Culiacan, Sinaloa, Mexico; Cll Jose Diego Valadez Rios No. 1676, Col. Proyecto Urbano Tres Rios, Culiacan, Sinaloa 80000, Mexico; Ave. Alvaro Obregon No. 1800, 74M, Col. Colinas de San Miguel, Culiacan, Sinaloa 80228, Mexico; Cll Jose Diego Valadez Rios 16, Plaza Patraca PB-24, Proyecto Urbano Tres Rios, Culiacan Rosales, Culiacan 80000, Mexico; Calle Benito Juarez, No. 302, Col. Centro, Culiacan, Sinaloa, Mexico; Cll Jose Diego Valadez Rios No. 1676, 16, Col. Proyecto Urbano Tres Rios, Culiacan, Sinaloa 80000, Mexico; Calle Benito Juarez 302 A altos S/N, Col. Centro, Culiacan, Sinaloa, Mexico; Calle Miguel Hgo No. 302, Col. Centro, Culiacan, Sinaloa, Mexico; R.F.C. PAT040318GF7 (Mexico) [SDNTK]

PATRICIA CASA DE CAMBIO, Calle Puerto 291, Zona Centro, Tijuana, Baja California, Mexico [SDNTK]

PATTERSON FARM, Mazowe, Zimbabwe [ZIMBABWE]

PAULICHENKA, Dzmitry Valeryevich (a.k.a. PAULICHENKA, Dmitri Valeryevich; a.k.a. PAULICHENKA, Dmitri Vasilyevich; a.k.a. PAULICHENKA, Dmitry Valeryevich; a.k.a. PAULICHENKA, Dmitry Vasilyevich; a.k.a. PAULICHENKA, Dzmitry Vasilyevich; a.k.a. PAVLICHENKO, Dmitri Valeryevich; a.k.a. PAVLICHENKO, Dmitri Vasilyevich; a.k.a. PAVLICHENKO, Dmitry Valeryevich; a.k.a. PAVLICHENKO, Dmitry Vasilyevich; a.k.a. PAVLICHENKO, Dzmitry Valeryevich; a.k.a. PAVLICHENKO, Dzmitry Vasilyevich; a.k.a. PAVLIUCHENKO, Dmitri Valeryevich; a.k.a. PAVLIUCHENKO, Dmitri Vasilyevich; a.k.a. PAVLIUCHENKO, Dmitry Valeryevich; a.k.a. PAVLIUCHENKO, Dmitry Vasilyevich; a.k.a. PAVLIUCHENKO, Dzmitry Valeryevich; a.k.a. PAVLIUCHENKO, Dzmitry Vasilyevich); DOB 1966; POB Vitebsk oblast, Belarus; Colonel in BKGB and Commander of the Special Response Group of the Ministry of the Interior (SOBR) (individual) [BELARUS]

PAVA GIRALDO, Dora Lilia, c/o COMERCIALIZADORA COLOMBIAN MONEY EXCHANGE LTDA., Bogota, Colombia; DOB 22 Nov 1971; POB Colombia; citizen Colombia; nationality Colombia; Cedula No. 39771709 (Colombia) (individual) [SDNTK]

PAVKOVIC, Nebojsa; DOB 10 Apr 1946; alt. DOB 16 Apr 1946; POB Senjski Rudnik, Serbia and Montenegro; Ex-VJ Chief of Staff (individual) [BALKANS]

PAVO AIRCRAFT LEASING PTE. LTD., 3 Shenton Way, #24-02 Shenton House 068805, Singapore [BURMA]

PAVO TRADING PTE. LTD., 3 Shenton Way, #24-02 Shenton House, Singapore 068805, Singapore [BURMA]

PAZ MAHECHA, Gonzalo Rodrigo, Carrera 4 No. 11-45 of. 809, Cali, Colombia; Carrera 4 No. 11-45 apt. 624, Cali, Colombia; c/o COLOR 89.5 FM STEREO, Cali, Colombia; Calle 102 No. 48A-08, Bogota, Colombia; Transversal 98 No. 28A-46, Cali, Colombia; Calle 13A No. 66B-60 apt. 102A, Cali, Colombia; Carrera 4 No. 11-45 apt. 621, Cali, Colombia; Carrera 4 No. 11-45 of. 802, Cali, Colombia; Calle 13 No. 4-25 piso 6, Cali, Colombia; Calle 13A No. 66B-60 apt. 101A, Cali, Colombia; Calle 13A No. 66B-60 apt. 902A, Cali, Colombia; DOB 28 Sep 1957; Cedula No. 16590653 (Colombia) (individual) [SDNT]

PEDRAZA GARZON, Fernando, c/o COOPERATIVA MULTIACTIVA DE COLOMBIA FOMENTAMOS, Bogota, Colombia; DOB 9 Nov 1962; Cedula No. 79283141 (Colombia); Passport 79283141 (Colombia) (individual) [SDNT]

PEJCIC, Mile (a.k.a. PEJICIC, Mile); DOB 5 Jan 1971; POB SuhoPolje, Bosnia-Herzegovina (individual) [BALKANS]

PELAEZ DE HENAO, Teresa, c/o ALFA PHARMA S.A., Bogota, Colombia; DOB 11 Jan 1928; Cedula No. 29013555 (Colombia) (individual) [SDNT]

PELAYO MENDOZA, Franco Arturo, Paseo del Pedregal 3034, Colonia Playas de Tijuana, Secc. Costa Hermosa, Tijuana, Baja California, Mexico; Calle 16 de Septiembre 3-FA, Colonia Las Torres, Tijuana, Baja California, Mexico; Calle Farallon 3206, Colonia Playas de Tijuana, Secc. Costa Hermosa, Tijuana, Baja California, Mexico; c/o INMOBILIARIA TIJUANA COSTA S.A. DE C.S., Tijuana, Baja California, Mexico; Calle Juan Covarrubias, Colonia Los Altos, Tijuana, Baja California, Mexico; Calle De La Luz 218, Colonia Playas de Tijuana, Secc. Costa Hermosa, Tijuana, Baja California, Mexico; Paseo Playas de Tijuana 317, Tijuana, Baja California, Mexico; Blvd. Insurgentes 16174-18-B, Colonia Los Alamos, Tijuana, Baja California, Mexico; DOB 2 Feb 1953; POB Casimiro Castillo, Jalisco, Mexico (individual) [SDNTK]

PELISSIER OSPINA, Maria Sair (a.k.a. PELISSIER OSPINA, Maria Sahir), c/o HEBRON S.A., Tulua, Valle, Colombia; Carrera 58B No. 63B-96 B-21 E-8 Int. 15 apt. 201, Bogota, Colombia; c/o COMERCIALIZADORA PELISSIER OSPINA LTDA., Bogota, Colombia; c/o ALMACAES S.A., Bogota, Colombia; Carrera 68D No. 64F-96 B-21 Int. 15, Bogota, Colombia; c/o CORPORACION DE ALMACENES POR DEPARTAMENTOS S.A., Bogota, Colombia; c/o G.L.G. S.A., Bogota, Colombia; c/o ILOVIN S.A., Bogota, Colombia; c/o RAMAL S.A., Bogota, Colombia; DOB 20 Jun 1958; POB Ibague, Tolima, Colombia; Cedula No. 51561790 (Colombia) (individual) [SDNT]

PENA AREVALO, Ana Isabel (a.k.a. “DONA CHAVA”; a.k.a. “DONA ELISA”; a.k.a. “DONA ISA”; a.k.a. “ISABELA”), Colombia; DOB 24 Aug 1962; POB Pacho, Cundinamarca, Colombia; citizen Colombia; nationality Colombia; Cedula No. 20794356 (Colombia) (individual) [SDNTK]

PENA TORRES, Jose, Panama (individual) [CUBA]

PENA, Victor, Panama (individual) [CUBA]

PENALOSA CAMARGO, Diego Hernando, c/o FUNDACION VIVIR MEJOR, Cali, Colombia; Cedula No. 118391 (Colombia); Passport 118391 (Colombia) (individual) [SDNT]

PENTA PHARMA DE COLOMBIA S.A., Calle 17A No. 28A-23, Bogota, Colombia; Calle 17A No. 28A-43, Bogota, Colombia [SDNT]

PENTACOOP LTDA. (f.k.a. PENTA PHARMA DE COLOMBIA S.A.), Calle 17A No. 28A-23, Bogota, Colombia; Calle 17A No. 28A-43, Bogota, Colombia; NIT # 830016989-1 (Colombia) [SDNT]

PEONY SHIPPING CO. LTD., c/o NORDSTRAND MARITIME & TRADING CO. LTD., 26 Skouze Street, Piraeus, Greece [CUBA]

PEOPLE'S CO-OPERATIVE BANK, P.O. Box 922, Khartoum, Sudan [SUDAN]

PEOPLE'S MUJAHEDIN ORGANIZATION OF IRAN (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PMOI; a.k.a. SAZEMAN-E MUJAHEDIN-E KHALQ-E IRAN; a.k.a. THE NATIONAL LIBERATION ARMY OF IRAN); including its U.S. press office and all other offices worldwide [FTO] [SDGT]

PERDOMO ZUNIGA, Hugo Ivan, c/o CONSTRUVIDA S.A., Cali, Colombia; DOB 16 Jun 1960; Cedula No. 16669843 (Colombia) (individual) [SDNT]

PEREGRINA TOBOADA, Jose Antonio (a.k.a. PEREGRINA TOBOADO, Jose Antonio), c/o JAMARO CONSTRUCTORES S.A. DE C.V., Culiacan, Sinaloa, Mexico; c/o NUEVA INDUSTRIA DE GANADEROS DE CULIACAN S.A. DE C.V., Culiacan, Sinaloa, Mexico; Calle Pirul # 439, Privada Balcones de San Miguel, Culiacan, Sinaloa, Mexico; DOB 05 Aug 1958; POB Culiacan, Sinaloa, Mexico; citizen Mexico; nationality Mexico; C.U.R.P. PETA580805HSLRBN09 (Mexico) (individual) [SDNTK]

PEREIRA BERUMEN, Luis Miguel, c/o MULTISERVICIOS GAMAL, S.A. DE C.V., Tijuana, Baja California, Mexico; Calle Relampago 1136 Secc. Dorado, Tijuana, Baja California, Mexico; DOB 10 Sep 1975 (individual) [SDNTK]

PEREZ ALZATE, Guillermo (a.k.a. “PABLO SEVILLANO”), Calle 24 No. 1-52, B. Cta de Oro, Colombia; Calle 37 No. 2-40, Almacen Dulcino, Tumaco, Narino, Colombia; Diagonal 50 No. 49-14 of. 601, Medellin, Colombia; Calle 26A No. 70-35, Medellin, Colombia; Calle 30 No. 9-51, Monteria, Cordoba, Colombia; Cedula No. 71646827 (Colombia); Passport AF891052 (Colombia) (individual) [SDNTK]

PEREZ ARAMBURU, Jon Inaki; DOB 18 Sep 1964; POB San Sebastian, Guipuzcoa Province, Spain; D.N.I. 15.976.521 (Spain); Member ETA (individual) [SDGT]

PEREZ CASTANO, Mario Alberto, Calle Decima No. 14, Hidalgo del Parral, Chihuahua, Mexico; c/o CAMBIOS PALMILLA S.A. DE C.V., Hidalgo del Parral, Mexico; DOB 25 Jun 1966; POB Hidalgo del Parral, Chihuahua, Mexico; citizen Mexico; nationality Mexico; C.U.R.P. PECM660625HCHRSR07 (Mexico); R.F.C. PECM-660625-FN5 (Mexico) (individual) [SDNTK]

PEREZ CRUZ, Osvaldo, Panama (individual) [CUBA]

PEREZ ELIAS, Sofia, c/o MULTISERVICIOS ALPHA, S.A. DE C.V., Tijuana, Baja California, Mexico; Calle Oslo 3692, Colonia Playas Costa Azul, Tijuana, Baja California CP 22250, Mexico; c/o HACIENDA DE DON JOSE RESTAURANT BAR, S.A. DE C.V., Tijuana, Baja California, Mexico; DOB 10 Oct 1973; POB Tijuana, Baja California, Mexico (individual) [SDNTK]

PEREZ GARCIA, Carlos, c/o ASESORIAS COSMOS LTDA., Cali, Colombia; Cedula No. 14920419 (Colombia) (individual) [SDNT]

PEREZ GOMEZ, Stella, c/o CONTACTEL COMUNICACIONES S.A., Cali, Colombia; c/o PROVIDA E.U., Cali, Colombia; c/o DISTRIBUIDORA SANAR DE COLOMBIA S.A., Cali, Colombia; c/o COPSERVIR LTDA., Bogota, Colombia; c/o ASESORIAS ECONOMICAS MUNOZ SANTACOLOMA E.U., Cali, Colombia; DOB 26 Jun 1960; Cedula No. 31848468 (Colombia); Passport 31848468 (Colombia) (individual) [SDNT]

PEREZ NARVAEZ, Oliverio, c/o INTERCONTINENTAL DE AVIACION S.A., Bogota, Colombia; Avenida 4 No. 7-75, Cali, Colombia; DOB 9 Mar 1938; POB Riofrio, Valle, Colombia; Cedula No. 6488451 (Colombia); Passport AG069729 (Colombia); alt. Passport AG400146 (Colombia) (individual) [SDNT]

PEREZ ORTEGA, Publio Eliecer, c/o INVERSIONES VILLA PAZ S.A., Cali, Colombia; DOB 23 Jul 1954; Cedula No. 16597479 (Colombia) (individual) [SDNT]

PEREZ PASUENGO, Efrain; DOB 1954; nationality Mexico (individual) [SDNTK]

PEREZ SERNA, Wilmar Armando, c/o INVHERESA S.A., Cali, Colombia (individual) [SDNT]

PEREZ VARELA, Jaime Diego, c/o CONSTRUCTORA GOPEVA LTDA., Cali, Colombia; Avenida Ciudad Jardin No. 27, Cali, Colombia; DOB 28 Feb 1933; Cedula No. 2695666 (Colombia) (individual) [SDNT]

PEREZ VERDUZCO, Roberto (a.k.a. PEREZ VERDUGO, Roberto), c/o SEPRIV, S.A. DE C.V., Culiacan, Sinaloa, Mexico; Calle Cerro Agudo No. 3191, Colonia Loma Linda, Culiacan, Sinaloa, Mexico; DOB 29 Oct 1963; POB Culiacan, Sinaloa, Mexico; citizen Mexico; nationality Mexico; C.U.R.P. PEVR631029HSLRRB06 (Mexico); Passport 040049618 (Mexico); R.F.C. PEVR6310292D8 (Mexico) (individual) [SDNTK]

PEREZ, Alfonso, Panama (individual) [CUBA]

PEREZ, Manuel Martin, Panama (individual) [CUBA]

PERIC, Jozo 'Tukesa'; DOB 31 Jan 1959; POB Pjesevac Kula, Bosnia-Herzegovina (individual) [BALKANS]

PERSIA INTERNATIONAL BANK PLC, 6 Lothbury, London EC2R 7HH, United Kingdom; Dubai International Financial Centre, Level 4, The Gate Building, P.O. Box 119871, Dubai, United Arab Emirates; all offices worldwide [NPWMD]

PERSIAN GULF (a.k.a. IRAN PERSIAN GULF); Vessel Registration Identification IMO 9305221 (vessel) [NPWMD]

PERU GLOBAL TOURS S.A.C., Calle Soledad 113, Oficina 301, Lima, Peru; RUC # 20509567418 (Peru) [SDNTK]

PERU TOTAL MARKET E.I.R.L., Jr. Washington 1214, Lima, Peru; RUC # 20512036661 (Peru) [SDNTK]

PERUVIAN PRECIOUS METALS S.A.C., Jr. Comunidad Industrial 293, Chorillos, Lima, Peru; RUC # 20502799445 (Peru) [SDNTK]

PESCABRAVA, S.A., France [CUBA]

PESCABRAVA, S.A., Italy [CUBA]

PESCABRAVA, S.A., Spain [CUBA]

PESCADOS Y MARISCOS DE PANAMA, S.A. (a.k.a. PESMAR (OR PEZMAR), S.A.), Panama City, Panama [CUBA]

PETRA NAVIGATION & INTERNATIONAL TRADING CO. LTD. (a.k.a. AL PETRA COMPANY FOR GOODS TRANSPORT LTD), Hai Al Wahda Mahalat 906, 906 Zulak 50, House 14, Baghdad, Iraq [IRAQ2]

PETRIC, Zoran; DOB 18 Jul 1964; POB Banovici, Bosnia-Herzegovina (individual) [BALKANS]

PETROHELP PETROLEUM COMPANY LIMITED, Building No. 20, Street No. 42, Al Riyadh Area, P.O. Box 44690, Khartoum, Sudan [SUDAN]

PETROLEUM GENERAL ADMINISTRATION, P.O. Box 2649, Khartoum, Sudan [SUDAN]

PHUANGPHET, Suwit (a.k.a. PUANGPETCH, Suvit; a.k.a. PUANGPETCH, Suwit), c/o PROGRESS SURAWEE COMPANY LTD., Bangkok, Thailand; c/o SCORE COMMERCIAL COMPANY LTD., Bangkok, Thailand; DOB 28 Oct 1956; National ID No. 3570900170841 (Thailand) (individual) [SDNTK]

PIATKEVICH, Natallia Uladzimirauna (a.k.a. PETKEVICH, Nataliya Uladzimirauna; a.k.a. PETKEVICH, Nataliya Vladimirovna; a.k.a. PETKEVICH, Natallia Uladzimirauna; a.k.a. PETKEVICH, Natallia Vladimirovna; a.k.a. PETKEVICH, Natalya Uladzimirauna; a.k.a. PETKEVICH, Natalya Vladimirovna; a.k.a. PIATKEVICH, Natalya Vladimirovna; a.k.a. PIATKEVICH, Nataliya Uladzimirauna; a.k.a. PIATKEVICH, Nataliya Vladimirovna; a.k.a. PIATKEVICH, Natallia Vladimirovna; a.k.a. PIATKEVICH, Natalya Uladzimirauna); DOB 24 Oct 1972; POB Minsk, Belarus; Deputy Head of the President's Administration (individual) [BELARUS]

PICHAYOS, Winai (a.k.a. PHITCHAIYOT, Winai; a.k.a. PHITCHAYOT, Winai; a.k.a. PICHAYOS, Vinai; a.k.a. PICHAYOT, Vinai; a.k.a. PITCHAYOS, Vinai; a.k.a. THICHAIYOT, Winai; a.k.a. TICHYOS, Vinai), c/o GREEN CAR RENT LIMITED PARTNERSHIP, Bangkok, Thailand; c/o RUNGRIN COMPANY LTD., Bangkok, Thailand; c/o HATKAEW COMPANY LTD., Bangkok, Thailand; c/o SCORE COMMERCIAL COMPANY LTD., Bangkok, Thailand; c/o BANGKOK ARTI-FLORA DESIGN LIMITED PARTNERSHIP, Bangkok, Thailand; c/o NICE FANTASY GARMENT COMPANY LTD., Bangkok, Thailand; c/o PROGRESS SURAWEE COMPANY LTD., Bangkok, Thailand; DOB 1 Dec 1957; Passport K203350 (Thailand) (individual) [SDNTK]

PIEDMONT (UK) LIMITED, Newboundary House, London Road, Sunningdale, Ascot, Berkshire SL5 0DJ, United Kingdom [ZIMBABWE]

PIEDRAHITA GIRALDO, Gustavo Adolfo, Calle 1A No. 62A-120, Cali, Colombia; c/o AGROPECUARIA LA ROBLEDA S.A., Cali, Colombia; Cedula No. 16764002 (Colombia) (individual) [SDNT]

PIMENTO FARM, Mashonaland, Zimbabwe [ZIMBABWE]

PINA DE ARCE, Delia, c/o PROMOTORA FIN, S.A., Tijuana, Baja California, Mexico; DOB 6 Aug 1942; POB Sonora, Mexico; citizen Mexico; nationality Mexico; C.U.R.P. PIXD420806MSRXXL07 (Mexico) (individual) [SDNTK]

PINECONE (f.k.a. GRETE) (vessel) [CUBA]

PINEDA PALMERA, Juvenal Ovidio (a.k.a. PALMERA PINEDA, Juvenal Ovidio Ricardo; a.k.a. “SIMON TRINIDAD”); DOB 30 Jul 1950; POB Bogota, Cundinamarca, Colombia; Cedula No. 12715418 (Colombia); alt. Cedula No. 12751418 (Colombia); alt. Cedula No. 12715416 (Colombia); Passport AH182002 (Colombia); alt. Passport AC204175 (Colombia); alt. Passport T757205 (Colombia) (individual) [SDNTK]

PINEROS LEON, Miguel Esteban, c/o COPSERVIR LTDA., Bogota, Colombia; Carrera 50 No. 173-12, Bogota, Colombia; Cedula No. 468712 (Colombia) (individual) [SDNT]

PINO DEL AGUA (vessel) [CUBA]

PINSKY SARAGOVIA, Ezequiel, c/o CIA. MINERA DAPA S.A., Bogota, Colombia; c/o CONSTRUCTORA PYNZAR LTDA., Cali, Colombia; Avenida Las Americas No. 21N-50, Cali, Colombia; c/o PYZA E.U., Cali, Colombia; c/o NOVAPINSKI LTDA., Cali, Colombia; c/o PARQUE INDUSTRIAL PROGRESO S.A., Yumbo, Colombia; Cedula No. 14932390 (Colombia); Passport 14932390 (Colombia) (individual) [SDNT]

PINZON CEDIEL, John Jairo, c/o TAURA S.A., Cali, Colombia; Cedula No. 13542103 (Colombia) (individual) [SDNT]

PINZON POVEDA, Marco Antonio, c/o DEPOSITO POPULAR DE DROGAS S.A., Cali, Colombia; c/o DISTRIBUIDORA DE DROGAS CONDOR LTDA., Bogota, Colombia; Carrera 65 No. 13B-125 apt. 307, Cali, Colombia; DOB 21 Dec 1948; Cedula No. 17801803 (Colombia) (individual) [SDNT]

PIONEER ENERGY INDUSTRIES COMPANY (a.k.a. PISHGAM ENERGY INDUSTRIES DEVELOPMENT; a.k.a. “PEI”), P.O. Box 81465-361, Isfahan, Iran [NPWMD]

PIONEER SHIPPING LTD., 171 Old Bakery Street, Valletta, Malta; c/o Anglo Caribbean Shipping Co., Ltd., 4th Floor, South Phase 2, South Quay Plaza 2, 183 Marsh Wall, London E14 9SH, United Kingdom [CUBA]

PIRAMIDE INTERNATIONAL, Panama [CUBA]

PIRANHA NAVIGATION CO. LTD., c/o NORDSTRAND MARITIME & TRADING CO. LTD., 26 Skouze Street, Piraeus, Greece [CUBA]

PITONO, Joko (a.k.a. ABDUL MARTIN; a.k.a. ABDUL MATIN; a.k.a. AMAR UMAR; a.k.a. AMAR USMAN; a.k.a. ANAR USMAN; a.k.a. DJOKO SUPRIYANTO; a.k.a. DUL MATIN; a.k.a. DULMATIN; a.k.a. JAK IMRON; a.k.a. MUKTAMAR; a.k.a. NOVARIANTO; a.k.a. PINTONO, Joko; a.k.a. PITOYO, Joko; a.k.a. TOPEL); DOB 16 Jun 1970; alt. DOB 6 Jun 1970; POB Petarukan village, Pemalang, Central Java, Indonesia; nationality Indonesia (individual) [SDGT]

PLASTEC LTDA., Km. 1 Via Jardines, Armenia, Quindio, Colombia; NIT # 801000358-7 (Colombia) [SDNT]

PLASTICOS CONDOR LTDA., Carrera 13 No. 16-62, Cali, Colombia [SDNT]

PLAVSIC, Biljana; DOB 7 Jul 1930; POB Tuzla, Bosnia-Herzegovina; ICTY indictee (individual) [BALKANS]

PLAYA MAR S.A. DE C.V., Entre Via Rapida y Jose Clemente Orozco, Tijuana, Baja California, Mexico; Paseo De Los Heroes, Colonia Rio Tijuana 2110, Tijuana, Baja California, Mexico; Blvd. Agua Caliente 10440, Colonia Aviacion 22420, Tijuana, Baja California, Mexico; R.F.C. # PMA-910805 (Mexico) [SDNTK]

PLAZA REAL LTDA., Avenida 4 Oeste No. 6-103, Cali, Colombia; NIT # 890331686-1 (Colombia) [SDNT]

PLOYDAENG JEWELRY SHOP (a.k.a. PLOYDAENG GEM SHOP; a.k.a. PLYDAENG JEWELRY SHOP), 4/1-2 Ratdamri Road, World Trade Center, 1st Floor, Room B135, Lumphini precinct, Pathum Wan district, Bangkok, Thailand; 4/1-2 Rajdamri Road, Central World Plaza, Pathumwan, Bangkok, Thailand [SDNTK]

PLUS TECH AUTO SUPPLY COMPANY LTD., 273 Thiam Ruammit Road, Huai Khwang district, Bangkok, Thailand [SDNTK]

PMOI (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE; a.k.a. NATIONAL COUNCIL OF RESISTANCE (NCR); a.k.a. NLA; a.k.a. ORGANIZATION OF THE PEOPLE'S HOLY WARRIORS OF IRAN; a.k.a. PEOPLE'S MUJAHEDIN ORGANIZATION OF IRAN; a.k.a. SAZEMAN-E MUJAHEDIN-E KHALQ-E IRAN; a.k.a. THE NATIONAL LIBERATION ARMY OF IRAN); including its U.S. press office and all other offices worldwide [FTO] [SDGT]

PO, Kong (a.k.a. PU, Chiang; a.k.a. “PO KONG”; a.k.a. “P'U LI”), c/o TING SHING TAI JEWELLERY (HK) CO. LIMITED, Hong Kong, Hong Kong; Flat 6, 2/F, Block 49, Heng Fa Chuen, Chai Wan, Hong Kong; c/o HONG PANG GEMS & JEWELLERY (HK) CO. LIMITED, Mandalay, Yunnan, Hong Kong; c/o SHUEN WAI HOLDING LIMITED, Hong Kong, Hong Kong; Flat B, 16/F, Dragon View, No. 5 Dragon Terrace, Hong Kong; DOB 01 Sep 1944; National ID No. K357514(4) (Hong Kong); Passport H90011666 (Hong Kong) (individual) [SDNTK]

POCHO NAVIGATION CO. LTD., c/o EMPRESA DE NAVEGACION MAMBISA, Apartado 543, San Ignacio 104, Havana, Cuba [CUBA]

PODOBED, Yury Nikolaevich (a.k.a. POBOBED, Yuri Nikolaevich); DOB 5 Mar 1962; POB Slutsk, Minsk district, Belarus; citizen Belarus; nationality Belarus; Commander of the Special Riot Police in Minsk (OMON) (individual) [BELARUS]

POLIEMPAQUES LTDA., Carrera 13A No. 16-49, Cali, Colombia; Carrera 13A No. 16-55, Cali, Colombia; Carrera 13 No. 16-62, Cali, Colombia; NIT # 805003763-5 (Colombia) [SDNT]

POLITICAL COUNCIL OF PRESEVO, MEDVEDJA, AND BUJANOVAC (a.k.a. PCPMB) [BALKANS]

POLOTSK STEKLOVOLOKNO OAO (a.k.a. POLOTSK PRODUCTION ASSOCIATION STEKLOVOLOKNO; a.k.a. POLOTSKOE STEKLOVOLOKNO OAO; a.k.a. POLOTSK-STEKLOVOLOKNO; a.k.a. POLOTSK-STEKLOVOLOKNO JSC; a.k.a. POLOTSK-STEKLOVOLOKNO JSC SD STEKLOKOMPOZIT; a.k.a. POLOTSK-STEKLOVOLOKNO OPEN JOINT-STOCK COMPANY; a.k.a. POLOTZK STEKLOVOLOKNO OAO; a.k.a. STEKLOVOLOKNO), Industrial Zone Ksty, Vitebsk Region, Polotsk 21140, Belarus; ul. Stroitelnaya, Polotsk, 211412, Belarus; Ksty Industrial Zone, 211400 Vitebskaya oblast, Polotsk, Belarus; Promuzel Ksty, Polotsk 211400, Belarus [BELARUS]

PONCE DE LEON GOMEZ, Lazaro, Medira, Mexico (individual) [CUBA]

POPOV, Dimitri Igorevich; DOB 13 Feb 1961; alt. DOB 13 Feb 1965; POB Irkutsk, Russia; General Manager, Great Lakes Business Company and Compagnie Aerienne des Grands Lacs (individual) [DRCONGO]

POPOVIC, Vujadin; DOB 14 Mar 1957; ICTY indictee (individual) [BALKANS]

POPULAR FRONT FOR THE LIBERATION OF PALESTINE (a.k.a. HALHUL GANG; a.k.a. HALHUL SQUAD; a.k.a. MARTYR ABU-ALI MUSTAFA BATTALION; a.k.a. PALESTINIAN POPULAR RESISTANCE FORCES; a.k.a. PFLP; a.k.a. PPRF; a.k.a. RED EAGLE GANG; a.k.a. RED EAGLE GROUP; a.k.a. RED EAGLES) [SDT] [FTO] [SDGT]

POPULAR FRONT FOR THE LIBERATION OF PALESTINE—GENERAL COMMAND (a.k.a. PFLP-GC) [SDT] [FTO] [SDGT]

POPULAR MOVEMENT OF KOSOVO (a.k.a. LPK) [BALKANS]

PORT SUDAN COTTON AND TRADE COMPANY (a.k.a. PORT SUDAN COTTON COMPANY), P.O. Box 590, Khartoum, Sudan; P.O. Box 261, Port Sudan, Sudan [SUDAN]

PORT SUDAN DUTY FREE SHOP, Port Sudan, Sudan [SUDAN]

PORT SUDAN EDIBLE OILS STORAGE CORPORATION, P.O. Box 429, Port Sudan, Sudan [SUDAN]

PORT SUDAN REFINERY LIMITED, P.O. Box 354, Port Sudan, Sudan [SUDAN]

PORT SUDAN SPINNING FACTORY, Port Sudan, Sudan [SUDAN]

PORTILLA BARRAZA, Jorge, c/o ORIENTE CONTRATISTAS GENERALES S.A., Trujillo, Peru; Pasaje Vincente Morales, Poblacion 11 de Septiembre, Arica, Chile; DOB 26 Feb 1948; D.N.I. 52249376 (Chile) (individual) [SDNTK]

POSSO DE GRAJALES, Elba Myriam, c/o INVERSIONES AGUILA LTDA., La Union, Valle, Colombia; c/o GRAJALES S.A., La Union, Valle, Colombia; c/o CASA GRAJALES S.A., La Union, Valle, Colombia; c/o FREXCO S.A., La Union, Valle, Colombia; c/o IBADAN LTDA., Tulua, Valle, Colombia; Cedula No. 29611241 (Colombia) (individual) [SDNT]

POSSO DE LONDONO, Maria del Carmen, c/o INVERSIONES VILLA PAZ S.A., Cali, Colombia; Cedula No. 29664243 (Colombia) (individual) [SDNT]

POSSO, Maria Esperanza, c/o FRUTAS DE LA COSTA S.A., Malambo, Atlantico, Colombia; c/o CONSTRUCCIONES E INVERSIONES LTDA., La Union, Valle, Colombia; c/o DOXA S.A., La Union, Valle, Colombia; c/o HOTEL LOS VINEDOS, La Union, Valle, Colombia; c/o INDUSTRIAS DEL ESPIRITU SANTO S.A., Malambo, Atlantico, Colombia; c/o TRANSPORTES DEL ESPIRITU SANTO S.A., La Union, Valle, Colombia; Cedula No. 29613348 (Colombia) (individual) [SDNT]

POSTS AND TELEGRAPHS PUBLIC CORPORATION, Khartoum, Sudan [SUDAN]

POTE, Selina; Deputy Secretary for Gender and Culture (individual) [ZIMBABWE]

PRADO CUERO, Salomon (a.k.a. CHALO), Carrera 101B No. 11B-50, Cali, Colombia; c/o COLOR 89.5 FM STEREO, Cali, Colombia; Avenida 26 No. 42B-89, Bogota, Colombia; DOB 1 Aug 1948; Cedula No. 19069493 (Colombia); Passport AE801105 (Colombia) (individual) [SDNT]

PRAPATWORA, Atchara (a.k.a. ATCHARA, Chiwinpraphasri; a.k.a. ATCHARA, Praptwora; a.k.a. ATCHARA, Samsaeng; a.k.a. SAENGKHAM, Samsaeng), 88/2 Soi Klong Nam Kaew, Tambon Sam Sen Nok, Huay Khwang, Bangkok, Thailand; c/o DEHONG THAILONG HOTEL CO., LTD., Yunnan Province, China; DOB 09 Sep 1948; National ID No. 3509900001907 (Thailand) expires Sep 2006; Passport V487440 (Thailand) expires May 2007 (individual) [SDNTK]

PRCAC, Dragoljub; DOB 18 Jul 1937; POB Omarska, Bosnia-Herzegovina; ICTY indictee (individual) [BALKANS]

PRECIADO ESCOBAR, Ricardo, c/o OPERADORA DE CAJA Y SERVICIOS, S.A. DE C.V., Tijuana, Baja California, Mexico; DOB 13 Nov 1953; POB Baja California, Mexico; citizen Mexico; nationality Mexico; C.U.R.P. PEER531113HBCRSC04 (Mexico) (individual) [SDNTK]

PRELASA, Mexico [CUBA]

PRENSA LATINA, Spain [CUBA]

PRENSA LATINA CANADA LTD., 1010 O Rue Ste. Catherine, Montreal PQ H303 IGI, Canada [CUBA]

PRESA, S.A., Panama [CUBA]

PRETTY SEA (a.k.a. IRAN PRETTY SEA (KHUZESTAN)); Vessel Registration Identification IMO 9167277 (vessel) [NPWMD]

PREVIA S.A. (a.k.a. PREVENCION Y ANALISIS DE RIESGOS), Carrera 3 No. 10-20 of. 202, Cali, Colombia; Carrera 3 No. 12-40 of. 504, Cali, Colombia [SDNT]

PRIETO SANTIAGO, Sandra Milena, c/o ASESORES CONSULTORES ASOCIADOS LTDA., Cali, Colombia; c/o FRUTAS EXOTICAS COLOMBIANOS S.A., La Union, Valle, Colombia; c/o CRETA S.A., La Union, Valle, Colombia; DOB 21 Jan 1970; POB Roldanillo, Valle, Colombia; Cedula No. 66702878 (Colombia); Passport AG784916 (Colombia) (individual) [SDNT]

PRIMA EXPORT/IMPORT, Jamaica [CUBA]

PRIVREDNA BANKA SARAJEVO AD (a.k.a. PRIVREDNA BANKA AD SRPSKO SARAJEVO), Ljube Milanovica Str 12, Trebinje, Republika Srpska, Bosnia and Herzegovina; Dobroslava Jedevica 14, 71000 Pale, Republika Srpska, Bosnia and Herzegovina; Kralja Nikole Str 65, Srbinje/Foca, Republika Srpska, Bosnia and Herzegovina; Str Srpskih Ratnika br 14, 71420 Pale, Republika Srpska, Bosnia and Herzegovina; Filipa Kljajica Str 6, Zvornik, Republika Srpska, Bosnia and Herzegovina; 9/11 Str Zagrebacka, Belgrade 11000, Serbia; SWIFT/BIC PRSS BA 22 [BALKANS]

PROCESADORA DE POLLOS SUPERIOR S.A. (a.k.a. COMERCIALIZADORA INTERNACIONAL VALLE DE ORO S.A.), Avenida 2N No. 7N-55 of. 521, Cali, Colombia; Carrera 3 No. 12-40, Cali, Colombia; A.A. 1689, Cali, Colombia; Km 17 Recta Cali-Palmira, Palmira, Colombia; NIT # 800074991-3 (Colombia) [SDNT]

PRODUCCIONES CARNAVAL DEL NORTE Y COMPANIA LIMITADA, Calle 22N No. 5A-75 05, Cali, Colombia; NIT # 800250531-3 (Colombia) [SDNT]

PRODUCTOS FARMACEUTICOS COLLINS, S.A. DE C.V. (a.k.a. GRUPO COLLINS; a.k.a. GRUPO FARMACEUTICO COLLINS; a.k.a. LABORATORIOS COLLINS), Prolongacion Lopez Mateos 1938, Colonia Agua Blanca, Zapopan, Jalisco 45070, Mexico; Puerto Soto La Marina 1632 A, Guadalajara, Jalisco 44330, Mexico; Avenida Lopez Mateos No. 1938, Colonia Agua Blanca, Zapopan, Jalisco 45070, Mexico; Calle Vicente Guerrero 337, Colonia Agua Blanca, Zapopan, Jalisco 44008, Mexico; Calle Agua Prieta 1100, Colonia Agua Blanca, Zapopan, Jalisco 44008, Mexico; Pedro de Alacron No. 167, Zapopan, Jalisco, Mexico; Cipres No. 1677, Colonia Del Fresno, Guadalajara, Jalisco 44900, Mexico; R.F.C. PFC8301273D1 (Mexico) [SDNTK]

PRODUCTOS GALO Y CIA. LTDA., Avenida 42 No. 20-47, Bogota, Colombia; Apartado Aereo 58263, Bogota, Colombia; NIT # 800102729-0 (Colombia) [SDNT]

PROGRESS SURAWEE COMPANY LTD. (a.k.a. BORISAT PROKRET SURAWI CHAMKAT), 275 Soi Thiam Ruammit, Ratchada Phisek Road, Huai Khwang district, Bangkok, Thailand [SDNTK]

PROHUEVO DE COLOMBIA LTDA., Calle 34 No. 5A-25, Cali, Colombia; Granja Pio Pio Carretera Cali-Candelaria Km 12, Cali, Colombia; 1 Km Antes de Cavasa Palmira-Cali, Colombia; NIT # 800089683-5 (Colombia) [SDNT]

PROMOCIONES ARTISTICAS (a.k.a. PROARTE), Avenida Insurgentes Sur No. 421, Bloque B Despacho 404, C.P. 06l00, Mexico, D.F., Mexico [CUBA]

PROMOCIONES E INVERSIONES LAS PALMAS S.A. (a.k.a. PROPALMAS S.A.), Carrera 9 No. 100-97 Ofc. 412, Bogota, Colombia; NIT # 800236023-5 (Colombia) [SDNT]

PROMOCIONES Y CONSTRUCCIONES DEL CARIBE LTDA., Carrera 54 No. 72-147, Barranquilla, Colombia; Carrera 54 No. 72-80 Ejecutivo I, Barranquilla, Colombia; Calle 74 No. 53-30, Barranquilla, Colombia; Carrera 56 No. 70-60, Barranquilla, Colombia; Carrera 55 No. 72-109 Piso 1, Barranquilla, Colombia; Calle 78 No. 53-70 Centro Comercial Villa Country, Barranquilla, Colombia; Carrera 57 No. 79-149, Barranquilla, Colombia; NIT # 890108115-3 (Colombia) [SDNT]

PROMOCIONES Y CONSTRUCCIONES DEL CARIBE LTDA. Y CIA. S.C.A. (a.k.a. PROMOCON), Carrera 54 No. 72-147 L-115, Barranquilla, Colombia; Carrera 55 No. 80-192 Ap. 6, Barranquilla, Colombia; Apartado Aereo 51110, Barranquilla, Colombia; Apartado Aereo 50183, Barranquilla, Colombia; Carrera 55 No. 80-192, Barranquilla, Colombia; Carrera 54 No. 72-80 L-21 Ejecutivo I, Barranquilla, Colombia; Calle 74 No. 53-30, Barranquilla, Colombia; Calle 78 No. 53-70 Centro Comercial Villa Country, Barranquilla, Colombia; NIT # 890108148-6 (Colombia) [SDNT]

PROMOTORA ANDINA, S.A., Quito, Ecuador [CUBA]

PROMOTORA FIN, S.A. (a.k.a. PROFINSA; a.k.a. PROMOTORA FIN, S.A. DE C.V.), Agua Caliente Blvd. 122 A, Cacho, Tijuana, Baja California, Mexico; Calle 3ra, Carrillo Puerto 216, 4to Piso, Zona Centro, Tijuana, Baja California, Mexico; 3ra. Carrillo Puerto 216 1, Zona Central, Avenida Madero y Avenida Negrete, Tijuana, Baja California, Mexico; R.F.C. PFI-801023-519 (Mexico) [SDNTK]

PROMOTORA HOTEL BARRANQUILLA LTDA., Calle 74 No. 53-30, Barranquilla, Colombia; Apartado Aereo 51110, Barranquilla, Colombia; NIT # 890111684-3 (Colombia) [SDNT]

PROMOTORES DE BIENES RAICES S.A. (a.k.a. PROMOBIENES S.A.), Calle 20N No. 6AN-19 ofc. 67, Cali, Colombia; NIT # 805001651-1 (Colombia) [SDNT]

PROSALUD Y BIENESTAR S.A. (a.k.a. PROSALUD CENTROS MEDICOS Y DROGUERIA), Calle 2 No. 4-70/72, Cali, Colombia; Carrera 7P No. 76-04, Cali, Colombia; Carrera 4N No. 81-04 esq., Cali, Colombia; Carrera 2 No. 52-27, Cali, Colombia; Carrera 2 No. 20-47, Cali, Colombia; Calle 22A No. 10-54, Cali, Colombia; Carrera 15 No. 34-102, Cali, Colombia; Calle 19 No. 6-31, Cali, Colombia; Carrera 46 No. 37-03, Cali, Colombia; Calle 44 No. 4N-74, Cali, Colombia; Carrera 94 No. 4-76, Cali, Colombia; Carrera 29 No. 45-84, Cali, Colombia; Calle 23 No. 28-11, Cali, Colombia; Calle 71A No. 1D-07, Cali, Colombia; NIT # 890311169-1 (Colombia) [SDNT]

PROSPECTIVA EMPRESA UNIPERSONAL (a.k.a. PROSPECTIVA E.U.), Calle 29 Norte No. 6N-43, Cali, Colombia; Calle 18 No. 106-98, of. 302 and 303, Cali, Colombia; NIT # 805006189-0 (Colombia) [SDNT]

PROVIDA E.U. (a.k.a. PROVIDA LABORATORIO CLINICO Y PATALOGIA; a.k.a. PROVIDA Y DISENO), Carrera 44 No. 5B-27, Cali, Colombia; Carrera 94 No. 4-76, Cali, Colombia; Calle 44 No. 4N-74, Cali, Colombia; Calle 71A No. 1D-07, Cali, Colombia; Carrera 15 No. 34-102, Cali, Colombia; Carrera 2 No. 52-27, Cali, Colombia; Carrera 46 No. 37-03, Cali, Colombia; Carrera 7P No. 76-04, Cali, Colombia; Calle 22A No. 10-54, Cali, Colombia; Calle 23 No. 28-11, Cali, Colombia; Carrera 29 No. 45-84, Cali, Colombia; Carrera 4N No. 81-04, Cali, Colombia; Calle 19 No. 6-31, Cali, Colombia; Quito, Ecuador; NIT # 805016716-5 (Colombia) [SDNT]

PROYECTOS J.A.M. LTDA., Carrera 54 No. 72-147, Barranquilla, Colombia; Carrera 53 No. 74-16, Barranquilla, Colombia; Calle 77 No. 65-37 L-6, Barranquilla, Colombia; NIT # 800234529-0 (Colombia) [SDNT]

PROYECTOS J.A.M. LTDA. Y CIA. S. EN C., Carrera 53 No. 74-16 of. 401, Barranquilla, Colombia; Calle 74 No. 53-23 of. 401, Barranquilla, Colombia; Calle 74 No. 53-23 L-503, Barranquilla, Colombia; Carrera 53 No. 74-16, Barranquilla, Colombia; NIT # 800243483-9 (Colombia) [SDNT]

PROYECTOS Y SOLUCIONES INMOBILIARIA LTDA. (f.k.a. PROMOTORA DE PROYECTOS Y SOLUCIONES LTDA.), Avenida 13 No. 100-12 Ofc. 302, Bogota, Colombia; NIT # 800014349-8 (Colombia) [SDNT]

PROYECTOS Y SOLUCIONES S.A., Carrera 63 No. 17-07, Bogota, Colombia; NIT # 800231601-1 (Colombia) [SDNT]

PUBLIC CORPORATION FOR BUILDING AND CONSTRUCTION, P.O. Box 2110, Khartoum, Sudan [SUDAN]

PUBLIC CORPORATION FOR IRRIGATION AND EXCAVATION, P.O. Box 619, Khartoum, Sudan; P.O. Box 123, Wad Medani, Sudan [SUDAN]

PUBLIC CORPORATION FOR OIL PRODUCTS AND PIPELINES, Khartoum, Sudan [SUDAN]

PUBLIC ELECTRICITY AND WATER CORPORATION (a.k.a. CENTRAL ELECTRICITY AND WATER CORPORATION), P.O. Box 1380, Khartoum, Sudan [SUDAN]

PUENTE GONZALEZ, Carlos Alberto, c/o CORPORACION DEPORTIVA AMERICA, Cali, Colombia; DOB 28 Nov 1937; Cedula No. 2449885 (Colombia); Passport 2449885 (Colombia) (individual) [SDNT]

PUERTA PARRA, Gabriel (a.k.a. “DOCTOR PUERTA”), c/o LA FRONTERA UNION GALVEZ Y CIA S EN C, Bogota, Colombia; c/o INTERCONTINENTAL DE AVIACION, S.A.; c/o COMERCIALIZADORA ANDINA BRASILERA S.A., Bogota, Colombia; Carrera 30 No. 90-82, Bogota, Colombia; c/o INDUSTRIAL MINERA Y PECUARIA S.A., Bogota, Colombia; DOB 1 Oct 1942; POB San Carlos, Antioquia, Colombia; Cedula No. 8238830 (Colombia); Passport P020046 (Colombia) (individual) [SDNT]

PUERTO, Luis Alfredo, c/o CODISA, Bogota, Colombia; c/o ADMACOOP, Bogota, Colombia; DOB 17 Dec 1955; Cedula No. 79113154 (Colombia); Passport 79113154 (Colombia) (individual) [SDNT]

PULIDO VALDIVIA, Javier (a.k.a. PULIDO VALDIVIA, Francisco), Mexico; Calle Fray Junipero Serra #1932, Colonia Jardines Alcalde, Guadalajara, Jalisco, Mexico; c/o LABORATORIOS WILLMAR, S.A. DE C.V., Guadalajara, Jalisco, Mexico; DOB 14 Jan 1953; citizen Mexico; nationality Mexico; C.U.R.P. PUVJ530114HJCLLV06 (Mexico) (individual) [SDNTK]

PUMA SECURITY COMPANY (a.k.a. PUMA SECURITY AGENCY; a.k.a. PUMA SECURITY SERVICE), Mostar, Bosnia and Herzegovina; Siroki Brijeg, Bosnia and Herzegovina; Capljina, Bosnia and Herzegovina; Stolac, Bosnia and Herzegovina [BALKANS]

PYZA E.U., Avenida 3 No. 21-50, Cali, Colombia; NIT # 805015054-3 (Colombia) [SDNT]

QANNADI, Mohammad (a.k.a. GHANNADI MARAGHEH, Mohammad; a.k.a. GHANNADI, Mohammad; a.k.a. QANNADI MARAGHEH, Mohammad), c/o ATOMIC ENERGY ORGANIZATION OF IRAN, Iran; DOB 13 Oct 1952; POB Maragheh, Iran; citizen Iran; nationality Iran; Passport 20694 (Iran); alt. Passport A0003044 (Iran) (individual) [NPWMD]

QASEM, Talat Fouad; DOB 02 Jun 1957; alt. DOB 03 Jun 1957; POB Al Mina, Egypt; Propaganda Leader of ISLAMIC GAMA'AT (individual) [SDT]

QUIAZUA ESPINEL, Maria Teresa, c/o REPRESENTACIONES Y DISTRIBUCIONES HUERTAS Y ASOCIADOS S.A., Bogota, Colombia; c/o CAJA SOLIDARIA, Bogota, Colombia; c/o CREDISOL, Bogota, Colombia; DOB 14 Oct 1966; Cedula No. 51837790 (Colombia); Passport 51837790 (Colombia) (individual) [SDNT]

QUIGUA ARIAS, Omar, c/o IMCOMER LTDA., Cali, Colombia; c/o INCOES LTDA., Cali, Colombia; DOB 26 Mar 1949; Cedula No. 6208489 (Colombia) (individual) [SDNT]

QUIMINTER GMBH, Vienna, Austria [CUBA]

QUINONES MELO Y CIA. LTDA., Carrera 3 No. 11-55 ofc. 206, Cali, Colombia; NIT # 890327616-0 (Colombia) [SDNT]

QUINONES, Benedicto (a.k.a. QUINONEZ, Benedicto), Calle 12A No. 107-25 No. 2, Cali, Colombia; c/o COMERCIALIZADORA CGQ LTDA., Cali, Colombia; c/o QUINONES MELO Y CIA. LTDA., Cali, Colombia; c/o ARTURO QUINONEZ LTDA., Cali, Colombia; DOB 25 Jun 1946; POB Cali, Colombia; Cedula No. 14934266 (Colombia); Passport 14934266 (Colombia) (individual) [SDNT]

QUINONEZ TORRES, Sergio Plinio, c/o ADMINISTRADORA DE SERVICIOS VARIOS CALIMA S.A., Cali, Colombia; c/o CHAMARTIN S.A., Cali, Colombia; Cedula No. 16723852 (Colombia); Passport 16723852 (Colombia) (individual) [SDNT]

QUINTA REAL JARDIN SOCIAL Y DE EVENTOS, S.A. DE C.V., Avenida Via Rapida Oriente 10950, Zona Rio Tijuana, Tijuana, Baja California, Mexico; R.F.C. QRJ-020528-BQ7 (Mexico) [SDNTK]

QUINTANA FUERTES, Andres Fernando, c/o TARRITOS S.A., Cali, Colombia; c/o INVERSIONES BRASILAR S.A., Bogota, Colombia; c/o AGROPECUARIA LINDARAJA S.A., Cali, Colombia; DOB 03 Jul 1966; POB Candelaria, Valle, Colombia; citizen Colombia; nationality Colombia; Cedula No. 16989000 (Colombia); Passport AI375038 (Colombia); alt. Passport 16989000 (Colombia) expires 13 Dec 2000 (individual) [SDNT]

QUINTANA HERNANDEZ, Gonzalo, c/o POLIEMPAQUES LTDA., Bogota, Colombia; c/o DISTRIBUIDORA DE DROGAS LA REBAJA BOGOTA S.A., Bogota, Colombia; c/o ALERO S.A., Cali, Colombia; c/o GRACADAL S.A., Cali, Colombia; Cedula No. 16603939 (Colombia) (individual) [SDNT]

QUINTANA ZORROZUA, Asier; DOB 27 Feb 1968; POB Bilbao Vizcaya Province, Spain; D.N.I. 30.609.430; Member ETA (individual) [SDGT]

QUINTERO ARCE, Juan Francisco (a.k.a. “EL CHATO”), Mexico; DOB 26 Aug 1959; POB Mocorito, Sinaloa, Mexico; citizen Mexico; nationality Mexico; C.U.R.P. QUAJ590826HSLNRN02 (Mexico); R.F.C. QUAJ590826P41 (Mexico) (individual) [SDNTK]

QUINTERO HERNANDEZ, Miguel Angel, c/o M Q CONSULTORES, S.A. DE C.V., Tijuana, Baja California, Mexico; Calle Ventisca 2359 Secc. Dorado, Colonia Playas de Tijuana, Tijuana, Baja California, Mexico; DOB 22 Oct 1970; POB Guadalajara, Jalisco, Mexico; R.F.C. QUHM-701022-TL3 (Mexico) (individual) [SDNTK]

QUINTERO MARIN, Lucio, c/o INDUSTRIAS AGROPECUARIAS EL EDEN S.A., Higueronal Torti, Darien, Panama; DOB 3 Apr 1966; POB El Dovio, Valle, Colombia; Cedula No. 94191399 (Colombia); Passport 94191399 (Colombia) (individual) [SDNT]

QUINTERO MARIN, Maria Eugenia, c/o INDUSTRIAS AGROPECUARIAS EL EDEN S.A., Higueronal Torti, Darien, Panama; DOB 29 Jul 1968; POB El Dovio, Valle, Colombia; Cedula No. 66703157 (Colombia); Passport 66703157 (Colombia) (individual) [SDNT]

QUINTERO MERAZ, Jose Albino; DOB 15 Sep 1959; POB Sinaloa, Mexico (individual) [SDNTK]

QUINTERO SALAMANDO, Gabriela Elvira, c/o CONTACTEL COMUNICACIONES S.A., Cali, Colombia; c/o PROSPECTIVA E.U., Cali, Colombia; DOB 10 Sep 1963; Cedula No. 31406077 (Colombia); Passport 31406077 (Colombia) (individual) [SDNT]

QUINTERO SALAZAR, Lisimaco, c/o INMOBILIARIA U.M.V. S.A., Cali, Colombia (individual) [SDNT]

QUINTERO SANCLEMENTE, Ramon Alberto, Carrera 16 No. 3-15, Buga, Valle, Colombia; Calle 115 No. 9-50, Bogota, Colombia; DOB 30 Nov 1960; POB Cali, Colombia; alt. POB Armenia, Quindio, Colombia; citizen Colombia; Cedula No. 14881147 (Colombia); Passport AE048871 (Colombia) (individual) [SDNT]

R/E OF AUDREY FARM, Zimbabwe [ZIMBABWE]

R/E OF MLEMBWE FARM, Mlembwe, Zimbabwe [ZIMBABWE]

RABAK OIL MILL, P.O. Box 2105, Khartoum, Sudan [SUDAN]

RABITA TRUST, Room 9A, 2nd Floor, Wahdat Road, Education Town, Lahore, Pakistan; Wares Colony, Lahore, Pakistan [SDGT]

RACEVIEW ENTERPRISES, Zimbabwe [ZIMBABWE]

RADIC, Miroslav; DOB 1 Jan 1961; ICTY indictee in custody (individual) [BALKANS]

RADIC, Mlado; DOB 15 May 1952; POB Lamovita, Bosnia-Herzegovina; ICTY indictee (individual) [BALKANS]

RADIO SERVICE, S.A., Panama [CUBA]

RADIO UNIDAS FM S.A., Calle 15N No. 6N-34 piso 15, Edificio Alcazar, Cali, Colombia; Calle 19N No. 2N-29 piso 10 Sur, Cali, Colombia [SDNT]

RADKOV, Aleksandr Mikhailovich (a.k.a. RADZKOU, Aleksandr Mikhailavich); DOB 1 Jul 1951; POB Votnya, Belarus; citizen Belarus; nationality Belarus; Minister of Education (individual) [BELARUS]

RA-EES ALI; Vessel Registration Identification IMO 8203608 (vessel) [NPWMD]

RAHIM (a.k.a. IRAN RAHIM); Vessel Registration Identification IMO 9465746 (vessel) [NPWMD]

RAHIM 3 (vessel) [CUBA]

RAINBOW FACTORIES, P.O. Box 1768, Khartoum, Sudan [SUDAN]

RAJAH SOLAIMAN MOVEMENT (RSM) (a.k.a. RAJA SOLEIMAN MOVEMENT; a.k.a. RAJAH SOLAIMAN GROUP; a.k.a. RAJAH SOLAIMAN ISLAMIC MOVEMENT (RSIM); a.k.a. RAJAH SOLAIMAN REVOLUTIONARY MOVEMENT (RSRM); a.k.a. RAJAH SULAIMAN MOVEMENT; a.k.a. RAJAH SULAYMAN MOVEMENT) [SDGT]

RAJBROOK LIMITED, United Kingdom [IRAQ2]

RAJIC, Ivica; DOB 5 May 1958; POB Johovac, Bosnia-Herzegovina; ICTY indictee at large (individual) [BALKANS]

RAM ENERGY COMPANY LIMITED, Altiyadh Street 131/Almashtal Street, Block 12, House No. 87, P.O. Box 802, Khartoum, Sudan [SUDAN]

RAMAK (a.k.a. RAMAK DUTY FREE; a.k.a. RAMAK DUTY FREE SHOP LTD; a.k.a. RAMAK DUTY FREE SHOPS—SYRIA; a.k.a. RAMAK DUTY FREE SHOPS LTD.; a.k.a. RAMAK FIRM FOR FREE TRADE ZONES), Al Rawda Street, PO Box 932, Damascus, Syria; Aleppo Duty Free, Aleppo International Airport, Aleppo, Syria; Damascus Duty Free, Damascus International Airport, Damascus, Syria; Tartous Port, Tartous, Syria; Abu Ramana Street, Rawda, Damascus, Syria; Bab el Hawa Border Center, Aleppo, Syria; Free Zone Area, Jamarek, PO Box 932, Damascus, Syria; Jdaideh Duty Free Complex, Jdaideh Yaboos, Damascus, Syria; Dara'a Duty Free, Naseeb Border Center, Dara'a, Syria; Lattakia Port, Lattakia, Syria; E-mail Address dam.d.free@net.sy (Syria); Website www.ramakdutyfree.net (Syria) [SYRIA]

RAMAL S.A., Diagonal 127A No. 17-34 Piso 5, Bogota, Colombia; NIT # 800142109-5 (Colombia) [SDNT]

RAMCHARAN BROTHERS LTD, Rosehall Main Road, Rosehall, Jamaica [SDNTK]

RAMCHARAN LTD, Rosehall Main Road, Rosehall, Jamaica [SDNTK]

RAMCHARAN, Leebert (a.k.a. MARSHALL, Donovan; a.k.a. RAMCHARAM, Leebert; a.k.a. RAMCHARAN, Liebert); DOB 28 Dec 1959; POB Jamaica (individual) [SDNTK]

RAMIREZ ABADIA Y CIA. S.C.S., Avenida Estacion No. 5BN-73 of. 207, Cali, Colombia; NIT # 800117676-4 (Colombia) [SDNT]

RAMIREZ ABADIA, Juan Carlos, c/o DISDROGAS LTDA., Yumbo, Valle, Colombia; c/o RAMIREZ ABADIA Y CIA. S.C.S., Cali, Colombia; Calle 6A No. 34-65, Cali, Colombia; DOB 16 Feb 1963; Cedula No. 16684736 (Colombia); Passport AD127327 (Colombia) (individual) [SDNT]

RAMIREZ AGUIRRE, Sergio Humberto, c/o Administradora De Inmuebles Vida, S.A. de C.V., Tijuana, Baja California, Mexico; c/o Farmacia Vida Suprema, S.A. DE C.V., Tijuana, Baja California, Mexico; c/o Distribuidora Imperial De Baja California, S.A. de C.V., Tijuana, Baja California, Mexico; DOB 22 Nov 1951 (individual) [SDNTK]

RAMIREZ AZA, Hernan, c/o IMPORT MAPRI LTDA., Bogota, Colombia; Cedula No. 17083264 (Colombia); Passport 17083264 (Colombia) (individual) [SDNT]

RAMIREZ AZA, Jose Manuel, c/o IMPORT MAPRI LTDA., Bogota, Colombia; c/o WORLD TRADE LTDA., Ibague, Colombia; DOB 14 Aug 1939; Cedula No. 2889531 (Colombia); Passport 2889531 (Colombia) (individual) [SDNT]

RAMIREZ BUITRAGO, Luis Eduardo, c/o INCOES LTDA., Cali, Colombia (individual) [SDNT]

RAMIREZ BUITRAGO, Placido, c/o COMERCIALIZADORA INTERNACIONAL VALLE DE ORO S.A., Cali, Colombia; DOB 16 Nov 1950; Cedula No. 10219387 (Colombia) (individual) [SDNT]

RAMIREZ CORTES, Delia Nhora (a.k.a. RAMIREZ CORTES, Delia Nora), c/o INMOBILIARIA BOLIVAR LTDA., Cali, Colombia; c/o SOCOVALLE LTDA., Cali, Colombia; c/o COMPANIA ADMINISTRADORA DE VIVIENDA S.A., Cali, Colombia; c/o AGROPECUARIA Y REFORESTADORA HERREBE LTDA., Cali, Colombia; c/o INVERSIONES HERREBE LTDA., Cali, Colombia; c/o VIAJES MERCURIO LTDA., Cali, Colombia; c/o INVERSIONES GEMINIS S.A., Cali, Colombia; c/o CONSTRUEXITO S.A., Cali, Colombia; c/o INDUSTRIA AVICOLA PALMASECA S.A., Cali, Colombia; c/o ADMINISTRACION INMOBILIARIA BOLIVAR S.A., Cali, Colombia; c/o INVERSIONES INVERVALLE S.A., Cali, Colombia; c/o CONSTRUCTORA ALTOS DEL RETIRO LTDA., Bogota, Colombia; DOB 20 Jan 1959; Cedula No. 38943729 (Colombia) (individual) [SDNT]

RAMIREZ DE CASTANEDA, Maria (a.k.a. RAMIREZ RAMIREZ, Maria), c/o DECAFARMA S.A., Bogota, Colombia; c/o PENTACOOP LTDA., Bogota, Colombia; c/o PENTA PHARMA DE COLOMBIA S.A., Bogota, Colombia; DOB 8 Dec 1943; Cedula No. 31226330 (Colombia) (individual) [SDNT]

RAMIREZ DE RAMOS, Amparo, c/o INVERSIETE S.A., Cali, Colombia; c/o INVERSIONES Y CONSTRUCCIONES ATLAS LTDA., Cali, Colombia; DOB 1 Feb 1947; Cedula No. 38997548 (Colombia) (individual) [SDNT]

RAMIREZ ESCUDERO, Pedro Emilio, c/o GALAPAGOS S.A., Cali, Colombia; Calle 6A No. 48-36, Cali, Colombia; Cedula No. 16820602 (Colombia) (individual) [SDNT]

RAMIREZ GACHA, Ivan, c/o MATERIAS PRIMAS Y SUMINISTROS S.A., Bogota, Colombia; DOB 30 Sep 1963; Cedula No. 79310808 (Colombia); Passport 79310808 (Colombia) (individual) [SDNT]

RAMIREZ GARCIA, Hernan Felipe, Calle 7 No. 51-37, Cali, Colombia; c/o CONSULTORIAS FINANCIERAS S.A., Cali, Colombia; DOB 09 Jun 1969; POB Cali, Colombia; Cedula No. 16772586 (Colombia); Passport AI848476 (Colombia) (individual) [SDNT]

RAMIREZ LENIS, Jhon Jairo, Carrera 4C No. 34-27, Cali, Colombia; DOB 19 Jul 1966; Cedula No. 79395056 (Colombia) (individual) [SDNT]

RAMIREZ M., Oscar, c/o INVERSIONES ARA LTDA., Cali, Colombia; c/o RIONAP COMERCIO Y REPRESENTACIONES S.A., Quito, Ecuador; c/o VALORES MOBILIARIOS DE OCCIDENTE S.A., Bogota, Colombia (individual) [SDNT]

RAMIREZ NUNEZ, James Alberto, Carrera 5 No. 24-63, Cali, Colombia; c/o INVERSIONES Y CONSTRUCCIONES COSMOVALLE LTDA., Cali, Colombia; c/o ANDINA DE CONSTRUCCIONES S.A., Cali, Colombia; c/o GRACADAL S.A., Cali, Colombia; c/o DISMERCOOP, Cali, Colombia; c/o SERVICIOS FARMACEUTICOS SERVIFAR S.A., Cali, Colombia; c/o INVERSIONES MONDRAGON Y CIA. S.C.S., Cali, Colombia; c/o INTERAMERICA DE CONSTRUCCIONES S.A., Cali, Colombia; DOB 21 Apr 1962; Cedula No. 16691796 (Colombia) (individual) [SDNT]

RAMIREZ PONCE, Omar, c/o RAMIREZ ABADIA Y CIA. S.C.S., Cali, Colombia; c/o DISDROGAS LTDA., Yumbo, Valle, Colombia; Carrera 38 No. 13-138, Cali, Colombia; DOB 01 Jan 1940; POB Cali, Colombia; Cedula No. 6064636 (Colombia); Passport 6064636 (Colombia) (individual) [SDNT]

RAMIREZ RIVERA, Gustavo, Calle 25 N No. 5BN-16, Cali, Colombia; Avenida 4 Oeste No. 6-103, Cali, Colombia; c/o UNIDAD CARDIOVASCULAR LTDA., Cali, Colombia; DOB 05 Apr 1968; POB Medellin, Colombia; Cedula No. 16281514 (Colombia); Passport AJ077853 (Colombia) (individual) [SDNT]

RAMIREZ RIVERA, Sergio Alberto, Cali, Colombia; DOB 14 Jan 1964; POB Cali, Colombia; Cedula No. 16694220 (Colombia); Passport AF771317 (Colombia) (individual) [SDNT]

RAMIREZ SANCHEZ, Alben, c/o INCOES LTDA., Cali, Colombia (individual) [SDNT]

RAMIREZ SUAREZ, Luis Carlos (a.k.a. RAMIREZ SUARES, Luis Carlos), c/o DROGAS LA REBAJA BUCARAMANGA S.A., Bucaramanga, Colombia; c/o COPSERVIR LTDA., Bogota, Colombia; DOB 15 May 1952; Cedula No. 19164938 (Colombia) (individual) [SDNT]

RAMIREZ VALENCIANO, William, c/o CONCRETOS CALI S.A., Cali, Colombia; c/o ADMINISTRACION INMOBILIARIA BOLIVAR S.A., Cali, Colombia; c/o INVERSIONES GEMINIS S.A., Cali, Colombia; c/o IMCOMER LTDA., Cali, Colombia; c/o INVERSIONES EL PENON S.A., Cali, Colombia; c/o CONSTRUCTORA DIMISA LTDA., Cali, Colombia; c/o INVERSIONES BETANIA LTDA., Cali, Colombia; Calle 3C No. 72-64 10, Cali, Colombia; DOB 7 Feb 1964; Cedula No. 16694719 (Colombia) (individual) [SDNT]

RAMON MAGANA, Alcides (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. ROMERO, Antonio); DOB 4 Sep 1957 (individual) [SDNTK]

RAMOS BONILLA, Blanca Clemencia, c/o COSMEPOP, Bogota, Colombia; c/o LATINA DE COSMETICOS Y DISTRIBUCIONES S.A., Bogota, Colombia; c/o LABORATORIOS BLAIMAR DE COLOMBIA S.A., Bogota, Colombia; DOB 19 Mar 1959; Cedula No. 41767311 (Colombia); Passport 41767311 (Colombia) (individual) [SDNT]

RAMOS RAYO, Heriberto, c/o INVERSIONES VILLA PAZ S.A., Cali, Colombia; DOB 19 Aug 1946; Cedula No. 6186403 (Colombia) (individual) [SDNT]

RANGEL SILVA, Henry de Jesus, Caracas, Venezuela; Cedula No. V-5.764.952 (Venezuela); alt. Cedula No. 5.764.952 (Venezuela); Director, Venezuelan Directorate of Intelligence and Prevention Services (“DISIP”) (individual) [SDNTK]

RANTISI, Abdel Aziz, Gaza Strip, undetermined; DOB 23 Oct 1947; POB Yubna, Gaza (Palestinian Authority) (individual) [SDGT]

RARRBO, Ahmed Hosni (a.k.a. “ABDALLAH O ABDULLAH”); DOB 12 Sep 1974; POB Bologhine, Algeria (individual) [SDGT]

RASEVIC, Mitar; DOB 1940; POB Cagust, Bosnia-Herzegovina; ICTY indictee (individual) [BALKANS]

RASHID, Ata Abdoulaziz (a.k.a. BARZINGY, Ata Abdoul Aziz; a.k.a. RASHID, Ata Abd Al-Aziz), Schmidener Street 98, Stuttgart 70374, Germany; Stuttgart Prison, Stuttgart, Germany; DOB 1 Dec 1973; POB Sulaymaniyah, Iraq; nationality Iraq; Travel Document Number A0020375 (Germany) (individual) [SDGT]

RATTANA VICHAI COMPANY LTD. (a.k.a. BORISAT RATTANA WICHAI CHAMKAT), 339 Soi Lat Phrao 23, Lat Phrao Road, Chatuchak district, Bangkok, Thailand [SDNTK]

RAUTENBACH, Muller (a.k.a. RAUTENBACH, Billy; a.k.a. RAUTENBACH, Muller Conrad); DOB 11 Nov 1950; alt. DOB 23 Sep 1959; citizen Zimbabwe; Passport ZE26547 (Zimbabwe) (individual) [ZIMBABWE]

RAVENS (vessel) [CUBA]

REA SWEET FACTORY, P.O. Box 1027, Khartoum, Sudan [SUDAN]

REAL IRA (a.k.a. 32 COUNTY SOVEREIGNTY COMMITTEE; a.k.a. 32 COUNTY SOVEREIGNTY MOVEMENT; a.k.a. IRISH REPUBLICAN PRISONERS WELFARE ASSOCIATION; a.k.a. REAL IRISH REPUBLICAN ARMY; a.k.a. REAL OGLAIGH NA HEIREANN; a.k.a. RIRA) [FTO] [SDGT]

RECICLAJE INDUSTRIAL, S.A., Panama [CUBA]

RECITEC LTDA., Calle 16 No. 12-49, Cali, Colombia; NIT # 800037780-9 (Colombia) [SDNT]

RED DE SERVICIOS INMOBILIARIO PROFESIONALES S.A. (f.k.a. RED DE INMOBILIARIOS PROFESIONALES S.A.; a.k.a. “RIPSA”), Carrera 12 No. 79-32, Ofc. 703, Bogota, Colombia; NIT # 830065743-4 (Colombia) [SDNT]

RED HAND DEFENDERS (RHD), United Kingdom [SDGT]

RED SEA BARAKAT COMPANY LIMITED, Mogadishu, Somalia; Dubai, United Arab Emirates [SDGT]

RED SEA HILLS MINERALS COMPANY, C/O SUDANESE MINING CORPORATION, P.O. Box 1034, Khartoum, Sudan [SUDAN]

RED SEA STEVEDORING, P.O. Box 215, Khartoum, Sudan; P.O. Box 17, Port Sudan, Sudan [SUDAN]

REDESTOS (vessel) [CUBA]

REDESTOS SHIPPING CO. LTD., c/o EMPRESA DE NAVEGACION MAMBISA, Apartado 543, San Ignacio 104, Havana, Cuba [CUBA]

REEVES-TAYLOR, Agnes (a.k.a. REEVES-TAYLOR; a.k.a. TAYLOR, Agnes Reeves); DOB 27 Sep 1965; nationality Liberia; Ex-wife of former President of Liberia Charles Taylor; ex-Permanent Representative of Liberia to the International Maritime Organization (individual) [LIBERIA]

REFRIGERATION AND ENGINEERING IMPORT COMPANY, P.O. Box 1092, Khartoum, Sudan [SUDAN]

REINA DE TORRES, Rosalba, c/o TRIMARK LTDA., Bogota, Colombia; Cedula No. 41719184 (Colombia) (individual) [SDNT]

REINA MOLINA, Miguel Sigifredo, c/o DISTRIBUIDORA DEL VALLE E.U., Bogota, Colombia; Cedula No. 8401802 (Colombia); Passport 8401802 (Colombia) (individual) [SDNT]

REMADNA, Abdelhalim; DOB 2 Apr 1966; POB Bistra, Algeria (individual) [SDGT]

RENDON POBLETE, Rosalinda (a.k.a. RENDON DE PULIDO, Rosalinda), c/o LABORATORIOS WILLMAR, S.A. DE C.V., Guadalajara, Jalisco, Mexico; DOB 23 Nov 1953; POB Cuahutla, Morelos, Mexico; citizen Mexico; nationality Mexico (individual) [SDNTK]

RENDON RAMIREZ, Jose Aldemar (a.k.a. “MECHAS”), Carrera 9 No. 10-07, Cartago, Valle, Colombia; Carrera 26 No. 80-40, MZ 1, Casa 13, Pereira, Risaralda, Colombia; Carrera 13 No. 18-50, Cartago, Valle, Colombia; DOB 24 Jul 1950; POB Pereira, Risaralda, Colombia; Cedula No. 16202349 (Colombia); Passport AE182792 (Colombia); alt. Passport AF956905 (Colombia) (individual) [SDNT]

RENDON RODRIGUEZ, Maria Fernanda, c/o DISMERCOOP, Cali, Colombia; Cedula No. 38864017 (Colombia) (individual) [SDNT]

RENGIFO AMAYA, Harvy Ramiro, c/o INMOBILIARIA QUILICHAO S.A., Cali, Colombia; c/o CENTRO COMERCIAL GUSS S.A., Cali, Colombia; c/o MIRACANA INMOBILIARIA QUILCHAO S.A. & CIA S.C.A., Cali, Colombia; c/o CONSTRUCTORA UMBRIA S.A., Cali, Colombia; c/o RED DE SERVICIOS INMOBILIARIO PROFESIONALES S.A., Bogota, Colombia; c/o FRONTERA VIRTUAL S.A., Bogota, Colombia; c/o VENECIA INMOBILIARIA QUILICHAO S.A. & CIA S.C.A., Cali, Colombia; DOB 02 Jan 1982; POB Colombia; citizen Colombia; nationality Colombia; Cedula No. 80201385 (Colombia); Passport AH406973 (Colombia); alt. Passport AE948092 (Colombia) (individual) [SDNT]

RENGIFO MANCERA & CIA S.C.A., Carrera 12 No. 79-32, Ofc. 703, Bogota, Colombia; NIT # 800138803-3 (Colombia) [SDNT]

RENGIFO O.A.M. Y CIA S.C.A., Carrera 12 No. 79-32, Bogota, Colombia; NIT # 900110717-9 (Colombia) [SDNT]

RENGIFO OSPINA, Edwin Amir, c/o FRONTERA VIRTUAL S.A., Bogota, Colombia; c/o MIRACANA INMOBILIARIA QUILCHAO S.A. & CIA S.C.A., Cali, Colombia; c/o CENTRO COMERCIAL GUSS S.A., Cali, Colombia; c/o AGROGANADERA LA ISABELA S.A., Cali, Colombia; c/o CONSTRUCTORA LOMA LINDA S.A., Cali, Colombia; c/o CONSTRUCCIONES LA RESERVA S.A., Cali, Colombia; c/o CONSTRUCTORA UMBRIA S.A., Cali, Colombia; c/o CONSTRUCTORA JUANAMBU S.A., Cali, Colombia; Calle 82 No. 8-43, Apt. 201, Bogota, Colombia; c/o RED DE SERVICIOS INMOBILIARIO PROFESIONALES S.A., Bogota, Colombia; DOB 20 Jun 1975; POB Bogota, Colombia; citizen Colombia; nationality Colombia; Cedula No. 79693032 (Colombia); Passport AF294763 (Colombia); alt. Passport AI054522 (Colombia) issued 16 May 2001 expires 16 May 2011 (individual) [SDNT]

RENGIFO OSPINA, Jefferson, Calle 98 No. 9-41, Apt. 1202, Bogota, Colombia; c/o FRONTERA VIRTUAL S.A., Bogota, Colombia; c/o RED DE SERVICIOS INMOBILIARIO PROFESIONALES S.A., Bogota, Colombia; c/o CENTRO COMERCIAL GUSS S.A., Cali, Colombia; c/o MIRACANA INMOBILIARIA QUILCHAO S.A. & CIA S.C.A., Cali, Colombia; DOB 19 Dec 1977; POB Cali, Colombia; citizen Colombia; nationality Colombia; Cedula No. 94511007 (Colombia); Passport PO34555 (Colombia); alt. Passport AF237758 (Colombia) (individual) [SDNT]

RENGIFO OSPINA, Lina Milayi, c/o RED DE SERVICIOS INMOBILIARIO PROFESIONALES S.A., Bogota, Colombia; c/o CONSTRUCTORA UMBRIA S.A., Cali, Colombia; c/o FRONTERA VIRTUAL S.A., Bogota, Colombia; c/o MIRACANA INMOBILIARIA QUILCHAO S.A. & CIA S.C.A., Cali, Colombia; c/o CENTRO COMERCIAL GUSS S.A., Cali, Colombia; DOB 22 Oct 1983; POB Bogota, Colombia; citizen Colombia; nationality Colombia; Cedula No. 52965678 (Colombia); Passport AI087604 (Colombia); alt. Passport AF295127 (Colombia) (individual) [SDNT]

RENGIFO PUENTES, Ramiro (a.k.a. TORRIJOS, William; a.k.a. “LA LLAVERIA”), c/o RUIZ DE ALARCON 12 S.L., Madrid, Spain; c/o RENGIFO MANCERA & CIA S.C.A., Bogota, Colombia; Carrera 12 No. 90-19, Piso2, Bogota, Colombia; Calle 98 No. 9-41, Apt. 1102, Torre C, Bogota, Colombia; c/o RED DE SERVICIOS INMOBILIARIO PROFESIONALES S.A., Bogota, Colombia; Calle 99 No. 10-72, Bogota, Colombia; Madrid, Spain; DOB 18 Nov 1950; POB Cali; citizen Colombia; nationality Colombia; Cedula No. 19187359 (Colombia); National Foreign ID Number X3093421J (Spain); Passport AG589478 (Colombia); alt. Passport AI912220 (Colombia) issued 30 Jul 2003 expires 30 Jul 2013; alt. Passport AI206319 (Colombia) (individual) [SDNT]

RENGIFO SAAVEDRA, Carmen Hermencia, c/o COPSERVIR LTDA., Bogota, Colombia; Calle 14 No. 48A-19, Cali, Colombia; c/o COOPERATIVA DE TRABAJO ASOCIADO ACTIVAR, Bogota, Colombia; Carrera 6 No. 11-43 of. 505, Cali, Colombia; DOB 19 Dec 1969; Cedula No. 66738336 (Colombia) (individual) [SDNT]

RENGIFO VALVERDE, Fabian Francisco, c/o WORLD LINE SYSTEM S.A., Palmira, Valle, Colombia; c/o NEGOCIOS Y CAPITALES S.A., Pereira, Colombia; c/o CECEP EDITORES S.A., Cali, Colombia; c/o CECEP S.A., Cali, Colombia; c/o APVA S.A., Cali, Colombia; c/o RFA CONSULTORES Y AUDITORES LTDA., Cali, Colombia; Cali, Colombia; DOB 18 Oct 1963; Cedula No. 16690994 (Colombia) (individual) [SDNT]

RENT-A-CAR, S.A., Panama [CUBA]

RENTAR INMOBILIARIA S.A., Calle 10 No. 4-47 piso 18, Cali, Colombia; NIT # 805012015-2 (Colombia) [SDNT]

RENTERIA CAICEDO, Beatriz Eugenia, c/o CANADUZ S.A., Cali, Colombia; c/o INVERSIONES AGROINDUSTRIALES DEL OCCIDENTE LTDA., Bogota, Colombia; 18801 Collins Avenue, Apt. 322-3, Sunny Isles Beach, FL 33160; Diagonal 130 No. 7-20, Apt. 806, Bogota, Colombia; Calle 90 No. 10-05, Bogota, Colombia; 85 Brainerd Road, Townhouse 9, Allston, MA 02134; Avenida 11 No. 7N-166, Cali, Colombia; c/o COMPANIA AGROPECUARIA DEL SUR LTDA., Bogota, Colombia; DOB 30 Nov 1977; citizen Colombia; nationality Colombia; Cedula No. 52424737 (Colombia); Passport AE309750 (Colombia); alt. Passport AG034865 (Colombia); SSN 594-33-3351 (United States) (individual) [SDNT]

RENTERIA CAICEDO, Maria Cecilia, Diagonal 130 No. 7-20, Apt. 806, Bogota, Colombia; 85 Brainerd Road, Townhouse 9, Allston, MA 02134; Avenida 11 No. 7N-166, Cali, Colombia; c/o CANADUZ S.A., Cali, Colombia; 18801 Collins Avenue, Apt. 322-3, Sunny Isles Beach, FL 33160; Calle 90 No. 10-05, Bogota, Colombia; c/o INVERSIONES AGROINDUSTRIALES DEL OCCIDENTE LTDA., Bogota, Colombia; c/o COMPANIA AGROPECUARIA DEL SUR LTDA., Bogota, Colombia; DOB 27 May 1981; POB Cali, Colombia; citizen Colombia; nationality Colombia; Cedula No. 52410645 (Colombia); Passport AD454168 (Colombia); alt. Passport AF624588 (Colombia) (individual) [SDNT]

RENTERIA MANTILLA, Carlos Alberto (a.k.a. “BETO RENTERIA”), c/o COMPANIA AGROPECUARIA DEL SUR LTDA., Bogota, Colombia; c/o COLOMBO ANDINA COMERCIAL COALSA LTDA., Bogota, Colombia; c/o INVERSIONES AGROINDUSTRIALES DEL OCCIDENTE LTDA., Bogota, Colombia; Carrera 26 No. 29-75, Tulua, Colombia; c/o DIMABE LTDA., Bogota, Colombia; DOB 11 Mar 1945; POB Colombia; citizen Colombia; Cedula No. 6494208 (Colombia) (individual) [SDNT]

REPARACIONES Y CONSTRUCCIONES LTDA. (a.k.a. RECONSTRUYE LTDA.), Avenida 6N No. 23DN-16 of. 402, Cali, Colombia; NIT # 800053838-4 (Colombia) [SDNT]

REPRESENTACIONES ORIENTE S.R.L., Urb. La Arboleda, Mz. F Int. 10, Trujillo, Peru; RUC # 20275164675 (Peru) [SDNTK]

REPRESENTACIONES Y DISTRIBUCIONES HUERTAS Y ASOCIADOS S.A. (a.k.a. REPRESENTACIONES Y DISTRIBUCIONES HUERTAS Y ASOCIADOS LTDA.; a.k.a. TELEFARMA), Calle 124 No. 6-60, Bogota, Colombia; Avenida 42 No. 20-47, Bogota, Colombia; NIT # 860527387-8 (Colombia) [SDNT]

REPRESENTACIONES ZATZA LTDA., Calle 11 No. 16-23, Cali, Colombia; NIT # 805011682-0 (Colombia) [SDNT]

RESTREPO CANO, Maria Del Pilar, c/o COPSERVIR LTDA., Bogota, Colombia; c/o DISTRIBUIDORA SANAR DE COLOMBIA S.A., Cali, Colombia; c/o CHAMARTIN S.A., Cali, Colombia; DOB 26 Jun 1965; Cedula No. 31948671 (Colombia); Passport 31948671 (Colombia) (individual) [SDNT]

RESTREPO CLAVIJO, Carlos Umberto (a.k.a. RESTREPO CLAVIJO, Carlos Huberto; a.k.a. RESTREPO CLAVIJO, Carlos Humberto), Calle 8 No. 4-47, Cartago, Valle, Colombia; Cedula No. 16205322 (Colombia) (individual) [SDNT]

RESTREPO ENCIZO, Luz Piedad, c/o MOTEL MOMENTOS E.U., Cartago, Valle, Colombia; c/o GRANJA PORCICOLA LA FORTALEZA, Cartago, Valle, Colombia; Calle 17 Bis. 2N-74, Cartago, Valle, Colombia; DOB 27 Dec 1975; POB Sevilla, Valle, Colombia; Cedula No. 31423447 (Colombia); Passport AH411251 (Colombia) (individual) [SDNT]

RESTREPO HERNANDEZ, Ruben Dario, c/o RIONAP COMERCIO Y REPRESENTACIONES S.A., Quito, Ecuador; c/o DISMERCOOP, Cali, Colombia; c/o LATINFAMRACOS, S.A., Quito, Ecuador; DOB 28 Sep 1958; Cedula No. 10094108 (Colombia); Passport 10094108 (Colombia); RUC # 1791818652001 (Ecuador) (individual) [SDNT]

RESTREPO VICTORIA, Eduardo (a.k.a. “EL SOCIO”), c/o AGROPECUARIA PALMA DEL RIO S.A., Ibague, Colombia; c/o RR TOUR, S.A. DE C.V., Guadalajara, Mexico; Calle 6 No. 3-73, Ibague, Tolima, Colombia; DOB 28 Sep 1958; POB Pital, Huila, Colombia; citizen Colombia; nationality Colombia; Cedula No. 12187343 (Colombia); Passport AG989562 (Colombia); alt. Passport AE678681 (Colombia) (individual) [SDNT]

RESTREPO VICTORIA, Maria Teresa, Carrera 17 No. 91-42, Apt. 502, Bogota, Colombia; c/o AGROPECUARIA PALMA DEL RIO S.A., Ibague, Colombia; DOB 04 Dec 1949; POB Garzon, Huila, Colombia; Cedula No. 41477630 (Colombia) (individual) [SDNT]

RESTREPO VICTORIA, Norma Constanza, Carrera 22 No. 86A-60, Apt. 202, Bogota, Colombia; c/o AGROPECUARIA PALMA DEL RIO S.A., Ibague, Colombia; DOB 05 Jan 1968; POB Pital, Huila, Colombia; Cedula No. 55060642 (Colombia); Passport AF535472 (Colombia); alt. Passport AG010495 (Colombia) (individual) [SDNT]

RESTREPO VILLEGAS, Camilio, c/o PLASTICOS CONDOR LTDA., Cali, Colombia; Calle 116 No. 12-49, Bogota, Colombia; c/o FLEXOEMPAQUES LTDA., Cali, Colombia; DOB 27 Dec 1938; Cedula No. 6051150 (Colombia) (individual) [SDNT]

REVISTA DEL AMERICA LTDA., Calle 23AN No. 5AN-19, Cali, Colombia [SDNT]

REVIVAL OF ISLAMIC HERITAGE SOCIETY (a.k.a. ADMINISTRATION OF THE REVIVAL OF ISLAMIC HERITAGE SOCIETY COMMITTEE; a.k.a. CCFW; a.k.a. CENTER OF CALL FOR WISDOM; a.k.a. COMMITTEE FOR EUROPE AND THE AMERICAS; a.k.a. DORA E MIRESISE; a.k.a. GENERAL KUWAIT COMMITTEE; a.k.a. HAND OF MERCY; a.k.a. IHRS; a.k.a. IHYA TURAS AL-ISLAMI; a.k.a. IJHA TURATH AL-ISLAMI; a.k.a. ISLAMIC HERITAGE RESTORATION SOCIETY; a.k.a. ISLAMIC HERITAGE REVIVAL PARTY; a.k.a. JAMA'AH IHYA AL-TURAZ AL-ISLAMI; a.k.a. JAMIA IHYA UL TURATH; a.k.a. JAMI'AH AL-HIYA AL-TURATH AL ISLAMIYAH; a.k.a. JAMIAT IHIA AL-TURATH AL-ISLAMIYA; a.k.a. JAMI'AT IHY'A AL-TIRATH AL-ISLAMIA; a.k.a. JAMIATUL IHYA UL TURATH; a.k.a. JAMIATUL-YAHYA UT TURAZ; a.k.a. JAM'IYAT IHYA' AL-TURATH AL-ISLAMI; a.k.a. JAMIYAT IKHYA AT-TURAZ AL-ISLAMI, SOCIETY OF THE REBIRTH OF THE ISLAMIC PEOPLE; a.k.a. JOMIATUL EHYA-UT TURAJ; a.k.a. JOMIYATU-EHYA-UT TURAS AL ISLAMI; a.k.a. KJRC-BOSNIA AND HERZEGOVINA; a.k.a. KUWAIT GENERAL COMMITTEE FOR AID; a.k.a. KUWAITI HERITAGE; a.k.a. KUWAITI JOINT RELIEF COMMITTEE, BOSNIA AND HERZEGOVINA; a.k.a. LAJNAT AL-IHYA AL-TURATH AL-ISLAMI; a.k.a. LAJNAT IHYA AL-TURATH AL-ISLAMI; a.k.a. NARA WELFARE AND EDUCATION ASSOCIATION; a.k.a. NGO TURATH; a.k.a. ORGANIZACIJA PREPORODA ISLAMSKE TRADICIJE KUVAJT; a.k.a. PLANDISTE SCHOOL, BOSNIA AND HERZEGOVINA; a.k.a. REVIVAL OF ISLAMIC HERITAGE FOUNDATION; a.k.a. REVIVAL OF ISLAMIC SOCIETY HERITAGE ON THE AFRICAN CONTINENT; a.k.a. RIHF; a.k.a. RIHS; a.k.a. RIHS ADMINISTRATION FOR THE BUILDING OF MOSQUES AND ISLAMIC PROJECTS; a.k.a. RIHS ADMINISTRATION FOR THE COMMITTEES OF ALMSGIVING; a.k.a. RIHS AFRICAN CONTINENT COMMITTEE; a.k.a. RIHS ARAB WORLD COMMITTEE; a.k.a. RIHS AUDIO RECORDINGS COMMITTEE; a.k.a. RIHS CAMBODIA-KUWAIT ORPHANAGE CENTER; a.k.a. RIHS CENTER FOR MANUSCRIPTS COMMITTEE; a.k.a. RIHS CENTRAL ASIA COMMITTEE; a.k.a. RIHS CHAOM CHAU CENTER; a.k.a. RIHS COMMITTEE FOR AFRICA; a.k.a. RIHS COMMITTEE FOR ALMSGIVING AND CHARITIES; a.k.a. RIHS COMMITTEE FOR INDIA; a.k.a. RIHS COMMITTEE FOR SOUTH EAST ASIA; a.k.a. RIHS COMMITTEE FOR THE ARAB WORLD; a.k.a. RIHS COMMITTEE FOR THE CALL AND GUIDANCE; a.k.a. RIHS COMMITTEE FOR WEST ASIA; a.k.a. RIHS COMMITTEE FOR WOMEN; a.k.a. RIHS COMMITTEE FOR WOMEN, ADMINISTRATION FOR THE BUILDING OF MOSQUES; a.k.a. RIHS CULTURAL COMMITTEE; a.k.a. RIHS EDUCATING COMMITTEES, AL-JAHRA'; a.k.a. RIHS EUROPE AMERICA MUSLIMS COMMITTEE; a.k.a. RIHS EUROPE AND THE AMERICAS COMMITTEE; a.k.a. RIHS FATWAS COMMITTEE; a.k.a. RIHS GENERAL COMMITTEE FOR DONATIONS; a.k.a. RIHS HEADQUARTERS-KUWAIT; a.k.a. RIHS INDIAN CONTINENT COMMITTEE; a.k.a. RIHS INDIAN SUBCONTINENT COMMITTEE; a.k.a. RIHS MOSQUES COMMITTEE; a.k.a. RIHS OFFICE OF PRINTING AND PUBLISHING; a.k.a. RIHS PRINCIPLE COMMITTEE FOR THE CENTER FOR PRESERVATION OF THE HOLY QU'ARAN; a.k.a. RIHS PROJECT OF ASSIGNING PREACHERS COMMITTEE; a.k.a. RIHS PUBLIC RELATIONS COMMITTEE; a.k.a. RIHS SCIENTIFIC COMMITTEE-BRANCH OF SABAH AL-NASIR; a.k.a. RIHS SOUTHEAST ASIA COMMITTEE; a.k.a. RIHS TWO AMERICAS AND EUROPEAN MUSLIM COMMITTEE; a.k.a. RIHS WOMEN'S BRANCH FOR THE PROJECT OF ENDOWMENT; a.k.a. RIHS YOUTH CENTER COMMITTEE; a.k.a. RIHS-ALBANIA; a.k.a. RIHS-AZERBAIJAN; a.k.a. RIHS-BANGLADESH; a.k.a. RIHS-BENIN; a.k.a. RIHS-BOSNIA AND HERZEGOVINA; a.k.a. RIHS-CAMBODIA; a.k.a. RIHS-CAMEROON; a.k.a. RIHS-GHANA; a.k.a. RIHS-IVORY COAST; a.k.a. RIHS-KOSOVO; a.k.a. RIHS-LEBANON; a.k.a. RIHS-LIBERIA; a.k.a. RIHS-NIGERIA; a.k.a. RIHS-RUSSIA; a.k.a. RIHS-SENEGAL; a.k.a. RIHS-SOMALIA; a.k.a. RIHS-TANZANIA; a.k.a. SOCIETY FOR THE REVIVAL OF ISLAMIC HERITAGE; a.k.a. THE KUWAIT-CAMBODIA ISLAMIC CULTURAL TRAINING CENTER; a.k.a. THE KUWAITI-CAMBODIAN ORPHANAGE CENTER; a.k.a. THIRRJA PER UTESI), Number 6 Donji Hotonj Street, Sarajevo, Bosnia and Herzegovina; Al-Dhahr, Kuwait; Al-Rumaythiyah, Kuwait; Jalib Al-Shiyukh, Kuwait; Al-Firdaws, Kuwait; Al-Andalus, Kuwait; RIHS Alija House, Ilidza, Bosnia and Herzegovina; RIHS Office, Ilidza, Bosnia and Herzegovina; Al-Khalidiya, Kuwait; Al-Sabahiyah, Kuwait; Khitan, Kuwait; RIHS Office, Tirana, Albania; M.M. Baseskije Street, No. 28p, Sarajevo, Bosnia and Herzegovina; Number 2 Plandiste Street, Sarajevo, Bosnia and Herzegovina; Number 28 Mula Mustafe Baseskije Street, Sarajevo, Bosnia and Herzegovina; Kifan, Kuwait; Al-Rawdah, Kuwait; Al-Qadisiyah, Kuwait; Sabah Al-Nasir, Kuwait; Kismayo, Somalia; City of Sidon, Lebanon; Al-Salimiyah, Kuwait; Sabah Al-Salim, Kuwait; Al-Fayha', Kuwait; Hadiyah, Kuwait; Al-Jahra', Kuwait; Dangkor District, Phnom Penh, Cambodia; Tripoli, Lebanon; RIHS Office, Pristina, Kosovo; Part 5, Qurtaba, P.O. Box 5585, Safat, Kuwait; Al-Nuzhah, Kuwait; Al-Amiriyah, Kuwait; Al-Shamiyah Wa Al-Shuwaykh, Kuwait; Bayan Wa Mashrif, Kuwait; Al-Riqah, Kuwait; Kaneshi Quarter of Accra, Ghana; House #40, Lake Drive Road, Sector #7, Uttara, Dhaka, Bangladesh; Al-Aridiyah, Kuwait; Qurtubah, Kuwait; Al-Qurayn, Kuwait; Website www.alturath.org. Revival of Islamic Heritage Society Offices Worldwide. [SDGT]

REVIVAL OF ISLAMIC HERITAGE SOCIETY (RIHS) (a.k.a. JAMIA IHYA UL TURATH; a.k.a. JAMIAT IHIA AL-TURATH AL-ISLAMIYA; a.k.a. REVIVAL OF ISLAMIC SOCIETY HERITAGE ON THE AFRICAN CONTINENT), Pakistan; Afghanistan; Office in Kuwait is NOT designated [SDGT]

REVOLUTIONARY ARMED FORCES OF COLOMBIA (a.k.a. FARC; a.k.a. FUERZAS ARMADAS REVOLUCIONARIAS DE COLOMBIA) [FTO] [SDGT] [SDNTK]

REVOLUTIONARY ORGANIZATION 17 NOVEMBER (a.k.a. 17 NOVEMBER; a.k.a. EPANASTATIKI ORGANOSI 17 NOEMVRI) [FTO] [SDGT]

REVOLUTIONARY PEOPLE'S LIBERATION PARTY/FRONT (a.k.a. DEV SOL; a.k.a. DEV SOL ARMED REVOLUTIONARY UNITS; a.k.a. DEV SOL SDB; a.k.a. DEV SOL SILAHLI DEVRIMCI BIRLIKLERI; a.k.a. DEVRIMCI HALK KURTULUS PARTISI-CEPHESI; a.k.a. DEVRIMCI SOL; a.k.a. DHKP/C; a.k.a. REVOLUTIONARY LEFT) [FTO] [SDGT]

REVOLUTIONARY PEOPLE'S STRUGGLE (a.k.a. ELA; a.k.a. EPANASTATIKOS LAIKOS AGONAS; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY POPULAR STRUGGLE) [SDGT]

REVOLUTIONARY STRUGGLE (a.k.a. EPANASTATIKOS AGHONAS), Greece [FTO]

REXHEPI, Daut; DOB 1962; POB Poroj, Macedonia (individual) [BALKANS]

REYES MONROY, Pablo, c/o CAJA SOLIDARIA, Bogota, Colombia; c/o COPSERVIR LTDA., Bogota, Colombia; c/o SEGECOL LTDA., Bucaramanga, Colombia; Cedula No. 91265116 (Colombia) (individual) [SDNT]

REYES MURCIA, Edgar, c/o CONSTRUVIDA S.A., Cali, Colombia; DOB 3 Feb 1947; Cedula No. 17181081 (Colombia) (individual) [SDNT]

REYES VERGARA, Guillermo, Panama City, Panama (individual) [CUBA]

REYNOLDS AND WILSON, LTD., 21 Victoria Road, Surbiton, Surrey KT6 4LK, United Kingdom [IRAQ2]

REZAIE, Morteza (a.k.a. REZAI, Morteza); DOB circa 1956; citizen Iran; nationality Iran (individual) [NPWMD]

RFA CONSULTORES Y AUDITORES LTDA., Avenida 6 Norte No. 23N-85, Cali, Colombia; NIT # 805025427-1 (Colombia) [SDNT]

RIBON RODRIGUEZ, Wilmen, c/o CAJA SOLIDARIA, Bogota, Colombia; c/o COPSERVIR LTDA., Bogota, Colombia; c/o LITOPHARMA, Barranquilla, Colombia; Calle 61 No. 47-22 Piso 2, Barranquilla, Colombia; Calle 61 No. 47-21, Barranquilla, Colombia; Cedula No. 91223795 (Colombia) (individual) [SDNT]

RICARDO DIAZ, Alfonso, c/o CRETA S.A., La Union, Valle, Colombia; c/o FUNDACION CENTRO FRUTICOLA ANDINO, La Union, Valle, Colombia; c/o HEBRON S.A., Tulua, Valle, Colombia; c/o CASA GRAJALES S.A., La Union, Valle, Colombia; c/o WORLD WORKING COMERCIALIZADORA INTERNACIONAL S.A., Cali, Colombia; c/o FREXCO S.A., La Union, Valle, Colombia; Calle 15 No. 10-52, La Union, Valle, Colombia; Cedula No. 14950952 (Colombia) (individual) [SDNT]

RICARDO JAAR Y CIA. S.C.S., Carrera 74 No. 76—150, Barranquilla, Atlantico, Colombia; NIT # 890114336-9 (Colombia) [SDNT]

RICHARD A. CHICHAKLI PC, 811 S. Central Expwy., Ste 210, Richardson, TX 75080; P.O. Box 850432, Richardson, TX 75085 [LIBERIA]

RICKS, Roy, 87 St. Mary's Frice, Benfleet, Essex, United Kingdom (individual) [IRAQ2]

RICUARTE FLOREZ, Gilma Leonor, c/o LABORATORIOS GENERICOS VETERINARIOS, Bogota, Colombia; DOB 20 Apr 1961; Cedula No. 51640309 (Colombia) (individual) [SDNT]

RIDGEPOINT OVERSEAS DEVELOPMENTS LIMITED (a.k.a. RIDGEPOINT OVERSEAS DEVELOPMENTS LTD), C/O: Mossack Fonseca & Co. BVI Ltd, Akara Building, 24 DeCastro St, Road Town, Tortola, Virgin Islands, British; P.O. Box 3136, Road Town, Tortola, Virgin Islands, British [ZIMBABWE]

RIFKI, Taufik (a.k.a. REFKE, Taufek; a.k.a. RIFQI, Taufik; a.k.a. RIFQI, Tawfiq; a.k.a. YACUB, Eric; a.k.a. “ABU OBAIDA”; a.k.a. “ABU OBAIDAH”; a.k.a. “ABU OBAYDA”; a.k.a. “ABU OBEIDA”; a.k.a. “ABU UBAIDAH”; a.k.a. “AMI IRAQ”; a.k.a. “AMI IRZA”; a.k.a. “AMI KUSOMAN”; a.k.a. “AMMY ERZA”; a.k.a. “AMMY IZZA”; a.k.a. “AMY ERJA”; a.k.a. “IZZA KUSOMAN”; a.k.a. “OBAIDAH”); DOB 29 Aug 1974; alt. DOB 19 Aug 1974; alt. DOB 19 Aug 1980; alt. DOB 9 Aug 1974; POB Dacusuman Surakarta, Central Java, Indonesia; nationality Indonesia (individual) [SDGT]

RIHANI, Lotfi Ben Abdul Hamid Ben Ali (a.k.a. “ABDERRAHMANE”), Via Bolgeri 4, Barni (Como), Italy; DOB 1 Jul 1977; POB Tunisi, Tunisia; nationality Tunisia; Passport L 886177 issued 14 Dec 1998 expires 13 Dec 2003 (individual) [SDGT]

RINCON MOLINA, Myriam, c/o CAMBIOS EL TREBOL, Bogota, Colombia; DOB 29 Jan 1959; POB Girardot, Cundinamarca, Colombia; citizen Colombia; nationality Colombia; Cedula No. 20622294 (Colombia); Passport AK739055 (Colombia) (individual) [SDNTK]

RINCONES MENDOZA, Henry Juvenal; DOB 25 Sep 1976; POB Colombia; Cedula No. 79863543 (Colombia) (individual) [SDNT]

RIONAP COMERCIO Y REPRESENTACIONES S.A., Av. 10 de Agosto y Gral. Vicente Aguirre, Edificio Freile Ardiani Local 101-103, Quito, Ecuador; Quito, Ecuador; RUC # 1791269969001 (Ecuador) [SDNT]

RIOS JIMENEZ S. EN C.S., Carrera 18 No. 38-35, Bogota, Colombia; NIT # 830007478-1 (Colombia) [SDNT]

RIOS LOZANO, Alexander, c/o MAQUINARIA TECNICA Y TIERRAS LTDA., Cali, Colombia; c/o AGROPECUARIA MIRALINDO S.A., Cartago, Colombia; Carrera 8N No. 17A-12, Cartago, Colombia; c/o ARIZONA S.A., Cartago, Colombia; Carrera 42 No. 5B-81, Cali, Colombia; DOB 15 Jan 1974; Cedula No. 94402123 (Colombia); Passport 94402123 (Colombia) (individual) [SDNT]

RIVERA LEDESMA, Ruben Manuel, c/o CHAMARTIN S.A., Cali, Colombia; c/o ADMINISTRADORA DE SERVICIOS VARIOS CALIMA S.A., Cali, Colombia; c/o ASISTENCIA PROFESIONAL ESPECIALIZADA EN COLOMBIA LIMITADA, Cali, Colombia; Cedula No. 14886120 (Colombia); Passport 14886120 (Colombia) (individual) [SDNT]

RIVERA ZAPATA, Freddy, c/o COMPANIA DE FOMENTO MERCANTIL S.A., Cali, Colombia; c/o FINVE S.A., Bogota, Colombia; c/o CREDISA S.A., Cali, Colombia; c/o UNIPAPEL S.A., Yumbo, Colombia; POB Cali, Valle, Colombia; Cedula No. 16602963 (Colombia); Passport 16602963 (Colombia) (individual) [SDNT]

RIXFORD INVESTMENT CORPORATION, Panama City, Panama; RUC # 1963801394709 (Panama) [SDNT]

RIZO MORENO, Jorge Luis, c/o CONSTRUVIDA S.A., Cali, Colombia; c/o SERVIAUTOS UNO A 1A LIMITADA, Cali, Colombia; c/o PROCESADORA DE POLLOS SUPERIOR S.A., Palmira, Colombia; c/o SERVICIOS INMOBILIARIOS LTDA., Cali, Colombia; c/o CONSTRUCTORA DIMISA LTDA., Cali, Colombia; c/o INVERSIONES EL PENON S.A., Cali, Colombia; c/o INDUSTRIA AVICOLA PALMASECA S.A., Cali, Colombia; c/o INTERVENTORIA, CONSULTORIA Y ESTUDIOS LIMITADA INGENIEROS ARQUITECTOS, Cali, Colombia; Transversal 11, Diagonal 23-30 apt. 304A, Cali, Colombia; c/o IMPORTADORA Y COMERCIALIZADORA LTDA., Cali, Colombia; DOB 17 May 1960; Cedula No. 16646582 (Colombia) (individual) [SDNT]

ROADS AND BRIDGES PUBLIC CORPORATION, P.O. Box 756, Khartoum, Sudan [SUDAN]

ROBLEDO CORONEL, Baldemar, Blvd. FCO I Madero Pte. No. 650, Col. Centro, Culiacan, Sinaloa, Mexico; c/o COMERCIAL JOANA, S.A. DE C.V., Guadalajara, Jalisco, Mexico; c/o COMERCIALIZADORA BRIMAR'S, S.A. DE. C.V., Culiacan, Sinaloa, Mexico; Prol. Sta. Tecla No. 51, Casa 12. Cond. Viole, Los Reyes, Coyoacan, Mexico; DOB 27 Jan 1974; POB Santiago Papasquiaro, Durango, Mexico; citizen Mexico; nationality Mexico; C.U.R.P. ROCB740127HDGBRL07 (Mexico); Passport 420005453 (Mexico); R.F.C. ROCB740127KZ0 (Mexico) (individual) [SDNTK]

ROBOW, Mukhtar (a.k.a. ALI, Mujahid Mukhtar Robow; a.k.a. ALI, Mukhtar Abdullahi; a.k.a. ALI, Shaykh Mukhtar Robo; a.k.a. RUBU, Mukhtar Ali; a.k.a. “ABU MANSOUR”; a.k.a. “ABU MANSUR”); DOB 1969; alt. DOB 10 Oct 1969; POB Xudur, Somalia; alt. POB Keren, Eritrea; nationality Eritrea; National ID No. 1372584 (Kenya); Passport 0310857 (Eritrea) issued 21 Aug 2006 expires 20 Aug 2008; (Following data derived from an Eritrean passport issued under the alias name of Mukhtar Abdullahi Ali: Alt. DOB: 10 October 1969; Alt. POB: Keren Eritrea; nationality: Eritrean; National ID No.: 1372584, Kenya; Passport No.: 0310857, Eritrea, Issue Date 21 August 2006, Expire Date 20 August 2008) (individual) [SDGT]

ROCHA LOPEZ, Nancy Karina (a.k.a. ROCHA CASTRO, Nancy; a.k.a. “GUTIERREZ, Nancy R.”), c/o PATRICIA CASA DE CAMBIO, Tijuana, Baja California, Mexico; Calle Del Ebano 10850, Tijuana, Baja California C.P. 22420, Mexico; c/o OPERADORA DE CAJA Y SERVICIOS, S.A. DE C.V., Tijuana, Baja California, Mexico; DOB 28 Aug 1968; POB Sinaloa, Mexico; citizen Mexico; nationality Mexico; C.U.R.P. ROLN680828MSLCPN04 (Mexico) (individual) [SDNTK]

ROCHA MERINO, Abel Zacarias, c/o COPSERVIR LTDA., Bogota, Colombia; c/o CAJA SOLIDARIA, Bogota, Colombia; Cedula No. 8758394 (Colombia) (individual) [SDNT]

ROCHA, Antonio, Panama City, Panama (individual) [CUBA]

ROCK FISH IMPORT EXPORT E.U., Avenida Juan XXIII, San Andres, Colombia; NIT # 827000913-1 (Colombia) [SDNT]

ROCKMAN LTD. (a.k.a. ROKMAN EOOD), 9 Frederick J. Curie Street, Sofia 1113, Bulgaria [LIBERIA]

RODAS CASTANO, Luis Alberto, c/o CONSTRUCCIONES ASTRO S.A., Cali, Colombia; c/o COMERCIALIZACION Y FINANCIACION DE AUTOMOTORES S.A., Cali, Colombia; DOB 11 Sep 1959; Cedula No. 16630332 (Colombia) (individual) [SDNT]

RODRIGO VEGA, Vlaudin (a.k.a. “CARLOS VLAUDIN”), Australia; DOB 03 Mar 1960; citizen Chile; Passport J1722726 (Chile); International FARC Commission Member for Australia (individual) [SDNTK]

RODRIGUEZ ABADIA, William, c/o INVERSIONES MIGUEL RODRIGUEZ E HIJO, Cali, Colombia; c/o ANDINA DE CONSTRUCCIONES S.A., Cali, Colombia; c/o BLANCO PHARMA S.A., Bogota, Colombia; c/o VALORES MOBILIARIOS DE OCCIDENTE S.A., Bogota, Colombia; c/o REVISTA DEL AMERICA LTDA., Cali, Colombia; c/o SEGUWRA DEL VALLE E.U., Cali, Colombia; c/o ALERO S.A., Cali, Colombia; c/o INTERAMERICA DE CONSTRUCCIONES S.A., Cali, Colombia; c/o DISTRIBUIDORA DE DROGAS CONDOR LTDA., Bogota, Colombia; c/o INVERSIONES ARA LTDA., Cali, Colombia; c/o DECAFARMA S.A., Bogota, Colombia; c/o DISTRIBUIDORA MIGIL LTDA., Cali, Colombia; c/o MUNOZ Y RODRIGUEZ Y CIA. LTDA., Cali, Colombia; c/o DERECHO INTEGRAL Y CIA. LTDA., Cali, Colombia; c/o RADIO UNIDAS FM S.A., Cali, Colombia; c/o ASPOIR DEL PACIFICO Y CIA. LTDA., Cali, Colombia; c/o RIONAP COMERCIO Y REPRESENTACIONES S.A., Quito, Ecuador; c/o ASISTENCIA PROFESIONAL ESPECIALIZADA EN COLOMBIA LIMITADA, Cali, Colombia; c/o BONOMERCAD S.A., Bogota, Colombia; c/o LABORATORIOS KRESSFOR DE COLOMBIA S.A., Bogota, Colombia; c/o PRODUCCIONES CARNAVAL DEL NORTE Y COMPANIA LIMITADA, Cali, Colombia; c/o CREDIREBAJA S.A., Cali, Colombia; c/o DEPOSITO POPULAR DE DROGAS S.A., Cali, Colombia; c/o DISTRIBUIDORA DE DROGAS LA REBAJA S.A., Bogota, Colombia; c/o LABORATORIOS BLAIMAR DE COLOMBIA S.A., Bogota, Colombia; c/o CLAUDIA PILAR RODRIGUEZ Y CIA. S.C.S., Bogota, Colombia; c/o M. RODRIGUEZ O. Y CIA. S. EN C., Cali, Colombia; c/o DROCARD S.A., Bogota, Colombia; DOB 31 Jul 1965; Cedula No. 16716259 (Colombia) (individual) [SDNT]

RODRIGUEZ ARBELAEZ, Carolina, c/o ASISTENCIA PROFESIONAL ESPECIALIZADA EN COLOMBIA LIMITADA, Cali, Colombia; c/o FUNDASER, Cali, Colombia; c/o PRODUCCIONES CARNAVAL DEL NORTE Y COMPANIA LIMITADA, Cali, Colombia; c/o INVERSIONES ARA LTDA., Cali, Colombia; c/o INVERSIONES CARFENI, S.L., Madrid, Spain; c/o CRASESORIAS E.U., Cali, Colombia; c/o DECAFARMA S.A., Bogota, Colombia; c/o BONOMERCAD S.A., Bogota, Colombia; c/o DROCARD S.A., Bogota, Colombia; c/o CREDIREBAJA S.A., Cali, Colombia; DOB 17 May 1979; Cedula No. 29117505 (Colombia) (individual) [SDNT]

RODRIGUEZ ARBELAEZ, Juan Miguel, c/o INVERSIONES ARA LTDA., Cali, Colombia; c/o INVERSIONES RODRIGUEZ ARBELAEZ Y CIA. S.C.S., Cali, Colombia; c/o INCOMMERCE S.A., Cali, Colombia; c/o CREDIREBAJA S.A., Cali, Colombia; c/o ASISTENCIA PROFESIONAL ESPECIALIZADA EN COLOMBIA LIMITADA, Cali, Colombia; c/o VALORES MOBILIARIOS DE OCCIDENTE S.A., Cali, Colombia; Avenida del Lago Calle Cocli Casa 19 Ciudad Jardin, Cali, Colombia; c/o BONOMERCAD S.A., Bogota, Colombia; c/o FUNDASER, Cali, Colombia; c/o DECAFARMA S.A., Bogota, Colombia; c/o DROCARD S.A., Bogota, Colombia; c/o M. RODRIGUEZ O. Y CIA. S.C.S., Cali, Colombia; DOB 19 Nov 1976; Cedula No. 94491335 (Colombia) (individual) [SDNT]

RODRIGUEZ ARBELAEZ, Maria Fernanda, c/o RIONAP COMERCIO Y REPRESENTACIONES S.A., Quito, Ecuador; c/o CREDIREBAJA S.A., Cali, Colombia; c/o CUSTOMER NETWORKS S.L., Madrid, Spain; c/o INVERSIONES ARA LTDA., Cali, Colombia; c/o DISTRIBUIDORA DE DROGAS LA REBAJA S.A., Bogota, Colombia; c/o PRODUCCIONES CARNAVAL DEL NORTE Y COMPANIA LIMITADA, Cali, Colombia; c/o ASISTENCIA PROFESIONAL ESPECIALIZADA EN COLOMBIA LIMITADA, Cali, Colombia; c/o BONOMERCAD S.A., Bogota, Colombia; c/o INVERSIONES ESPANOLES FEMCAR S.L., Madrid, Spain; c/o VALORES MOBILIARIOS DE OCCIDENTE S.A., Cali, Colombia; c/o FUNDASER, Cali, Colombia; c/o D'CACHE S.A., Cali, Colombia; c/o DECAFARMA S.A., Bogota, Colombia; c/o DROGAS LA REBAJA BOGOTA S.A., Bogota, Colombia; c/o INTERAMERICANA DE CONSTRUCCIONES S.A., Cali, Colombia; c/o DEPOSITO POPULAR DE DROGAS S.A., Cali, Colombia; c/o DROCARD S.A., Bogota, Colombia; DOB 28 Nov 1973; alt. DOB 28 Aug 1973; Cedula No. 66860965 (Colombia); N.I.E. X2566947-D (Spain); Passport 66860965 (Colombia); alt. Passport AC568974 (Colombia) (individual) [SDNT]

RODRIGUEZ AYALA, Jhon Jairo, c/o COOPIFARMA, Bucaramanga, Colombia; Avenida Bucaros No. 3-05 Bloq. 8 ap. 302, Bucaramanga, Colombia; DOB 29 Nov 1975; Cedula No. 91480692 (Colombia) (individual) [SDNT]

RODRIGUEZ CHACIN, Ramon Emilio, Venezuela; Cedula No. 3169119 (Venezuela); Former Minister of Interior and Justice of Venezuela (individual) [SDNTK]

RODRIGUEZ CONRADO, Elmer Martin, c/o LITOPHARMA, Barranquilla, Colombia; c/o COPSERVIR LTDA., Bogota, Colombia; Cedula No. 8773134 (Colombia) (individual) [SDNT]

RODRIGUEZ DE ROJAS, Haydee (a.k.a. RODRIGUEZ DE MUNOZ, Haydee; a.k.a. RODRIGUEZ OREJUELA, Haydee), c/o SORAYA Y HAYDEE LTDA., Cali, Colombia; c/o DISTRIBUIDORA DE DROGAS CONDOR LTDA., Bogota, Colombia; c/o CREACIONES DEPORTIVAS WILLINGTON LTDA., Cali, Colombia; c/o DISTRIBUIDORA MIGIL LTDA., Cali, Colombia; c/o CORPORACION DEPORTIVA AMERICA, Cali, Colombia; c/o RADIO UNIDAS FM S.A., Cali, Colombia; c/o BLANCO PHARMA S.A., Bogota, Colombia; c/o HAYDEE DE MUNOZ Y CIA. S. EN C., Cali, Colombia; DOB 22 Sep 1940; Cedula No. 38953333 (Colombia) (individual) [SDNT]

RODRIGUEZ LINARES, Oswaldo, c/o DROFARCO, Barranquilla, Colombia; DOB 13 Nov 1969; Cedula No. 76310365 (Colombia); Passport 76310365 (Colombia) (individual) [SDNT]

RODRIGUEZ MENDIETA, Jorge Enrique (a.k.a. “IVAN VARGAS”); DOB 15 Jan 1963; POB Giron, Santander, Colombia; citizen Colombia; nationality Colombia; Cedula No. 91223461 (Colombia) (individual) [SDNTK]

RODRIGUEZ MONDRAGON, Humberto, c/o CODISA, Bogota, Colombia; c/o COMERCIALIZADORA INTERTEL S.A., Cali, Colombia; c/o DECAFARMA S.A., Bogota, Colombia; c/o FUNDASER, Cali, Colombia; c/o MEGAPLAST S.A., Palmira, Valle, Colombia; c/o GRACADAL S.A., Cali, Colombia; c/o ASESORIAS PROFESIONALES ESPECIALIZADAS EN NEGOCIOS E.U., Cali, Colombia; c/o LABORATORIOS KRESSFOR DE COLOMBIA S.A., Bogota, Colombia; c/o INTERAMERICA DE CONSTRUCCIONES S.A., Cali, Colombia; c/o MARIELA DE RODRIGUEZ Y CIA. S. EN C., Cali, Colombia; c/o BONOMERCAD S.A., Bogota, Colombia; c/o DROCARD S.A., Bogota, Colombia; c/o FOGENSA S.A., Bogota, Colombia; c/o MAXITIENDAS TODO EN UNO, Cali, Colombia; c/o LABORATORIOS BLAIMAR DE COLOMBIA S.A., Bogota, Colombia; c/o ADMINISTRADORA DE SERVICIOS VARIOS CALIMA S.A., Cali, Colombia; c/o COPSERVIR LTDA., Bogota, Colombia; c/o FARMACOOP, Bogota, Colombia; c/o ALERO S.A., Cali, Colombia; c/o PENTA PHARMA DE COLOMBIA S.A., Bogota, Colombia; c/o RADIO UNIDAS FM S.A., Cali, Colombia; c/o DISTRIBUIDORA DE DROGAS CONDOR LTDA., Bogota, Colombia; c/o DISTRIBUIDORA DE DROGAS LA REBAJA S.A., Bogota, Colombia; c/o ANDINA DE CONSTRUCCIONES S.A., Cali, Colombia; c/o CLAUDIA PILAR RODRIGUEZ Y CIA. S.C.S., Bogota, Colombia; c/o INDUSTRIAL DE GESTION DE NEGOCIOS E.U., Cali, Colombia; c/o RIONAP COMERCIO Y REPRESENTACIONES S.A., Quito, Ecuador; c/o DISTRIBUIDORA MIGIL LTDA., Cali, Colombia; c/o COSMEPOP, Bogota, Colombia; c/o PROSALUD Y BIENESTAR S.A., Cali, Colombia; c/o VALORES CORPORATIVOS ESPANOLES S.L., Madrid, Spain; c/o FARMATODO S.A., Bogota, Colombia; c/o CREDIREBAJA S.A., Cali, Colombia; c/o REPRESENTACIONES Y DISTRIBUCIONES HUERTAS Y ASOCIADOS S.A., Bogota, Colombia; c/o LATINFAMRACOS S.A., Quito, Ecuador; c/o BLANCO PHARMA S.A., Bogota, Colombia; c/o DEPOSITO POPULAR DE DROGAS S.A., Cali, Colombia; c/o D'CACHE S.A., Cali, Colombia; c/o INVERSIONES MONDRAGON Y CIA. S.C.S., Cali, Colombia; c/o DISTRIBUIDORA SANAR DE COLOMBIA S.A., Cali, Colombia; DOB 21 Jun 63; Cedula No. 16688683 (Colombia); Passport AD387757 (Colombia); alt. Passport 16688683 (Colombia) (individual) [SDNT]

RODRIGUEZ MONDRAGON, Jaime, c/o LABORATORIOS BLAIMAR DE COLOMBIA S.A., Bogota, Colombia; c/o DISTRIBUIDORA DE DROGAS CONDOR LTDA., Bogota, Colombia; c/o DEPOSITO POPULAR DE DROGAS S.A., Cali, Colombia; c/o INVERSIONES MONDRAGON Y CIA. S.C.S., Cali, Colombia; c/o CREDIREBAJA S.A., Cali, Colombia; c/o PROSPECTIVA EMPRESA UNIPERSONAL, Cali, Colombia; c/o FUNDASER, Cali, Colombia; c/o FLEXOEMPAQUES LTDA., Cali, Colombia; c/o MEGAPLAST S.A., Palmira, Valle, Colombia; c/o JAROMO INVERSIONES S.L., Madrid, Spain; c/o LABORATORIOS KRESSFOR DE COLOMBIA S.A., Bogota, Colombia; c/o BONOMERCAD S.A., Bogota, Colombia; c/o LATINFAMRACOS S.A., Quito, Ecuador; c/o ALERO S.A., Cali, Colombia; c/o GRACADAL S.A., Cali, Colombia; c/o DISTRIBUIDORA MIGIL LTDA., Cali, Colombia; c/o DROCARD S.A., Bogota, Colombia; c/o SERVICIOS DE LA SABANA E.U., Bogota, Colombia; c/o INVERSIONES Y CONSTRUCCIONES COSMOVALLE LTDA., Cali, Colombia; c/o PLASTICOS CONDOR LTDA., Cali, Colombia; c/o MARIELA DE RODRIGUEZ Y CIA. S. EN C., Cali, Colombia; c/o PENTA PHARMA DE COLOMBIA S.A., Bogota, Colombia; c/o FARMATODO S.A., Bogota, Colombia; c/o ASESORIAS DE INGENIERIA EMPRESA UNIPERSONAL, Cali, Colombia; c/o REPRESENTACIONES Y DISTRIBUCIONES HUERTAS Y ASOCIADOS S.A., Bogota, Colombia; c/o RIONAP COMERCIO Y REPRESENTACIONES S.A., Quito, Ecuador; c/o D'CACHE S.A., Cali, Colombia; c/o DISTRIBUIDORA DE DROGAS LA REBAJA S.A., Bogota, Colombia; c/o BLANCO PHARMA S.A., Bogota, Colombia; c/o CORPORACION DEPORTIVA AMERICA, Cali, Colombia; c/o DECAFARMA S.A., Bogota, Colombia; DOB 30 Mar 1960; Cedula No. 16637592 (Colombia); N.I.E. x2641093-A (Spain); Passport AE426347 (Colombia); alt. Passport 16637592 (Colombia) (individual) [SDNT]

RODRIGUEZ MONDRAGON, Maria Alexandra (a.k.a. RODRIGUEZ MONDRAGON, Alexandra), c/o BLANCO PHARMA S.A., Bogota, Colombia; c/o DEPOSITO POPULAR DE DROGAS S.A., Cali, Colombia; c/o D'CACHE S.A., Cali, Colombia; c/o MARIELA MONDRAGON DE R. Y CIA. S. EN C., Cali, Colombia; c/o SISTEMAS Y SERVICIOS TECNICOS EMPRESA UNIPERSONAL, Cali, Colombia; c/o PENTA PHARMA DE COLOMBIA S.A., Bogota, Colombia; c/o TOBOGON, Cali, Colombia; c/o MARIELA DE RODRIGUEZ Y CIA. S. EN C., Cali, Colombia; c/o CREDIREBAJA S.A., Cali, Colombia; c/o LABORATORIOS BLAIMAR DE COLOMBIA S.A., Bogota, Colombia; c/o GRACADAL S.A., Cali, Colombia; c/o CORPORACION DEPORTIVA AMERICA, Cali, Colombia; c/o INVERSIONES Y CONSTRUCCIONES COSMOVALLE LTDA., Cali, Colombia; c/o ALERO S.A., Cali, Colombia; c/o DISTRIBUIDORA MIGIL LTDA., Cali, Colombia; c/o DISTRIBUIDORA DE DROGAS LA REBAJA S.A., Bogota, Colombia; c/o INTERAMERICA DE CONSTRUCCIONES S.A., Cali, Colombia; c/o INVERSIONES MONDRAGON Y CIA. S.C.S., Cali, Colombia; c/o FUNDASER, Cali, Colombia; c/o DISTRIBUIDORA DE DROGAS CONDOR LTDA., Bogota, Colombia; c/o CUSTOMER NETWORKS S.L., Madrid, Spain; c/o INVERSIONES INMOBILIARIAS VALERIA S.L., Madrid, Spain; c/o DROCARD S.A., Bogota, Colombia; DOB 30 May 1969; alt. DOB 5 May 1969; Cedula No. 66810048 (Colombia); N.I.E. X2561613-B (Spain); Passport 66810048 (Colombia); alt. Passport AD359106 (Colombia) (individual) [SDNT]

RODRIGUEZ OREJUELA DE GIL, Amparo, c/o LABORATORIOS BLAIMAR DE COLOMBIA S.A., Bogota, Colombia; c/o BLANCO PHARMA S.A., Bogota, Colombia; c/o DISTRIBUIDORA MIGIL LTDA., Cali, Colombia; c/o CREACIONES DEPORTIVAS WILLINGTON LTDA., Cali, Colombia; c/o DISTRIBUIDORA DE DROGAS CONDOR LTDA., Bogota, Colombia; c/o CORPORACION DEPORTIVA AMERICA, Cali, Colombia; c/o D'CACHE S.A., Cali, Colombia; c/o DROBLAM S.A., Cali, Colombia; c/o AQUILEA S.A., Cali, Colombia; c/o DEPOSITO POPULAR DE DROGAS S.A., Cali, Colombia; c/o RADIO UNIDAS FM S.A., Cali, Colombia; c/o LABORATORIOS KRESSFOR DE COLOMBIA S.A., Bogota, Colombia; DOB 13 Mar 49; Cedula No. 31218703 (Colombia); Passport AC342062 (Colombia) (individual) [SDNT]

RODRIGUEZ OREJUELA, Gilberto Jose (a.k.a. “LUCAS”; a.k.a. “THE CHESS PLAYER”), Cali, Colombia; DOB 31 Jan 1939; Cedula No. 6068015 (Colombia); alt. Cedula No. 6067015 (Colombia); Passport T321642 (Colombia); alt. Passport 77588 (Argentina); alt. Passport 10545599 (Venezuela); alt. Passport 6067015 (Comoros) (individual) [SDNT]

RODRIGUEZ OREJUELA, Miguel Angel (a.k.a. “DOCTOR M.R.O.”; a.k.a. “EL SENOR”; a.k.a. “MANOLO”; a.k.a. “MANUEL”; a.k.a. “MAURO”; a.k.a. “MIKE”; a.k.a. “PAT”; a.k.a. “PATRICIA”; a.k.a. “PATRICIO”; a.k.a. “PATTY”), Casa No. 19, Avenida Lago, Ciudad Jardin, Cali, Colombia; DOB 23 Nov 1943; alt. DOB 15 Jul 1943; Cedula No. 6095803 (Colombia) (individual) [SDNT]

RODRIGUEZ PINZON, Manuel, c/o LABORATORIOS KRESSFOR, Bogota, Colombia; c/o ALFA PHARMA S.A., Cali, Colombia; DOB 12 Mar 1947; Cedula No. 17171485 (Colombia) (individual) [SDNT]

RODRIGUEZ RAMIREZ, Andre Gilberto, c/o DROCARD S.A., Bogota, Colombia; c/o FOGENSA S.A., Bogota, Colombia; c/o ANDINA DE CONSTRUCCIONES S.A., Cali, Colombia; c/o CAFE ANDINO S.L., Madrid, Spain; c/o BONOMERCAD S.A., Bogota, Colombia; c/o CONSULTORIA SANTAFE E.U., Bogota, Colombia; c/o INVERSIONES RODRIGUEZ RAMIREZ Y CIA. S.C.S., Cali, Colombia; c/o DISTRIBUIDORA SANAR DE COLOMBIA S.A., Cali, Colombia; c/o INVERSIONES Y CONSTRUCCIONES ABC S.A., Cali, Colombia; Calle 10 No. 4-47 piso 18, Cali, Colombia; c/o ALERO S.A., Cali, Colombia; c/o DECAFARMA S.A., Bogota, Colombia; c/o CREDIREBAJA S.A., Cali, Colombia; DOB 22 Mar 1972; Cedula No. 16798937 (Colombia); Passport 16798937 (Colombia) (individual) [SDNT]

RODRIGUEZ RAMIREZ, Claudia Pilar, c/o DEPOSITO POPULAR DE DROGAS S.A., Cali, Colombia; c/o CREDIREBAJA S.A., Cali, Colombia; c/o INTERAMERICANA DE CONSTRUCCIONES S.A., Cali, Colombia; c/o DROCARD S.A., Bogota, Colombia; c/o INVERSIONES CLAUPI S.L., Madrid, Colombia; c/o BONOMERCAD S.A., Bogota, Colombia; c/o ALERO S.A., Cali, Colombia; c/o FARMATODO S.A., Bogota, Colombia; c/o LABORATORIOS KRESSFOR DE COLOMBIA S.A., Bogota, Colombia; c/o LABORATORIOS BLAIMAR DE COLOMBIA S.A., Bogota, Colombia; c/o DISTRIBUIDORA DE DROGAS LA REBAJA S.A., Bogota, Colombia; c/o DISTRIBUIDORA MIGIL LTDA., Cali, Colombia; c/o DIRECCION COMERCIAL Y MARKETING CONSULTORIA EMPRESA UNIPERSONAL, Bogota, Colombia; c/o DISTRIBUIDORA DE DROGAS CONDOR LTDA., Bogota, Colombia; c/o GRACADAL S.A., Cali, Colombia; c/o CLAUDIA PILAR RODRIGUEZ Y CIA. S.C.S., Bogota, Colombia; c/o D'CACHE S.A., Cali, Colombia; c/o DEFAFARMA S.A., Bogota, Colombia; DOB 30 Jun 1963; alt. DOB 1966; alt. DOB 30 Aug 1963; Cedula No. 51741013 (Colombia); Passport 51741013 (Colombia); alt. Passport 007281 (Colombia); alt. Passport P0555266 (Colombia) (individual) [SDNT]

RODRIGUEZ TELLEZ, Luz Yazmin (a.k.a. RODRIGUEZ TELLEZ, Luz Jazmin), c/o MATERIAS PRIMAS Y SUMINISTROS S.A., Bogota, Colombia; c/o LABORATORIOS PROFARMA LTDA., Bogota, Colombia; DOB 30 Apr 1972; Cedula No. 52030300 (Colombia); Passport 52030300 (Colombia) (individual) [SDNT]

RODRIGUEZ Y TOLBANOS S.A., Plaza de Espana 2, 1-C, Alcala de Henares, Madrid, Spain; Pgno. Ind. Camporrosso, C/Buenos Aires, 1 nave 15, 28806 Alcala de Henares, Madrid, Spain; C.I.F. A82467887 (Spain) [SDNT]

RODRIQUEZ BORGES, Jesus (a.k.a. RODRIQUEZ BORJES, Jesus), Panama (individual) [CUBA]

RODRIQUEZ, Jose Julio, 20 Ironmonger Lane, London EC2V 8EY, United Kingdom; Chairman, Havana International Bank (individual) [CUBA]

ROGULJIC, Slavko; DOB 1952 (individual) [BALKANS]

ROJAS BECERRA, Andres Felipe, c/o COMERCIALIZADORA INTERTEL S.A., Cali, Colombia; c/o CONTACTEL COMUNICACIONES S.A., Cali, Colombia; DOB 18 Feb 1978; Cedula No. 94520044 (Colombia); Passport 94520044 (Colombia) (individual) [SDNT]

ROJAS DE MENDOZA, Marleny, c/o COOPIFARMA, Bucaramanga, Colombia; Carrera 17 No. 17-65, Bucaramanga, Colombia; DOB 26 Jan 1956; Cedula No. 63288987 (Colombia) (individual) [SDNT]

ROJAS FRANCO, Jaime, Colombia; DOB 24 Dec 1957; POB Cartago, Valle, Colombia; citizen Colombia; nationality Colombia; Cedula No. 16210083 (Colombia) (individual) [SDNT]

ROJAS GALARZA, Carmen Amparo, Carrera 35 No. 10-130, Cali, Colombia; c/o CREDIREBAJA S.A., Cali, Colombia; Cedula No. 34511289 (Colombia) (individual) [SDNT]

ROJAS GOMEZ, Miryam Yaneth, c/o VALORCORP S.A., Bogota, Colombia; Cedula No. 23323121 (Colombia) (individual) [SDNT]

ROJAS MEJIA, Hernan, c/o OCCIDENTAL COMUNICACIONES LTDA., Cali, Colombia; c/o INVERSIONES Y CONSTRUCCIONES ABC S.A., Cali, Colombia; Calle 2A Oeste No. 24B-45 apt. 503A, Cali, Colombia; c/o COLOR 89.5 FM STEREO, Cali, Colombia; Calle 6A No. 9N-34, Cali, Colombia; c/o CONSTRUCCIONES COLOMBO-ANDINAS LTDA., Bogota, Colombia; DOB 28 Aug 1948; Cedula No. 16242661 (Colombia) (individual) [SDNT]

ROJAS MONTOYA, Maritza, c/o GRAJALES S.A., La Union, Valle, Colombia; c/o CASA GRAJALES S.A., La Union, Valle, Colombia; c/o INVERSIONES AGUILA LTDA., La Union, Valle, Colombia; c/o IBADAN LTDA., Tulua, Valle, Colombia; c/o FREXCO S.A., La Union, Valle, Colombia; Cedula No. 31838109 (Colombia) (individual) [SDNT]

ROJAS ORTIS, Rosa, c/o ALFA PHARMA S.A., Cali, Colombia; DOB 9 Nov 1941; Cedula No. 26577444 (Colombia) (individual) [SDNT]

ROJAS SALAMANCA, Myriam, c/o LEMOFAR LTDA., Bogota, Colombia; c/o LABORATORIOS KRESSFOR DE COLOMBIA S.A., Bogota, Colombia; c/o GENERICOS ESPECIALES S.A., Bogota, Colombia; DOB 3 Apr 1959; Cedula No. 35324270 (Colombia); Passport 35324270 (Colombia) (individual) [SDNT]

ROJAS VARGAS, Alberto, c/o ESPIBENA S.A., Quito, Ecuador; c/o COLFARMA PERU S.A., Lima, Peru; c/o FARFALLA INVESTMENT S.A., Panama City, Panama; Cedula No. 13922413 (Colombia) (individual) [SDNT]

ROJAS VILLARREAL, Andres Mauricio, c/o GIAMX LTDA., Bogota, Colombia; c/o WORLD TRADE LTDA., Bogota, Colombia; Cedula No. 80415760 (Colombia) (individual) [SDNT]

ROMAN DOMINGUEZ, Erika, c/o TAURA S.A., Cali, Colombia; Cedula No. 66955540 (Colombia) (individual) [SDNT]

ROMEO, Charles (a.k.a. ROMEO, Charles Henri Robert), Panama (individual) [CUBA]

ROMERO BERMUDEZ, Tomas, Carrera 13C No. 36B-100 ap. 403, Barranquilla, Colombia; c/o LITOPHARMA, Barranquilla, Colombia; c/o COPSERVIR LTDA., Bogota, Colombia; Cedula No. 72206669 (Colombia) (individual) [SDNT]

ROMERO VARELA, Carlos Ali (a.k.a. MARTINEZ, Richard), c/o SOCIEDAD DE COMERCIALIZACION INTERNACIONAL POSEIDON S.A., Sabaneta, Antioquia, Colombia; c/o LOS GNOMOS LTDA., Cali, Colombia; DOB 19 Mar 1959; alt. DOB 19 Feb 1959; Cedula No. 13447909 (Colombia); Passport B0088212 (Venezuela) (individual) [SDNTK]

ROPERO SUAREZ, Emiro del Carmen (a.k.a. “RUBEN ZAMORA”); DOB 2 Sep 1962; POB Municipio de Nueva Granada, Norte de Santander, Colombia; citizen Colombia; nationality Colombia; Cedula No. 13461523 (Colombia) (individual) [SDNTK]

ROPERT, Miria Contreras (a.k.a. CONTRERAS, Miria), Paris, France (individual) [CUBA]

ROQUE PEREZ, Roberto, Panama (individual) [CUBA]

ROSALES DIAZ, Hector Emilio, c/o CONCRETOS CALI S.A., Cali, Colombia; c/o INVERSIONES GEMINIS S.A., Cali, Colombia; c/o INDUSTRIA AVICOLA PALMASECA S.A., Cali, Colombia; c/o CONSTRUCTORA DIMISA LTDA., Cali, Colombia; c/o COMPANIA ADMINISTRADORA DE VIVIENDA S.A., Cali, Colombia; c/o INVERSIONES EL PENON S.A., Cali, Colombia; c/o MERCAVICOLA LTDA., Cali, Colombia; c/o INVERSIONES VILLA PAZ S.A., Cali, Colombia; c/o ADMINISTRACION INMOBILIARIA BOLIVAR S.A., Cali, Colombia; DOB 1 Apr 1955; Cedula No. 16588924 (Colombia) (individual) [SDNT]

ROSARIO NIEBLA CARDOZA A. EN P. (a.k.a. GASOLINERA ROSARIO), Avenida Manuel Vallarta 2141, Colonia Centro, Culiacan, Sinaloa 80129, Mexico; R.F.C. NICR-461006-T36 (Mexico) [SDNTK]

ROSE ISLANDS (vessel) [CUBA]

ROSERO ANGULO, German, c/o LA HOLANDA S.A., Cali, Colombia; Calle 40 No. 27-59, Cali, Colombia; Mexico; DOB 07 Oct 1964; POB Ipiales, Narino, Colombia; Cedula No. 16708846 (Colombia); Passport AF832289 (Colombia) (individual) [SDNT]

ROUINE, Lazher Ben Khalifa Ben Ahmed (a.k.a. ROUINE, Al-Azhar Ben Khalifa Ben Ahmed; a.k.a. “LAZHAR”; a.k.a. “SALMANE”), Vicolo San Giovanni, Rimini, Italy; DOB 20 Nov 1975; POB Sfax, Tunisia; nationality Tunisia; Passport P 182583 issued 13 Sep 2003 expires 12 Sep 2007; arrested 30 Sep 2002 (individual) [SDGT]

ROYAL KUMUDRA HOTEL, No. 9 Hotel Zone, Nay Pyi Taw, Burma; No. 1 Ywama Curve, Ba Yint Naung Road, Block (2), Hlaing Township, Rangoon, Burma [JADE] [BURMA]

ROZO CLAVIJO, Miguel Antonio, c/o CONSTRUCTORA ALTOS DEL RETIRO LTDA., Bogota, Colombia; DOB 18 Aug 1943; Cedula No. 17093270 (Colombia) (individual) [SDNT]

RR TOUR, S.A. DE C.V., Lopez Cotilla 1994, C.P. 44140, Guadalajara, Mexico [SDNT]

RUBENACH ROIG, Juan Luis; DOB 18 Sep 1964; POB Bilbao Vizcaya Province, Spain; D.N.I. 18.197.545; Member ETA (individual) [SDGT]

RUEDA FAJARDO, Herberth Gonzalo, c/o LABORATORIOS GENERICOS VETERINARIOS, Bogota, Colombia; c/o FARMACOOP, Bogota, Colombia; c/o LABORATORIOS KRESSFOR DE COLOMBIA S.A., Bogota, Colombia; DOB 6 Oct 1964; Cedula No. 12126395 (Colombia) (individual) [SDNT]

RUEDA GIL, Camilo (a.k.a. “EL PAISA”; a.k.a. “EL PRIMO”; a.k.a. “MUNECA”), Colombia; DOB 03 Aug 1969; POB Bogota, Colombia; citizen Colombia; nationality Colombia; Cedula No. 79499884 (Colombia); Passport AJ520060 (Colombia) (individual) [SDNTK]

RUELAS MARTINEZ, Felipe, Calle Ventisca 2359 Secc. Dorado, Colonia Playas de Tijuana, Tijuana, Baja California, Mexico; Calle Saino 5, Colonia Hacienda del Tepeyac, Zapopan, Jalisco CP 45053, Mexico; DOB 6 Jun 1962 (individual) [SDNTK]

RUELAS MARTINEZ, Jose de la Cruz, Calle de la Ventisca 640, Colonia Playas Seccion Dorado, Tijuana, Baja California CP 22205, Mexico; c/o CONSULTORIA DE INTERDIVISAS, S.A. DE C.V., Tijuana, Baja California, Mexico; c/o MULTISERVICIOS ALPHA, S.A. DE C.V., Tijuana, Baja California, Mexico; Calle Ventisca 2359 Secc. Dorado, Colonia Playas de Tijuana, Tijuana, Baja California, Mexico; DOB 30 Mar 1965; POB Guadalajara, Jalisco, Mexico; Passport 01020023629 (Mexico) (individual) [SDNTK]

RUELAS MARTINEZ, Jose Manuel, c/o MULTISERVICIOS SIGLO, S.A. DE C.V., Tijuana, Baja California, Mexico; Esmeralda 3091, Colonia Residencial Victoria CR 45051, Zapopan, Jalisco CP 44550, Mexico; 402 Milagrosa Circle, Chula Vista, CA 91910; c/o GLOBAL FILMS, S.A. DE C.V., Tijuana, Baja California, Mexico; c/o HACIENDA DE DON JOSE RESTAURANT BAR, S.A. DE C.V., Tijuana, Baja California, Mexico; Av. Pque. Mexico Nte. 824, Colonia Playas de Tijuana, Tijuana, Baja California CP 22200, Mexico; c/o MULTISERVICIOS ALPHA, S.A. DE C.V., Tijuana, Baja California, Mexico; c/o MULTISERVICIOS GAMAL, S.A. DE C.V., Tijuana, Baja California, Mexico; DOB 16 Jun 1960; POB Talpa de Allende, Jalisco, Mexico; alt. POB Guadalajara, Jalisco, Mexico; Passport 036182282 (United States); R.F.C. RUMM-600616-G69 (Mexico); SSN 622-18-0486 (United States) (individual) [SDNTK]

RUELAS TOPETE, Carlos Antonio, Calle de la Bahia 3178, Colonia Playas Costa Hermosa, Tijuana, Baja California CP 22240, Mexico; Calle Ventisca 2359 Secc. Dorado, Colonia Playas de Tijuana, Tijuana, Baja California, Mexico; c/o HACIENDA DE DON JOSE RESTAURANT BAR, S.A. DE C.V., Tijuana, Baja California, Mexico; DOB 12 Aug 1968; POB Guadalajara, Jalisco, Mexico; R.F.C. RUTC-680812-PS6 (Mexico) (individual) [SDNTK]

RUELAS TOPETE, Eduardo, Calle del Volcan 682, Colonia Playas de Tijuana, Tijuana, Baja California CP 22200, Mexico; c/o CONSULTORIA DE OCCIDENTE, S.A. DE C.V., Guadalajara, Jalisco, Mexico; Ave. Pque. Mexico Sur 910, Colonia Playas de Tijuana, Tijuana, Baja California CP 22200, Mexico; c/o HACIENDA DE DON JOSE RESTAURANT BAR, S.A. DE C.V., Tijuana, Baja California, Mexico; DOB 20 Feb 1967; POB Guadalajara, Jalisco, Mexico; R.F.C. RUTE-670220-DVO (Mexico) (individual) [SDNTK]

RUELAS TOPETE, Jose Luis, c/o CONSULTORIA DE OCCIDENTE, S.A. DE C.V., Guadalajara, Jalisco, Mexico; DOB 13 Aug 1970; POB Guadalajara, Jalisco, Mexico; R.F.C. RUTL-700813-L31 (Mexico) (individual) [SDNTK]

RUIZ CASTANO, Maria Helena, c/o LADRILLERA LA CANDELARIA LTDA., Cali, Colombia; DOB 17 Nov 1970; Cedula No. 66901635 (Colombia); Passport 66901635 (Colombia) (individual) [SDNT]

RUIZ DE ALARCON 12 S.L., Calle Ruiz de Alarcon, 12, Madrid 28014, Spain; V.A.T. Number ES B83031682 (Spain) [SDNT]

RUIZ HERNANDEZ, Gregorio Rafael, c/o COMERCIALIZADORA OROBANCA, Cali, Colombia; DOB 20 May 1963; Cedula No. 16823501 (Colombia) (individual) [SDNT]

RUIZ POO, Ramon Miguel, Panama (individual) [CUBA]

RUIZ ZAVALA, Aleyda (a.k.a. RUIZ ZAVALA, Aleida), Calle Cerro de la Memoria No. 1976, Fraccionamiento Colinas de San Miguel, Culiacan, Sinaloa, Mexico; c/o TOYS FACTORY, S.A. DE C.V., Tijuana, Baja California, Mexico; c/o COMERCIALIZADORA BRIMAR'S, S.A. DE. C.V., Culiacan, Sinaloa, Mexico; c/o SIN-MEX IMPORTADORA, S.A. DE C.V., Mexico, Distrito Federal, Mexico; DOB 10 May 1962; POB Tamazula, Durango, Mexico; citizen Mexico; nationality Mexico; C.U.R.P. RUZA620510MDGZVL04 (Mexico); Electoral Registry No. RZZVAL62051010M200 (Mexico); R.F.C. RUZA6205108L5 (Mexico) (individual) [SDNTK]

RUNGRIN COMPANY LTD. (a.k.a. BORISAT RUNGRIN CHAMKAT), 275 Soi Thiam Ruammit, Ratchada Phisek Road, Huai Khwang district, Bangkok, Thailand [SDNTK]

RUPRAH, Sanjivan Singh (a.k.a. “NASR, Samir M.”); DOB 9 Aug 1966; POB Kisumu, Kenya; nationality Kenya; Passport 790015037 (United Kingdom) issued 10 Jul 1998 expires 10 Jul 2008; alt. Passport D-001829-00 (Liberia); Businessman; Former Deputy Commissioner, Bureau of Maritime Affairs of Liberia (individual) [DRCONGO] [LIBERIA]

RUSAKEVICH, Vladimir Vasilyevich (a.k.a. RUSAKEVICH, Uladzimir Vasilievich); DOB 13 Sep 1947; POB Vygonoshchi, Belarus; citizen Belarus; nationality Belarus; Minister of Information (individual) [BELARUS]

RUSDAN, Abu (a.k.a. ABU THORIQ; a.k.a. RUSDJAN; a.k.a. RUSJAN; a.k.a. RUSYDAN; a.k.a. THORIQUDDIN; a.k.a. THORIQUIDDIN; a.k.a. THORIQUIDIN; a.k.a. TORIQUDDIN); DOB 16 Aug 1960; POB Kudus, Central Java, Indonesia (individual) [SDGT]

RUSERE, Tinos, 12 Cooke Avenue, Southerton, Harare, Zimbabwe; DOB 10 May 1945; Deputy Minister of Mines and Mining Development (individual) [ZIMBABWE]

RUSHITI, Sait (a.k.a. RUXHETI, Sait); DOB 7 Nov 1966 (individual) [BALKANS]

RZOOKI, Hanna, Iraq; Chairman of REAL ESTATE BANK (individual) [IRAQ2]

S H NG TRADING, 3 Shenton Way, #10-01 Shenton House, Singapore 068805, Singapore [BURMA]

S.M.I. SEWING MACHINES ITALY S.P.A., Italy [IRAQ2]

SAAVEDRA RESTREPO, Jesus Maria, Calle 5 No. 46-83 Local 119, Cali, Colombia; c/o CONSTRUCTORA DIMISA LTDA., Cali, Colombia; c/o INMOBILIARIA U.M.V. S.A., Cali, Colombia; c/o CONCRETOS CALI S.A., Cali, Colombia; DOB 10 Jul 1958; Cedula No. 16603482 (Colombia) (individual) [SDNT]

SABAGH DE CURE, Maria Dunia, c/o CURE SABAGH Y CIA. S.C.S., Barranquilla, Colombia; c/o FUDIA LTDA., Barranquilla, Colombia; DOB 02 Jan 1947; POB Barranquilla, Colombia; Cedula No. 33278803 (Colombia); Passport AE330188 (Colombia) (individual) [SDNT]

SABALAN (a.k.a. IRAN SABALAN); Vessel Registration Identification IMO 9346524 (vessel) [NPWMD]

SABOGAL ZULUAGA, Orlando (a.k.a. CONTRERAS VIVAS, Juan Pablo; a.k.a. GUILLEN JIMENEZ, Carlos Alberto; a.k.a. SABOGAL, Alberto; a.k.a. SALAZAR QUINTERO, Carlos Alberto; a.k.a. “CAREQUESO”; a.k.a. “EL MONO SABOGAL”), Calle 14 No. 30-153, Medellin, Antioquia, Colombia; Paseo 5 de Julio, Barrio Libertad, Municipio Bolivar, Tachira, Venezuela; Paseo 5 de Julio, Barrio Libertad, San Antonio, Tachira, Venezuela; Calle 18 No. 5N-21, Apt. 302, Cartago, Colombia; c/o ORLANDO SABOGAL ZULUAGA E HIJOS & CIA S EN C, Colombia; Calle 30 No. 3B-45, La Campina, Pereira, Risaralda, Colombia; Caracas, Venezuela; DOB 22 Feb 1966; alt. DOB 16 Sep 1965; POB Toro, Valle, Colombia; Cedula No. 21171060 (Venezuela); alt. Cedula No. 18505378 (Colombia); alt. Cedula No. 12773520 (Venezuela); alt. Cedula No. 94318435 (Colombia); Passport 18505378 (Colombia); alt. Passport AC635727 (Colombia); alt. Passport AG496255 (Colombia); alt. Passport AE533626 (Colombia) (individual) [SDNT]

SACKS FACTORY (a.k.a. PLASTIC SACKS FACTORY), P.O. Box 2328, Khartoum, Sudan [SUDAN]

SAEED, Muhammad (a.k.a. HAFIZ SAHIB; a.k.a. SAEED, Hafiz; a.k.a. SAEED, Hafiz Mohammad; a.k.a. SAEED, Hafiz Muhammad; a.k.a. SAYED, Hafiz Mohammad; a.k.a. SAYEED, Hafez Mohammad; a.k.a. SAYID, Hafiz Mohammad; a.k.a. SYEED, Hafiz Mohammad; a.k.a. “TATA JI”), House No. 116 E, Mohalla Johar, Town: Lahore, Tehsil:, Lahore City, Lahore District, Pakistan; DOB 5 Jun 1950; POB Sargodha, Punjab, Pakistan; nationality Pakistan; National ID No. 3520025509842-7 (Pakistan) (individual) [SDGT]

SAENZ VARGAS, Guillermo Leon (a.k.a. “ALFONSO CANO”); DOB 22 Jul 1948; POB Bogota, Cundinamarca, Colombia; Cedula No. 17122751 (Colombia) (individual) [SDNTK]

SAEZ DE EGUILAZ MURGUIONDO, Carlos; DOB 9 Dec 1963; POB San Sebastian, Guipuzcoa Province, Spain; D.N.I. 15.962.687 (Spain); Member ETA (individual) [SDGT]

SAF TECH S.L., Calle Serrano 52, Barcelona 08031, Spain; C.R. No. B62398060 (Spain) [SDNTK]

SAFAVI, Yahya Rahim (a.k.a. AL-SIFAWI, Yahya Rahim; a.k.a. RAHIM SAFAWI, Yahia; a.k.a. RAHIM-SAFAVI, Yahya; a.k.a. SAFAVI, Rahim; a.k.a. YAHYA RAHIM-SAFAVI, Seyyed; a.k.a. YAHYA SAFAVI, Sayed); DOB circa 1952; POB Esfahan, Iran (individual) [NPWMD]

SAFETY EQUIPMENT PROCUREMENT COMPANY (a.k.a. “SEP CO.”), P.O. Box 16785-195, Tehran, Iran [NPWMD]

SAHAND (a.k.a. IRAN SAHAND); Vessel Registration Identification IMO 9328900 (vessel) [NPWMD]

SAHEL CONSULTANT ENGINEERS, No. 57, Eftekhar St., Larestan St., Motahhari Ave, Tehran, Iran; P.O. Box 16765-34, Tehran, Iran [NPWMD]

SAHINPASIC, Senad; DOB circa 1951; POB Foca, Bosnia-Herzegovina (individual) [BALKANS]

SAHIRON, Radulan (a.k.a. SAHIRON, Radullan; a.k.a. SAHIRUN, Radulan; a.k.a. “COMMANDER PUTOL”; a.k.a. “SAJIRUN, Radulan”); DOB 1955; alt. DOB circa 1952; POB Kaunayan, Patikul, Jolo Island, the Philippines; nationality Philippines (individual) [SDGT]

SAIEH JAMIS, Carlos Ernesto, 780 NW 42nd Avenue, Suite 516, Miami, FL 33126; c/o URBANIZADORA ALTAVISTA INTERNACIONAL S.A., Barranquilla, Colombia; c/o RIXFORD INVESTMENT CORPORATION, Panama City, Panama; c/o FINANZAS DEL NORTE LUIS SAIEH Y CIA. S.C.A., Barranquilla, Colombia; 9100 South Dadeland Boulevard, Suite 912, Miami, FL 33156; c/o VILLAROSA INVESTMENTS FLORIDA, INC., Miami, FL; c/o RAMAL S.A., Bogota, Colombia; c/o KAREN OVERSEAS, INC., Panama City, Panama; c/o ALMACAES S.A., Bogota, Colombia; c/o MLA INVESTMENTS, INC., Virgin Islands, British; Carrera 56 No. 79-102 Piso-10, Barranquilla, Colombia; 780 NW Le Jeune Rd, Suite 516, Miami, FL 33126; c/o KATTUS II CORPORATION, Panama City, Panama; c/o INVERSIONES DEL PRADO ABDALA SAIEH Y CIA. S.C.A., Barranquilla, Colombia; c/o GRANADA ASSOCIATES, INC., Miami, FL; c/o ALM INVESTMENT FLORIDA, INC., Miami, FL; c/o SALMAN CORAL WAY PARTNERS, Miami, FL; c/o MOISES SAIEH Y CIA. S.C.A., Barranquilla, Colombia; c/o MARC LLC, Miami, FL; c/o ILOVIN S.A., Bogota, Colombia; c/o G.L.G. S.A., Bogota, Colombia; c/o ELIZABETH OVERSEAS INC., Panama City, Panama; c/o CORPORACION DE ALMACENES POR DEPARTAMENTOS S.A., Bogota, Colombia; c/o CARLOS SAIEH Y CIA. S.C.S., Barranquilla, Atlantico, Colombia; c/o KAREN OVERSEAS FLORIDA, INC., Miami, FL; c/o CONSTRUCTORA ALTAVISTA INTERNACIONAL S.A., Barranquilla, Colombia; c/o CONFECCIONES LORD S.A., Barranquilla, Atlantico, Colombia; Nine Island Avenue, Unit 1411, Miami Beach, FL; c/o BLACKMORE INVESTMENTS A.V.V., Oranjestad, Aruba; c/o C.W. SALMAN PARTNERS, Miami, FL; c/o BRUNELLO LTD., Grand Cayman, Cayman Islands; DOB 24 Feb 1964; POB Barranquilla, Colombia; citizen Colombia; nationality Colombia; Cedula No. 8739066 (Colombia); Passport AH006864 (Colombia) (individual) [SDNT]

SAIEH JASSIR, Abdala, Carrera 56 No.19-40 Apt. 11, Barranquilla, Colombia; c/o VILLAROSA INVESTMENTS FLORIDA, INC., Miami, FL; c/o CONFECCIONES LORD S.A., Barranquilla, Atlantico, Colombia; 780 NW Le Jeune Road, Suite 516, Miami, FL 33126; 19667 Turnberry Way A-G, North Miami Beach, FL; c/o MLA INVESTMENTS INC., Virgin Islands, British; c/o SALMAN CORAL WAY PARTNERS, Miami, FL; c/o C.W. SALMAN PARTNERS, Miami, FL; c/o JAMCE INVESTMENTS LTD, Grand Cayman, Cayman Islands; c/o GRANADA ASSOCIATES, INC., Miami, FL; c/o KATTUS CORPORATION, Barbados; c/o KAREN OVERSEAS FLORIDA, INC., Miami, FL; c/o CONSTRUCTORA ALTAVISTA INTERNACIONAL S.A., Barranquilla, Colombia; c/o ALM INVESTMENT FLORIDA, INC., Miami, FL; 780 NW 42nd Avenue, Suite 516, Miami, FL 33126; c/o VILLAROSA INVESTMENTS CORPORATION, Panama City, Panama; c/o URBANIZADORA ALTAVISTA INTERNACIONAL S.A., Barranquilla, Colombia; c/o KAREN OVERSEAS, INC., Panama City, Panama; c/o ELIZABETH OVERSEAS INC., Panama City, Panama; DOB 19 Dec 1919; citizen Colombia; Cedula No. 812202 (Colombia); Passport AF547128 (Colombia) (individual) [SDNT]

SAIEH MUVDI, Moises Abdal, c/o KATTUS II CORPORATION, Panama City, Panama; c/o ILOVIN S.A., Bogota, Colombia; c/o C.W. SALMAN PARTNERS, Miami, FL; c/o CORPORACION DE ALMACENES POR DEPARTAMENTOS S.A., Bogota, Colombia; 9100 South Dadeland Boulevard, Suite 912, Miami, FL 33156; 20301 W Country Club Drive, Apt 824, Aventura, FL 33180; 19667 Turnberry Way, Unit 12G, Miami, FL 33180; c/o RAMAL S.A., Bogota, Colombia; c/o MOISES SAIEH Y CIA. S.C.A., Barranquilla, Colombia; 1405 SW 107th Ave, Ste 301B, Miami, FL; 780 NW 42nd Avenue, Suite 516, Miami, FL 33126; 19667 NE 36 Court A 12-G, North Miami Beach, FL 33180; c/o SALMAN CORAL WAY PARTNERS, Miami, FL; c/o G.L.G. S.A., Bogota, Colombia; c/o CONSTRUCTORA ALTAVISTA INTERNACIONAL S.A., Barranquilla, Colombia; c/o CARLOS SAIEH Y CIA. S.C.S., Barranquilla, Atlantico, Colombia; Carrera 56 No. 79-40, Apt 7, Barranquilla, Colombia; c/o SUNSET & 97TH HOLDINGS, LLC., Miami, FL; c/o KAREN OVERSEAS, INC., Panama City, Panama; c/o MLA INVESTMENTS, INC., Virgin Islands, British; c/o RIXFORD INVESTMENT CORPORATION, Panama City, Panama; 780 NW Le Jeune Rd, Suite 516, Miami, FL 33126; c/o URBANIZADORA ALTAVISTA INTERNACIONAL S.A., Barranquilla, Colombia; c/o INVERSIONES DEL PRADO ABDALA SAIEH Y CIA. S.C.A., Barranquilla, Colombia; c/o GRANADA ASSOCIATES, INC., Miami, FL; c/o KATTUS CORPORATION, Barbados; c/o ALM INVESTMENT FLORIDA, INC., Miami, FL; c/o VILLAROSA INVESTMENTS FLORIDA, INC., Miami, FL; c/o KAREN OVERSEAS FLORIDA, INC., Miami, FL; c/o JAMCE INVESTMENTS LTD., Grand Cayman, Cayman Islands; c/o ELIZABETH OVERSEAS INC., Panama City, Panama; c/o CONFECCIONES LORD S.A., Barranquilla, Atlantico, Colombia; c/o ALMACAES S.A., Bogota, Colombia; c/o VILLAROSA INVESTMENTS CORPORATION, Panama City, Panama; DOB 06 Jun 1945; POB Pamplona, Norte de Santander; citizen Colombia; Cedula No. 7427466 (Colombia) (individual) [SDNT]

SAI'ID, Shaykh (a.k.a. AHMAD, Mustafa Muhammad); POB Egypt (individual) [SDGT]

SAINOVIC, Nikola; DOB 7 Dec 1948; POB Bor, Serbia and Montenegro; Ex-FRY Deputy Prime Minister; ICTY indictee in custody (individual) [BALKANS]

SAKABUYA, Morris; Deputy Minister of Local Government, Public Works, and Urban Development (individual) [ZIMBABWE]

SAKUPWANYA, Stanley; DOB circa 1945; Deputy Secretary for Disabled and Disadvantaged (individual) [ZIMBABWE]

SALAFIST GROUP FOR CALL AND COMBAT (a.k.a. AL-QA'IDA IN THE ISLAMIC MAGHREB; a.k.a. AQIM; a.k.a. GSPC; a.k.a. LE GROUPE SALAFISTE POUR LA PREDICATION ET LE COMBAT; a.k.a. SALAFIST GROUP FOR PREACHING AND COMBAT; a.k.a. TANZIM AL-QA'IDA FI BILAD AL-MAGHRIB AL-ISLAMIYA) [FTO] [SDGT]

SALAH, Mohammad Abd El-Hamid Khalil (a.k.a. AHMAD, Abu; a.k.a. AHMED, Abu; a.k.a. SALAH, Mohammad Abdel Hamid Halil; a.k.a. SALAH, Muhammad A.), P.O. Box 2616, Bridgeview, IL 60455-661; P.O. Box 2578, Bridgeview, IL 60455; Israel; 9229 South Thomas, Bridgeview, IL 60455; DOB 30 May 1953; Passport 024296248 (United States); SSN 342-52-7612 (individual) [SDT]

SALAH, Muhammad (a.k.a. HASANAYN, Nasr Fahmi Nasr) (individual) [SDGT]

SALAMI, Mohamed Ahmad (a.k.a. SALAME, Mohamed Ahmad); DOB 22 Sep 1961; nationality Lebanon; Owner, Mohamed Group of Companies; former President of Liberia Charles Taylor's informal diplomatic representative (individual) [LIBERIA]

SALAZAR ARCILA, Yolanda, Carrera 6 No. 15-30, Quimbaya, Quindio, Colombia; c/o PLASTEC LTDA., Colombia; Cedula No. 25018274 (Colombia) (individual) [SDNT]

SALAZAR LUGO, Nelson, c/o TURISMO HANSA S.A., San Andres, Colombia; DOB 14 Jul 1955; POB Colombia; Cedula No. 16597419 (Colombia); Passport AH682171 (Colombia) (individual) [SDNT]

SALAZAR, Jose Leonel, c/o INMOBILIARIA U.M.V. S.A., Cali, Colombia; c/o COMERCIALIZADORA INTERNACIONAL VALLE DE ORO S.A., Cali, Colombia; DOB 14 Mar 1956; Cedula No. 10529253 (Colombia) (individual) [SDNT]

SALCEDO MARTINEZ, Myriam (a.k.a. SALCEDO DE VARGAS, Myriam), c/o FUNDASER, Cali, Colombia; c/o FUNDACION VIVIR MEJOR, Cali, Colombia; Cedula No. 41572808 (Colombia); Passport 41572808 (Colombia) (individual) [SDNT]

SALCEDO RAMIREZ, Jamie, c/o INMOBILIARIA U.M.V. S.A., Cali, Colombia; DOB 25 Dec 1964; Cedula No. 16706222 (Colombia) (individual) [SDNT]

SALCEDO RAMIREZ, Nhora Clemencia, c/o ADMINISTRACION INMOBILIARIA BOLIVAR S.A., Cali, Colombia; c/o INMOBILIARIA BOLIVAR LTDA., Cali, Colombia; DOB 20 Nov 1956; Cedula No. 31273613 (Colombia) (individual) [SDNT]

SALDARRIAGA ACEVEDO, Carlos Omar, c/o RADIO UNIDAS FM S.A., Cali, Colombia; Calle 9B No. 50-100 apt. 102, Cali, Colombia; DOB 16 Jan 1954; alt. DOB 6 Jan 1954; Cedula No. 14998632 (Colombia) (individual) [SDNT]

SALEH AL-SAADI, Nassim Ben Mohamed Al-Cherif ben Mohamed (a.k.a. ABOU ANIS), Via Monte Grappa 15, Arluno (Milan), Italy; DOB 30 Nov 1974; POB Haidra Al-Qasreen, Tunisia; nationality Tunisia; Passport M 788331 issued 28 Sep 2001 expires 27 Sep 2006; arrested 30 Sep 2002 (individual) [SDGT]

SALEH, Dr. Abdul Latif (a.k.a. ABU AMIR; a.k.a. SALEH ABU HUSSEIN, Abdul Latif A.A.; a.k.a. SALEH, Abdul Latif A.A.; a.k.a. SALEH, Abdyl Latif; a.k.a. SALEH, Dr. Abd al-Latif; a.k.a. SALIH, Abd al-Latif), United Arab Emirates; DOB 5 Mar 1957; POB Baghdad, Iraq; citizen Jordan; alt. citizen Albania; Passport D366 871 (Jordan) (individual) [SDGT]

SALEH, Nedal (a.k.a. “HITEM”), Via di Saliceto n.51/9, Bologna, Italy; Via Milano n.105, Casal di Principe (Caserta), Italy; DOB 1 Mar 1970; POB Taiz, Yemen (individual) [SDGT]

SALGADO MOSQUERA, Ricardo Ignacio, c/o MACROFARMA S.A., Pereira, Colombia; c/o FARMALIDER S.A., Cali, Colombia; Cedula No. 10216576 (Colombia); Passport 10216576 (Colombia) (individual) [SDNT]

SALI JR., Jainal Antel (a.k.a. “ABU SOLAIMAN”; a.k.a. “ABU SOLAYMAN”; a.k.a. “APONG SOLAIMAN”; a.k.a. “APUNG”); DOB 1 Jun 1965; POB Barangay Lanote, Bliss, Isabele, Basilan, the Philippines; nationality Philippines (individual) [SDGT]

SALIH, Abd al-Munim Ahmad (a.k.a. SALEH, Abdel Moneim Ahmad), Iraq; DOB 1943; Former Minister of Awqaf and Religious Affairs (individual) [IRAQ2]

SALIM S.A., Calle 15 No. 10-52, La Union, Valle, Colombia; NIT # 821001412-4 (Colombia) [SDNT]

SALIMI, Hosein (a.k.a. SALAMI, Hoseyn; a.k.a. SALAMI, Hossein; a.k.a. SALAMI, Hussayn); citizen Iran; nationality Iran; Passport D08531177 (Iran) (individual) [NPWMD]

SALINAS CUEVAS, Jorge Rodrigo, Calle 13B No. 37-86 apt. 201-5, Cali, Colombia; c/o DISDROGAS LTDA., Yumbo, Valle, Colombia; DOB 10 Dec 1945; POB Neiva, Huila, Colombia; alt. POB Cali, Colombia; Cedula No. 14930332 (Colombia); Passport AG684621 (Colombia) (individual) [SDNT]

SALINAS PEREZ, Ovidio (a.k.a. ROJAS, Juan Antonio; a.k.a. “EL EMBAJADOR”; a.k.a. “JOSE LUIS”), Colombia; DOB 03 Jul 1945; citizen Colombia; Cedula No. 17125959 (Colombia); International FARC Commission Member for Panama (individual) [SDNTK]

SALMAN CORAL WAY PARTNERS, 2731 Coral Way, Miami, FL 33145; US FEIN 59-2276524 (United States) [SDNT]

SALOME GRAJALES Y CIA. LTDA., Calle 53 No. 25-30, Bogota, Colombia; NIT # 800141337-3 (Colombia) [SDNT]

SALUD NATURAL MEXICANA, S.A. DE C.V., Alvaro Obregon 250, Colonia Agua Blanca, Zapopan, Jalisco 45235, Mexico; Avenida Inglaterra #3109, Guadalajara, Jalisco 44500, Mexico; R.F.C. SNM-950403-FA5 (Mexico) [SDNTK]

SAMARIA ARRENDAMIENT, Cali, Colombia [SDNT]

SAMARIA CANAS, Cali, Colombia [SDNT]

SAMARIA INTERESES, Cali, Colombia [SDNT]

SAMARIA TIERRAS, Cali, Colombia [SDNT]

SAMIU, Izair; DOB 23 Jul 1963 (individual) [BALKANS]

SAMSAENG, Suthep (a.k.a. SUTHEP, Samsaeng; a.k.a. WEI, Ta Chou; a.k.a. “AH CHOU”; a.k.a. “AH JOE”), 409/4 Soi Wachirathamsathih 34, Tambon Sam Sen Nok, Huay Khwang, Bangkok, Thailand; c/o DEHONG THAILONG HOTEL CO., LTD., Yunnan Province, China; DOB 12 May 1971; National ID No. 3100905657113 (Thailand) expires May 2006; Passport E382464 (Thailand) expires Jan 2007 (individual) [SDNTK]

SAMUDRA, Imam (a.k.a. BIN SIHABUDIN, Abdul Aziz; a.k.a. YUNSHAR, Faiz; a.k.a. “ABDUL AZIZ”; a.k.a. “ABU OMAR”; a.k.a. “FATIH”; a.k.a. “HENDRI”; a.k.a. “HERI”; a.k.a. “KUDAMA”); DOB 14 Jan 1970; POB Serang, Banten, Indonesia (individual) [SDGT]

SAN AIR GENERAL TRADING FZE (a.k.a. SAN AIR GENERAL TRADING LLC), 811 S. Central Expwy., Ste 210, Richardson, TX 75080; P.O. Box 932-20C, Ajman, United Arab Emirates; P.O. Box 2190, Ajman, United Arab Emirates [LIBERIA]

SAN MATEO S.A. (f.k.a. INVERSIONES BETANIA LTDA.; f.k.a. INVERSIONES BETANIA S.A.), Carrera 3 No. 12-40, Cali, Colombia; Avenida 2N No. 7N-55 of. 501, Cali, Colombia; Carrera 53 No. 13-55 apt. 102B, Cali, Colombia; NIT # 890330910-2 (Colombia) [SDNT]

SAN VICENTE S.A. (f.k.a. INVERSIONES INVERVALLE S.A.; f.k.a. INVERVALLE S.A.), Calle 70N No. 14-31, Cali, Colombia; Avenida 2N No. 7N-55 of. 501, Cali, Colombia; Avenida 4 Norte No. 17N-43 L.1, Cali, Colombia; NIT # 800061212-8 (Colombia) [SDNT]

SANABEL RELIEF AGENCY LIMITED (a.k.a. AL-RAHAMA RELIEF FOUNDATION LIMITED; a.k.a. SANABEL L'IL-IGATHA; a.k.a. SANABEL RELIEF AGENCY; a.k.a. SARA; a.k.a. SRA), 1011 Stockport Road, Levenshulme, Manchester M9 2TB, United Kingdom; P.O. Box 50, Manchester M19 2SP, United Kingdom; 63 South Road, Sparkbrook, Birmingham B11 1EX, United Kingdom; 54 Anson Road, London NW2 6AD, United Kingdom; 98 Gresham Road, Middlesbrough, United Kingdom; Registered Charity No. 1083469 (United Kingdom); Registration ID 3713110 (United Kingdom); http://www.sanabel.org.uk (Web site); info@sanabel.org.uk (e-mail). [SDGT]

SANABIL ASSOCIATION FOR RELIEF AND DEVELOPMENT (a.k.a. AL SANABIL; a.k.a. AL-SANBAL; a.k.a. ASANABIL; a.k.a. JAMI'A SANABIL; a.k.a. JAMI'A SANABIL LIL IGATHA WA AL-TANMIYZ; a.k.a. JA'MIA SANBLE LLAGHATHA WA ALTINMIA; a.k.a. SANABAL; a.k.a. SANABEL; a.k.a. SANABIL; a.k.a. SANABIL AL-AQSA; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

SANABRIA SANABRIA, Pablo Emilio, c/o CAJA SOLIDARIA, Bogota, Colombia; c/o FARMAVISION LTDA., Bogota, Colombia; Avenida Dorado No. 73-62, Bogota, Colombia; c/o COPSERVIR LTDA., Bogota, Colombia; Cedula No. 79579826 (Colombia) (individual) [SDNT]

SANAM INDUSTRIAL GROUP (a.k.a. SANAM INDUSTRIES GROUP), Pasdaran Road 15, Tehran, Iran [NPWMD]

SANCHEZ ACEVES, Raul, c/o STRONG LINK DE MEXICO, S.A. DE C.V., Tijuana, Baja California, Mexico; Flores Magon 8013, Zona Centro, Tijuana, Baja California, Mexico; DOB 21 Apr 1949; POB Distrito Federal, Mexico; citizen Mexico; nationality Mexico; C.U.R.P. SAAR490421HDFNCL09 (Mexico); R.F.C. SAAR-490421-MI9 (Mexico) (individual) [SDNTK]

SANCHEZ CANDELO, Piedad Rocio, c/o CALI @ TELE.COM LTDA., Cali, Valle, Colombia; c/o COMUNICACIONES ABIERTAS CAMARY LTDA., Cali, Valle, Colombia; DOB 20 Nov 1952; POB Colombia; Cedula No. 31252839 (Colombia) (individual) [SDNT]

SANCHEZ CURIEL, Silvia Patricia, c/o M Q CONSULTORES, S.A. DE C.V., Tijuana, Baja California, Mexico; DOB 28 Sep 1976; POB Guadalajara, Jalisco, Mexico (individual) [SDNTK]

SANCHEZ DE VALENCIA, Dora Gladys, c/o INMOBILIARIA U.M.V. S.A., Cali, Colombia; DOB 7 AUG 1955; Cedula No. 31273248 (Colombia) (individual) [SDNT]

SANCHEZ JIMENEZ, Jesus Maria Alejandro (a.k.a. “CHUCHO”; a.k.a. “EL PRIMO”; a.k.a. “SCUBI”; a.k.a. “SCUBY”), c/o GANADERIA ARIZONA, Medellin, Colombia; Hacienda Arizona, Caucasia, Antioquia, Colombia; Calle 11 No. 23-80, Pereira, Colombia; DOB 06 Nov 1975; POB Pereira, Colombia; Cedula No. 10026001 (Colombia); Passport AF400955 (Colombia) (individual) [SDNT]

SANCHEZ OLAYA, Martha, c/o LABORATORIOS PROFARMA LTDA., Bogota, Colombia; DOB 20 May 1963; Cedula No. 65692953 (Colombia); Passport 65692953 (Colombia) (individual) [SDNT]

SANCHEZ OSUNA, Carlos Alberto, Blvd. Industrial 1700, Colonia Otay Tecnologico, Tijuana, Baja California, Mexico; c/o GRUPO GAMAL, S.A. DE C.V., Guadalajara, Jalisco, Mexico; DOB 29 Mar 1971 (individual) [SDNTK]

SANCHEZ RUA, Rafael Angel, Finca La Quichita, Anserma, Colombia; c/o ALMACEN Y COMPRAVENTA LOS 3 OROS, Cartago, Valle, Colombia; Calle 17 Bis. No. 2N-74, Cartago, Valle, Colombia; Finca La Fortaleza, Anserma, Colombia; Finca El Encanto, Anserma, Colombia; c/o MOTEL MOMENTOS E.U., Cartago, Valle, Colombia; Finca Quiebra de Italia, Anserma, Colombia; Finca La Perlita, Anserma, Colombia; c/o GRANJA PORCICOLA LA FORTALEZA, Cartago, Valle, Colombia; DOB 22 Aug 1966; POB Ansermanuevo, Valle, Colombia; Cedula No. 16219873 (Colombia); Passport AF866705 (Colombia) (individual) [SDNT]

SANCHEZ VARILLA, Luis Manuel; DOB 1 Feb 1964; Cedula No. 8174649 (Colombia) (individual) [SDNTK]

SANCLEMENTE BEDOYA, Claudia Patricia, c/o INTERNACIONAL DE DIVISAS S.A., Cali, Colombia; c/o INTERNACIONAL DE DIVISAS S.A., LLC, Miami, FL; c/o OBURSATILES S.A., Cali, Colombia; c/o VALORCORP S.A., Bogota, Colombia; DOB 5 Dec 1968; Cedula No. 31999055 (Colombia); Passport 31999055 (Colombia) (individual) [SDNT]

SANCLEMENTE BEDOYA, Flor de Maria, c/o FUNDACION VIVIR MEJOR, Cali, Colombia; c/o FUNDASER, Cali, Colombia; c/o COMERCIALIZADORA INTERTEL S.A., Cali, Colombia; c/o COLIMEX LTDA., Cali, Colombia; c/o DISTRIBUIDORA SANAR DE COLOMBIA S.A., Cali, Colombia; DOB 4 Sep 1964; Cedula No. 31931887 (Colombia); N.I.E. X2303467-V (Spain); Passport 31931887 (Colombia) (individual) [SDNT]

SAND SWAN (f.k.a. ANA I) (vessel) [CUBA]

SANDOVAL AHIUMADA, Mavenka, c/o COPSERVIR LTDA., Bogota, Colombia; c/o LITOPHARMA, Barranquilla, Colombia; c/o CAJA SOLIDARIA, Bogota, Colombia; Cedula No. 32873688 (Colombia) (individual) [SDNT]

SANDOVAL GUARIN, Luz Stella, c/o COPSERVIR LTDA., Bogota, Colombia; Carrera 26C 7 No. 76A-75 ap. 2A, Barranquilla, Colombia; c/o LITOPHARMA, Barranquilla, Colombia; Cedula No. 32608167 (Colombia) (individual) [SDNT]

SANDOVAL SALAZAR, Ricardo, c/o TARRITOS S.A., Cali, Colombia; c/o AGROPECUARIA LINDARAJA S.A., Cali, Colombia; Cedula No. 16683550 (Colombia) (individual) [SDNT]

SANDRANA CANAS, Cali, Colombia [SDNT]

SANGSIRI KANKASET COMPANY LIMITED, 168 Moo 9, Khi Lek, Mae Taeng, Chiang Mai 50150, Thailand; Registration ID 0505538000783 (Thailand) issued 08 Feb 1955 [SDNTK]

SANKOH, Foday; Deceased (individual) [LIBERIA]

SANTA CRUZ IMPERIAL AIRLINES, P.O. Box 60315, Dubai, United Arab Emirates; Sharjah, United Arab Emirates [LIBERIA]

SANTACOLOMA JARAMILLO, Gloria Maria (a.k.a. SANTACOLOMA DE JARAMILLO, Gloria Maria; a.k.a. SANTACOLOMA HOYOS, Gloria Maria), c/o FARMATEL E.U., Bogota, Colombia; c/o REPRESENTACIONES Y DISTRIBUCIONES HUERTAS Y ASOCIADOS S.A., Bogota, Colombia; DOB 26 Jul 1962; Cedula No. 31886388 (Colombia); Passport 31886388 (Colombia) (individual) [SDNT]

SANTACRUZ CASTRO, Ana Milena, c/o AUREAL INMOBILIARIA LTDA., Bogota, Colombia; c/o URBANIZACIONES Y CONSTRUCCIONES LTDA., DE CALI, Cali, Colombia; c/o SAMARIA LTDA., Cali, Colombia; c/o COMERCIALIZACION Y FINANCIACION DE AUTOMOTORES S.A., Cali, Colombia; c/o INVERSIONES SANTA LTDA., Cali, Colombia; c/o MIRALUNA LTDA., Cali, Colombia; c/o SOCIEDAD CONSTRUCTORA LA CASCADA S.A., Cali, Colombia; c/o INMOBILIARIA SAMARIA LTDA., Cali, Colombia; c/o INVERSIONES INTEGRAL LTDA., Cali, Colombia; DOB 31 Mar 65; Cedula No. 31929808 (Colombia); Passport 31929808 (Colombia); alt. Passport AB151189 (Colombia) (individual) [SDNT]

SANTACRUZ LONDONO, Jose (a.k.a. “CHEPE”; a.k.a. “DON CHEPE”; a.k.a. “EL GORDO CHEPE”), Cali, Colombia; DOB 1 Oct 1943; Cedula No. 14432230 (Colombia); Passport AB149814 (Colombia) (individual) [SDNT]

SANTAMARINA DE LA TORRE, Rafael Garcia (a.k.a. GARCIA SANTAMARINA DE LA TORRE, Alfredo Rafael), Panama (individual) [CUBA]

SANTANILLA BOTACHE, Miguel (a.k.a. “GENTIL DUARTE”); DOB 10 Dec 1963; POB Florencia, Caqueta, Colombia; citizen Colombia; nationality Colombia; Cedula No. 93123586 (Colombia) (individual) [SDNTK]

SANTIC, Vladimir; DOB 1 Apr 1958; POB Donja Veceriska, Bosnia-Herzegovina; ICTY indictee (individual) [BALKANS]

SANTO, Anabel, Avenida Insurgentes Sur No. 421, Bloque B Despacho 404, C.P. 06100, Mexico, D.F., Mexico (individual) [CUBA]

SANTOS, Ahmad (Ahmed) (a.k.a. DEL ROSARIO SANTOS III, Hilarion; a.k.a. DEL ROSARIO SANTOS, Ahmad Islam; a.k.a. DEL ROSARIO SANTOS, Hilarion; a.k.a. “LAKAY, Abu”), No. 50 Purdue Street, Cubao Quezon City, Philippines; DOB 1971; POB Manila, Phillipines; RSM leader (individual) [SDGT]

SARA PROPERTIES LIMITED (a.k.a. SARA PROPERTIES), 104 Smithdown Road, Liverpool, Merseyside L7 4JQ, United Kingdom; 2a Hartington Road, Liverpool L8 0SG, United Kingdom; Registered Charity No. 4636613 (United Kingdom); http://www.saraproperties.co.uk (Web site). [SDGT]

SARABIA DIAZ, Carlos Cristino, Calle Dalia No. 37, Colonia Aguaruto, Culiacan, Sinaloa, Mexico; c/o COMERCIAL DOMELY, S.A. DE C.V., Toluca, Mexico, Mexico; c/o COMERCIALIZADORA BRIMAR'S, S.A. DE. C.V., Culiacan, Sinaloa, Mexico; c/o TOYS FACTORY, S.A. DE C.V., Tijuana, Baja California, Mexico; c/o COMERCIAL JOANA, S.A. DE C.V., Guadalajara, Jalisco, Mexico; DOB 24 Jul 1971; POB Culiacan, Sinaloa, Mexico; citizen Mexico; nationality Mexico; C.U.R.P. SADC710724HSLRZR03 (Mexico); R.F.C. SADC710724I71 (Mexico) (individual) [SDNTK]

SARAC, Ivan; DOB 4 Jun 1968; POB Sokolac, Serbia (individual) [BALKANS]

SARASTI GUERRERO, Rodrigo Jose, Avenida 10 Norte No. 18-35, Cali, Colombia; c/o KESMAN OVERSEAS, Road Town, Tortola, Virgin Islands, British; c/o ZARATAN CORPORATION, Road Town, Tortola, Virgin Islands, British; c/o ZARATAN CORPORATION, Cali, Colombia; c/o OBURSATILES S.A., Cali, Colombia; DOB 25 Aug 1964; Cedula No. 16699921 (Colombia); Passport 16699921 (Colombia) (individual) [SDNT]

SARMIENTO LAVERDE, Azucena Del Carmen, c/o MEGAPHARMA LTDA., Bogota, Colombia; Calle 22C No. 39-80, Bogota, Colombia; Carrera 20 No. 7-57, Bogota, Colombia; DOB 17 Nov 1954; Cedula No. 41649539 (Colombia) (individual) [SDNT]

SARMIENTO MARTINEZ, Diana, c/o TAURA S.A., Cali, Colombia; Cedula No. 65698369 (Colombia) (individual) [SDNT]

SAROVIC, Mirko; DOB 16 Sep 1956; POB Rogatica, Serbia (individual) [BALKANS]

SARRIA HOLGUIN, Ramiro Hernan 'Robert', c/o REPARACIONES Y CONSTRUCCIONES LTDA., Cali, Colombia; Avenida 6N No. 23D-16 of. L301, Cali, Colombia; c/o INVERSIONES ARA LTDA., Cali, Colombia; c/o INVERSIONES RODRIGUEZ MORENO, Cali, Colombia; c/o INVERSIONES MIGUEL RODRIGUEZ E HIJO, Cali, Colombia; c/o VALORES MOBILIARIOS DE OCCIDENTE S.A., Cali, Colombia; Carrera 100 No. 11-60 of. 603, AA 20903, Cali, Colombia; c/o INVERSIONES RODRIGUEZ ARBELAEZ, Cali, Colombia; Cedula No. 6078583 (Colombia) (individual) [SDNT]

SATTAR; Vessel Registration Identification IMO 9040479 (vessel) [NPWMD]

SAVANHU, Tendai; DOB 21 Mar 1968; Politburo Deputy Secretary of Transport and Social Welfare (individual) [ZIMBABWE]

SAYADI, Nabil Abdul Salam (a.k.a. ABOU ZEINAB), 69 Rue des Bataves, 1040 Etterbeek, Brussels, Belgium; Vaatjesstraat, 29, 2580 Putte, Belgium; DOB 01 Jan 1966; POB Tripoli, Lebanon; National ID No. 660000 73767 (Belgium); Passport 1091875; Public Security and Immigration No. 98.805 (individual) [SDGT]

SCHNEIDER, Daniel Martin (a.k.a. SCHNEIDER, Martin Daniel), Petrusstrasse 32, Herrensohr Dudweiler, Saarbruecken 66125, Germany; zum Gruehlingsstollen 1A, Friedrichstahl 66299, Germany; Rosenstrasse 2, Friedrichstahl 66299, Germany; DOB 9 Sep 1985; POB Neunkirchen, Germany; citizen Germany; Federal ID Card 2318229333; Passport 2318047793 (Germany); currently incarcerated at Schwalmstadt, Germany (individual) [SDGT]

SCHNEIDER, Simon, c/o OFFENBACH HAUSHALTWAREN B.V., Beverwijk, Netherlands; Netherlands; c/o BELS FLOWERS IMPORT EXPORT BVBA, Antwerpen, Belgium; DOB 14 Jul 1967; POB Hoorn, Netherlands; citizen Netherlands; Passport BA0199589 (Netherlands) (individual) [SDNTK]

SCIENTIFIC STUDIES AND RESEARCH CENTER (a.k.a. CENTRE D'ETUDES ET RECHERCHES; a.k.a. “SSRC”), P.O. Box 4470, Damascus, Syria [NPWMD]

SCORE COMMERCIAL COMPANY LTD. (a.k.a. BORISAT SAKO KHOMMOESIAN CHAMKAT), 273 Soi Thiam Ruammit, Ratchada Phisek Road, Huai Khwang district, Bangkok, Thailand [SDNTK]

SCOTFIN LIMITED, 10th Floor ZB House, 46 Speke Avenue, P.O. Box 3198, Harare, Zimbabwe; Phone No. 263-4-751168; Fax No. 263-4-251029 [ZIMBABWE]

SCOTTLEE HOLDINGS (PVT) LTD, New Boundary House, London Road, Sunningdale, Berkshire SL5 0DJ, United Kingdom; 124 Josiah Chinamano Avenue, P.O. Box CY3371, Cauaseway, Harare, Zimbabwe [ZIMBABWE]

SCOTTLEE RESORTS (a.k.a. SCOTTLEE RESORTS LIMITED), Newboundary House, London Road, Sunningdale, Berkshire SL5 0DJ, United Kingdom; 124 Josiah Chinamano Avenue, P.O. Box CY 3371, Causeway, Harare, Zimbabwe [ZIMBABWE]

SEA BLOOM (a.k.a. IRAN SEA BLOOM); Vessel Registration Identification IMO 9167291 (vessel) [NPWMD]

SEA FLOWER; Vessel Registration Identification IMO 9167289 (vessel) [NPWMD]

SEA STATE (a.k.a. IRAN SEA STATE); Vessel Registration Identification IMO 9167265 (vessel) [NPWMD]

SEGECOL LTDA., Carrera 33 No. 48-95 of. 205, Bucaramanga, Colombia; NIT # 804015530-4 (Colombia) [SDNT]

SEGUWRA DEL VALLE E.U., Avenida 11N No. 7N-201, Cali, Colombia; NIT # 805016035-8 (Colombia) [SDNT]

SEIN, Thein; DOB 20 Apr 1945; POB Pathein, Irrawaddy Division; citizen Burma; nationality Burma; Adjutant General; First Secretary, State Peace and Development Council (individual) [BURMA]

SEKERAMAYI, Lovemore; Chief Elections Officer (individual) [ZIMBABWE]

SEKERAMAYI, Sidney Tigere, 31 Honey Bear Lane, Borrowdale, Harare, Zimbabwe; DOB 30 Mar 1944; Minister of Defense (individual) [ZIMBABWE]

SEKERAMAYI, Tsitsi Chihuri, 31 Honey Bear Lane, Borrowdale, Harare, Zimbabwe; DOB circa 1944; Spouse of Sydney Sekeramayi (individual) [ZIMBABWE]

SELIMI, Rexhep; DOB 15 Mar 1971; POB Iglarevo, Serbia and Montenegro (individual) [BALKANS]

SENANQUE (vessel) [CUBA]

SENANQUE SHIPPING CO. LTD., c/o EMPRESA DE NAVEGACION CARIBE, Edificio Lonja del Comercio, Lamparilla 2, Caja Postal 1784, Havana 1, Cuba [CUBA]

SENNAR SUGAR COMPANY LIMITED, P.O. Box 511, Khartoum, Sudan; E-mail Address sukar@sudanmail.net (Sudan) [SUDAN]

SENTOSA TREASURE PTE. LTD., 3 Shenton Way, 10-01 Shenton House, Singapore 068805, Singapore [JADE] [BURMA]

SEPASAD ENGINEERING COMPANY, No. 4 Corner of Shad St., Mollasadra Ave., Vanak Square, Tehran, Iran [NPWMD]

SEPRIV, S.A. DE C.V., Calle Donato Guerra No. 649, 1, Col. Centro, Culiacan, Sinaloa, Mexico; R.F.C. SEP980319668 (Mexico) [SDNTK]

SEPULVEDA SEPULVEDA, Manuel Salvador, c/o INVHERESA S.A., Cali, Colombia; c/o INMOBILIARIA U.M.V. S.A., Cali, Colombia; c/o ALKALA ASOCIADOS S.A., Cali, Colombia; DOB 2 Feb 1956; Cedula No. 16855038 (Colombia) (individual) [SDNT]

SEPULVEDA ZAPATA, Efrain Hernan, c/o SEPULVEDA-IRAGORRI LTD., Nassau, Bahamas, The; c/o INTERNACIONAL DE DIVISAS S.A., Cali, Colombia; c/o VALORCORP S.A., Bogota, Colombia; c/o REPRESENTACIONES ZATZA LTDA., Cali, Colombia; c/o OBURSATILES S.A., Cali, Colombia; c/o INTERNACIONAL DE DIVISAS S.A., LLC, Miami, FL; DOB 21 Mar 1960; Cedula No. 16449272 (Colombia); Passport 16449272 (Colombia) (individual) [SDNT]

SEPULVEDA-IRAGORRI, INC., 4382 Fox Ridge Dr., Weston, FL 33331; Business Registration Document # P00000115667 (United States); US FEIN 65-1062397 [BPI-SDNT]

SEPULVEDA-IRAGORRI, LTD., Calle 6 Oeste No. 4-200 apt. 202, Cali, Colombia; Nassau, Bahamas, The [SDNT]

SERB DEMOCRATIC PARTY (a.k.a. SDS; a.k.a. SRPSKA DEMOKRATSKA STRANKA), Kralja Alfonsa XIII, Number 1, 78000 Banja Luka, Bosnia and Herzegovina [BALKANS]

SERCUBA (a.k.a. WWW.SERCUBA.COM), Vicente Garcia #28 e/Julian Santana y Francisco Vega, Tienda La Nueva, Las Tunas, Cuba; Calle Ayuntamiento e/Medio y Rio, Matanzas, Cuba; Calle 6 #408 esq. 3ra. Ave. Miramar Playa, La Habana, Cuba; Frexes #216 e/Maceo y Martires, Holguin, Cuba; Felix Pena #565 e/Jose A. Saco y Aguilera, Santiago de Cuba, Cuba; Calle 39 e/30 y 32 Altos del Servi Cupet “El parque”, Isla de la Juventud, Cuba; Calle 29 #5218 e/52 y 54 Edif. Cimex, Cienfuegos, Cuba; Gral. Gomez #105 e/Maceo e Independencia, Camaguey, Cuba; Crombet s/n e/Los Maceos y Moncada, Guantanamo, Cuba; Calle 40 esq. Playa. Varadero, Matanzas, Cuba; Gerardo Medina #633, Pinar del Rio, Cuba; Independencia #171 Sur, altos, Sancti Spiritus, Cuba; Libertad s/n, e/Honorato del Castillo y Maceo, Ciego de Avila, Cuba; Edif. Las Novedades altos Ave. Frank Pais e/Segunda y Aven. Figueredo. Rpto. Jesus Menendez. Bayamo, Granma, Cuba; Ave. 1ro. De Mayo s/n. Moa, Holguin, Cuba; Carretera Central Km. 298 Banda Esperanza, Villa Clara, Cuba [CUBA]

SERNA GOMEZ, Adriana Maria, c/o DROBLAM S.A., Cali, Colombia; DOB 22 Jan 1971; Cedula No. 34600630 (Colombia); Passport 34600630 (Colombia) (individual) [SDNT]

SERNA, Maria Norby (a.k.a. SERNA DE PEREZ, Maria Norbi), c/o INVHERESA S.A., Cali, Colombia; c/o ALKALA ASOCIADOS S.A., Cali, Colombia; Carrera 30A No. 67-45, Palmira, Colombia; DOB 14 Jul 1945; Cedula No. 29475049 (Colombia) (individual) [SDNT]

SERPA DIAZ, Alvaro Alfonso (a.k.a. CERPA DIAZ, Alvaro Alfonso; a.k.a. CERPA DIAZ, Tiberio Antonio; a.k.a. SERPA DIAZ, Alvaro Enrique; a.k.a. “FELIPE RINCON”); DOB 28 Mar 1959; alt. DOB 9 Oct 1956; POB San Jacinto, Bolivar, Colombia; alt. POB Cali, Colombia; Cedula No. 6877656 (Colombia) (individual) [SDNTK]

SERPROVIS S.A. SERVICIOS Y PROVISIONES, Calle 28N No. 6BN-54, Cali, Colombia; NIT # 900023730-2 (Colombia) [SDNT]

SERRANO PONCE, Jose Delio, c/o DISMERCOOP, Cali, Colombia; DOB 13 Apr 1965; Cedula No. 16711205 (Colombia) (individual) [SDNT]

SERRANO SILVA, Luz Esperanza, c/o MAGEN LTDA., Bogota, Colombia; Cedula No. 51822684 (Colombia); Passport 51822684 (Colombia) (individual) [SDNT]

SERVIAUTOS UNO A 1A LIMITADA (a.k.a. DIAGNOSTICENTRO LA GARANTIA), Carrera 15 No. 44-68, Cali, Colombia; Calle 34 No. 5A-25, Cali, Colombia; NIT # 800032413-8 (Colombia) [SDNT]

SERVICIO AEREO DE SANTANDER E.U. (a.k.a. S.A.S. E.U.), Carrera 66 No. 7-31, Bogota, Colombia; NIT # 800543219-8 (Colombia) [SDNT]

SERVICIOS ADMINISTRATIVOS Y DE ORGANIZACION, S.C., Tijuana, Baja California, Mexico [SDNTK]

SERVICIOS DE LA SABANA E.U. (a.k.a. SERBANA E.U.), Carrera 13A No. 89-38 of. 713, Bogota, Colombia; NIT # 830050331-8 (Colombia) [SDNT]

SERVICIOS FARMACEUTICOS SERVIFAR S.A. (a.k.a. SERVIFAR S.A.), Carrera 4 No. 31-96, Cali, Colombia; NIT # 805003968-8 (Colombia) [SDNT]

SERVICIOS FUTURA LIMITADA (a.k.a. SERVIFUTURA LTDA.), Carrera 70 No. 54-30, Bogota, Colombia; Carrera 28 No. 11-65 of. 712, Bogota, Colombia; Calle 12B No. 27-39, Bogota, Colombia; Carrera 28 No. 11-65 of. 416, Bogota, Colombia; NIT # 830044689-4 (Colombia) [SDNT]

SERVICIOS INMOBILIARIOS LTDA., Carrera 65 No. 13-82, Cali, Colombia; Avenida 2N No. 7N-55 of. 605, Cali, Colombia [SDNT]

SERVICIOS LOGISTICOS Y MARKETING LTDA. (a.k.a. S L M K LTDA.), Carrera 28 No. 11-65/67 of. 717 Centro Comercial Ricaurte, Bogota, Colombia; NIT # 830044689-4 (Colombia) [SDNT]

SERVICIOS MYRAL E.U., Calle 6 Oeste No. 6-38, Cali, Colombia; Calle 29 Norte No. 6N-43, Cali, Colombia; NIT # 805022419-7 (Colombia) [SDNT]

SERVICIOS SILSA S.A.C., Jr. Huantar 278, Lima, Peru; RUC # 20341067112 (Peru) [SDNTK]

SERVICIOS SOCIALES LTDA., Barranquilla, Colombia [SDNT]

SERVIMPEX, S.A., Panama [CUBA]

SERVINAVES, S.A., Panama [CUBA]

SES INTERNATIONAL CORP (a.k.a. SES AUTOMOBILE; a.k.a. SES GROUP), Harsta Hams Road, PO Box 291, Damascus, Syria; Harasta Homs Highway, PO Box 241, Damascus, Syria [IRAQ2]

SESELJ, Vojislav; DOB 11 Oct 1954; POB Sarajevo, Bosnia-Herzegovina; ICTY indictee (individual) [BALKANS]

SEVENTH OCEAN; Vessel Registration Identification IMO 9165786 (vessel) [NPWMD]

SHAAFI (a.k.a. IRAN SHAAFI); Vessel Registration Identification IMO 9386500 (vessel) [NPWMD]

SHABAN, Adib (a.k.a. AL-ANI, Adib Shaban; a.k.a. SHABAN, Dr. Adib); DOB 1952; nationality Iraq (individual) [IRAQ2]

SHAHBANDAR, Samira (a.k.a. CHADIAN); DOB 1946; POB Baghdad, Iraq; nationality Iraq; wife of Saddam Hussein al-Tikriti (individual) [IRAQ2]

SHAHBAZ KHAN GENERAL TRADING LLC (a.k.a. AL SHAHBOZ KHAN GENERAL TRADING LLC.), P.O. Box 40754, Dubai, United Arab Emirates; Al Ghas Building, Baniyas Square, Al Rigga Area, Flat No. 106, Dubai, United Arab Emirates; Shop No. 16, Baniyas Centre, Dubai, United Arab Emirates; P.O. Box 24241, Dubai, United Arab Emirates; C.R. No. 52060 (United Arab Emirates) [SDNTK]

SHAHBAZ TV CENTER, Shop No. 1-2, Block A, Jamrud Road, Royal Market, Peshawar, Pakistan [SDNTK]

SHAHID BAKERI INDUSTRIAL GROUP (a.k.a. “SBIG”), Tehran, Iran [NPWMD]

SHAHID HEMMAT INDUSTRIAL GROUP (a.k.a. “SHIG”), Damavand Tehran Highway, Tehran, Iran [NPWMD]

SHAHID SATTARI INDUSTRIES, Southeast Tehran, Iran [NPWMD]

SHAHID SAYYADE SHIRAZI INDUSTRIES (a.k.a. SHAHID SAYYAD SHIRAZI INDUSTRIES; a.k.a. SHAHID SAYYED SHIRAZI IND.), Babaei Highway—Next to Niru M.F.G, Tehran, Iran; Pasdaran St., P.O. Box 16765, Tehran 1835, Iran; Next To Nirou Battery Mfg. Co, Shahid Babaii Expressway, Nobonyad Square, Tehran, Iran [NPWMD]

SHAHLAI, Abdul Reza (a.k.a. SHAHLAEE, Abdul-Reza; a.k.a. SHAHLAI, Abdol Reza; a.k.a. SHAHLA'I, Abdolreza; a.k.a. SHAHLAI, 'Abdorreza; a.k.a. SHALAI, 'Abd-al Reza; a.k.a. SHALA'I, Abdul Reza; a.k.a. “ABU-AL-KARKH', 'Yusuf”; a.k.a. “YASIR, Hajji”; a.k.a. “YUSEF, Hajj”; a.k.a. “YUSIF, Haji”; a.k.a. “YUSIF, Hajji”), Kermanshah, Iran; Mehran Military Base, Ilam Province, Iran; DOB circa 1957 (individual) [IRAQ3]

SHAHNAWAZ TRADERS, Shop No. 1-2, Block A, Jamrud Road, Royal Market, Peshawar, Pakistan [SDNTK]

SHALABI, Ismail Abdallah Sbaitan, Wilhelm-Strasse 45, 59269, Beckum, Germany; DOB 30 Apr 1973; POB Beckum, Germany; nationality Jordan; nationality possibly Palestinian;arrested 23 Apr 2002 (individual) [SDGT]

SHALISH, Asif (a.k.a. AL-SHALISH, Dr. Asef; a.k.a. ISSA, Assef; a.k.a. SHALEESH, Asef Isa; a.k.a. SHALEESH, Dr. Assef Essa), Damascus, Syria; DOB 1 Jan 1959; nationality Syria; Passport 4713277 (Syria) (individual) [IRAQ2]

SHALISH, Zuhayr (a.k.a. AL-HEMMEH, Thu; a.k.a. AL-SHALISH, Dhu Al-Himma; a.k.a. SHALEESH, Dhu Himma; a.k.a. SHALEESH, Thu Al Hima; a.k.a. SHALISH, Dhu Al Himma; a.k.a. SHALISH, Dhuil Himma; a.k.a. SHALISH, Zuhilma), Damascus, Syria; DOB circa 1956; POB Al-Ladhiqiyah, Syria; nationality Syria; General; Has a military position-is known also as Major General or Brigadier General. (individual) [IRAQ2]

SHAMU, Webster Kotiwani, 1 Uplands Close, Highlands, Zimbabwe; DOB 6 Jun 1945; Passport AN203141 (Zimbabwe) expires 15 Jan 2011; Minister of Policy Implementation (individual) [ZIMBABWE]

SHAMUYARIRA, Nathan Marwirakuwa; DOB 29 Sept 1928; Passport AD000468 (Zimbabwe); Politburo Secretary for Information and Publicity (individual) [ZIMBABWE]

SHANT, Adam Yacub (a.k.a. “SHARIF, Adam Yacub”; a.k.a. “YACOUB, Adam”); DOB circa 1976; Commander for the Sudan Liberation Army (SLA) (individual) [DARFUR]

SHAQAQI, Fathi; Secretary General of PALESTINIAN ISLAMIC JIHAD-SHIQAQI (individual) [SDT]

SHAQIRI, Shaqir; DOB 1 Sep 1964; POB Serbia and Montenegro (individual) [BALKANS]

SHAQIRI, Xhezair; DOB 15 May 1965; POB Tanusevci, Macedonia (individual) [BALKANS]

SHARPER S.A., Calle 12B No. 28-58, Bogota, Colombia; Calle 16 No. 28A-57, Bogota, Colombia; Calle 12B No. 28-70, Bogota, Colombia; Calle 16 No. 28A-42, Bogota, Colombia; Calle 17A No. 28A-43, Bogota, Colombia; NIT # 830026833-2 (Colombia) [SDNT]

SHARVET S.A., Calle 12B No. 28-70, Bogota, Colombia; NIT # 830050743-9 (Colombia) [SDNT]

SHAW, Emmanuel (II); DOB 26 JUL 1946; alt. DOB 26 JUL 1956; alt. DOB 29 JUL 1956; Advisor to former President of Liberia Charles Taylor (individual) [LIBERIA]

SHAWEESH, Yasser Abu (a.k.a. ABOU SHAWEESH, Yasser Mohamed; a.k.a. ABU SHAWEESH, Yasser Mohamed Ismail), Meckennheimer Str. 74a, Bonn 53179, Germany; Wuppertal Prison, Germany; DOB 20 Nov 1973; POB Benghazi, Libya; Passport 981358 (Egypt); alt. Passport 0003213 (Egypt); Travel Document Number C00071659 (Germany); alt. Travel Document Number 939254 (Egypt) (individual) [SDGT]

SHAWKAT, Assef, Al-Akkad Street, Damascus, Syria; DOB 1950; POB Tartus, Syria; nationality Syria; Director of Syrian Military Intelligence (individual) [SYRIA]

SHEIKAN INSURANCE AND REINSURANCE COMPANY LIMITED (a.k.a. SHEIKAN INSURANCE COMPANY), Al Souq Al Arabi, Sheikan Building, Khartoum SU001, P.O. Box 10037, Khartoum, Sudan; E-mail Address sheikan@sudanmail.net (Sudan) [SUDAN]

SHEIMAN, Viktar Uladzimiravich (a.k.a. SHEIMAN, Victor Uladzimiravich; a.k.a. SHEIMAN, Victor Vladimirovich; a.k.a. SHEIMAN, Viktar Vladimirovich; a.k.a. SHEIMAN, Viktor Uladzimiravich; a.k.a. SHEIMAN, Viktor Vladimirovich; a.k.a. SHEYMAN, Victor Uladzimiravich; a.k.a. SHEYMAN, Victor Vladimirovich; a.k.a. SHEYMAN, Viktar Uladzimiravich; a.k.a. SHEYMAN, Viktar Vladimirovich; a.k.a. SHEYMAN, Viktor Uladzimiravich; a.k.a. SHEYMAN, Viktor Vladimirovich); DOB 26 May 1958; POB Soltanishka, Voronovskovo, Belarus; alt. POB Grodno, Belarus; State Secretary of the Security Council; former Prosecutor General (individual) [BELARUS]

SHER MATCH INDUSTRIES (PVT.) LIMITED, Plot Numbers 119-121, Industrial Estate, Jamrud Road, Hayatabad, Peshawar, Pakistan; Shahnawaz Traders Royal Industrial Area, Jamrud Road, Peshawar, Pakistan; C.R. No. P-01876/19981106 (Pakistan) [SDNTK]

SHEREIK MICA MINES COMPANY, C/O SUDANESE MINING CORPORATION (a.k.a. SHERIEK MICA PROJECT, c/o SUDANESE MINING CORPORATION), P.O. Box 1034, Khartoum, Sudan [SUDAN]

SHIH, Kuo Neng (a.k.a. KUAI NUENG, Sae Chang; a.k.a. “AH SAN”; a.k.a. “SHI KWAN NEINK”; a.k.a. “SHIH KUO NENG”), Tachilek, Shan, Burma; DOB 1964 (individual) [SDNTK]

SHIHATA, Thirwat Salah (a.k.a. ABDALLAH, Tarwat Salah; a.k.a. THIRWAT, Salah Shihata; a.k.a. THIRWAT, Shahata); DOB 29 Jun 1960; POB Egypt (individual) [SDGT]

SHINING PATH (a.k.a. EGP; a.k.a. EJERCITO GUERRILLERO POPULAR (PEOPLE'S GUERRILLA ARMY); a.k.a. EJERCITO POPULAR DE LIBERACION (PEOPLE'S LIBERATION ARMY); a.k.a. EPL; a.k.a. PARTIDO COMUNISTA DEL PERU (COMMUNIST PARTY OF PERU); a.k.a. PARTIDO COMUNISTA DEL PERU EN EL SENDERO LUMINOSO DE JOSE CARLOS MARIATEGUI (COMMUNIST PARTY OF PERU ON THE SHINING PATH OF JOSE CARLOS MARIATEGUI); a.k.a. PCP; a.k.a. SENDERO LUMINOSO; a.k.a. SL; a.k.a. SOCORRO POPULAR DEL PERU (PEOPLE'S AID OF PERU); a.k.a. SPP) [FTO] [SDGT]

SHIPLEY SHIPPING CORP., Panama [CUBA]

SHIPPING COMPUTER SERVICES COMPANY (a.k.a. SCSCO), No. 37, Asseman, Shahid Sayyad Shirazeesq, Pasdaran Ave., P.O. Box 1587553-1351, Tehran, Iran; No. 13, 1st Floor, Abgan Alley, Aban Ave., Karimkhan Zand Blvd., Tehran 15976, Iran [NPWMD]

SHIRAZ ELECTRONICS INDUSTRIES (a.k.a. SEI; a.k.a. SHIRAZ ELECTRONIC INDUSTRIES), Hossain Abad Road, Shiraz, Iran; P.O. Box 71365-1589, Shiraz, Iran [NPWMD]

SHIRI, Perence; DOB 11 Jan 1955; Zimbabwean Air Marshal (Air Force) (individual) [ZIMBABWE]

SHOMAL CEMENT COMPANY, Dr Beheshti Ave., No 289, Tehran 151446, Iran; 289 Shahid Beheshti Ave., P.O. Box 15146, Tehran, Iran [NPWMD]

SHUEN WAI HOLDING LIMITED, Room 3605 36/F Wu Chang House, 213 Queen's Road E, Wan Chai, Hong Kong, Hong Kong; Business Registration Document # 15895496 (Hong Kong); Certificate of Incorporation Number 330330 (Hong Kong) [SDNTK]

SHUMBA, Isaiah Masvayamwanda; DOB 3 Jan 1949; Deputy Minister of Education, Sports and Culture (individual) [ZIMBABWE]

SHWE, Khin (a.k.a. SHWE, Khin, Dr.), Burma; DOB 21 Jan 1952; citizen Burma; nationality Burma; President, Zay Gabar Company (individual) [BURMA]

SHWE, Than; DOB 2 Feb 1935; alt. DOB 2 Feb 1933; citizen Burma; nationality Burma; Senior General, Minister of Defense and Commander-in-Chief of Defense Services; Chairman, State Peace and Development Council (individual) [BURMA]

SIAM NICE COMPANY LTD., 273 Soi Thiam Ruammit, Ratchada Phisek Road, Huai Khwang district, Bangkok, Thailand [SDNTK]

SIBANDA, Levy; Deputy Police Commissioner (individual) [ZIMBABWE]

SIBONEY INTERNACIONAL, S.A., Edificio Balmoral, 82 Via Argentina, Panama City, Panama [CUBA]

SIBONEY INTERNACIONAL, S.A., Venezuela [CUBA]

SIEIRO DE NORIEGA, Felicidad, Panama (individual) [CUBA]

SIERRA RAMIREZ, Juan Carlos; DOB 15 Apr 1966; Cedula No. 71680143 (Colombia) (individual) [SDNTK]

SIKIRICA, Dusko; DOB 23 Mar 1964; POB Cirkin Pojle, Bosnia-Herzegovina; ICTY indictee (individual) [BALKANS]

SIKOSANA, Absolom; Politburo Secretary for Youth Affairs (individual) [ZIMBABWE]

SILOS AND STORAGE CORPORATION, P.O. Box 1183, Khartoum, Sudan [SUDAN]

SIMAN DE JAAR, Carmen Elena (a.k.a. JAAR, Carmen E.; a.k.a. S DE JAAR, Carmen Elena; a.k.a. SIMAN DADA DE JAAR, Carmen Elena), 325 Poinciana Island Drive, Sunny Island Beach, FL 33160; c/o ARMANDO JAAR Y CIA. S.C.S., Barranquilla, Colombia; c/o CIPE INVESTMENTS CORPORATION, Panama City, Panama; DOB 01 Nov 1953; Cedula No. 1629942 (El Salvador); Passport B296684 (El Salvador) (individual) [SDNT]

SIMATOVIC, Franko 'Frenki'; DOB 1 Apr 1950; POB Belgrade, Serbia and Montenegro,; ICTY indictee in Serb custody (individual) [BALKANS]

SIMIC, Blagoje; DOB 1 Jul 1960; POB Kruskovo Polje; ICTY indictee in custody (individual) [BALKANS]

SIMIC, Milan; DOB 9 Aug 1960; POB Sarajevo, Bosnia-Herzegovina; ICTY indictee (individual) [BALKANS]

SINALOA CARTEL (a.k.a. “ALLIANCE”; a.k.a. “FEDERATION”), Mexico [SDNTK]

SININ; Vessel Registration Identification IMO 9274941 (vessel) [NPWMD]

SIN-MEX IMPORTADORA, S.A. DE C.V. (a.k.a. CHIKA'S; a.k.a. CHIKA'S ACCESORIOS Y COSMETICOS; a.k.a. IMPORTCLUB), Plaza Fantasia, Calle del Carmen No. 82 Local 28, Distrito Federal, Mexico; Rubi No. 366-A, Col. Centro, Culiacan, Sinaloa, Mexico; Plaza Coliseo Local 11, Col. Centro, Leon, Guanajuato, Mexico; Magno Centro Joyero Sn. Juan de Dios Local 1038, Guadalajara, Jalisco, Mexico; Poniente 140 No. 639, Col. Industrial Vallejo, Mexico, Distrito Federal, Mexico; Parras 1750 Int. C, Col. Alamo Oriente, Tlaquepaque, Jalisco, Mexico; Ignacio Lopez Rayon No. 9104, Col. 1 de Mayo, Toluca, Mexico; Centro Joyero Local 21 y 25, Andador Allende No. 116 Oriente, Aguascalientes, Ags., Mexico; Galerias San Miguel Local 40 K, Culiacan, Sinaloa, Mexico; Plaza Centro Sur Local I-9, Guadalajara, Jalisco, Mexico; Plaza Centro Sur Local D-11, Guadalajara, Jalisco, Mexico; Centro Joyero Local 31, Culiacan, Sinaloa, Mexico; Avenida Rayon 140 D, Col. Colonia Toluca de Lerdo Centro, Toluca, Estado de Mexico 50000, Mexico; Plaza de la Mujer Local 27, Morelos No. 133 Poniente, Monterrey, Nuevo Leon, Mexico; Av. Javier Mina No. 26, Col. San Juan de Dios, Guadalajara, Jalisco, Mexico; Alvaro Obregon No. 614, Col. San Juan de Dios, Guadalajara, Jalisco, Mexico; Centro Joyero de Toluca Local 8, Benito Juarez No. 109, Toluca, Estado Mexico, Mexico; Pedro Loza No. 174, Col. Centro, Guadalajara, Jalisco, Mexico; Av. Juarez No. 496, Col. Centro, Guadalajara, Jalisco, Mexico; Avenida Rayon 104, Col. Colonia Toluca de Lerdo Centro, Toluca, Estado de Mexico 50000, Mexico; Ignacio Lopez Rayon, Col. 5 de Mayo, Toluca, Mexico; Poniente 140 No. 639, Col. Industrial Vallejo, Delegacion Azcapotzalco, Distrito Federal, Mexico; Plaza Galerias Local 22, Col. Colinas de San Miguel, Culiacan, Sinaloa, Mexico; Riva Palacio No. 675 Sur, Col. Almada, Culiacan, Sinaloa, Mexico; Reforma 217-A, Col. Centro, Leon, Guanajuato, Mexico; R.F.C. SMI010730DH8 (Mexico) [SDNTK]

SIREGAR, Parlindungan (a.k.a. SIREGAR, Parlin; a.k.a. SIREGAR, Saleh Parlindungan); DOB 25 Apr 1957; alt. DOB 25 Apr 1967; POB Indonesia; nationality Indonesia (individual) [SDGT]

SISON, Jose Maria (a.k.a. LIWINAG, Armando), Netherlands; DOB 8 Feb 1938; POB Llocos Sur Northern Luzon, Philippines (individual) [SDGT]

SISTEMA DE DISTRIBUCION MUNDIAL, S.A.C. (a.k.a. WORLD DISTRIBUTION SYSTEM), Avenida Jose Pardo No. 601, Piso 11, Lima, Peru; RUC # 20458382779 (Peru) [SDNTK]

SISTEMA DE RADIO DE SINALOA, S.A. DE C.V., Cll Cristobal Colon No. 275, Col. Centro, Culiacan, Sinaloa 80000, Mexico; Calle Francisco Villa No. 331, Col. Centro, Culiacan, Sinaloa, Mexico; Centro Culiacan Ramon Corona Jesus Andrade, Culiacan Rosales, Culiacan, Mexico; Cll Cristobal Colon 275, Culiacan Rosales, Culiacan, Mexico; (Clave Catastral CU-37-740-003) Lote 3, Manzana #18, Zona 1, “El Vallado III”, Culiacan, Sinaloa, Mexico; R.F.C. SRS9903153C5 (Mexico) [SDNTK]

SISTEMAS INTEGRALES DEL VALLE LTDA. (a.k.a. SISVA LTDA.), Avenida 4 Norte No. 6N-67 of. 610, Cali, Colombia; NIT # 805006032-3 (Colombia) [SDNT]

SISTEMAS Y SERVICIOS TECNICOS EMPRESA UNIPERSONAL (a.k.a. SISETEC), Calle 29 Norte No. 6N-43, Cali, Colombia; NIT # 805013420-7 (Colombia) [SDNT]

SIVAKOV, Yury; DOB 5 Aug 1946; POB Onory, Kirov district, Belarus; citizen Belarus; nationality Belarus; former Minister of Sport and Tourism; former Minister of the Interior (individual) [BELARUS]

SIXTH OCEAN; Vessel Registration Identification IMO 9349679 (vessel) [NPWMD]

SLEWA, Roodi (a.k.a. SALIWA, Rudi; a.k.a. SLAIWAH, Rudi; a.k.a. SLAY WAH, Rudi Untaywan); nationality Iraq (individual) [IRAQ2]

SLIZHEVSKY, Oleg Leonidovich (a.k.a. SLIZHEUSKI, Aleh Leanidavich; a.k.a. SLIZHEVSKI, Oleg Leonidovich); citizen Belarus; nationality Belarus; Head of the Public Associations Department, Ministry of Justice (individual) [BELARUS]

SLJIVANCANIN, Veselin; DOB 13 Jun 1953; POB Zabljak, Serbia and Montenegro; ICTY indictee at large (individual) [BALKANS]

SMITH CORTES, Jorge Emilio, c/o MAPRI DE COLOMBIA LTDA., Bogota, Colombia; Cedula No. 19323175 (Colombia); Passport 19323175 (Colombia) (individual) [SDNT]

SNIPER AFRICA (a.k.a. SNIPER OUTDOOR CC; a.k.a. SNIPER OUTDOORS CC; a.k.a. TRUE MOTIVES 1236 CC), 40 Mint Road, Amoka Gardens, Fordsburg, Johannesburg, South Africa; P.O. Box 42928, Fordsburg 2003, South Africa; 16 Gold Street, Carletonville 2500, South Africa; P.O. Box 28215, Kensington 2101, South Africa; Registration ID 200302847123; Tax ID No. 9113562152; Website www.sniperafrica.com [SDGT]

SOCIEDAD COMERCIAL Y DEPORTIVA LTDA., Carrera 34 Diag. 29-86 Estadio Pascual Guerrero, Cali, Colombia; Carrera 34 Diagonal 29 Estadio, Cali, Colombia; Carrera 34 Diag. 29-05, Cali, Colombia; NIT # 800141329-4 (Colombia) [SDNT]

SOCIEDAD CONSTRUCTORA Y ADMINISTRADORA DEL VALLE LTDA. (a.k.a. SOCOVALLE LTDA.), Avenida 2N No. 7N-55 of. 601-602, Cali, Colombia [SDNT]

SOCIEDAD DE COMERCIALIZACION INTERNACIONAL POSEIDON S.A. (f.k.a. C.I. COMERCIALIZADORA INTERNACIONAL POSEIDON S.A.; a.k.a. C.I. POSEIDON S.A.), Calle 79 Sur No. 48B-56, Sabaneta, Antioquia, Colombia; NIT # 800173090-7 (Colombia) [SDNTK]

SOCIEDAD DE NEGOCIOS SAN AGUSTIN LTDA., Factoria La Rivera, La Union, Valle, Colombia; NIT # 800042932-1 (Colombia) [SDNT]

SOCIEDAD INVERSORA EN PROYECTOS DE INTERNET, S.A., Calle Segre 25, 28002 Madrid, Spain [SDNT]

SOCIEDAD MINERA GRIFOS S.A., Carrera 43 No. 1A Sur-29, Medellin, Colombia; Avenida Rodrigo Mira Calle 53 Cras. 49 y 45, El Bagre, Antioquia, Colombia; NIT # 811033869-7 (Colombia) [SDNT]

SOCIEDAD SUPERDEPORTES LTDA., Carrera 10 No. 93A-29, Bogota, Colombia; NIT # 8009712337 (Colombia) [SDNT]

SOCIETA COMMERCIA MINERALI E METTALLI, SRL (a.k.a. SOCOMET, SPA), Milan, Italy [CUBA]

SOE, Myint Myint (a.k.a. SOE, Daw Myint Myint); DOB 15 Jan 1953; wife of Nyan Win (individual) [BURMA]

SOLAQUE SANCHEZ, Alfredo Alfonso, c/o ALFA PHARMA S.A., Bogota, Colombia; c/o PENTA PHARMA DE COLOMBIA S.A., Bogota, Colombia; c/o LABORATORIOS KRESSFOR DE COLOMBIA S.A., Bogota, Colombia; c/o PENTACOOP LTDA., Bogota, Colombia; c/o LABORATORIOS BLAIMAR DE COLOMBIA S.A., Bogota, Colombia; c/o DISTRIBUIDORA DE DROGAS CONDOR LTDA., Bogota, Colombia; DOB 18 Dec 1962; Cedula No. 79261845 (Colombia) (individual) [SDNT]

SOLEIMANI, Qasem (a.k.a. SALIMANI, Qasem; a.k.a. SOLAIMANI, Qasem; a.k.a. SOLEMANI, Qasem; a.k.a. SOLEYMANI, Ghasem; a.k.a. SOLEYMANI, Qasem; a.k.a. SULAIMANI, Qasem; a.k.a. SULAYMAN, Qasmi; a.k.a. SULEMANI, Qasem); DOB 11 Mar 1957; POB Qom, Iran; citizen Iran; nationality Iran; Diplomatic Passport 008827 (Iran) issued 1999 (individual) [NPWMD]

SOLIS HERNANDEZ, Damaris, c/o CAJA SOLIDARIA, Bogota, Colombia; c/o COOMULCOSTA, Barranquilla, Colombia; c/o COPSERVIR LTDA., Bogota, Colombia; Cedula No. 32669869 (Colombia) (individual) [SDNT]

SOLUCIONES COOPERATIVAS, Calle 70 Sur No. 83-88, Bogota, Colombia; Carrera 32 No. 25-71, Bogota, Colombia; Calle 15 No. 4-43 of. 250, Cali, Colombia; NIT # 830118975-5 (Colombia) [SDNT]

SOMALI INTERNATIONAL RELIEF ORGANIZATION, 1806 Riverside Ave., 2nd Floor, Minneapolis, MN [SDGT]

SOMALI INTERNET COMPANY, Mogadishu, Somalia [SDGT]

SOMALI NETWORK AB (a.k.a. SOM NET AB), Hallbybacken 15, Spanga 70, Sweden [SDGT]

SONAR F.M. E.U. DIETER MURRLE (a.k.a. FIESTA STEREO 91.5 F.M.; a.k.a. PRISMA STEREO 89.5 F.M), Calle 43A No. 1-29 Urb. Sta. Maria del Palmar, Palmira, Colombia; Calle 15 Norte No. 6N-34 of. 1003, Cali, Colombia; NIT # 805006273-1 (Colombia) [SDNT]

SONAR F.M. S.A. (f.k.a. COLOR STEREO S.A.; f.k.a. COLOR'S S.A.; f.k.a. RADIO UNIDAS FM S.A.), Calle 15 Norte No. 6N-34 piso 15 Edificio Alcazar, Cali, Colombia; Calle 19N No. 2N-29 piso 10 Sur, Cali, Colombia; NIT # 800163602-5 (Colombia) [SDNT]

SOPTA, Stanko; DOB 4 Feb 1966; POB Duzice, Bosnia-Herzegovina (individual) [BALKANS]

SORAYA Y HAYDEE LTDA., Calle 15 Norte No. 6N-34, Piso 15, Cali, Colombia; NIT # 805000643-6 (Colombia) [SDNT]

SOTO GIL, Yolanda Esthela, c/o FORPRES, S.C., Tijuana, Baja California, Mexico; Padre Mayorga No. 106, Fraccionamiento Las Californias, Tijuana, Baja California, Mexico; c/o DISTRIBUIDORA IMPERIAL DE BAJA CALIFORNIA, S.A. DE C.V., Av. Rio Nazas 1202, Col. Revolucion, Tijuana, Baja California CP 22400, Mexico; DOB 5 Aug 1950; POB Tijuana, Baja California, Mexico; C.U.R.P. SOGY500805MBCTLL15 (Mexico) (individual) [SDNTK]

SOTO GUTIERREZ, Hernan, c/o INVERSIONES ARIO LTDA, Cali, Colombia; Carrera 24E No. 4-116 Oeste, Cali, Colombia; Cedula No. 6079597 (Colombia) (individual) [SDNT]

SOTO PACHECO, Jhonayn, c/o FARMEDIS LTDA., Bogota, Colombia; Cedula No. 7691290 (Colombia) (individual) [SDNT]

SOTO VEGA, Ivonne (a.k.a. SOTO DE GOMEZ, Ivonne; a.k.a. SOTO VEGA DE GOMEZ, Ivonne; a.k.a. “LA PANTERA”), Ave. Las Conchas 643, Colonia Playas de Tijuana Secc. Coronado, Tijuana, Baja California CP 22200, Mexico; Pso. Centenario 9971, Colonia Zona Urbana Rio Tijuana, Tijuana, Baja California CP 22320, Mexico; c/o MULTISERVICIOS SIGLO, S.A. DE C.V., Tijuana, Baja California, Mexico; DOB 22 Oct 1953; alt. DOB 25 Oct 1953; POB Tijuana, Baja California, Mexico; R.F.C. SOVI-531022-QIA (Mexico) (individual) [SDNTK]

SOUTH ISLAND SHIPPING CO. LTD., c/o EMPRESA DE NAVEGACION MAMBISA, Apartado 543, San Ignacio 104, Havana, Cuba [CUBA]

SOUTH ISLANDS (vessel) [CUBA]

SOUTH SHIPPING LINE IRAN (a.k.a. SOUTH SHIPPING LINES IRAN COMPANY), Apt. No. 7, 3rd Floor, No. 2, 4th Alley, Gandi Ave., Tehran, Iran; Qaem Magham Farahani St., Tehran, Iran [NPWMD]

SOUTHBOUND LTD., P.O. Box 398, Suite 52 and 553 Monrovia House, 26 Main Street, Gibraltar, United Kingdom [LIBERIA]

SPASOJEVIC, Dragon, Bosnia and Herzegovina; DOB 5 Jul 1965; National ID No. 050 796 318 3954 (individual) [BALKANS]

SPECKMAN, Jeanine, United Kingdom (individual) [IRAQ2]

SPINNING AND WEAVING CORPORATION, P.O. Box 795, Khartoum, Sudan [SUDAN]

SPITIA VALENCIA LTDA., Calle 9 No. 44-59, Cali, Colombia; NIT # 805006598-1 (Colombia) [SDNT]

SPRING SP FARM, Mashvingo, Zimbabwe [ZIMBABWE]

SRC (a.k.a. SUDAN RAILWAYS CORPORATION), Port Sudan, Sudan; Kosti, Sudan; Khartoum, Sudan; P.O. Box 43, Bara, Sudan; Babanousa, Sudan [SUDAN]

SRDC (a.k.a. SUDAN RURAL DEVELOPMENT COMPANY LIMITED), P.O. Box 2190, Khartoum, Sudan [SUDAN]

STAKIC, Milomir; DOB 19 Jun 1962; POB Maricka, Bosnia-Herzegovina; ICTY indictee (individual) [BALKANS]

STANDWEAR (vessel) [CUBA]

STANDWEAR SHIPPING CO. LTD., c/o EMPRESA DE NAVEGACION MAMBISA, Apartado 543, San Ignacio 104, Havana, Cuba [CUBA]

STANISIC, Jovica; DOB 30 Jul 1950; POB Ratkovo, Serbia and Montenegro; ICTY indictee in Serb custody (individual) [BALKANS]

STANKOVIC, Radovan; DOB 10 Mar 1953; POB Trebica, Bosnia-Herzegovina; ICTY indictee in custody (individual) [BALKANS]

STAR 1 (vessel) [CUBA]

STATE CORPORATION FOR CINEMA, P.O. Box 6028, Khartoum, Sudan [SUDAN]

STATE PEACE AND DEVELOPMENT COUNCIL OF BURMA [BURMA]

STATE TRADING COMPANY (a.k.a. STATE TRADING CORPORATION), P.O. Box 211, Khartoum, Sudan [SUDAN]

STEIGER, Jakob, c/o KOHAS AG, Fribourg, FR, Switzerland; DOB 27 Apr 1941; POB Altstatten, SG, Switzerland (individual) [NPWMD]

STEPANOVIC, Novak; DOB 25 Apr 1966; POB Srebrenica, Bosnia-Herzegovina (individual) [BALKANS]

STERN, Alfred Kaufman, Prague, Czech Republic (individual) [CUBA]

STICHTING AL-AQSA (a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AL-AQSA SPANMAL STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU' ASA AL-AQSA AL-KHAYRIYYA; a.k.a. MU' ASSA SANABIL AL-AQSA AL-KHAYRIYYA; a.k.a. NUSRAT AL-AQSA AL-SHARIF; a.k.a. SANABIL AL-AQSA CHARITABLE FOUNDATION; a.k.a. SWEDISH CHARITABLE AQSA EST.), Gerrit V/D Lindestraat 103 A, 3022 TH, Rotterdam, Netherlands; Gerrit V/D Lindestraat 103 E, 03022 TH, Rotterdam, Netherlands [SDGT]

STICHTING BENEVOLENCE INTERNATIONAL NEDERLAND (a.k.a. BENEVOLENCE INTERNATIONAL NEDERLAND; a.k.a. STG.BENEVOLENCE INTERNATIONAL NEDERLAND), Radeborg 14 B, 6228CV Maastricht, Netherlands; Postbus 1149, 6201BC Maastricht, Netherlands; Registration ID 14063277 [SDGT]

STRONG LINK DE MEXICO, S.A. DE C.V., Flores Magon 8013, Esquina Ninos Heroes, Zona Central, Tijuana, Baja California, Mexico; Avenida C. Flores Magon 8013, Aquiles Serdan y Reforma, Tijuana Centro, Tijuana, Baja California, Mexico; R.F.C. SLM-020812-2F4 (Mexico) [SDNTK]

STRUGAR, Pavle; DOB 13 Jul 1933; POB Pec, Serbia and Montenegro; ICTY indictee (individual) [BALKANS]

SU SERVICIO SOCIEDAD LTDA., Calle 67 No. 47-03, Cartagena, Colombia; Calle 76 No. 45-19 Local 1B, Barranquilla, Colombia; Calle 50 No. 41-84, Barranquilla, Colombia; NIT # 802021041-1 (Colombia) [SDNT]

SU, Lu-Chi (a.k.a. TSAI SU, Lu-Chi), C/O GLOBAL INTERFACE COMPANY INC., Taipei, Taiwan; C/O TRANS MERITS CO. LTD., Taipei, Taiwan; DOB 7 Feb 1950; alt. DOB Nov 1950; POB Yun Lin Hsien, Taiwan; Passport 210215095 (Taiwan); Corporate Officer (individual) [NPWMD]

SUAREZ BERNAL, Myriam, c/o FARMA XXI LTDA., Neiva, Huila, Colombia; DOB 2 Nov 1970; Cedula No. 35414723 (Colombia); Passport 35414723 (Colombia) (individual) [SDNT]

SUAREZ RIANO, Adela, c/o VILLARO LTDA., Bogota, Colombia; Cedula No. 39646144 (Colombia) (individual) [SDNT]

SUBDIVISION 3 OF CALEDON FARM, Caledon, Zimbabwe [ZIMBABWE]

SUBOTIC, Bogdan; DOB 25 Apr 1941; POB Bosanska Gradiska, Bosnia-Herzegovina (individual) [BALKANS]

SUDAN ADVANCED RAILWAYS, Khartoum, Sudan [SUDAN]

SUDAN AIR (a.k.a. SUDAN AIRWAYS), Kuwait; Nigeria; Saudi Arabia; Uganda; United Arab Emirates; Egypt; Ethiopia; Kenya; Greece; P.O. Box 253, Khartoum, Sudan; Italy; Germany; United Kingdom; 199 Atlantic Avenue, Brooklyn, NY 11201-5606; Chad; 211 East 43rd Street, New York, NY 10017; Bahrain [SUDAN]

SUDAN COTTON COMPANY, Khartoum, Sudan [SUDAN]

SUDAN COTTON COMPANY LIMITED, P.O. Box 1672, Khartoum, Sudan [SUDAN]

SUDAN DEVELOPMENT CORPORATION, Street 21, P.O. Box 710, Khartoum, Sudan [SUDAN]

SUDAN EXHIBITION AND FAIRS CORPORATION, P.O. Box 2366, Khartoum, Sudan [SUDAN]

SUDAN GEZIRA BOARD (a.k.a. GEZIRA SCHEME), Khartum Gezira Scheme Building, 39th Street, P.O. Box 884, Khartoum, Sudan [SUDAN]

SUDAN MASTER TECHNOLOGY (a.k.a. GIAD INDUSTRIAL CITY; a.k.a. GIAD INDUSTRIAL GROUP; a.k.a. SUDAN MASTER TECH), SMT Building, Gamhuria Street, GIAD Industrial Complex, P.O. Box 10782, Khartoum, SU001, Sudan; E-mail Address info@sudanmaster.com (Sudan); Website www.sudanmaster.com (Sudan) [SUDAN]

SUDAN NATIONAL BROADCASTING CORPORATION (a.k.a. SUDAN RADIO & TV CORP.; a.k.a. SUDAN T.V. CORPORATION), P.O. Box 1094, Omdurman, Sudan [SUDAN]

SUDAN OIL CORPORATION, P.O. Box 2, Khartoum North, Sudan [SUDAN]

SUDAN OIL SEEDS COMPANY LIMITED, P.O. Box 167, Khartoum, Sudan; Nyala, Sudan; Port Sudan, Sudan; Obied, Sudan; Tandalty, Sudan [SUDAN]

SUDAN SOAP CORPORATION, P.O. Box 23, Khartoum North, Sudan [SUDAN]

SUDAN TEA COMPANY, LTD., P.O. Box 1219, Khartoum, Sudan [SUDAN]

SUDAN TELECOMMUNICATIONS COMPANY LIMITED (a.k.a. SUDATEL), Sudatel Tower, Al Horriya Street, P.O. Box 11155, Khartoum, Sudan; 9th Floor, Sudatel Tower, Nile Street, Khartoum, Sudan; E-mail Address info@sudatel.net (Sudan); Website www.sudatel.net/en (Sudan) [SUDAN]

SUDAN WAREHOUSING COMPANY, P.O. Box 215, Khartoum, Sudan; Juba, Sudan; Kosti, Sudan; Gedarit, Sudan; Sennar, Sudan; Wad Medani, Sudan; P.O. Box 17, Port Sudan, Sudan; El Obeid, Sudan [SUDAN]

SUDANESE COMPANY FOR BUILDING AND CONSTRUCTION LIMITED, P.O. Box 2110, Khartoum, Sudan [SUDAN]

SUDANESE ESTATES BANK, Al-Baladiya Avenue, P.O. Box 309, Khartoum, Sudan [SUDAN]

SUDANESE FREE ZONES AND MARKETS COMPANY (a.k.a. SFZ), Chad; Turkey; United Arab Emirates; Saudi Arabia; P.O. Box 1789, Khartoum, Sudan [SUDAN]

SUDANESE INTERNATIONAL TOURISM COMPANY, C/O TOURISM AND HOTELS CORPORATION, P.O. Box 7104, Khartoum, Sudan [SUDAN]

SUDANESE MINING CORPORATION, P.O. Box 1034, Khartoum, Sudan [SUDAN]

SUDANESE PETROLEUM CORPORATION, 7th Floor, Al Kuwaitiah Building, El Nile Street, Khartoum, Sudan [SUDAN]

SUDANESE REAL ESTATE SERVICES COMPANY, Khartoum, Sudan [SUDAN]

SUDANESE SAVINGS BANK, P.O. Box 159, Wad Medani, Sudan [SUDAN]

SUDANESE SUGAR PRODUCTION COMPANY LIMITED (a.k.a. SUDANESE SUGAR COMPANY), P.O. Box 511, Building No. 3-Block No. 7, Alshatte Gharb-Gammaa Avenue, Khartoum, Sudan; El Gamaa Street (Aljama Street), Opposite the Authority of Electricity Building, P.O. Box 511, Khartoum, Sudan; E-mail Address sukar@sudanmail.net (Sudan) [SUDAN]

SUDAPET LTD. (a.k.a. SUDAN PETROLEUM COMPANY LIMITED; a.k.a. SUDAPET), El Nil Street, Khartoum, Sudan [SUDAN]

SUFAAT, Yazid (a.k.a. BIN SUFAAT, Yazud; a.k.a. SHUFAAT, Yazid); DOB 20 Jan 1964; POB Johor, Malaysia; nationality Malaysia; Passport A10472263 (Malaysia) (individual) [SDGT]

SUGAR AND DISTILLING INDUSTRY CORPORATION (a.k.a. SUGAR AND DISTILLING CORPORATION), New Mustafa El Amin Building, Barlaman Avenue, P.O. Box 511, Khartoum, Sudan [SUDAN]

SUGHAYR, Muhammad 'Abdallah Salih (a.k.a. AL-SAGHIR, Mohd; a.k.a. AL-SUGAIR, Muhammad 'Abdallah Salih; a.k.a. AL-SUGAYER, Muhammad; a.k.a. AL-SUGHAIER, Muhammad 'Abdallah Salih; a.k.a. AL-SUGHAIR, Muhammad 'Abdallah Salih; a.k.a. AL-SUGHAYER, Muhammad 'Abdallah Salih; a.k.a. AL-SUGHAYIR, Muhammad 'Abdallah Salih; a.k.a. AL-SUQAYR, Muhammad 'Abdallah Salih; a.k.a. “ABDULLAH, Abu”; a.k.a. “BAKR, Abu”); DOB 20 Aug 1972; alt. DOB 10 Aug 1972; POB Al-Karawiya, Saudi Arabia; nationality Saudi Arabia (individual) [SDGT]

SUKHARENKA, Stiapan Mikalayevich (a.k.a. SUKHARENKA, Stsiapan Mikalaevich; a.k.a. SUKHARENKA, Stsiapan Mikalayevich; a.k.a. SUKHARENKA, Stsiapan Nikolaevich; a.k.a. SUKHORENKA, Stiapan Nikolaevich; a.k.a. SUKHORENKA, Stepan Mikalaevich; a.k.a. SUKHORENKA, Stepan Mikalayevich; a.k.a. SUKHORENKA, Stepan Nikolaevich; a.k.a. SUKHORENKA, Stiapan Mikalaevich; a.k.a. SUKHORENKO, Stiapan Mikalaevich; a.k.a. SUKHORENKO, Stiapan Mikalayevich; a.k.a. SUKHORENKO, Stiapan Nikolaevich; a.k.a. SUKHORENKO, Stepan Mikalaevich; a.k.a. SUKHORENKO, Stepan Mikalayevich; a.k.a. SUKHORENKO, Stepan Nikolaevich; a.k.a. SUKHORENKO, Stsiapan Mikalaevich; a.k.a. SUKHORENKO, Stsiapan Mikalayevich; a.k.a. SUKHORENKO, Stsiapan Nikolaevich); DOB 27 Jan 1957; POB Zdudichi, Gomel' oblast, Belarus; Chairman of Belarusian KGB (individual) [BELARUS]

SULAIMAN, Mohammed Ibrahim, P.O. Box 3372, Khartoum, Sudan; House Number 27, Block Number 29, Manishia District, Khartoum, Sudan; Secretary General, IARA Headquarters (individual) [SDGT]

SUMA, Emrush; DOB 27 May 1974; POB Dimce, Serbia and Montenegro (individual) [BALKANS]

SUNSET & 97TH HOLDINGS, LLC., 9100 South Dadeland Boulevard, Suite 912, Miami, FL 33156; P.O. Box 51314, Calle 72 No. 6556, Barranquilla, Colombia; 19667 Turnberry Way, Unit 12 G, Miami, FL 33180; 780 NW Le Jeune Road, Suite 516, Miami, FL 33126; 780 NW 42nd Avenue, Suite 516, Miami, FL 33126; US FEIN 260064717 (United States) [SDNT]

SUPER BOYS GAMES LTDA., Carrera 40 No. 168-67, Bogota, Colombia; NIT # 830004047-5 (Colombia) [SDNT]

SUPERGEN LTDA., Calle 39 BIS A No. 27-16 and 27-20, Bogota, Colombia; Calle 53 No. 35A-13 of. 302, Bucaramanga, Colombia; NIT # 804009924-8 (Colombia) [SDNT]

SUPERTIENDAS LA REBAJA, Avenida Colombia No. 2-45, Cali, Colombia; Calle 9, No. 26-98, Cali, Colombia [SDNT]

SUPLIDORA LATINO AMERICANA, S.A. (a.k.a. SUPLILAT, S.A.), Panama City, Panama [CUBA]

SURAMERICANA DE HOTELES LTDA. (a.k.a. SURATEL), Calle 74 No. 53-30, Barranquilla, Colombia; NIT # 800011603-0 (Colombia) [SDNT]

SURAQIYA FOR MEDIA AND BROADCASTING (a.k.a. SBC TELEVISION; a.k.a. SBC TV; a.k.a. SORAQIA FOR MEDIA AND BROADCASTING; a.k.a. SORAQIYA FOR MEDIA AND BROADCASTING), Al Sufara' Street in the Ya'fur district, Damascus, Syria [IRAQ3]

SWE, Myint; DOB 24 Jun 1951; citizen Burma; nationality Burma; Lieutenant-General; Chief of Military Affairs Security (individual) [BURMA]

SWEDAN, Sheikh Ahmed Salim (a.k.a. AHMED THE TALL; a.k.a. ALLY, Ahmed; a.k.a. BAHAMAD; a.k.a. BAHAMAD, Sheik; a.k.a. BAHAMADI, Sheikh; a.k.a. SUWEIDAN, Sheikh Ahmad Salem; a.k.a. SWEDAN, Sheikh; a.k.a. SWEDAN, Sheikh Ahmed Salem); DOB 9 Apr 1969; alt. DOB 9 Apr 1960; POB Mombasa, Kenya; citizen Kenya (individual) [SDGT]

SWIFT INVESTMENTS (PVT) LTD., P.O. Box 3928, Harare, Zimbabwe; 730 Cowie Road, Tynwald, Harare, Zimbabwe [ZIMBABWE]

SYAWAL, Yassin (a.k.a. ABU MUAMAR; a.k.a. MOCHTAR, Yasin Mahmud; a.k.a. MUBAROK, Muhamad; a.k.a. SYAWAL, Muhammad; a.k.a. YASIN, Abdul Hadi; a.k.a. YASIN, Salim; a.k.a. “ABU SETA”; a.k.a. “MAHMUD”); DOB circa 1972; nationality Indonesia (individual) [SDGT]

SYLA, Azem; DOB 5 Apr 1951; POB Serbia and Montenegro (individual) [BALKANS]

SYRIATEL (a.k.a. SYRIATEL MOBILE; a.k.a. SYRIATEL MOBILE TELECOM; a.k.a. SYRIATEL MOBILE TELECOM SA), Doctors Syndicate Building, Al Jalaa Street, Abu Roumaneh Area, PO Box 2900, Damascus, Syria [SYRIA]

T N K FABRICS LIMITED, United Kingdom [IRAQ2]

T.E.G. LIMITED, 3 Mandeville Place, London, United Kingdom [IRAQ2]

T.H. ALZATE Y CIA. S.C.S., Calle 16 Norte No. 9N-41, Cali, Colombia; NIT # 805008972-0 (Colombia) [SDNT]

T.M.G. ENGINEERING LIMITED, Castle Row, Horticultural Place, Chiswick, London, United Kingdom [IRAQ2]

TABARES BEDOYA, Carlos Eduardo, c/o CHAMARTIN S.A., Cali, Colombia; c/o ADMINISTRADORA DE SERVICIOS VARIOS CALIMA S.A., Cali, Colombia; c/o ASISTENCIA PROFESIONAL ESPECIALIZADA EN COLOMBIA LIMITADA, Cali, Colombia; DOB 10 Sep 1970; Cedula No. 16791397 (Colombia); Passport 16791397 (Colombia) (individual) [SDNT]

TABRAH, Asil Sami Mohamad Madhi (a.k.a. TABRA, Asil); DOB 19 Jun 1964; nationality Iraq (individual) [IRAQ2]

TADIC, Dusan 'Dusko' (a.k.a. 'DULE'); DOB 1956; POB Cajnice, Bosnia-Herzegovina; ICTY indictee (individual) [BALKANS]

TADIC, Miroslav; DOB 12 May 1937; POB Novi Grad, Bosnia-Herzegovina; ICTY indictee (individual) [BALKANS]

TAHA, Khalil Ibrahim Mohamed Achar Foudail (a.k.a. IBRAHIM, Khalil; a.k.a. MOHAMED, Khalil Ibrahim); DOB 15 Jun 1958; POB El Fasher, Sudan; alt. POB Al Fashir, Sudan; nationality Sudan; National Foreign ID Number 4203016171 (France) issued 20 Feb 2004; Registration ID 0179427 (France); Chairman, Justice and Equality Movement; Co-founder, National Redemption Front (individual) [DARFUR]

TAHEER PERFUMERY CORPORATION, P.O. Box 2241, Khartoum, Sudan [SUDAN]

TAHIR, Buhary Seyed Abu; DOB 17 Apr 1959; POB Chennai, India; nationality Sri Lanka; Passport M1754102 (Sri Lanka) issued 16 Mar 1999 expires 16 Mar 2004; alt. Passport M2068357 (Sri Lanka) issued 4 Sep 2001 expires Sep 2006 (individual) [NPWMD]

TAHREER PERFUMERY CORPORATION, EL,, Omdurman, Sudan [SUDAN]

TAIBAH INTERNATIONAL: BOSNIA BRANCH (a.k.a. AL TAIBAH, INTL.; a.k.a. TAIBAH INTERNATIONAL AID AGENCY; a.k.a. TAIBAH INTERNATIONAL AID ASSOCIATION; a.k.a. TAIBAH INTERNATIONAL AIDE ASSOCIATION), No. 26 Tahbanksa Ulica, Sarajevo, Bosnia and Herzegovina; Avde Smajlovic 6, Sarajevo, Bosnia and Herzegovina [SDGT]

TALIBAN (a.k.a. ISLAMIC MOVEMENT OF TALIBAN; a.k.a. TAHRIKE ISLAMI'A TALIBAN; a.k.a. TALEBAN; a.k.a. TALIBAN ISLAMIC MOVEMENT; a.k.a. TALIBANO ISLAMI TAHRIK), Afghanistan [SDGT]

TALIC, Momir; DOB 15 Jul 1942; POB Piskavica, Bosnia-Herzegovina; ICTY indictee (individual) [BALKANS]

TALL, Aktham, P.O. Box 1318, Amman, Jordan (individual) [IRAQ2]

TALLER DE REPARACIONES DE AERODINOS SUS PARTES Y SERVICIOS AEREOS S.A. (a.k.a. TRAPSA), Avenida Aviacion 650, Tarapoto, San Martin, Peru; RUC # 20104242244 (Peru) [SDNTK]

TALLER DE REPARACIONES NAVALES, S.A. (a.k.a. TARENA, S.A.), Panama City, Panama [CUBA]

TAMAS COMPANY (a.k.a. NUCLEAR FUEL PRODUCTION COMPANY; a.k.a. TAMAS), No. 84, 20th Street, Northern Kargar Avenue, Tehran 10000, Iran [NPWMD]

TAMIL FOUNDATION, 517 E. Oldtown Road, Cumberland, MD 21502; Tax ID No. 52-1699409 (United States) [SDGT]

TAMILS REHABILITATION ORGANISATION (a.k.a. ORGANISATION DE REHABILITATION TAMOULE; a.k.a. ORGANISATION PRE LA REHABILITATION TAMIL; a.k.a. ORGANIZZAZIONE PER LA RIABILITAZIONE DEI TAMIL; a.k.a. ORT FRANCE; a.k.a. TAMIL REHABILITATION ORGANIZATION; a.k.a. TAMIL REHABILITERINGS ORGANISASJONEN; a.k.a. TAMILISCHE REHABILITATION ORGANISATION; a.k.a. TAMILS REHABILITATION ORGANIZATION; a.k.a. TAMILSK REHABILITERINGS ORGANISASJON; a.k.a. TRO; a.k.a. TRO DANMARK; a.k.a. TRO ITALIA; a.k.a. TRO NORGE; a.k.a. TRO SCHWEIZ; a.k.a. TSUNAMI RELIEF FUND—COLOMBO, SRI LANKA; a.k.a. WHITE PIGEON; a.k.a. WHITEPIGEON), No. 69 Kalikovil Road, Kurumankadu, Vavuniya, Sri Lanka; 1079 Garratt Lane, London SW17 0LN, United Kingdom; Postfach 2018, Emmenbrucke 6021, Switzerland; Via Dante 210, Palermo 90141, Italy; Paranthan Road, Kaiveli Puthukkudiyiruppu, Mullaitivu, Sri Lanka; 75/4 Barnes Place, Colombo 7, Sri Lanka; Kandasamy Koviladi, Kandy Road (A9 Road), Kilinochchi, Sri Lanka; P.O. Box 4742, Sofienberg, Oslo 0506, Norway; Voelklinger Str. 8, Wuppertal 42285, Germany; Box 4254, Knox City, VIC 3152, Australia; Address Unknown, Finland; Address Unknown, Belgium; 26 Rue du Departement, Paris 75018, France; P.O. Box 212, Vejile 7100, Denmark; 254 Jaffna Road, Kilinochchi, Sri Lanka; No. 6 Jalan 6/2, Petaling Jaya 46000, Malaysia; Arasaditivu Kokkadicholai, Batticaloa, Sri Lanka; 9/1 Saradha Street, Trincomalee, Sri Lanka; Ananthapuram, Kilinochchi, Sri Lanka; 371 Dominion Road, Mt. Eden, Aukland, New Zealand; 356 Barkers Road, Hawthorn, Victoria 3122, Australia; Langelinie 2A, St, TV 1079, Vejile 7100, Denmark; 410/112 Buller Street, Buddhaloga Mawatha, Colombo 7, Sri Lanka; 517 Old Town Road, Cumberland, MD 21502; Address Unknown, Durban, South Africa; Box 44, Tumba 147 21, Sweden; 8 Gemini—CRT, Wheelers Hill 3150, Australia; P.O. Box 82, Herning 7400, Denmark; Address Unknown, Vaharai, Sri Lanka; No. 9 Main Street, Mannar, Sri Lanka; 410/412 Bullers Road, Colombo 7, Sri Lanka; P.O. Box 10267, Dominion Road, Aukland, New Zealand; Gruttolaan 45, BM landgraaf 6373, Netherlands; Tribschenstri, 51, Lucerne 6005, Switzerland; Ragama Road, Akkaraipattu-07, Amparai, Sri Lanka; Warburgstr. 15, Wuppertal 42285, Germany; M.G.R. Lemmens, str-09, BM Landgraff 6373, Netherlands; 2390 Eglington Avenue East, Suite 203A, Toronto, Ontario M1K 2P5, Canada; Registration ID D4025482 (United States); alt. Registration ID 1107434 (United Kingdom); alt. Registration ID 50706 (Sri Lanka); alt. Registration ID 802401-0962 (Sweden); alt. Registration ID 6205 (Australia); Tax ID No. 52-1943868 (United States) [SDGT]

TAMMANY H (f.k.a. PRIMROSE ISLANDS) (vessel) [CUBA]

TANCHON COMMERCIAL BANK (f.k.a. CHANGGWANG CREDIT BANK; f.k.a. KOREA CHANGGWANG CREDIT BANK), Saemul 1-Dong Pyongchon District, Pyongyang, Korea, North [NPWMD]

TAPIA ORTEGA, Abigail (a.k.a. TAPIA ORTEGA DE ARRIOLA, Abigail), c/o GASOLINERAS SAN FERNANDO S.A. DE C.V., Saucillo, Mexico; Avenida Novena No. 47, Saucillo, Chihuahua, Mexico; DOB 23 Sep 1974; POB Mexico City, Mexico; citizen Mexico; nationality Mexico (individual) [SDNTK]

TARABAIN CHAMAS, Mohamad (a.k.a. CHAMS, Mohamad; a.k.a. TARABAY, Muhammad; a.k.a. TARABAYN SHAMAS, Muhammad), Avenida Jose Maria De Brito 606, Apartment 51, Foz do Iguacu, Brazil; Cecilia Meirelles 849, Bloco B, Apartment 09, Foz do Iguacu, Brazil; DOB 11 Jan 1967; POB Asuncion, Paraguay; citizen Lebanon; alt. citizen Paraguay; alt. citizen Brazil; National Foreign ID Number RNE: W031645-8 (Brazil) (individual) [SDGT]

TARIQ ABU SHANAB EST. FOR TRADE & COMMERCE (a.k.a. ABU SHANAB METALS ESTABLISHMENT; a.k.a. AMIN ABU SHANAB & SONS CO.; a.k.a. SHANAB METALS ESTABLISHMENT; a.k.a. TARIQ ABU SHANAB EST.; a.k.a. TARIQ ABU SHANAB METALS ESTABLISHMENT), Musherfeh, P.O. Box 766, Zarka, Jordan [IRAQ2]

TARRITOS S.A., Calle 23 BN No. 5N-37, Ofc. 202, Cali, Colombia; NIT # 805028114-3 (Colombia) [SDNT]

TAURA S.A., Calle 13 No. 68-26, Of. 214, 313 & 314, Cali, Colombia; Calle 13 No. 68-06, Of. 204, Cali, Colombia; Carrera 115 No. 16B-121, Cali, Colombia; NIT # 800183713-1 (Colombia) [SDNT]

TAVEESIN, Nalinee (a.k.a. TAVEESIN, Nalinee Joy; a.k.a. TAWEESIN, NALINEE), 19-8 Soi Passana 3, Sukhumvit Road, Pakanong Nua, Wattana, Bangkok 10110, Thailand; 33 Soi Soonvijai 4, Rama IX Road, Soi 26, Success Tower, Huai Khwang, Bang Kapi, Bangkok 10320, Thailand; 33 Soi Soonwichai 4 Bangkapi, Huaykhwang, Bangkok 10310, Thailand; 14th Floor of Modern Tower, Tower 87/110 Sukhumvit 63, Wattana, Bangkok 10110, Thailand; DOB 12 Feb 1960; citizen Thailand; nationality Thailand; Passport Z066420 (Thailand); Managing Director (individual) [ZIMBABWE]

TAWENGWA, Solomon; DOB 15 Jun 1940; Former Executive Mayor of Harare; Deceased (individual) [ZIMBABWE]

TAYLOR, Charles (Junior) (a.k.a. “CHUCKIE”); DOB 12 FEB 1978; Advisor and son of former President of Liberia Charles Taylor (individual) [LIBERIA]

TAYLOR, Charles Ghankay (a.k.a. SOME, Jean-Paul; a.k.a. SONE, Jean-Paul; a.k.a. TAYLOR, Charles MacArthur); DOB 1 Sep 1947; Former President of Liberia (individual) [LIBERIA]

TAYLOR, Jewell Howard; DOB 17 JAN 1963; Wife of former President of Liberia Charles Taylor (individual) [LIBERIA]

TAYLOR, Tupee Enid; DOB 17 DEC 1962; Ex-wife of former President of Liberia Charles Taylor (individual) [LIBERIA]

TEA PACKETING AND TRADING COMPANY, P.O. Box 369, Khartoum, Sudan [SUDAN]

TECHNIC DIGEMEX CORP., Calle 34 No. 4-50, Office 301, Panama City, Panama [CUBA]

TECHNIC HOLDING INC., Calle 34 No. 4-50, Office 301, Panama City, Panama [CUBA]

TECHNOLOGY AND DEVELOPMENT GROUP LTD (a.k.a. T.D.G.), Centric House 390/391, Strand, London, United Kingdom [IRAQ2]

TECNICAS CONTABLES Y ADMINISTRATIVAS (a.k.a. TECONTA), Carrera 3 No. 11-32 of. 939, Cali, Colombia; Cedula No. 16242828 (Colombia) [SDNT]

TECNOLOGIA DIGITAL Y SERVICIOS, S.A. DE C.V., Blv. Agua Caliente No. 221, Col. Centro Zona Este, Tijuana, Baja California, Mexico; Blv. Agua Caliente No. 21, Col. Aviacion, Tijuana, Baja California, Mexico; R.F.C. TDS021031UD6 (Mexico) [SDNTK]

TECNOVET LTDA.TECNICAS VETERINARIAS TECNOVET LTDA. (a.k.a. TECNOVET LTDA.), Carrera 13 No. 13-41, Bogota, Colombia; NIT # 830092117-8 (Colombia) [SDNT]

TEEN; Vessel Registration Identification IMO 9101649 (vessel) [NPWMD]

TEJAR LA MOJOSA S.A., Transversal 13 No. 20C-35, Caucasia, Antioquia, Colombia; Corregimiento Piemonte, Vereda la Mojosa, Caceres, Antioquia, Colombia; NIT # 900110438-9 (Colombia) [SDNT]

TEMIS SHIPPING CO., Panama [CUBA]

TEMPLE DEL PITIC S.A. DE C.V. (f.k.a. CORPORATIVO GAXIOLA HERMANOS S.A. DE C.V.), Avenida Angel Garcia Aburto #62, Colonia Loma Linda, Hermosillo, Sonora, Mexico; Colonizadores No. 83D, Colonia Las Quintas, Esq. Quintas de las Aves, Hermosillo, Sonora 83240, Mexico; Blvd. Francisco Eusebio Kino 177-7, Col. 5 de Mayo, Hermosillo, Sonora 83010, Mexico; Blvd Rodriguez 108, Col Centro, Hermosillo, Sonora, Mexico; R.F.C. CGH960503DL9 (Mexico); d.b.a. “ANARQUIA PAINTBALL” [SDNTK]

TENTH OCEAN; Vessel Registration Identification IMO 9165815 (vessel) [NPWMD]

TEPHYS (f.k.a. PAMIT C) (vessel) [CUBA]

TERAPIAS VETERINARIA LIMITADA (a.k.a. TERVET LTDA.), Calle 39 BIS A No. 27-16, Bogota, Colombia; NIT # 830068307-1 (Colombia) [SDNT]

TERMINADOS BASICOS DE TIJUANA, S. DE R.L. DE C.V., Lago Chapultepec, 90 Lago, Laguna de los Terminos y Lago Chalco, Tijuana, Baja California, Mexico; R.F.C. TBT-030115-AUA (Mexico) [SDNTK]

TET KHAM (S) PTE. LTD., 6 Loyang Way 1 508704, Singapore; Registration ID 200004646G (Singapore) issued 29 May 2000 [SDNTK]

TET KHAM CONSTRUCTION COMPANY LIMITED, No. 7, Corner of Inya Road & Oo Yin Street, Kamayut Township, Yangon, Burma; Pyinmana Taung Twin Road, Let Pan Khar Village, Pyinmanar, Mandalay, Burma [SDNTK]

TET KHAM GEMS CO., LTD., No. 7 Inya Road & Oo Yin Street, Kamayut Township, Yangon, Burma [SDNTK]

TEYREBAZEN AZADIYA KURDISTAN (a.k.a. KURDISTAN FREEDOM HAWKS; a.k.a. THE FREEDOM HAWKS OF KURDISTAN; a.k.a. “TAK”) [SDGT]

THA, Soe, Burma; DOB 1945; citizen Burma; nationality Burma; Minister of National Planning and Economic Development (individual) [BURMA]

THACI, Menduh; DOB 3 Mar 1965; POB Tetovo, Macedonia (individual) [BALKANS]

THAER, Mansour; DOB 21 Mar 1974; POB Baghdad, Iraq (individual) [SDGT]

THAUNG (a.k.a. THAUNG, U), Burma; DOB 6 Jul 1937; citizen Burma; nationality Burma; Minister of Labor; Minister of Science & Technology (individual) [BURMA]

THE AID ORGANIZATION OF THE ULEMA (a.k.a. AL RASHEED TRUST; a.k.a. AL RASHID TRUST; a.k.a. AL-RASHEED TRUST; a.k.a. AL-RASHID TRUST), Office Dha'rb-i-M'unin, Room no. 3, Third Floor, Moti Plaza, near Liaquat Bagh, Murree Road, Rawalpindi, Pakistan; Office Dha'rb-i-M'unin, Top Floor, Dr. Dawa Khan Dental Clinic Surgeon, Main Baxar, Mingora, Swat, Pakistan; Office Dha'rb-i-M'unin, Z.R. Brothers, Katchehry Road, Chowk Yadgaar, Peshawar, Pakistan; 617 Clifton Center, Block 5, 6th Floor, Clifton, Karachi, Pakistan; 302b-40, Good Earth Court, Opposite Pia Planitarium, Block 13a, Gulshan -I Iqbal, Karachi, Pakistan; Kitab Ghar, Darul Ifta Wal Irshad, Nazimabad No. 4, Karachi, Pakistan; Office Dha'rb-i-M'unin, opposite Khyber Bank, Abbottabad Road, Mansehra, Pakistan; 605 Landmark Plaza, 11 Chundrigar Road, Opposite Jang Building, Karachi, Pakistan; Jamia Masjid, Sulaiman Park, Begum Pura, Lahore, Pakistan; Operations in Afghanistan: Herat, Jalalabad, Kabul, Kandahar, Mazar Sharif; Also operations in: Kosovo,Chechnya [SDGT]

THE ISLAMIC INTERNATIONAL BRIGADE (a.k.a. INTERNATIONAL BATTALION; a.k.a. ISLAMIC PEACEKEEPING INTERNATIONAL BRIGADE; a.k.a. PEACEKEEPING BATTALION; a.k.a. THE INTERNATIONAL BRIGADE; a.k.a. THE ISLAMIC PEACEKEEPING ARMY; a.k.a. THE ISLAMIC PEACEKEEPING BRIGADE) [SDGT]

THE RIYADUS-SALIKHIN RECONNAISSANCE AND SABOTAGE BATTALION OF CHECHEN MARTYRS (a.k.a. RIYADH-AS-SALIHEEN; a.k.a. RIYADUS-SALIKHIN RECONNAISSANCE AND SABOTAGE BATTALION; a.k.a. RIYADUS-SALIKHIN RECONNAISSANCE AND SABOTAGE BATTALION OF SHAHIDS (MARTYRS); a.k.a. THE SABOTAGE AND MILITARY SURVEILLANCE GROUP OF THE RIYADH AL-SALIHIN MARTYRS) [SDGT]

THE SPECIAL PURPOSE ISLAMIC REGIMENT (a.k.a. ISLAMIC REGIMENT OF SPECIAL MEANING; a.k.a. THE AL-JIHAD-FISI-SABILILAH SPECIAL ISLAMIC REGIMENT; a.k.a. THE ISLAMIC SPECIAL PURPOSE REGIMENT) [SDGT]

THEIN, Tin Naing, Burma; DOB 1955; citizen Burma; nationality Burma; Brigadier General, Minister of Commerce (individual) [BURMA]

THEIN, U Kyaw, 503 Sembawang Road, #02-29 757707, Singapore; DOB 25 Oct 1947; citizen Burma; nationality Burma; National ID No. S2733659J (Singapore) issued 7 Jul 2005; permanent resident Singapore; c/o Air Bagan Holdings Pte. Ltd.; c/o Htoo Wood Products Pte. Ltd.; c/o Pavo Aircraft Leasing Pte. Ltd.; c/o Pavo Trading Pte. Ltd.; permanent resident Singapore (individual) [BURMA]

THET, Khin Lay (a.k.a. THET, Daw Khin Lay); DOB 19 Jun 1947; wife of Thura Shwe Mann (individual) [BURMA]

THET, Naing Win (a.k.a. “THET NAING WIN”), c/o TET KHAM CONSTRUCTION COMPANY LIMITED, Mandalay, Burma; Passport 944168 (Burma) (individual) [SDNTK]

THI, Lun; DOB 18 Jul 1940; citizen Burma; nationality Burma; Brigadier-General; Minister of Energy (individual) [BURMA]

THIHA (a.k.a. THI HA); DOB 24 Jun 1960; c/o Htoo Group of Companies; c/o Htoo Trading Company Limited (individual) [BURMA]

TIFON (vessel) [CUBA]

TIGRIS TRADING, INC., 5903 Harper Road, Solon; 2 Stratford Place, London W1N 9AE, United Kingdom [IRAQ2]

TILFAH, Sajida Khayrallah; DOB 1937; POB Al-Awja, near Tikrit, Iraq; nationality Iraq; wife of Saddam Hussein al-Tikriti (individual) [IRAQ2]

TIMPANI LTD (a.k.a. TIMPANI EXPORT LTD; a.k.a. TIMPANI LIMITED), Moorgate House, King Street, Newton Abbot, Devon TQ12 2LG, United Kingdom; Falcon Cliff, Palace Road, Douglas, Isle of Man, Man, Isle of; Mapstone House, Mapstone Hill, Lustleigh, Newton Abbot, Devon TQ13 9SE, United Kingdom; Business Registration Document # 3547414 (United Kingdom) [ZIMBABWE]

TING SHING TAI JEWELLERY (HK) CO. LIMITED (a.k.a. PO YING JEWELLERY (HK) CO. LIMITED), Room 3605 36/F Wu Chung House, 213 Queens Road East, Wan Chai, Hong Kong; Business Registration Document # 32369313 (Hong Kong); Certificate of Incorporation Number 784702 (Hong Kong) [SDNTK]

TIRADO DIAZ, Luis Alfonso, c/o PRODUCTOS FARMACEUTICOS COLLINS, S.A. DE C.V., Zapopan, Jalisco, Mexico; DOB 20 Jul 1968; POB Jalisco, Mexico; citizen Mexico; nationality Mexico; C.U.R.P. TIDL680720HJCRZS04 (Mexico) (individual) [SDNTK]

TIRADO DIAZ, Rolando, c/o PRODUCTOS FARMACEUTICOS COLLINS, S.A. DE C.V., Zapopan, Jalisco, Mexico; DOB 28 Mar 1971; POB Jalisco, Mexico; citizen Mexico; nationality Mexico; C.U.R.P. TIDR710328HJCRZL02 (Mexico) (individual) [SDNTK]

TIRADO ESCAMILLA, Telesforo Baltazar (a.k.a. TIRADO ESCAMILLA, Telesforo Baltasar; a.k.a. TIRADO MARTINEZ, Baltazar), c/o PRODUCTOS FARMACEUTICOS COLLINS, S.A. DE C.V., Zapopan, Jalisco, Mexico; Maya 3290, Guadalajara, Jalisco, Mexico; Rinconada Del Tulipan 3485, Guadalajara, Jalisco, Mexico; Calle Mallas 3278, Guadalajara, Jalisco, Mexico; DOB 10 Jan 1939; alt. DOB 09 Jan 1939; POB Nayarit, Mexico; citizen Mexico; nationality Mexico; C.U.R.P. TIET390110HNTRSL04 (Mexico) (individual) [SDNTK]

TITOS BOLO CLUB, Carrera 51B No. 94-110, Barranquilla, Colombia; NIT # 890108148-6 (Colombia) [SDNT]

TLILI, Al-Azhar Ben Ammar Ben Abadallah, Via Carlo Porta n.97, Legnano, Italy; DOB 26 Mar 1969; POB Tunis, Tunisia; Italian Fiscal Code TLLLHR69C26Z352G (individual) [SDGT]

TOBOGON, Avenida Guadalupe con Avenida Simon Bolivar, Cali, Colombia [SDNT]

TODOBOLSAS Y COLSOBRES (f.k.a. RODRIGUEZ CARRENO LTDA. TODO BOLSAS Y COLSOBRES), Carrera 20 No. 66-34, Bogota, Colombia; NIT # 860053774-1 (Colombia) [SDNT]

TODOROVIC, Stevan; DOB 29 Dec 1957; POB Donja Slatina, Bosnia-Herzegovina; ICTY indictee (individual) [BALKANS]

TODOVIC, Savo; DOB 11 Dec 1952; POB Rijeka, Bosnia-Herzegovina; ICTY indictee (individual) [BALKANS]

TOLEDO CARREJO, Luis Raul, c/o Distribuidora Imperial De Baja California, S.A. de C.V., Tijuana, Baja California, Mexico; Ave. Xavier Villaurrutia 9950, Colonia Zona Urbana Rio, Tijuana, Baja California, Mexico; Ave. Queretaro 2984, Colonia Francisco I. Madero, Tijuana, Baja California, Mexico; Calle De Los Olivos 10549, Colonia Jardines de Chapultepec, Tijuana, Baja California, Mexico; c/o Farmacia Vida Suprema, S.A. DE C.V., Tijuana, Baja California, Mexico; c/o Administradora De Imuebles Vida, S.A. DE C.V., Tijuana, Baja California, Mexico; DOB 30 Jan 1959; POB Guadalajara, Jalisco, Mexico (individual) [SDNTK]

TOLEDO, R.F., 20 Ironmonger Lane, London EC2V 8EF, United Kingdom; Managing Director, Havana International Bank (individual) [CUBA]

TONCEL REDONDO, Milton De Jesus (a.k.a. “EL NEGRO”; a.k.a. “JOAQUIN GOMEZ”; a.k.a. “ORO CHURCO”; a.k.a. “USURRIAGA”); DOB 18 Mar 1947; alt. DOB Feb 1949; POB Barrancas, La Guajira, Colombia; alt. POB Ubita, Boyaca, Colombia; Cedula No. 15237742 (Colombia); alt. Cedula No. 70753211 (Colombia) (individual) [SDNTK]

TOP, Noordin Mohamed (a.k.a. MAT TOP, Noordin; a.k.a. THOB, Noordin Mohammad; a.k.a. TOP, Noor Din bin Mohamed; a.k.a. TOP, Nordin Mohd); DOB 11 Aug 1968; POB Malaysia; nationality Malaysia (individual) [SDGT]

TORRES CORTES, Joselin, c/o AUREAL INMOBILIARIA LTDA., Bogota, Colombia; DOB 26 Jul 1957; Cedula No. 19482747 (Colombia) (individual) [SDNT]

TORRES CUETER, Guillermo Enrique (a.k.a. “JULIAN CONRADO”); DOB 17 Aug 1954; POB Turbaco, Bolivar, Colombia; citizen Colombia; nationality Colombia; Cedula No. 9281858 (Colombia) (individual) [SDNTK]

TORRES FELIX, Javier (a.k.a. FELIX TORRES, Javier; a.k.a. TAMAYO TORRES, Horacio; a.k.a. “COMPADRE”; a.k.a. “EL JT”), Calle Paseo La Cuesta # 1550, Apt 6, Colonia Lomas De Guadalupe, Culiacan Rosales, Sinaloa, Mexico; DOB 19 Oct 1960; POB Mexico; citizen Mexico; nationality Mexico (individual) [SDNTK]

TORRES LOZANO, Isolina, c/o LABORATORIOS BLAIMAR DE COLOMBIA S.A., Bogota, Colombia; c/o COSMEPOP, Bogota, Colombia; DOB 11 Mar 1963; Cedula No. 28796392 (Colombia) (individual) [SDNT]

TORRES MORENO, Marisol, c/o PROVIDA E.U., Cali, Colombia; DOB 10 May 1969; Cedula No. 31992583 (Colombia); Passport 31992583 (Colombia) (individual) [SDNT]

TORRES RAMIREZ, Federico Carlos, c/o MULTICAJA DE TIJUANA, S.A. DE C.V.,, Tijuana, Baja California, Mexico; Carillo Puerto, Calle 8317 2, Zona Central, Tijuana, Baja California, Mexico; c/o STRONG LINK DE MEXICO, S.A. DE C.V., Tijuana, Baja California, Mexico; DOB 11 Apr 1959; POB Zacatecas, Mexico; citizen Mexico; nationality Mexico; C.U.R.P. TORF591104HZSRMD07 (Mexico); R.F.C. TORF-591104-SA7 (Mexico) (individual) [SDNTK]

TORRES REINA, Oscar Javier, c/o COOPERATIVA DE TRABAJO ASOCIADO ACTIVAR, Bogota, Colombia; c/o COOPCREAR, Bogota, Colombia; c/o COOPERATIVA MULTIACTIVA DE COLOMBIA FOMENTAMOS, Bogota, Colombia; DOB 2 Jan 1978; Cedula No. 79886044 (Colombia); Passport 79886044 (Colombia) (individual) [SDNT]

TORRES VICTORIA, Jorge (a.k.a. “PABLO CATATUMBO”); DOB 19 Mar 1953; POB Cali, Valle, Colombia; Cedula No. 14990220 (Colombia) (individual) [SDNTK]

TORRES, Ana Leonor (a.k.a. “CATA”; a.k.a. “CATALINA”; a.k.a. “JULIANA”; a.k.a. “MARIA”), Colombia; DOB 05 Sep 1961; POB Puerto Lopez, Meta, Colombia; citizen Colombia; nationality Colombia; Cedula No. 21243624 (Colombia) (individual) [SDNTK]

TORRES, Manuel, Federico Boyd Avenue & 51 Street, Panama City, Panama; Representative, Banco Nacional de Cuba (individual) [CUBA]

TOSCO GARCIA, Arnaldo, Panama (individual) [CUBA]

TOSONG TECHNOLOGY TRADING CORPORATION, Pyongyang, Korea, North [NPWMD]

TOUR & MARKETING INTERNATIONAL LTD. (a.k.a. GO CUBA PLUS; a.k.a. T&M INTERNATIONAL LTD.; a.k.a. WWW.ABOUTCUBA.COM; a.k.a. WWW.BONJOURCUBA.COM; a.k.a. WWW.CIAOCUBA.COM; a.k.a. WWW.CIGARSSUPERSTORE.COM; a.k.a. WWW.CUBAADVICE.COM; a.k.a. WWW.CUBA-BARACOA.COM; a.k.a. WWW.CUBA-BAYAMO.COM; a.k.a. WWW.CUBA-CAMAGUEY.COM; a.k.a. WWW.CUBA-CAYOCOCO.COM; a.k.a. WWW.CUBA-CAYOGUILLERMO.COM; a.k.a. WWW.CUBA-CAYOLARGO.COM; a.k.a. WWW.CUBA-CAYOLEVISA.COM; a.k.a. WWW.CUBA-CAYOSABINAL.COM; a.k.a. WWW.CUBA-CAYOSAETIA.COM; a.k.a. WWW.CUBA-CAYOSANTAMARIA.COM; a.k.a. WWW.CUBA-CHE.COM; a.k.a. WWW.CUBA-CIEGODEAVILA.COM; a.k.a. WWW.CUBA-CIENFUEGOS.COM; a.k.a. WWW.CUBA-ECOTOURISM.COM; a.k.a. WWW.CUBA-ELGUEA.COM; a.k.a. WWW.CUBAFIRST.COM; a.k.a. WWW.CUBAFUN.COM; a.k.a. WWW.CUBA-GIRON.COM; a.k.a. WWW.CUBA-GRANMA.COM; a.k.a. WWW.CUBA-GUAMA.COM; a.k.a. WWW.CUBA-GUARDALAVACA.COM; a.k.a. WWW.CUBA-HAVANACITY.COM; a.k.a. WWW.CUBA-HEMINGWAY.COM; a.k.a. WWW.CUBA-HOLGUIN.COM; a.k.a. WWW.CUBA-ISLADELAJUVENTUD.COM; a.k.a. WWW.CUBA-JARDINESDELEREY.COM; a.k.a. WWW.CUBA-LAHABANA.COM; a.k.a. WWW.CUBA-LASTUNAS.COM; a.k.a. WWW.CUBA-MATANZAS.COM; a.k.a. WWW.CUBANBASEBALLTRAVEL.COM; a.k.a. WWW.CUBANCULTURE.COM; a.k.a. WWW.CUBA-OLDHAVANA.COM; a.k.a. WWW.CUBAONE.COM; a.k.a. WWW.CUBA-PINARDELRIO.COM; a.k.a. WWW.CUBA-SANCTISPIRITUS.COM; a.k.a. WWW.CUBA-SANTALUCIA.COM; a.k.a. WWW.CUBA-SANTIAGODECUBA.COM; a.k.a. WWW.CUBA-SHOPPING.COM; a.k.a. WWW.CUBA-SOROA.COM; a.k.a. WWW.CUBASPORTS.COM; a.k.a. WWW.CUBA-TOPESDECOLLANTES.COM; a.k.a. WWW.CUBATRAVELDIRECTORY.COM; a.k.a. WWW.CUBA-TRINIDAD.COM; a.k.a. WWW.CUBA-VARADEROBEACH.COM; a.k.a. WWW.CUBA-VILLACLARA.COM; a.k.a. WWW.CUBAVIP.COM; a.k.a. WWW.CUBA-WEATHER.COM; a.k.a. WWW.GOCUBA.COM; a.k.a. WWW.GOCUBA.CU; a.k.a. WWW.GOCUBAPLUS.COM; a.k.a. WWW.IPIXCUBA.COM; a.k.a. WWW.NO.GOCUBAPLUS.COM; a.k.a. WWW.REALESTATECUBA.COM; a.k.a. WWW.TOURANDMARKETING.COM; a.k.a. WWW.VAMOSACUBA.COM), Hotel Viejo y el Mar, Suite 6005, Marina Hemingway, Playa, Havana, Cuba; Hotel Acuario, Suite 3541, Marina Hemingway, Santa Fe, Playa, Havana, Cuba; Hotel Acuario, Suite 3511, Marina Hemingway, Santa Fe, Playa, Havana, Cuba; Calle 12 y Mar, Varadero Matanzas, Cuba; Ellen L. Skelton Building, 4th Floor, Fishers Estate, P.O. Box 3820, Road Town, Tortola, Virgin Islands, British; P.O. Box 24258, London, England SE9 1WS, United Kingdom; Hotel Acuario, Suite 3542, Marina Hemingway, Santa Fe, Playa, Havana, Cuba; Calle Ramon Pino, No. 4, 38650, Los Cristianos, Arona, Tenerife, Spain [CUBA]

TOURISM AND HOTELS CORPORATION, Ed Damer, Sudan; P.O. Box 7104, Khartoum, Sudan; Port Sudan, Sudan; El Fasher, Sudan; Khartoum Airport, Sudan [SUDAN]

TOVAR PARRA, Ferney (a.k.a. “DIEGO”; a.k.a. “FERCHO”); DOB 17 Nov 1966; POB Cartagena del Chaira, Caqueta, Colombia; Cedula No. 17640605 (Colombia) (individual) [SDNTK]

TOYS FACTORY, S.A. DE C.V., Blv. Gustavo Diaz Ordaz No. 16E-5, Col. Pque Ind. Bajamar Aguila, Tijuana, Baja California, Mexico; Blv. Gustavo Diaz Ordaz No. 1, Col. Las Brisas, Tijuana, Baja California, Mexico; Ave. Presidente Carlos Salinas de Gortari No. 5, Col. Infonavit Presidente, Tijuana, Baja California, Mexico; Ave. Poniente Carlos Salinas S/N, Col. Infonavit, Tijuana, Baja California, Mexico; R.F.C. TFA021112AR9 (Mexico) [SDNTK]

TRABELSI, Chabaane Ben Mohamed, via Cuasso, n. 2, Porto Ceresio, Varese, Italy; DOB 1 May 1966; POB Rainneen, Tunisia; nationality Tunisia; Italian Fiscal Code TRBCBN66E01Z352O; Passport L 945660 issued 4 Dec 1998 expires 3 Dec 2001 (individual) [SDGT]

TRABELSI, Mourad (a.k.a. ABOU DJARRAH; a.k.a. AL-TRABELSI, Mourad Ben Ali Ben Al-Basheer), Via Geromini 15, Cremona, Italy; DOB 20 May 1969; POB Menzel Temime, Tunisia; nationality Tunisia; Passport G 827238 issued 1 Jun 1996 expires 31 May 2001; arrested 1 Apr 2003 (individual) [SDGT]

TRADING & MARITIME INVESTMENTS, San Lorenzo, Honduras [IRAQ2]

TRADING AND TRANSPORT SERVICES COMPANY, LTD., P.O. Box 910606, Amman 11191, Jordan; Al-Razi Medical Complex, Jabal Al-Hussein, Amman, Jordan; P.O. Box 212953, Amman 11121, Jordan [IRAQ2]

TRAMP PIONEER SHIPPING CO., Panama, c/o Anglo Caribbean Shipping Co., Ltd., 4th Floor, South Phase 2, South Quay Plaza, 183 Mars, London E14 9SH, United Kingdom [CUBA]

TRANS AVIATION GLOBAL GROUP INC., 811 S. Central Expwy, Ste 210, Richardson, TX 75080 [LIBERIA]

TRANS MERITS CO. LTD., 1F, No. 49, Lane 280, Kuang Fu S. Road, Taipei, Taiwan; Business Registration Document # 16316976 (Taiwan) [NPWMD]

TRANS PACIFIC WORLD LEASING LIMITED, First Floor International Building, Kumul Highway, Port Vila, Vanuatu; P.O. Box 213, Port Vila, Vanuatu [SDNT]

TRANSAVIA NETWORK (a.k.a. NV TRANS AVIATION NETWORK GROUP; a.k.a. TAN GROUP; a.k.a. TRANS AVIATION; a.k.a. TRANSAVIA TRAVEL AGENCY; a.k.a. TRANSAVIA TRAVEL CARGO), P.O. Box 3962, Sharjah, United Arab Emirates; P.O. Box 2190, Ajman, United Arab Emirates; 1304 Boorj Building, Bank Street, Sharjah, United Arab Emirates; Ostende Airport, Belgium [LIBERIA]

TRANSIT, S.A., Panama [CUBA]

TRANSPORTES AEREOS UNIDOS SELVA AMAZONICA S.A. (a.k.a. TAUSA S.A.; f.k.a. TRANSPORTES AEREAS UCHIZA S.A.), Calle Soledad 111, Int. 302, Lima, Peru; RUC # 20110372320 (Peru) [SDNTK]

TRANSPORTES DEL ESPIRITU SANTO S.A., Calle 14 No. 4-123, La Union, Valle, Colombia; Salida a la Victoria, La Union, Valle, Colombia; NIT # 821002436-5 (Colombia) [SDNT]

TRANSPORTES MICHAEL LTDA. (a.k.a. TRANSMIKE LTDA.), Sitio Nuevo, Magdalena, Colombia; Calle 30 No. 10-50, Barranquilla, Colombia; NIT # 802024118-3 (Colombia) [SDNT]

TRANSPORTING, LLC, 6555 NW 36th Street, Suite 304, Virginia Gardens, FL 33166; 9443 Fontainebleau Boulevard, No. 114, Miami, FL 33172; Business Registration Document # L00000012836 (United States); US FEIN 65-1048798 [BPI-SDNT]

TRASLAVINA BENAVIDES, Erasmo (a.k.a. “ISMARDO MURCIA LOZADA”; a.k.a. “ISNARDO MURCIA LOZADA”; a.k.a. “JIMMY GUERRERO”); DOB 19 Jun 1958; POB Guacamayo, Santander, Colombia; citizen Colombia; nationality Colombia; Cedula No. 13642033 (Colombia) (individual) [SDNTK]

TRAVEL SERVICES, INC., Hialeah, FL [CUBA]

TREJO FREIRE, Efrain Pablo (a.k.a. TREJOS FREYRE, Pablo), Colombia; DOB 07 Jun 1951; citizen Colombia; Cedula No. 13004986 (Colombia); International FARC Commission Member for Peru (individual) [SDNTK]

TREJOS AGUILAR, Melba, Calle 25 No. 35-66, Tulua, Valle, Colombia; Cedula No. 29991503 (Colombia) (individual) [SDNT]

TREJOS AGUILAR, Sonia, c/o INVERSIONES EL EDEN S.C.S., Cali, Colombia; Carrera 8 No. 6-37, Zarzal, Valle del Cauca, Colombia; Cali, Colombia; c/o AGROINVERSORA URDINOLA HENAO Y CIA. S.C.S., Cali, Colombia; c/o INDUSTRIAS AGROPECUARIAS DEL VALLE LTDA., Cali, Colombia; c/o EXPLOTACIONES AGRICOLAS Y GANADERAS LA LORENA S.C.S., Cali, Colombia; Cedula No. 66675927 (Colombia) (individual) [SDNT]

TREJOS MARQUEZ, Arnulfo, Carrera 4 No. 9-17 of. 308, AA 38028, Cali, Colombia; c/o CONSTRUCTORA TREMI LTDA., Cali, Colombia; DOB 5 Sep 1947; Cedula No. 6090595 (Colombia) (individual) [SDNT]

TREMALT LTD (a.k.a. TREMALT LIMITED), Hurst Grove, Sandford Lane, Hurst, Reading, Berkshire RG10 0SQ, United Kingdom; Thetford Farm, P.O. Box HP86, Mount Pleasant, Harare, Zimbabwe; Virgin Islands, British; New Boundary House, London Road, Sunningdale, Ascot, Berkshire SL5 0DJ, United Kingdom [ZIMBABWE]

TREVISO TRADING CORPORATION, Edificio Banco de Boston, Panama City, Panama [CUBA]

TRIANA TEJADA, Luis Humberto, c/o COMERCIALIZADORA DE CARNES DEL PACIFICO LTDA., Cali, Colombia; DOB 27 Jul 1943; Cedula No. 4916206 (Colombia) (individual) [SDNT]

TRIMARK LTDA., Calle 69 No. 10A-53 of. 505, Bogota, Colombia; Carrera 31 No. 23A-68, Bogota, Colombia; NIT # 830117977-5 (Colombia) [SDNT]

TRINIDAD LTDA. Y CIA. S.C.S., Carrera 43 No. 4-47, Buenaventura, Colombia; NIT # 800009737-2 (Colombia) [SDNT]

TRINIDAD, Angelo Ramirez (a.k.a. TOMAS, Adrian; a.k.a. TRINIDAD Y RAMIREZ, Angelo; a.k.a. TRINIDAD, Abu Khalil; a.k.a. TRINIDAD, Calib; a.k.a. TRINIDAD, Kalib; a.k.a. TRINIDAD, Khalil; a.k.a. TRINIDAD, Khulil), 3111 Ma. Bautista, Punta, Santa Ana, Manila, Philippines; DOB 20 Mar 1978; POB Gattaran, Cagayan Province, Philippines; nationality Philippines (individual) [SDGT]

TRISTAN GIL, Luz Maria (a.k.a. TRISTAN GIL, Luz Mery), c/o LUZ MERY TRISTAN E.U., Cali, Colombia; Calle 16 No. 15-30, Cali, Colombia; c/o CREDISA S.A., Cali, Colombia; Carrera 122 No. 20-02, Cali, Colombia; Calle 5B 4 No. 37-125, Cali, Colombia; DOB 01 Apr 1963; POB Cali, Valle, Colombia; Cedula No. 31895852 (Colombia); Passport 31895852 (Colombia) (individual) [SDNT]

TRIVINO RODRIGUEZ, Elsa Yaneth, c/o AEROCOMERCIAL ALAS DE COLOMBIA LTDA., Bogota, Colombia; c/o CIA CONSTRUCTORA Y COMERCIALIZADORA DEL SUR LTDA., Bogota, Colombia; c/o GREEN ISLAND S.A., Bogota, Colombia; c/o INTERCONTINENTAL DE FINANCIACION AEREA S.A., Bogota, Colombia; c/o ASOCIACION TURISTICA INTERNACIONAL S.C.S., Bogota, Colombia; c/o INTERCONTINENTAL DE AVIACION S.A., Bogota, Colombia; Cedula No. 20484603 (Colombia) (individual) [SDNT]

TROBER, S.A. (a.k.a. TROVER, S.A.), Edificio Saldivar, Panama City, Panama [CUBA]

TRONCOSO POSSE, Jose Manuel, c/o AGROPECUARIA LINDARAJA S.A., Cali, Colombia; c/o INVERSIONES BRASILAR S.A., Bogota, Colombia; DOB 26 Nov 1953; POB Bogota, Colombia; citizen Colombia; nationality Colombia; Cedula No. 19233258 (Colombia); Passport AE297484 (Colombia) (individual) [SDNT]

TROPIC TOURS GMBH (a.k.a. TROPICANA TOURS GMBH), Lietzenburger Strasse 51, Berlin, Germany [CUBA]

TRUJILLO CAICEDO, Francisco Javiar 'Pacho', Carrera 76A No. 6-34 apt. 107, Cali, Colombia; Calle 13C No. 75-95 piso 2, Cali, Colombia; c/o COLOR 89.5 FM STEREO, Cali, Colombia; Calle 8 Oeste No. 24C-75 apt. 1501, Cali, Colombia; DOB 23 Nov 1960; Cedula No. 16264395 (Colombia) (individual) [SDNT]

TRUJILLO MOLINA, Maria Helena (a.k.a. TRUJILLO MOLINA, Maria Elena), c/o HOTEL LA CASCADA S.A., Girardot, Colombia; c/o INVERSIONES Y REPRESENTACIONES S.A., Medellin, Colombia; POB Colombia; Cedula No. 42875026 (Colombia) (individual) [SDNT]

TRUST IMPORT-EXPORT, S.A., Panama [CUBA]

TSAI, Hsein Tai (a.k.a. TSAI, ALEX H.T.), C/O TRANS MERITS CO. LTD, Taipei, Taiwan; C/O GLOBAL INTERFACE COMPANY INC., Taipei, Taiwan; DOB 8 Aug 1945; POB Tainan, Taiwan; Passport 131134049 (Taiwan); General Manager—GLOBAL INTERFACE COMPANY INC. (individual) [NPWMD]

TUAN, Shao Kuei (a.k.a. KRIANGKRAI, Tuangwitthayakun; a.k.a. SAO KUAY, Sae Tung; a.k.a. TUAN, Ming Cheng; a.k.a. “MI CHUNG”; a.k.a. “MING CHUNG”; a.k.a. “TA KUEI”; a.k.a. “TUAN SHAO KUEI”), Mong Kyawt, Shan, Burma; DOB 05 Nov 1950; National ID No. 5500900040846 (Thailand) (individual) [SDNTK]

TUFAIL, Mohammed (a.k.a. TUFAIL, S.M.; a.k.a. TUFAIL, Sheik Mohammed); DOB 5 May 1930; nationality Pakistan (individual) [SDGT]

TUFAYLI, Subhi; DOB 1947; POB Biqa Valley, Lebanon; Former Secretary General and Current Senior Figure of HIZBALLAH (individual) [SDT]

TUITO, Oded (a.k.a. MAMO, Eliyahu; a.k.a. REVIVO, Simon; a.k.a. TUITO, Daniel; a.k.a. TUITO, David; a.k.a. TVITO, Daniel; a.k.a. TVITO, Oded); DOB 27 Dec 1959; alt. DOB 29 Nov 1959; alt. DOB 12 Dec 1959; alt. DOB 25 Jul 1961; alt. DOB 27 Feb 1959; POB Israel (individual) [SDNTK]

TUN, Hla, Burma; DOB 11 Jul 1951; citizen Burma; nationality Burma; Major General, Minister of Finance and Revenue (individual) [BURMA]

TUN, Saw, Burma; DOB 8 May 1935; citizen Burma; nationality Burma; Major General, Minister of Construction (individual) [BURMA]

TUNGAMIRAI, Josiah; DOB 8 Oct 1948; Former Minister of State for Indigenization and Empowerment; Deceased (individual) [ZIMBABWE]

TUNISIAN COMBAT GROUP (a.k.a. GCT; a.k.a. GROUPE COMBATTANT TUNISIEN; a.k.a. JAMA'A COMBATTANTE TUNISIEN; a.k.a. JCT; a.k.a. TUNISIAN COMBATANT GROUP) [SDGT]

TURISMO HANSA S.A., Centro Comercial New Point Local 204, San Andres, Colombia; Avenida 4 Norte No. 19N-34 ofc. 302, Cali, Colombia; NIT # 860027780-4 (Colombia) [SDNT]

TWELFTH OCEAN; Vessel Registration Identification IMO 9209348 (vessel) [NPWMD]

U.I. INTERNATIONAL, United Kingdom [IRAQ2]

UDOMDET, Ronnayut (a.k.a. UDOMDECH, Ronnayuth), c/o SIAM NICE COMPANY LTD., Bangkok, Thailand; DOB 17 Jun 1967 (individual) [SDNTK]

UGANDA COMMERCIAL IMPEX, Kamaoja Area, Kanjokuu Street, Plot 22, Kampala, Uganda; P. O. Box 22709, Kampala, Uganda [DRCONGO]

UKSINI, Sami (a.k.a. UKSHINI, Sami); DOB 5 Mar 1963; POB Gjakova, Serbia and Montenegro (individual) [BALKANS]

ULSTER DEFENCE ASSOCIATION (a.k.a. ULSTER FREEDOM FIGHTERS), United Kingdom [SDGT]

ULVA FARM, Marondera, Zimbabwe [ZIMBABWE]

UMAR, Madhat Mursi Al-Sayyid; DOB 19 Oct 1953; POB Alexandria, Egypt; nationality Egypt (individual) [SDGT]

UMGUZA BLOCK FARM, Umguza, Zimbabwe [ZIMBABWE]

UMMAH TAMEER E-NAU (UTN) (a.k.a. FOUNDATION FOR CONSTRUCTION; a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER I-NAU; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

UNIDAD CARDIOVASCULAR LTDA. (a.k.a. UNICA LTDA.), Calle 25 No. 5BN-08, Cali, Colombia; NIT # 800232679-8 (Colombia) [SDNT]

UNIDAS S.A., Avenida 7 Norte No. 23N-81, Cali, Colombia; Avenida 7 Norte No. 23-74, Cali, Colombia; NIT # 800080688-0 (Colombia) [SDNT]

UNION OF GOOD (a.k.a. 101 DAYS CAMPAIGN; a.k.a. CHARITY COALITION; a.k.a. COALITION OF GOOD; a.k.a. ETELAF AL-KHAIR; a.k.a. ETILAFU EL-KHAIR; a.k.a. I'TILAF AL-KHAIR; a.k.a. I'TILAF AL-KHAYR), P.O. Box 136301, Jeddah 21313, Saudi Arabia [SDGT]

UNION OF MYANMAR ECONOMIC HOLDINGS LIMITED (a.k.a. MYANMAR ECONOMIC HOLDINGS LIMITED; a.k.a. UMEH; a.k.a. UNION OF MYANMAR ECONOMIC HOLDINGS COMPANY LIMITED), 189-191 Maha Bandoola Road, Botahtaung Township, Yangon, Burma [BURMA]

UNIPAPEL S.A. (f.k.a. UNIPAPEL S.A. BOLSAS DE PAPEL PAPELES SOBRES), Carrera 52 No. 35-42, Medellin, Colombia; Calle 15 No. 26-400 Urbanizacion Industrial Acopi, Yumbo, Colombia; Carrera 49B No. 75-109 Ofc. 202, Barranquilla, Colombia; Autopista Cali-Yumbo, No. 26-400, Cali, Colombia; Carrera 122 no. 20-02, Cali, Colombia; Carrera 66 No. 7-31, Bogota, Colombia; NIT # 890301701-6 (Colombia) [SDNT]

UNITED FAIR AGENCIES, 1202 Carrian Center, 151 Gloucester Road, Wanchai, Hong Kong [CUBA]

UNITED SELF-DEFENSE FORCES OF COLOMBIA (a.k.a. AUC; a.k.a. AUTODEFENSAS UNIDAS DE COLOMBIA) [FTO] [SDGT] [SDNTK]

UNITED WA STATE ARMY (a.k.a. UNITED WA STATE PARTY; a.k.a. UWSA; a.k.a. UWSP) [SDNTK]

UNITY BANK, Bariman Avenue, P.O. Box 408, Khartoum, Sudan; Now part of BANK OF KHARTOUM GROUP [SUDAN]

URANGA ARTOLA, Kemen; DOB 25 May 1969; POB Ondarroa, Vizcaya Province, Spain; D.N.I. 30.627.290 (Spain); Member ETA (individual) [SDGT]

URANTIA SERVICES S.A., Avenida Jose Pardo 601, Lima, Peru; RUC # 20505575882 (Peru) [SDNTK]

URBANIZACIONES Y CONSTRUCCIONES LTDA. DE CALI (f.k.a. URBANIZACIONES Y CONSTRUCCIONES LTDA.), Carrera 4 No. 12-41 of. 1403, Cali, Colombia; NIT # 890306569-2 (Colombia) [SDNT]

URBANIZADORA ALTAVISTA INTERNACIONAL S.A. (f.k.a. TELNET S.A.; a.k.a. URBAVISTA), Calle 77 B No. 57—141, Ofc. 917, Barranquilla, Colombia; NIT # 802014697-3 (Colombia) [SDNT]

URDINOLA BETANCOURT, Maritza, c/o CAJA SOLIDARIA, Bogota, Colombia; c/o COPSERVIR LTDA., Bogota, Colombia; DOB 16 Nov 1962; Cedula No. 31893467 (Colombia); Passport 31893467 (Colombia) (individual) [SDNT]

URDINOLA GRAJALES, Ivan (a.k.a. URDINOLA GRAJALES, Jairo Ivan), c/o CONSTRUCTORA UNIVERSAL LTDA., Cali, Colombia; c/o INDUSTRIAS AGROPECUARIAS DEL VALLE LTDA., Cali, Colombia; c/o AGROINVERSORA URDINOLA HENAO Y CIA. S.C.S., Cali, Colombia; Hacienda La Lorena, Zarzal, Valle del Cauca, Colombia; Calle 52 No. 28E-30, Cali, Colombia; c/o INVERSIONES EL EDEN S.C.S., Cali, Colombia; c/o EXPLOTACIONES AGRICOLAS Y GANADERAS LA LORENA S.C.S., Cali, Colombia; DOB 1 Dec 1960; Cedula No. 94190353 (Colombia); Passport AD129003 (Colombia) (individual) [SDNT]

URDINOLA GRAJALES, Julio Fabio, Carrera 40 No. 5A-40, Cali, Colombia; c/o CONSTRUCTORA E INMOBILIARIA URVALLE CIA. LTDA., Cali, Colombia; Cedula No. 16801454 (Colombia) (individual) [SDNT]

UREY, Benoni; DOB 22 Jun 1957; Passport D-00148399 (Liberia); Former Commissioner of Maritime Affairs OF Liberia; Diplomatic (individual) [LIBERIA]

URIBE GONZALEZ, Jose Abelardo, c/o COMERCIALIZADORA INTERNACIONAL VALLE DE ORO S.A., Cali, Colombia; c/o SERVICIOS INMOBILIARIAS LTDA., Cali, Colombia; c/o INMOBILIARIA U.M.V. S.A., Cali, Colombia; c/o CONSULTORIA EMPRESARIAL ESPECIALIZADA LTDA., Cali, Colombia; Cedula No. 16647906 (Colombia) (individual) [SDNT]

URIBE URIBE, Miguel Angel, Calle Nevado de Toluca 845, Tijuana, Baja California, Mexico; c/o INMOBILIARIA ESTADO 29 S.A. DE C.V., Tijuana, Baja California, Mexico; c/o INMOBILIARIA LA PROVINCIA S.A. DE C.V., Tijuana, Baja California, Mexico; DOB 2 Aug 1957; POB Tijuana, Baja California, Mexico; C.U.R.P. # UIUM570802HBCRRG08 (Mexico) (individual) [SDNTK]

UTETE, Charles Manhamu; DOB 30 Oct 1938; Passport ZD002097 (Zimbabwe); Former Cabinet Secretary (individual) [ZIMBABWE]

UTHMAN, Omar Mahmoud (a.k.a. ABU ISMAIL; a.k.a. ABU UMAR, Abu Omar; a.k.a. AL-FILISTINI, Abu Qatada; a.k.a. TAKFIRI, Abu Umr; a.k.a. UMAR, Abu Umar; a.k.a. UTHMAN, Al-Samman; a.k.a. UTHMAN, Umar), London, United Kingdom; DOB 30 Dec 1960; alt. DOB 13 Dec 1960 (individual) [SDGT]

V.R. FRUIT COMPANY (a.k.a. BORISAT WI. A. FRUT CHAMKAT), 125 Mu 2, Tambon Mae Kha, Hang Dong district, Chiang Mai, Thailand [SDNTK]

VAAFI (a.k.a. IRAN VAAFI); Vessel Registration Identification IMO 9387786 (vessel) [NPWMD]

VALDIVIESO FONTAL, Diego, c/o VALLADARES LTDA., Cali, Colombia; DOB 13 Dec 1959; Cedula No. 16662362 (Colombia) (individual) [SDNT]

VALENCIA ARIAS, Jhon Gavy (a.k.a. VALENCIA ARIAS, John Gaby), Carrera 76 No. 6-200 102, Cali, Colombia; c/o INVERSIONES BETANIA LTDA., Cali, Colombia; Avenida 7N No. 17A-46, Cali, Colombia; c/o INVERSIONES EL PENON S.A., Cali, Colombia; Cedula No. 16741491 (Colombia) (individual) [SDNT]

VALENCIA ARIAS, Luis Fernando, c/o INVERSIONES BETANIA LTDA., Cali, Colombia; c/o INVERSIONES EL PENON S.A., Cali, Colombia; c/o INVERSIONES GEMINIS S.A., Cali, Colombia; DOB 24 Sep 1962; Cedula No. 71626881 (Colombia) (individual) [SDNT]

VALENCIA CORNELIO, Armando (a.k.a. CORNELIO VALENCIA, Armando; a.k.a. VALENCIA CABALLERO, Elias Armando; a.k.a. VALENCIA PENA, Armando); DOB 15 Jun 1954; alt. DOB 28 Nov 1959; POB Mexico (individual) [SDNTK]

VALENCIA DE JARAMILLO, Maria Diocelina, c/o AGROPECUARIA LA ROBLEDA S.A., Cali, Colombia; DOB 8 May 1959; Cedula No. 31162155 (Colombia) (individual) [SDNT]

VALENCIA FRANCO, Manuel, c/o GANADERIAS DEL VALLE S.A., Cali, Colombia (individual) [SDNT]

VALENCIA GALLEGO, Jesus Antonio, c/o DISMERCOOP, Cali, Colombia; DOB 9 Sep 1957; Cedula No. 16447249 (Colombia) (individual) [SDNT]

VALENCIA JAIME, Rafael Angel, c/o TEMPLE DEL PITIC S.A. DE C.V., Hermosillo, Sonora, Mexico; c/o AGRICOLA GAXIOLA S.A. DE C.V., Hermosillo, Sonora, Mexico; Ave Articulo 123 109, Hermosillo, Sonora 83287, Mexico; DOB 22 Jan 1968; POB Hermosillo, Sonora, Mexico; citizen Mexico; nationality Mexico; C.U.R.P. VAJR680122HSRLMF08 (Mexico); Passport 02260105052 (Mexico) (individual) [SDNTK]

VALENCIA MARIN, Libardo Elias; DOB 23 Mar 1946; POB Colombia; Cedula No. 8225623 (Colombia) (individual) [SDNT]

VALENCIA MARTINEZ, Alberto Alfredo, Avenida Hipodromo 19, Colonia Hipodromo, Tijuana, Baja California, Mexico; Blvd. Fundadores 0, Colonia El Rubi, Tijuana, Baja California, Mexico; Calle Lomas Altas 1480, Colonia Lomas de Agua Caliente, Tijuana, Baja California, Mexico; c/o INMOBILIARIA TIJUANA COSTA S.A. DE C.S., Tijuana, Baja California, Mexico; Calle Geiser 101, Colonia Colinas de Agua Caliente, Tijuana, Baja California, Mexico; Avenida I.T.R. 2207, Colonia Tecnologico, Tijuana, Baja California, Mexico; Calle Coronado 21760, Colonia Mesetas del Guaycura, Tijuana, Baja California, Mexico; DOB 8 Apr 1949; POB Tijuana, Baja California, Mexico; C.U.R.P. # VAMA490408HBCLRL08 (Mexico); R.F.C. # VAMA-490408-C6A (Mexico) (individual) [SDNTK]

VALENCIA OBANDO, William, c/o GRAN MUELLE S.A., Buenaventura, Colombia; DOB 28 Oct 1969; Cedula No. 79245681 (Colombia); Passport 79245681 (Colombia) (individual) [SDNT]

VALENCIA TRUJILLO, Adela (a.k.a. VALENCIA DE MEDINA, Adela), c/o CREDISA S.A., Cali, Colombia; c/o COMPANIA DE FOMENTO MERCANTIL S.A., Cali, Colombia; c/o UNIDAS S.A., Cali, Colombia; Carrera 4 No. 11-45 Ofc. 503, Cali, Colombia; DOB 20 Oct 1954; POB Cali, Valle, Colombia; Cedula No. 31277251 (Colombia); Passport 31277251 (Colombia) (individual) [SDNT]

VALENCIA TRUJILLO, Agueda, c/o CREDISA S.A., Cali, Colombia; c/o COMPANIA DE FOMENTO MERCANTIL S.A., Cali, Colombia; c/o PARQUE INDUSTRIAL PROGRESO S.A., Yumbo, Colombia; Carrera 4 No. 11-45 Ofc. 506, Cali, Colombia; Carrera 5 No. 17-66, Cali, Colombia; c/o CONSTRUCCIONES PROGRESO DEL PUERTO S.A., Puerto Tejada, Colombia; Calle 9N A 3-37 Apt. 701, Cali, Colombia; c/o UNIDAS S.A., Cali, Colombia; DOB 10 Aug 1959; POB Cali, Valle, Colombia; Cedula No. 38943524 (Colombia); Passport 38943524 (Colombia) (individual) [SDNT]

VALENCIA TRUJILLO, Carmen Emilia (a.k.a. VALENCIA DE VICTORIA, Carmen Emilia), c/o UNIDAS S.A., Cali, Colombia; Carrera 37 No. 8-26, Cali, Colombia; c/o CREDISA S.A., Cali, Colombia; DOB 08 Apr 1952; POB Cali, Valle, Colombia; Cedula No. 31244070 (Colombia); Passport 31244070 (Colombia) (individual) [SDNT]

VALENCIA TRUJILLO, Guillermo, Carrera 66 No. 7-31, Bogota, Colombia; Calle 67 Norte No. 8-85, Cali, Colombia; Calle 93A No. 14-17 Ofc. 711, Bogota, Colombia; Calle 93N No. 14-20 Ofc. 601, Bogota, Colombia; DOB 19 Oct 1947; POB Cali, Valle, Colombia; Cedula No. 14942909 (Colombia); Passport 14942909 (Colombia) (individual) [SDNT]

VALENCIA TRUJILLO, Joaquin Mario, Carrera 122 No. 20-02, Cali, Colombia; Avenida 7 Norte No. 23N-81, Cali, Colombia; DOB 21 Aug 1957; POB Cali, Valle, Colombia; Cedula No. 16626888 (Colombia); Driver's License No. 76001000150900 (Colombia); Passport 16626888 (Colombia); alt. Passport AC030971 (Colombia) (individual) [SDNT]

VALENCIA, Reynel (a.k.a. VALENCIA, Reinel), c/o INMOBILIARIA U.M.V. S.A., Cali, Colombia; c/o GANADERIAS DEL VALLE S.A., Cali, Colombia; c/o COMERCIALIZADORA INTERNACIONAL VALLE DE ORO S.A., Cali, Colombia; DOB 19 Nov 1954; Cedula No. 16258610 (Colombia) (individual) [SDNT]

VALERO JIMENEZ, Alejandro, c/o ADMINISTRACION DE RECURSOS FINANCIEROS E.U., Cali, Colombia; c/o PROMOTORES DE BIENES RAICES S.A., Cali, Colombia; c/o UNIDAD CARDIOVASCULAR LTDA., Cali, Colombia; 826 SW Canary Terrace, Port St. Lucie, FL 34953; Transversal 18 No. 102-42 apto. 401, Bogota, Colombia; DOB 25 Oct 1967; POB Cali, Colombia; Cedula No. 16746340 (Colombia); Passport P059298 (Colombia) (individual) [SDNT]

VALERO JIMENEZ, Luis Hernan, Spain; Paseo Murviedro Monte Picayo, No. 14, Pucol, Valencia, Spain; Avenida 4N No. 19N-34, Cali, Colombia; c/o VALERO Y ASOCIADOS GABINETE JURIDICO S.L., Valencia, Spain; DOB 22 Sep 1965; Cedula No. 16723237 (Colombia); Passport 16723237 (Colombia) (individual) [SDNT]

VALERO SANCHEZ, Francisco Javier, c/o UNIDAD CARDIOVASCULAR LTDA., Cali, Colombia; c/o PROMOTORES DE BIENES RAICES S.A., Cali, Colombia; c/o ASESORIAS OCUPACIONALES LTDA., Cali, Colombia; Cedula No. 2436976 (Colombia) (individual) [SDNT]

VALERO Y ASOCIADOS GABINETE JURIDICO S.L., Paseo Alameda, 60, Valencia 46023, Spain; C.I.F. B97393029 (Spain) [SDNT]

VALETTA SHIPPING CORPORATION, c/o EMPRESA DE NAVEGACION MAMBISA, Apartado 543, San Ignacio 104, Havana, Cuba [CUBA]

VALFAJR 8TH SHIPPING LINE CO SSK (a.k.a. SHERKAT SAHAMI KHASS KESHTIRANI VALFAJR 8TH; a.k.a. VAL FAJR HASHT SHIPPING CO; a.k.a. VAL FAJR-E-8 SHIPPING COMPANY; a.k.a. VALFAJRE EIGHT SHIPPING CO; a.k.a. VESC), Abyar Alley, Corner of Shahid Azodi St. & Karim Khan Zand Ave., Tehran, Iran; Shahid Azodi St., Karimkhan Zand Ave., Abiar Alley, P.O. Box 4155, Tehran, Iran [NPWMD]

VALLADARES LTDA. (f.k.a. AGROPECUARIA BETANIA LTDA.), Carrera 61 No. 11-58, Cali, Colombia; Calle 70N No. 14-31, Cali, Colombia; NIT # 890329123-0 (Colombia) [SDNT]

VALLE COMUNICACIONES LTDA. (a.k.a. VALLECOM), Carrera 60 No. 2A-107, Cali, Colombia [SDNT]

VALLE DE ORO S.A., Pollo Tanrico Km 17 Recta Cali-Palmira, Palmira, Colombia; Cali, Colombia; NIT # 890331067-2 (Colombia) [SDNT]

VALLEJO FRANCO, Inigo; DOB 21 May 1976; POB Bilbao (Vizcaya Province), Spain; D.N.I. 29.036.694; member ETA (individual) [SDGT]

VALOR LTDA. S.C.S., Carrera 4 No. 17-20, Popayan, Colombia; NIT # 800009030-4 (Colombia) [SDNT]

VALORES CORPORATIVOS ESPANOLES S.L., Calle Zurbano 76, 7, Madrid, Madrid, Spain; Calle Consuegra 3, 28036 Madrid, Madrid, Spain; C.I.F. B81681447 (Spain) [SDNT]

VALORES CORPORATIVOS S.A. (a.k.a. VALORCORP S.A.), Transversal 9 No. 55-97 Of. 401, Bogota, Colombia; NIT # 830015542-7 (Colombia) [SDNT]

VALORES MOBILIARIOS DE OCCIDENTE S.A., Avenida Colombia No. 2-45, Cali, Colombia; Carrera 1 No. 2-45, Cali, Colombia; Bogota, Colombia; Avenida 6 Norte No. 23DN-16, Cali, Colombia; Carrera 100 No. 11-90 of. 602, Cali, Colombia; NIT # 800249439-1 (Colombia) [SDNT]

VALPARK, S.A. DE C.V., Paseo de los Heroes y Sanchez Taboada, CP 22320, Tijuana, Baja California, Mexico; Avenida David Alfaro Siquieiros 2789, Ofc. 201A, Colonia Zona Rio, Tijuana, Baja California, Mexico [SDNTK]

VANOY MURILLO, Ramiro (a.k.a. VANOY RAMIREZ, Ramiro; a.k.a. “CUCO”), Carrera 86 No. 13B-89, Apt. 302F, Cali, Colombia; DOB 31 Mar 1948; POB Yacopi, Cundinamarca, Colombia; citizen Colombia; nationality Colombia; Cedula No. 462653 (Colombia) (individual) [SDNT]

VARELA SERNA, Carlos Heneris (a.k.a. “COLITAS”), c/o COOPERATIVA DE SERVICIO DE TRANSPORTE DE CARGA DE COLOMBIA LTDA., Barranquilla, Colombia; c/o TRANSPORTES MICHAEL LTDA., Barranquilla, Colombia; c/o CENTRO DE BELLEZA SHARY VERGARA, Barranquilla, Colombia; DOB 11 Jan 1956; POB Cali, Colombia; Cedula No. 16632290 (Colombia) (individual) [SDNT]

VARELA, Wilber (a.k.a. GARCIA GARCIA, Jairo; a.k.a. GARCIA VARELA, Wilber Alirio; a.k.a. VARELA FAJARDO, Wilber Alirio; a.k.a. VARELA, Fredy; a.k.a. VARELA, Wilber Alirio; a.k.a. VARELA, Wilmer; a.k.a. “DON JAIRO”; a.k.a. “JABON”), Carrera 85 No. 14A-57, Cali, Colombia; Calle 11 No. 4-442, Ofc. 722, Cali, Colombia; Calle 22 No. 15-53, Armenia, Quindio, Colombia; Calle 30 No. 23B-22, Cali, Colombia; DOB 06 Nov 1954; POB Roldanillo, Valle, Colombia; alt. POB Armenia, Quindio, Colombia; citizen Colombia; Cedula No. 16545384 (Colombia); alt. Cedula No. 16891223 (Colombia); Passport AF427757 (Colombia) (individual) [SDNT]

VARGAS ALBA, Cesar Augusto, c/o COMERCIALIZADORA COLOMBIAN MONEY EXCHANGE LTDA., Bogota, Colombia; DOB 27 Aug 1969; POB Colombia; citizen Colombia; nationality Colombia; Cedula No. 79578481 (Colombia); Passport AI980101 (Colombia) (individual) [SDNTK]

VARGAS ALBA, Jorge Leandro (a.k.a. “EL CANOSO”), c/o COMERCIALIZADORA COLOMBIAN MONEY EXCHANGE LTDA., Bogota, Colombia; DOB 17 Jan 1968; POB Colombia; citizen Colombia; nationality Colombia; Cedula No. 17642230 (Colombia); Passport AI263725 (Colombia) (individual) [SDNTK]

VARGAS ARIAS, Jorge Eliecer, Calle 165 No. 25-65 Apartamento 503, Bogota, Colombia; c/o COMERCIALIZADORA COLOMBIAN MONEY EXCHANGE LTDA., Bogota, Colombia; DOB 22 Nov 1952; POB Colombia; citizen Colombia; nationality Colombia; Cedula No. 4894606 (Colombia); Passport 4894606 (Colombia) (individual) [SDNTK]

VARGAS DUQUE, Adriana, c/o PROSALUD Y BIENESTAR S.A., Cali, Colombia; c/o PROSPECTIVA E.U., Cali, Colombia; c/o DISTRIBUIDORA SANAR DE COLOMBIA S.A., Cali, Colombia; c/o COMERCIALIZADORA INTERTEL S.A., Cali, Colombia; DOB 20 May 1974; Cedula No. 66902221 (Colombia); Passport 66902221 (Colombia) (individual) [SDNT]

VARGAS GARCIA, Carlos Alberto, Quito, Ecuador; c/o DISTRIBUIDORA DE DROGAS CONDOR LTDA., Bogota, Colombia; c/o RIONAP COMERCIO Y REPRESENTACIONES S.A., Quito, Ecuador; Cedula No. 4578620 (Colombia) (individual) [SDNT]

VARGAS LOPEZ, Gustavo Adolfo, c/o INDUSTRIA MADERERA ARCA LTDA., Cali, Colombia; c/o AGROPECUARIA LA ROBLEDA S.A., Cali, Colombia; c/o COLOMBIANA DE CERDOS LTDA., Pereira, Colombia; c/o MATADERO METROPOLITANO LTDA., Pereira, Colombia; c/o INVERSIONES VILLA PAZ S.A., Cali, Colombia; DOB 3 Nov 1955; Cedula No. 6457925 (Colombia) (individual) [SDNT]

VARGAS PERDOMO, Eugenio (a.k.a. DORNELES DE MENEZES, Francisco; a.k.a. “CARLOS BOLAS”); DOB 19 Nov 1969; POB Puerto Lopez, Meta, Colombia; Cedula No. 17344616 (Colombia) (individual) [SDNTK]

VARGAS RUEDA, Nelson (a.k.a. “ALFREDO”; a.k.a. “HUGO”); DOB 27 Apr 1970; Cedula No. 77130763 (Colombia) (individual) [SDNTK]

VARGAS SOLER, Sandra Milena, c/o COMERCIALIZADORA COLOMBIAN MONEY EXCHANGE LTDA., Bogota, Colombia; DOB 05 Jan 1980; POB Colombia; citizen Colombia; nationality Colombia; Cedula No. 40047576 (Colombia) (individual) [SDNTK]

VARGAS VARGAS, Flor Yadira, c/o ADMACOOP, Bogota, Colombia; c/o CODISA, Bogota, Colombia; DOB 11 Jul 1971; Cedula No. 52584018 (Colombia); Passport 52584018 (Colombia) (individual) [SDNT]

VARGAS VASQUEZ, Jorge Alberto, c/o DISTRIEXPORT S.A., Bogota, Colombia; c/o AMERICANA DE COSMETICOS S.A., Bogota, Colombia; DOB 30 Jun 1960; Cedula No. 19401630 (Colombia); Passport 19401630 (Colombia) (individual) [SDNT]

VASIC, Dragomir, Bosnia and Herzegovina; DOB 1964; POB Brnjica, Bosina-Herzegovina (individual) [BALKANS]

VASILJEVIC, Mitar; DOB 25 Aug 1954; POB Durevici, Bosnia-Herzegovina; ICTY indictee (individual) [BALKANS]

VASQUES, Oscar D. (a.k.a. VAZQUEZ, Oscar D.), Panama (individual) [CUBA]

VASQUEZ DIAZ, Augusto de Jesus, c/o FLORIDA SOCCER CLUB S.A., Medellin, Colombia; POB Colombia; Cedula No. 3333064 (Colombia) (individual) [SDNT]

VAZ, Jose, 20 Ironmonger Lane, London EC2V 8EY, United Kingdom; Managing Director, Havana International Bank (individual) [CUBA]

VEGA SANCHEZ, Jose Raul, c/o TEMPLE DEL PITIC S.A. DE C.V., Hermosillo, Sonora, Mexico; c/o AGRICOLA GAXIOLA S.A. DE C.V., Hermosillo, Sonora, Mexico; c/o INMUEBLES SIERRA VISTA S.A. DE C.V., Hermosillo, Sonora, Mexico; DOB 19 Oct 1956; POB Cananea, Sonora, Mexico; citizen Mexico; nationality Mexico; C.U.R.P. VEXR561019HSRGXL05 (Mexico); alt. C.U.R.P. VESR561019HSRGNL09 (Mexico) (individual) [SDNTK]

VEGA, Rosalba, c/o GLAJAN S.A., Bogota, Colombia; c/o GENERICOS ESPECIALES S.A., Bogota, Colombia; c/o BONOMERCAD S.A., Bogota, Colombia; c/o DECAFARMA S.A., Bogota, Colombia; c/o PATENTES MARCAS Y REGISTROS S.A., Bogota, Colombia; c/o SHARPER S.A., Bogota, Colombia; DOB 22 Sep 1955; Cedula No. 21132758 (Colombia); Passport 21132758 (Colombia) (individual) [SDNT]

VELARDE SARABIA, Antonio, c/o COMERCIALIZADORA TOQUIN, S.A. DE. C.V., Guadalajara, Jalisco, Mexico; c/o COMERCIAL JOANA, S.A. DE C.V., Guadalajara, Jalisco, Mexico; Calle Hidalgo No. 537 Oriente, Col. Centro, Culiacan, Sinaloa, Mexico; c/o COMERCIAL DOMELY, S.A. DE C.V., Toluca, Mexico, Mexico; DOB 27 Oct 1977; citizen Mexico; nationality Mexico; R.F.C. VESA771027B50 (Mexico) (individual) [SDNTK]

VELASQUEZ, Miguel Angel, c/o ADMINISTRADORA DE SERVICIOS VARIOS CALIMA S.A., Cali, Colombia; c/o ASESORIAS ECONOMICAS MUNOZ SANTACOLOMA E.U., Cali, Colombia; c/o CHAMARTIN S.A., Cali, Colombia; Cedula No. 16305012 (Colombia); Passport 16305012 (Colombia) (individual) [SDNT]

VELAZQUEZ HERNANDEZ, Juan Gabriel, Callejon Revolucion 1050, Colonia Zona Centro, Tijuana, Baja California, Mexico; c/o GS PLUS CONSULTORES, S.A. DE C.V., Tijuana, Baja California, Mexico; DOB 20 Mar 1975; POB Tijuana, Baja California, Mexico (individual) [SDNTK]

VELEZ MONTES, William, c/o INVERSIONES Y COMERCIALIZADORA INCOM LTDA., Cali, Colombia; c/o INTERCONTINENTAL DE AVIACION S.A., Bogota, Colombia; Calle 92 No. 19-70 Apt. 304, Bogota, Colombia; DOB 24 May 1943; POB Tulua, Valle, Colombia; Cedula No. 17086144 (Colombia); Passport PE019274 (Colombia); alt. Passport PE029301 (Colombia); alt. Passport AF870847 (Colombia) (individual) [SDNT]

VELEZ RENGIFO, Piedad, c/o INTERCONTINENTAL DE AVIACION S.A., Bogota, Colombia; Carrera 15 No. 127A-33 Apt. 605, Bogota, Colombia; c/o DESARROLLOS AGROINDUSTRIALES S.A., Bogota, Colombia; Avenida El Logo Calle Chiminangos Casa No. 3, Cali, Colombia; c/o ACCIRENT S.A., Bogota, Colombia; DOB 22 Oct 1959; POB Cali, Colombia; Cedula No. 31835778 (Colombia); Passport AD217712 (Colombia); alt. Passport AF314384 (Colombia) (individual) [SDNT]

VENECIA INMOBILIARIA QUILICHAO S.A. & CIA S.C.A. (f.k.a. INVERSIONES RENGIFO E HIJOS LTDA.), Avenida 4N No, 6N-61, Ofc. 510, Cali, Colombia; NIT # 800026554-3 (Colombia) [SDNT]

VERA ROSAS, Gonzalo, c/o FARMA 3.000 LIMITADA, Barranquilla, Colombia; DOB 19 Sep 1968; Cedula No. 79136661 (Colombia); Passport 79136661 (Colombia) (individual) [SDNT]

VERANILLO DIVE CENTER LTDA. (a.k.a. CLUB DE PESCA VERANILLO), Via 40 No. 67-42, Barranquilla, Colombia; NIT # 802008393-5 (Colombia) [SDNT]

VEST SPECTRUM (S) PTE. LTD., 9 Haig Avenue 438864, Singapore; 704 Bedok Reservoir Road 470704, Singapore; Registration ID 199306257C (Singapore) issued 23 Sep 1993 [SDNTK]

VESTIMENTA J Y J S. DE H., Calle 78 No. 53-70, Local 112, Barranquilla, Colombia; NIT # 802001338-8 (Colombia) [SDNT]

VIACON INTERNATIONAL, INC., Apartment 7B Torre Mar Building, Punta Paitilla Area, Panama City, Panama [CUBA]

VIACON INTERNATIONAL, INC., France Field, Colon Free Zone, Panama [CUBA]

VIAJES GUAMA, S.A., Spain [CUBA]

VIAJES MERCURIO LTDA., Carrera 3 No. 10-02 Local 113, Cali, Colombia [SDNT]

VIAL COMPANY, DE [LIBERIA]

VICTORIA CASTANO, Alvaro, Carrera 3A Norte No. 42A-43, Cali, Colombia; c/o CREDISA S.A., Cali, Colombia; Cedula No. 14933828 (Colombia); Passport 14933828 (Colombia) (individual) [SDNT]

VICTORIA POTES, Nestor Raul, c/o INVERSIONES VILLA PAZ S.A., Cali, Colombia; c/o AGROPECUARIA LA ROBLEDA S.A., Cali, Colombia; Calle 70N No. 14-31, AA26397, Cali, Colombia; c/o AGROPECUARIA BETANIA LTDA., Cali, Colombia; c/o INDUSTRIA AVICOLA PALMASECA S.A., Cali, Colombia; c/o ADMINISTRACION INMOBILIARIA S.A., Cali, Colombia; c/o PROHUEVO DE COLOMBIA LTDA., Cali, Colombia; c/o GANADERIAS DEL VALLE S.A., Cali, Colombia; DOB 25 Nov 1951; Cedula No. 16247701 (Colombia) (individual) [SDNT]

VICTORIA, Mercedes, c/o INVERSIONES GEELE LTDA., Bogota, Colombia; c/o COLOR 89.5 FM STEREO, Cali, Colombia; c/o COMPAX LTDA., Cali, Colombia; c/o LABORATORIOS KRESSFOR, Bogota, Colombia (individual) [SDNT]

VIEDMA ABONCE, Marisol, Calle 10B No. 14A-90 Manz. C Casa 14, Cartago, Valle, Colombia; c/o ALMACEN Y COMPRAVENTA LOS 3 OROS, Cartago, Valle, Colombia; c/o MOTEL MOMENTOS E.U., Cartago, Valle, Colombia; DOB 30 Mar 1970; Cedula No. 31415437 (Colombia) (individual) [SDNT]

VILA MICHELENA, Fermin; DOB 12 Mar 1970; POB Irun, Guipuzcoa Province, Spain; D.N.I. 15.254.214 (Spain); Member ETA (individual) [SDGT]

VILLA DE ARTE S. DE H. (a.k.a. VILLA D'ARTE), Aereo Apartado 51881, Barranquilla, Colombia; Carrera 54 No. 74-79, Barranquilla, Colombia; NIT # 800125346-2 (Colombia) [SDNT]

VILLA OSPINA, Mauricio, c/o CHAMARTIN S.A., Cali, Colombia; c/o ADMINISTRADORA DE SERVICIOS VARIOS CALIMA S.A., Cali, Colombia; Cedula No. 16365834 (Colombia); Passport 16365834 (Colombia) (individual) [SDNT]

VILLA VINASCO, Armando Alonso, Miranda, Cauca, Colombia; Calle Angel Larra, 4, Madrid 28027, Spain; DOB 24 Oct 1960; Cedula No. 16645357 (Colombia) (individual) [SDNT]

VILLADA ZUNIGA, Elmer, Calle 15 No. 20-10, Cali, Colombia; c/o TAURA S.A., Cali, Colombia; Cedula No. 14988902 (Colombia) (individual) [SDNT]

VILLANUEVA MADRID, Mario Ernesto; DOB 2 Jul 1949; POB Quintana Roo, Mexico (individual) [SDNTK]

VILLARO LTDA., Calle 69 No. 10A-53 of. 502, Bogota, Colombia; NIT # 830117443-4 (Colombia) [SDNT]

VILLAROSA INVESTMENTS CORPORATION, Panama City, Panama; C.R. No. 312563/48824/0058 (Panama) [SDNT]

VILLAROSA INVESTMENTS FLORIDA, INC., 780 NW Le Jeune Road, Suite 516, Miami, FL 33126; 780 NW 42nd Avenue, Suite 516, Miami, FL 33126; 9100 South Dadeland Boulevard, Suite 912, Miami, FL 33156; US FEIN 650439600 (United States) [SDNT]

VILLASENOR COVARRUBIAS, Jorge Miguel, Av. de las Rocas 1548, Fracc. Playas de Tijuana, Tijuana, Baja California, Mexico; c/o MULTISERVICIOS BRAVIO, S.A. DE C.V., Tijuana, Baja California, Mexico; Prv. Montecarlo 12106, Colonia Res. Agua Caliente, Tijuana, Baja California CP 22480, Mexico; Av. Via Rapida S/N, Colonia Zona Rio, Tijuana, Baja California, Mexico; DOB 31 May 1948; POB Distrito Federal, Mexico; R.F.C. VICJ-480531-RJ7 (Mexico) (individual) [SDNTK]

VILLEGAS ARIAS, Maria Deisy (a.k.a. VILLEGAS ARIAS, Maria Deicy), c/o CONSTRUEXITO S.A., Cali, Colombia; c/o CONCRETOS CALI S.A., Cali, Colombia; Calle 66 No. 1A-6 51, Cali, Colombia; c/o GANADERIAS DEL VALLE S.A., Cali, Colombia; c/o SOCOVALLE LTDA., Cali, Colombia; c/o INDUSTRIA MADERERA ARCA LTDA, Cali, Colombia; DOB 16 Jul 1961; Cedula No. 31200871 (Colombia) (individual) [SDNT]

VILLEGAS BOLANOS, Silver Amido, c/o GANADERIAS DEL VALLE S.A., Cali, Colombia; c/o CONSULTORIA EMPRESARIAL ESPECIALIZADA LTDA., Cali, Colombia; c/o CONCRETOS CALI S.A., Cali, Colombia; c/o ADMINISTRACION INMOBILIARIA BOLIVAR S.A., Cali, Colombia; DOB 15 Aug 1954; Cedula No. 10480869 (Colombia) (individual) [SDNT]

VILLOTA GALVIS, Eliseo Fernando, c/o FARMACOOP, Bogota, Colombia; c/o CODISA, Bogota, Colombia; c/o JOMADA DE COSTA RICA S.A., San Jose, Costa Rica; c/o LABORATORIOS KRESSFOR DE COLOMBIA S.A., Bogota, Colombia; c/o MATSUM S.A., Bogota, Colombia; DOB 13 May 1945; Cedula No. 17118703 (Colombia); Passport 17118703 (Colombia) (individual) [SDNT]

VINALES TOURS, Mexico City, Mexico [CUBA]

VINALES TOURS, Cancun, Mexico [CUBA]

VINALES TOURS, Guadalajara, Mexico [CUBA]

VINALES TOURS, Roma, Mexico [CUBA]

VINALES TOURS, Monterey, Mexico [CUBA]

VINCK, Patricia (a.k.a. VINCK, Souraya P.), 69 Rue des Bataves, 1040 Etterbeek, Brussels, Belgium; Vaatjesstraat, 29, 2580 Putte, Belgium; DOB 04 Jan 1965; POB Antwerp, Belgium (individual) [SDGT]

VIOLET NAVIGATION CO. LTD., c/o EMPRESA DE NAVEGACION MAMBISA, Apartado 543, San Ignacio 104, Havana, Cuba [CUBA]

VISCAYA LTDA. (a.k.a. VIZCAYA LTDA.), Km 7 Via Cartago-Obando, Hacienda El Vergel, Cartago, Colombia; Carrera 4 No. 12-20 of. 206, Cartago, Valle, Colombia; Carrera 3 No. 11-99, Cartago, Valle, Colombia; NIT # 800054357-8 (Colombia) [SDNT]

VOL PHARMACYA LTDA. (a.k.a. VOL PHARMACIA LTDA.), Calle 12 No. 8-34/36, Cucuta, Colombia; NIT # 807005617-4 (Colombia) [SDNT]

VRACAR, Milenko, Bosnia and Herzegovina; DOB 15 May 1956; POB Nisavici, Prijedor, Bosnia-Herzegovina (individual) [BALKANS]

VUELA PERU S.A.C., Avenida Bolognesi 125, Dpto. 1602, Lima, Peru; RUC # 20508991879 (Peru) [SDNTK]

VUKOVIC, Zoran; DOB 6 Sep 1955; POB Brusna, Bosnia-Herzegovina; ICTY indictee (individual) [BALKANS]

WAAD PROJECT (a.k.a. AL-WAAD AL-SADIQ; a.k.a. 'MASHURA WAAD LAADAT AL-AAMAR; a.k.a. WAAD; a.k.a. WA'AD AS SADIQ; a.k.a. WAAD COMPANY; a.k.a. WAAD FOR REBUILDING THE SOUTHERN SUBURB; a.k.a. WAAD PROJECT FOR RECONSTRUCTION; a.k.a. WA'D PROJECT; a.k.a. WAED; a.k.a. WA'ED ORGANIZATION; a.k.a. WA'ID COMPANY), Harat Hurayk, Lebanon; Beirut, Lebanon; Telephone No. 009613679153; Telephone No. 009613380223; Telephone No. 03889402; Telephone No. 03669916 [SDGT]

WAD MADANI DUTY FREE SHOP, Wad Madani, Sudan [SUDAN]

WADDANI, Habib, Via unica Borighero n.1, San Donato M.se (MI), Italy; DOB 10 Jun 1970; POB Tunis, Tunisia; nationality Tunisia; Italian Fiscal Code WDDHBB70H10Z352O; Passport L550681 issued 23 Sep 1997 expires 22 Sep 2002 (individual) [SDGT]

WADENA SHIPPING CORPORATION, c/o EMPRESA DE NAVEGACION MAMBISA, Apartado 543, San Ignacio 104, Havana, Cuba [CUBA]

WAFA HUMANITARIAN ORGANIZATION (a.k.a. AL WAFA; a.k.a. AL WAFA ORGANIZATION; a.k.a. WAFA AL-IGATHA AL-ISLAMIA) [SDGT]

WAFRA CHEMICALS & TECHNO-MEDICAL SERVICES LIMITED, Khartoum, Sudan [SUDAN]

WAFRA PHARMA LABORATORIES (a.k.a. WAFRA PHARMACEUTICALS; a.k.a. WAFRAPHARMA LABORATORIES), Main Street, P.O. Box 2032, Omdurman, Sudan; E-mail Address waframed@sudanmail.net (Sudan) [SUDAN]

WAHHAB, Wi'am (a.k.a. WAHAB, Wiyam; a.k.a. WAHHAB, Wiam; a.k.a. WIHAB, Wi'am; a.k.a. WIHAB, Wiyam); DOB 1964; POB Al-Jahiliya, Shuf Mountains, Lebanon (individual) [LEBANON]

WALDENBERG, AG (f.k.a. AL TAQWA TRADE, PROPERTY AND INDUSTRY; f.k.a. AL TAQWA TRADE, PROPERTY AND INDUSTRY COMPANY LIMITED; f.k.a. AL TAQWA TRADE, PROPERTY AND INDUSTRY ESTABLISHMENT; f.k.a. HIMMAT ESTABLISHMENT), c/o Asat Trust Reg., Altenbach 8, Vaduz 9490, Liechtenstein; Via Posero, 2, 22060 Compione d'Italia, Italy [SDGT]

WAN MIN, Wan Mat (a.k.a. WAN MIN, bin Wan Mat); DOB 23 Sep 1960; POB Malaysia; nationality Malaysia (individual) [SDGT]

WAU FRUIT AND VEGETABLE CANNING FACTORY, P.O. Box 110, Wau, Sudan [SUDAN]

WEI, Hsueh Kang (a.k.a. CHARNCHAI, Chiwinnitipanya; a.k.a. CHEEWINNITTIPANYA, Prasit; a.k.a. CHIVINNITIPANYA, Prasit; a.k.a. CHIWINNITIPANYA, Charnchai; a.k.a. PRASIT, Cheewinnittipanya; a.k.a. PRASIT, Chivinnitipanya; a.k.a. WEI, Shao-Kang; a.k.a. WEI, Sia-Kang; a.k.a. WEI, Xuekang); DOB 29 Jun 1952; alt. DOB 29 May 1952; Passport E091929 (Thailand); alt. Passport Q081061 (Thailand) (individual) [SDNTK]

WEI, Hsueh Lung (a.k.a. APHICHART, Cheewinprapasi; f.k.a. HAI HSING, Sae Wei; a.k.a. HKIM, Aik Hsam; a.k.a. SOONTHRON, Cheewinprapasri; a.k.a. SUNTHORN, Chiwinpraphasi; a.k.a. “CHAIRMAN KEUN”; a.k.a. “KEUN DONG”; a.k.a. “KEUN SEU CHANG”; a.k.a. “TI JUNG”; a.k.a. “WEI HSUEH LUNG”), 409/4, Soi Wachiratham Sathit 34, Khwaeng Bang Chak, Khet Phra Khanong, Bangkok, Thailand; Na Lot, Shan, Burma; c/o DEHONG THAILONG HOTEL CO., LTD., Yunnan Province, China; Pang Poi, Shan, Burma; DOB 1936; POB Chiang Rai, Thailand; National Foreign ID Number 5570700010951 (Thailand); Passport B265235 (Thailand) (individual) [SDNTK]

WEI, Hsueh Yuan (a.k.a. PHAIROJ, Samoechainuek; a.k.a. PHAIROT, Mopokoo; a.k.a. PHITAK, Samoechainuek; a.k.a. WEI, Hsueh Ying; a.k.a. WEI, Hsueh Yun; a.k.a. “WEI HSUEH YING”; a.k.a. “WEI HSUEH YUAN”), Huay Aw, Shan, Burma; DOB 1952; alt. DOB 1956; National ID No. 3570900338725 (Thailand) (individual) [SDNTK]

WEST ISLAND SHIPPING CO. LTD., c/o UNION MARITIMA PORTUARIA, 9-Piso, Apartado B, Esquina Cuarteles y Pena Pobre 60, Havana Vieja, Havana, Cuba [CUBA]

WEST ISLANDS (vessel) [CUBA]

WESTBOUND LTD, P.O. Box 399, 26 Main Street, Gibraltar, United Kingdom [LIBERIA]

WHALE SHIPPING LTD., c/o Government of Iraq, State Organization of Ports, Maqal, Basrah, Iraq [IRAQ2]

WHITE NILE BATTERY COMPANY, Khartoum, Sudan [SUDAN]

WHITE NILE BREWERY, P.O. Box 1378, Khartoum, Sudan [SUDAN]

WHITE NILE TANNERY, P.O. Box 4078, Khartoum, Sudan [SUDAN]

WHITE SWAN SHIPPING CO. LTD., c/o EMPRESA DE NAVEGACION CARIBE, Edificio Lonja del Comercio, Lamparilla 2, Caja Postal 1784, Havana 1, Cuba [CUBA]

WIN, Kyaw; DOB 3 Jan 1944; citizen Burma; nationality Burma; Lieutenant-General; Chief of Bureau of Special Operation 2; Member, State Peace and Development Council (individual) [BURMA]

WIN, Nyan; DOB 22 Jan 1953; citizen Burma; nationality Burma; Major General; Minister of Foreign Affairs (individual) [BURMA]

WIN, Soe; DOB 10 May 1947; citizen Burma; nationality Burma; Lieutenant-General; Prime Minister; Member, State Peace and Development Council (individual) [BURMA]

WISSER, Gerhard; DOB 2 Jul 1939; POB Lohne, Germany; nationality Germany; Passport 3139001443 (Germany) (individual) [NPWMD]

WONG, Moon Chi (a.k.a. CHAN, Shu Sang; a.k.a. CHAN, Shusang; a.k.a. CHEN, Bing Shen; a.k.a. CHEN, Bingshen; a.k.a. CHEN, Shu Sheng; a.k.a. CHEN, Shusheng; a.k.a. DU, Yu Rong; a.k.a. DU, Yurong; a.k.a. HU, Chi Shu; a.k.a. HU, Chishu; a.k.a. HUANG, Man Chi; a.k.a. HUANG, Manchi; a.k.a. WONG, Kam Kong; a.k.a. WONG, Kamkong; a.k.a. WONG, Moonchi; a.k.a. WONG, Mun Chi; a.k.a. WONG, Munchi; a.k.a. WU, Chai Su; a.k.a. WU, Chaisu; a.k.a. ZHANG, Jiang Ping; a.k.a. ZHANG, Jiangping; a.k.a. “CHI BANG”), Hong Kong, China; DOB 18 Mar 1961; alt. DOB 21 Apr 1945; alt. DOB 08 Aug 1958; alt. DOB 03 Aug 1958; alt. DOB 08 Feb 1955; alt. DOB 25 Jan 1947; POB China; citizen China; alt. citizen Cambodia; nationality China; British National Overseas Passport 750200421 (United Kingdom); National ID No. D489833(9) (Hong Kong); Passport 611657479 (China); alt. Passport 2355009C (China) (individual) [SDNTK]

WORLD LINE SYSTEM S.A., Calle 46 No. 45A-38, Palmira, Valle, Colombia; Avenida 6 Norte No. 23N-85, Cali, Colombia; NIT # 815003764-9 (Colombia) [SDNT]

WORLD TRADE LTDA., Carrera 8 No. 16-77, Ibague, Colombia; NIT # 809008109-5 (Colombia) [SDNT]

WORLD WORKING COMERCIALIZADORA INTERNACIONAL S.A. (f.k.a. C.I. GLOS'S INTERNATIONAL S.A.; a.k.a. WORLD WORKING C.I.), Carrera 10 No. 31-01 Zona Industrial Los Mangos, Cali, Colombia; NIT # 805023286-9 (Colombia) [SDNT]

WORRELL, Gareth Bruce (a.k.a. WORRELL MURRAY, Gareth Bruce; a.k.a. WORRELL MURRAY, Garrett; a.k.a. “GARETH MOREY”); DOB 19 Jun 1971; alt. DOB 19 Jan 1971; POB Belize; Passport 0159817 (Belize) (individual) [SDNT]

XHAFERI, Shefit; DOB 1960 (individual) [BALKANS]

XHEMAJLI, Emrush; DOB 5 May 1959; POB Urosevac, Serbia and Montenegro (individual) [BALKANS]

XHEMAJLI, Muhamet; DOB 8 Feb 1958; POB Muhovac, Serbia and Montenegro (individual) [BALKANS]

YA MAHDI INDUSTRIES GROUP (a.k.a. YA MAHDI INDUSTRIAL COMPLEX; a.k.a. YA MAHDI INDUSTRIAL RESEARCH COMPLEX; a.k.a. “YMA”), PO Box 19395-4731, Tehran, Iran [NPWMD]

YAKUT, CUMHUR (a.k.a. TANN, Ahmet), Bartin, Turkey; Dubai, United Arab Emirates; DOB 18 Mar 1955; POB Turkey; citizen Turkey; nationality Turkey (individual) [SDNTK]

YAM, Melvia Isabel Gallegos, Merida, Mexico (individual) [CUBA]

YAMAHA VERANILLO DISTRIBUIDORES, Via 40 No. 67-42, Barranquilla, Colombia [SDNT]

YAMARU TRADING CO., LTD., Tokyo, Japan [CUBA]

YANDARBIEV, Zelimkhan Ahmedovich Abdul Muslimovich, Derzhavina Street 281-59, Grozny, Chechen Republic, Chechnya, Russia; DOB 12 Sep 1952; POB Vydriba Eastern Kazakhstan; citizen Russia; Passport 43 No. 1600453 (Russia) (individual) [SDGT]

YANEZ GUERRERO, Rigoberto; DOB 1962; nationality Mexico (individual) [SDNTK]

YANGON AIRWAYS COMPANY LIMITED (a.k.a. YANGON AIRWAYS), MMB Tower, Level 5, 166 Upper Pansodan Rd., Mingalar Taung Nyunt Township, Rangoon, Burma [SDNTK]

YARMOSHINA, Lidziya Mihaulauna (a.k.a. YARMOSHINA, Lidya Mihaulauna; a.k.a. YARMOSHINA, Lidya Mikhailovna; a.k.a. YARMOSHINA, Lidziya Mikhailovna; a.k.a. YARMOSHINA, Lydia Mihaulauna; a.k.a. YARMOSHINA, Lydia Mikhailovna; a.k.a. YARMOSHYNA, Lidya Mihaulauna; a.k.a. YARMOSHYNA, Lidya Mikhailovna; a.k.a. YARMOSHYNA, Lidziya Mihaulauna; a.k.a. YARMOSHYNA, Lidziya Mikhailovna; a.k.a. YARMOSHYNA, Lydia Mihaulauna; a.k.a. YARMOSHYNA, Lydia Mikhailovna; a.k.a. YERMOSHINA, Lidya Mihaulauna; a.k.a. YERMOSHINA, Lidya Mikhailovna; a.k.a. YERMOSHINA, Lidziya Mihaulauna; a.k.a. YERMOSHINA, Lidziya Mikhailovna; a.k.a. YERMOSHINA, Lydia Mihaulauna; a.k.a. YERMOSHINA, Lydia Mikhailovna); DOB 29 Jan 1953; POB Slutsk, Belarus; Head of the Central Commission for Elections and National Referendums (CEC) (individual) [BELARUS]

YASIN, Abdul Rahman (a.k.a. TAHA, Abdul Rahman S.; a.k.a. TAHER, Abdul Rahman S.; a.k.a. YASIN, Abdul Rahman Said; a.k.a. YASIN, Aboud); DOB 10 Apr 1960; POB Bloomington, Indiana USA; citizen United States; Passport M0887925 (Iraq); alt. Passport 27082171 (United States) issued 21 Jun 1992; SSN 156-92-9858 (United States); U.S.A. Passport issued 21 Jun 1992 in Amman, Jordan (individual) [SDGT]

YASSIN, Sheik Ahmed Ismail, Gaza Strip, undetermined; DOB 1938; POB al-Jawrah, al-Majdal District, Gaza (individual) [SDT] [SDGT]

YAZD METALLURGY INDUSTRIES (a.k.a. YAZD METALLURGICAL IND'S CO.; a.k.a. YAZD METALLURGICAL INDUSTRIES), P.O. Box 89195-678, Yazd, Iran; Km 5 of Taft Road, Yazd, Iran; Postal Box 89195/878, Yazd, Iran; Pasdaran Avenue, Next To Telecommunication Industry, Tehran 16588, Iran [NPWMD]

YEATON, Benjamin (a.k.a. YEATEN, Benjamin); Passport D-00123299 (Liberia); Former Director, Special Security Services of Liberia; Diplomatic (individual) [LIBERIA]

YEPES ALZATE, Milady, c/o OBURSATILES S.A., Cali, Colombia; DOB 9 Jan 1968; Cedula No. 31971236 (Colombia); Passport 31971236 (Colombia) (individual) [SDNT]

YEPES LOPEZ, Maria Emma, c/o MAPRI DE COLOMBIA LTDA., Bogota, Colombia; Cedula No. 25015128 (Colombia); Passport 25015128 (Colombia) (individual) [SDNT]

YEPES VELEZ, Silvio (a.k.a. YEPEZ VELEZ, Silvio), c/o HOTEL LA CASCADA S.A., Girardot, Colombia; Carrera 30 No. 77-26, Bogota, Colombia; DOB 9 Nov 1948; POB Manizales, Caldas, Colombia; Cedula No. 19065009 (Colombia); NIT # 19065009-4 (Colombia) (individual) [SDNT]

YILMAZ, Adem, Sudliche Ringstrasse 133, Langen 63225, Germany; DOB 4 Nov 1978; alt. DOB 11 Apr 1978; POB Bayburt, Turkey; citizen Turkey; Passport TR-P 614166 (Turkey); alt. Passport 0018850 (Turkey); currently incarcerated at Weiterstadt, Germany (individual) [SDGT]

YOUSEF, Rafik Mohamad (a.k.a. KAIRADIN, Raific Mohamad), Mannheim Prison, Germany; Kathe Dorsch Ring 21, Berlin 12353, Germany; DOB 27 Aug 1974; POB Baghdad, Iraq; nationality Iraq; Travel Document Number A0092301 (Germany) (individual) [SDGT]

YOUSSEF M. NADA, Via Riasc 4, Campione d'Italia I, CH-6911, Switzerland [SDGT]

YOUSSEF M. NADA & CO. GESELLSCHAFT M.B.H., Kaernter Ring 2/2/5/22, Vienna 1010, Austria [SDGT]

YOUSSER COMPANY FOR FINANCE AND INVESTMENT, Lebanon [SDGT]

YULDASHEV, Tohir (a.k.a. YULDASHEV, Takhir), Uzbekistan (individual) [SDGT]

YUN, Cheng (a.k.a. “YIN CHEIN”; a.k.a. “YIN CHIN”; a.k.a. “YUN CHENG”), 11, Ngu Shwe Wah Road, Between 64th and 54th Street, Chan mya Si Township, Mandalay, Burma; National ID No. (HWI)040182 (Burma) (individual) [SDNTK]

YUNOS, Mukhlis (a.k.a. YUNOS, Muklis; a.k.a. YUNOS, Saifullah Mukhlis); DOB circa 7 Jul 1966; POB Lanao del Sur, Philippines (individual) [SDGT]

YUZANA COMPANY LIMITED (a.k.a. YUZANA CONSTRUCTION), No. 130 Yuzana Centre, Shwegondaing Road, Bahan Township, Yangon, Burma [BURMA]

ZA, Pye Phyo Tay, Burma; 6 Cairnhill Circle, Number 18-07, Cairnhill Crest 229813, Singapore; DOB 29 Jan 1987; citizen Burma; nationality Burma; Son of Tay Za. (individual) [BURMA]

ZA, Tay (a.k.a. TAYZA; a.k.a. TEZA; a.k.a. ZA, Te; a.k.a. ZA, U Tay; a.k.a. ZA, U Te), 6 Cairnhill Circle, Number 18-07, Cairnhill Crest 229813, Singapore; Burma; DOB 18 Jul 1964; alt. DOB 18 Jun 1967; citizen Burma; nationality Burma; Managing Director, Htoo Trading Company Limited; Chairman, Air Bagan Holdings Pte. Ltd. (d.b.a. Air Bagan); Managing Director, Pavo Trading Pte. Ltd. (individual) [BURMA]

ZABALA PADILLA, Omar Arturo (a.k.a. ZABALA PADILLA, Omar Enrique; a.k.a. “LUCAS GUALDRON”), Colombia; DOB 11 Jul 1969; POB Bucaramanga, Colombia; nationality Colombia; Cedula No. 91267294 (Colombia); International FARC Commission Member for France, Italy, and Switzerland (individual) [SDNTK]

ZAHRAN, Yousuf, P.O. Box 1318, Amman, Jordan (individual) [IRAQ2]

ZAINAL, Akram, Iraq; Chairman and General Manager of AGRICULTURAL CO-OPERATIVE BANK (individual) [IRAQ2]

ZAKARIA, Zaini, A-1-8 Pangsapuri Sri Tanjung, Jalan Sky BS2, Bukit Sentosa Rawang, Selangor 48300, Malaysia; DOB 16 Jun 1967; alt. DOB 16 May 1967; POB Kelantan, Malaysia; Passport A11457974 (Malaysia) (individual) [SDGT]

ZAMBADA GARCIA, Ismael (a.k.a. GARCIA HERNANDEZ, Javier; a.k.a. HIGUERA RENTERIA, Ismael; a.k.a. LOAIZA AVENDANO, Jesus; a.k.a. LOPEZ LANDEROS, Jeronimo; a.k.a. ZAMBADA GARCIA, Ismael Mario; a.k.a. ZAMBADA, El Mayo), Calle Juan Jose Rios, Culiacan, Mexico; Bahia de San Ignacio #1921, Colonia Nuevo Culiacan, Culiacan, Sinaloa, Mexico; Calle Presa Humaya #104, Fraccionamiento Las Quintas, Culiacan, Sinaloa, Mexico; PTE 4 49 2212, Cuchilla Del Tesoro, Delegacion Gustavo A Madero, Distrito Federal, Mexico; DOB 1 Jan 1948; alt. DOB 03 Sep 1951; alt. DOB 06 Dec 1952; POB Sinaloa, Mexico; alt. POB Guadalajara, Jalisco, Mexico; alt. POB El Salado, Sinaloa, Mexico; alt. POB Costa Rica, Sinaloa, Mexico; Driver's License No. N36064231 (Mexico); R.F.C. ZAGI-500130 (Mexico); alt. R.F.C. GAHJ-521206 (Mexico); alt. R.F.C. LOLJ-510903 (Mexico) (individual) [SDNTK]

ZAMBADA NIEBLA, Maria Teresa, Calle Rio Quelite 210, Colonia Guadlupe, Culiacan, Sinaloa 80220, Mexico; Calle Ciudad de Hermosillo # 1168, Fraccionamiento Las Quintas, Culiacan, Sinaloa, Mexico; Avenida Universidad No. 1900, Colonia Copilco, Coyoacan, Distrito Federal 04350, Mexico; c/o JAMARO CONSTRUCTORES S.A. DE C.V., Culiacan, Sinaloa, Mexico; c/o ESTANCIA INFANTIL NINO FELIZ S.C., Culiacan, Sinaloa, Mexico; Calle Cerro de la Campana 649, Colonia Colinas de San Miguel, Culiacan, Sinaloa 80060, Mexico; c/o NUEVA INDUSTRIA DE GANADEROS DE CULIACAN S.A. DE C.V., Culiacan, Sinaloa, Mexico; c/o ESTABLO PUERTO RICO S.A. DE C.V., Culiacan, Sinaloa, Mexico; DOB 17 Jun 1969; POB Culiacan, Sinaloa, Mexico; alt. POB Sonora, Mexico; citizen Mexico; nationality Mexico; C.U.R.P. ZANT690617MSLMBR01 (Mexico); Passport 97040021870 (Mexico); R.F.C. ZANT-690617-B73 (Mexico) (individual) [SDNTK]

ZAMBADA NIEBLA, Midiam Patricia (a.k.a. LOPEZ LANDEY, Midian Patricia; a.k.a. ZAMBADA NIEBLA, Midian Patricia; a.k.a. ZAMBADA NIEBLA, Miriam), Calle Ciudad de Hermosillo # 1168, Fraccionamiento Las Quintas, Culiacan, Sinaloa, Mexico; c/o NUEVA INDUSTRIA DE GANADEROS DE CULIACAN S.A. DE C.V., Culiacan, Sinaloa, Mexico; Calle Lago Cuitzeo 1394, Colonia Las Quintas, Culiacan, Sinaloa 80060, Mexico; c/o JAMARO CONSTRUCTORES S.A. DE C.V., Culiacan, Sinaloa, Mexico; c/o ESTABLO PUERTO RICO S.A. DE C.V., Culiacan, Sinaloa, Mexico; Calle Gabino Vazquez # 1206, Colonia Los Pinos, Culiacan, Sinaloa, Mexico; DOB 04 Mar 1971; POB Culiacan, Sinaloa, Mexico; citizen Mexico; nationality Mexico; C.U.R.P. ZANM710304MSLMBD14 (Mexico); alt. C.U.R.P. ZANM710304MSLMBDO6 (Mexico); Passport 97040022206 (Mexico); R.F.C. ZANM-710304-RN2 (Mexico) (individual) [SDNTK]

ZAMBADA NIEBLA, Modesta, c/o JAMARO CONSTRUCTORES S.A. DE C.V., Culiacan, Sinaloa, Mexico; c/o NUEVA INDUSTRIA DE GANADEROS DE CULIACAN S.A. DE C.V., Culiacan, Sinaloa, Mexico; c/o ESTABLO PUERTO RICO S.A. DE C.V., Culiacan, Sinaloa, Mexico; Calle Ciudad de Hermosillo # 1168, Fraccionamiento Las Quintas, Culiacan, Sinaloa 80060, Mexico; DOB 22 Nov 1982; POB Culiacan, Sinaloa, Mexico; citizen Mexico; nationality Mexico; C.U.R.P. ZANM821122MSLMBD07 (Mexico); Passport 95040018273 (Mexico); R.F.C. ZANM-821122-H87 (Mexico) (individual) [SDNTK]

ZAMBADA NIEBLA, Monica del Rosario (a.k.a. ZAMBADA NIEBLA, Monica del Rocio), c/o NUEVA INDUSTRIA DE GANADEROS DE CULIACAN S.A. DE C.V., Culiacan, Sinaloa, Mexico; c/o JAMARO CONSTRUCTORES S.A. DE C.V., Culiacan, Sinaloa, Mexico; c/o ESTABLO PUERTO RICO S.A. DE C.V., Culiacan, Sinaloa, Mexico; Calle Ciudad de Hermosillo # 1168, Fraccionamiento Las Quintas, Culiacan, Sinaloa, Mexico; Calle Ciudad de Puebla 1254, Colonia Las Quintas, Culiacan, Sinaloa, Mexico; DOB 02 Mar 1980; alt. DOB 02 Apr 1980; POB Culiacan, Sinaloa, Mexico; citizen Mexico; nationality Mexico; C.U.R.P. ZANM800402MSLMBN02 (Mexico); Passport 040037016 (Mexico); alt. Passport 95040018272 (Mexico); R.F.C. ZANM-800402 (Mexico) (individual) [SDNTK]

ZAMBADA NIEBLA, Vicente (a.k.a. SOTELO GUZMAN, Vicente; a.k.a. ZAMBADA NIEBLA, Jesus Vicente; a.k.a. ZAMBADA NIEBLA, Vincente; a.k.a. “EL MAYITO”), 4852 Palma Cocotera, Colonia Las Palmas, Culiacan, Sinaloa, Mexico; Calle Ciudad de Hermosillo # 1168, Fraccionamiento Las Quintas, Culiacan, Sinaloa 80060, Mexico; c/o ESTABLO PUERTO RICO S.A. DE C.V., Culiacan, Sinaloa, Mexico; c/o NUEVA INDUSTRIA DE GANADEROS DE CULIACAN S.A. DE C.V., Culiacan, Sinaloa, Mexico; DOB 24 Mar 1975; POB Sinaloa, Mexico; citizen Mexico; nationality Mexico; Passport 97040021871 (Mexico); R.F.C. ZANV-750324-NY5 (Mexico) (individual) [SDNTK]

ZAMBRANO CERON, Maria Concepcion, c/o AGROPECUARIA LA ROBLEDA S.A., Cali, Colombia; DOB 4 Aug 1928; Cedula No. 29488292 (Colombia) (individual) [SDNT]

ZAMBRANO MADRONERO, Carmen Alicia, c/o FARMACOOP, Bogota, Colombia; c/o DROMARCA Y CIA S.C.S., Bogota, Colombia; c/o COSMEPOP, Bogota, Colombia; c/o PATENTES MARCAS Y REGISTROS S.A., Bogota, Colombia; c/o COPSERVIR LTDA., Bogota, Colombia; c/o SHARPER S.A., Bogota, Colombia; c/o CREDISOL, Bogota, Colombia; c/o GLAJAN S.A., Bogota, Colombia; DOB 18 Nov 1967; Cedula No. 30738265 (Colombia); Passport 30738265 (individual) [SDNT]

ZAMORA RUIZ, Alexander, c/o INPESCA S.A., Buenaventura, Colombia; Cedula No. 16498805 (Colombia) (individual) [SDNT]

ZAMORA, Jose Hernan, c/o GANADERIAS DEL VALLE S.A., Cali, Colombia (individual) [SDNT]

ZAR; Vessel Registration Identification IMO 9260160 (vessel) [NPWMD]

ZARATAN CORPORATION, Avenida 4 Norte 4N-30, Cali, Colombia; Vanterpool Plaza, P.O. Box 873, Wickhams Cay I, Road Town, Tortola, Virgin Islands, British; Calle 7 Oeste No. 1-13, Cali, Colombia [SDNT]

ZARATAN CORPORATION, Avenida 4 Norte No. 4N-30, Cali, Colombia; Vanterpool Plaza, P.O. Box 873, Wickhams Cay I, Road Town, Tortola, Virgin Islands, British; Calle 7 Oeste No. 1-13, Cali, Colombia [SDNT]

ZARIC, Simo; DOB 25 Jul 1948; POB Trnjak, Bosnia-Herzegovina; ICTY indictee (individual) [BALKANS]

ZARKAOUI, Imed Ben Mekki Ben Al-Akhdar (a.k.a. “NADRA”; a.k.a. “ZARGA”), Via Col. Aprosio 588, Vallecrosia (IM), Italy; DOB 15 Jan 1973; POB Tunisi (Tunisia); nationality Tunisia; Passport M174950 issued 27 Apr 1999 expires 26 Apr 2004; arrested 30 Sep 2002 (individual) [SDGT]

ZAW, Thein, Burma; DOB 20 Oct 1951; citizen Burma; nationality Burma; Brigadier General, Minister of Telecommunications, Post, & Telegraph (individual) [BURMA]

ZAW, Thidar (a.k.a. ZAW, Daw Thidar; a.k.a. ZAW, Thida), Burma; 6 Cairnhill Circle, Number 18-07, Cairnhill Crest 229813, Singapore; DOB 2 Feb 1964; alt. DOB 2 Feb 1964; citizen Burma; nationality Burma; Wife of Tay ZA (individual) [BURMA]

ZAW, Zaw (a.k.a. ZAW, U Zaw), c/o Hotel Max, Burma; c/o Max Myanmar Group of Companies, Burma; c/o Max Singapore International Pte. Ltd., Burma; DOB 22 Oct 1966; citizen Burma; nationality Burma; Passport 828461 (Burma) issued 18 May 2006 expires 17 May 2009 (individual) [BURMA] [JADE]

ZAY GABAR COMPANY (a.k.a. ZAYKABAR COMPANY), Burma [BURMA]

ZAZUETA URREA, Epifanio, Calle Mariano Escobedo Ote No. 467-4, Col. Centro, Culiacan, Sinaloa, Mexico; c/o CONSORCIO INMOBILIARIO DEL VALLE DE CULIACAN, S.A. DE C.V., Culiacan, Sinaloa, Mexico; V Guerrero 109 Nte. Centro Colon y Escobedo CP 80000, Culiacan, Sinaloa, Mexico; c/o SIN-MEX IMPORTADORA, S.A. DE C.V., Mexico, Distrito Federal, Mexico; DOB 1 Aug 1947; POB Sinaloa, Mexico; citizen Mexico; nationality Mexico; Electoral Registry No. ZZUREP47080125H900 (Mexico); Passport 040032826 (Mexico); R.F.C. ZAUE470801DK6 (Mexico) (individual) [SDNTK]

ZB BANK LIMITED (a.k.a. ZB BANK; a.k.a. ZBCL; a.k.a. ZIMBABWE BANKING CORPORATION LIMITED; a.k.a. ZIMBANK), Zimbank House, Cnr. 1st Street/Speke Avenue, Harare, Zimbabwe; P.O. Box 3198, Harare, Zimbabwe; Phone No. 263-4-751168; Fax No. 263-4-757497 [ZIMBABWE]

ZB FINANCIAL HOLDINGS LIMITED (a.k.a. FINHOLD; a.k.a. WWW.ZB.CO.ZW; a.k.a. ZIMBABWE FINANCIAL HOLDINGS LIMITED), 10th Floor ZB House, 46 Speke Avenue, P.O. Box 3198, Harare, Zimbabwe; National ID No. 1278/89 (Zimbabwe); Phone No. 263-4-751168; Fax No. 263-4-251029 [ZIMBABWE]

ZB HOLDINGS LIMITED, 10th Floor ZB House, 46 Speke Avenue, P.O. Box 3198, Harare, Zimbabwe; Phone No. 263-4-751168; Fax No. 263-4-251029 [ZIMBABWE]

ZDRAVO, 12 Pop Lukina, Belgrade, Serbia; Registration ID 17317105 (Serbia); Tax ID No. 100036386 (Serbia); juice manufacturer [BALKANS]

ZELEN-KARADZIC, Ljiljana; DOB 27 Nov 1945; POB Sarajevo Bosnia-Herzegovina (individual) [BALKANS]

ZELENOVIC, Dragan; DOB 12 Feb 1961; ICTY indictee at large (individual) [BALKANS]

ZERFAOUI, Ahmad (a.k.a. “ABDALLA”; a.k.a. “ABDULLAH”; a.k.a. “ABU CHOLDER”; a.k.a. “ABU KHAOULA”; a.k.a. “NUHR”; a.k.a. “SMAIL”); DOB 15 Jul 1963; POB Chrea, Algeria (individual) [SDGT]

ZEVALLOS GONZALES DE ARREDONDO, Maria del Rosario, c/o AVIANDINA S.A.C., Lima, Peru; c/o PERUVIAN PRECIOUS METALS S.A.C., Lima, Peru; Aldabas MZ. 53, LT. 25, Las Gardenias, Lima, Peru; DOB 26 Jun 1956; LE Number 09138069 (Peru) (individual) [SDNTK]

ZEVALLOS GONZALES, Fernando Melciades (a.k.a. GONZALES, Hernan; a.k.a. ZEVALLOS GONZALEZ, Fernando); DOB 8 Jul 1957; POB Juanjui, San Martin, Peru; LE Number 07552116 (Peru) (individual) [SDNTK]

ZEVALLOS GONZALES, Lupe Maritza, c/o CORPORACION DE INVERSIONES EMPRESARIALES S.A., Lima, Peru; c/o BLISSEY PANAMA INC., Panama City, Panama; c/o LA CROSSE GROUP INC, Tortola, Virgin Islands, British; c/o URANTIA SERVICES S.A., Lima, Peru; c/o REPRESENTACIONES ORIENTE S.R.L., Trujillo, Peru; c/o ORIENTE CONTRATISTAS GENERALES S.A., Trujillo, Peru; c/o AERO CONTINENTE S.A., Lima, Peru; c/o EMPRESA EDITORA CONTINENTE PRESS S.A., Lima, Peru; c/o BELLOSOM ENTERPRISE, INC., Panama City, Panama; c/o TRANSPORTES AEREOS UNIDOS SELVA AMAZONICA S.A., Lima, Peru; c/o AERO COURIER CARGO S.A., Lima, Peru; Calle Nicolas de Rivera 610, Dpto. 702, Lima, Peru; DOB 17 Sep 1961; LE Number 07607833 (Peru) (individual) [SDNTK]

ZEVALLOS GONZALES, Milagros Angelina, c/o AVIANDINA S.A.C., Lima, Peru; c/o AERO CONTINENTE S.A., Lima, Peru; Calle Jose Maria Sert 201, Lima, Peru; DOB 12 Aug 1968; LE Number 07617157 (Peru) (individual) [SDNTK]

ZEVALLOS GONZALES, Sara Marilyn, c/o EMPRESA EDITORA CONTINENTE PRESS S.A., Lima, Peru; c/o REPRESENTACIONES ORIENTE S.R.L., Trujillo, Peru; c/o ORIENTE TOURS S.R.L., Lima, Peru; c/o LA CROSSE GROUP INC, Tortola, Virgin Islands, British; Calle Trinidad Moran 1316, Lima, Peru; c/o PERU TOTAL MARKET E.I.R.L., Lima, Peru; c/o ORIENTE CONTRATISTAS GENERALES S.A., Trujillo, Peru; c/o TRANSPORTES AEREOS UNIDOS SELVA AMAZONICA S.A., Lima, Peru; c/o SERVICIOS SILSA S.A.C., Lima, Peru; c/o AERO COURIER CARGO S.A., Lima, Peru; DOB 01 Jan 1963; LE Number 07553224 (Peru) (individual) [SDNTK]

ZEVALLOS GONZALES, Winston Ricardo (a.k.a. ZEVALLOS GONZALES, Ricardo), c/o AVIANDINA S.A.C., Lima, Peru; Avenida Rio Grande 367, Lima, Peru; c/o AERO CONTINENTE S.A., Lima, Peru; c/o TALLER DE REPARACIONES DE AERODINOS SUS PARTES Y SERVICIOS AEREOS S.A., Tarapoto, San Martin, Peru; c/o CORPORACION DE INVERSIONES EMPRESARIALES S.A., Lima, Peru; c/o TRANSPORTES AEREOS UNIDOS SELVA AMAZONICA S.A., Lima, Peru; DOB 11 May 1959; LE Number 07942932 (Peru); SSN 592-29-5509 (individual) [SDNTK]

ZHUWAO, Beauty Lily; DOB 10 Jan 1965; Passport AN353466 (Zimbabwe); Spouse of Patrick Zhuwao (individual) [ZIMBABWE]

ZHUWAO, Patrick; DOB 23 May 1967; Deputy Minister of Science and Technology (individual) [ZIMBABWE]

ZIA, Mohammad (a.k.a. ZIA, Ahmad), c/o Zahir Shah s/o Murad Khan Ander Sher, Peshawar, Pakistan; c/o Ahmed Shah s/o Painda Mohammad al-Karim Set, Peshawar, Pakistan; c/o Alam General Store Shop 17, Awami Market, Peshawar, Pakistan (individual) [SDGT]

ZIDCO HOLDINGS (a.k.a. ZIDCO HOLDINGS (PVT) LTD), Po Box 1275, Harare, Zimbabwe; 88 Robert Mugabe Road, Harare, Zimbabwe [ZIMBABWE]

ZIGIC, Zoran; DOB 20 Sep 1958; POB Balte, Bosnia-Herzegovina; ICTY indictee (individual) [BALKANS]

ZIMBABWE DEFENCE INDUSTRIES (PVT) LTD., 10th Floor, Trustee House, 55 Samora Machel Avenue, Harare, Zimbabwe; P.O. Box 6597, Harare, Zimbabwe [ZIMBABWE]

ZIMBABWE IRON AND STEEL COMPANY (a.k.a. ZISCO; a.k.a. ZISCOSTEEL), Private Bag 2, Redcliff Zimbabwe, Zimbabwe; Phone No. 263-55-62401; Fax No. 263-55-68666 [ZIMBABWE]

ZIMBABWE MINING DEVELOPMENT CORPORATION (a.k.a. ZIMBABWE MINING DEVELOPMENT CORP.; a.k.a. ZMDC), MMCZ Building, 90 Mutare Rd., Harare, Zimbabwe; P.O. Box 4101, Harare, Zimbabwe; Phone No. 263-4-487014; Fax No. 263-4-487022 [ZIMBABWE]

ZIMONDI, Paradzai; DOB 4 Mar 1947; Zimbabwe Prisons Chief (individual) [ZIMBABWE]

ZIMOUSKY, Aliaksandr Leanidavich (a.k.a. SIMOWSKI, Aliaksandr Leanidavich; a.k.a. ZIMOUSKI, Akiaksandr Leanidavich; a.k.a. ZIMOUSKI, Alaksandr Leanidavich; a.k.a. ZIMOUSKY, Alaksandr Leanidavich; a.k.a. ZIMOVSKI, Alaksandr Leanidavich; a.k.a. ZIMOVSKI, Aleksandr Leonidovich; a.k.a. ZIMOVSKI, Alexander Leonidovich; a.k.a. ZIMOVSKI, Aliaksandr Leanidavich; a.k.a. ZIMOVSKY, Alaksandr Leanidavich; a.k.a. ZIMOVSKY, Aleksandr Leonidovich; a.k.a. ZIMOVSKY, Alexander Leonidovich; a.k.a. ZIMOVSKY, Aliaksandr Lieanidavich; a.k.a. ZIMOWSKI, Alaksandr Leanidavich; a.k.a. ZIMOWSKI, Aleksandr Leonidovich; a.k.a. ZIMOWSKI, Alexander Leonidovich; a.k.a. ZIMOWSKY, Alaksandr Leanidavich; a.k.a. ZIMOWSKY, Aleksandr Leonidovich; a.k.a. ZIMOWSKY, Alexander Leonidovich; a.k.a. ZIMOWSKY, Aliaksandr Leanidavich); DOB 10 Jan 1961; POB Germany; Head of the Belarusian State Television and Radio Company (BSTRC); Member of the Upper House of Parliament (individual) [BELARUS]

ZIMRE HOLDINGS LIMITED (a.k.a. WWW.ZHL.CO.ZW; a.k.a. ZIMRE), 9th Floor, Zimre Centre, Cnr. Leopold Takawira/Kwame Nkrumah Avenue, P.O. Box 4839, Harare, Zimbabwe; Phone No. 263-4-772963; Fax No. 263-4-772972 [ZIMBABWE]

ZIVAR; Vessel Registration Identification IMO 9260172 (vessel) [NPWMD]

ZOMOROUD; Vessel Registration Identification IMO 9138044 (vessel) [NPWMD]

ZUBAIDI, Muhammad Hamza (a.k.a. AL-ZUBAIDI, Mohammed Hamza; a.k.a. AL-ZUBAYDI, Muhammad Hamsa); DOB 1938; POB Babylon, Babil Governorate, Iraq; nationality Iraq; former prime minister (individual) [IRAQ2]

ZUBIAGA BRAVO, Manex; DOB 14 August 1979; POB Getxo Vizcaya Province, Spain; D.N.I. 16.064.664; Member ETA (individual) [SDGT]

ZULEKHA GENERAL TRADING LLC (a.k.a. ZULEIKHA GENERAL TRADING; a.k.a. ZULIKHA GENERAL TRADING), P.O. Box 5456, Ajman, United Arab Emirates; C.R. No. 32035 (United Arab Emirates) [SDNTK]

ZULKARNAEN (a.k.a. ARIF SUNARSO; a.k.a. ARIS SUMARSONO; a.k.a. ARIS SUNARSO; a.k.a. MURSHID; a.k.a. USTAD DAUD ZULKARNAEN; a.k.a. ZULKARNAIN; a.k.a. ZULKARNAN; a.k.a. ZULKARNIN); DOB 1963; POB Gebang village, Masaran, Sragen, Central Java, Indonesia; nationality Indonesia (individual) [SDGT]

ZULUAGA ALZATE, Diana Patricia, Paseo 5 de Julio, Barrio Libertad, San Antonio, Tachira, Venezuela; Calle 30 No. 3B-45, La Campina, Pereira, Risaralda, Colombia; c/o ORLANDO SABOGAL ZULUAGA E HIJOS & CIA S EN C, Ansermanuevo, Valle, Colombia; Avenida 17A No. 19-27, Barrio San Jose, Cucuta, Norte de Santander, Colombia; Carrera 3 No. 11-99, Cartago, Valle, Colombia; Calle 14 No. 30-153, Medellin, Antioquia, Colombia; citizen Colombia; nationality Colombia; Cedula No. 25246532 (Colombia) (individual) [SDNT]

ZULUAGA LINDO, Francisco Javier (a.k.a. GALINDO, Gabriel; a.k.a. “GORDO LINDO”), c/o SOCIEDAD SUPERDEPORTES LTDA., Bogota, Colombia; Calle 10 No. 46-45, Cali, Colombia; Calle 9 No. 28-50, Piso 3, Cali, Colombia; DOB 15 Jan 1970; POB Cali, Colombia; citizen Colombia; nationality Colombia; Cedula No. 16774828 (Colombia); Passport AE047754 (Colombia); alt. Passport AF869394 (Colombia) (individual) [SDNT]

ZUPLJANIN, Stojan; DOB 1951; POB Maslovare, Bosnia-Herzegovina; ICTY indictee (individual) [BALKANS]

ZVINAVASHE INVESTMENTS LTD. (a.k.a. LAMFONTINE FARM; a.k.a. ZVINAVASHE TRANSPORT), 730 Cowie Road, Tynwald, Harare, Zimbabwe; P.O. Box 3928, Harare, Zimbabwe [ZIMBABWE]

ZVINAVASHE, Vitalis; DOB 27 Sep 1943; Politburo Member & Retired Commander of Zimbabwe Defense Forces (individual) [ZIMBABWE]

Dated: June 5, 2009.
Adam J. Szubin,
Director, Office of Foreign Assets Control.

[FR Doc. E9-13801 Filed 6-22-09; 8:45 am]

BILLING CODE 4811-45-P